DEPARTMENT OF HOUSING AND URBAN DEVELOPMENT

[Docket No. FR-4723-N-01]

Super Notice of Funding Availability (SuperNOFA) for HUD's Discretionary Grant Programs for Fiscal Year 2002

AGENCY: Office of the Secretary, HUD.

ACTION: Super Notice of Funding Availability (SuperNOFA) for HUD Discretionary Grant Programs.

SUMMARY: This Fiscal Year (FY) 2002 SuperNOFA announces the availability of approximately $2.2 billion in HUD program funds covering 41 grant categories within programs operated and administered by HUD offices. The General Section of this SuperNOFA provides the application procedures and requirements that are applicable to all the programs in this SuperNOFA. The Program Section of this SuperNOFA provides a description of the specific programs for which funding is made available and describes any additional procedures and requirements that are applicable to a specific program. Please be sure you read both the General Section and the Program Section of this SuperNOFA to ensure you respond to all the requirements for funding.

APPLICATION DUE DATES: The information in this “APPLICATION DUE DATES” section applies to all programs that are part of this SuperNOFA. You, the applicant, must submit a completed application to HUD on or before the respective program's application due date. Application due dates can be found in the HUD FY 2002 SuperNOFA Funding Chart located in this General Section. Information for each program is reiterated in the appropriate Program Section of this SuperNOFA. HUD will not accept any applications sent by facsimile (fax).

ADDRESSES AND APPLICATION SUBMISSION PROCEDURES: New Security Procedures. HUD has implemented new security procedures that apply to application submission. Please read the following instructions carefully and completely. HUD's new policy is:

• No hand deliveries will be accepted;

• Applications sent to the Robert C. Weaver HUD Headquarters Building or the Public and Indian Housing Grants Management Center may only be shipped using DHL, Falcon Carrier, Federal Express (FedEx), United Parcel Service (UPS), or United States Postal Service (USPS);

• Applications submitted to HUD Field Offices must be sent via the USPS;

• All mailed applications must be postmarked on or before midnight of their due date and received within 15 days of the due date; and,

• All applicants who mail applications must have a Certificate of Mailing (USPS Form 3817) as their documentary evidence that the application was filed on time.

Addresses. You, the applicant, must submit a complete application and the required number of copies to the locations identified in the Program Section of this SuperNOFA. When submitting your application, you must refer to the name of the program for which you are seeking funding.

If your application is due to the Robert C. Weaver Building, HUD Headquarters, you must send the application to the following address: Department of Housing and Urban Development, 451 Seventh Street, SW, Washington, DC 20410. Applications submitted to the Public and Indian Housing Grants Management Center (GMC) should be addressed to Grants Management Center, 501 School Street, SW, Suite 800, Washington, DC 20024. (See the HUD FY 2002 SuperNOFA Funding Chart or Program Section for room location and additional information regarding the addresses for application submission.) Please make sure that you note the correct room number to ensure that your application is not misdirected. Addresses for HUD Field Offices are listed in Appendix A-1 of the General Section of this SuperNOFA.

Applications Sent by Overnight/Express Mail Delivery to HUD Headquarters or the Public and Indian Housing Grants Management Center. If your application is sent by overnight delivery or express mail to HUD Headquarters or the Public and Indian Housing Grants Management Center, your application will be filed on time if it is received before or on the application due date, or when you submit documentary evidence that your application was placed in transit with the overnight delivery/express mail service no later than the application due date. Delivery must be made during HUD's Headquarters business hours, between 8:30 AM and 5:30 PM, Eastern Time, Monday through Friday.

Copies of Applications. The Program Section of this SuperNOFA may specify that to facilitate the processing and review of your application, one or more copies of the application also must be sent to an additional HUD location (for example, a copy to the HUD Field Office and the original application to HUD Headquarters). Please follow the directions of the Program Section to ensure that you submit your application to the proper location(s). If you are required to submit applications to HUD Headquarters and Field Offices, timeliness of submission will be based on the time your application is received at HUD Headquarters.

FOR APPLICATION KITS, FURTHER INFORMATION AND TECHNICAL ASSISTANCE: The information in this section is applicable to all programs that are part of this SuperNOFA. This section describes how you may obtain application kits, additional information about the SuperNOFA, and technical assistance. A guidebook to HUD programs titled “Connecting with Communities: A User's Guide to HUD Programs and the 2002 SuperNOFA process” is available from the SuperNOFA Information Center and the HUD website at www.hud.gov. This guidebook provides a brief description of all HUD programs, a description of the SuperNOFA programs, eligible applicants for these programs, and examples of how programs can work in combination to serve local community needs. To obtain a guidebook, application kit, or print copy of the General Section or program NOFA, call the SuperNOFA Information Center at 1-800-HUD-8929 or 1-800-HUD-2209 (TTY). Copies of all documents related to the SuperNOFA may be downloaded from HUD's website, www.hud.gov.

For Application Kits and SuperNOFA User Guide. HUD is pleased to provide you with instructions for applying for all HUD programs that are part of this SuperNOFA. The instructions are designed to guide you through the application process and ensure that your application addresses all requirements for the program funding you are seeking. For some announcements of funding availability in this SuperNOFA, HUD provides an application kit; for others, no application kit is required. Each Program Section will specify whether there is an application kit, or only the instructions in the SuperNOFA.

Please note that if there is a discrepancy between information provided in the application kit and the information provided in the published SuperNOFA, the information in the published SuperNOFA prevails. Therefore, please be sure to review your application submission against the requirements in the SuperNOFA.

You may request general information and application kits from the SuperNOFA Information Center (1-800-HUD-8929 or 1-800-HUD-2209 (TTY)). When requesting an application kit, please refer to the name of the program you are interested in. Be sure to provide your name, address (including zip code), and telephone number (including area code). To ensure sufficient time to prepare your application, requests for application kits can be made immediately following publication of the SuperNOFA. The SuperNOFA Information Center opens for business simultaneously with the publication of the SuperNOFA. You can also obtain information on this SuperNOFA and application kits for this SuperNOFA through the HUD website, www.hud.gov.

Consolidated Application Submissions. If you, the applicant, would like to apply for funding under more than one program in this SuperNOFA, you need only submit one original SF-424 and set of assurances and certifications, accompanied by the HUD-424M provided in this SuperNOFA. Once you have submitted one original set of forms, certifications, and assurances, you need send only copies of these standard items with any additional application you submit. Make sure to specify the correct program, however, on each copy of the SF-424 application form and indicate the program to which you have submitted the original signature forms for the standard assurances and certifications. Additionally, the Program Section may specify additional forms, certifications, assurances, or other information that may be required for a particular program in this SuperNOFA.

For Further Information. For answers to questions you may have about this SuperNOFA, you have several options. You may call the SuperNOFA Information Center at 1-800-HUD-8929 or 1-800-HUD-2209 (TTY) between the hours of 9:00 AM and 8:00 PM Eastern Time or you may contact the HUD Office or Processing Center serving your area at the telephone number listed in the SuperNOFA for the program in which you are interested. You may also obtain information on this SuperNOFA and application kits for this SuperNOFA through the HUD website, www.hud.gov.

For Technical Assistance. Before the application due date, HUD staff will be available to provide you with general guidance and technical assistance about this SuperNOFA. However, HUD staff are not permitted to assist in preparing your application. Following selection of applicants, but before awards are made, HUD staff are available to assist in clarifying or confirming information that is a prerequisite to the offer of an award or Annual Contributions Contract (ACC) by HUD.

Satellite Broadcasts. HUD will hold information broadcasts via satellite for potential applicants to learn more about the programs in this SuperNOFA and preparation of the applications. For more information about the date and time of each broadcast, consult the HUD website, www.hud.gov.

Streamlining Grants. The Federal Financial Assistance Management Improvement Act of 1999 (Public Law 106-107) directs each Federal agency to develop and implement a plan that, among other things, streamlines and simplifies the application, administrative, and reporting procedures for Federal financial assistance programs administered by the agency. This law also requires the Director of the Office of Management and Budget (OMB) to direct, coordinate, and assist Federal agencies in establishing (1) a common application and reporting system and, (2) an interagency process for addressing ways to streamline and simplify Federal financial assistance application and administrative procedures and reporting requirements for program applicants.

This law also requires OMB to consult with the grantee community as it works with the Federal agencies to develop and implement the course of action that would be undertaken by the Federal agencies to establish an electronic site for accessing grant information and applications. Over the last year, HUD has held outreach sessions informing you of the goals of this new law and seeking your input as the Federal agencies work together to achieve implementation. To find out about the work being done by the Federal agencies to streamline and consolidate the grant application and reporting requirements please go to www.iaegc.gov.

HUD is an active member in the Federal agency working group working to streamline grant application requirements and has established a website where you can obtain information about all grant programs within HUD. You can access this site from our homepage at www.hud.gov by clicking on “HUD Program inventory.” In the future, HUD plans to link this site to grant information of other Federal agencies. If you are interested in finding out more about the “Federal Commons” and the work being done by other agencies, please visit the Inter-Agency Electronic Grants Committee (IAEGC) website at www.fedcommons.gov.

Introduction to the FY 2002 SuperNOFA

HUD'S FY 2002 SUPERNOFA PROCESS

Background

This is the fifth year HUD is issuing a SuperNOFA for the majority of its competitive grant programs and other financial assistance programs. The SuperNOFA announces the availability of the majority of HUD's discretionary funds. The document is designed to simplify the application process, bring consistency and uniformity to the application and selection process, and make it easier to find funding opportunities available from the Department because they are released early in the year and at the same time. Equally important, the SuperNOFA approach is designed to increase the ability of applicants to consider and apply for funding under a wide variety of HUD programs. The SuperNOFA provides a “menu” of HUD programs. From this menu, communities will be made aware of funding available for their jurisdictions. Non-profit organizations, public housing agencies, local and State governments, tribal governments and tribally-designated housing entities, veterans service organizations, faith-based and other community-based non-profit organizations, and others will be able to identify the programs for which they are eligible for funding.

By providing access to information about available funding at one time, HUD believes applicants are better able to coordinate service within communities to avoid duplication and more efficiently serve those most in need of assistance.

HUD's Strategic Goals

As part of its internal strategic planning processes, the Department has re-assessed its policy goals and priorities for the next five years and, as a result, is in the process of updating the HUD Strategic Plan framework. Activities funded through this SuperNOFA are meant, to the extent practicable, to support the new Strategic Goals described below. Note that these goals reflect an interim change to HUD's Strategic Plan. In FY 2002, the Department will fully revise its Strategic Plan after consultation with stakeholders and Congress.

Strategic Goal 1: Make the home-buying process less complicated, the paperwork less demanding and the mortgage process less expensive. This is a new Strategic Goal that will help to focus the Department's work in enforcing the Real Estate Settlement Procedures Act and countering predatory lending. HUD's activities under this Strategic Goal will help to make homeownership more accessible and less expensive for millions of families and help protect them from predatory lending.

Strategic Goal 2: Help families move from rental housing to homeownership. HUD's second Strategic Goal focuses on HUD's activities to expand homeownership opportunities for minorities, persons with disabilities, and other Americans, and to help families that rent be able to afford the costs of rental housing.

Strategic Goal 3: Improve the quality of public housing and provide more choices for its residents. HUD's goals for its public and assisted housing programs go beyond simply providing affordable housing. HUD also strives to improve the quality of the housing opportunities provided to families in public and assisted housing. This Goal focuses on improving the management accountability and physical conditions of public and assisted housing and on maximizing the potential of these programs to help families make progress towards self-sufficiency and become homeowners.

Strategic Goal 4: Strengthen and expand faith-based and other community partnerships that enhance communities. HUD has a long and rich history of cooperating with faith-based and other community-based organizations to address the needs of underserved communities, including the needs of those Americans for whom homelessness, the lack of affordable housing, and limited alternatives for special needs housing lead to despair and hopelessness. Building on this history, HUD plans to strengthen and expand its partnerships with faith-based and other community-based groups to take further advantage of their capacity to provide quality services to communities and families.

Strategic Goal 5: Effectively address the challenge of homelessness. HUD is the primary agency responsible for providing housing and related resources to prevent homelessness and help homeless families and individuals move to permanent housing. HUD has a number of objectives with respect to its homelessness work, including that of ending chronic homelessness in 10 years.

Strategic Goal 6: Embrace high standards of ethics, management and accountability. In order to be effective in meeting HUD's other Strategic Goals, it is essential that HUD and HUD's partners embrace high standards of ethics, management, and accountability. The Secretary has established improved ethics and accountability of HUD staff and HUD's partners as “perhaps the most important” of HUD's priorities. This Goal cuts across all of HUD's programs and applies to each HUD employee and to every organization that partners with HUD to help HUD accomplish its mission.

Strategic Goal 7: Ensure equal opportunity and access to housing. HUD's core mission has always been to help families find affordable and decent housing. This mission will be fulfilled when all Americans are given an equal opportunity to buy or rent housing that matches their individual needs. Unfortunately, instances of discrimination against minorities, architectural barriers to persons with disabilities, and a lack of housing options for the elderly have all combined to exclude some Americans from enjoying the fruits of America's prosperity. HUD is committed to ending the practice of discrimination through enforcement of fair housing laws as well as through educating lenders, landlords, and tenants in complying with the laws.

Strategic Goal 8: Support community and economic development efforts. HUD funds a variety of programs that help to support the community and economic development efforts of state and local communities. The largest of these programs is the Community Development Block Grant program. Other programs include Section 108 loan guarantees, the Brownfields Economic Development Initiative, the Lead Hazard Reduction and the Healthy Homes Program, the University Partnership Programs, the Indian Community Development Block Grant and Renewal Communities, Empowerment Zones and Enterprise Communities. Additionally, HUD's Native eDGE initiative supports a telephone call center, a publications clearinghouse, website, and a technical assistance information center so that tribes, Native Americans, lending institutions, and private businesses wishing to do business with Tribal governments and entities can collaborate to promote economic growth.

Changes in the SuperNOFA Process for FY 2002

Rating Factors. Applications for most programs in this SuperNOFA will be rated according to five standard Rating Factors (see Section III (C) below). For FY 2002, Rating Factor 5, “Coordination, Self-Sufficiency and Sustainability,” has been expanded to reflect this Administration's priority for fostering self-sufficiency.

Coordination means you, the applicant, are working with other organizations that are not directly participating in your proposed work activities and have agreed to share information and outcomes that result from the successful completion of your activities, so that the other organizations and members of the community can benefit from the results and improve the overall success of related activities within the community. The goal of coordination is to ensure that programs do not operate in isolation. Coordination looks beyond the support given to the applicant's program claimed by the applicant under Rating Factor 4, Leveraging, and asks “How does the applicant's program fit into other activities and programs that are being carried out by others in the community?”

Self-sufficiency refers to the extent to which proposed activities can result in increased independence and empowerment. Increased independence can result from expanded job opportunities, homeownership, or housing in a wider range of neighborhoods, additional educational opportunities, and improved living environments.

Sustainability refers to two distinct issues: (1) The potential for an applicant organization to become financially self-sustaining; and, (2) the potential of a specific project or activity to be sustained into the future absent any HUD funding. Just as a business plan presents to a commercial lender an outline of a course of action for an organization to become profitable, the information in the application for this factor will outline a realistic path for the applicant to become financially independent without a need for continued HUD funding.

Applicant Debriefing. Beginning not less than 30 days after the awards for assistance are announced in the Federal Register, and for at least 120 days after awards for assistance are announced, HUD will provide any requesting applicant with a debriefing on their application. All requests for debriefing must be made in writing or by email by the authorized official whose signature appears on the SF-424 or his or her successor in office. Submit your request to the person or organization identified as the Contact under the section entitled “Further Information and Technical Assistance” or as specified in the Program Section of the SuperNOFA under which you applied for assistance. Information provided to you during your debriefing will include, at a minimum, the final score you received for each rating factor, final evaluator comments for each rating factor, and the final assessment indicating the basis upon which assistance was provided or denied.

Points Deducted for Poor Performance. As part of HUD's efforts to place greater emphasis on accountability, applicants who received prior awards and failed to meet their program goals may have points deducted from their rating score. Specific details on how points will be deducted are included, as applicable, in the Program Section of the SuperNOFA.

New Programs and Changes to Programs. The FY 2002 SuperNOFA includes the following new funding opportunities:

• Housing Counseling Services Targeting the Colonias;

• Public Housing Resident Opportunity and Self-Sufficiency (ROSS) for Neighborhood Networks Program; and

• Public Housing Resident Opportunity and Self-Sufficiency (ROSS) for Homeownership Supportive Services Program.

Funding opportunities that have changed significantly or been renamed include:

• Housing Choice Voucher (HCV) Family Self-Sufficiency (FSS) Program Coordinators Program, replacing Family Self Sufficiency (FSS) Program Coordinators;

• Healthy Homes Demonstration Program, replacing the Healthy Homes Demonstration and Education Program of Fiscal Year 2001; and

• Healthy Homes and Lead Technical Studies, replacing the program for Healthy Homes Research.

Not Available for FY 2002. Funding opportunities that were part of the FY 2001 SuperNOFA but are not available in FY 2002 are:

• Public Housing Drug Elimination—Technical Assistance Program (DETAP);

• Indian Housing Drug Elimination Program;

• Drug Elimination New Approach Anti-Drug Program;

• Drug Elimination Grants for Multifamily Low Income Housing; and,

• Community Housing Development Organization (CHDO) TA.

Funding will be announced later in the year for:

• Revitalization of Severely Distressed Public Housing (HOPE VI);

• Homeownership Research Studies;

• Lead Elimination Action Program (LEAP); and

• Urban Scholars Fellowship Program.

Funding Notices Issued Prior to the SuperNOFA. Due to statutory deadlines for the obligation of funds or for other reasons, there are several programs that have been issued prior to the SuperNOFA. These include:

• Fair Share Allocation of Incremental Voucher Funding;

• Community Development Work Study Program; and

• Capacity Building for Community Development and Affordable Housing. Information on these programs is available on the HUD website at www.hud.gov.

Changes to the HOPE VI Program. As indicated earlier, HOPE VI is not included in the FY 2002 SuperNOFA. The HOPE VI NOFA will be published separately in the Federal Register at a later date and will be posted on the HUD website, www.hud.gov. Each eligible PHA will receive a HOPE VI Application Kit that will also include the published NOFA. HUD anticipates that the FY 2002 HOPE VI NOFA will reflect some significant changes. Thresholds and rating criteria are being re-examined with a particular emphasis on issues of project readiness, extent of severe distress, leverage, grant amounts and distribution, homeownership, and relocation-related services.

Changes to Policy Priorities. Section VI of this SuperNOFA has been updated to reflect the changes in policy priorities. Please be sure to read the section carefully. Among the new priorities are the inclusion of faith-based and other community-based organizations in program development and implementation, and an emphasis on services to the Colonias. This SuperNOFA also reflects administrative initiatives announced by the Secretary, including a commitment to core values and ethical business practices and an intention to foster intergovernmental partnership and strengthen state and local participation in Federal programs.

Organization of the SuperNOFA

The SuperNOFA is divided into two major sections, the General Section and the Program Section. The General Section of the SuperNOFA describes the procedures and requirements applicable to all applications. The Program Section of the SuperNOFA describes each program and program component that is part of this SuperNOFA. For each funding opportunity, the Program Section describes the eligible applicants, eligible activities, factors for award, and any additional requirements or limitations. Please read both sections carefully to be sure your application is complete. Your attention to the sections will ensure that you apply for funding for which your organization is eligible and that you fulfill all the requirements for application submission.

As part of the simplification of this funding process and to avoid duplication of effort, the SuperNOFA provides for consolidated applications for several of the programs that are part of this SuperNOFA. HUD programs that provide assistance for, or complement, similar activities (for example, the Continuum of Care programs and CPD Technical Assistance programs) have a consolidated application that reduces the administrative and paperwork burden applicants would otherwise encounter. The Program Chart in this introductory section of the SuperNOFA identifies the programs that have been consolidated and for which a consolidated application is made available to eligible applicants.

HUD provides copies of all required forms in this publication. The standard forms, certifications, and assurances applicable to all programs, or the great majority of programs, in the SuperNOFA follow the General Section as Appendix B. The forms and any additional certifications and assurances that are unique to the individual program will follow that program section of the SuperNOFA.

The specific statutory and regulatory requirements of the programs that are part of this SuperNOFA continue to apply to each program. The SuperNOFA will identify, where necessary, the statutory requirements and differences applicable to the specific programs. Please pay careful attention to the specific submission requirements that are identified for each funding opportunity. Not all applicants are eligible to receive assistance under all funding opportunities identified in this SuperNOFA.

The Programs of This SuperNOFA and the Amount of Funds Allocated

The funding opportunities that are part of this SuperNOFA are identified in the following chart. The amount of funds available is based on funds appropriated in FY 2002 and funds recaptured from prior years' appropriations. In the event that HUD recaptures program funds or other funds become available for a program, HUD reserves the right to increase the available funding by these additional amounts.

The chart also includes the application due date, the OMB approval number for the information collection requirements, and the Catalog of Federal Domestic Assistance (CFDA) number for each funding opportunity.

BILLING CODE 4210-32-P

Paperwork Reduction Act Statement. The information collection requirements in this SuperNOFA have been approved by OMB under the Paperwork Reduction Act of 1995 (44 U.S.C. 3501-3520). The preceding chart provides the OMB approval number for each program that is part of this SuperNOFA. Where the chart notes that an OMB number is pending, this means that HUD has submitted the information to OMB to obtain an approval number and HUD's request for the number is pending. As soon as HUD receives the approval number, the number will be published in the Federal Register and provided to the SuperNOFA Information Center. Under the Paperwork Reduction Act, an agency may not conduct or sponsor, and a person is not required to respond to, a collection of information unless the collection displays a valid control number.

General Section of the SuperNOFA

I. Authority, Purposes of the FY 2002 SuperNOFA, Funding Amounts, Restrictions Concerning Tobacco Products and Eligible Applicants and Activities

(A) Authority. HUD's authority for making funding available under this SuperNOFA is the FY 2002 Department of Veterans Affairs and Housing and Urban Development and Independent Agencies Appropriations Act, Public Law 107-73, approved November 26, 2001 (FY 2002 HUD Appropriations Act). Generally, this statement of authority is not repeated in the individual program sections of this SuperNOFA. The authority provision in the program sections identifies additional statutes and regulations that authorize the requirements listed for the funding competitions that make up this SuperNOFA.

(B) Purposes. The purposes of this SuperNOFA are to:

(1) Make funding available to empower communities and residents. The funding made available by this SuperNOFA will assist community leaders and residents, including low- and moderate-income residents and faith-based and other community-based grassroots organizations, in using HUD funds to develop viable communities and provide decent housing for all citizens, without discrimination.

(2) Simplify the application process for funding under HUD programs. For the majority of funding in this year's SuperNOFA, the SuperNOFA continues to provide a single, uniform set of rating factors and submission requirements. This year's SuperNOFA also allows you, the applicant, to apply for more than one program with a single application.

(3) Promote comprehensive approaches to housing and community development. Through the SuperNOFA process, HUD encourages you, the applicant, to focus on the interrelationships that exist in your community and in the use of HUD's funding programs to build community-wide efforts that coordinate the resources of multiple applicants and programs. To successfully address community needs, solve community problems, and take advantage of existing resources, HUD encourages members of a community to join together and pool all available resources in a common, coordinated effort. By making all of HUD's competitive funding available in one document, HUD encourages you, the applicant, to be able to relate the activities proposed for funding under this SuperNOFA to the community's Consolidated Plan and Analysis of Impediments to Fair Housing Choice (AI). Applicants who demonstrate a coordinated effort will obtain higher scores than applicants who do not.

(4) Promote self-sufficiency and economic opportunity for the persons and communities being served by your program of activities. HUD's goal is to promote the self-sufficiency of those most in need of assistance, ensuring that the funds provided can result in measurable progress in increasing homeownership opportunities for low income and minority households, providing training and job opportunities so individuals and families can be economically self-sufficient, and better coordinating the delivery of services to homeless persons, persons with disabilities and minorities or residents where English may be a second language.

(C) Funding Available. As noted in the Introductory Section of this SuperNOFA, the HUD programs in this SuperNOFA are allocated amounts based on appropriated funds. If HUD recaptures funds in any program, HUD reserves the right to increase the available funding by those amounts.

(D) Restrictions on the Use of HUD Funds in Support of the Sale of Tobacco Products. Section 211 of the FY 2001 HUD Appropriations Act prohibits the use of HUD funds to construct, operate, or otherwise benefit a facility or facilities with a designated portion that sells or intends to sell predominantly cigarettes or other tobacco products. The Act defines the predominant sale of cigarettes or other tobacco products to mean sales representing more than 35 percent of annual in-store, non-fuel sales. Therefore, any programs funded with remaining or recaptured FY 2001 funds must adhere to this prohibition.

(E) Eligible Applicants and Eligible Activities. The Program Section of the SuperNOFA describes the eligible applicants and eligible activities for each program.

II. Requirements and Procedures Applicable to All Programs

Except as may be modified in the Program Section of this SuperNOFA, the requirements, procedures and principles listed below apply to all programs that are part of this SuperNOFA. Please read the Program Section of the SuperNOFA for additional requirements or information.

(A) Statutory Requirements. To be eligible for funding under this SuperNOFA, you, the applicant, must meet all statutory and regulatory requirements applicable to the program or programs for which funding is sought. If you need copies of the program regulations, they are available from the SuperNOFA Information Center or through the HUD website, www.hud.gov. HUD will not consider an application from an ineligible applicant. See the Program Section for instructions on how HUD will respond to proposed activities that are ineligible. With the exception of the Section 202 and Section 811 programs, HUD may also eliminate the ineligible activities from funding consideration and reduce grant amounts accordingly.

(B) Threshold Requirements.

(1) Compliance with Fair Housing and Civil Rights Laws.

(a) With the exception of federally recognized Indian tribes and their instrumentalities, all applicants and their subrecipients must comply with all Fair Housing and Civil Rights laws, statutes, regulations, and Executive Orders as enumerated in 24 CFR 5.105(a). If you are a federally recognized Indian tribe, you must comply with the non-discrimination provisions enumerated at 24 CFR 1003.601, as applicable. In addition to these requirements, there may be program-specific threshold requirements identified in the Program Sections of the SuperNOFA.

(b) If you, the applicant:

(i) Have been charged with a systemic violation of the Fair Housing Act alleging ongoing discrimination;

(ii) Are a defendant in a Fair Housing Act lawsuit filed by the Department of Justice alleging an on-going pattern or practice of discrimination; or,

(iii) Have received a letter of non-compliance findings under Title VI, Section 504, or Section 109, and if the charge, lawsuit, or letter of findings has not been resolved to HUD's satisfaction before the application deadline stated in the individual program NOFA, you may not apply for assistance under this SuperNOFA. HUD will not rate and rank your application. HUD's decision regarding whether a charge, lawsuit, or a letter of findings has been satisfactorily resolved will be based upon whether appropriate actions have been taken to address allegations of on-going discrimination in the policies or practices involved in the charge, lawsuit, or letter of findings.

(2) Conducting Business In Accordance With Core Values and Ethical Standards. Entities subject to 24 CFR Parts 84 and 85 (most non-profit organizations and State, local and tribal governments or government agencies or instrumentalities who receive Federal awards of financial assistance) are required to develop and maintain a written code of conduct (see Sections 84.42 and 85.36(b)(3)). Consistent with regulations governing specific programs, your code of conduct must: prohibit real and apparent conflicts of interest that may arise among officers, employees, or agents; prohibit the solicitation and acceptance of gifts or gratuities by your officers, employees and agents for their personal benefit in excess of minimal value; and, outline administrative and disciplinary actions available to remedy violations of such standards. If awarded assistance under this SuperNOFA, you will be required, prior to entering into a grant agreement with HUD, to submit a copy of your code of conduct and describe the methods you will use to ensure that all officers, employees, and agents of your organization are aware of your code of conduct.

(3) Other Threshold Requirements. The Program Section for the funding for which you are applying may specify other threshold requirements. Additional threshold requirements may be identified in the discussion of “eligibility” requirements in the Program Section.

(C) Additional Non-discrimination Requirements. You, the applicant, and your subrecipients must comply with the Americans with Disabilities Act of 1990 (42 U.S.C. 1201 et seq.) and Title IX of the Education Amendments Act of 1972 (20 U.S.C. 1681 et seq).

(D) Affirmatively Furthering Fair Housing. Under Section 808(e)(5) of the Fair Housing Act, HUD is obliged to affirmatively further fair housing. HUD requires the same of its grant recipients. Unless otherwise specified in the Program Section of this SuperNOFA, if you are a successful applicant, you will have a duty to affirmatively further fair housing opportunities for classes protected under the Fair Housing Act. Protected classes are color, national origin, religion, sex, disability or perceived ability, and family status. Unless otherwise instructed in the Program Section of this SuperNOFA, your application must include specific steps to:

(1) Overcome the effects of impediments to fair housing that were identified in the jurisdiction's Analysis of Impediments (AI) to Fair Housing Choice;

(2) Remedy discrimination in housing; and/or

(3) Promote fair housing rights and fair housing choice.

Further, you, the applicant, have a duty to carry out the specific activities provided in your responses to the SuperNOFA rating factors that address affirmatively furthering fair housing. Please see the Program Section of this SuperNOFA for further information.

The requirements to affirmatively further fair housing apply to:

• Alaskan Native/Native Hawaiian Institutions Assisting Communities (AN/NHIAC);

• Assisted Living Conversion Program (ALCP) for Eligible Multifamily Housing Projects;

• Brownfields Economic Development Initiative (BEDI);

• Community Outreach Partnership Centers (COPC);

• Continuum of Care Homeless Assistance Programs (SHP, Shelter Plus Care, Section 8 Moderate Rehab);

• Fair Housing Initiatives Program (FHIP);

• Funding Availability for Rental Certificate/Housing Choice Voucher Family Self-Sufficiency (FSS) Program;

• Healthy Homes Demonstration Program;

• Healthy Homes Initiative and Lead Technical Studies;

• Hispanic-Serving Institutions Assisting Communities (HSIAC);

• Historically Black Colleges and Universities (HBCU) Program;

• Housing Counseling;

• Housing Opportunities for Persons With AIDS (HOPWA);

• Lead Hazard Control Program;

• Mainstream Housing Opportunities for Persons with Disabilities;

• Public Housing Resident Opportunities and Self-Sufficiency (ROSS) Program;

• Rental Assistance for Non-Elderly Persons with Disabilities in Support of Designated Housing Plans;

• Rental Assistance for Non-Elderly Persons with Disabilities Related to Certain Developments;

• Resident Opportunities for Self-Sufficiency (ROSS) for Homeownership Supportive Services;

• Rural Housing and Economic Development (RHED);

• Section 202 Supportive Housing for Elderly Persons;

• Section 811 Supportive Housing for Persons with Disabilities;

• Self-Help Homeownership Opportunity Program (SHOP);

• Service Coordinators in Multifamily Housing; and

• YouthBuild Program.

(E) Economic Opportunities for Low- and Very Low-Income Persons (Section 3). Certain programs in this SuperNOFA require recipients of assistance to comply with Section 3 of the Housing and Urban Development Act of 1968 (Section 3), 12 U.S.C. 1701u (Economic Opportunities for Low- and Very Low-Income Persons in Connection with Assisted Projects) and the HUD regulations at 24 CFR part 135, including the reporting requirements at subpart E. Section 3 requires recipients to ensure that, to the greatest extent feasible, training, employment and other economic opportunities will be directed to low- and very-low income persons, particularly those who are recipients of government assistance for housing, and business concerns which provide economic opportunities to low- and very low-income persons. As noted in the Program Section of this SuperNOFA, Section 3 is applicable to the following programs:

• Alaska Native/Native Hawaiian Institutions Assisting Communities (AN/NHIAC);

• Assisted Living Conversion Program (ALCP);

• Brownfields Economic Development Initiative (BEDI);

• Community Development Block Grant Program for Indian Tribes and Alaska Native Villages;

• Continuum of Care Homeless Assistance Programs;

• Healthy Homes and Lead Technical Studies;

• Healthy Homes Demonstration Program;

• Hispanic-Serving Institutions Assisting Communities (HSIAC);

• Historically Black Colleges and Universities (HBCU) Program;

• Housing Opportunities for Persons With AIDS (HOPWA);

• Lead Hazard Control;

• Resident Opportunities and Self-Sufficiency Program (ROSS);

• Section 202 Supportive Housing for the Elderly Program;

• Section 811 Supportive Housing for Persons with Disabilities Program.

• Self-Help Homeownership Opportunity Program (SHOP); and

• YouthBuild Program.

(F) Ensuring the Participation of Small Businesses, Small Disadvantaged Businesses, and Women-Owned Businesses. HUD is committed to ensuring that small businesses, small disadvantaged businesses, and women-owned businesses participate fully in HUD's direct contracting and in contracting opportunities generated by HUD grant funds. Too often, these businesses still experience difficulty accessing information and successfully bidding on Federal contracts. State, local, and tribal governments are required by 24 CFR 85.36(e) and non-profit recipients of assistance (grantees and sub-grantees) by 24 CFR 84.44(b), to take all necessary affirmative steps in contracting for purchase of goods or services to assure that minority firms, women's business enterprises, and labor surplus area firms are used when possible, or as specified in the Program Section.

(G) Relocation. The relocation requirements of the Uniform Relocation Assistance and Real Property Acquisition Policies Act of 1970, as amended, and the implementing government-wide regulation at 49 CFR part 24 cover any person who moves permanently from real property or moves personal property from real property directly because of acquisition, rehabilitation, or demolition for an activity undertaken with HUD assistance. Some HUD program regulations also cover persons who are temporarily relocated.

Applicants should review the regulations for the programs for which they are applying when planning their project.

(H) Forms, Certifications, and Assurances. You, the applicant, are required to submit signed copies of the standard forms, certifications, and assurances listed in this section, unless the requirements in the Program Section specify otherwise. Also, the Program Section may specify additional forms, certifications, assurances or other information that may be required for a particular program in this SuperNOFA.

As part of HUD's continuing efforts to improve the SuperNOFA process, several of the required standard forms have been simplified this year. The standard forms, certifications, and assurances are:

• Standard Form for Application for Federal Assistance (SF-424) (which includes civil rights/fair housing certification);

• Federal Assistance Funding Matrix and Certifications, (HUD-424M);

• Standard Form for Budget Information—Non-Construction Programs (SF-424A) or Standard Form for Budget Information-Construction Programs (SF-424C), as applicable;

Standard Form for Assurances—Non-Construction Programs (SF-424B) or Standard Form for Assurances—Construction Programs (SF-424D), as applicable;

• Drug-Free Workplace Certification (HUD-50070);

• Certification of Payments to Influence Federal Transaction (HUD-50071) and, if engaged in lobbying, the Disclosure Form Regarding Lobbying (SF-LLL) (federally recognized tribes and tribally designated housing entities (TDHEs) established by federally recognized Indian tribes as a result of the exercise of the tribe's sovereign power are excluded from coverage of the Byrd Amendment, but State recognized Indian tribes and TDHEs established under State law are required to submit this certification);

• Applicant/Recipient Disclosure/Update Report (HUD-2880);

• Certification Regarding Debarment and Suspension (HUD-2992) as required by 24 CFR 24.510 (The provisions of 24 CFR part 24 apply to the employment, engagement of services, awarding of contracts, sub-grants, or funding of any recipients, or contractors or subcontractors, during any period of debarment, suspension, or placement in ineligibility status, and a certification is required);

• Certification of Consistency with RC/EZ/EC Strategic Plan (HUD-2990), if applicable;

• Certification of Consistency with the Consolidated Plan (HUD-2991) if applicable;

• Acknowledgment of Application Receipt (HUD-2993); and,

• Client Comments and Suggestions (HUD 2994).

Copies of these standard forms follow this General Section of the SuperNOFA. Copies of forms that are particular to an individual program follow the funding information for that program. Also included in Appendix B to the General Section is the Funding Application for the Housing Choice Voucher Program (HUD 52515).

Note: Forms SF-424A and SF-424C ask for information which is similar to the information required by form HUD 4123—Cost Summary which is listed as a required form under the ICDBG Program Section of this SuperNOFA and which is a required form for that program. Also note that there are assurances separate from SF-424B and 424D for the ICDBG program, which are specific to that program.

(I) OMB Circulars and Government-wide Regulations Applicable to Grant Programs. Certain OMB circulars also apply to programs in this SuperNOFA. The policies, guidance, and requirements of OMB Circular A-87 (Cost Principles Applicable to Grants, Contracts and Other Agreements with State and Local Governments), OMB Circular A-21 (Cost Principles for Education Institutions), OMB A-122 (Cost Principles for Nonprofit Organizations), OMB Circular A-133 (Audits of States, Local Governments, and Non-Profit Organizations), and the regulations in 24 CFR part 84 (Grants and Agreements with Institutions of Higher Education, Hospitals, and other Non-Profit Organizations), and 24 CFR part 85 (Administrative Requirements for Grants and Cooperative Agreements to State, Local, and Federally recognized Indian tribal governments), may apply to the award, acceptance, and use of assistance under the programs of this SuperNOFA, and to the remedies for non-compliance, except when inconsistent with the provisions of the FY 2002 HUD Appropriations Act, other Federal statutes or regulations, or the provisions of this SuperNOFA. Compliance with additional OMB Circulars or government-wide regulations may be specified for a particular program in the Program Section of the SuperNOFA. Copies of the OMB Circulars may be obtained from EOP Publications; Room 2200; New Executive Office Building; Washington, DC 20503; telephone (202) 395-7332 (this is not a toll free number); or, from the website, www.whitehouse.gov/omb/circulars/index.html.

(J) Environmental Requirements. If you become a grantee under one of the programs in this SuperNOFA that assist physical development activities or property acquisition, you are generally prohibited from acquiring, rehabilitating, converting, leasing, repairing or constructing property, or committing or expending HUD or non-HUD funds for these types of program activities, until one of the following has occurred:

(1) HUD has completed an environmental review in accordance with 24 CFR part 50; or

(2) For programs subject to 24 CFR part 58, HUD has approved a grantee's Request for Release of Funds (HUD Form 7015.15) following a Responsible Entity's completion of an environmental review.

You, the applicant, should consult the Program Section of the SuperNOFA for the applicable program to determine the procedures for, timing of, and any exclusions from environmental review under a particular program. For applicants applying for funding under the Sections 202 or 811 Programs, please note the environmental review requirements for these programs.

(K) Conflicts of Interest. If you are a consultant or expert who is assisting HUD in rating and ranking applicants for funding under this SuperNOFA, you are subject to 18 U.S.C. 208, the Federal criminal conflict of interest statute, and the Standards of Ethical Conduct for Employees of the Executive Branch regulation published at 5 CFR part 2635. As a result, if you have assisted or plan to assist applicants with preparing applications for this SuperNOFA, you may not serve on a selection panel and you may not serve as a technical advisor to HUD for this SuperNOFA. All individuals involved in rating and ranking this SuperNOFA, including experts and consultants, must avoid conflicts of interest or the appearance of conflicts. Individuals involved in the rating and ranking of applications must disclose to HUD's General Counsel or HUD's Ethics Law Division the following information, if applicable: how the selection or non-selection of any applicant under this SuperNOFA will affect the individual's financial interests, as provided in 18 U.S.C. 208; or, how the application process involves a party with whom the individual has a covered relationship under 5 CFR 2635.502. The individual must disclose this information prior to participating in any matter regarding this SuperNOFA. If you have questions regarding these provisions or if you have questions concerning a conflict of interest, you may call the Office of General Counsel, Ethics Law Division, at 202-708-3815.

(L) Accessible Technology. The Rehabilitation Act Amendments of 1998 apply to all electronic information technology (EIT) used by a grantee for transmitting, receiving, using, or storing information to carry out the responsibilities of any federal grant awarded. The Act's coverage includes, but is not limited to, computers (hardware, software, word-processing, email, and web pages), facsimile machines, copiers and telephones. When developing, procuring, maintaining, or using EIT, funding recipients must ensure that the EIT allows employees with disabilities and members of the public with disabilities to have access to and use of information and data that is comparable to the access and use of information and data by employees and members of the public who do not have disabilities. If these standards impose a hardship on a funding recipient, they may provide an alternative means to allow the individual to use the information and data. However, no grantee will be required to provide information services to a person with disabilities at any location other than the location at which the information services is generally provided.

III. Application Selection Process

(A) Rating Panels. To review and rate applications, HUD may establish panels. These panels may include persons not currently employed by HUD. HUD may include these non-HUD employees to obtain certain expertise and outside points of view, including views from other Federal agencies.

(1) Rating. HUD will evaluate and rate all applications for funding that meet the threshold requirements and rating factors for award described in this SuperNOFA. This will include rating the applicant and/or the applicant's organization and staff for technical merit or threshold compliance as well as any sub-contractors, consultants, sub-recipients, and members of consortia that are firmly committed to the project. In evaluating applications for funding HUD will take into account applicants' past performance in managing funds, including the ability to account for funds appropriately; timely use of funds received either from HUD or other Federal, State, or local programs; meeting performance targets for completion of activities; and, number of persons to be served or targeted for assistance. HUD may include information at hand or available from public sources such as, but not limited to, newspapers, Inspector General or Government Accounting Office Reports or Findings, and/or hotline complaints that have been proven to have merit. In evaluating past performance, HUD may elect to deduct points from the rating score or establish threshold levels as specified under the Factors for Award in the Program Section of this SuperNOFA.

(2) Ranking. HUD will rank applicants within each program or, for Continuum of Care applicants, across the three programs identified in the Continuum of Care section of this SuperNOFA. HUD will rank applicants only against those applying for the same program funding. Where there are set-asides within a program competition, you, the applicant, will compete against only those applicants in the same set-aside competition.

(B) Threshold Requirements. HUD will review your application to determine whether it meets all of the threshold requirements described in Section II(B), above. Only applications that meet all of the threshold requirements will be eligible to be rated and ranked.

(C) Factors for Award Used to Evaluate and Rate Applications. For each program that is part of this SuperNOFA, the points awarded for the rating factors total 100. Depending upon the program for which you the applicant seek funding, the funding opportunity may provide for up to six bonus points as provided in paragraphs (1)-(3) of this Section III(C).

(1) RC/EZ/EC. The SuperNOFA provides for the award of two bonus points for eligible activities/projects that the applicant proposes to be located in federally designated Empowerment Zones (EZs), Enterprise Communities (ECs), Urban Enhanced Enterprise Communities (EECs), Strategic Planning Communities, or Renewal Communities (RCs), serve the residents of these areas, and are certified to be consistent with the area's strategic plan. (For ease of reference in the SuperNOFA, all these federally designated areas are collectively referred to as “RC/EZ/ECs” and residents of any of these federally designated areas as “RC/EZ/EC residents.”) The individual funding announcement will indicate if the bonus points are available for that funding. The SuperNOFA contains a certification that must be completed for the applicant to be considered for RC/EZ/EC bonus points. A list of RCs, EZs, ECs, EECs, and Strategic Planning Communities is attached to this General Section of the SuperNOFA as Appendix A-2 and is also available from the SuperNOFA Information Center, and the HUD website, www.hud.gov.

(2) Brownfield Showcase Communities: In the BEDI competition, two bonus points are available for federally designated Brownfields Show Case Communities. (Please see BEDI section of this SuperNOFA for additional information.) A list of the federally designated RCs, EZs, ECs, Enhanced ECs, and Brownfield Showcase Communities is available from the SuperNOFA Information Center or through the HUD website, www.hud.gov.

(3) Court-Ordered Consideration. For any application submitted by the City of Dallas, Texas, for funds under this SuperNOFA for which the City of Dallas is eligible to apply, HUD will consider the extent to which the strategies or plans in the application or applications will be used to eradicate the vestiges of racial segregation in the Dallas Housing Authority's low-income housing programs. The City of Dallas should address the effect, if any, that vestiges of racial segregation in Dallas Housing Authority's low-income housing programs have on potential participants in the programs covered by this SuperNOFA, and identify proposed actions for remedying those vestiges. HUD may add up to 2 bonus points to the score based upon this consideration. This special consideration results from an order of the U.S. District Court for the Northern District of Texas, Dallas Division. (This Section III(C)(2) is limited to applications submitted by the City of Dallas.)

(4) The Five Standard Rating Factors. The majority of programs in this SuperNOFA use the five rating factors described below. Additional details about the five rating factors and the maximum points for each factor are provided in the Program Section of the SuperNOFA. You, the applicant, should carefully read the factors for award as described in the Program Section of the SuperNOFA. HUD has established these five factors as the basic factors for award in every program that is part of this SuperNOFA. For a specific funding opportunity, however, HUD may have modified these factors to take into account specific program needs or statutory or regulatory limitations imposed on a program. The standard factors for award, except as modified in the program area section, are:

Factor 1: Capacity of the Applicant and Relevant Organizational Staff

Factor 2: Need/Extent of the Problem

Factor 3: Soundness of Approach

Factor 4: Leveraging Resources

Factor 5: Coordination, Self-Sufficiency and Sustainability

The Continuum of Care Homeless Assistance Programs have only two factors that receive points: Need and Continuum of Care.

(D) Negotiation. After HUD has rated and ranked all applications and made selections, HUD may require, depending upon the program, that all winners participate in negotiations to determine the specific terms of the grant agreement and budget. In cases where HUD cannot successfully conclude negotiations with a selected applicant or a selected applicant fails to provide HUD with requested information, an award will not be made to that applicant. In this instance, HUD may offer an award, and proceed with negotiations with the next highest-ranking applicant.

(E) Adjustments to Funding.

(1) HUD reserves the right to fund less than the full amount requested in your application to ensure the fair distribution of the funds and that the purposes of a specific program are met.

(2) HUD will not fund any portion of your application that: is not eligible for funding under specific program statutory or regulatory requirements; does not meet the requirements of this SuperNOFA; or may be duplicative of other funded programs or activities from previous years' awards or other selected applicants. Only the eligible portions of your application (including non-duplicative portions) may be funded.

(3) If funds remain after funding the highest-ranking applications, HUD may fund all or part of the next highest-ranking application in a given program. If you, the applicant, turn down an award offer, HUD will make an offer of funding to the next highest-ranking application. If funds remain after all selections have been made, remaining funds may be available for other competitions for each program where there is a balance of funds.

(4) In the event HUD commits an error that, when corrected, would result in selection of an otherwise eligible applicant during the funding round of this SuperNOFA, HUD may select that applicant when sufficient funds become available.

(F) Performance and Compliance Actions of Grantees. HUD will measure and address the performance and compliance actions of grantees in accordance with the applicable standards and sanctions of their respective programs.

IV. Application Submission Requirements

As discussed in the Introductory Section of this SuperNOFA, part of the simplification of this funding process is to reduce the duplication of effort that has been required of applicants in the past. Before the SuperNOFA process, many of HUD's applicants were required to complete and submit similar applications for HUD funded programs. As the Program Chart shows, the FY 2002 SuperNOFA provides, as did the previous SuperNOFAs, for consolidated applications for several of the programs for which funding is available under this SuperNOFA.

V. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or Federal holiday, your correction must be received by HUD on the next day that is not a Saturday, Sunday, or Federal holiday.) If the deficiency is not corrected within this time period, HUD will reject the application as incomplete and it will not be considered for funding. (Sections 202 and 811 Programs provide for appeal of rejection of an application on technical deficiency. Please see the Program Section for these programs for additional information and instructions.)

VI. HUD's FY 2002 SuperNOFA Policy Priorities

This Section describes important initiatives that HUD is encouraging applicants to undertake in implementing programs funded under this SuperNOFA. Seven SuperNOFA policy priorities are listed below. Each of the seven policy priorities support the interim Strategic Goals listed in Part II of this NOFA, as noted below.

(A) Increasing Homeownership Opportunities for Low- and Moderate-Income Persons, Persons with Disabilities, the Elderly, Minorities, and Families where English may be a Second Language. Too often these individuals and families are shut out of the housing market through no fault of their own. HUD encourages applicants to work aggressively to open up the realm of homeownership to many who want the joy, security, and sense of community that comes from owning a home of their own. Proposed activities can support Strategic Goals 1, 2, and 7.

(B) Improving the Quality of Public Housing and Providing More Choices for Its Residents. HUD wants to improve the quality of life for those living in public housing, not only by improving the physical surroundings of public housing developments, but by providing residents greater opportunities to move from public housing into homeownership opportunities or into a community with greater housing choices and better educational and employment opportunities. Proposed activities directly support Strategic Goal 3, but can also support Strategic Goals 4, and 7.

(C) Encouraging Accessible Design Features. As described in Section II (B) and (H), applicants must be in compliance with applicable civil rights laws including the Fair Housing Act, Section 504 of the Rehabilitation Act of 1973, and the Americans with Disabilities Act. These laws, and regulations implementing them, provide for nondiscrimination based on disability and require housing and facilities to incorporate certain features intended to provide for their use and enjoyment by persons with disabilities.

HUD is encouraging applicants to add accessible design features beyond those required under civil rights laws and regulations. These features would eliminate many other barriers limiting the access of persons with disabilities to housing and other facilities. These accessible design features are intended to promote visitability and incorporate features of universal design as described below:

(i) Visitability in New Construction and Substantial Rehabilitation. Applicants are encouraged to incorporate visitability standards where feasible in new construction and substantial rehabilitation projects. Visitability standards allow a person with mobility impairments access into the home, but do not require that all features be made accessible. Visitability means at least one entrance at grade (no steps), approached by an accessible route such as a sidewalk; the entrance door and all interior passage doors are at least 2 feet 10 inches wide, allowing 32 inches of clear passage space. A visitable home also serves persons without disabilities, such as a mother pushing a stroller or a person delivering a large appliance. Copies of the Uniform Federal Accessibility Standards (UFAS) are available from the SuperNOFA Information Center (1-800-HUD-8929 or 1-800-HUD-2209 (TTY)) and also from the Office of Fair Housing and Equal Opportunity; U.S. Department of Housing and Urban Development; Room 5230, 451 Seventh Street, SW.; Washington, DC 20410; 202-755-5404 or 1-800-877 8399 (TTY Federal Information Relay Service). Proposed activities support Strategic Goal 7.

(ii) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost. Universal design benefits people of all ages and abilities. In addition to any applicable required accessibility features under Section 504 of the Rehabilitation Act of 1973 or the design and construction requirements of the Fair Housing Act, the Department encourages applicants to incorporate the principles of universal design when developing housing, community facilities, electronic communication mechanisms, or when communicating with community residents at public meetings or events. HUD believes that by creating housing that is accessible to all, it can increase the supply of affordable housing for all, regardless of ability or age. Likewise, creating places where people work, train, and interact which are useable and open to all residents increases opportunities for economic and personal self-sufficiency. Proposed activities under this priority will support Strategic Goals 2, 7, and 8.

(D) Improving Computer Access, Literacy, and Employment Opportunities. The Department seeks to promote activities that provide access to computers to low- and moderate-income adults and children who do not have access and, therefore, may be disadvantaged with respect to education, work, and training opportunities. HUD encourages applicants to incorporate education and job training opportunities through initiatives such as HUD's Neighborhood Networks. Neighborhood Networks enhance the self-sufficiency, employability, and economic self-reliance of low-income families and the elderly living in HUD-insured or HUD-assisted properties, and public housing by providing on-site computer access and training resources.

Applicants are encouraged to teach adults and children how to use computers to achieve economic self-sufficiency, provide job training and placement, and establish public-private partnerships to support community-learning centers and provide apprenticeship opportunities. Proposed activities can support Strategic Goals 2, 3, 4, 5, 7, and 8.

(E) Providing Full and Equal Access to Faith-Based and Other Community-Based Organizations in HUD Program Implementation. (1) HUD encourages non-profit organizations, including grassroots faith-based and other community-based organizations, to participate in the vast array of programs for which funding is available through this SuperNOFA. HUD believes that grassroots organizations, e.g., civic organizations, congregations, and faith-based and other community-based organizations, have not been effectively utilized. These grassroots organizations have a strong history of providing vital community services such as assisting the homeless and preventing homelessness, counseling individuals and families on fair housing rights, providing elderly housing opportunities, developing first time homeownership programs, increasing homeownership and rental housing opportunities in neighborhoods of their choice, developing affordable and accessible housing in neighborhoods across the country, creating economic development programs, and supporting the residents of public housing facilities. The goal of this policy priority is to make HUD's programs more effective, efficient, and accessible by expanding opportunities for grassroots organizations to participate in developing solutions for their own neighborhoods. Additionally, HUD encourages applicants to include these faith-based and other community-based grassroots organizations in their workplans. Applicants, their partners, and participants must review the Program Section of this SuperNOFA to determine eligibility. Faith-based and other community-based grassroots organizations, and applicants who currently or propose to partner, fund, or subcontract with grassroots organizations, including faith-based or other community-based non-profits eligible under applicable program regulations, in conducting their work programs will receive higher rating points as specified in the program section of this SuperNOFA.

(2) Definition of Grassroots Organizations.

(a) HUD will consider an organization a “grassroots organization” if the organization is headquartered in the local community to which it provides services; and,

(i) Has a social services budget of $300,000 or less, or

(ii) Has six or fewer full-time equivalent employees.

(b) Local affiliates of national organizations are not considered “grassroots.” Local affiliates of national organizations are encouraged, however, to partner with grassroots organizations but must demonstrate that they are currently working with a grassroots organization, e.g., having a congregation or civic organization, or other charitable organization provide volunteers.

(c) The cap provided in paragraph (2)(a)(i) above includes only that portion of an organization's budget allocated to providing social services. It does not include other portions of the budget such as salaries and expenses. Activities under this priority directly support Strategic Goal 4.

(F) Ensuring that Programs are Accountable for the Promises Made and the Actions Taken. HUD encourages applicants to include program measures to ensure that promises made in your application for funding for persons to be assisted, units to be constructed or rehabilitated, timelines and budgets to be followed, and results to be achieved can be accounted for and independently assessed to ensure performance goals have been met. Applicants who have included means of assessing progress and tracking performance goals and achievements against promises made in the application will receive higher rating points. Actions taken to support this priority directly support Strategic Goal 6.

(G) Colonias. HUD seeks to improve housing conditions for families living in Colonias. Colonia means any identifiable community that:

(i) is located in Arizona, California, New Mexico, or Texas:

(ii) is within 150 miles of the border between the United States and Mexico: and

(iii) meets objective need criteria, including lack of potable water supply, lack of adequate sewage systems, and lack of decent, safe, sanitary, and accessible housing.

Activities performed under this priority primarily support Strategic Goal 8, but can also support Strategic Goals 3, 4, and 7.

VII. Findings and Certifications

(A) Environmental Impact. A Finding of No Significant Impact with respect to the environment has been made in accordance with HUD regulations at 24 CFR part 50 that implement Section 102(2)(C) of the National Environmental Policy Act of 1969 (42 U.S.C. 4332). The Finding of No Significant Impact is available for public inspection during regular business hours in the Office of the General Counsel, Regulations Division, Room 10276, U.S. Department of Housing and Urban Development, 451 Seventh Street, SW., Washington, DC 20410-0500.

(B) Executive Order 13132, Federalism. Executive Order 13132 prohibits, to the extent practicable and permitted by law, an agency from promulgating policies that have federalism implications and either impose substantial direct compliance costs on State and local governments and are not required by statute, or preempt State law, unless the relevant requirements of Section 6 of the Executive Order are met. This SuperNOFA does not have federalism implications and does not impose substantial direct compliance costs on State and local governments or preempt State law within the meaning of the Executive Order.

(C) Executive Order 12372, Intergovernmental Review of Federal Programs. Executive Order 12372 was issued to foster intergovernmental partnership and strengthen federalism by relying on State and local processes for the coordination and review of Federal financial assistance and direct Federal development. The Order allows each State to designate an entity to perform a State review function. The official listing of State Points of Contact (SPOC) for this review process can be found at www.whitehouse.gov/omb/grants/spoc.html. States not listed on the website have chosen not to participate in the intergovernmental review process and, therefore, do not have a SPOC. If your State has a SPOC, you should contact them to see if they are interested in reviewing your application prior to submission to HUD. Please make sure that you allow ample time for this review process when developing and submitting your applications. If your State does not have a SPOC, you may send applications directly to HUD.

(D) Prohibition Against Lobbying Activities. You, the applicant, are subject to the provisions of Section 319 of the Department of Interior and Related Agencies Appropriation Act for Fiscal Year 1991, 31 U.S.C. 1352 (the Byrd Amendment), which prohibits recipients of Federal contracts, grants, or loans from using appropriated funds for lobbying the executive or legislative branches of the Federal government in connection with a specific contract, grant, or loan. You are required to certify, using the certification found at Appendix A to 24 CFR part 87, that you will not and have not used appropriated funds for any prohibited lobbying activities. In addition, you must disclose, using Standard Form LLL “Disclosure of Lobbying Activities,” any funds, other than federally appropriated funds, that will be or have been used to influence Federal employees, members of Congress, and congressional staff regarding specific grants or contracts. Federally recognized Indian tribes and tribally designated housing entities (TDHEs) established by federally recognized Indian tribes as a result of the exercise of the tribe's sovereign power are excluded from coverage of the Byrd Amendment, but State-recognized Indian tribes and TDHEs established under State law must comply with this requirement.

(E) Section 102 of the HUD Reform Act, Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this SuperNOFA as follows:

(1) Documentation and public access requirements. HUD will ensure that documentation and other information regarding each application submitted pursuant to this SuperNOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

(2) Debriefing. Beginning not less than 30 days after the awards for assistance are announced in the above-mentioned Federal Register notice and for at least 120 days after awards for assistance are announced, HUD will provide a debriefing to any applicant requesting one on their application. All debriefing requests must be made in writing or by email by the authorized official whose signature appears on the SF-424 or his or her successor in office, and submitted to the person or organization identified as the Contact under the section entitled “Further Information and Technical Assistance” in the Program Section of the SuperNOFA under which you applied for assistance. Information provided during a debriefing will include, at a minimum, the final score you received for each rating factor, final evaluator comments for each rating factor, and the final assessment indicating the basis upon which assistance was provided or denied.

(3) Disclosures. HUD will make available to the public for five years all applicant disclosure reports (HUD Form 2880) submitted in connection with this SuperNOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

(4) Publication of Recipients of HUD Funding. HUD's regulations at 24 CFR part 4 provide that HUD will publish a notice in the Federal Register to notify the public of all decisions made by the Department to provide:

(i) Assistance subject to Section 102(a) of the HUD Reform Act; and/or

(ii) Assistance provided through grants or cooperative agreements on a discretionary (non-formula, non-demand) basis, but that is not provided on the basis of a competition.

(F) Section 103 of the HUD Reform Act. HUD's regulations implementing Section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4.

Applicants or employees who have ethics related questions should contact the HUD Ethics Law Division at 202-708-3815. (This is not a toll-free number.) HUD employees who have specific program questions should contact the appropriate field office counsel or Headquarters counsel for the program to which the question pertains.

VIII. The FY 2002 SuperNOFA Process and Future HUD Funding Processes

Each year, HUD strives to improve its SuperNOFA. The FY 2002 SuperNOFA was revised based upon comments received during the FY 2001 funding process. HUD continues to welcome comments and feedback from applicants and other members of the public on how HUD may further improve its competitive funding process.

The description of programs for which funding is available under this SuperNOFA follows this General Section and its appendices.

Dated: March 14, 2002.
Mel Martinez,
Secretary.

BILLING CODE 4210-32-P

FUNDING AVAILABILITY FOR COMMUNITY DEVELOPMENT TECHNICAL ASSISTANCE (CD-TA) PROGRAMS—HOME, MCKINNEY-VENTO ACT HOMELESS ASSISTANCE AND HOPWA

Program Overview

Purpose of the Program. The purposes of the technical assistance programs in this SuperNOFA are:

HOME Technical Assistance. To help HOME participating jurisdictions design and implement HOME programs, including: Improving their ability to design and implement housing strategies and incorporate energy efficiency into affordable housing; facilitating the exchange of information to help participating jurisdictions carry out their programs; facilitating the establishment and efficient operation of employer-assisted housing programs and land bank programs consistent with the purposes of the HOME statute; and encouraging private lenders and for-profit developers of low-income housing to participate in public-private partnerships.

McKinney-Vento Act Homeless Assistance Programs Technical Assistance. To provide applicants, potential applicants, grantees, and project sponsors for McKinney-Vento Act funded Emergency Shelter Grants, Supportive Housing Program, Section 8 Moderate Rehabilitation Single Room Occupancy and Shelter Plus Care projects with technical assistance to promote the development of housing and supportive services as part of the Continuum of Care approach, including innovative approaches to assist homeless persons in the transition from homelessness, and to enable them to live as independently as possible.

Housing Opportunities for Persons with AIDS (HOPWA). To train HOPWA grantees, project sponsors, and potential recipients of program funds in comprehensive housing strategies and responsive area programs that assist residents who are living with HIV/AIDS; in the sound management of HOPWA programs to support program operations in an efficient and effective manner, including undertaking community consultations, program planning, housing development and operations, program evaluation and reporting on accomplishments; and to build the capacity of nonprofit organizations to carry out activities as HOPWA project sponsors.

Available Funds. Approximately $10 million in FY 2002 funds is available for the three CD-TA programs.

Eligible Applicants. Specific eligibility requirements for the CD-TA programs are found below in Section III(C). Up to twenty five percent of the HOME and McKinney-Vento Act Homeless Assistance technical assistance funds is limited to qualified providers who have not previously received a CPD technical assistance award. This limitation is not applicable to HOPWA technical assistance.

Application Deadline. June 7, 2002.

Match. None.

Additional Information

If you are interested in applying for funding under this program, please review carefully the General Section of this SuperNOFA and the following additional information.

I. Application Due Date, Application Kits, Further Information, and Technical Assistance

Application Due Date. Submit your completed applications (an original and one copy) on or before June 7, 2002 at the address shown below.

The original application that you submit to Headquarters is considered the official application. Send a copy of your application on or before the application deadline date to the HUD CPD Field Office(s) in which you are seeking to provide services. Only one application per applicant is permitted; however, one application can include as few as one or as many as all three CD-TA programs.

Application Submission Procedures. New Security Procedures. HUD has implemented new security procedures that apply to application submission. Please read the following instructions carefully and completely. HUD will not accept hand delivered applications. Applications may be mailed using the United States Postal Service (USPS) or may be shipped via the following delivery services: United Parcel Service (UPS), FedEx, DHL or Falcon Carrier. No other delivery services are permitted into HUD Headquarters without escort. You must, therefore, use one of the four carriers listed above.

Mailed Applications. Your application will be considered timely filed if your application is postmarked on or before 12 midnight on the application due date and received by the designated HUD office on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, FedEx, DHL and Falcon Carrier. Delivery by these services must be made during HUD Headquarters business hours, between 8:30 AM and 5:30 Eastern time, Monday to Friday. If these companies do not service your area, you should submit your application via the United States Postal Service.

Addresses for Submitting Applications. HUD Headquarters. Your completed application consists of one original application and one copy. Submit your original application to HUD Headquarters, U.S. Department of Housing and Urban Development, CPD Processing and Control Branch, Room 7251, 451 Seventh Street, SW., Washington, DC 20410.

Copy to Field Office. Send a copy of the application to the appropriate CPD Field Office(s) at the address shown on the list of HUD CPD Field Offices included as Appendix B.

When submitting your application, please refer to the Community Development Technical Assistance Program. Be sure to include your name, mailing address (including zip code), telephone number (including area code), and fax number (including area code).

For Application Kits. For an application kit and any supplemental information, please call the SuperNOFA Information Center at 1-800-HUD-8929. Persons with hearing or speech impairments may call the Center's TTY number at 1-800-HUD-2209. When requesting an application kit, please refer to “Community Development Technical Assistance Programs or CD-TA.” Please be sure to provide your name, address (including zip code), telephone number (including area code), and fax number (including area code).

For Further Information and Technical Assistance. You may contact the HUD CPD Office serving your area at the telephone number listed in the list of HUD CPD Field Offices included in the application kit, or you may contact Karen E. Daly at 202-708-3176, x5552 in HUD Headquarters. Persons with hearing and speech challenges may access the above number via TTY (text telephone) by calling the Federal Relay Service at 1-800-877-8339 (this is a toll-free number). Information on this SuperNOFA also may be obtained through the HUD web site on the Internet at www.hud.gov.

Satellite Broadcast. HUD will hold an information broadcast via satellite for potential applicants to learn more about the program and preparation of the application. For more information about the date and time of the broadcast, you should consult the HUD web site at www.hud.gov.

II. Amount Allocated

(A) The amounts allocated for each CD-TA program are as follows:

HOME TA FY 2002 funds: up to$5,000,000

McKinney-Vento Act Homeless Assistance Programs FY 2002 TA funds: up to $3,000,000

HOPWA FY 2002 TA funds: up to $2,000,000

(B) Each HUD/CPD Field Office has been allocated a “fair-share” of CD-TA funds for purposes of this competition, except for the HOPWA TA funds which will be awarded only through a national competition (see CD-TA Appendix A for the fair share allocations). The amounts are based on allocations of HOME and McKinney-Vento Act Homeless Assistance formula funds and competitive programs for which Field Offices have management oversight. These amounts are only for guidance purposes for you to develop your program budgets by Field Office jurisdiction and are not the exact amounts to be awarded to you in each area.

HUD will determine the total amount to be awarded to any provider based upon the size and needs of the provider's service area within each Field Office jurisdiction in which the provider is selected to operate, the funds available for that area, the number of other awardees selected in that area, and the scope of the technical assistance to be provided. Additionally, HUD may reduce the amount of funds allocated for Field Office jurisdictions to fund national CD-TA providers and other CD-TA providers for activities which cannot be budgeted or estimated by Field Office jurisdiction. HUD may require selected applicants, as a condition of funding, to provide coverage on a geographically broader basis than applied for in order to supplement or strengthen the intermediary network in terms of the location (service area), types and scope of technical assistance proposed.

(C) In order to reach new technical assistance providers in the HOME and McKinney-Vento Act Homeless Assistance program areas up to 25% of the funds in each of these two program areas within a Field Office (or at the national level) will be awarded to applicants who have not previously been funded under a CPD technical assistance competition. Therefore, up to $1.25 million will be awarded to new providers in HOME and $750,000 in McKinney-Vento Act Homeless Assistance. If qualified new applicants are not found in each program area in each Field Office and/or at the national level, the remaining funds will be made available for previously funded providers. The reverse also is true.

(D) To the extent permitted by funding constraints, HUD intends to provide coverage for as full a range as possible, of eligible CD-TA activities of each CD-TA program in each Field Office jurisdiction. To achieve this objective, HUD will fund the highest ranking providers that bring the required expertise in one or more specialized activity areas, and fund portions of providers' proposed programs in which they have the greatest skill and capability for given geographic areas or on a national basis. HUD also may require national, multi-jurisdictional, or other providers to provide coverage to Field Office jurisdictions which cannot otherwise receive cost-effective support from a CD-TA provider. In selecting applicants for funding, in addition to the rating factors, HUD will apply program policy criteria identified in Section V of this CD-TA Program section of SuperNOFA to select a range of providers and activities that would best serve program objectives for each program serviced by the CD-TA funded under this SuperNOFA.

III. Program Description; Program Award Period; Eligible Applicants; Eligible Activities; and Sub-Grants

(A) Program Description. Up to $10 million in technical assistance (TA) funds is available from three separate technical assistance programs: HOME TA, McKinney-Vento Act Homeless Assistance TA, and HOPWA TA (collectively “CD-TA”).

The funding of these three CD-TA programs through a single funding availability announcement will not affect the ability of eligible applicants to seek CD-TA funding. Eligible applicants are able to apply for funding under as few as one, and as many as three, separate CD-TA programs, individually or collectively, singularly or in combination. The specific provisions of the three separate CD-TA programs have not been changed. This Community Development Technical Assistance Programs section of the SuperNOFA reflects the statutory requirements and differences in the three different CD-TA programs.

(B) Program Award Period

(1) Cooperative Agreements will be for a period of up to 36 months. HUD, however, reserves the right to:

(a) Terminate awards in accordance with provisions contained in OMB Circular A-102, and 24 CFR parts 84 and 85 anytime after 12 months;

(b) Withdraw funds from a specific provider, if HUD determines that the urgency of need for the assistance is greater in other Field Office jurisdictions or the need for assistance is not commensurate with the award for assistance;

(c) Extend the performance period of individual awardees up to a total of 12 additional months.

(2) In cases where an applicant selected for funding under this CD-TA program section of the SuperNOFA currently is providing CD technical assistance under an existing CD-TA grant/cooperative agreement, HUD reserves the right to adjust the start date of funding under this program to coincide with the conclusion of the previous award, or to incorporate the remaining activities from the previous award into the new agreement, adjusting the funding levels as necessary.

(C) Eligible Applicants

(1) General. The eligible applicants for each of the three CD-TA programs are listed in paragraphs (2), (3), and (4) of this Section (C). This paragraph (1) lists requirements applicable to all applicants.

(a) Many organizations are eligible to apply for more than one CD-TA program and are encouraged to do so to the extent they have the requisite experience, expertise and capability.

(b) All applicant organizations must have demonstrated ability to provide CD-TA in a geographic area larger than a single city or county and must propose to serve an area larger than a single city or county.

(c) An organization may not provide assistance to itself.

(d) A consortium of organizations may apply for one or more CD-TA programs, but HUD will require that one organization be designated as the legal applicant, where legally feasible. Where one organization cannot be so designated for all proposed activities, HUD may execute more than one cooperative agreement with the members of a consortium. However, in general HUD will not award more than one cooperative agreement per application unless necessary due to legal requirements.

(e) All applicants must meet minimum statutory eligibility requirements for each CD-TA program for which they are chosen in order to be awarded a cooperative agreement. Copies of the Technical Assistance program regulations will be provided with the application kit.

(f) All eligible CD-TA providers may propose assistance using in-house staff, consultants, sub-contractors and sub-recipients, networks of private consultants and/or local organizations with requisite experience and capabilities. Whenever possible, applicants should make use of technical assistance providers located in the Field Office jurisdiction receiving services. This draws upon local expertise and persons familiar with the opportunities and resources available in the area to be served while reducing travel and other costs associated with delivering the proposed technical assistance services.

(g) All applicants must meet the applicable threshold requirements of Section II(B) of the General Section of the NOFA.

(2) McKinney-Vento Act Homeless Assistance Programs TA Eligible Applicants.

(a) States, units of general local government, and public housing authorities.

(b) Public and private non-profit or for-profit groups, including educational institutions and area-wide planning organizations, qualified to provide technical assistance on McKinney-Vento Act Homeless Assistance projects.

(3) HOME TA Eligible Applicants. (a) A for-profit or non-profit professional and technical services company or firm that has demonstrated capacity to provide technical assistance services;

(b) A HOME participating jurisdiction (PJ) or agency thereof;

(c) A public purpose organization responsible to the chief elected official of a PJ and established pursuant to State or local legislation;

(d) An agency or authority established by two or more PJs to carry out activities consistent with the purposes of the HOME program;

(e) A national or regional non-profit organization that has membership comprised predominantly of entities or officials of entities of PJs or PJs' agencies or established organizations.

(4) HOPWA TA Eligible Applicants.

(a) Non-profit organizations; and

(b) States and units of general local government.

(D) Eligible Activities. Eligible activities as appropriate for each of the three CD-TA programs are listed below:

(1) HOME Technical Assistance. HUD will provide assistance to:

(a) Facilitate the exchange of information that would help participating jurisdictions carry out the purposes of the HOME statute, including information on program design and accessibility, housing finance, land use controls, and building construction techniques;

(b) Improve the ability of States and units of local government to design and implement housing strategies, particularly those States and units of local government that are relatively inexperienced in the development of affordable housing;

(c) Encourage private lenders and for-profit developers of low-income housing to participate in public-private partnerships to achieve the purposes of the HOME statute;

(d) Improve the ability of States and units of local government, community housing development organizations, private lenders, and for-profit developers of low-income housing to incorporate energy efficiency into the planning, design, financing, construction and operation of affordable housing;

(e) Facilitate the establishment and efficient operation of employer-assisted housing programs, through research, technical assistance, and demonstration projects; and

(f) Facilitate the establishment and efficient operation of land bank programs, under which title to vacant and abandoned parcels of real estate located in or causing blighted neighborhoods is cleared for use consistent with the purposes of the HOME statute.

(2) McKinney-Vento Act Homeless Assistance Programs Technical Assistance. Funds are available to provide technical assistance to McKinney-Vento Act funded Homeless Assistance projects. Funds may be used to provide technical assistance to prospective applicants, applicants, recipients or other providers (project sponsors) of McKinney-Vento Act funded housing and supportive services for homeless persons. The assistance may include, but is not limited to, written information such as papers, manuals, guides and brochures; person-to-person exchanges; on-site assessments and provision of technical expertise; and training and related costs.

(3) HOPWA Technical Assistance. For the purposes of this CD-TA program section of the SuperNOFA, HOPWA technical assistance shall mean the transfer to HOPWA grantees and project sponsors and potential recipients of program funds, the skills and knowledge needed to develop, operate and support HOPWA-eligible projects and activities.

An applicant for HOPWA TA funds must propose activities on a national basis, a regional basis (e.g. serving a multi-state area) or within a State or community. The application should emphasize how activities will advise and train communities and project sponsors in undertaking program planning, community consultations, housing development and operations, coordination with related health-care and other supportive services, and evaluation and reporting on program performance. The Department has established the following national goal for all HOPWA TA projects:

• National Goal “ Sustainable and Sound Management of HOPWA Programs and Projects.

HOPWA TA funds may be used to help to build the capacity of grantees, project sponsors and potential applicants. The national goal is to enhance (1) the organization's ability to use HUD funds in a manner that upholds the public trust in the operation of the program, and (2) the organization's ability to sustain their projects through financial downturns and beyond the term of the grant. Technical assistance providers should plan programs on financial assessments, developing cost-cutting strategies, long range strategic planning, management and operational efficiency, redirecting resources to essential housing programs, how to identify new financial resources, fund-raising strategies and implementing community-wide planning to avoid duplication of service provision. To achieve this goal, HOPWA TA can be used in the following areas:

(a) Management and operations through such activities as:

(i) Advising on management practices to ensure responsive, efficient and cost effective facility and program operations;

(ii) Advising on fiscal management to ensure accountability in the use of funds and in the development of long-term strategies to assure financial viability including strategic planning, merger and acquisition consideration, financial development programs; and

(iii) Assisting projects in using the Department's information technology, financial systems and information management systems.

(b) State, local, and community planning through such activities as:

(i) Advising on the coordination of housing with health-care and other related supportive services for eligible persons;

(ii) Assisting in developing collaborations with local, State and Federal agencies that administer HIV/AIDS-related programs, including programs funded under the Ryan White CARE Act;

(iii) Creating or linking to existing needs assessments of the area's housing needs of persons living with HIV/AIDS and their families;

(iv) Creating or linking to comprehensive multiple-year HIV/AIDS housing plans that are undertaken in collaboration with local, State and federal programs including the Ryan White CARE Act programs; and

(v) Creating or linking to existing plans that address specialized needs of clients, including assistance for clients with serious mental illness, chronic alcohol and other drug abuse issues, and homelessness.

(c) Program evaluation through such activities as:

(i) Advising on data collection and program evaluation and dissemination of results; and

(ii) Developing and providing program handbooks, guidance materials, audio/visual products, training, and other activities to promote good management practices.

HOPWA TA applicants should demonstrate that they will assist in the development of Sustainable and Sound Management of HOPWA Programs by serving grantees who assist underserved populations and presenting a plan that describes an outreach and technical assistance program directed to organizations who serve identified underserved populations. The Department has been advised by persons living with HIV/AIDS, HIV/AIDS housing providers, and national organizations, of the continuing disparity in accessing health-care and HIV/AIDS treatment among underserved populations, such as, racial and ethnic minority populations, women, youth, post-incarcerated populations and persons living in rural areas. For the purposes of the HOPWA TA portion of this NOFA, underserved populations are defined as low-income populations living with HIV/AIDS and their families, such as racial or ethnic minority groups, women, persons living in rural areas, youth, post-incarcerated populations, or other underserved groups as determined by your service area, whose housing and related service needs are not currently being met in your service area. To meet this definition of an underserved population, you must present reliable statistics and data sources (i.e. Census, health department statistics, research, scientific studies, Consolidated Plan, and Continuum of Care documentation), showing the unmet need in the provision of housing and supportive services for the identified underserved population under Rating Factor 2 (1). HUD will consider your presentation of statistics and data sources based on soundness and reliability and the specificity of information to the underserved population and the area to be served.

In an effort to meet this continuing need, the highest rated applicants will demonstrate an outreach and assistance program to an identified underserved population as detailed under Rating Factor 3, Soundness of Approach (2) and will support the National HOPWA Goal of Sustainable and Sound Management. Such assistance could include linking HOPWA grantees and project sponsors to other community based organizations that serve an underserved population but have no, or limited, experience with providing housing services. Additionally, HOPWA TA providers could provide assistance to collaborations targeting an underserved population funded under the HOPWA competitive program.

(E) Sub-Grants Applicants. Sub-Grant Applications may propose to make sub-grants to achieve the purposes of their proposed CD-TA programs in accordance with program requirements in Section IV of this CD-TA Program section of the SuperNOFA.

IV. Program Requirements

In addition to the program requirements listed in the General Section of this SuperNOFA (please especially note a new requirement regarding Conducting Business in Accordance with Core Values and Ethical Standards found in General Section II(B)(2)), applicants are subject to the following requirements:

(A) Program Requirements for HOME and McKinney-Vento Act Homeless Assistance.

(1) Profit/Fee. No increment above cost, no fee or profit, may be paid to any recipient or subrecipient of an award under this CD-TA Program section of the SuperNOFA.

(2) Demand/Response Delivery System.

(a) As an awardee, you must operate within the structure of the demand/response system described in this section. You must coordinate your plans with, and operate under the direction of, each HUD Field Office within whose jurisdiction you are operating. When so directed by a Field Office, you will coordinate your activities instead through a lead CD-TA provider or other organization designated by the Field Office.

(b) If selected as the lead CD-TA provider in any Field Office jurisdiction, as an awardee you must coordinate the activities of other CD-TA providers selected under this CD-TA Program section of the SuperNOFA under the direction of the HUD Field Office. Joint activities by CD-TA providers may be required.

(c) Under the demand/response system, CD-TA providers will be required to:

(i) When requested by a Field Office or Government Technical Representative (GTR), market the availability of their services to existing and potential clients to include local jurisdictions in which the assistance will be delivered.

(ii) Respond to requests for assistance from the HUD Field Office(s) with oversight of the geographic service area for which the technical assistance will be delivered, including responding to priorities established by the Field Office in its Grants Management System. HOME PJs, and McKinney-Vento Act Homeless Assistance grantees may request assistance from the CD-TA provider directly, but such requests must be approved by the local HUD Field Office.

(iii) When requested by a Field Office or GTR, conduct a Needs Assessment to identify the type and nature of the assistance needed by the recipients of the assistance. These needs assessments should typically identify the nature of the problem to be addressed by the technical assistance services; the plan of action to address the need including the type of technical assistance services to be provided, the duration of the service, the staff assigned to provide the assistance, anticipated products and/or outcomes, and the estimated cost for the provision of services; and the relationship of the proposed services to the planned or expected Consolidated Plan submission to HUD and to other technical assistance providers providing service within the locality.

(iv) Obtain approval for the Technical Assistance Delivery Plan (TADP) from the HUD Field Office(s) with oversight for the area in which service will be provided. (See Section 3 below).

(v) Work cooperatively with other CD-TA providers in their geographic areas to ensure that clients are provided with the full range of CD-TA services needed and available. CD-TA providers are expected to be knowledgeable about the range of services available from other providers, make referrals and arrange visits by other CD-TA providers when appropriate, and carry out CD-TA activities concurrently when it is cost-effective and in the interests of the client to do so. HUD Field Offices may direct CD-TA providers to conduct joint activities.

(3) Technical Assistance Delivery Plan (TADP).

(a) After selection for funding but prior to award, you must develop a TADP for each Field Office jurisdiction or National Program for which you have been selected, in consultation with the Field office and/or GTR.

(b) In developing the TADP, you must follow the Field Office's management plan determining your priority work activities, location of activities, and organizations to be assisted during the cooperative agreement performance period.

(c) The Field Office management plan should indicate the issues to be addressed by CD-TA, the improved performance expected as a result of CD-TA, and methods for measuring the success of the CD-TA.

(d) The TADP must delineate all the tasks and sub-tasks for each CD program the applicant will undertake in each Field Office jurisdiction. The TADP must show the location of the community/State in which the CD-TA activities will occur, the level of CD-TA funding and proposed activities by location, the improved program performance or other results expected from the CD-TA and the methodology to be used for measuring the success of the CD-TA. A time schedule for delivery of the activities, budget summary, budget-by-task and staffing plan must be included in the TADP.

(4) Negotiation. After all applications have been rated and ranked and a selection has been made, HUD requires that all winners participate in negotiations to determine the specific terms of the TADP and the budget. HUD will follow the negotiation procedures described in Section III(D) of the General Section of the SuperNOFA.

(5) Forms, Certifications and Assurances. You must submit with your application the forms, certifications and assurances listed in the General Section of this SuperNOFA.

(6) Financial Management and Audit Information. After selection for funding but prior to award, you must submit a certification from an Independent Public Accountant or the cognizant government auditor, stating that your financial management system meets prescribed standards for fund control and accountability required by 24 CFR part 84 for Institutions of Higher Education and other Non-Profit Institutions, 24 CFR part 85 for States and local governments, or the Federal Acquisition Regulations (for all other applicants). The information should include the name and telephone number of the independent auditor, cognizant Federal auditor, or other audit agency as applicable.

(7) Training Sessions. When conducting training sessions as part of its CD-TA activities, CD-TA providers are required to:

(a) Design the course materials as “step-in” packages (also called “train-the trainer” packages) so that a Field Office or other CD-TA provider may separately give the course on its own;

(b) Arrange for joint delivery of the training with Field Office participation when so requested by the Field Office or by the GTR for national grants; and

(c) When requested by a Field Office and/or GTR, provide for professional videotaping of the workshops/courses and ensure their production in a professional and high-quality manner, suitable for viewing by other CD clients (if this requirement is implemented, additional funds may be requested).

(d) When required by HUD, deliver HUD-approved training courses that have been designed and developed by other HUD contractors or HUD cooperating parties on a “step-in” basis for CD-TA clients, and send trainers to HUD-approved Train-the Trainer sessions.

(8) Reports to Field Offices and/or GTRs. CD-TA providers will be required to report to the HUD Field Office(s) with oversight of the geographic area(s) in which CD-TA services are provided or to Headquarters GTRs in the case of national providers. At a minimum, this reporting will be on a quarterly basis unless otherwise specified in the approved TADP.

(9) Active Participation. HUD Field Offices will be active participants in the delivery of all technical assistance by funded providers throughout the term of the cooperative agreement.

(10) HOME TA Program Limitations. Pursuant to section 243(b) of the Cranston-Gonzalez National Affordable Housing Act, funding to any single eligible HOME TA organization, whether as an independent or joint applicant, is limited to not more than 20% of the operating budget of the recipient organization in any one year and is limited to 20% of the funds available under this CD-TA program section of the SuperNOFA.

(11) HOME National TA Program Guidance. With the funds designated for a national TA program, HUD intends to fund applications which propose activities to help HOME participating jurisdictions design and implement HOME programs, including: improving their ability to design and implement housing strategies and incorporate energy efficiency into affordable housing, facilitating the exchange of information to help participating jurisdictions carry out their programs; facilitating the establishment and efficient operation of employer-assisted housing programs; and/or encouraging private lenders and for-profit developers of low-income housing to participate in public-private partnerships. Proposals should directly address how the capacity of participating jurisdictions may be improved to ensure that HOME funds are used effectively, efficiently and in compliance with the HOME rules to develop affordable housing. Emphasis should be placed on the basic skills and systems needed to develop, maintain and manage well designed and constructed affordable housing over the long term when using Federal funds.

(12) Affirmatively Furthering Fair Housing. Section II(D) of the General Section of the SuperNOFA does not apply to these technical assistance programs.

(B) Program Requirements for HOPWA Technical Assistance.

(1) General Requirements. The items listed below specify the requirements that apply to the HOPWA TA applications as follows: in Section IV(A), Paragraphs: (1) Profit/Fee; (4) Negotiation, except that the TADP reference will apply to a workplan negotiated between the applicant and the GTR for the HOPWA TA grant in HUD Headquarters; (5) Forms, Certifications and Assurances; (6) Financial Management and Audit Information; (7) Training Sessions; (8) Reports to Field Offices and/or GTRs, except that you must report to the HOPWA Headquarters GTR, at a minimum, on a quarterly basis, unless otherwise specified in an approved HOPWA TA workplan and you will be expected to meet the following performance benchmarks: (i) you are required to begin technical assistance activities within one year of your selection (i.e., one year from the date of the signing of your selection letter by HUD); and (ii) you are requested to provide an initial report to the Field Office and the Headquarters GTR on the startup of the planned activities within six months of your selection. Please outline any accomplishments in implementing the funds along with identifying any barriers or issues for which the Department may provide assistance. If a selected project does not meet the appropriate performance benchmark, HUD reserves the right to cancel or withdraw the grant funds.

(2) Coordination of HOPWA TA Requests. Except for national meetings, research, information and other activities that are conducted on a program-wide basis in cooperation with HUD Headquarters, as the grantee of HOPWA TA funds, you must work cooperatively with HUD Field Offices. You must notify the applicable HUD Field Office of the planned activities; must consider the views or recommendations of that office, if any; must follow those recommendations, to the degree practicable; and must report to the applicable Field Office on the accomplishments of this assistance.

V. Application Selection Process

(A) Rating and Ranking

(1) HUD will evaluate applications competitively and rank them against all other applicants that have applied for the same CD-TA program (HOME, McKinney-Vento Act Homeless Assistance) within each Field Office or as a National Provider under HOPWA. There will be separate rankings for each CD-TA program, and you will be ranked only against others that have applied for the same CD-TA program.

(2) Once scores are assigned, all applications will be listed in rank order for each CD-TA program for which they applied by Field Office jurisdiction and/or the HOPWA National Program. In each Field Office jurisdiction or National Program area, all applications for the HOME TA program will be listed in rank order on list, all applications for the McKinney-Vento Act Homeless Assistance TA program will be listed in rank order on another list, and all applications for the HOPWA TA national projects will be ranked separately on a third list. Under this system, a single application from one organization for all CD-TA programs could be assigned different scores and different rankings for each program in different Field Offices.

(3) Applications will be funded in rank order for each CD-TA program by Field Office jurisdiction, except for HOPWA TA national providers and others which cannot be ranked by Field Office jurisdiction. National providers and others will be ranked separately and funded in rank order for each CD-TA program. Irrespective of final scores, HUD may apply program policy criteria to select one applicant in each of the two HOME and McKinney-Vento Act Homeless Assistance) CD-TA programs in each Field Office or nationally, to ensure diversity of methods, approaches, or kinds of projects. HUD will apply these program policy criteria to provide coverage of CD-TA services for minorities; women, particularly women in the homebuilding professions under section 233(b)(7) of the Cranston-Gonzalez National Affordable Housing Act; persons with disabilities; homeless; persons with special needs; and rural areas.

(4) In addition to the authority in the General Section to adjust funding, HUD reserves the right to adjust funding levels for each applicant for each CD-TA program, as follows:

(a) Adjust funding levels for any provider based upon the size and needs of the provider's service area within each Field Office jurisdiction in which the provider is selected to operate, the funds available for that area, the number of other awardees selected in that area, funds available on a national basis for providers that will be operating nationally, or the scope of the technical assistance to be provided;

(b) To negotiate increased grant awards with applicants approved for funding if HUD requests them to offer coverage to geographic areas for which they did not apply or budget, or if HUD receives an insufficient amount of applications.

(5) If funds remain after all selections have been made, remaining funds may be:

(a) Distributed among all HUD Field Offices (in proportion to their fair-share awards) and/or the National Program, or

(b) Made available for other CD-TA program competitions.

(6) If you apply for HOPWA TA funds, you must propose activities that will be carried out on a national, regional, State or community basis. The Department reserves the right to adjust the amount of requested funds that are awarded to correspond with the size of the intended service area in comparison to the planned national scope of activities to ensure the best use of these limited resources. Additionally, HUD may also modify the service area of a selected application, if practicable.

(B) Factors for Award Used to Evaluate and Rate Applications. The factors and maximum points for each factor are provided below. The maximum number of points to be awarded for a CD-TA application is 100. The minimum score for an applicant to be considered in funding range is 70, with a minimum of 15 points in Factor 1. The CD-TA program is not an eligible program for bonus points, as described in Section III(C)(1)-(3) of the General Section of the SuperNOFA.

Rating of the “applicant” or the “applicant's organization and staff”, unless otherwise specified, will include any sub-contractors, consultants, sub-recipients, and members of consortia which are firmly committed to the project.

When addressing the Factors for Award, you should discuss the specific TA projects, activities, tasks, etc. that you suggest be carried out during the term of the cooperative agreement. See Sections IV(A)(2) and (3) of this CD-TA program section for a discussion of the extent to which such activities may be revised at or after the time of award. In responding to the Factors, you should be specific about the type of experience, knowledge, skills and abilities your organization, your staff, and any subcontractors firmly committed to the project have with the CD-TA programs and you should provide relevant examples to support your application. You should also be specific when detailing the communities, populations (HOPWA only) and/or organizations which you propose to serve, especially in response to Factor 3, Subfactor 2 and in detailing the dollar amounts you have leveraged in Factor 4.

Rating Factor 1: Capacity of the Applicant and Relevant Organizational Experience (25 points) (Minimum for Funding Eligibility 15 points)

In rating this factor, HUD will consider the extent to which the application demonstrates in relation to CD-TA program funding that is requested:

(1) (10 points) Recent, relevant and successful experience of your organization and staff in providing technical assistance in all eligible activities and to all eligible entities for the CD-TA program(s) applied for, as described in the regulations;

(2) (8 points) The relevant experience, competence, knowledge, skills, and abilities of your key personnel in managing complex, multi-faceted or multi-disciplinary programs that require coordination with other CD-TA entities or multiple, diverse units in an organization;

(3) (7 points) You have sufficient personnel or access to qualified experts or professionals with the knowledge, skills, and abilities to deliver the proposed level of technical assistance in each proposed service area in a timely and effective fashion.

Rating Factor 2: Potential Effectiveness of the Application in Meeting Needs of Target Groups/Localities and Accomplishing Project Objectives for Each CD-TA Program for which Funds Are Requested (20 Points)

In rating this factor, HUD will consider the extent to which your application:

(1) (8 points) Identifies high priority needs and issues for the CD program in each community or Field Office jurisdiction for which CD-TA funding is requested, or on a national or regional basis for national HOPWA grants;

(2) (7 points) Outlines a clear and cost-effective plan of suggested TA activities for addressing those needs and aiding a broad diversity of eligible grantees and/or beneficiaries, including those which traditionally have been under-served; and

(3) (5 points) Identifies creative activities to assist eligible grantees in participating in the development of, and improving, local Consolidated Plans and comprehensive strategies.

Rating Factor 3: Soundness of Approach (35 Points)

In rating this factor, HUD will consider the extent to which your application evidences a sound approach in addressing identified needs and:

(1) (13 points) Provides a cost effective plan for designing, organizing, managing and carrying out the suggested technical assistance activities within the framework of the Demand/Response System or, for HOPWA TA applicants, in addressing the HOPWA TA goal.

(2) (12 points) Demonstrates an effective outreach and assistance program to specifically identified disadvantaged communities, populations (HOPWA only) and/or organizations which previously have been underserved and have the potential to participate in CPD programs.

(3) (5 points) Provides for full geographic coverage, including urban and rural areas, (directly or through a consortium of providers) of a single State or Field Office jurisdiction or is targeted to address the needs of rural areas, minority groups or other under-served groups or for HOPWA TA applicants, addresses other approaches that respond to identified needs.

(4) (5 points) Proposes a feasible, creative plan, which uses state of the art or new promising technology, to transfer models and lessons learned in each of its CD-TA program's activities to grantees and/or program beneficiaries in other CD-TA programs.

Rating Factor 4: Leveraging Resources (10 Points)

This factor addresses your ability to secure community resources (note: financing is a community resource) that can be combined with HUD's program resources to achieve program purposes. In evaluating this factor HUD will consider: The extent to which you have partnered with other entities to secure additional resources to increase the effectiveness of the proposed program activities.

Resources may include funding or in-kind contributions, such as services or equipment, allocated to the purpose(s) of the award you are seeking. Resources may be provided by governmental entities, public or private nonprofit organizations, for-profit private organizations, or other entities willing to partner with the applicant. You also may partner with other program funding recipients to coordinate the use of resources in the target area.

You must provide evidence of leveraging/partnerships by including in the application letters of firm commitments, memoranda of understanding, or agreements to participate from those entities identified as partners in the application. Each letter of commitment, memorandum of understanding, or agreement to participate should include the organization's name, proposed level of commitment and responsibilities as they relate to the proposed program and preferably be submitted on the organization's letterhead. The commitment must also be signed by an official of the organization legally able to make commitments on behalf of the organization.

Rating Factor 5: Coordination, Self-Sufficiency and Sustainability (10 Points)

This factor addresses the extent to which you coordinate your activities with other known organizations, participate or promote participation in a community's Consolidated Planning process and Continuum of Care homeless assistance strategy, and are working towards addressing a need identified in your application as high priority in a holistic and comprehensive manner through linkages with other activities in the community.

In evaluating this factor, HUD will consider the extent to which you demonstrate you have:

(1) Coordinated your proposed activities with those of other groups or organizations prior to submission in order to best complement, support and coordinate all known activities and if funded, the specific steps you will take to share information on solutions and outcomes with others. Describe any written agreements, memoranda of understanding in place, or that will be in place after award.

(2) Taken or will take specific steps to work with recipients of technical assistance services to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

(C) Applicant Debriefing. As described in the General Section, Introduction to the FY 2002 SuperNOFA, applicant debriefings will be conducted beginning not less than 30 days after the awards for assistance are announced in the Federal Register. Refer to the General Section for details.

VI. Application Submission Requirements

In addition to the forms, certifications and assurances listed in Section II(H) of the General Section of the SuperNOFA (collectively referred to as the “standard forms”), your application must, at a minimum, contain the following items (except that the following paragraphs (C), (D), and (E), do not apply to HOPWA TA applicants). The standard forms can be found in Appendix B to the General Section of the SuperNOFA.

(A) Transmittal Letter which identifies the SuperNOFA, the CD-TA programs for which funds are requested and the dollar amount requested for each program, and the applicant or applicants submitting the application. If your organization has never received a CPD technical assistance award, please include a statement to this effect in the transmittal letter. Additionally, HOPWA TA applicants are requested to submit a two-page executive summary outlining the key elements of the proposed TA activities.

(B) Narrative statement addressing the Factors for Award described in Section V(B) of this CD-TA Program section of this SuperNOFA. You should number the narrative response in accordance with each factor for award. This narrative statement will be the basis for evaluating your application. It should include a plan of suggested TA activities as described in Factors 2, 3, and elsewhere. These suggested TA activities may form a starting point for negotiating the TADP described in Section IV(A)(3) of this CD-TA Program section of the SuperNOFA. However, they are used primarily for purposes of rating and evaluation and may be substantially altered and revised during negotiations with the Field Offices on the content of the TADPs (see Section IV(A)(3)) or Headquarters program office for national projects.

(C) Statement that identifies the Field Office jurisdictions in which you propose to offer services. If you will not offer services throughout the full jurisdictional area of the Field Office, your statement should identify the service areas involved (e.g., States, counties, etc.), as well as the communities in which you propose to offer services.

(D) A matrix that summarizes the amount of funds you are requesting for each CD-TA program in each Field Office jurisdiction. (See the CD-TA application kit for a copy of the matrix to be submitted.)

(E) A statement as to whether you propose to be considered for the role of lead CD-TA provider in one or more specific program areas in a Field Office jurisdiction, and if so, your organization's capabilities and attributes that qualify you for the role.

(F) Budget Summary identifying costs for implementing the plan of suggested TA activities by cost category for each CD-TA program for which funds are requested by Field Office or as a National Provider (in accordance with the following):

(1) Direct Labor by position or individual, indicating the estimated hours per position, the rate per hour, estimated cost per staff position and the total estimated direct labor costs;

(2) Fringe Benefits by staff position identifying the rate, the salary base the rate was computed on, estimated cost per position, and the total estimated fringe benefit cost;

(3) Material Costs indicating the item, quantity, unit cost per item, estimated cost per item, and the total estimated material costs;

(4) Transportation Costs, as applicable.

(5) Equipment charges, if any. Equipment charges should identify the type of equipment, quantity, unit costs and total estimated equipment costs;

(6) Consultant Costs, if applicable. Indicate the type, estimated number of consultant days, rate per day, total estimated consultant costs per consultant and total estimated costs for all consultants;

(7) Subcontract Costs, if applicable. Indicate each individual subcontract and amount;

(8) Other Direct Costs listed by item, quantity, unit cost, total for each item listed, and total other direct costs for the award;

(9) Indirect Costs should identify the type, approved indirect cost rate, base to which the rate applies and total indirect costs.

These line items should total the amount requested for each CD-TA program area. The grand total of all CD-TA program funds requested should reflect the grand total of all funds for which application is made.

VII. Corrections to Deficient Applications

The General Section of the SuperNOFA provides the procedures for corrections to deficient applications.

VIII. Environmental Requirements

In accordance with 24 CFR 50.19(b)(9) and 58.34(a)(9), the assistance provided by these programs relates only to the provision of technical assistance and is categorically excluded from the requirements of the National Environmental Policy Act and not subject to environmental review under the related laws and authorities. This determination is based on the ineligibility of real property acquisition, construction, rehabilitation, conversion, leasing or repair for HUD assistance under these technical assistance programs.

IX. Authority

HOME Technical Assistance. The HOME Technical Assistance Program is authorized by the HOME Investment Partnerships Act (42 U.S.C. 12781-12783); 24 CFR part 92.

McKinney-Vento Act Homeless Assistance Programs Technical Assistance. The Supportive Housing Program is authorized under 42 U.S.C. 11381 et seq.; 24 CFR 583.140. The Emergency Shelter Grant, Section 8 Moderate Rehabilitation Single Room Occupancy Program and Shelter Plus Care Technical Assistance Programs are authorized by the FY 2002 HUD Appropriations Act.

HOPWA Technical Assistance. The HOPWA Technical Assistance program is authorized under the FY 2002 HUD Appropriations Act. The HOPWA program is authorized under the AIDS Housing Opportunities Act (42 U.S.C. 12901) and the HOPWA regulations are found at 24 CFR part 574.

Appendix A to CD-TA Program: “Fair-Share” Amounts Allocated to Each HUD CPD Office
HUD CPD field office | HOME TA | McKinney-Vento Act homeless assistance TA | HOPWA TA
Alabama State Office | 50,000 | 40,000 |
Alaska State Office | 50,000 | 40,000 |
Arkansas State Office | 50,000 | 40,000 |
California State Office | 257,900 | 242,000 |
Los Angeles Area Office | 224,100 | 255,000 |
Caribbean Office | 61,400 | 40,000 |
Colorado State Office | 92,100 | 40,000 |
Connecticut State Office | 50,000 | 40,000 |
District of Columbia Office | 50,000 | 83,000 |
Florida State Office | 50,000 | 70,000 |
Jacksonville Area Office | 79,800 | 49,000 |
Georgia State Office | 76,800 | 40,000 |
Hawaii State Office | 50,000 | 40,000 |
Illinois State Office | 156,600 | 145,000 |
Indiana State Office | 61,400 | 40,000 |
Kansas/Missouri State Office | 64,500 | 40,000 |
St. Louis Area Office | 50,000 | 40,000 |
Kentucky State Office | 50,000 | 40,000 |
Louisiana State Office | 64,500 | 40,000 |
Maryland State Office | 50,000 | 40,000 |
Massachusetts State Office | 132,100 | 182,000 |
Michigan State Office | 119,800 | 138,000 |
Minnesota State Office | 50,000 | 52,000 |
Mississippi State Office | 50,000 | 40,000 |
Nebraska State Office | 50,000 | 40,000 |
New Jersey State Office | 92,100 | 52,000 |
New Mexico State Office | 50,000 | 40,000 |
New York State Office | 267,200 | 239,000 |
Buffalo Area Office | 55,300 | 57,000 |
North Carolina State Office | 67,600 | 40,000 |
Ohio State Office | 144,300 | 104,000 |
Oklahoma State Office | 50,000 | 40,000 |
Oregon State Office | 55,300 | 40,000 |
Pennsylvania State Office | 122,800 | 106,000 |
Pittsburgh Area Office | 61,400 | 57,000 |
South Carolina State Office | 50,000 | 40,000 |
Tennessee Knoxville Area Office | 61,400 | 40,000 |
Texas State Office | 156,600 | 88,000 |
San Antonio Area Office | 50,000 | 40,000 |
Virginia State Office | 55,300 | 40,000 |
Washington State Office | 58,300 | 67,000 |
Wisconsin State Office | 61,400 | 54,000 |
National Total | 1,500,000 |  | 2,000,000

Appendix B to CD-TA Program—List of HUD CPD Field Offices

Alabama

Alabama State Office, Medical Forum Building, 950 22nd Street North, Suite 900, Birmingham, AL 35203, CPD Telephone Number 205-631-2630, ext 1051, TTY Number: 205-731-2624, Local Hours of Operation: 8 am-4:30 pm

Alaska

Alaska State Office, University Plaza Building, 949 East 36th Avenue, Suite 401, Anchorage, AK 99508-4399, CPD Telephone Number: 907-271-3669, TTY Number: 907-271-4328, Local Hours of Operation: 8 am-4:30 pm

Arizona

California State Office, Phillip Burton Federal Building and U.S. Courthouse, 450 Golden Gate Avenue, P.O. Box 36003, San Francisco, CA 94102-3448, CPD Telephone Number: 415-436-6597, TTY Number: 415-436-6594, Local Hours of Operation: 8:15 am-4:45 pm

Arkansas

Arkansas State Office, TCBY Tower, 425 West Capitol Avenue, Suite 900, Little Rock, AR 72201-3488, CPD Telephone Number: 501-324-6375, TTY Number: 501-324-5931, Local Hours of Operation: 8 am-4:30 pm

California

Northern—California State Office, Phillip Burton Federal Building and U.S. Courthouse, 450 Golden Gate Avenue, P.O. Box 36003, San Francisco, CA 94102-3448, CPD Telephone Number: 415-436-6597, TTY Number: 415-436-6594, Local Hours of Operation: 8:15 am-4:45 pm

Southern—Los Angeles Area Office, 611 West 6th Street, Suite 800, Los Angeles, CA 90017, CPD Telephone Number: 213-894-8000, TTY Number: 213-894-8133, Local Hours of Operation: 8 am-4:30 pm

Caribbean

Caribbean Office, 171 Carlos E. Chardon Avenue, Suite 301, San Juan, PR 00918-0903, CPD Telephone Number: 787-766-5400, TTY Number 787-766-5909, Local Hours of Operation: 8 am-4:30 pm

Colorado

Colorado State Office, 633 17th Street, 14th Floor, Denver, CO 80202-3607, CPD Telephone Number: 303-672-5414, TTY Number: 303-672-5248, Local Hours of Operation: 8 am-4:30 pm

Connecticut

Connecticut State Office, One Corporate Center, 19th Floor, Hartford, CT 06103-3220, CPD Telephone Number: 860-240-4800, TTY Number: 860-240-4665, Local Hours of Operation: 8 am-4:30 pm

Delaware

Pennsylvania State Office, The Wanamaker Building, 100 Penn Square East, Philadelphia, PA 19107-3380, CPD Telephone Number: 215-656-0624, TTY Number: 215-656-3452, Local Hours of Operation: 8 am-4:30 pm

District of Columbia

District of Columbia Office, 820 First Street, NE., Suite 450, Washington, DC 20002, CPD Telephone Number: 202-275-0994, TTY Number: 202-275-0772, Local Hours of Operation: 8 am-4:30 pm

Florida

Southern—Florida State Office, 909 Southeast First Avenue, Room 500, Miami, FL 33131, CPD Telephone Number: 305-536-4431, TTY Number: 305-536-4743, Local Hours of Operation: 8:30 am-5 pm

Northern—Jacksonville Area Office, Southern Bell Tower, 301 West Bay Street, Suite 2200, Jacksonville, FL 32202-5121, CPD Telephone Number: 904-232-1777, TTY Number: 904-232-2631, Local Hours of Operation: 8 am-4:30 pm

Georgia

Georgia State Office, Five Points Plaza Building, 40 Marietta Street, Atlanta, GA 30303-2806, CPD Telephone Number: 404-331-5001, TTY Number: 404-730-2654, Local Hours of Operation: 8 am-4:30 pm

Hawaii

Hawaii State Office, Seven Waterfront Plaza, 500 Ala Moana Boulevard, Suite 3A, Honolulu, HI 96813-4918, CPD Telephone Number: 808-522-8180, TTY Number: 808-522-8193, Local Hours of Operation: 8 am-4 pm

Idaho

Oregon State Office, 400 Southwest Sixth Avenue, Suite 700, Portland, OR 97204-1632, CPD Telephone Number: 503-326-7018, TTY Number: 503-326-3656, Local Hours of Operation: 8 am-4:30 pm

Illinois

Illinois State Office, Ralph H. Metcalfe Federal Building, 77 West Jackson Boulevard, Chicago, IL 60604-3507, CPD Telephone Number: 312-353-1696, TTY Number: 312-353-5944, Local Hours of Operation: 8:15 am-4:45 pm

Indiana

Indiana State Office, 151 North Delaware Street, Indianapolis, IN 46204-2526, CPD Telephone Number: 317-226-6790, TTY Number: 317-226-7081, Local Hours of Operation: 8 am-4:45 pm

Iowa

Nebraska State Office, Executive Tower Centre, 10909 Mill Valley Road, Omaha, NE 68154-3955, CPD Telephone Number: 402-492-3181, TTY Number: 402-492-3183, Local Hours of Operation: 8 am-4:30 pm

Kansas

Kansas/Missouri State Office, Gateway Tower II, 400 State Avenue, Kansas City, KS 66101-2406, CPD Telephone Number: 913-551-5485, TTY Number: 913-551-6972, Local Hours of Operation: 8 am-4:30 pm

Kentucky

Kentucky State Office, 601 West Broadway, Post Office Box 1044, Louisville, KY 40201-1044, CPD Telephone Number: 502-582-6163, TTY Number: 1-800-648-6056, Local Hours of Operation: 8 am-4:45 pm

Louisiana

Louisiana State Office, Hale Boggs Federal Building, 501 Magazine Street, 9th Floor, New Orleans, LA 70130-3099, CPD Telephone Number: 504-589-7212, TTY Number: 504-589-7279, Local Hours of Operation: 8 am-4:30 pm

Maine

Massachusetts State Office, Thomas P. O'Neill, Jr. Federal Building, 10 Causeway Street, Room 531, Boston, MA 02122, CPD Telephone Number: 617-994-8350, TTY Number: 617-565-5453, Local Hours of Operation: 8:30 am-5 pm

Maryland

Maryland State Office, City Crescent Building, 10 South Howard Street, Fifth Floor, Baltimore, MD 21201-2505, CPD Telephone Number: 410-962-2520, TTY Number: 410-962-0106, Local Hours of Operation: 8 am-4:30 pm

Massachusetts

Massachusetts State Office, Thomas P. O'Neill, Jr. Federal Building, 10 Causeway Street, Room 531, Boston, MA 02122, CPD Telephone Number: 617-994-8350, TTY Number: 617-565-5453, Local Hours of Operation: 8:30 am-5 pm

Michigan

Michigan State Office, Patrick V. McNamara Federal Building, 477 Michigan Avenue, Detroit, MI 48226-2592, CPD Telephone Number: 313-226-7188, TTY Number: 313-226-6899, Local Hours of Operation: 8 am-4:30 pm

Minnesota

Minnesota State Office, 220 Second Street, South, Minneapolis, MN 55401-2195, CPD Telephone Number: 612-370-3019, TTY Number: 612-370-3186, Local Hours of Operation: 8 am-4:30 pm

Mississippi

Mississippi State Office, Doctor A. H. McCoy Federal Building, 100 West Capitol Street, Room 910, Jackson, MS 39269-1096, CPD Telephone Number: 601-965-4700, TTY Number: 601-965-4171, Local Hours of Operation: 8 am-4:45 pm

Missouri

Eastern—St. Louis Area Office, Robert A. Young Federal Building, 1222 Spruce Street, Third Floor, St. Louis, MO 63103-2836, CPD Telephone Number: 314-539-6524, TTY Number: 314-539-6331, Local Hours of Operation: 8 am-4:30 pm

Western—Kansas/Missouri State Office, Gateway Tower II, 400 State Avenue, Kansas City, KS 66101-2406, CPD Telephone Number: 913-551-5485, TTY Number: 913-551-6972, Local Hours of Operation: 8 am-4:30 pm

Montana

Colorado State Office, 633 17th Street, 14th Floor, Denver, CO 80202-3607, CPD Telephone Number: 303-672-5414, TTY Number: 303-672-5248, Local Hours of Operation: 8 am-4:30 pm

Nebraska

Nebraska State Office, Executive Tower Centre 10909 Mill Valley Road, Omaha, NE 68154-3955, CPD Telephone Number: 402-492-3181, TTY Number: 402-492-3183, Local Hours of Operation: 8 am-4:30 pm

Nevada

California State Office, Phillip Burton Federal Building and U.S. Courthouse, 450 Golden Gate Avenue, P.O. Box 36003, San Francisco, CA 94102-3448, CPD Telephone Number: 415-436-6597, TTY Number: 415-436-6594, Local Hours of Operation: 8:15 am-4:45 pm

New Hampshire

Massachusetts State Office, Thomas P. O'Neill, Jr. Federal Building, 10 Causeway Street, Room 531, Boston, MA 02122, CPD Telephone Number: 617-994-8350, TTY Number: 617-565-5453, Local Hours of Operation: 8:30 am-5 pm

New Jersey

New Jersey State Office, One Newark Center, 13th Floor, Newark, NJ 07102-5260, CPD Telephone Number: 973-622-7900, TTY Number: 973-645-3298, Local Hours of Operation: 8 am-4:30 pm

New Mexico

New Mexico State Office, 625 Silver Avenue S.W., Suite 100, Albuquerque, NM 87102-3185, CPD Telephone Number: 505-346-7271, TTY Number: (TTY Relay Operator): 1-800-877-8339, Local Hours of Operation: 8 am-5 pm

New York

Downstate—New York State Office, 26 Federal Plaza, New York, NY 10278-0068, CPD Telephone Number: 212-264-8000, ext. 3401, TTY Number: 212-264-0927, Local Hours of Operation: 8 am-4:30 pm

Upstate—Buffalo Area Office, Lafayette Court, 465 Main Street, Fifth Floor, Buffalo, NY 14203-1780, CPD Telephone Number: 716-551-5755, TTY Number: 716-551-5787, Local Hours of Operation: 8 am-4:30 pm

North Carolina

North Carolina State Office, Koger Building, 2306 West Meadowview Road, Greensboro, NC 27407-3707, CPD Telephone Number: 336-547-4005, TTY Number: 336-547-4055, Local Hours of Operation: 8 am-4:45 pm

North Dakota

Colorado State Office, 633 17th Street, 14th Floor, Denver, CO 80202-3607, CPD Telephone Number: 303-672-5414, TTY Number: 303-672-5248, Local Hours of Operation: 8 am-4:30 pm

Ohio

Ohio State Office, 200 North High Street, Columbus, OH 43215-2499, CPD Telephone Number: 614-469-5737, TTY Number: 614-469-6694, Local Hours of Operation: 8 am-4:45 pm

Oklahoma

Oklahoma State Office, 500 West Main Street, Suite 400, Oklahoma City, OK 73102-2233, CPD Telephone Number: 405-553-7569, TTY Number: (TTY Relay Operator): 1-800-877-8339, Local Hours of Operation: 8 am-4:30 pm

Oregon

Oregon State Office, 400 Southwest Sixth Avenue, Suite 700, Portland, OR 97204-1632, CPD Telephone Number: 503-326-7018, TTY Number: 503-326-3656, Local Hours of Operation: 8 am-4:30 pm

Pennsylvania

Eastern—Pennsylvania State Office, The Wanamaker Building, 100 Penn Square East, Philadelphia, PA 19107-3380, CPD Telephone Number: 215-656-0624, TTY Number: 215-656-3452, Local Hours of Operation: 8 am-4:30 pm

Western—Pittsburgh Area Office, 339 Sixth Avenue, Sixth Floor, Pittsburgh, PA 15222-2515, CPD Telephone Number: 412-644-2999, TTY Number: 412-644-5747, Local Hours of Operation: 8 am-4:30 pm

Rhode Island

Massachusetts State Office, Thomas P. O'Neill, Jr. Federal Building, 10 Causeway Street, Room 531, Boston, MA 02122, CPD Telephone Number: 617-994-8350, TTY Number: 617-565-5453, Local Hours of Operation: 8:30 am-5 pm

South Carolina

South Carolina State Office, Strom Thurmond Federal Building, 1835 Assembly Street, Columbia, SC 29201-2480, CPD Telephone Number: 803-765-5564, TTY Number: 803-253-3071, Local Hours of Operation: 8 am-4:45 pm

South Dakota

Colorado State Office, 633 17th Street, 14th Floor, Denver, CO 80202-3607, CPD Telephone Number: 303-672-5414, TTY Number: 303-672-5248, Local Hours of Operation: 8 am-4:30 pm

Tennessee

Knoxville Area Office, John J. Duncan Federal Building, 710 Locust Street SW, Third Floor, Knoxville, TN 37902-2526, CPD Telephone Number: 423-545-4391, TTY Number: 423-545-4559, Local Hours of Operation: 7:30 am-4:15 pm

Texas

Northern—Texas State Office, 801 Cherry Street, Post Office Box 2905, Fort Worth, TX 76102, CPD Telephone Number: 817-978-5933, TTY Number: 817-978-9273, Local Hours of Operation: 8 am-4:30 pm

Southern—San Antonio Area Office, Washington Square, 800 Dolorosa Street, San Antonio, TX 78207-4563, CPD Telephone Number: 210-475-6820, TTY Number: 210-475-6885, Local Hours of Operation: 8 am-4:30 pm

Utah

Colorado State Office, 633 17th Street, 14th Floor, Denver, CO 80202-3607, CPD Telephone Number: 303-672-5414, TTY Number: 303-672-5248, Local Hours of Operation: 8 am-4:30 pm

Vermont

Massachusetts State Office, Thomas P. O'Neill, Jr. Federal Building, 10 Causeway Street, Room 531, Boston, MA 02122, CPD Telephone Number: 617-994-8350, TTY Number: 617-565-5453, Local Hours of Operation: 8:30 am-5 pm

Virginia

Virginia State Office, The 3600 Centre, 3600 West Broad Street, Richmond, VA 23230-4920, CPD Telephone Number: 804-278-4500, TTY Number: 804-278-4501, Local Hours of Operation: 8 am-4:30 pm

Washington

Washington State Office, Seattle Federal Office Building, 909 1st Avenue, Suite 200, Seattle, WA 98104-1000, CPD Telephone Number: 206-220-5150, TTY Number: 206-220-5185, Local Hours of Operation: 8 am-4:30 pm

BILLING CODE 4210-32-P

FUNDING AVAILABILITY FOR THE COMMUNITY DEVELOPMENT BLOCK GRANT PROGRAM FOR INDIAN TRIBES AND ALASKA NATIVE VILLAGES

Program Overview

(A) Authority

Title I of the Housing and Community Development Act of 1974 (42 U.S.C. 5301 et seq.) and the regulations in 24 CFR part 1003.

(B) Purpose of the Program

The purpose of the Community Development Block Grant Program for Indian Tribes and Alaska Native Villages (ICDBG) is the development of viable Indian and Alaska Native communities, including the creation of decent housing, suitable living environments, and economic opportunities primarily for persons with low and moderate incomes as defined in 24 CFR 1003.4.

(C) Available Funds

The FY 2002 appropriation for the ICDBG Program is $70,000,000. In addition, any FY 2001 ICDBG carry-over funding would be available for distribution in FY 2002.

(D) Eligible Applicants

Eligible applicants are Indian tribes or tribal organizations on behalf of Indian tribes.

(E) Application Deadline

June 6, 2002.

(F) Match

None.

(G) Additional Information

If you are interested in applying for funding under this program, please review carefully the General Section of this SuperNOFA and the following additional information.

Please note: when used in this NOFA the word “tribe” means an Indian tribe, band, group or nation, including Alaska Indians, Aleuts, Eskimos, Alaska Native Villages, ANCSA Village Corporations, and ANCSA Regional Corporations.

I. Application Due Date, Addresses for Submission, Tips for Application Preparation, Application Kits, Further Information, and Technical Assistance

(A) Application Due Date

Your completed application (one original and two copies) must be postmarked on or before 12:00 midnight, on June 6, 2002 and be received by the designated Area Office of Native American Programs (ONAP) on or within 15 days of the application due date.

See the General Section of this SuperNOFA for specific procedures that you must follow for the form of application submission. Please note that for security purposes, applications can only be delivered to Area ONAPs via the United States Postal Service. Hand carried applications will not be accepted.

(B) Addresses for Submitting Applications to the Appropriate Area ONAP

Submit original signed application and two copies to the appropriate Area ONAP for your jurisdiction. A list of jurisdictions is given below. Please note that for security purposes, applications can only be delivered to Area ONAPs via the United States Postal Service.

If you are applying from this geographic location then * * * | send your application to this Area ONAP:
All States East of the Mississippi River, Plus Iowa and Minnesota | Eastern/Woodlands Office of Native American Programs Grants Management Division, 77 West Jackson Blvd., Room 2400, Chicago, IL 60604-3507, Telephone: (312) 886-4532, Ext. 2815.
Louisiana, Kansas, Oklahoma, and Texas, except West Texas | Southern Plains Office of Native American Programs, Grants Management Division, 500 W. Main Street, Suite 400, Oklahoma City, OK 73102-3202, Telephone: (405) 553-7525.
Colorado, Montana, Nebraska, North Dakota, South Dakota, Utah, and Wyoming | Northern Plains Office of Native American Programs, Grants Management Division, First Interstate Tower North, 633 17th Street, Denver, CO 80202-3607, Telephone: (303) 672-5465.
Arizona, California, and Nevada | Southwest Office of Native American Programs, Grants Management Division, Two Arizona Center, Suite 1650, 400 N. Fifth Street, Phoenix, AZ 85004-2361, Telephone: (602) 379-3865.
New Mexico and West Texas | Southwest Office of Native American Programs, Grants Management Division, Albuquerque Plaza, 201 3rd Street N.W., Suite 1830, Albuquerque, NM 87102-3368, Telephone: (505) 346-6923.
Idaho, Oregon, Washington | Northwest Office of Native American Programs, Grants Management Division, Federal Office Building, 909 First Avenue, Suite 300, Seattle, WA 98104-1000, Telephone: (206) 220-5271.
Alaska | Alaska Office of Native American Programs, Grants Management Division, 949 E. 36th Avenue, Suite 401, Anchorage, AK 99508-4399, (907) 271-4603.

(C) General Tips for ICDBG Application Preparation

In order to expedite the review of your application and to ensure that your application is given a thorough and complete review of all responses to each of the components of the selection criteria, please indicate on the first page of each project submission, the type of project(s) being proposed: Economic Development, Homeownership Assistance, Housing Rehabilitation, Land Acquisition to Support New Housing, Microenterprise Programs, New Housing Construction or Public Facilities & Improvements. This will help to ensure that the appropriate project specific thresholds and rating sub-factors will be applied.

In addition, please use separate tabs for each rating factor and rating sub-factor. In order to be rated, make sure the response is beneath the appropriate heading. Keep the responses in the same order as the NOFA. Limit your narrative explanations to 200 words or less and provide the necessary data such as a market analysis, a pro forma, housing survey data, etc., that support the response. Include all relevant material to a response under the same tab. Only include that documentation that will clearly and concisely support your response to the rating criteria.

HUD suggests that you do a preliminary rating for your project, providing a score according to the NOFA point system. This will help to show you how your project might be scored by reviewers. Also, it will help to show you where the strengths and weaknesses of the application are located. This will help you determine where improvements can be made to your application prior to its submission.

(D) Application Kits

For an application kit and any supplemental material please call the SuperNOFA Information Center at 1-800-HUD-8929 or the appropriate Area ONAP for your jurisdiction as listed above. Persons with hearing or speech impairments may call the Center's TTY number at 1-800-HUD-2209. An application kit also will be available on the Internet through the HUD Web site at http://www.hud.gov/grants. When requesting an application kit, please refer to ICDBG and provide your name, address (including zip code), and telephone number (including area code).

(E) Further Information

You should direct general program questions to the Area ONAP serving your area or to Jackie Kruszek, Office of Native American Programs, Office of Public and Indian Housing, Department of Housing and Urban Development, 1999 Broadway, Suite 3390, Denver, CO 80202; telephone (800) 561-5913. Persons with speech or hearing impairments may call HUD's TTY number (202) 708-0770, or 1-800-877-8399 (the Federal Information Relay Service TTY). Other than the “800” number, these numbers are not toll-free.

(F) Technical Assistance

Before the application due date, we will be available to provide you with general guidance and technical assistance. We, however, are not permitted to assist in preparing your application. Following selection of applicants, but before awards are made, we are available to assist you in clarifying or confirming information that is required to address a pre-award requirement or condition but will not affect the rating or ranking of your application.

Amount Allocated

(A) Available Funds

The FY 2002 appropriation for the ICDBG Program is $70,000,000. In addition, any FY 2001 ICDBG carry-over funding would be available for distribution in FY 2002.

(B) General

Title I of the Housing and Community Development Act of 1974 which authorizes CDBG requires grants for Indian tribes be awarded on a competitive basis in accordance with selection criteria contained in a regulation promulgated by the Secretary after notice and public comment. All grant funds awarded in accordance with this NOFA are subject to the requirements of 24 CFR part 1003. Applicants within an Area ONAP's geographic jurisdiction compete only against each other for that Area ONAP's allocation of funds.

(C) Allocations

The requirements for allocating funds to Area ONAPs responsible for program administration are found at 24 CFR 1003.101. Following these requirements, based on an appropriation of $70,000,000 less $2,000,000 retained to fund Imminent Threat Grants, the allocations for FY 2002 are as follows:

Eastern/Woodland | $ 5,905,403
Southern Plains | 12,608,675
Northern Plains | 10,791,499
Southwest | 27,710,487
Northwest | 4,741,105
Alaska | 6,242,832
Total | 68,000,000

(D) Imminent Threats

The criteria for grants to alleviate or remove imminent threats to health or safety that require an immediate solution are described at 24 CFR part 1003, subpart E. In order to satisfy these criteria, the problem to be addressed must be such that an emergency situation exists or would exist if the problem were not addressed. In addition, you may use funds only to address imminent threats that are not of a recurring nature and that represent a unique and unusual circumstance that impacts an entire service area. In accordance with the provisions of 24 CFR part 1003, subpart E, we will retain $2,000,000 to meet the funding needs of imminent threat applications submitted to any of the Area ONAPs. The grant ceiling for imminent threat applications for FY 2002 is $350,000. We established this ceiling pursuant to the provisions of 24 CFR 1003.400(c).

You do not have to submit a request for assistance under the imminent threat set-aside (24 CFR part 1003, subpart E) by the deadline established in this NOFA. The deadline applies only to applications submitted for assistance under 24 CFR part 1003, subpart D, Single purpose grants.

If, in response to a request for assistance, an Area ONAP issues you a letter to proceed under the authority of 24 CFR 1003.401(a), then your application must be submitted to and approved by the Area ONAP before a grant agreement may be executed. This application must contain: Standard Form 424, Application for Federal Assistance; a brief description of the proposed project; Form HUD-4123, Cost Summary; Form HUD-4125, Implementation Schedule; Form HUD-2880, Applicant/Recipient Disclosure/Update Report; and, Form HUD-50070, Certification for a Drug-Free Workplace.

III. Program Description; Eligible Applicants; Eligible Activities; and Definitions

(A) Program Description

The purpose of the ICDBG Program is the development of viable Indian and Alaska Native communities, including the creation of decent housing, suitable living environments, and economic opportunities primarily for persons with low and moderate incomes.

(B) Eligible Applicants

To apply for funding you must be eligible as an Indian Tribe (or as a tribal organization) by the application submission date.

Tribal organizations are permitted to submit applications under 24 CFR 1003.5(b) on behalf of eligible tribes when one or more eligible tribe(s) authorize the organization to do so under concurring resolutions. As is stated in this regulatory section, the tribal organization must itself be eligible under title I of the Indian Self-Determination and Education Assistance Act. A determination of such eligibility must be made by the Bureau of Indian Affairs or the Indian Health Service, as appropriate. This determination must be provided to the ONAPs by the application submission date.

If a tribe or tribal organization claims that it is a successor to an eligible entity, the ONAPs must review the documentation to determine whether it is in fact the successor entity.

Due to the unique structure of tribal entities eligible to submit ICDBG applications in Alaska, and as only one ICDBG application may be submitted for each area within the jurisdiction of an entity eligible under 24 CFR 1003.5, a tribal organization that submits an application for activities in the jurisdiction of one or more eligible tribes or villages must include a concurring resolution from each such tribe or village authorizing the submittal of the application. Each such resolution must also indicate that the tribe or village does not itself intend to submit an ICDBG application for that funding round. The hierarchy for funding priority continues to be the IRA Council, the Traditional Village Council, the ANCSA Village Corporation, and the ANCSA Regional Corporation.

On March 13, 2000 (65 FR 13298), the Bureau of Indian Affairs published a Federal Register notice entitled “Indian Entities Recognized and Eligible to Receive Services From the United States Bureau of Indian Affairs.” This notice provides a listing of Indian Tribal Entities in Alaska found to be Indian Tribes as the term is defined and used in 25 CFR part 83. Additionally, pursuant to title I of the Indian Self-Determination and Education Assistance Act, ANCSA Village Corporations and Regional Corporations are also considered tribes and therefore eligible applicants for the ICDBG program.

Any questions regarding eligibility determinations and related documentation requirements for entities in Alaska should be referred to the Alaska Area ONAP prior to the application submission date. (See 24 CFR 1003.5 for a complete description of eligible applicants.)

(C) Eligible Activities

Activities that are eligible for ICDBG funding are identified at 24 CFR part 1003, subpart C. Please note that although this subpart has not yet been revised to include the restrictions on activity eligibility that were added to section 105 of the CDBG statute by section 588 of the Quality Housing and Work Responsibility Act of 1998, these restrictions apply. Specifically, ICDBG funds may not be used to assist directly in the relocation of any industrial or commercial plant, facility, or operation, from one area to another, if the relocation is likely to result in a significant loss of employment in the labor market area from which the relocation occurs. The rating factors included under V (J) specify many of the activities listed as eligible under part 1003, subpart C. Those listed include new housing construction, housing rehabilitation, land acquisition to support new housing, homeownership assistance, public facilities and improvements, economic development, and micro-enterprise programs. However, the following eligible activities not clearly identified by the rating factors may be proposed and rated as described below. For a complete description of eligible activities, please refer to 24 CFR Part 1003 Subpart C.

(1) Acquisition of property. This activity can be proposed as Land to Support New Housing or as part of New Housing Construction, Public Facilities and Improvements or Economic Development depending on the purpose of the land acquisition to support new construction.

(2) Assistance to Institutions of Higher Learning. If such entities have the capacity, they can help the ICDBG grantees to implement eligible projects.

(3) Assistance to Community Based Development Organizations (CBDO's). Grantees may provide assistance to these organizations to undertake activities related to neighborhood revitalization, community economic development or energy conservation.

(4) Clearance, Demolition. These activities can be proposed as part of Housing Rehabilitation, New Housing Construction, Public Facilities and Improvements or Land to Support New Housing.

(5) Code Enforcement. This activity can be proposed as Housing Rehabilitation. The activity must comply with the requirements at 24 CFR 1003.202. HUD approval is required prior to demolition of any assisted housing.

(6) Comprehensive Planning. This activity is eligible, and can be proposed, as part of any otherwise eligible project to the extent allowed by the 20 percent cap on the grant for planning/administration.

(7) Energy Efficiency. Associated activities can be proposed under Housing Rehabilitation or Public Facilities and Improvements depending upon the type of energy efficiency activity.

(8) Lead Based Paint Abatement and Evaluation. These activities can be proposed under Housing Rehabilitation.

(9) Non-Federal Share. ICDBG funds can be used as a match for any non-ICDBG funding to the extent allowed by such funding and the activity is eligible under 24 CFR part 1003, Subpart C.

(10) Privately and Publicly Owned Commercial or Industrial Buildings (real property improvements). These activities can be proposed under Economic Development. Privately owned commercial rehabilitation is subject to the requirements at 24 CFR 1003.202.

(11) Privately Owned Utilities. Assistance to privately owned utilities can be proposed under Public Facilities and Improvements.

(12) Removal of Architectural Barriers. This includes removing barriers that restrict mobility and access for elderly and persons with disabilities. This activity can be proposed under Housing Rehabilitation or Public Facilities and Improvements depending upon the type of structure where the barrier will be removed.

(D) Definitions

(1) Adopt. To approve by formal tribal resolution.

(2) Assure. To comply with a specific NOFA requirement. As an applicant, you must state your compliance or your intent to comply in your application.

(3) Document. To supply supporting written information and/or data in the application that satisfies the NOFA requirement.

(4) Entity Other than Tribe. A distinction is made between the requirements for point award under Rating Factor 3 if a tribe or an entity other than the tribe will assume maintenance and related responsibilities for projects other than economic development and land acquisition to support new housing. Entities other than the tribe must have the following characteristics: must be legally distinct from the tribal government; their assets and liabilities cannot be considered to be assets and liabilities of the tribal government; claims against such entities cannot be made against the tribal government; and, must have governing boards, boards of directors, or groups or individuals similar in function and responsibility to such boards which are separate from the tribe's general council, tribal council, or business council, as applicable.

Entities other than the tribe may be completely external to the tribe, e.g., a Federal agency, or may be an entity formed or chartered under provisions of tribal law, e.g., a tribally chartered non-profit or for-profit corporation, tribal utility authority, or tribal political subdivision. For example, a housing office that is operated as a department of the tribe would be considered the tribe. However, a housing office that is operated as a tribally designated housing entity (TDHE) would be considered an entity other than the tribe.

(5) Homeownership Assistance Programs. Tribes may apply for assistance to provide direct homeownership assistance to low- and moderate-income households to: subsidize interest rates and mortgage principal amounts for low- and moderate-income homebuyers; finance the acquisition by low- and moderate-income homebuyers of housing that is occupied by the homebuyers; acquire guarantees for mortgage financing obtained by low- and moderate-income homebuyers from private lenders (except that ICDBG funds may not be used to guarantee such mortgage financing directly, and grantees may not provide such guarantees directly); provide up to 50 percent of any downpayment required from a low- and moderate-income homebuyer; or, pay reasonable closing costs (normally associated with the purchase of a home) incurred by a low- or moderate-income homebuyer.

(6) Leverage. Resources that you will use in conjunction with ICDBG funds to achieve the objectives of the project. Resources include, but are not limited to: tribal trust funds; loans from individuals or organizations; State or Federal loans or guarantees; other grants; and non-cash contributions and donated services. (See Rating Factor 4 of this NOFA for documentation requirements for point award for leveraged resources.)

(7) Microenterprise Programs. Tribes may apply for assistance to operate programs to fund the development, expansion and stabilization of microenterprises. Microenterprises are defined as commercial entities with five or fewer employees, including the owner. Microenterprise program activities may entail the following assistance to eligible businesses: providing credit, including, but not limited to, grants, loans, loan guarantees, and other forms of financial support for the establishment, stabilization, and expansion of microenterprises; providing technical assistance, advice, and business support services to owners of microenterprises and persons developing microenterprises; and providing general support, including, but not limited to, peer support programs, counseling, child care, transportation, and other similar services to owners of microenterprises and persons developing microenterprises.

(8) Operations and Maintenance (O&M) for Public Facilities and Improvements. While various items of cost will vary in importance and significance depending on the type of facility proposed, there are items of expense related to the operation of the physical plant which must be addressed in a O&M plan (tribe assumes responsibility) or letter of commitment (entity other than tribe will assume these responsibilities). These items include daily or other periodic maintenance activities; repairs such as replacing broken windows; capital improvements or replacement reserves for repairs such as replacing the roof; fire and liability insurance (may not be applicable to most types of infrastructure projects such as water and sewer lines); and, security (may not be applicable to many types of infrastructure projects such as roads).

Please note that while it is possible that the service provider may, in its agreement with a tribe, commit itself to cover certain or all facility O&M costs, as defined, these O&M costs do not include the program service provision costs related to the delivery of services (social, health, recreational, educational or other) which may be provided in a facility.

(9) Project Cost. The total cost to implement the project. Project cost includes both ICDBG and non-ICDBG funds and resources.

(10) Standard Housing/Standard Condition. Housing that meets the housing quality standards (HQS) adopted by the applicant. The HQS adopted by the applicant must be at least as stringent as the Section 8 HQS contained in 24 CFR 982.401 (Section 8 Tenant-Based Assistance: Housing Choice Voucher Program) unless the ONAPs approve less stringent standards based on a determination that local conditions make the use of Section 8 HQS infeasible. You may submit, before the application due date, a request for the approval of standards less stringent than Section 8 HQS. If you submit the request with your application, you should not assume automatic approval by the ONAPs. The adopted standards must provide for a safe house, in physically sound condition with all systems performing their intended design functions; a livable home environment and an energy efficient building and systems that incorporate energy conservation measures; and, an adequate space and privacy for all intended household members.

IV. Program Requirements

In addition to the program requirements listed in the General Section of this SuperNOFA, as an applicant you must comply with the following requirements:

(A) Program Requirements Applying to All Projects

(1) Grant Ceilings. The authority to establish grant ceilings is found at 24 CFR 1003.100(b)(1). Grant ceilings are established for FY 2002 funding at the following levels:

Area ONAP | Population | Ceiling
Eastern/Woodlands | ALL | $500,000
Southern Plains | ALL | 750,000
Northern Plains | ALL | 800,000
Southwest | 50,001+ | 5,000,000
| 10,501-50,000 | 2,500,000
| 7,501-10,500 | 2,000,000
| 6,001-7,500 | 1,000,000
| 1,501-6,000 | 750,000
| 0-1,500 | 550,000
Northwest | ALL | 500,000
Alaska | ALL | 500,000

For the Southwest Area ONAP jurisdiction, the population used to determine ceiling amounts is the Native American population that resides on a reservation or rancheria. Please contact that office before submitting your application if you are unsure of the population level to use to determine the ceiling amount for your tribe or if you believe that the level used for previous years needs to be revised or corrected. The Southwest ONAP must approve any corrections or revisions to Native American population data before you submit your application.

(2) Environmental Requirements. As required by 24 CFR 1003.605, ICDBG grantees must perform environmental reviews of ICDBG activities in accordance with 24 CFR part 58. Grantees may not commit or expend any ICDBG or nonfederal funds on project activities (other than those listed in 24 CFR 58.34 or 58.35(b)) until HUD has approved a Request for Release of Funds and environmental certification submitted by the grantee. The expenditure or commitment of ICDBG or nonfederal funds for such activities prior to HUD approval may result in the denial of assistance for the project or activities under consideration.

(3) Indian Preference. HUD has determined that the ICDBG program is subject to section 7(b) of the Indian Self-Determination and Education Assistance Act (25 U.S.C. 450e(b)). The provisions and requirements for implementing this section are in 24 CFR 1003.510.

(4) Anti-discrimination Provisions. Under the authority of section 107(e)(2) of the CDBG statute, HUD waived the requirement that recipients comply with the anti-discrimination provisions in section 109 of the CDBG statute with respect to race, color, and national origin. You must comply with the other prohibitions against discrimination in section 109 (HUD's regulations for section 109 are in 24 CFR part 6) and with the Indian Civil Rights Act.

(5) Conflict of Interest. In addition to the conflict of interest requirements with respect to procurement transactions found in 24 CFR 85.36 and 84.42, as applicable, the provisions of 24 CFR 1003.606 apply to such activities as the provision of assistance by the recipient or sub-recipients to businesses, individuals, and other private entities under eligible activities that authorize such assistance.

(6) Economic Opportunities for Low and Very Low-Income Persons (Section 3). Section 3 requirements apply to the ICDBG Program, but as stated in 24 CFR 135.3(c), the procedures and requirements of 24 CFR part 135 apply to the maximum extent consistent with, but not in derogation of, compliance with Indian Preference.

(B) Program Requirements Applying to Specific Projects

(1) Low and Moderate Income Status for Rehabilitation Projects.

All households that receive grant assistance under a housing rehabilitation project will be of low- and moderate-income status.

(2) Housing Rehabilitation Cost Limits.

Grant funds spent on rehabilitation per house must fall within the following limits for each Area ONAP jurisdiction:

(i) Eastern/Woodlands | $35,000
(ii) Southern Plains | 20,000
(iii) Northern Plains | 35,000
(iv) Southwest | 40,000
(v) Northwest | 40,000
(vi) Alaska | 55,000

(3) Commitment to Housing for Land Acquisition to Support New Housing Projects. For land acquisition to support new housing projects, your application must include evidence of a financial commitment and an ability to construct at least 25 percent of the housing units to be built on the land proposed for acquisition. This evidence must consist of one (or more) of the following: a firm or conditional commitment to construct (or to finance the construction of) the units; documentation that an approvable application for the construction of these units has been submitted to a funding source or entity; or, documentation that these units are specifically identified in the Indian Housing Plan (IHP), (one-Year Financial Resources Narrative; Table 2, Financial Resources, Part I., Line 1E; and Table 2, Financial Resources, Part III) submitted on or on behalf of the applicant as an affordable housing resource with a commensurate commitment of Indian Housing Block Grant (IHBG) (aka the Native American Housing Block Grant (NAHBG)) resources. If the IHP for the IHBG (aka NAHBG) Program year that coincides with the implementation of the ICDBG proposed project has not been submitted, you must provide an assurance that when submitted, the IHP will specifically reference the proposed project.

(4) Health Care Facilities. If you propose a facility that would provide health care services funded by the Indian Health Service (IHS), you must assure that the facility meets all applicable IHS facility requirements. We recognize that tribes that are contracting services from the IHS may establish other facility standards. These tribes must assure that these standards at least compare to nationally accepted minimum standards.

(C) Inapplicable General Section Program Requirements

Please note that the requirements in the General Section regarding conducting business in accordance with HUD core values and ethical standards do not apply to the ICDBG Program. The provision in II(C) of the General Section giving two bonus points for eligible activities/projects to be located in a RC/EZ/EC does not apply. In addition, the requirements in Section II(D) of the General Section of the SuperNOFA regarding applicability of affirmatively furthering fair housing do not apply. The requirement is inconsistent with section 106(a) of the Housing and Community Development Act of 1974, as amended, which specifically makes inapplicable to the ICDBG program the requirement of section 104(b)(2) that the grantee certify that it will affirmatively further fair housing.

V. Application Selection Process

You, the applicant, must meet all of the applicable threshold requirements of Section II(B) of the General Section of the SuperNOFA. Your application must meet all screening for acceptance requirements and all applicant and project specific thresholds listed below. HUD will review each application and assign points in accordance with the selection factors described in this section. A maximum of 100 points may be awarded under Rating Factors 1 through 5 including 1 point awarded for applications incorporating accessible design features into the proposed project with associated performance measures. To be considered for funding, your application must receive a minimum of 15 points under rating factor 1 and an application score of 70 out of the possible total of 100.

(A) Screening for Acceptance

ONAPs will screen applications for single purpose grants. The ONAPs will reject an application that fails this screening and will return the application unrated. The ONAPs will accept your application if it meets all the criteria listed below as items (1) through (6):

(1) Your application is received or submitted in accordance with the requirements set forth under Address and Application and Submission Procedures in the General Section of this SuperNOFA;

(2) You are eligible;

(3) The proposed project is eligible;

(4) Your application contains substantially all the components specified in VI of the ICDBG Program Section of this SuperNOFA;

(5) Your application shows that at least 70% of the grant funds are to be used for activities that benefit low and moderate income persons, in accordance with the requirements of 24 CFR 1003.208; and

(6) Your application is for an amount that does not exceed the grant ceilings that are established by the NOFA.

(B) Threshold Review

ONAPs will review each application that passes the screening process to ensure that each applicant and each proposed project meets the applicant threshold requirements set forth in 24 CFR 1003.301(a) and the project specific threshold requirements set forth in 24 CFR 1003.302.

(C) Rating

The ONAPs will review and rate each project that meets the acceptance criteria and threshold requirements. The total points for all rating factors is 100. A maximum of 100 points may be awarded under Rating Factors 1 through 5 including 1 point awarded for applications incorporating accessible design features into the proposed project with associated performance measures. Promoting accessible design features is one of HUD's FY 2002 policy priorities as describes in Section (V) of the General Section of this SuperNOFA. To be considered for funding, your application must receive a minimum of 15 points under rating factor 1 and an application score of 70 out of the possible total of 100.

(D) Public Service Projects

Because there is a statutory 15 percent cap on the amount of grant funds that may be used for public services activities, you may not receive a single purpose grant solely to fund public services activities. Your application, however, may contain a public services component for up to 15 percent of the total grant. This component may be unrelated to the other project(s) included in your application. If your application does not receive full funding, we will reduce the public services allocation proportionately so that it comprises no more than 15 percent of the total grant award. In making such reductions, the feasibility of the proposed project will be taken into consideration. If a proportionate reduction of the public services allocation renders such a project infeasible, the project will not be funded.

(E) Final Ranking

We will rank all projects against each other according to the point totals they receive, regardless of the type of project or component under which the points were awarded. We will select projects for funding based on this final ranking, to the extent that funds are available. We will determine individual grant amounts in a manner consistent with the considerations set forth in 24 CFR 1003.100(b)(2). Specifically, ONAPs may approve a grant amount less than the amount requested. In doing so, ONAPs may take into account the size of the applicant, the level of demand, the scale of the activity proposed relative to need and operational capacity, the number of persons to be served, the amount of funds required to achieve project objectives, and the reasonableness of the project costs. If the ONAPs determine that there are not enough funds available to fund a project as proposed by the applicant, they may decline to fund that project and may fund the next highest-ranking project or projects for which adequate funds are available. The ONAPs may select, in rank order, additional projects for funding if one of the higher-ranking projects is not funded or if additional funds become available.

(F) Tiebreakers

When rating results in a tie among projects and insufficient resources remain to fund all tied projects, the ONAPs will approve projects that can be fully funded over those that cannot be fully funded. When that does not resolve the tie, the ONAPs will use the following factors in the order listed to resolve the tie:

(1) The applicant that has not received an ICDBG over the longest period of time.

(2) The applicant with the fewest active ICDBGs.

(3) The project that would benefit the highest percentage of low and moderate income persons.

(G) Pre-award Requirements

If there are technical deficiencies in successful applications, you must satisfactorily address these deficiencies before we can make a grant award. Please see Section V of the General Section of this NOFA for a definition of such a deficiency and a description of the process to address and correct the deficiency. You must correct all technical deficiencies within the timeframe established by HUD. If they are not corrected, we will not make the grant award and will reject your application.

We also may require a successful applicant to provide supporting documentation concerning the management, maintenance, operation, or financing of proposed projects before a grant agreement can be executed. We will normally give you no less than thirty (30) calendar days to respond to these requirements. If you do not respond within the prescribed time period or you make an insufficient response, the ONAPs may determine that you have not met the requirements and may withdraw the grant offer. The ONAPs require you to submit supporting documentation if specific questions remain concerning the scope, magnitude, timing, or method of implementing the project; or you have not provided information verifying the commitment of other resources required to complete, operate, or maintain the proposed project. You may not substitute new projects for those originally proposed in your application nor will this information affect your project's rating and ranking. We will award, in accordance with the provisions of this NOFA, grant amounts that had been allocated for applicants unable to meet pre-award requirements.

(H) General Threshold Requirement

According to 24 CFR 1003.301(a), an applicant who has an outstanding ICDBG obligation to HUD that is in arrears, or one that has not agreed to a repayment schedule will be disqualified from the competition.

(I) Project Specific Threshold Requirements

Please indicate on the first page of each project submission, the type of project(s) (Economic Development, Homeownership Assistance, Housing Rehabilitation, Land Acquisition to Support New Housing, Microenterprise Programs, New Housing Construction or Public Facilities & Improvements) that is (are) being proposed. This will help to ensure that the appropriate project specific thresholds and rating sub-factor will be applied.

In addition, for definitions of “assure” and “document”, please refer to Section III(D), Definitions of this Program Section of the SuperNOFA.

(1) Housing Rehabilitation Project Thresholds.

(a) In accordance with 24 CFR 1003.302(a), for housing rehabilitation projects, you must adopt rehabilitation standards and rehabilitation policies before you submit an application. You must submit these standards and policies with the application.

(b) In accordance with 24 CFR 1003.302(a), you must also provide an assurance that project funds will be used to rehabilitate HUD-assisted houses only when the tenant/homebuyer's payments are current or the tenant/homebuyer is current in a repayment agreement except in an emergency situation. Exceptions to this requirement must be approved by the ONAP Administrator on a case-by-case basis.

(2) Land Acquisition to Support New Housing Project Thresholds. No project specific thresholds.

(3) New Housing Construction Project Thresholds. (a) In accordance with 24 CFR 1003.302, new housing construction can only be implemented through a Community Based Development Organization (CBDO). Eligible CBDOs are described in 24 CFR 1003.204(c). You must provide documentation establishing that the entity implementing your new housing construction project qualifies as a CBDO.

(b) In accordance with 24 CFR 1003.302, you must also submit with your application a current tribal resolution adopting and identifying construction standards. The construction standards may be a tribal building code or a nationally recognized model code. If it is a tribal code, it must regulate all of the areas and sub-areas identified in 24 CFR 200.925(b). If the code is recognized nationally, it must be the latest edition of one of the codes incorporated by reference in 24 CFR 200.925(c).

(c) In accordance with 24 CFR 1003.302, you must also include in your application documentation supporting the following:

(i) All households to be assisted under a new housing construction project must be of low or moderate income status;

(ii) No other housing is available in the immediate reservation area that is suitable for the households to be assisted;

(iii) No other funding sources including an IHBG (aka NAHBG) can meet the needs of the household(s) to be served; and

(iv) The house occupied by the household to be assisted is not in standard condition and rehabilitation is not economically feasible, the household is currently in an overcrowded house (more than one household per house), or the household to be assisted has no current residence.

(4) Homeownership Assistance Project Thresholds. No project specific thresholds.

(5) Public Facilities and Improvements Project Thresholds. No project specific thresholds.

(6) Economic Development Project Thresholds. In accordance with 24 CFR 1003.302, for economic development assistance you must provide a financial analysis. The financial analysis must demonstrate that the project is financially feasible and the project has a reasonable chance of success. The analysis must also demonstrate the public benefit resulting from the ICDBG assistance. The more funds you request, the greater public benefit you must demonstrate. The analysis must also establish that to the extent practicable, reasonable financial support will be committed from non-federal sources prior to disbursement of federal funds; any grant amount provided will not substantially reduce the amount of non-federal financial support for the activity; not more than a reasonable rate of return on investment is provided to the owner; and that grant funds used for the project will be disbursed on a pro-rata basis with amounts from other sources. In addition, it must be established that the project is financially feasible and has a reasonable chance of success.

(7) Microenterprise Program Thresholds. No project specific threshold.

(J) Factors for Award Used To Evaluate and Rate Applications

The factors for rating and ranking applications and the points for each factor are provided below. A maximum of 100 points may be awarded under Rating Factors 1 through 5. To be considered for funding, your application must receive a minimum of 15 points under rating factor 1 and an application score of 70 out of the possible total of 100, the maximum any project can receive. The following summarizes the points assigned to each rating factor and each rating sub-factor and lists which rating sub-factors apply to which project types. Please use this table to ensure you are addressing the appropriate rating sub-factor for your project.

Rating factor | Rating and sub-factor | Points | Project type
1 | Total | 30 | Minimum of 15 Points Required.
| (1)(a) | 10 | All Project Types.
| (1)(b) | *5 or 7 | All Project Types.
| (1)(c) | *3 or 8 | All Project Types.
| (1)(d) | *2 or 5 | All Project Types.
| (2)(a) | *2 or 0 | All Project Types.
| (2)(b) | *2 or 0 | All Project Types.
| (2)(c) | *2 or 0 | All Project Types.
| (2)(d) | *2 or 0 | All Project Types.
| (2)(e) | *2 or 0 | All Project Types.
2 | Total | 20 | All Project Types.
| 1 | 5 | All Project Types.
| (2)(a) | 15 | Public Facilities and Improvements and Economic Development Projects.
| (2)(b) | 15 | New Housing Construction, Housing Rehabilitation, Land Acquisition to Support New Housing, and Homeownership Assistance Projects.
| (2)(c) | 15 | Microenterprise Programs.
3 | Total | 35 |
| (1) | 19 | All Project Types.
| (2) | 1 | All Project Types.
| (3) | 1 | All Project Types.
| (4)(a)(i) | 15 | Public Facilities and Improvements (tribe assumes O&M responsibilities).
| (4)(a)(ii) | 15 | Public Facilities and Improvements (entity other than tribe assumes O&M responsibilities).
| (4)(b) | 15 | New Housing Construction, Housing Rehabilitation, and Homeownership Assistance Projects.
| (4)(c) | 15 | Economic Development.
| (4)(d) | 15 | Microenterprise Programs.
| (4)(e) | 15 | Land Acquisition to Support New Housing.
4 | Total | 10 | All Project Types.
5 | Total | 5 | All Project Types.
Total possible |  | 100 | Minimum of 70 Points Required.
* The first number listed indicates the maximum number of points available to current ICDBG grantees under this sub-factor. The second number indicates the maximum number of points available to new applicants.

Rating Factor 1: Capacity of the Applicant (30 Points)

This factor addresses the extent to which you have the organizational resources necessary to successfully implement the proposed activities in a timely manner. If applicable, past performance in administering previous ICDBG grants will be taken into consideration. Please specifically address the existence or availability of these resources for the specific type of activity for which you are applying. You must receive a minimum of 15 points under this factor for your proposed activity to be eligible for funding. HUD will not rate any projects further that do not receive a minimum of 15 points under this factor.

(1) Managerial, Technical, and Administrative Capability

(20 points for current ICDBG grantees)

(30 points for new applicants)

Your application must include documentation demonstrating that you possess or can obtain managerial, technical, and/or administrative capability necessary to carry out the proposed project. Your application must address who will administer the project and how you plan to handle the technical aspects of executing the project.

(a) Managerial and Technical Staff

(10 points)

The extent to which your application describes the roles/responsibilities and the knowledge/experience of your overall proposed project director and staff, including the day-to-day program manager, consultants and contractors in planning, managing and implementing projects for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor.

(b) Project Management Plan and Method

(5 points for current ICDBG grantees)

(7 points for new applicants)

The extent to which your project management plan identifies the specific actions that you and your partners contractors and/or sub grantees will take to complete your proposed project on time and within budget. Your management plan must include a description of the management structure for the program and a schedule outlining the estimated completion of all tasks associated with your proposed project.

(c) Financial Management

(3 points for current ICDBG grantees)

(8 points for new applicants)

The extent to which your application describes how your financial management systems will facilitate effective fiscal control over your proposed project. Effective fiscal control will be judged in terms of your financial management and/or internal control policies and procedures meeting 24 CFR part 85 and 24 CFR part 1003 requirements as evidenced by a tribal resolution adopting such policies and procedures and the adopted resolution is included with your application; how you will apply your financial systems to the specific project for which you are applying; and, the findings of your most recent financial audit or a letter of endorsement from your auditor if the most recently conducted audit report has not been finalized is included with your application.

(d) Procurement and Contract Management

(2 points for current ICDBG grantees)

(5 points for new applicants)

The extent to which your application describes how your procurement and contract administration policies and procedures will facilitate effective procurement and contract control over your proposed project. Effective procurement and contract control will be judged in terms of your procurement and contract administration policy and procedures meeting 24 CFR part 85 and 24 CFR part 1003 requirements as evidenced by an adopted resolution and included with your application, and how you will apply your procurement and contract systems to the specific project for which you are applying.

(2) Past Performance

(10 points for current ICDBG grantees) (0 points for new applicants)

Your performance in administering ICDBG grants over the preceding 12-month period on any open ICDBG grant will be evaluated based on the following performance measures.

(a) (2 points for current ICDBG grantees) (0 points for new applicants) You have had satisfactory progress in meeting the time frames established in the HUD-approved Implementation Schedule for the ICDBG Program.

(b) (2 points for current ICDBG grantees) (0 points for new applicants) You have had timely submission of required reports including the Annual Status and Evaluation Report and Federal Cash Transaction Report for the ICDBG Program.

(c) (2 points for current ICDBG grantees) (0 points for new applicants) You have submitted close-out documents to HUD in a timely manner. Close-out documents are required for the ICDBG Program within 90 days of the date it is determined that the criteria for close out at 24 CFR 1003.508 have been met.

(d) (2 points for current ICDBG grantees) (0 points for new applicants) You have submitted in a timely fashion annual audits in accordance with the ICDBG Program requirements and OMB Circular A-133 and its compliance supplements.

(e) (2 points for current ICDBG grantees) (0 points for new applicants) You have resolved in a timely fashion ICDBG monitoring findings and controlled audit findings or no findings in current reports.

Rating Factor 2: Need/Extent of the Problem (20 Points)

This factor addresses the extent to which there is a need for the proposed project to address a documented problem among the intended beneficiaries.

(1) (5 points) Your application includes documentation demonstrating that the proposed project meets an essential community development need by fulfilling a function that is critical to the continued existence or orderly development of the community.

(2) (15 points) Your project benefits the neediest segment of the population. The criteria for this sub-factor vary according to the type of project for which you are applying. Please note that you may submit data that are unpublished and not generally available in order to meet the requirements of this section. However, to do so, you must submit a demographic data certification along with supporting documentation as described in Section VI (A) and (C)(6) below.

(a) Public Facilities and Improvements and Economic Development Project

The proposed activities benefit the neediest segment of the population, as identified below. For economic development projects, you may consider beneficiaries of the project as persons served by the project and/or persons employed by the project.

(15 points) 85 percent or more of the beneficiaries are low or moderate income.

(10 points) At least 75 percent but less than 85 percent of the beneficiaries are low or moderate income.

(5 points) At least 55 percent but less than 75 percent of the beneficiaries are low or moderate income.

(0 points) Less than 55 percent of the beneficiaries are low or moderate income.

(b) New Housing Construction, Housing Rehabilitation, Land Acquisition to Support New Housing, and Homeownership Assistance Projects

(15 points) The Indian tribe's IHBG (aka NAHBG) amount was $100,000 or less in IHBG (aka NAHBG) funds.

(10 points) The Indian tribe's IHBG (aka NAHBG) amount was more than $100,000 but at most $300,000 in IHBG (aka NAHBG) funds.

(5 points) The Indian tribe's IHBG (aka NAHBG) amount was more than $300,000 but at most $500,000 in IHBG (aka NAHBG) funds.

(0 points) The Indian tribe's IHBG (aka NAHBG) amount was more than $500,000 in IHBG (aka NAHBG) funds.

(c) Microenterprise Programs

The owner(s) of the microenterprise must be low or moderate income and the majority of the jobs created or retained will be for low- or moderate-income persons. To evaluate need, the nature of the jobs created or retained will be evaluated. The owners of the microenterprises are low and moderate income and:

(15 points) All employees are low or moderate income.

(10 points) At least 75 percent but less than 100 percent of the employees are low or moderate income.

(5 points) At least 55 percent but less than 75 percent of the employees are low or moderate income.

(0 points) Less than 55 percent of the employees are low and moderate income.

Rating Factor 3: Soundness of Approach (35 Points)

This factor addresses the quality and anticipated effectiveness of your proposed project in meeting the needs you have identified in Rating Factor 2 and the commitment to sustain your proposed project. The populations that were described in demographics that documented need should be the same populations that will receive the primary benefit of the proposed project.

(1) (14 points) Description of and Rationale for Proposed Project

The extent to which your proposed project is a viable and cost effective approach to address the needs outlined under Rating Factor 2 of your application. You must describe the proposed project in detail and indicate why you believe the proposed project will be most effective in addressing the identified need. Appropriate information to address this subfactor includes the size, type and location of the project; rationale for project design; and, anticipated cost savings due to innovative program design and/or construction methods. For land acquisition to support new housing projects, you must establish that there is a reasonable ratio between the number of net usable acres to be acquired and the number of low- and moderate-income households to benefit from the project.

(2) (5 points) Budget and Cost Estimates

The quality, thoroughness, and reasonableness of the proposed project budget. Cost estimates must be broken down by line item for each proposed activity and documented by outside sources when appropriate.

(3) (1 point) Accessible Design Features

Your application incorporates accessible design features into your proposed project and provides associated performance measures. Promoting accessible design features is one of HUD's FY 2002 policy priorities as describes in Section (V) of the General Section of this SuperNOFA.

(4) (15 points) Commitment to Sustain Activities

Your application demonstrates your commitment to sustain your proposed activities. The criteria for this sub-factor vary according to the type of project for which you are applying.

(a) Public Facilities and Improvement Projects

(i) If the tribe assumes operation and maintenance responsibilities for public facilities and improvements, a resolution that both adopts the operation and maintenance plan and commits necessary funds must be included in the application

(15 points) The plan itself is included and addresses maintenance, repairs, insurance, replacement reserves and includes a cost breakdown for annual expenses; for community buildings only, the source of operating funds is identified for any recreation, social or other services to be provided by the tribe or other entities and letters of commitment from service providers are included which address both operating expenses and space needs.

(10 points) A resolution adopting the operation and maintenance plan and committing funds is included; the plan is included and addresses most, but not all above items, but does include a satisfactory cost breakdown; for community buildings only, above service provider commitments (if applicable) as well as the source of operating funds are included. Information provided is sufficient to determine that the project will proceed effectively.

(5 points) A resolution adopting the plan and committing funds, or a plan addressing most of the above items is included. Information provided is sufficient to determine that the project will proceed effectively.

(0 points) None of the above criteria are met.

(ii) If an entity other than the tribe commits to pay for operation and maintenance for public facilities and improvements, the application must contain a letter of commitment from the entity that assumes the operation and maintenance responsibilities.

(15 points) Your application contains a letter of commitment from the entity that identifies the maintenance responsibilities and, if applicable, responsibilities for operations the entity will assume, as well as commits the necessary funds to provide for these responsibilities; for community buildings only, the source of funds for program service provision is identified for any recreation, social or other services to be provided by the tribe or other entities and letters of commitment from service providers are included which address both these funds and space needs.

(10 points) Your application contains a letter of commitment identifying maintenance responsibilities and, if applicable, responsibilities for operations the entity will assume, but no information committing the necessary funds is included; for community buildings only, the source of funds for program service provision is identified for any applicable services to be provided by the tribe or other entities and letters of commitment from applicable providers are included which address both these funds and space needs.

(5 points) Your application identifies the maintenance provider and, if applicable, responsibilities for operations the entity will assume, but a letter of commitment is not provided; for community buildings only, letters of commitment to provide services are included but no information regarding the provision of these funds or space needs is provided.

(0 points) None of the above criteria are met.

(b) New Housing Construction, Housing Rehabilitation, and Homeownership Assistance Projects

(15 points) The ongoing maintenance responsibilities are clearly identified for the tribe and/or the participants, as applicable. All participant maintenance responsibilities are included on a statement to be signed by the participant as a condition of receiving grant assistance and the statement to be used is included in the application.

(10 points) Maintenance responsibilities are identified, but lacking in detail, and the above statement to be signed by the participant is submitted.

(5 points) Tribal maintenance responsibilities are identified but participant responsibilities are either not addressed or do not exist.

(0 points) None of the above criteria are met.

(c) Economic Development Projects

You must include information or documentation which addresses or provides the following in the application: A description of the organizational system and capacity of the entity that will operate the business; the feasibility and market analysis of the proposed business activity and the financial viability of the project.

Appropriate documents to include in the application to address these items include:

(i) Articles of incorporation, by-laws, resumes of key management positions and board members.

(ii) Business operating plan.

(iii) Market study no more than two years old.

(iv) Feasibility study indicating how the proposed business will capture a fair share of the market.

(v) Detailed cost summary for the development of the project.

(vi) Five year operating or cash flow financial projections.

(vii) For the expansion of an existing business, copies of financial statements for the most recent three years (or the life of the business, if less than three years).

(15 points) All above documents applicable to the proposed project are included in your application and provide evidence that the project's chance for financial success is excellent.

(8 points) All or most of the above documents applicable to the proposed project are included and provide evidence that the project's chance for financial success is reasonable.

(0 points) Neither of the above criteria is met.

(d) Microenterprise Programs

You must include the following information or documentation in the application that addresses or provides a description of how your microenterprise program will operate. Appropriate information to include in the application to address program operations includes:

(i) Program description. A description of your microenterprise program including the types of assistance offered to microenterprise applicants and the types of entities eligible to apply for such assistance.

(ii) Processes for selecting applicants. A description of your processes for analyzing microenterprise applicants' business plans, market studies and financial feasibility. For credit programs, you describe your process for determining the loan terms (i.e. interest rate, maximum loan amount, duration, loan servicing provisions) to be offered to individual microenterprise applicants.

(15 points) All of the above information or documentation applicable to the proposed project are thoroughly addressed in the application and the chances for success are excellent.

(8 points) All or most of the above information or documentation applicable to the proposed project are addressed in the application and the chances for success are reasonable.

(0 points) Neither of the above criteria is met.

(e) Land Acquisition Projects to Support New Housing

Submissions must include the results of a preliminary investigation conducted by a qualified independent entity demonstrating that the proposed site has suitable soil conditions for housing and related infrastructure, available drinking water, access to utilities, vehicular access, drainage, nearby social and community services, and no known environmental problems.

(15 points) The submissions include all of the above-mentioned items and all necessary infrastructure is in place.

(8 points) The submissions demonstrate that the proposed site(s) is/are suitable for housing but that not all necessary infrastructure is in place. A detailed description of resources to be used and a detailed implementation schedule for development of all necessary infrastructure demonstrates that such infrastructure, as needed for proposed housing development, will be developed in time for such development, but no later than two years after site purchase.

(0 points) Neither of the above criteria is met.

Rating Factor 4: Leveraging Resources (10 Points)

HUD believes that ICDBG funds can be used more effectively to benefit a larger number of Native American persons and communities if projects are developed that use tribal resources and resources from other entities in conjunction with ICDBG funds. To encourage this, we will award points based on the percentage of non-ICDBG resources provided relative to project costs as follows:

Non-ICDBG resources to project costs | Points
Less than 5 percent | 0
At least 5 percent but less than 10 percent | 2
At least 10 percent but less than 15 percent | 4
At least 15 percent but less than 20 percent | 6
At least 20 percent but less than 25 percent | 8
25 percent or more | 10

Contributions which could be considered as leveraged resources for point award include, but are not limited to: Tribal trust funds; loans from individuals or organizations; State or Federal loans or guarantees; other grants including IHBG (aka NAHBG) funds; donated goods and services needed for the project; land needed for the project; and, direct administrative costs.

Contributions that will not be considered include, but are not limited to: Indirect administrative costs as identified in OMB Circular A-87, attachment A, section F; contributions of resources to pay for anticipated operations and maintenance costs of the proposed project; and, in the cases of expansions to existing facilities, the value of the existing facility.

To be considered for point award, letters of firm commitments, memoranda of understanding, or agreements to participate from any entity, including the tribe that will be providing a contribution to the project must accompany the application.

To demonstrate the commitment of tribal resources, the application must contain a council resolution or legal equivalent that identifies and commits the tribal resources to the project, subject to approval of the ICDBG assistance and favorable outcome of any environmental review required under 24 CFR part 58 for the project. In the case of IHBG (aka NAHBG) funds, whether they are administered by the tribe or a TDHE, an approved IHP must identify and commit the IHBG (aka NAHBG) resources to the project. If the tribe/TDHE intends to include the leveraged commitment in a future IHP, the application must contain a council resolution or legal equivalent that identifies and commits the IHBG (aka NAHBG) resources to the project subject to the same requirements as above.

To demonstrate the commitment of public agency, foundation, or other private party resources, a letter of commitment, memorandum of understanding, and/or agreement to participate, including any conditions to which the contribution may be subject, must be submitted with the application. All letters of commitment must include the donor organization's name, the specific resource proposed, the dollar amount of the financial or in-kind resource and method for valuation, and the purpose of that resource within the proposed project. The commitment must be signed by an official of the organization legally authorize to make commitments on behalf of the organization and must be conditional upon favorable outcome of any environmental review required under 24 CFR part 58 for the project.

In addition to the above requirements, for all contributions of goods, services and land, you must demonstrate that the donated items are necessary to the actual development of the project and include comparable costs (or time estimates, if appropriate) that support the donation. Land valuation must be established using one of the following methods and the documentation must be contained in the application: A site specific appraisal no more than two years old; an appraisal of a nearby comparable site also no more than two years old; a reasonable extrapolation of land value based on current area realtor value guides; or, a reasonable extrapolation of land value based on recent sales of similar properties in the same area.

Rating Factor 5: Comprehensiveness and Coordination (5 Points)

This factor addresses the extent to which your project planning and proposed implementation reflect a coordinated, community-based process of identifying and addressing needs including assisting beneficiaries and the program to achieve self-sufficiency/sustainability.

(1) (2 points) Your application addresses the extent to which you have coordinated your activities with other organizations that are not directly participating in your proposed work activities (not project partners such as those listed under Rating Factor 4: Leveraging), but with which you share common goals and objectives and are working toward meeting these objectives in a holistic and comprehensive manner. For example, your project is consistent with and, to the extent possible, identified in the IHP (One-Year Financial Resources Narrative; Table 2, Financial Resources, Part I., Line 1E; and, Table 2, Financial Resources, Part II) submitted by you or on your behalf for the IHBG (aka NAHBG) Program. If the IHP for the IHBG (aka NAHBG) program year that coincides with the implementation of the ICDBG proposed project has not been submitted, you must provide an assurance that when submitted, the IHP will specifically reference the proposed project.

(2) (3 points) Your proposed project will accomplish measurable outcomes such as number of jobs created or obtained; education or job training opportunities provided, increased economic self-sufficiency of recipients of program beneficiaries; increased homeownership rates; and, reduction of drug-related crime or health related hazards.

VI. Application Submission Requirements

(A) Demographic Data

You may submit data that are unpublished and not generally available in order to meet the requirements of this section. You must certify that:

(1) Generally available, published data are substantially inaccurate or incomplete;

(2) Data provided have been collected systematically and are statistically reliable;

(3) Data are, to the greatest extent feasible, independently verifiable; and

Data differentiate between reservation and BIA service area populations, when applicable.

(B) Publication of Community Development Statement

You must prepare and publish or post the community development statement portion of your application according to the citizen participation requirements of 1003.604.

(C) Application Submission

Your application must contain the items listed below. You must also include the forms, standard forms, certifications, and assurances listed in the General Section of the SuperNOFA that are applicable to this funding and can be found in Appendix B to the General Section of the SuperNOFA. Those forms listed in that Appendix that are applicable to this funding are as follows:

(1) Standard Form for Application for Federal Assistance (SF-424)

(2) Federal Assistance Funding Matrix and Certifications (HUD-424M)

(3) Drug-Free Workplace Certification (HUD-50070).

(4) Applicant/Recipient Disclosure/Update Report (HUD-2880).

(5) Certification Regarding Debarment and Suspension (HUD-2992).

(6) Certification of Consistency with RC/EZ/EC Strategic Plan (HUD-2990), if applicable;

(7) Acknowledgement of Application Receipt (HUD-2993).

(8) Client Comments and Suggestions (HUD-2994), optional.

In addition, if the application has been submitted by a tribal organization as defined in 24 CFR 1003.5(b), on behalf of an Indian tribe, you must submit concurring resolutions from the Indian tribe stating that the tribal organization is applying on the tribe's behalf.

The other required items are as follows:

(1) Community Development Statement that includes:

(a) Components that address the general threshold requirement and the relevant project specific thresholds and rating factors;

(b) A schedule for implementing the project (form HUD-4125, Implementation Schedule); and

(c) Cost information for each separate project, including specific activity costs, administration, planning, technical assistance, and total HUD share (form HUD-4123, Cost Summary);

(2) Certifications (form HUD 4126);

(3) A map showing project location, if appropriate;

(4) If the proposed project will result in displacement or temporary relocation, a statement that identifies:

(a) The number of persons (families, individuals, businesses, and nonprofit organizations) occupying the property on the date of the submission of the application (or date of initial site control, if later);

(b) The number to be displaced or temporarily relocated;

(c) The estimated cost of relocation payments and other services;

(d) The source of funds for relocation; and

(e) The organization that will carry out the relocation activities;

(5) If applicable, evidence of the disclosure required by 24 CFR 1003.606(e) regarding conflict of interest.

(6) If applicable, the demographic data certification described in Section VI(A) and V(J), Rating Factor 2 of this NOFA. The data accompanying the certification must identify the total number of persons benefiting from the project and the total number of low-and-moderate persons benefiting from the project. Supporting documentation must include a sample copy of a completed survey form and an explanation of the methods used to collect the data, and a listing of incomes by household.

VIII. Applicant Debriefing

Please refer to Section VII (E)(2) of the General Section of this SuperNOFA.

IX. Error and Appeals

Judgments made within the provisions of this NOFA and the program regulations (24 CFR part 1003) are not subject to claims of error. You may bring arithmetic errors in the rating and ranking of applications to the attention of the ONAPs within 30 days of being informed of your score. If an arithmetic error was made in the application review and rating process that, when corrected, would result in the award of sufficient points to warrant the funding of an otherwise approvable project, the ONAPs may fund that project in the next funding round without further competition.

Appendix A

The non-standard forms, which follow, are required for your ICDBG application.

BILLING CODE 4210-32-P

FUNDING AVAILABILITY FOR THE COMMUNITY OUTREACH PARTNERSHIP CENTERS PROGRAM (COPC)

PROGRAM OVERVIEW

Purpose of the Program. To provide funds to community colleges, four-year colleges, and universities to establish and operate Community Outreach Partnership Centers (COPCs) to address the problems of urban areas.

Available Funds. Approximately $7.5 million as appropriated in the FY 2002 VA-HUD appropriation act.

Eligible Applicants. Public and private nonprofit institutions of higher education granting two- or four-year degrees and accredited by a national or regional accrediting agency recognized by the U.S. Department of Education.

Application Deadline. June 20, 2002

ADDITIONAL INFORMATION

If you are interested in applying for funding under this program, please review carefully the General Section of this SuperNOFA and the following additional information.

I. Application Due Date, Application Kits, Further Information, and Technical Assistance

Application Due Date. Your completed application is due on or before June 20, 2002, at HUD Headquarters.

Address for Submitting Applications. New Security Procedures. HUD has implemented new security procedures that impact on application submission procedures. Please read the following instructions carefully and completely. HUD will not accept hand delivered applications. Applications may be mailed using the United States Postal Service (USPS) or may be shipped via the following delivery services: United Parcel Service (UPS), FED EX, DHL, or Falcon Carrier. No other delivery services are permitted into HUD Headquarters without escort. You must, therefore, use one of the four carriers listed above.

Mailed Applications. Your application will be considered timely filed if your application is postmarked on or before 12 midnight on the application due date and received by the designated HUD Office on or within fifteen (15) days of the application due date. All applicants must obtain and save a Certificate of Mailing showing the date, when you submitted your application to the United States Postal Service (USPS). The Certificate of Mailing will be your documentary evidence that your application was timely filed.

Applications Sent by Overnight/Express Mail Delivery. If your application is sent by overnight delivery or express mail, your application will be timely if it is received before or on the application due date, or when you submit documentary evidence that your application was placed in transit with the overnight delivery/express mail service by no later than the application due date. Due to new security measures, you must use one of four carrier services that do business with HUD Headquarters regularly. These services are UPS, DHL, Fed EX, and Falcon Carrier. Delivery by these services must be made during HUD's Headquarters business hours, between 8:30 AM and 5:30 PM Eastern time, Monday to Friday. If these companies do not serve your area, you should submit your application via the United States Postal Service.

For Application Kits. For an application kit and supplemental material you should call the SuperNOFA Information Center at 1-800-HUD-8929. Persons with hearing or speech impairments may call the Center's TTY number at 1-800-HUD-2209. When requesting an application kit, you should refer to COPC and provide your name, address (including zip code), and telephone number (including area code). You may also download the application kit on the Internet through the HUD Web site at http://www.hud.gov.

For Further Information and Technical Assistance. You may contact Armand W. Carriere of HUD's Office of University Partnerships at (202) 708-3061, ext. 3181. If you have a speech or hearing impairment, you may call HUD's TTY number (202) 708-0770, or 1-800-877-8399 (the Federal Information Relay Service TTY). Other than the “800” number, these numbers are not toll-free. You may also reach Mr. Carriere via the Internet at Armand_W._Carriere@hud.gov.

Satellite Broadcast. HUD will hold an information broadcast via satellite for potential applicants to learn more about the program and preparation of an application. For more information about the date and time of this broadcast, you should consult the HUD web site at the web address listed above.

II. Amount Allocated

Up to $7.5 million has been allocated to fund grants under the program. This year, HUD will award two kinds of grants—(A) New Grants to applicants who have never received a COPC grant before to undertake eligible work and (B) New Directions Grants to fund previous COPC recipients (as identified in Section III.(B) below) to undertake new directions in their activities. HUD will use up to $6.1 million to fund approximately 16 New Grants and up to $1.4 million to fund approximately 7 New Directions Grants.

III. Program Description; Eligible Applicants; Eligible Activities

(A) Program Description. The main purpose of this COPC Program is to assist in establishing or carrying out outreach and applied research activities addressing the problems of urban areas. But HUD also looks to the program to encourage structural change, both within an institution of higher education and in the way the institution relates to its neighbors. Funding under this program is used to establish and operate local Community Outreach Partnership Centers (COPC). The five key concepts that your COPC Program should include are:

(1) Outreach, technical assistance, and applied research should be provided to neighborhoods and neighborhood-based organizations based on what the residents decide is needed, rather than what the institution concludes is appropriate for that neighborhood;

(2) Community-based organizations and residents should be empowered by the project and be your partners throughout the life of the project and beyond, from planning to implementation to activities beyond the grant;

(3) Your applied research should be related to the outreach activities and be used to influence your activities within the grant period or shortly after it ends. HUD will not fund research without practical application;

(4) The assistance you provide should be primarily by faculty, students, or to a limited extent, by neighborhood residents or community-based organizations funded by the university; and

(5) Your program should be part of your institution's broader effort to meet its urban mission, and be supported by its senior officials, rather than just the work of a few faculty members. Your proposed activities should not duplicate those of other entities in the community and should be appropriate for an institution of higher education to undertake in light of its teaching, and research, and service missions.

(B) Eligible Applicants. Eligible applicants for both New Grants and New Directions Grants are public or private nonprofit institutions of higher education granting two- or four-year degrees and accredited by a national or regional accrediting agency recognized by the U.S. Department of Education. For New Grants, only applicants that have never previously received a New Grant, a New Directions Grant, or an Institutionalization Grant are eligible. Institutions that participated in a COPC grant as a member of a consortium of colleges or universities will be eligible to apply for a New Grant if they received 25% or less of the earlier grant. For New Directions Grants, applicants must meet the following requirements: you must have received a New Grant in FY 1994, 1995, 1996, 1997, 1998 or 1999; you must never have received a New Directions Grant; and you must have drawn down (i.e., requests for reimbursement have been processed), by the application due date, at least 75% of the funds you received from any previous COPC award. Joint Community Development Program grantees are not eligible for either kind of funding, nor are FY 2000 and 2001 COPC Grantees.

Consortia of eligible institutions may apply, as long as one institution is designated the lead applicant. Since the Statement of Work and other facets of the technical review are assessed in the context of the proposed staffing, and in order to fund as many eligible applicants as possible, HUD has determined that you may be part of only one consortium or submit only one application or the application will be disqualified. HUD will hold you responsible for ensuring that neither you nor any part of your institution, including specific faculty, participate in more than one application. For New Directions Grants, if you originally received funding as a consortium, you are not required to submit again with all the consortium members. Members of a previously approved consortium may submit on their own or as part of their old consortium. However, as with New Grants, only one application from an institution will be permitted.

Different campuses of the same university system are eligible to apply, even if one campus has already received COPC funding. Such campuses are eligible as separate applicants only if they have administrative and budgeting structures independent of other campuses in the system.

(C) Eligible Activities. Your COPC Program must combine research with outreach, work with communities and local governments and address the multidimensional problems that beset urban areas. To meet the threshold requirements, your New Grant application must be multifaceted and address three or more urban problems and you must propose at least one distinct activity to address each separate urban problem. Urban problems include issues related to housing, economic development, neighborhood revitalization, infrastructure, health care, job training, education, crime prevention, planning, the environment, community organizing, and other areas deemed appropriate by the Secretary. Single purpose applications are not eligible. For example, if you propose to undertake health education for elementary school children, organizing around health issues, and job readiness for the health professions, HUD will deem your application as single purpose, because it really only addresses the problem of health care. Likewise, if you propose to address housing, economic development, and health care problems by developing a Geographic Information System, your application would also be considered single purpose because it does not propose separate and distinct activities for each of the problems you address. As examples of eligible projects, if you propose a health care project for the elderly, a job training program on construction trades for high school seniors, and an affordable housing fair, you would meet the test of addressing three urban problems, each with a separate activity. Alternatively, if you propose a Geographic Information System to identify economic development potential, an oral history of the neighborhood, and the creation of block watches, you would also meet the test. These are just examples. For more information about the projects that have actually been funded under the program, you should look at the Office of University Partnerships' web site at www.oup.org. If you are applying for a New Directions Grant, you will only be required to address two urban problems and undertake at least one activity for each of these problems.

The statute creating COPC is very specific that the programs address the problems of urban areas. HUD uses the Census definition of an urban area: a single geographic place (e.g., a city, town, or village, but not a county) with a population of 2,500 or more. You cannot meet this test by aggregating several places smaller than the population threshold in order to meet this requirement.

Funded research must have a clear near-term potential for solving specific, significant urban problems. You must have the capacity to apply your research results and to work with communities and local institutions, including neighborhood groups, local governments, and other appropriate community stakeholders, in applying these results to specific real-life urban problems.

While the list of eligible and ineligible activities is the same for both New Grant applicants and New Directions Grant applicants, New Directions Grant applicants must demonstrate that the proposed activities either implement new eligible projects in the current target neighborhood(s) or implement eligible projects in a new target neighborhood(s). New Directions applicants will be required to specifically describe how the activities described in the New Directions application differ from the activities described in the original COPC application.

Eligible activities include:

(1) Research activities that have practical application for solving specific problems in designated communities and neighborhoods, including evaluation of the effectiveness of the outreach activities. In order to ensure that the primary focus of your project is on outreach, research may not total more than one-quarter of the total project costs contained in any grant made under this COPC funding announcement (including the required 50% match).

(2) Outreach, technical assistance and information exchange activities which are designed to address specific urban problems in designated communities and neighborhoods. Such activities must total no less than three-quarters of your total project costs (including the required 25% match). Examples of outreach activities include, but are not limited to:

(a) Assistance to communities to improve consolidated housing and community development plans and eliminate impediments to the design and implementation of such plans;

(b) Design of community or metropolitan strategies to resolve urban problems of communities and neighborhoods;

(c) Innovative use of funds to provide direct technical expertise and assistance to local community groups, residents, and other appropriate community stakeholders to assist them in resolving local problems such as homelessness, housing discrimination, and impediments to fair housing choice;

(d) Technical assistance in business start-up activities for low- and moderate-income individuals and organizations, including business start-up training and technical expertise and assistance, mentor programs, assistance in developing small loan funds, business incubators, etc;

(e) Technical assistance to local public housing authorities on welfare-to-work initiatives and physical transformations of public or assisted housing, including development of accessible and visitable housing;

(f) Job training and other training projects, such as workshops, seminars, and one-on-one and on-the-job training;

(g) Assistance to communities to design ways to use HUD's Partnership for Advancing Technology in Housing (PATH) technology such as analyzing building codes and building materials or designing new building systems. (Remember that actual physical development activities are not eligible under COPC.) For more information, see the General Section of the SuperNOFA or visit the website at www.pathnet.org;

(h) Assistance to communities to improve their fair housing planning process; and

(i) Regional projects that maximize the interaction of targeted inner city distressed neighborhoods with suburban job opportunities similar to HUD's Bridges-to-Work or Moving to Opportunity programs. (For more information see www.HUDUSER.org).

(3) Funds for faculty development including paying for course time or summer support to enable faculty members to work on the COPC.

(4) Funds for stipends or salaries for students (but the program cannot cover tuition and fees) while they are working on the COPC.

(5) Activities to carry out the “Responsibilities” listed under Section IV (B) below. These activities may include leases for office space in which to house the Community Outreach Partnership Center, under the following conditions:

(a) The lease must be for existing facilities not requiring rehabilitation or construction;

(b) No repairs or renovations of the property may be undertaken with Federal funds; and

(c) Properties in the Coastal Barrier Resource System designated under the Coastal Barrier Resources Act (16 U.S.C. 3501) cannot be leased with Federal funds.

(6) Components of your program may address metropolitan or regional strategies. You must clearly demonstrate how:

(a) Your strategies are directly related to what the targeted neighborhoods and neighborhood-based organizations have decided is needed; and

(b) Neighborhoods and neighborhood organizations are involved in the development and implementation of the metropolitan or regional strategies.

(D) Ineligible Activities. Activities ineligible for funding under this program are as follows:

(1) Research activities that have no clear and immediate practical application for solving urban problems or do not address specific problems in designated communities and neighborhoods.

(2) Any type of construction, rehabilitation, or other physical development costs.

(3) Costs used for routine operations and day-to-day administration of institutions of higher education, local governments or neighborhood groups.

IV. Program Requirements

In addition to the program requirements listed in the General Section of this SuperNOFA, grantees must meet the following program requirements:

(A) Grant Sizes and Terms. If you are applying for a New Grant, you may not request less than $250,000 or more than $400,000. This amount must be spent over a three-year period, and your budget must reflect this period. Since the Statement of Work (in Section VI.(G)) and the Narrative Statement Addressing the Factors for Award (in Section VI.(H)) are assessed in the context of the proposed budget and grant request, and in the interest of fairness to all applicants, HUD will not accept a New Grant application that is under $250,000 or over $400,000.

If you are applying for a New Directions Grant, you may not request a grant that exceeds $150,000. This amount must be spent over a two-year period. Since the Statement of Work and other facets of the technical review are assessed in the context of the proposed budget and grant request, and in the interest of fairness to all applicants, HUD will not accept a New Directions application that is over $150,000.

(B) Responsibilities. You are required to:

(1) Employ the research and outreach resources of your institution of higher education to solve specific urban problems identified by communities served by your Center;

(2) Establish outreach activities in areas identified in your application as the communities to be served;

(3) Establish a community advisory committee comprised of representatives of local institutions and residents of the communities to be served to assist in identifying local needs and advise on the development and implementation of strategies to address those issues;

(4) Coordinate outreach activities in communities to be served by your Center;

(5) Facilitate public service projects in the communities served by your Center;

(6) Act as a clearinghouse for dissemination of information;

(7) Develop instructional programs, convene conferences, and provide training for local community leaders, when appropriate; and

(8) Exchange information with other Centers.

The clearinghouse function in Section IV(B)(6) above refers to a local or regional clearinghouse for dissemination of information and is separate and distinct from the functions in (8) above, which relate to the provision of information to the University Partnerships Clearinghouse, which is the national clearinghouse for the program.

(C) Cap on Research Costs. No more than 25% of your total project costs (Federal share plus match) can be spent on research activities. You are, however, not required to undertake any research as part of your project. You may apply for a project that is totally for outreach activities.

(D) Match. The non-Federal share may include cash or the value of non-cash contributions, equipment and other allowable in-kind contributions as detailed in 24 CFR part 84, and in particular § 84.23 entitled “cost sharing or matching.” You may not count as match any costs that would be ineligible for funding under the program (e.g., housing rehabilitation).

(1) If you are a New Grant applicant, you must meet the following match requirements:

(a) Research Activities. 50% of the total project costs of establishing and operating research activities.

(b) Outreach Activities. 25% of the total project costs of establishing and operating outreach activities.

(2) If you are a New Directions Grant applicant, you must meet the following match requirements:

(a) Research Activities. 60% of the total project costs of establishing and operating research activities.

(b) Outreach Activities. 35% of the total project costs of establishing and operating outreach activities.

In previous competitions, some applicants incorrectly based their match calculations on the Federal grant amount, not the total project costs. An example of how you should calculate the match correctly and a worksheet for the calculation are included in the application kit. The worksheet, which is also included in the program area section of the SuperNOFA, should be included with your application.

(E) Administrative. Your grant will be governed by the provisions of 24 CFR part 84 (Grants and Agreements with Institutions of Higher Education, Hospitals, and Other Non-Profit Organizations), A-21 (Cost Principles for Education Institutions), and A-133 (Audits of States, Local Governments, and Non-Profit Organizations. You may not spend more than 20% of your grant on planning or administrative costs. The application kit contains a detailed explanation of what these costs are. You can access the OMB circulars at the White House website at http:whitehouse.gov/omb/circulars/index.html.

V. Application Selection Process

There will be two separate competitions—one for New Grants and one for New Directions Grants. For each type of grant, applications will be rated, ranked, and selected separately. Two types of reviews will be conducted: a threshold review to determine your application's eligibility; and a technical review to rate your application based on the rating factors in Section V(A) below.

(A) Additional Threshold Requirements For Funding Consideration. Under the threshold review, your application can only be rated if you are both in compliance with the requirements of the General Section of the SuperNOFA and if the following additional standards are met:

(1) You have met the statutory match requirements, if applying for a New Grant or the higher match levels described above, if applying for a New Directions Grant.

(2) You have proposed a program in which at least 75% of the total project costs will be for outreach activities.

(3) For New Grants, you have requested a Federal grant between $250,000 and $400,000. For New Directions Grants, you have requested a Federal grant that is no more than $150,000.

(4) You have addressed at least three urban problems (2 urban problems if you are a New Directions applicant), such as affordable housing, fair housing, economic development, neighborhood revitalization, infrastructure, health care; job training, education, crime prevention, planning, the environment, and community organizing and have proposed at least one separate and distinct activity for each problem you propose to address.

(5) You and any part of your organization are participating in only one application.

(6) Your project will operate in an urban area.

(B) Factors For Award Used To Evaluate and Rate Applications. The factors for rating and ranking applicants, and maximum points for each factor, are provided below. The maximum number of points for this program is 102. This includes two RC/EZ/EC bonus points, as described in the General Section of the SuperNOFA. Unless otherwise noted, New Grant applications and New Directions Grant applications will receive the same number of points on a given factor.

Rating Factor 1: Capacity of the Applicant and Relevant Organizational Experience (15 Points)

This factor addresses the extent to which you have the organizational resources necessary to successfully implement the proposed activities in a timely manner. In rating this factor HUD will consider the extent to which the proposal demonstrates:

(1) For New Grants (15 points). For New Direction Grants (7 points).

(a) The knowledge and experience of your overall proposed project director and staff, including the day-to-day program manager, consultants and contractors in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following categories will be evaluated:

(i) Undertaking research activities in specific communities that have a clear near-term potential for practical application to significant urban issues, such as affordable housing, fair housing including accessible and visitable housing, economic development, neighborhood revitalization, infrastructure, health care, job training, education, crime prevention, planning, and community organizing;

(ii) Undertaking outreach activities in specific communities to solve or ameliorate significant urban issues;

(iii) Undertaking projects with community-based organizations or local governments; and

(iv) Providing leadership in solving community problems and making national contributions to solving long-term and immediate urban problems.

(b) Past Performance. For New Directions Grants only (8 points). The extent to which you performed successfully under your previous COPC grant(s), as measured by:

(i) Your achievement of specific measurable outcome objectives;

(ii) Your leveraging of funding beyond the funds originally proposed to be leveraged for that project; and

(iii) The effectiveness of your administration of any previous COPC grants (including the timeliness and completeness of your compliance with COPC reporting requirements and your ability to have resolved problems which presented themselves during the grant period). In addressing timeliness of reports, you should compare when your reports were due with when they were actually submitted.

(c) Full points will be awarded for exceptional performance, which consistently meets and exceeds promised goals.

Rating Factor 2: Need/Extent of the Problem (15 Points)

This factor addresses the extent to which there is a need for funding your proposed program activities and your indication of the urgency of meeting the need in the target area. In responding to this factor, you will be evaluated on the extent to which you document the level of need for the proposed activity and the urgency in meeting the need.

You should use statistics and analyses contained in a data source(s) that is sound and reliable. To the extent that the targeted community's Consolidated Plan and Analysis of Impediments to Fair Housing Choice (AI) identify the level of the problem and the urgency in meeting the need, you should include references to these documents in your response.

If the proposed activity is not covered under the scope of the Consolidated Plan and Analysis of Impediments to Fair Housing Choice (AI), you should indicate such, and use other sound data sources to identify the level of need and the urgency in meeting the need. Types of other sources include Census reports, Continuum of Care gaps analysis, law enforcement agency crime reports, Public Housing Authorities' Comprehensive Plan, and other sound and reliable sources appropriate for your program. You may also address needs in terms of fulfilling court orders or consent decrees, settlements, conciliation agreements, and voluntary compliance agreements.

To the extent possible, the data you use should be specific to the area where the proposed activity will be carried out. You should document needs as they apply to the area where activities will be targeted, rather than the entire locality or state.

Rating Factor 3: Soundness of Approach (50 Points)

This factor addresses the quality and cost-effectiveness of your proposed work plan. There must be a clear relationship between your proposed activities, community needs and the purpose of the program funding for you to receive points for this factor. The factor will be evaluated based on the extent to which the proposed work plan will:

(1) (10 points). Identify the specific services or activities to be performed. Note that you are not required to undertake research as part of the grant. In reviewing this subfactor, HUD will consider the extent to which:

(a) There is a clear research agenda;

(i) With identifiable research projects and outcomes (e.g., reports, surveys, etc.)

(ii) That identifies each task and who will be responsible for it;

(iii) Which is tied to the outreach agenda (e.g., if you proposed to study the extent of housing abandonment in a neighborhood and then design a plan for reusing this housing, you would be able to demonstrate the link between your proposed research and outreach strategies); and

(iv) Which does not duplicate research by your institution or by others for the target area previously completed or currently underway. If other complimentary research is underway, you need to describe how the proposed research agenda would complement it.

(b) There is a clear outreach agenda:

(i) With identifiable outreach projects;

(ii) That identifies each task and who will be responsible for it;

(iii) That involves your institution as a whole (i.e., many academic disciplines and administrative offices);

(iv) That provides for on-site or frequent presence in the target area; and

(v) That does not duplicate outreach activities by your institution or others for the target area previously completed or currently underway.

(2) (7 points). Involve the communities to be served in a partnership for the planning and implementation of your activities. In reviewing this subfactor, HUD will look at the extent to which:

(a) You have formed or will form one or more Community Advisory Committees, representative of the communities' diversity (including businesses, community groups, residents, and others) to be served to develop and implement strategies to address the needs identified in Factor 2. You will be expected to demonstrate that you have already formed such a committee(s) or secured the commitment of the appropriate persons to serve on the committee(s), rather than just describing generally the types of people whose involvement you will seek.

(b) You have involved a wide range of neighborhood organizations and local government entities in the identification of your research and outreach activities.

(c) The committee and your partners will play an active role in all stages of the project and will not serve as merely advisors or monitors.

(d) Your outreach agenda includes training projects for local community leaders, for example, to increase their capacity to direct their organizations or undertake various kinds of community development projects.

(3) (6 points). Help solve or address an urgent problem as identified in Rating Factor 2 and will achieve the purposes of the program within the grant period. In reviewing this subfactor, HUD will look at the extent to which:

(a) You identify specific time phased and measurable objectives to be accomplished; your proposed short and long term program objectives to be achieved as a result of the proposed activities; the tangible and measurable impacts your work program will have on the community in general and the target area or population in particular including affirmatively furthering fair housing for classes protected under the Fair Housing Act; and the relationship of your proposed activities to other ongoing or proposed efforts to improve the economic, social or living environment in the impact area; and

(b) Grant funds will pay for activities you conduct directly, rather than passing funds through to other entities (In order for your application to be competitive, no more than 25 percent of your grant funds should be passed to other entities); and

(c) The activities you propose to undertake are pressing and urgent needs, as identified in the documents described in Factor 2.

(4) (4 points). Potentially yield innovative strategies or “best practices” that can be replicated and disseminated to other organizations, including nonprofit organizations, State and local governments. In reviewing this subfactor, HUD will assess your demonstrated ability to disseminate results of research and outreach activities to other COPCs and communities. HUD will evaluate your past experience and the scope and quality of your plan to disseminate information on COPC results, strategies, and lessons learned through such means as conferences, cross-site technical assistance, publications, etc. The more proactive your plan for providing information to a wide range of audiences, the greater the number of points you will receive.

(5) (5 points) Include activities that affirmatively further fair housing, for example:

(a) Working with other entities in the community to overcome impediments to fair housing, such as discrimination in the sale of rental of housing or in advertising, provision of brokerage services, or lending;

(b) Promoting fir housing choice through the expansion of homeownership opportunities and improved quality of services for minorities, families with children, and persons with disabilities; or

(c) Providing housing mobility counseling services.

(6) HUD 2002 Policy Priorities (6 Points)

The extent to which your application will further and support the following priorities of HUD. The quality of the response you provide to one or more of HUD's priorities (described below) will determine the score you receive. You will receive one point for each policy priority addressed, up to a total of 6 points. For a fuller explanation of each policy priority, please refer to Section VI. of the General Section of this SuperNOFA.

(a) Increasing Homeownership Opportunities for Low and Moderate Income persons, Persons with Disabilities and the Elderly, and Minorities and families where English may be a second language.

(b) Improving the Quality of Public Housing and Increasing Economic Mobility Choices for Residents.

(c) Encouraging Accessible Design Features.

(d) Improving Computer Access, Literacy, and Employment Opportunities.

(e) Providing Full and Equal Access to Faith-Based and Other Community Organizations in HUD Program Implementation.

(f) Ensuring that Programs are Accountable for the Promises Made and the Actions Taken.

(g) In addition to the HUD policy priorities, the following is a program priority: Using PATH Technologies in Housing Construction and Rehabilitation. HUD encourages participation in Partnership for Advancing Technology in Housing (PATH) for programs that intend to use funding for construction or rehabilitation. PATH's goal is to achieve dramatic improvement in the quality of American housing by the year 2010. PATH encourages leaders from the home building, product manufacturing, insurance and financial industries and representatives from federal agencies dealing with housing issues to work together to spur housing design and construction innovations, particularly those innovations that make housing more affordable to low and moderate income persons and which are energy efficient. PATH has a FY 2002 budget of $8.75 million.

PATH will provide technical support in design and cost analysis of advanced technologies to be incorporated in project construction. Applicants should see www.pathnet.org on the Internet for more information, the list of technologies, latest PATH Newsletter, results from field demonstrations and PATH projects. Applicants are encouraged to employ PATH technologies to exceed prevailing national building practices by: Reducing costs; improving durability; increasing energy efficiency; improving disaster resistance, and reducing environmental impact.

(7) For New Grants (12 points): For New Directions Grants (7 points). Result in the COPC function and activities becoming part of the urban mission of your institution and being funded in the future by sources other than HUD. The bases for rating an application for this selection factor will be different, depending on whether the application is for a New Grant or a New Directions Grant.

In reviewing this subfactor for a New Grant, HUD will consider the extent to which:

(a) COPC activities relate to your institution's urban mission; demonstrate support and involvement of the institution's executive leadership; are linked by a formal organizational structure to other units related to outreach and community partnerships; are reflected in budget and planning documents; are part of a climate that rewards faculty work on these activities through promotion and tenure policies; benefit students because they are part of a service learning program or professional training at your institution (rather than just volunteer activities); and are reflected in your curriculum. HUD will look at your institution's commitment to faculty and staff continuing work in COPC neighborhoods or replicating successes in other neighborhoods and to your longer term commitment (e.g., five years after the start of the COPC) of hard dollars to COPC work. HUD will consider the extent to which your proposed activities are appropriate for an institution of higher education because they are tied to your institution's teaching or research mission. In addition, HUD will consider the extent to which your faculty, staff and students from across many disciplines are involved in COPC-like activities as a way of demonstrating your institution's commitment to these kinds of activities.

(b) You have received commitments for funding from sources outside the university for related COPC-like projects and activities in the targeted neighborhood or other distressed neighborhoods. Funding sources to be considered include, but are not limited to, local governments, neighborhood organizations, private businesses, your institution, and foundations.

In reviewing this subfactor for a New Directions Grant, HUD will consider the extent to which your New Directions project will sustain the institutional capacity and commitment of your institution to undertake outreach activities. HUD will be looking for increases in the number of faculty undertaking this kind of work, increases in the number of courses linked to outreach activities and the number of students taking these courses, formal changes in institutional policies related to support of outreach, and other measures of the impact of this work on your institution.

(8) For New Direction Grants only (5 points). Previous grantees have a wealth of knowledge that they can and should share with other institutions. If you send a faculty member of your team who has been listed in your application to participate in the peer review process for New Grants, you will receive 5 points.

Rating Factor 4: Leveraging Resources (10 Points)

This factor addresses the ability of the applicant to secure community resources which can be combined with HUD's program resources to achieve program purposes. This factor measures the extent to which you have established partnerships with other entities to secure additional resources to increase the effectiveness of your proposed program activities. Resources may include funding or in-kind contributions, such as services or equipment, allocated to the purpose(s) of the award you are seeking. Resources may be provided by governmental entities, public or private nonprofit organizations, for-profit private organizations, or other entities willing to establish partnerships with you. You may also establish partnerships with funding recipients in other grant programs to coordinate the use of resources in the target area. In evaluating this factor, HUD will allocate points as follows:

(1) Five (5) points will be awarded for a match that is 50% over the required match, as described in Section IV(D) above. Fewer points will be assigned depending on the extent of the match. Matching funds must be provided unconditionally in order to be counted for this factor.

HUD is concerned that applicants should be providing hard dollars as part of their matching contributions to enhance the tangible resources going into targeted neighborhoods. Thus, while indirect costs can count towards meeting the required match, they will not be used in calculating match overage. Only direct costs can count in this factor.

(2) Up to an additional 5 points will be awarded for the extent to which you document that matching funds are provided from eligible sources other than your institution (e.g., funds from the city, including CDBG, other State or local government agencies, public or private organizations, or foundations). Fewer points will be assigned depending on the extent of the outside match.

You must provide evidence of leveraging/partnerships by including in the application letters of firm commitment, memoranda of understanding, or agreements to participate from any entity, including your own institution, that will be providing matching funds to the project. Each letter of commitment, memorandum of understanding, or agreement to participate should include the organization's name, proposed total level of commitment and responsibilities as they relate to the proposed program. The commitment must also be signed by an official of the organization legally able to make commitments on behalf of the organization. Unless matching funds are accompanied by a commitment letter citing the specific dollar amount pledged, they will not be counted towards the match.

Rating Factor 5: Coordination, Self-Sufficiency and Sustainability (Maximum 10 points)

This factor addresses the extent to which you coordinated your activities with other known organizations, participate or promote participation in your community's Consolidated Planning process, and are working towards addressing a need in a holistic and comprehensive manner through linkages with other activities in the community. If you propose to work in a Community Development Block Grant (CDBG) non-entitlement jurisdiction, you will only need to address subfactors (1) and (3). If you are working in a CDBG non-entitlement area, please note that at the beginning of the discussion of this factor.

In evaluating this factor, HUD will consider:

(1) The extent to which you have coordinated your activities with other known organizations that are not directly participating in your proposed worked activities, but with which you share common goals and objectives and are working toward meeting these objectives in a holistic and comprehensive manner;

(2) The extent to which your application implements practical solutions within the grant term to result in assisting beneficiaries of grant program funds in achieving independent living, economic empowerment, educational opportunities; housing choices or improved living environments;

(3) The extent to which your program exhibits the potential to be financially self-sustaining by decreasing dependence on Federal funding and relying more on state, local and private funding so your activities can be continued after your grant award period is completed.

(4) Institutionalization of Project Activities. HUD will also consider the extent to which your project will result in the kinds of activities that will be sustained by the university by becoming part of the mission of the institution. HUD will also look at the university's monetary commitment to continuing to work in the target area or other similar areas and to its longer term commitment of hard dollars to similar work.

(C) Selections. In order to be funded under COPC, you must receive a minimum score of 70. HUD intends to fund at least one eligible applicant that serves colonias, as defined by section 916(d) of the Cranston-Gonzalez National Affordable Housing Act, as long as the applicant receives a minimum score of 70. HUD will select the highest ranking colonias application from among the rated colonias applications.

If two or more applications have the same number of points, the application with the most points for Factor 3, Soundness of Approach, shall be selected. If there is still a tie, the application with the most points for Factor 4, Leveraging Resources shall be selected.

HUD reserves the right to make selections out of rank order to provide for geographic distribution of funded COPCs. If HUD decides to use this option, it will do so only if two adjacent HUD regions do not yield at least one fundable COPC on the basis of rank order. If this occurs, HUD will fund the highest ranking applicant within the two regions as long as the minimum score of 70 points is achieved.

After all applications have been rated and ranked and selections have been made, HUD may require you, if you are selected, to participate in negotiations to determine the specific terms of your Statement of Work and grant budget. In cases where HUD cannot successfully conclude negotiations, or you fail to provide HUD with requested information, an award will not be made. In such instances, HUD may elect to offer an award to the next highest ranking applicant, and proceed with negotiations with that applicant.

VI. Application Submission Requirements

You should include an original and two copies of the items listed below. In order to be able to recycle paper, please do not submit applications in bound form; binder clips or loose leaf binders are acceptable. Also, please, do not use colored paper. Please note the page limits for some of the items listed below and do not exceed them.

Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard” forms can be found as Appendix A to this program section of the SuperNOFA. The items are as follows:

(A) SF-424, Application for Federal Assistance.

(B) HUD-424M, Federal Assistance Funding Matrix.

(C) Application Checklist.

(D) Transmittal Letter signed by the Chief Executive Officer of your institution or his or her designee. If a designee signs, your application must include the official delegation of signatory authority;

(E) Abstract. (1 page limit) An abstract describing the goals and activities of your program.

(F) Narrative statement addressing the Factors for Award in Section V(B). (50 page limit, including letters of commitment, tables and maps, but not including letters of matching commitments, the match calculation worksheet, and budget forms). (Please note that although submitting pages in excess of the page limit will not disqualify your application, HUD will not consider the information on any excess pages, which may result in a lower score or failure to meet a threshold.) For FY 2002 the statement of work and the budget are now a part of Factor 3, Soundness of Approach.

(1) The Statement of Work incorporates all activities to be funded in your application and details how your proposed work will be accomplished. Following an activity and tasks under each activity format, your Statement of Work must:

(a) Arrange the presentation of related major activities by project functional category (e.g., economic development, affordable housing, capacity building), summarize each activity, identify the primary persons involved in carrying out the activity, and delineate the major tasks involved in carrying it out.

(b) Indicate the sequence in which the tasks are to be performed, noting areas of work which must be performed simultaneously.

(c) Identify specific numbers of quantifiable intermediate and end products and objectives you will deliver by the end of the award agreement period as a result of the work performed.

(d) Identify whether you propose to work in a Community Development Block Grant (CDBG) entitlement area or not.

(2) Your budget presentation should be consistent with your Statement of Work and include:

(a) Budget Form—The budget form (Form HUD-424-CB) should be used to prepare the budget.

(b) A narrative explanation of how you arrived at your cost estimates, for any line item over $5,000.

(c) A statement of your compliance with the 20% limitation on “Planning and Administration” Costs.

(d) An explanation of your compliance with the requirement that not more than 25% of the total budget be allocated to research activities (Form HUD-30002).

(3) Your narrative response should be numbered in accordance with each factor and subfactor.

(G) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the RC/EZ/EC Strategic Plan (if applicable);

(H) Acknowledgment of Receipt of Applications (HUD-2993). If you wish to confirm that HUD received your application, please complete this form. This form is optional.

(I) Client Comments and Suggestions (HUD-2994). If you wish to offer comments on the COPC NOFA of this SuperNOFA or the SuperNOFA process, please complete this form. This form is optional.

VII. Corrections to Deficient Applications

The General Section of the SuperNOFA provides the procedures for corrections to deficient applications.

VIII. Environmental Requirements

In accordance with 24 CFR 50.19(b) of the HUD regulations, activities assisted under this program are categorically excluded from the requirements of the National Environmental Policy Act and are not subject to environmental review under the related laws and authorities.

IX. Other Items

(1) Executive Order 12372. Intergovernmental Review of Federal Programs. You must comply with this Executive Order. Please refer to the General Section VII(C) for details.

(2) Conducting Business in Accordance with Core Values and Ethical Standards. HUD requires that all grantees adhere to core values and ethical business practices, as described in Section II(B)(2)) of the General Section of this SuperNOFA as a condition of award.

(3) Ensuring the Participation of Small Businesses, Small Disadvantaged Businesses, and Women-Owned Businesses. HUD requires grantees to take all necessary affirmative steps in contracting with businesses, small disadvantaged businesses and women-owned businesses in conducting your work activities. Please refer to section II (F) of the General Section of this SuperNOFA for specific requirements.

(4) Debriefing. Beginning not less than 30 days after the awards for assistance are announced in the above-mentioned Federal Register notice, and for not less than 120 days after awards for assistance are announced, HUD will provide a debriefing to any applicant requesting a debriefing on their application. All requests for debriefings must be made in writing and submitted to Armand Carriere Office of University Partnerships at (202) 708-3061, ext. 3181. If you have a speech or hearing impairment, you may call HUD's TTY number (202) 708-0770, or 1-800-877-8399 (the Federal Information Relay Service TTY). Other than the “800” number, these numbers are not toll-free. You may also reach Mr. Carriere via the Internet at Armand_W._Carriere@hud.gov. Materials provided to you during your debriefing will include the final scores you received for each rating factor, final evaluator comments for each rating factor, and the final assessment indicating the basis upon which assistance was provided or denied.

IX. Authority

This program is authorized under the Community Outreach Partnership Act of 1992 (42 U.S.C. 5307 note; the “COPC Act”). The COPC Act is contained in section 851 of the Housing and Community Development Act of 1992 (Pub. L. 102-550, approved October 28, 1992) (HCD Act of 1992). Section 801(c) of the HCD Act of 1992 authorized $7.5 million for each year of the 5-year demonstration to create Community Outreach Partnership Centers as authorized in the COPC Act. The FY 2002 HUD Appropriations Act (P.L. 107-73) continued the program beyond the initial five-year demonstration by providing funding for Community Outreach Partnership Centers for FY 2002.

Appendix A

The non-standard forms, which follow, are required for your COPC application.

BILLING CODE 4210-32-P

FUNDING AVAILABILITY FOR THE HISTORICALLY BLACK COLLEGES AND UNIVERSITIES PROGRAM

PROGRAM OVERVIEW

Purpose of the Program. To assist HBCUs expand their role and effectiveness in addressing community development needs in their localities, including neighborhood revitalization, housing, and economic development, principally for persons of low and moderate income, consistent with the purposes of Title I of the Housing and Community Development Act of 1974.

Available Funds. Approximately $10.5 million.

Eligible Applicants. Only HBCUs as determined by the Department of Education in 34 CFR 608.2 in accordance with that Department's responsibilities under Executive Order 12876, dated November 1, 1993, are eligible for funding under the HBCU Program.

Application Deadline. June 20, 2002.

Match: None.

ADDITIONAL INFORMATION

If you are interested in applying for funding under the HBCU program, please review carefully the General Section of this SuperNOFA and the following additional information.

I. Application Due Date, Application Kits, Further Information, and Technical Assistance

Application Due Date. Your completed application is due on or before June 20, 2002 at HUD Headquarters with a copy to the appropriate HUD CPD Field Office.

Application Submission Procedures. New Security Procedures. HUD has implemented new security procedures that impact on application submission procedures. Please read the following instructions carefully and completely. HUD will not accept hand delivered applications. Applications may be mailed using the United States Postal Service (USPS) or may be shipped via the following delivery services: United Parcel Service (UPS), Fed EX, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date, when you submitted your application to the US Postal Service. The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, Fed EX, and Falcon Carrier. Delivery by these services must be made during HUD's Headquarters business hours, between 8:30 a.m. and 5:30 p.m. Eastern Time, Monday to Friday. If these companies do not service your area, you should submit your application via the US Postal Service.

Address for Submitting Applications. Your completed application consists of one original and two copies of your application. Submit your original signed application and one of the two copies to the following address: Processing and Control Branch, Office of Community Planning and Development, Department of Housing and Urban Development, 451 Seventh Street, SW., Room 7251, Washington, DC, 20410. When submitting your application, please refer to the HBCU Program, and include your name, mailing address (including zip code) and telephone number (including area code).

Copies of Applications to HUD Field Offices. To facilitate processing and review of your application, submit one copy (the second copy) to the Community Planning and Development (CPD) Director in the appropriate HUD Field Office for the HBCU by 5:30 p.m. Eastern Time on June 20, 2002. The list of HUD Field Offices with CPD Directors is included in Appendix A to this program section of the SuperNOFA.

HUD will accept only one application per HBCU. If HUD receives more than one application from a single HBCU, HUD will ask the HBCU to identify which application it wants evaluated. If the HBCU does not respond within the stipulated period (see Section V of the General Section of this SuperNOFA), all of the applications received from the HBCU will be disqualified. You should take this policy into account to ensure that multiple applications are not submitted.

For Application Kits. For an application kit and any supplemental materials, you should call the SuperNOFA Information Center at 1-800-HUD-8929. If you have a hearing or speech impairment, please call the Center's TTY number at 1-800-HUD-2209. When requesting an application kit, you should refer to the HBCU Program and provide your name, address (including zip code), and telephone number (including area code). You may also download the application on the Internet through the HUD web site at http://www.hud.gov.

For Further Information and Technical Assistance. You may contact Ophelia Wilson, Historically Black Colleges and Universities Program, Office of University Partnerships, Policy Development and Research, Department of Housing and Urban Development, 451, Seventh St. SW., Washington, DC 20410, telephone (202) 708-3061 ext. 4390. (This is not a toll-free number.) If you have a hearing or speech impairment, you may access this number via TTY by calling the Federal Information Relay Service toll-free at 1-800-877-8339. You may also obtain information from the HUD Field Office located in your geographic area. Appendix A of this program section of the SuperNOFA contains the names, addresses and telephone numbers of the HUD Field Offices. For general information and information regarding training on this HBCU Program section of the SuperNOFA, you can call the SuperNOFA Information Center at 1-800-HUD-8929.

Satellite Broadcast. HUD will hold an information broadcast via satellite for potential applicants to learn more about the program and preparation of the application. For more information about the date and time of the broadcast, you should consult the HUD web site at http://www.hud.gov.

II. Amount Allocated

Approximately $10.5 million is being made available for funding under this program section of the SuperNOFA. Additional funds may be available if funds are recaptured, deobligated, appropriated or otherwise made available during the fiscal year.

(A) Allocation of Funding. In order to ensure that some previously unfunded HBCUs will receive awards in this competition, approximately $1.7 million of the available funds will be awarded to HBCUs that have not previously been funded under the HUD HBCU program. Previously unfunded HBCUs are listed in Appendix B of this HBCU Program section of the SuperNOFA.

The remaining approximately $8.8 million of FY 2002 funds will be awarded to HBCUs that have received funding under previous HBCU competitions. Previously funded HBCUs are listed in Appendix C of this HBCU Program section of the SuperNOFA.

If recaptured funds are made available, those funds will also be divided proportionately between the two types of applicant funding pools.

HUD reserves the right to make awards for less than the maximum amount or less than the amount requested in a particular application. The maximum amount awarded to previously unfunded applicants will be up to $340,000 and the maximum amount awarded to previously funded applicants will be up to $550,000. Applicants requesting more than the maximum amount will be disqualified.

(B) Term of Grant. The maximum period for performance of your proposed program under this SuperNOFA for the HBCU Program is 36 months. The performance period will commence on the effective date of your grant agreement.

III. Program Description; Eligible Applicants; Eligible Activities

(A) Program Description. The HBCU Program assists HBCUs expand their role and effectiveness in addressing community development needs in their localities, including neighborhood revitalization, housing, and economic development, consistent with the purposes of Title I of the Housing and Community Development Act of 1974.

(1) For the purposes of this program, the term “locality” includes any city, county, town, township, parish, village, or other general political subdivision of a State or the U.S. Virgin Islands within which an HBCU is located.

(2) If your HBCU is located in a metropolitan statistical area (MSA), as established by the Office of Management and Budget, you may consider your locality to be one or more of these entities within the entire MSA. The nature of the locality for each HBCU may differ, therefore, depending on its location.

(3) A “target area” is the locality or the area within the locality in which your HBCU will implement its proposed HUD grant activities.

(B) Eligible Applicants. Only HBCUs as determined by the Department of Education in 34 CFR 608.2 in accordance with that Department's responsibilities under Executive Order 12876, dated November 1, 1993, are eligible for funding under the HBCU Program. Applicants must be accredited by a national or regional accrediting agency recognized by the U.S. Department of Education.

(C) Eligible Activities. (1) General. Each activity you propose for funding must meet both a Community Development Block Grant (CDBG) Program national objective AND the CDBG eligibility requirements. Eligible activities that may be funded under the HBCU Program are those activities eligible for CDBG funding. The eligible activities are listed in 24 CFR part 570, subpart C, particularly §§ 570.201 through 570.206. Additionally, not less than 51% of the aggregated expenditures of a grant must benefit low and moderate income persons under the criteria specified in 24 CFR 570.208(a) or 570.208(d)(5) or (6). Each activity that may be funded under this SuperNOFA for the HBCU Program must meet one of the three national objectives of the Community Development Block Grant program which are:

(a) Benefit to low- or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208.

(2) Examples of Eligible Activities. Examples of activities that generally can be carried out with these funds include, but are not limited to:

(a) Acquisition of real property;

(b) Clearance and demolition;

(c) Rehabilitation of residential structures including lead-based paint hazard evaluation and reduction; and encouraging accessible design features in accordance with the requirements of section 504 of the Rehabilitation Act of 1973;

(d) Acquisition, construction, reconstruction, rehabilitation, or installation of public facilities and improvements, such as water and sewer facilities and streets;

If you are proposing to undertake any of the activities listed in (a) through (d), you will be required to provide at least two reasonable appraisals/estimates, from a qualified entity other than the HBCU, of the cost to complete the activities. This information is to be submitted with your application. Such an entity must be involved in the business of housing rehabilitation, construction, and/or management;

(e) Relocation payments and other assistance for permanently and temporarily relocated individuals, families, businesses, nonprofit organizations, and farm operations where the assistance is:

(i) Required under the provisions of 24 CFR 570.606(b) or (c); or

(ii) Determined by the grantee to be appropriate under the provisions of 24 CFR 570.606(d);

(f) Direct homeownership assistance to low- and moderate-income persons, as provided in section 105(a)(25) of the Housing and Community Development Act of 1974;

(g) Special economic development activities described at 24 CFR 570.203;

(h) Assistance to facilitate economic development by providing technical or financial assistance for the establishment, stabilization, and expansion of microenterprises, including minority enterprises;

(i) Assistance to a CBDO to carry out a CDBG neighborhood revitalization, community economic development, or energy conservation project, in accordance with 24 CFR 570.204. This could include activities in support of a HUD approved local entitlement grantee CDBG Neighborhood Revitalization Strategy (NRS) or HUD approved State CDBG Community Revitalization Strategy (CRS); and

(j) Eligible public service activities, including but not limited to such activities as those concerned with employment, crime prevention, child care, health, drug abuse, education, fair housing counseling, energy conservation, homebuyer down payment assistance, or recreational needs. If grant funds are used to provide public services, you are bound by the CDBG statutory requirement that not more than 15% of the total grant amount be used for public service activities that benefit low and moderate income persons. Therefore, you must propose to use at least 85% of the grant amount for activities qualifying under an eligibility category other than public services (as described at 24 CFR 570.201(e)). If you propose an activity which otherwise is eligible it may not be funded if State or local law requires that it be carried out by a governmental entity.

The CDBG Publication entitled “Community Development Block Grant Program Guide to National Objectives and Eligible Activities for Entitlement Communities'' describes the regulations, and a copy can be obtained from HUD's SuperNOFA Information Center at 1-800-HUD-8929 or 1-800-HUD-2209 for the hearing impaired.

(k) Fair housing services designed to further the fair housing objectives of the Fair Housing Act (42 U.S.C. 3601-20) by making all persons, without regard to race, color, religion, sex, national origin, family status and/or disability aware of the range of housing opportunities available to them; and

(l) Payment of reasonable grant administrative costs and carrying charges related to the planning and execution of community development activities assisted in whole or in part with grant funds.

(3) Activities Designed to Promote Training and Employment Opportunities. In selecting proposed eligible activities, we urge you to consider undertaking activities designed to promote opportunities for training and employment of low-income residents in connection with HUD initiatives such as “Twenty/20 Education Communities” in public housing and “Neighborhood Networks” (NN) in other Federally-assisted or insured housing. We also encourage you, whenever feasible, to propose implementing activities in a Federally-designated Urban or Rural (HUD or Department of Agriculture) Empowerment Zone, Urban or Rural Enterprise Community (EZ or EC), or a HUD-approved local CDBG Neighborhood Revitalization Strategy Area or HUD-approved State CDBG Community Revitalization Strategy Area.

(D) Ineligible CDBG Activities are listed at § 570.207.

IV. Program Requirements

In addition to the program requirements listed in the General Section of this SuperNOFA, you are subject to the following requirements:

(A) Institutional Eligibility. Institutions with two (2) or more active HBCU grants and who have drawn down less than 50% of the funding for each active grant prior to the 2002 application date will be ineligible to apply for a 2002 HBCU grant.

(B) Leveraging. Although a match is not required to qualify for funding, applicants that provide letters evidencing a firm commitment from other Federal (e.g., Americorps Programs), State, local, and/or private sources to provide funding, and/or in-kind goods or services to implement the proposed activities will receive points under Rating Factor 4. These letters must be dated no earlier than the date of this published SuperNOFA. If you do not have evidence of leveraging, you will receive zero (0) points for Rating Factor 4.

(C) Affirmatively Furthering Fair Housing. Please see Section II(D) of the General Section of this SuperNOFA.

(D) Employment of Local Area Residents (Section 3). Please see Section II(E) of the General Section of this SuperNOFA. The requirements are applicable to certain activities that may be funded under this program section of the SuperNOFA.

(E) Labor Standards. If you are awarded a grant, you must comply with the labor standards (Davis-Bacon) as found at 24 CFR 570.603.

(F) OMB Circulars. Your grant will be governed by: (1) OMB Circular A-21 entitled “Cost Principles for Educational Institutions”; (2) OMB Circular A-133 entitled “Audits of States, Local Governments, and Non-Profit Organizations”; and (3) the provisions of 24 CFR part 84 entitled “Grants and Agreements with Institutions of Higher Education, Hospitals and Other Nonprofit Organizations. You can access the OMB Circulars at the White House website at http://whitehouse.gov/omb/circulars/index.html

(G) Nondiscrimination. In addition to the fair housing and other civil rights assurances described under Section II (B) of the SuperNOFA General Section, applicants for the HBCU Program must comply with Section 109 of the Housing and Community Development Act of 1974, as amended. Implementing regulations for Section 109 are found under 24 CFR part 570, including, but not limited to, reporting and record-keeping requirements under 24 CFR 570.506 and 570.507.

(H) Conducting Business In Accordance With HUD Core Values and Ethical Standards. HUD requires that all grantees adhere to core values and ethical business practices, as described in Section II (B)(2) of the General Section of this SuperNOFA as a condition of award.

(I) Ensuring the Participation of Small Businesses, Small Disadvantaged Businesses, and Women-Owned Businesses. HUD requires grantees to take all necessary affirmative steps in contracting with businesses, small disadvantaged businesses and women-owned businesses in conducting your work activities. Please refer to section II (F) of the General Section of this SuperNOFA for specific requirements.

V. Application Selection Process

(A) Threshold Factors for Funding Consideration. HUD will conduct a review to insure that applications are complete and consistent with the threshold requirements of Section II (B), of the General Section of the SuperNOFA, including Compliance with Fair Housing and Civil Rights Laws, this HBCU Program section of the SuperNOFA and the HBCU Program regulations (24 CFR 570.404) before reviewing the application for rating and ranking. The General Section of the SuperNOFA provides the procedures for corrections to deficient applications.

(B) Funding of Applications. To be considered for funding, your application must receive a minimum score of 70 out of the possible total of 100 points for Factors 1 through 5. In addition, two bonus points may be awarded for RC/EZ/EC, as described in the General Section of the SuperNOFA. Within each category of eligible applicants, HUD will fund applications in rank order, until it has awarded all available funds for that category of applicant, or until there are no fundable applications remaining in that category. If there is a tie in the point scores of two applications, the rank order will be determined by the score on Rating Factor 3, 4, 2, 1, 5 in that order. HUD will give the higher rank to the application with the most points for a factor in the above order.

If funds remain after approving all fundable applications within a category of applicants, HUD may choose to add those funds to the funds available for the other category of applicants.

(C) After Selection. After selection, but prior to award, you will be required to:

(a) Negotiate. After HUD has rated and ranked all applications and HUD has selected the competition winners, HUD requires that all winners participate in negotiations to determine the specific terms of the Statement of Work and the final grant budget. HUD will follow the negotiation procedures described in Section III(D) of the General Section of the SuperNOFA.

(b) Provide Financial Management and Audit Information. If you are selected for funding, you will be required to submit a copy of your most recent audit from an Independent Public Accountant, or the cognizant government auditor, stating that your financial management system meets prescribed standards for fund control and accountability required by OMB Circular A-133, as codified at 24 CFR part 84 and provides your approved fringe benefit and overhead rates.

(D) Factors For Award Used To Evaluate and Rate Applications. HUD will use the Factors For Award set forth below to evaluate applications. Your application must contain sufficient information for HUD to review it for its merits. The score for each factor will be based on the qualitative and quantitative aspects of your response to that factor. You are not to exceed a total of fifty (50) pages to respond to Rating Factor 1 through 5. This limitation applies to your narrative response, tables, and maps, and NOT to firm commitment letters, and the performance narrative for previously funded HBCUs.

The maximum number of points that may be awarded is 102. This includes two RC/EZ/EC bonus points, as described in the General Section of the SuperNOFA.

Rating Factor 1: Capacity of the Applicant and Relevant Organizational Experience (25 Points)

This factor addresses the extent to which you have the organizational resources necessary to successfully implement your proposed activities in a timely manner. In rating this factor, HUD will consider the extent to which:

(1) Knowledge and Experience. (5 Points for previously funded applicants and 25 Points for previously unfunded applicants). Your application demonstrates the knowledge and experience of the overall project director and staff, including the day-to-day program manager, consultants (including technical assistance providers) and contractors in planning and managing the kinds of programs for which funding is being requested. Experience will be judged in terms of recent, relevant and successful experience of your staff to undertake eligible program activities. In rating this factor, HUD will consider the extent to which your organization and staff have recent, relevant, and successful experience in:

(a) Undertaking specific successful community development projects with community-based organizations or local governments; and

(b) Providing proven leadership in solving community problems which have a direct bearing on the proposed activity.

(2) Past Performance (20 Points for previously funded applicants). The extent to which you have performed successfully under your previous and current HBCU grant(s), as measured by:

(a) Your achievement of specific measurable outcome objectives consistent with timelines in your grant proposal;

(b) Your leveraging of funding consistent with or exceeding the Fund originally proposed to be leveraged for that project; and

(c) The effectiveness of your administration of any previous HBCU grants (including the timeliness and completeness of your compliance with HBCU reporting requirements and your ability to take action to resolve problems which presented themselves during the grant period). In addressing timeliness of reports, you should compare when your reports were due with when they were actually submitted.

(d) Full points will be awarded for exceptional performance, which consistently meets and exceeds promised goals.

For each open HUD HBCU grant, you must submit a performance narrative as outlined in Appendix D.

Rating Factor 2: Need/Extent of the Problem (10 Points)

This factor addresses the extent to which there is a need for funding your proposed program activities and an indication of the importance of meeting the need in the target area. In responding to this factor, you will be evaluated on the extent to which you document the level of need for the proposed activities and the importance of meeting the need.

You should use statistics and analyses contained in one or more data sources that are sound and reliable. To the extent that your community's (State or local government's) Consolidated Plan and Analysis of Impediments to Fair Housing Choice (AI) identify the level of the problem and the urgency in meeting the need, you should include references to these documents in your response to this factor. If your proposed activities are not covered under the scope of the Consolidated Plan and AI, you should indicate such, and use other sound data sources to identify the level of need and the urgency in meeting the need. Types of other sources include, but are not limited to, Census reports, HUD's Continuum of Care gaps analysis and its E-MAPS (www.hud.gov/emaps), law enforcement agency crime reports, Public Housing Authorities' Comprehensive Plan, community needs analysis such as provided by the United Way, local Urban League, the HBCU and other sound and reliable sources appropriate for the HBCU program. You also may address needs in terms of fulfilling court orders or consent decrees, settlements, conciliation agreements, and voluntary compliance agreements.

To the extent possible, the data you use should be specific to the area where your proposed activities will be carried out. You should document needs as they apply to the area where the activities will be targeted, rather than the entire locality or State, unless the target area is the entire locality or State.

Rating Factor 3: Soundness of Approach (45 Points)

This factor addresses the quality and cost-effectiveness of your proposed work plan, the commitment of your institution to sustain the proposed activities, and your actions regarding Affirmatively Furthering Fair Housing.

(1) Quality of the Work Plan (40 Points). This factor includes your statement of work and budget.

(a) Work Plan Impact (10 Points). Describe how your proposed activities will:

(i) Expand the role of the HBCU in its community;

(ii) Alleviate and/or fulfill the needs identified in Factor 2;

(iii) Relate to and not duplicate other activities in the target area. Duplicative efforts will be acceptable, if you are able to demonstrate that there is a population in need that is not being served;

(iv) Involve and empower the citizens of the target area; and

(v) Be disseminated to a wide variety of audiences, both academic and community-based, using a wide variety of media, including print and internet technology.

(b) Specific Services and/or Activities. (25 Points). Your work plan must incorporate all proposed activities. HUD will consider the feasibility of success of your program, the measurable objectives, and how timely your products will be delivered.

Describe each proposed activity, and the tasks required to implement and complete the activity. If your proposed work activity triggers federal relocation laws, you must comply with the regulations in 24 CFR 570.606 and, 49 CFR part 24, Uniform Relocation Assistance and Real Property Acquisition Policies Act of 1970 (URA) (42 U.S.C. 4601-4655).

Also, for each activity, describe:

(i) How it meets a CDBG national objective;

(ii) The sequence, duration, and the products to be delivered in 6 month intervals, up to (36) months. You should indicate which staff member, described in your response to Factor 1, will be responsible and accountable for the deliverables; and

(iii) Measurable objectives to be accomplished, e.g. the number of: persons to be trained and employed; houses to be built (pursuant to 24 CFR 570.207) or rehabilitated; minority owned businesses to be started, etc.

(c) HUD Priorities (5 Points). The extent to which your application will further and support the following priorities of HUD. The quality of the response you provide to one or more of HUD's priorities will determine the score you receive. You will receive one point for each policy priority addressed, up to a total of five (5) points. For a fuller explanation of each policy priority, please refer to Section VI of the General Section of this SuperNOFA.

(i) Increasing Homeownership Opportunities for Low and Moderate Income Persons, Persons with Disabilities and the Elderly, and Minorities and families where English may be a second language.

(ii) Improving the Quality of Public Housing and Increasing Economic Mobility Choices for Residents.

(iii) Improving Computer Access, Literacy, and Employment Opportunities.

(iv) Providing Full and Equal Access to Faith-Based and Other Community Based Organizations in HUD Program Implementation.

(v) Ensuring that Programs are Accountable for the Promises Made and the Actions Taken.

(vi) Encouraging Accessible Design Features.

(2) Affirmatively Furthering Fair Housing (5 Points). The extent to which you propose to undertake activities designed to affirmatively further fair housing, for example:

(a) Working with other entities in the community to overcome impediments to fair housing, such as discrimination in the sale or rental of housing or in advertising, provision of brokerage services, or lending;

(b) Promoting fair housing through the expansion of homeownership opportunities and improved quality of services for minorities, families with children, and persons with disabilities; or

(c) Providing mobility counseling.

In evaluating Rating Factor 3, HUD will consider the extent to which your budget is consistent with the Work Plan and the dollars indicated on the Standard Form (SF) 424. Your budget submission must include:

(i) A budget summary covering the Federal and non-Federal share of the costs proposed by cost category. You should pay particular attention to accurately estimating costs, determining the necessity for and reasonableness of costs; and correctly computing all budget items and totals. Indirect costs must be substantiated and approved by the cognizant Federal agency or you must provide an indirect cost rate plan. The indirect cost rate should be indicated in your budget;

(ii) A budget justification, which should be a narrative statement indicating how you arrived at your costs. When possible, you should use quotes from vendors or historical data. You must support all direct labor and salaries with mandated city/state pay scales or other documentation; and

(iii) A budget-by-activity which includes a listing of tasks to be completed for each activity needed to implement the program, the overall costs for each activity, and the cost for each funding source.

You must submit at least two reasonable appraisals/estimates supplied by qualified entities, other than the HBCU, if you are proposing to do any of the following: acquisition of real property; clearance and demolition; rehabilitation of residential, commercial and/or industrial structures; and/or acquisition, construction, or installation of public facilities and improvements. You may obtain guidance for securing these estimates from the local HUD's Office of Community Planning and Development.

Rating Factor 4: Leveraging Resources (10 Points)

This factor addresses your ability to secure resources which can be combined with HUD program funds to implement the proposed activities. Potential Sources of Assistance are:

• Federal, State and local governments

• Housing Authorities

• Local or national nonprofit organizations

• Banks and private businesses

• Foundations

• Faith-based and other community based organizations

• The HBCU

For each match, cash or in-kind contribution to your program, you must submit a letter from the provider on the provider's letterhead. The date of the letter from the CEO of the provider organization must be dated no earlier than the date of this published SuperNOFA. A firm commitment letter should address the following:

• The cash amount contributed or dollar value of the in-kind goods and/or sevices committed;

• How the match is to be used;

• The date the match will be made available and a statement that it will be for the duration of the grant period;

• Any terms and conditions affecting the commitment, other than receipt of a HUD HBCU Grant; and

• The signature of the appropriate executive officer authorized to commit the funds and/or goods and/or services.

In evaluating this factor, HUD will consider the extent to which you have secured firm commitments for additional resources to increase the effectiveness of your proposed activities. Resources may include funding or in-kind contributions, such as services or equipment, allocated solely for the purpose(s) of the award you are seeking. A higher number of points will be awarded for a cash match than in-kind goods or services of the same value. The maximum number of rating points you can receive for leveraging is ten (10). Applicants will receive no points for undocumented claims. Use the format provided, to respond to this factor.

Rating Factor 5: Coordination, Self-Sufficiency and Sustainability (10 Points)

This factor addresses the extent to which you have coordinated your activities with other known organizations, participate or promote participation in your community's Consolidated Planning process, and are working towards addressing a need in a holistic and comprehensive manner through linkages with other activities in the community. For specific information about your locality's planning process, contact the local Community Development Agency or the local HUD Field Office.

In evaluating this factor, HUD will consider the extent to which you demonstrate you have:

(1) Coordinated your proposed activities with those of other groups or organizations before submission in order to best complement, support and coordinate all known activities, and if funded, the specific steps you will take to share information on solutions and outcomes with others. You should describe any written agreements, memoranda of understanding in place, or that will be in place after award.

(2) Taken or will take specific steps to become active in the community's Consolidated Planning process (including the Analysis of Impediments to Fair Housing Choice) established to identify and address a need/problem that is related to your proposed activities.

(3) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

(4) Institutionalization of Project Activities. HUD will also consider the extent to which your project will result in the kinds of activities that will be sustained by the HBCU by becoming part of the mission of the HBCU. HUD will also look at the HBCUs monetary commitment to continuing to work in the target area or other similar areas and to its longer term commitment of hard dollars to similar work.

VI. Application Submission Requirements

(A) Forms, Certifications and Assurances. Your application must contain the items listed in this Section VI. These items include the standard forms, certifications, and assurances listed in the General Section of the SuperNOFA that are applicable to this funding (collectively referred to as the “standard forms”). The standard forms follow the General Section of the SuperNOFA. The remaining application items that are forms (i.e., excluding such items as narratives), referred to as the “non-standard forms” can be found in Appendix D to this program section of the SuperNOFA.

Forms applicable to the HBCU application are as follows:

(1) Standard Form SF-424, Application for Federal Assistance.

(2) Standard Form SF-424B, Assurances for Non-Construction Programs.

(3) Standard Form SF-4240, Assurances for Construction Programs.

(4) Form HUD-424M Budget Matrix

(5) Form HUD-50070, Certification for a Drug-Free Workplace.

(6) Form HUD-50071, Certification of Payments to Influence Federal Transactions. If you did do any lobbying then you must also complete the Certification and Disclosure Form Regarding Lobbying (SF-LLL).

(7) Form HUD-2880, Applicant/Recipient Disclosure Update Report.

(8) Form HUD-2992, Certification Regarding Debarment and Suspension. This certification is required by 24 CFR 24.510. (The provisions of 24 CFR part 24 apply to the employment, engagement of services, awarding of contracts, subgrants, or funding of any recipients, or contractors or subcontractors, during any period of debarment, suspension, or placement in ineligibility status, and a certification is required).

(9) Form HUD-2991, Certification of Consistency with the Consolidated Plan; and

(10) Form HUD-2990, Certification of Consistency with the RC/EZ/EC Strategic Plan. RC/EZ/EC bonus points will only be awarded when the HBCU is located within the geographic boundaries of a HUD or Department of Agriculture RC/EZ/EC. If applicable, you will need to indicate on this form if the college or university is located within the geographic boundaries of the RC/EZ/EC.

(B) Transmittal Letter. A transmittal letter must accompany your application. Your cover letter must be signed by the Chief Executive Officer (usually the President or Provost) of your institution. If the Chief Executive Officer has delegated this responsibility to another official, that person may sign, but a copy of the delegation must also be included.

(C) Letter Certifying Local Approval. This letter certifies that the jurisdiction in which your activities will take place approve the implementation of your activities.

(D) Abstract/Executive Summary (one page limit) describing the goals and activities of your project.

(E) Narrative Statement Responding To the Factors For Award (50 page limit, including tables and maps, but not including firm commitment letters, and the performance narrative). The narrative should be numbered in accordance with each factor and subfactor.

Please note that all certification forms must be signed by the authorized certifying official.

(F) HUD Form 40076, Budget Information. Also, HUD will not consider appendices to an application. You must submit your documentation, including firm commitment letters and the performance narrative with your responses to the pertinent factors in order to receive points for it.

VII. Corrections to Deficient Applications

The General Section of the SuperNOFA provides the procedures for corrections to deficient applications.

VIII. Environmental Requirements

Selection for award does not constitute approval of any proposed sites. Following selection for award, HUD will perform an environmental review of activities proposed for assistance under this program part, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select an alternate property; and will not acquire, rehabilitate, convert, demolish, lease, repair or construct property and not commit or expend HUD or local funds for these program activities with respect to any eligible property, until HUD approval of the property is received. In supplying HUD with environmental information, you should use the same guidance as provided in the HUD Notice CPD-99-01 entitled “Field Environmental Review Processing for HUD Colonias Initiative (HCI) Grants,” issued January 27, 1999.

IX. Other Matters

(1) Disclosures. HUD will make available to the public for 5 years all applicant disclosure reports (HUD Form 2880) submitted in connection with this SuperNOFA. Update reports (update information also reported on Form 2880) will be made available along with the applicant disclosure reports, but in no case for a period less than 3 years. All reports' both applicant disclosures and updates'will be made available in accordance with the Freedom of Information Act (5 U.S.C. 552) and HUD's implementing regulations at 24 CFR 4.7 Part 5.

(2) Publication of Recipients of HUD Funding. HUD's regulations at 24 CFR 4.7 provide that HUD will publish a notice in the Federal Register to notify the public of all decisions made by the Department to provide:

(i) Assistance subject to section 102(a) of the HUD Reform Act; or

(ii ) Assistance that is provided through grants or cooperative agreements on a discretionary (non-formula, non-demand) basis, but that is not provided on the basis of a competition.

(3) Section 103 HUD Reform Act. HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing information to any person (other than an authorized employee of HUD) concerning funding decisions, or from otherwise giving any applicant an unfair competitive advantage. Persons who apply for assistance in this competition should confine their inquires to the subject areas permitted under 24 CFR part 4.

(4) Debriefing. Beginning not less than 30 days after the awards for assistance are announced in the above-mentioned Federal Register notice, and for not longer than 120 days after awards for assistance are announced, HUD will provide a debriefing to any applicant requesting a debriefing on their application. All requests for debriefings must be made in writing and submitted to the person or organization identified as the Contact under the section entitled For Further Information and Technical Assistance in the program section of the Super NOFA under which you applied for assistance. Materials provided to you during your debriefing will include the final scores you received for each rating factor, final evaluator comments for each rating factor, and the final assessment indicating the basis upon which assistance was provided or denied.

X. Authority

This program is authorized under section 107(b)(3) of the Housing and Community Development Act of 1974 (42 U.S.C. 5307(b)(3)), which was added by section 105 of the Department of Housing and Urban Development Reform Act of 1989 (Pub.L. 101-235, approved December 15, 1989). The HBCU Program is governed by regulations contained in 24 CFR 570.400 and 570.404, and in 24 CFR part 570, subparts A, C, J, K, and O.

Appendices to the HBCU NOFA

A. Field Office Community Planning and Development Directors With Historically Black Colleges And Universities Located Within Their Jurisdiction

B. Historically Black Colleges and Universities Previously Unfunded By HUD During Fiscal Years 1991-2001

C. Historically Black Colleges and Universities Previously Funded By HUD During Fiscal Years 1991-2001

D. HBCU Application Forms

Appendix A—Community Planning and Development (CPD) Directors With Historically Black Colleges and Universities Located Within Their Jurisdiction

Harold Cole, Beacon Ridge Tower, 600 Beacon Parkway West, Suite 300, Birmingham, AL 35209-3144, 205-290-7630 ext. 1027

Danny Carter, Acting, TCBY Tower, 425 West Capitol Avenue, Suite 900, Little Rock, AR 72201-3488, 501-324-6375

John Perry, Richard B. Russell Federal Building, 49 Marietta Street-Five Points Plaza, Atlanta, GA 30303-2806, 404-331-5001 ext. 2449

Ben Cook, 601 West Broadway, PO Box 1044, Louisville, KY 40201-1044, 502-582-6163 ext. 214

Gregory Hamilton, Hale Boggs Federal Building, 501 Magazine Street, 9th Floor, New Orleans, LA 70130-3099, 504-589-7212 ext. 3047

Joseph O'Connor, City Crescent Building, 10 South Howard Street, 5th Floor, Baltimore, MD 21201-2505, 410-962-2520 ext. 3071

Raymond Perry, Acting, Patrick V. McNamara Federal Building, 477 Michigan Avenue, Detroit, MI 48226-2592, 313-226-7908, ext. 8055

Emily Eberhardt, Doctor A.H. McCoy Federal Building, 100 West Capitol Street, Room 910, Jackson, MS 39269-1096, 601-965-4700, ext. 3140

Ann Wiedl, Robert A. Young Federal Building, 1222 Spruce Street, Third Floor, St. Louis, MO 63103-2836, 314-539-6524

Charles T. Ferebee, 2306 West Meadowview Rd., Greensboro, NC 27407-3707, 336-547-4005

James Nichol, Southern Bell Tower, 301 West Bay Street, Suite 2200, Jacksonville, FL 32202-5121, 904-232-1777, ext. 2136

Carmen R. Cabrera, New San Juan Office Building, 159 Carlos E. Chardon Avenue, San Juan, PR 00918-0903, 787-766-5576, ext. 2005

Lana Vacha, 200 North High Street, Columbus, OH 43215-2499, 614-469-5737, ext. 8240

David Long, 500 West Main Street, Suite 400, Oklahoma City, OK 73102, 405-553-7569

Joyce Gaskins, The Wanamaker Building, 100 Penn Square East, Philadelphia, PA 19107-3380, 215-656-0624 ext. 3201

Louis E. Bradley, Strom Thurmond Federal Building, 1835 Assembly Street, Columbia, SC 29201-2480, 803-765-5564

Virginia Peck, John J. Duncan Federal Building, 710 Locust Street SW., Third Floor, Knoxville, TN 37902-2526, 865-545-4391 ext. 121

Katie Worsham, 801 Cherry Street, Fort Worth, TX 76102, 817-978-5951

John T. Maldonado, Washington Square, 800 Dolorosa Street, San Antonio, TX 78207-4563, 210-475-6820, ext. 2293

Carlos Renteria, The 3600 Centre, 3600 West Broad Street, Richmond, VA 23230-4920, 804-278-4503, ext. 3229

Ronald J. Herbert, 820 First Street NE, Suite 450, Washington, DC 20002-4205, 202-275-0994, ext. 3163

Lynn Daniels, 339 Sixth Avenue, Sixth Floor, Pittsburgh, PA 15222-2512, 416-644-2999

Jack Johnson, 909 SE First Avenue, Room 500, Miami, FL 33131-3028, 305-536-4431, ext. 2223

Appendix B—Historically Black Colleges and Universities Previously Unfunded By HUD During Fiscal Years 1991-2001

Alabama

Concordia College

Selma University

Trenholm State Technical College

Arkansas

Delaware

Delaware State University

Florida

Florida Memorial College

Georgia

Morehouse School of Medicine

Paine College

Louisiana

Southern University at Shreveport/Bossier City

Maryland

University Of Maryland Eastern Shore

Michigan

Lewis College of Business

Mississippi

Mary Holmes College

North Carolina

Ohio

Wilberforce University

Pennsylvania

Cheyney University of Pennsylvania

South Carolina

Clinton Junior College

Denmark Technical College

Morris College

Tennessee

Knoxville College

Lane College

Texas

Jarvis Christian College

Southwestern Christian College

Virginia

West Virginia

U.S. Virgin Islands

Appendix C—Historically Black Colleges and Universities Previously Funded by HUD During Fiscal Years 1991-2001

Alabama

Alabama A&M University

Alabama State University

Bishop State Community College

Gadsden State Community College

J.F. Drake Technical College

Lawson State Community College

Miles College

Oakwood College

Stillman College

Talladega College

Tuskegee University

C.A. Fredd Technical College

Arkansas

Arkansas Baptist College

Philander Smith College

Shorter College

University of Arkansas at Pine Bluff

District of Columbia

Howard University

University of the District of Columbia

Florida

Bethune-Cookman College

Edward Waters College

Florida A&M University

Georgia

Albany State University

Clark Atlanta University

Fort Valley State University

Interdenominational Theological Center

Morehouse College

Morris Brown College

Savannah State University

Spelman College

Kentucky

Kentucky State University

Louisiana

Dillard University

Grambling State University

Southern University A & M College System at Baton Rouge

Southern University at New Orleans

Xavier University of New Orleans

Maryland

Bowie State University

Coppin State College

Morgan State University

Mississippi

Alcorn State University

Coahoma Community College

Jackson State University

Mississippi Valley State University

Rust College

Tougaloo College

Hinds Community College

Missouri

Harris-Stowe State College

Lincoln University

North Carolina

Barber-Scotia College

Bennett College

Elizabeth City State University

Fayetteville State University

Johnson C. Smith University

North Carolina A&T State University

North Carolina Central University

St. Augustine's College

Shaw University

Winston Salem State University

Ohio

Central State University

Oklahoma

Langston University

Pennsylvania

Lincoln University

South Carolina

Allen University

Benedict College

Claflin College

South Carolina State University

Voorhees College

Tennessee

Fisk University

Lemoyne-Owen College

Meharry Medical College

Tennessee State University

Texas

Huston-Tillotson College

Paul Quinn College

Prairie View A&M University

Saint Philip's College

Texas Southern University

Texas College

Wiley College

Virginia

Hampton University

Norfolk State University

Saint Paul's College

Virginia State University

Virginia Union University

West Virginia

West Virginia State University

Bluefield State College

U.S. Virgin Islands

University of the Virgin Islands

Appendix D

The non-standard forms, which follow, are required for your HBCU application.

BILLING CODE 4210-32-P

FUNDING AVAILABILITY FOR THE HISPANIC-SERVING INSTITUTIONS ASSISTING COMMUNITIES PROGRAM (HSIAC)

PROGRAM OVERVIEW

Purpose of the Program. To assist Hispanic-serving institutions of higher education (HSIs) expand their role and effectiveness in addressing community development needs in their localities, consistent with the purposes of Title I of the Housing and Community Development Act of 1974, as amended.

Available Funds. Approximately $10.1 million ($7.5 million from FY 2002 appropriation + $2.6 million carry over from FY 2001).

Eligible Applicants: Only nonprofit Hispanic-serving institutions of higher education that meet the definition of an HSI established in Title V of the 1998 Amendments to the Higher Education Act of 1965 (Pub.L. 105-244; enacted October 7, 1998).

Application Deadline. June 20, 2002

Match. None.

ADDITIONAL INFORMATION

If you are interested in applying for funds under the Hispanic-serving Institutions Assisting Communities Program (HSIAC), please review carefully the General Section of this SuperNOFA and the following additional information.

I. Application Due Date, Application Kits, Further Information, and Technical Assistance

Application Due Date. Your completed application is due on or before June 20, 2002 at HUD Headquarters.

Application Submission Procedures. New Security Procedures. HUD has implemented new security procedures that impact on application submission procedures. Please read the following instructions carefully and completely. HUD will not accept hand delivered applications. Applications may be mailed using the United States Postal Service (USPS) or may be shipped via the following delivery services: United Parcel Service (UPS), Fed Ex, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date, when you submitted your application to the US Postal Service. The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, Fed EX, and Falcon Carrier. Delivery by these services must be made during HUD's Headquarters business hours, between 8:30 AM and 5:30 PM Eastern time, Monday to Friday. If these companies do not service your area, you should submit your application via the US Postal Service.

Address for Submitting Applications. Your completed application consists of an original signed application and two copies of the application. Submit your completed application to the following address: Processing and Control Branch, Office of Community Planning and Development, Department of Housing and Urban Development, 451 Seventh Street, SW, Room 7251, Washington, DC, 20410. When submitting your application, please refer to HSIAC and include your name, mailing address (including zip code), and telephone number (including area code).

HUD will accept only one application per HSI campus for this program. If your institution submits more than one application, per campus, HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to HSIAC and provide your name and address (including zip code) and telephone number (including area code). You may also access the application on the Internet through the HUD web site at http//www.hud.gov/grants.

For Further Information and Technical Assistance. You may contact Armand Carriere of HUD's Office of University Partnerships at 202-708-3061 extension 3181. If you have a hearing or speech impairment, you may access this number via TTY by calling the Federal Information Relay Service toll-free at 1-800-877-8339. You may also write to Armand Carriere via email at Armand_W._Carriere @hud.gov.

Satellite Broadcast. HUD will hold an information broadcast via satellite for potential applicants to learn more about the program and preparation of the application. For more information about the date and time of the broadcast, you should consult the HUD web site at http://www.hud.gov.

II. Amount Allocated

Approximately $7.5 million FY2002 funds plus $2.6 million carryover from FY 2001 are being made available under this SuperNOFA for HSIAC.

The maximum grant period is 36 months. The performance period will commence on the effective date of the grant agreement.

The maximum amount to be requested and awarded is $600,000. Since the Statement of Work and other facets of the technical review are assessed in the context of the proposed budget and grant request, and in the interest of fairness to all applicants, if you submit an application requesting more than $$600,000 in HUD funds, the application will be ruled ineligible. HUD reserves the right to make awards for less than the maximum amount or less than the amount requested in your application.

III. Program Description; Eligible Applicants; Eligible Activities

(A) Program Description. The purpose of HSIAC is to assist HSIs expand their role and effectiveness in addressing community development needs in their localities, including neighborhood revitalization, housing, and economic development.

(1) For the purposes of this program, the term “locality” includes any city, county, township, parish, village, or other general political subdivision of a State, Puerto Rico, or the U.S. Virgin Islands within which your HSI is located.

(2) A “target area” is the locality or the area within the locality in which your institution will implement its proposed HUD grant.

(B) Eligible Applicants. Only if your institution is a nonprofit institution of higher education and meets the statutory definition of an HSI in Title V of the 1998 Amendments to the Higher Education Act of 1965 (P.L. 105-244) are you eligible to apply. In order for you to meet this definition, at least 25 percent of the full-time undergraduate students enrolled in your institution must be Hispanic and not less than 50 percent of these Hispanic students must be low-income individuals. You are not required to be on the list of eligible institutions prepared by the U.S. Department of Education. However, if you are not, you will be required to certify in the application that you meet the statutory definition. If you are one of several campuses of the same institution, you may apply separately from the other campuses as long as your campus has a separate administrative structure and budget from the other campuses. In addition, in order to fund as many different HSIs as possible, you can only apply if you did not receive an HSIAC grant in FY 2001. If you received an HSIAC grant in FY 2000, you may reapply as long as: (1) you propose an entirely new project for a different activity; (2) you propose a different project director; and (3) you have drawn down at least 75% of your previous grant by the application due date.

(C) Eligible Activities.

(1) General. Each activity you propose for funding must meet both a Community Development Block Grant Program (CDBG) national objective and the CDBG eligibility requirements. A discussion of the national objectives can be found at 24 CFR part 570.208. Each activity that may be funded under this SuperNOFA for the HSIAC program must meet one of the three national objectives of the CDBG program which are:

(a) Benefit to low- and moderate-income persons;

(b) Aid in the prevention or elimination of slums or blight; or

(c) Meet other community development needs having a particular urgency because existing conditions pose a serious and immediate threat to the health and welfare of the community, and other financial resources are not available to meet such needs. (You must ensure that of your aggregate grant expenditures under paragraphs (a), (b), and (c) above, at least 51% are for activities benefiting low- and moderate-income persons.)

Criteria for determining whether an activity addresses one or more of these objectives are provided at 24 CFR 570.208.

Ineligible activities are listed at § 570.207. The CDBG publication entitled, “CDBG Guide to National Objectives and Eligible Activities for Entitlement Communities” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an HSI in its locality. HUD will scrutinize proposed activities for eligibility. As examples of eligible and ineligible on-campus activities, rehabilitating a library for use by your students would not be an eligible activity, but rehabilitating it to convert it to a micro-business enterprise center for the community would be; or as another example, just undertaking your normal activities (e.g., offering English as a Second Language classes) would not be considered eligible activities because they would not expand your role and effectiveness in community development activities. You should call Armand Carriere at 202-708-3061 extension 3181 if you have any questions about the eligibility of any activities you may propose. You may also look at the Office of University Partnerships website at www.oup.org for summaries of last year's winners.

(2) Examples of Eligible Activities. Examples of activities that generally can be carried out with these funds, under one the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is:

(1) Required under the provision of 24 CFR 570.606 (b) or (c); or

(2) Determined by your institution to be appropriate under the provisions of 24 CFR 570.606(d).

(g) Lead-based paint hazard reduction, pursuant to the CDBG regulations;

(h) Special economic development activities described at 24 CFR 570.203, including activities designed to promote training and employment opportunities;

(i) Assistance to facilitate economic development by providing technical assistance or financial assistance for the establishment, stabilization, and expansion of microenterprises, including minority enterprises.

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Eligible public service activitiesup to 15 percent of the grant including:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling, assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them;

(viii) Day care centers;

(ix) Continuum of care services for the homeless;

(x) Public access telecommunications centers including Twenty/20 Education Communities (formerly known as Campus of Learners) and Neighborhood Networks;

(xi) Activities to use HUD's Partnership for Advancing Technology in Housing (PATH) technology;

(l) Administrative Costs. Up to 20% of your grant for program administration costs related to the planning and execution of community development activities assisted in whole or in part with grant funds. Pre-award planning costs may not be paid out of grant funds.

(D) Ineligible CDBG Activities are listed at 24 CFR 570.207.

IV. Program Requirements

(1) Executive Order 12372, Intergovernmental Review of Federal Programs. You must comply with this Executive Order. Please refer to the General Section VII(C) for details.

(2) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include: your own institution (for both direct and indirect costs);

• Federal, State and local governments;

• Housing authorities;

• Local or national nonprofit organizations;

• Banks and private businesses; foundations; and

• Faith-based and other community based organizations.

(3) Employment of Local Area Residents (Section 3). Please see Section II(E) of the General Section of this SuperNOFA. The requirements are applicable to certain activities that may be funded under this program section of the SuperNOFA.

(4) Labor Standards. If you are awarded a grant, you must comply with the labor standards (Davis-Bacon) as found at 24 CFR 570.603.

(5) OMB Circulars. Your grant will be governed by the provisions of 24 CFR part 84 (Grants and Agreements with Institutions of Higher Education, Hospitals and other Nonprofit Organizations), A-21 (Cost Principles for Education Institutions), and A-133 (Audits of States, Local Governments, and Non-Profit Organizations). The application kit contains a detailed explanation of what these costs are. You can access the OMB circulars at the White House website at http://whitehouse.gov/omb/circulars/index.html.

(6) Nondiscrimination. In addition to the fair housing and other civil rights assurances described under Section II (B) of the General Section, you must comply with Section 109 of the Housing and Community Development Act of 1974, as amended. Implementing regulations for Section 109 are found under 24 CFR 570, including, but not limited to, reporting and record-keeping requirements under 24 CFR 570.506 and 570.507.

(7) Conducting Business In Accordance With Core Values and Ethical Standards HUD requires that all grantees adhere to core values and ethical business practices, as described in Section II.(B)(2)) of the General Section of this SuperNOFA.

(8) Ensuring the Participation of Small Businesses, Small Disadvantaged Businesses, and Women-Owned Businesses. HUD requires grantees to take all necessary affirmative steps in contracting with businesses, small disadvantaged businesses and women-owned businesses in conducting your work activities. Please refer to section II (F) of the General Section of this SuperNOFA for specific requirements.

V. Application Selection Process

HUD will conduct two types of review: a threshold review to determine applicant eligibility; and a technical review to rate the application based on the rating factors in this section.

(A) Threshold Factors for Funding Consideration. Under this threshold review, your application will only be rated if it is both in compliance with the requirements of the General Section of the SuperNOFA and the following additional standards are met:

(1) You must be an eligible HSI and meet the other eligibility requirements under Section III(B) of this program NOFA;

(2)Your application requests a Federal grant of $600,000 or less over the three year period.

(3) There is only one application from your institution or a campus of your institution;

(4) At least one of the activities in your application is eligible.

(B) Factors for Award Used to Evaluate and Rate Applications. The factors for rating and ranking applicants, and maximum points for each factor, are provided below. The maximum number of points for this program is 102. Your application must receive a minimum of 70 out of the possible total of 102 points to be considered for funding. This includes two RC/EZ/EC bonus points, as described in the General Section of the SuperNOFA.

Rating Factor 1: Capacity of the Applicant and Relevant Organizational Experience (15 points)

This factor addresses the extent to which you have the organizational resources necessary to successfully implement the proposed activities in a timely manner. In rating this factor, HUD will consider the extent to which:

(1) Knowledge and Experience (5 Points for previously funded applicants and 15 points for previously unfunded applicants). Your application demonstrates the knowledge and experience of the overall project director and staff, including the day-to-day program manager, consultants, and contractors in planning and managing the kinds of programs for which funding is being requested. Experience will be judged in terms of recent relevant and successful experience of your staff to undertake eligible program activities. In rating this factor, HUD will consider experience within the last 5 years to be recent: experience pertaining to the specific activities being relevant: and experience producing specific accomplishments to be successful. The more recent the experience and the more recent the experience of your own staff members who work on the project have in successfully conducting and completing similar activities, the greater the number of points you will receive for this rating factor. The following categories will be evaluated:

(a) Undertaking specific successful community development projects with community-based organizations; and

(b) Providing proven leadership in solving community problems which have a direct bearing on the proposed activity.

(2) Past Performance (10 points for previously funded applicants)

The extent to which you have performed successfully under your previous and current HSIAC grant(s), as measured by:

(a) Your achievement of specific measurable outcome objectives consistent with timelines in your grant proposal;

(b) Your leveraging of funding consistent with or exceeding the funds originally proposed to be leveraged for that project; and

(c) The effectiveness of your administration of any previous HSIAC grants (including the timeliness and completeness of your compliance with HSIAC reporting requirements and your ability to take action to resolve problems which presented themselves during the grant period). In addressing timeliness of reports, you should compare when your reports were due with when they were actually submitted.

(d) Full points will be awarded for exceptional performance, which consistently meets and exceeds promised goals.

Rating Factor 2: Need/Extent of the Problem (15 points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for HSIAC. You may also address needs in terms of fulfilling court orders or consent decrees, settlements, conciliation agreements, and voluntary compliance agreements. To the extent possible, the data you use should be specific to the area where the proposed activities will be carried out. You should document needs as they apply to the area where the activities will be targeted, rather than the entire locality or State, unless the target area is the entire locality or State.

Rating Factor 3: Soundness of Approach (40 points)

This factor addresses the quality and cost-effectiveness of your proposed work plan, the commitment of your institution to the proposed activities, and your actions regarding HUD's priorities and Affirmatively Furthering Fair Housing.

(1) Quality of the Work Plan (35 Points). This factor includes your Statement of Work and Budget.

(a) Specific Services and/or Activities (12 Points). Specifically, HUD will consider the extent to which your proposed activities will:

(i) Expand the role of your institution in its community;

(ii) The project you propose can be completed within the three year grant period

(iii) Relate to and not duplicate other activities in the target area;

(iv) Involve and empower the citizens of the target area, targeting specifically faith-based and other community-based grassroots organizations, in all stages of the proposed project (particularly through a committee that is representative of the target community, to guide the project); and

(v) Be disseminated to a wide variety of audiences, both academic and community-based, using a wide variety of media, including print and Internet technology.

(b) Work Plan Impact (13 Points). HUD will consider the feasibility of success of your program, the measurable objectives, and how timely your products will be delivered. Specifically, HUD will examine the extent to which:

(i) You propose to alleviate and/or fulfill the needs identified in Factor 2; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 points). The extent to which your application proposes to involve your students and faculty, as part of their coursework in outreach and applied research activities. HUD's goal is to encourage you to fund activities similar to those eligible under the COPC program to be undertaken as a complement to those proposed in your HSIAC application. For more information about the COPC program, you can look at the University Partnerships Clearinghouse web site at http://www.oup.org/techassist/copc/techcopc.html.

(d) HUD Priorities (5 points). The extent to which your application will further and support at least one of the following priorities of HUD. The quality of the response you provide to one or more of HUD's priorities will determine the score you receive. You will receive one point for each policy priority addressed, up to a total of 5 points. For a fuller explanation of each policy priority, please refer to Section VI. of the General Section of this SuperNOFA.

(i) Encouraging Accessible Design Features.

(ii) Improving Computer Access, Literacy, and Employment Opportunities.

(iii) Providing Full and Equal Access to Faith-Based and Other Community Based Organizations in HUD Program Implementation.

(iv) Ensuring that Programs are Accountable for the Promises Made and the actions taken.

(v) Improving the Quality of Public Housing and Increasing Economic Mobility Choices for Residents.

(2) Affirmatively Furthering Fair Housing (5 points). The extent to which you propose to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

Rating Factor 4: Leveraging Resources (10 points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside your institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Coordination, Self-Sufficiency and Sustainability (20 points)

This factor addresses the extent to which you have coordinated your activities with other known organizations, participate or promote participation in a community's Consolidated Planning process, and are working towards addressing a need in a holistic and comprehensive manner through linkages with other activities in the community. For specific information about your locality's process, contact the local Community Development Agency or the local HUD field office. If you propose to work in a Community Development Block Grant (CDBG) non-entitlement jurisdiction, you will only need to address subfactors (1) and (3).

In evaluating this factor, HUD will consider the extent to which you demonstrate that you have:

(1) Coordinated your proposed activities with those of other groups or organizations prior to submission in order to best complement, support, and coordinate all known activities and, if funded, the specific steps you will take to share information on solutions with others. Any written agreements, memoranda of understanding in place, or that will be in place after award, should be described.

(2) Taken or will take specific steps to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally-funded activities, including those proposed or ongoing in the community.

(4) Institutionalization of Project Activities. The extent to which your project will result in the kinds of proposed activities being sustained by becoming part of the mission of your institution. In reviewing this subfactor, HUD will consider the extent to which program activities relate to your institution's mission; demonstrate support and involvement of the institution's executive leadership; are linked by a formal organizational structure to other units related to outreach and community partnerships; are reflected in budget and planning documents; are part of a climate that rewards faculty work on these kinds of activities through promotion and tenure; benefit students because they are part of a service learning program at your institution; and are reflected in the curriculum. HUD will look at your monetary and non-monetary commitments to faculty and staff continuing work in the target area or other similar areas and to your longer term commitment (five years after the start of the grant) of hard dollars to similar work. If you have previously received an HSIAC grant, you must describe the progress your institution has made since you received the HSIAC grant in institutionalizing your project activities.

(C) Selections. In order to be funded, you must receive a minimum score of 70 points. HUD will fund applications in rank order, until it has awarded all available funds. If two or more applications have the same number of points, the application with the most points for Factor 3, Soundness of Approach, shall be selected. If there is still a tie, the application with the most points for Factor 4, Leveraging, shall be selected. A minimum of two applications which include colonias projects will be funded if they receive a minimum score of 70 points.

(1) Disclosures. HUD will make available to the public for 5 years all applicant disclosure reports (HUD Form 2880) submitted in connection with this SuperNOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(2) Publication of Recipients of HUD Funding. HUD's regulations at 24 CFR 4.7 provide that HUD will publish a notice in the Federal Register to notify the public of all decisions made by the Department to provide:

(i) Assistance subject to section 102(a) of the HUD Reform Act; or

(ii) Assistance that is provided through grants or cooperative agreements on a discretionary (non-formula, non-demand) basis, but that is not provided on the basis of a competition.

(3) Section 103 HUD Reform Act. HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

(4) Debriefing. Beginning not less than 30 days after the awards for assistance are announced in the above-mentioned Federal Register notice, and for not less than 120 days after awards for assistance are announced, HUD will provide a debriefing to any applicant requesting a debriefing on their application. All requests for debriefings must be made in writing. Materials provided to you during your debriefing will include the final scores you received for each rating factor, final evaluator comments for each rating factor, and the final assessment indicating the basis upon which assistance was provided or denied.

HUD will not fund specific proposed activities that do not meet eligibility requirements (see 24 CFR part 570, subpart C) or do not meet a national objective in accordance with 24 CFR 570.208.

HUD reserves the right to make selections out of rank order to provide for geographic distribution of funded HSIACs. If HUD decides to use this option, it will do so only if two adjacent HUD regions do not yield at least one fundable HSIAC on the basis of rank order. If this occurs, HUD will fund the highest ranking applicant within the two regions as long as the minimum score of 70 points is achieved.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Transmittal Letter, signed by the Chief Executive Officer of your institution or his or her designee. If a designee signs, your application must include the official designation of signatory authority.

(D) Abstract/Executive Summary (one page limit) describing the goals and activities of the project.

(E) Narrative Statement Addressing the Factors for Award. (50 page limit, including tables, and maps, but not including any letters of commitment and budget forms) (Please note that although submitting pages in excess of the page limit will not disqualify your application, HUD will not consider the information on any excess pages, which may result in a lower score or failure to meet a threshold.). For FY 2002, the statement of work and the budget are now part of Factor 3, Soundness of Approach.

(1) The Statement of Work incorporates all activities to be funded in your application and details how your proposed work will be accomplished. For each proposed activity, your Statement of Work must:

(a) Arrange the presentation of major related activities (e.g., rehabilitation of a child care center, provision of tutoring services), summarize each activity, identify the primary persons (as described in addressing Rating Factor 1) involved in carrying out the activity and accountable for the deliverables, and delineate the major tasks involved in carrying it out. You should also describe how each activity meets a CDBG national objective.

(b) Indicate the sequence in which tasks are to be performed, noting areas of work that must be performed simultaneously. The sequence, duration, and the products to be delivered should be presented in six month intervals, up to 24 months.

(c) Identify the specific numbers of quantifiable intermediate and end products and objectives (e.g., the number of houses of be rehabilitated, the number of people to be trained, the number of minority businesses started, etc.) you aim to deliver by the end of the grant period as a result of the work performed.

(2) The budget presentation should be consistent with the Statement of Work and include:

(a) A budget by activity, using Form HUD-30004 included in the application kit and in the program area section of the SuperNOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(c) A statement of compliance with the 20 percent limitation on “Planning and Administration” costs.

(3) Your narrative statement addressing the factors for award should address all factors for award. You should number the narrative in accordance with each factor and subfactor. (Please note that although submitting pages in excess of the page limit will not disqualify your application, HUD will not consider the information on any excess pages, which may result in a lower score or failure to meet a threshold.) In addressing Factor 4, for each leveraging source, cash or in kind, you must submit a letter, dated no earlier than the date of this SuperNOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available and a statement that it will be for the duration of the grant period;

• Any terms and conditions affecting the commitment, other than receipt of a HUD HSIAC Grant; and

• The signature of the appropriate executive officer authorized to commit the funds and/or goods and/or services. (See the application kit and the program area section of the SuperNOFA for a sample commitment letter.)

(G) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the RC/EZ/EC Strategic Plan (if applicable);

(H) Acknowledgment of Receipt of Applications (HUD-2993). If you wish to confirm that HUD received your application, please complete this form. This form is optional.

(I) Client Comment and Suggestions (HUD-2994). If you wish to offer comments on the HSIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VI. Corrections to Deficient Applications

The General Section of the SuperNOFA provides the procedures for corrections to deficient applications.

VII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select alternate property; and will not acquire, rehabilitate, convert, demolish, lease, repair, or construct property and not commit or expend HUD or local funds for these program activities with respect to any eligible property until HUD approval of the property is received. In supplying HUD with environmental information, you should use the same guidance as provided in the HUD Notice CPD-99-01 entitled “Field Environmental Review Processing for HUD Colonias Initiative (HCI) Grants” issued January 27, 1999.

VIII. Authority

This program was approved by the Congress under the section 107 of the CDBG appropriation for Fiscal Year 2001, as part of the FY 2001 HUD Appropriations Act. HSIAC is being implemented through this program section of the SuperNOFA and the policies governing its operation are contained herein.

Appendix A

The non-standard forms, which follow, are required for your HSIAC application.

BILLING CODE 4210-32-P

FUNDING AVAILABILITY FOR THE ALASKA NATIVE/NATIVE HAWAIIAN INSTITUTIONS ASSISTING COMMUNITIES PROGRAM (AN/NHIAC)

PROGRAM OVERVIEW

Purpose of the Program. To assist Alaska Native/Native Hawaiian institutions of higher education (AN/NHIs) expand their role and effectiveness in addressing community development needs in their localities, consistent with the purposes of Title I of the Housing and Community Development Act of 1974, as amended.

Available Funds. Approximately $4 million plus $2.2 million in previously unexpended FY 2001 funds, to be divided evenly between Alaska Native institutions of higher education (ANIs) and Native Hawaiian institutions of higher education (NHIs).

Eligible Applicants: Only nonprofit Alaska Native and Native Hawaiian institutions of higher education that meet the definitions of Alaska Native and Native Hawaiian institutions of higher education established in Title III, Part A, Section 317 of the Higher Education Act of 1965, as amended by the Higher Education Amendments of 1998 (Pub.L. 105-244; enacted October 7, 1998).

Application Deadline. June 20, 2002

Match. None.

ADDITIONAL INFORMATION

If you are interested in applying for funds under the Alaska Native/Native Hawaiian Institutions Assisting Communities (AN/NHIAC) Program, please review carefully the General Section of this SuperNOFA and the following additional information.

I. Application Due Date, Application Kits, Further Information, and Technical Assistance

Application Due Date. Your completed application is due on or before June 20, 2002, at HUD Headquarters.

Application Submission Procedures. New Security Procedures. In response to the terrorist attacks in September 2001 HUD has implemented new security procedures that impact on application submission procedures. Please read the following instructions carefully and completely. HUD will not accept hand delivered applications. Applications may be mailed using the United States Postal Service (USPS) or may be shipped by the following delivery services: United Parcel Service (UPS), Fed EX, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date, when you submitted your application to the US Postal Service. The Certificate of Mailing will be your documentary evidence that your application was timely filed.

Applications Sent by Overnight/Express Mail Delivery. If your application is sent by overnight delivery or express mail, your application will be timely filed if it is received before or on the application die date, or when you submit documentary evidence that your application was placed in transit with the overnight delivery/express mail service by not later than the application due date. Due to new security measures, you must use one of four carrier services that do business with HUD Headquarters regularly. These services are UPS, DHL, Fed EX, and Falcon Carrier. Delivery by these services must be made during HUD's Headquarters business hours, between 8:30 AM and 5:30 PM Eastern time, Monday to Friday. If these companies do not service your area you should submit your application via the US Postal Service.

Address for Submitting Applications. Your completed application consists of an original signed application and two copies. Submit your completed application to the following address: Processing and Control Branch, Office of Community Planning and Development, Department of Housing and Urban Development, 451 Seventh Street, SW, Room 7251, Washington, DC, 20410. When submitting your application, please refer to AN/NHIAC and include your name, mailing address (including zip code) and telephone number (including area code).

For ANIs, HUD only will accept one application per campus. For NHIs, HUD will accept one application per institution. If your institution submits more than one application per campus (for ANIs) or more than one application per institution (for NHIs), HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929 (toll free). If you have a hearing or speech impairment, please call the Center's TTY number at 1-800-HUD-2209. When requesting an application kit, you should refer to AN/NHIAC Program and provide your name and address (including zip code) and telephone number (including area code). You may also access the application on the Internet through the HUD web site at www.hud.gov.

For Further Information and Technical Assistance. You may call Armand Carriere of HUD's Office of University Partnerships at 202-708-3061, extension 3181. If you have a hearing or speech impairment, you may access this number via TTY by calling the Federal Information Relay Service toll-free at 1-800-877-8339. You may also write to Mr. Carriere via email at Armand_W._ Carriere@hud.gov.

Satellite Broadcast. HUD will hold an information broadcast via satellite for potential applicants to learn more about the program and preparation of the application. For more information about the date and time of the broadcast, you should consult the HUD web site at http://www.hud.gov.

II. Amount Allocated

Approximately $ 4 million in FY 2002 funds and $2.2 million in previously unexpended FY 2001 funds is being made available under this SuperNOFA for AN/NHIAC. Of this amount, $ 3.1 million is being made available for Alaska Native institutions (ANIs) of higher education and $ 3.1 million is being made available for Native Hawaiian institutions of higher education (NHIs). The performance period of 36 months will commence on the effective date of the grant agreement. The maximum amount which can be requested and awarded to a particular Alaska Native institution of higher education is $600,000. The maximum amount which can be requested and awarded to a particular Native Hawaiian institution of higher education is $3 million with each application composed of no more than five separate projects, each in a different neighborhood. Each separate project can be for no more than $600,000

Since the Statement of Work and other facets of the technical review are assessed in the context of the proposed budget and grant request, and in the interest of fairness to all applicants, if you are an ANI and submit an application requesting more than $600,000 in HUD funds, it will be ruled ineligible. If you are an NHI and you submit an application for more than $3 million, it will be ruled ineligible. If you are an NHI and you submit an application in which you request more than $600,000 for any one project, that particular project will be ruled ineligible. HUD reserves the right to make awards for less than the maximum amount or less than the amount requested in your application.

III. Program Description; Eligible Applicants; Eligible Activities

(A) Program Description. The purpose of AN/NHIAC is to assist AN/NHIs to expand their role and effectiveness in addressing community development needs in their localities, including neighborhood revitalization, housing, and economic development.

(1) For the purposes of this program, the term “locality” includes any city, county, township, parish, village, or other general political subdivision of a State within which your AN/NHI is located.

(2) A “target area” is the locality or the area within the locality in which your institution will implement its proposed HUD grant.

(B) Eligible Applicants. Only if your institution is a nonprofit institution of higher education and meets the statutory definition of either an Alaska Native institution of higher education or a Native Hawaiian institution of higher education, as contained in Title III, Part A, Section 317 of the Higher Education Act of 1965, as amended by the Higher Education Amendments of 1998 (Pub.L. 105-244) are you eligible to apply. If you are an Alaska Native institution of higher education, in order for you to meet this definition, at least 20 percent of your undergraduate headcount enrollment must be Alaska Native students. If you are a Native Hawaiian institution of higher education, in order to meet this definition at least 10 percent of your undergraduate headcount enrollment must be Native Hawaiian students. You are not required to be on a list of eligible AN/NHIs prepared by the U.S. Department of Education. However, if you are not, you will be required to certify in the application that you meet the statutory definition. If you are an ANI and received a grant in FY 2001, you are not eligible to submit an application in FY 2002. If you are an NHI and received a grant in FY 2001, you are not permitted to submit an application for the same specific project in a different neighborhood, another project in the same neighborhood, or another project with the same project director as the project funded in FY 2001.

If you are an ANI and your institution has multiple campuses, each one is eligible to apply separately, as long as it meets the above enrollment test. You may undertake as many projects and activities as you want, as long as you do not exceed the $600,000 cap for an application. If you are an NHI, you are permitted to submit only one application, no matter how many separate campuses you have, as long as your institution meets the above enrollment test. You may undertake up to five separate projects, each in a different neighborhood, with each project requesting no more than $600,000. In your application you must describe how each project is separate and distinct; how your proposed activities relate to that project; and that each project will not rely on any part of another project for its successful completion. A project can include one or more of the eligible activities listed below. For example, if you propose a homeownership project, you might rehabilitate housing in a neighborhood, demolish some structures to create spaces for lawns, and provide a loan pool for purchasers of this housing. All these activities could still be viewed as one project. You might also undertake a job training program for welfare-to-work families by rehabilitating a warehouse and offering the job training there. These activities could also be viewed as one project. But if you proposed to create a homeownership loan program and a job training program, these activities would be viewed as two separate projects. Your institution could undertake both, but they would have to be in two different neighborhoods.

(C) Eligible Activities. (1) General. Each activity you propose for funding must meet both a Community Development Block Grant Program (CDBG) national objective and the CDBG eligibility requirements. A discussion of the national objectives can be found at 24 CFR 570.208. Each activity that may be funded under this SuperNOFA for the Alaskan Native/Native Hawaiian program must meet one of the three national objectives of the CDBG program which are:

(a) Benefit to low- and moderate-income persons;

(b) Aid in the prevention or elimination of slums or blight; or

(c) Meet other community development needs having a particular urgency because existing conditions pose a serious and immediate threat to the health and welfare of the community, and other financial resources are not available to meet such needs. (You must ensure that of your aggregate grant expenditures under paragraphs (a), (b), and (c) above at least 51% are for activities benefiting low- and moderate-income persons).

Criteria for determining whether an activity addresses one or more of these objectives are provided at 24 CFR 570.208.

The CDBG publication entitled “ CDBG Guide to National Objectives and Eligible Activities for Entitlement Communities” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an AN/NHI in its locality. HUD will scrutinize proposed activities for eligibility. As examples of eligible and ineligible on-campus activities, rehabilitating a library for use by your students would not be an eligible activity, but rehabilitating it to convert it to a micro-business enterprise center for the community would be; another example, just undertaking your normal activities (e.g., offering English as a Second Language class) would not be considered eligible activities because they would not expand your role and effectiveness in community development activities. You should call Armand Carriere at 202 708-3061 extension 3181 if you have any questions about the eligibility of any activities you may propose. You may also look at the Office of University Partnerships website at www.oup.org for summaries of winners under the Hispanic-serving Institutions Assisting Communities program, a program very similar to this one.

(2) Examples of Eligible Activities. Examples of activities that generally can be carried out with these funds, under one of the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is (i) required under the provision of 24 CFR 570.606(b) or (c); or (ii) determined by your institution to be appropriate under the provisions of 24 CFR 570.606 (d).

(g) Lead-based paint hazard reduction, pursuant to the CDBG regulations;

(h) Special economic development activities described at 24 CFR 570.203, including activities designed to promote training and employment opportunities;

(i) Assistance to facilitate economic development by providing technical assistance or financial assistance for the establishment, stabilization, and expansion of microenterprises, including minority enterprises;

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Eligible public service activities. Up to 15 percent of the grant can be used for public service activities. Examples include:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them; (viii) Day care centers;

(ix) Continuum of care services for the homeless;

(x) Public access telecommunications centers including Twenty/20 Education Communities (formerly known as Campus of Learners) and Neighborhood Networks;

(xi) Activities to use HUD's Partnership for Advancing Technology in Housing (PATH) technology;

(l) Administrative Costs. Up to 20% of your grant for program administration costs related to the planning and execution of community development activities assisted in whole or in part with grant funds. Pre-award planning costs may not be paid out of grant funds.

(D) Ineligible CDBG Activities are listed at CFR 570.207.

IV. Program Requirements

(A) Executive Order 12372, Intergovernmental Review of Federal Programs. You must comply with this Executive Order. Please refer to Section VII(C) of the General Section for details.

(B) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include your own institution (for both direct and indirect costs); State and local governments; housing authorities; local or national nonprofit organizations; banks and private businesses; foundations; and faith-based and other community based organizations.

(C) Affirmatively Furthering Fair Housing. Please see Section II(D) of the General Section of this SuperNOFA.

(D) Employment of local area residents (Section 3). Please see Section II(E) of the General Section of this SuperNOFA. The requirements are applicable to certain activities that may be funded under this program section of the SuperNOFA.

(E) Labor Standards. If you are awarded a grant, you must comply with the labor standards (Davis-Bacon) as found at 24 CFR 570.603.

(F) OMB Circulars. Your grant will be governed by the provisions of 24 CFR part 84 (Grants and Agreements with Institutions of Higher Education, Hospitals and other Nonprofit Organizations), OMB Circular A-21 (Cost Principles for Education Institutions), and OMB Circular A-133 (Audits of States, Local Governments, and Non-Profit Organizations). The application kit contains a detailed explanation of what these costs are. You can access the OMB circulars at the White House website at http://whitehouse.gov//omb/circulars/index.html.

(G) Nondiscrimination. In addition to the fair housing and other civil rights assurances described under Section II (B) of the SuperNOFA General Section, you must comply with Section 109 of the Housing and Community Development Act of 1974, as amended. Implementing regulations for Section 109 are found under 24 CFR 570, including, but not limited to, reporting and record-keeping requirements under 24 CFR 570.506 and 570.507.

(H) Conducting Business In Accordance With Core Values and Ethical Standards. HUD requires that all grantees adhere to core values and ethical business practices, as described in Section II(B)(2) of the General Section of this SuperNOFA as a condition of award.

(I) Ensuring the Participation of Small Businesses, Small Disadvantaged Businesses, and Women-owned Businesses. HUD requires grantees to take all necessary affirmative steps in contracting with small businesses, small disadvantaged businesses and women-owned businesses in conducting your work activities. Please refer to Section II.(F) of the General Section of this SuperNOFA for specific requirements.

V. Application Selection Process

HUD will conduct two types of review: a threshold review to determine applicant eligibility; and a technical review to rate the application based on the rating factors in this section.

(A) Threshold Factors for Funding Consideration. Under this threshold review, your application can only be considered for rating and ranking if it is in compliance with both the requirements of the General Section of the SuperNOFA and the following additional standards are met:

(1) You must be an eligible Alaska Native or Native Hawaiian institution of higher education and meet the other eligibility requirements in Section III(B) of this program NOFA;

(2) If you are an ANI, you request a Federal grant of $600,000 or less over the three-year grant period; or

(3) If you are an NHI, you request a Federal grant of $3 million or less over the three year grant period composed of no more than five separate projects, each in a different neighborhood, and each project for an award of no more than $600,000.

(4) If you are an ANI, there is only one application from your institution or a campus of your institution. If you are an NHI, there is only one application from your institution, no matter how many campuses there are.

(5) At least one of the activities in your application is eligible.

(B) Factors for Award Used to Evaluate and Rate Applications. The factors for rating and ranking applicants, and maximum points for each factor, are provided below. The maximum number of points for this program is 102. This includes two RC/EZ/EC bonus points, as described in the General Section of the SuperNOFA.

Rating Factor 1: Capacity of the Applicant and Relevant Organizational Experience (15 points)

This factor addresses the extent to which you have the organizational resources necessary to successfully implement the proposed activities in a timely manner. In rating this factor, HUD will consider the extent to which:

(1) Knowledge and Experience (5 Points for previously funded applicants and 15 points for previously unfunded applicants) Your application demonstrates the knowledge and experience of the overall project director and staff, including the day-to-day program manager, consultants, and contractors in planning and managing the kinds of programs for which funding is being requested. Experience will be judged in terms of recent, relevant, and successful experience of your staff to undertake eligible activities. In rating this factor, HUD will consider experience within the last 5 years to be recent experience pertaining to the specific activities being relevant and experience producing specific accomplishments to be successful. The more recent the experience and the more recent the experience of your own staff members who work on the project have in successfully conducting and completing similar activities, the greater the number of points you will receive for this rating factor. The following categories will be evaluated:

(a) Undertaking specific successful community development projects with community-based organizations; and

(b) Providing proven leadership in solving community problems and have a direct bearing on the proposed activity.

(2) Past Performance (10 Points for previously funded applicants)

The extent to which you performed successfully under your previous AN/NHAIC grant(s), as measured by:

(a) Your achievement of specific measurable outcome objectives;

(b) Your leveraging of funding beyond the funds originally proposed to be leveraged for that project; and

(c) The effectiveness of your administration of any previous AN/NHAIC grants (including the timeliness and completeness of your compliance with AN/NHAIC reporting requirements and your ability to have resolved problems which presented themselves during the grant period). In addressing timeliness of reports, you should compare when your reports were due with when they were actually submitted.

Full points will be awarded for exceptional performance, which consistently meets and exceeds promised goals.

Rating Factor 2: Need/Extent of the Problem (15 points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for AN/NHIAC. You may also address needs in terms of fulfilling court orders or consent decrees, settlements, conciliation agreements, and voluntary compliance agreements.

To the extent possible, the data you use should be specific to the area where the proposed activities will be carried out. You should document needs as they apply to the area where the activities will be targeted, rather than the entire locality or State, unless the target area is the entire locality or State.

Rating Factor 3: Soundness of Approach (40 points)

This factor addresses the quality and cost-effectiveness of your proposed work plan and your actions regarding HUD's priorities and Affirmatively Furthering Fair Housing.

(1) Quality of the Work Plan (35 Points). This factor includes your Statement of Work and Budget

(a) Specific Services and/or Activities (12 Points). Specifically, HUD will consider the extent to which your proposed activities will:

(i) Expand the role of your institution in its community;

(ii) Alleviate and/or fulfill the needs identified in Factor 2;

(iii) Relate to and not duplicate other activities in the target area.

(iv) Involve and empower the citizens of the target area, targeting specifically faith-based and other community-based grassroots organizations, in all stages of the proposed project (particularly through a committee that is representative of the target community, to guide the project); and

(v) Be disseminated to a wide variety of audiences, both academic and community-based, using a wide variety of media, including print and Internet technology.

(b) Work Plan Impact (12 Points). HUD will consider the feasibility of success of your program, the measurable objectives, and how timely your products will be delivered. Specifically, HUD will examine the extent to which:

(i) The project you propose can be completed within the two-year grant period; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 points). The extent to which your application proposes to involve your students and faculty, as part of their coursework in outreach and applied research activities. HUD's goal is to encourage you to fund activities similar to those eligible under the COPC program to be undertaken as a complement to those proposed in your AN/NHIAC application.

(d) HUD Priorities (6 points). The extent to which your application will further and support the following priorities of HUD. The quality of the response you provide to one or more of HUD's priorities will determine the score you receive. You will receive one point for each policy priority addressed, up to a total of 6 points. For a fuller explanation of each policy priority, please refer to Section VI. of the General Section of this SuperNOFA

(i) Encouraging Accessible Design Features

(ii) Improving Computer Access, Literacy, and Employment Opportunities

(iii) Providing Full and Equal Access to Faith Based and Other Community Based Organizations in HUD Program Implementation.

(iv) Ensuring that Programs are Accountable for the Promises Made and the Actions Taken.

(v) Increasing Homeownership Opportunities for Low- and Moderate-Income Persons, Persons with Disabilities and the Elderly, and Minorities and Families where English may be a second language

(vi) Improving the Quality of Public Housing and Providing More Choices for its Residents.

(2) Affirmatively Furthering Fair Housing (5 points). The extent to which you propose to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

Rating Factor 4: Leveraging Resources (10 points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside the institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Coordination, Self-Sufficiency and Sustainability (20 points)

This factor addresses the extent to which your project will result in activities that are coordinated with other agencies in the community and can be sustained as part of the mission of your institution.

(1) Coordinated your proposed activities with those of other groups or organizations prior to submission in order to best complement, support, and coordinate all known activities and, if funded, the specific steps you will take to share information on solutions with others. Any written agreements, memoranda of understanding in place, or that will be in place after award, should be described.

(2) Taken or will take specific steps to become active in the community's Consolidated Planning process (including the Analysis of Impediments to Fair Housing Choice) established to identify and address a need/problem that is related to the activities you propose.

(3) Sustainability/Institutionalization of Project Activities. The extent to which your project will result in activities that can be sustained as part of the mission of your institution. In reviewing this subfactor, HUD will consider the extent to which program activities relate to your institution's mission, benefit students because they are part of a service learning program at your institution, and are reflected in the curriculum. HUD will look at your monetary and non-monetary commitments of faculty and staff continuing work in the target area or other areas facing similar challenges, and to your longer term commitment (five years after the start of the grant) of hard dollars to similar work.

(C) Selections. For ANI applications, each application will be reviewed and rated based on these selection criteria. For NHI applicants, each project in an application will be reviewed and rated separately. If you are an ANI, you must receive a score of at least 70 points on your application in order to be eligible for funding. If you are an NHI, you must receive a score of at least 70 points for a project in order for that project to be eligible for funding. HUD will fund applications (for ANIs) or projects (for NHIs) in rank order, until it has awarded all available funds. HUD will rank and select applications from Alaska Native institutions and Native Hawaiian institutions separately. If, within either of these two categories, two or more applications (for ANIs) or projects (for NHIs) have the same number of points, the application (for ANIs) or project (for NHIs) with the most points for Factor 3, Soundness of Approach, shall be selected. If there is still a tie, the application (for ANIs) or project (for NHIs) with the most points for Factor 4, Leveraging, shall be selected. If all the funds in one category are not awarded, they cannot be transferred to the other category.

HUD will not fund specific proposed activities that do not meet eligibility requirements (see 24 CFR part 570, subpart C), or do not meet a national objective in accordance with 24 CFR 570.208.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

(1) Disclosures. HUD will make available to the public for 5 years all applicant disclosure reports (HUD Form 2880) submitted in connection with this SuperNOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(2) Publication of Recipients of HUD Funding. HUD's regulations at 24 CFR 4.7 provide that HUD will publish a notice in the Federal Register to notify the public of all decisions made by the Department to provide:

(i) Assistance subject to section 102(a) of the HUD Reform Act; or

(ii) Assistance that is provided through grants or cooperative agreements on a discretionary (non-formula, non-demand) basis, but that is not provided on the basis of a competition.

(3) Section 103 HUD Reform Act. HUD's regulations implementing section 103 of the Department of Housing and Urban Development Reform Act of 1989 (42 U.S.C. 3537(a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR Part 4.

(4) Debriefing. Beginning not less than 30 days after the awards for assistance are announced in the above-mentioned Federal Register notice, and for not less than 120 days after awards for assistance are announced, HUD will provide a debriefing to any applicant requesting a debriefing on their application. All requests for debriefings must be made in writing. Materials provided to you during your debriefing will include the final scores you received for each rating factor, final evaluator comments for each rating factor, and the final assessment indicating the basis upon which assistance was provided or denied.

VI. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Transmittal Letter, signed by the Chief Executive Officer of your institution or his or her designee. If a designee signs, your application must include the official designation of signatory authority. If you are an NHI, this letter should cover your entire application, no matter how many projects are proposed.

(D) Abstract/Executive Summary (one page limit for ANIs and three pages for NHIs) describing the goals and activities of the project. If you are an NHI, the abstract should cover your entire application, no matter how many projects are proposed.

(E) Narrative Statement Addressing the Factors for Award. (If you are an ANI, there is a 50 page limit including tables and maps, but not including any letters of commitment or budget forms. If you are an NHI, there is a 50 page limit for each separate project, including tables and maps, but not including any letters of commitment or budget forms, with each project responding to all of the Narrative Statement Addressing the Factors for Award Requirements (Please note that although submitting pages in excess of the page limit will not disqualify your application, HUD will not consider the information on any excess pages, which may result in a lower score or failure to meet a threshold.) For FY 2002, the Statement of Work and the Budget are now part of Factor 3, Soundness of Approach.

(1) The Statement of Work incorporates all activities to be funded in your application and details how your proposed work will be accomplished. For each proposed activity, your Statement of Work must:

(a) Arrange the presentation of major related activities (e.g., rehabilitation of a child care center, provision of tutoring services), summarize each activity, identify the primary persons (as described in addressing Rating Factor (1) involved in carrying out the activity and accountable for the deliverables, and delineate the major tasks involved in carrying it out. You should also describe how each activity meets a CDBG national objective.

(b) Indicate the sequence in which tasks are to be performed, noting areas of work that must be performed simultaneously. The sequence, duration, and the products to be delivered should be presented in six-month intervals, up to 36 months.

(c) Identify the specific numbers of quantifiable intermediate and end products and objectives (e.g., the number of houses to be rehabilitated, the number of people to be trained, the number of minority businesses started, etc.) you aim to deliver by the end of the grant period as a result of the work performed.

(2) The budget presentation should be consistent with the Statement of Work and include:

(a) A budget by activity, using Form HUD-30005 included in the application kit and in the program area section of the SuperNOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(c) A statement of compliance with the 20 percent limitation on “Planning and Administration” costs.

(3) Your narrative statement addressing the factors for award should address all factors for award. You should number the narrative in accordance with each factor and subfactor. Please do not repeat material in the Statement of Work.

In addressing Factor 4, for each leveraging source, cash or in kind, you must submit a letter, dated no earlier than the date of this SuperNOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available and a statement that it will be for the duration of the grant period;

• Any terms and conditions affecting the commitment, other than receipt of a HUD AN/NHIAC Grant; and

• The signature of the appropriate executive officer authorized to commit the funds and/or goods and/or services. (See the application kit and the program area section of the SuperNOFA for a sample commitment letter.) If you are an NHI, you should separate your leveraging sources by project and include the appropriate letters in the Narrative Statement for that project.

(G) Certifications.

(1) SF-424B, Assurances for Non-Construction Programs

(2) HUD-50071, Certification of Payments to Influence Certain Federal Transactions

(3) SF-LLL, Disclosure of Lobbying Activities (if applicable)

(4) HUD-2880, Applicant/Recipient Disclosure/Update Form

(5) HUD-50070, Certification of Drug-Free Workplace

(6) HUD-2992, Certification Regarding Debarment and Suspension

(7) HUD-2991, Certification of Consistency with the Consolidated Plan and

(8) HUD-2990, Certification of Consistency with the RC/EZ/EC Strategic Plan (if applicable)

(H) Acknowledgment of Receipt of Applications (HUD-2993). If you wish to confirm that HUD received your application, please complete this form. This form is optional.

(I) Client Comments and Suggestion Form (HUD-2994). If you wish to offer comments on the AN/NHIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VII. Corrections to Deficient Applications

The General Section of the SuperNOFA provides the procedures for corrections to deficient applications.

VIII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution assist HUD to comply with part 50; will supply HUD with all available and relevant information to perform an environmental review for each proposed property; will carry out mitigating measures required by HUD or select alternate property; and will not acquire, rehabilitate, convert, lease, repair, or construct property and not commit or expend HUD or local funds for these program activities with respect to any eligible property until HUD approval of the property is received. In supplying HUD with environmental information, you should use the same guidance as provided in the HUD Handbook entitled “Field Environmental Review Processing for HUD Colonias Initiative Grants” issued January 27, 1998.

IX. Authority

This program was approved by Congress under section 107 of the CDBG appropriation for fiscal year 2002, as part of the FY 2002 HUD Appropriations Act. AN/NHIAC is being implemented through this program section of the SuperNOFA and the policies governing its operation are contained herein.

Appendix A

The non-standard forms, which follow, are required for your AN/NHIAC application.

BILLING CODE 4210-32-P

FUNDING AVAILABILITY FOR TRIBAL COLLEGES AND UNIVERSITIES PROGRAM

PROGRAM OVERVIEW

Purpose of the Program. To assist Tribal colleges and universities to build, expand, renovate, and equip their own facilities.

Available Funds. Approximately $3 million from Fiscal Year 2002 appropriation.

Eligible Applicants: Only tribal colleges and universities that meet the definition of a Tribal College or University (TCU) established in Title III of the 1998 Amendments to the Higher Education Act of 1965 (Pub. L. 105-244; enacted October 7, 1998)

Application Deadline. June 20, 2002

Match. None.

ADDITIONAL INFORMATION

I. Application Due Date, Application Kits, Further Information, and Technical Assistance

Application Due Date. Your completed application is due on or before 5:30 PM, Eastern time, on June 20, 2002 at HUD Headquarters.

Applications Submission Procedures New Security Procedures. HUD has implemented new security procedures that impact on application submission procedures. Please read the following instructions carefully and completely. HUD will not accept hand delivered applications. Applications may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date, when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx and Falcon Carrier. Delivery by these services must be made during HUD's Headquarters business hours, between 8:30 AM and 5:30 PM Eastern time, Monday to Friday. If these companies do not service your area, you should submit your application via the United States Postal Service.

Address for Submitting Applications. Your completed application consists of an original signed application and two copies of the application. Submit your completed application to the following address: Processing and Control Branch, Office of Community Planning and Development, Department of Housing and Urban Development, 451 Seventh Street, SW, Room 7251, Washington, DC 20410. When submitting your application, please refer to TCUP and include your name, mailing address (including zip code) and telephone number (including area code).

HUD will accept only one application per TCU campus for this program. If your institution has multiple campuses, each one many submit a separate application. If your institution submits more than one application, per campus, HUD will ask you to identify which application you want evaluated. Only one application will be evaluated. If you do not respond within the stipulated cure period (see Section VI below), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to TCUP and provide your name and address (including zip code) and telephone number (including area code). You may also access the application on the Internet through the HUD web site at www.hud.gov./grants.

For Further Information and Technical Assistance. You may contact Armand Carriere of HUD's Office of University Partnerships at 202-708-3061, extension 3181 or Sherone Ivey of the Office of Native American Programs at 202-401-7914, extension 4200. If you have a hearing or speech impairment, you may access this number via TTY by calling the Federal Information Relay Service toll-free at 1-800-877-8339. You may also write to Mr. Carriere via email at Armand_W._Carriere@hud.gov and Ms. Ivey at Sherone_E._Ivey@hud.gov.

Satellite Broadcast. HUD will hold an information broadcast via satellite for potential applicants to learn more about the program and preparation of the application. For more information about the date and time of the broadcast, you should consult the HUD web site at http://www.hud.gov.

II. Amount Allocated

Approximately $3 million in FY 2002 funds is being made available under this NOFA for TCUP.

The maximum grant period is 24 months. The performance period will commence on the effective date of the grant agreement.

The maximum amount to be requested and awarded is $400,000. Since the Statement of Work and other facets of the technical review are assessed in the context of the proposed budget and grant request, and in the interest of fairness to all applicants, if you submit an application requesting more than $400,000 in HUD funds, the application will be ruled ineligible. HUD reserves the right to make awards for less than the maximum amount or less than the amount requested in your application.

III. Program Description; Eligible Applicants; Eligible Activities

(A) Program Description. The purpose of TCUP is to assist TCUs to build, expand, renovate, and equip their own facilities, especially those facilities that are used by or available to the larger community.

(B) Eligible Applicants. Only if your institution is a nonprofit institution of higher education and meets the statutory definition of a TCU in Title III of the 1998 Amendments to the Higher Education Act of 1965 (Pub. L. 105-244) are you eligible to apply. If you are one of several campuses of the same institution, you may apply separately from the other campuses as long as your campus has a separate administrative structure and budget from the other campuses.

(C) Eligible Activities. Each activity you propose for funding must meet one of the following national objectives:

(a) Benefit low- and moderate-income persons;

(b) Aid in the prevention or elimination of slums or blight; or

(c) Meet other community development needs having a particular urgency and other financial resources are not available to meet such needs.

You may not use any of your grant for public services, as defined in 24 CFR part 570, subpart C, § 570.201(e). You may use no more than 20 percent of your grant for planning and administrative activities, as defined in 24 CFR part 570, subpart C, § 570.206. Grant funds can only be used to build, expand, renovate, and equip facilities owned by your institution. Long-term leases of property (i.e., at least five years in duration) are considered an acceptable form of ownership under this program. Equipment can include, but is not limited to, computers, furniture, books, etc.

While community-wide use of your facility is permissible, the facility must be predominantly for the use of your institution (i.e., it must be used by your institution at least 51% of the time). The facility to be assisted must be for some activity or activities that your institution normally provides, as opposed to activities undertaken by other entities using your facility. Buildings in which your institution undertakes activities are eligible for assistance even if they do not serve those enrolled in your institution. A few examples are provided to show eligible uses of the grant. If your institution operates a small business assistance center, renovation of the facility in which the center is located would be an eligible grant activity, because the center is part of your institution even though it is not serving enrolled students. Conversely, if your institution rents space to another entity that operates a small business assistance center, renovation of the facility in which that center is located would not be an eligible grant activity, unless the space is used by your institution at least 51% of the time. As another example, you could build a new gymnasium solely for your students or propose to offer some physical education classes or other activities in the evening to the larger community. But if you proposed to build a new gymnasium, with the majority of the activities for non-students, or with the activities being primarily run by an outside entity, that would be an ineligible activity.

While you may choose to apply for a grant for any kind of college or university facility, facilities that will be used by or available to the larger community (as long as the use is still predominantly for your institution, as noted above) are eligible to receive extra points where the larger community has participated in the planning and implementation of this project. For example, in order to get these points, you could request a grant to rehabilitate a student union building that would also serve as a community meeting facility, with the community helping to plan the renovations and also helping to operate additional activities. As another example, you could expand a facility currently serving as a small business assistance center where current and potential small business owners helped design the expansion. As a third example, you could equip a computer lab where the larger community helped you identify the equipment needs and will also help in implementing workshops, etc. If you are proposing work on a facility that is solely for your institution (e.g., a dormitory or administration building), you can only get these points if you involve the community in the planning and implementation of the project. See Rating Factor 3 for more details. You should call Armand Carriere or Sherone Ivey at the above numbers if you have any questions about the eligibility of any activities you may propose.

(D) Other Requirements.

(1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published NOFA. Potential sources of leveraging assistance include your own institution (for both direct and indirect costs), tribes, the Indian housing authorities, financial institutions and private businesses, foundations, and faith-based and other institutions.

(2) Federal Requirements. If awarded a grant, you must comply with all Federal requirements, including the following:

(a) If your TCU is a part or instrumentality of a tribe, you must comply with the Indian Civil Rights Act (25 U.S.C. 1301 et seq.), but if your TCU is not a part or instrumentality of a tribe, you must comply with the Fair Housing Act (42 U.S.C. 3601-19) and implementing regulations at 24 CFR part 100 et seq. Title VI of the Civil Rights Act of 1964 (42 U.S.C. 2000d-2000d-4) (Nondiscrimination in Federally Assisted Programs) and implementing regulations at 24 CFR part 1, and Section 109 of the Housing and Community Development Act of 1974, as amended, with respect to nondiscrimination on the basis of age, sex, religion, or disability and implementing regulations at 24 CFR part 6;

(b) The Age Discrimination Act of 1975 (42 U.S.C. 6101-6107) and implementing regulations at 24 CFR part 146, prohibiting discrimination on the basis of age;

(c) Section 504 of the Rehabilitation Act of 1973 (29 U.S.C. 794) and implementing regulations at 24 CFR part 8, prohibiting discrimination against handicapped individuals;

(d) Section 3 of the Housing and Urban Development Act of 1968 (12 U.S.C. 1701u) and implementing regulations at 24 CFR part 135, requiring that economic opportunities generated by certain HUD financial assistance shall, to the greatest extent feasible, be given to low- and very low-income persons and to businesses that provide economic opportunities for these persons;

(e) The disclosure requirements and prohibitions of 31 U.S.C. 1352 and implementing regulations at 24 CFR part 87;

(f) The requirements for funding competitions established by the Department of Housing and Urban Development Reform Act of 1989 (42 U.S.C. 3531 et seq.);

(g) Nondiscrimination provisions of Section 109 and Labor standards of section 110 of the Housing and Community Development Act of 1974 (HCDA 1974)(42 U.S.C. 5301 et seq.), referenced at 24 CFR 570.602 and 570.603, respectively. However, in accordance with HCDA 1974 section 107(e)(2), the Secretary waives the provisions of HCDA 1974 section 109 and 110 with respect to this program for grants to a TCU that is a part of a tribe, i.e., a TCU that is legally a department or other part of the tribal government, but not a TCU that is established under tribal law as an entity separate from the tribal government. If your TCU is not a part of a tribe, the nondiscrimination provisions and labor standards of HCDA section 109 and 110 apply to activities under the grant to your TCU.

(4) OMB Circulars. Your grant will be governed by the provisions of 24 CFR part 84 (Grants and Agreements with Institutions of Higher Education, Hospitals and other Nonprofit Organizations), A-21 (Cost Principles for Education Institutions), and A-133 (Audits of States, Local Governments, and Non-Profit Organizations). The application kit contains a detailed explanation of what these costs are. You can access the OMB circulars at the White House website at http://www.whitehouse.gov/OMB/circulars.

(E) Conducting Business In Accordance with Core Values and Ethical Standards. HUD requires that all grantees adhere to core values and ethical business practices, as described in section II.(B)(2)) of the General Section of this SuperNOFA.

(F) Ensuring the Participation of Small Businesses, Small Disadvantaged Businesses, and Women-Owned Businesses. HUD requires grantees to take all necessary affirmative steps in contracting with businesses, small disadvantaged businesses and women-owned businesses in conducting your work activities. Please refer to section II (F) of the General Section of this SuperNOFA for specific requirements.

IV. Application Selection Process

HUD will conduct two types of review: a threshold review to determine applicant eligibility; and a technical review to rate the application based on the rating factors in this section.

(A) Threshold Factors for Funding Consideration. Under this threshold review, your application can only be rated if it is in compliance with the requirements of this NOFA and the following additional standards are met:

(1) You must be an eligible TCU;

(2) Your application requests a Federal grant of $400,000 or less over the two-year grant period;

(3) There is only one application from your institution or a campus of your institution;

(4) At least one of the activities in your application is eligible.

In addition you must meet the following Civil Rights threshold requirements if your TCU is not a part or instrumentality of a tribe.

If you, the applicant, (1) have been charged with a systemic violation of the Fair Housing Act by the Secretary alleging ongoing discrimination; Act by the Secretary alleging ongoing discrimination; (2) are a defendant in a Fair Housing Act lawsuit by the Department of Justice alleging an ongoing pattern or practice of discrimination; or (3) Have received a letter of noncompliance findings under Title VI, Section 504 or Section 109, HUD will not rate or rank your application under this NOFA if the charge, lawsuit, or letter of findings has not been resolved to the satisfaction of the Department before the application deadline stated in this NOFA. HUD's decision regarding whether a charge, lawsuit, or letter of findings has been satisfactorily resolved will be based upon whether appropriate actions have been taken to address allegations of ongoing discrimination in the policies or practices involved in the charge, lawsuit, or letter of findings. If your TCU is a part or instrumentality of a tribe, there must be no outstanding violataions of Title II of the Civil Rights Act, which requires due process for all activities undertaken by Native American tribes.

(B) Factors Used to Evaluate and Rate Applications. The factors for rating and ranking applicants, and maximum points for each factor, are provided below. The maximum number of points for this program is 100. HUD has five standard factors and several subfactors that it uses for evaluating almost all of its programs. Additionally, the SuperNOFA provides for the award of up to two bonus points for applicants that propose to serve federally designated RC/EZ/ECs, as defined in paragraph III(C)(1) of the General Section of this SuperNOFA.

Rating Factor 1: Capacity of the Applicant and Relevant Organizational Experience (20 points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. More points will be awarded for this factor where the experience belongs to members of the TCU staff than where it belongs to consultants, contractors, and other staff outside your institution. In addition, more points will be awarded where the experience belongs to people who will actually work on your proposed project. Experience will be judged in terms of recent, relevant, and successful experience of your staff to undertake activities in:

(a) Developing and equipping facilities for your institution; and

(b) Working with your community on the planning and implementation of projects.

Rating Factor 2: Need/Extent of the Problem (15 points)

This factor addresses the extent to which there is a need for funding the proposed program activities and an indication of the importance of meeting this need. In responding to this factor, you will be evaluated on the extent to which you document the level of need for the proposed activities and the importance of meeting the need. You should use statistics and analyses contained in one or more data sources that are sound and reliable. To the extent possible, the data you use should be specific to the area where the proposed activities will be carried out.

Rating Factor 3: Soundness of Approach (45 points)

This factor addresses the quality and cost-effectiveness of your proposed work plan.

(a) Specific services and/or activities (10 Points). Specifically, HUD will consider the extent to which your proposed activities will:

(i) Meet an identified important need; and

(ii) Relate to and not duplicate other activities in the target area.

(b) Community Involvement (10 points). HUD will consider the extent to which you have involved the community in all stages of the proposed project.

(c) Work Plan Impact (10 Points). HUD will consider the feasibility of success of your program, the measurable objectives, and how timely your products will be delivered. Specifically, HUD will examine the extent to which:

(i) The project you propose can be completed within the two year grant period; and

(ii) The objectives are measurable (e.g., the number of classrooms added, the number of additional clients that can be helped in an expanded small business assistance center), result in measurable improvement to the community (e.g., fifty more people receiving computer literacy training, twenty more small businesses started, etc.), and how well you demonstrate that these objectives will be achieved by your proposed management plan and team and will result directly from your activities.

(d) Involvement of the Faculty and Students (10 points). The extent to which your application proposes to use students and faculty, as part of their coursework, for project activities. HUD's goal is to encourage students and faculty to be able to use this grant to enhance their education experience and assist their community at the same time.

(e) HUD Priorities (5 points). The extent to which your application will further and support the following priorities of HUD. The quality of the response you provide to one or more of HUD's priorities will determine the score you receive. You will receive one point for each policy priority addressed, up to a total of 5 points. For a fuller explanation of each policy priority, please refer to Section VI. of the General Section of this SuperNOFA.

(i) Encouraging Accessible Design Features.

(ii) Improving Computer Access, Literacy, and Employment Opportunities

(iii) Providing Full and Equal Access of Faith-Based and Other Community Based Organizations in HUD Program Implementation.

(iv) Ensuring that programs are accountable for the promises made and the actions taken.

(v) Improving the Quality of Public Housing and Providing More Choices for its Residents.

Rating Factor 4: Leveraging Resources (10 points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, e.g., the Tribe, the Federal government (Bureau of Indian Affairs, Department of Health and Human Services, Department of Education), etc., public or private nonprofit organizations, for-profit private organizations, or other entities. You may also establish partnerships with other program funding recipients to coordinate the use of resources in the target area.

You may count overhead and other institutional costs (e.g., salaries) that are waived as leveraging. However, higher points will be awarded if you secure leveraging resources from sources outside your institution.

You must provide letters or other documentation showing the extent and firmness of commitments of leveraged funds (including your own resources) in order for these resources to count in determining points under this factor. Commitment letters must state a dollar amount in order to earn points for this factor. If your application does not include evidence of leveraging, it will receive zero (0) points for this Factor.

Rating Factor 5: Coordination, Self-Sufficiency and Sustainability (10 points)

This factor addresses the extent to which you have coordinated your activities with other known organizations and are working towards addressing a need in a holistic and comprehensive manner through linkages with other activities in the community.

In evaluating this factor, HUD will consider the extent to which you demonstrate that you have:

(1) Coordinated your proposed activities with those of other groups or organizations prior to submission in order to best complement, support, and coordinate all known activities and, if funded, the specific steps you will take to share information on solutions with others. Any written agreements, memoranda of understanding in place, or that will be in place after award, should be described.

(2) Taken or will take specific steps to develop linkages to coordinate comprehensive solutions through meetings, information networks, planning processes or other mechanisms with:

(a) Other HUD/ONAP-funded projects/activities; and

(b) Other Federal, State or locally-funded activities, including those proposed or ongoing in the community.

(3) Sustainability/Institutionalization of Project Activities. The extent to which your project will result in the kinds of proposed activities being sustained by becoming part of the mission of your institution. In reviewing this subfactor, HUD will consider the extent to which program activities relate to your institution's mission, benefit students because they are part of a service learning program at your institution, and are reflected in the curriculum. HUD will look at your monetary and non-monetary commitments to faculty and staff continuing work in the target area or other similar areas and to your longer term commitment (five years after the start of the grant) of hard dollars to similar work.

(C) Selections. In order to be funded, you must receive a minimum score of 70 points. HUD will fund applications in rank order, until it has awarded all available funds. If two or more applications have the same number of points, the application with the most points for Factor 3, Soundness of Approach, shall be selected. If there is still a tie, the application with the most points for Factor 1, Capacity, shall be selected.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

HUD will not fund specific proposed activities that do not meet one of the national objectives referenced in Section IIIC above. In addition, HUD reserves the right to fund less than the full amount requested in your application if any of your proposed activities is not eligible for funding under the statute creating this program.

(D) Applicant Debriefing. Beginning not less than 30 days after the awards for assistance are announced in the Federal Register, and for not less than 120 days after awards for assistance are announced, HUD will provide a debriefing to any applicant requesting a debriefing on their application. All requests for debriefings must be made in writing and submitted to Armand Carriere or Sherone Ivey. Materials provided to you during your debriefing will incude the final scores you received for each rating factor, final evaluator comments for each rating factor, and the final assessment indicating the basis upon which assistance was provided or denied.

V. Application Submission Requirements

You should include an original and two copies of the items listed below. In order to be able to recycle paper, please do not submit applications in bound form. Binder clips or loose leaf binders are acceptable. Also, please do not use colored paper. Please note the page limits for some of the items listed below and do not exceed them.

Your application must contain the items listed in this section. These items include the standard forms, certifications, and assurances found in the Appendix B to the General Section of this SuperNOFA. The remaining application items that are forms (i.e., excluding such items as narratives), referred to as the “non-standard forms,” can be found in Appendix A to this program section of the SuperNOFA. The items are as follows:

(A) SF-424, Application for Federal Assistance

(B) HUD-424M, Federal Assistance Funding Matrix

(C) Transmittal Letter

(Signed by the Chief Executive Officer of your institution or his or her designee. If someone else in your institution signs this letter, your application must include an official designation of signing authority to that person.)

(D) Abstract/Executive Summary

(One page limit) describing the goals and activities of the project.)

(E) Narrative Statement Addressing the Factors for Award

(50 page limit, including tables, and maps, but not including any letters of commitment and budget forms.)

(1) The Statement of Work incorporates all activities to be funded in your application and details how your proposed work will be accomplished. (Please note that although submitting pages in excess of the page limit will not disqualify your application, HUD will not consider the information on any excess pages, which may result in a lower score or failure to meet a threshold.) For each proposed activity, your Statement of Work must:

(a) Present a step-by-step breakdown of the major activities for which you seek funding (e.g., rehabilitation of a business development center, construction of new classrooms), identify the primary persons (as described in addressing Rating Factor 1) involved in carrying out the activity and accountable for the deliverables, and delineate the major tasks involved in carrying it out. You should also describe how each activity meets one of the national objectives referenced in Section IIIC above.

(b) Indicate the sequence in which tasks are to be performed, noting areas of work that must be performed simultaneously. The sequence, duration, and the products to be delivered should be presented in six month intervals, up to 24 months.

(c) Identify the specific numbers of quantifiable intermediate and end products and objectives (e.g., the number of classrooms added, the number of additional clients that can be helped in an expanded small business assistance center, etc.) you aim to deliver by the end of the grant period as a result of the work performed.

(d) Provide a description of how any proposed new construction or renovation of existing facilities will comply with the accessibility requirements of Section 504 of the Rehabilitation Act of 1973 (24 CFR Part 8.21).

(2) The budget presentation should be consistent with the Statement of Work and include:

(a) A budget by activity, using Form HUD-30006 included in the application kit and Appendix B of this NOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution (e.g., an architect, engineer, construction firm, etc.).

(3) Your narrative statement addressing the factors for award should address each of the four factors for award. (Please note that although submitting pages in excess of the page limit will not disqualify your application, HUD will not consider the information on any excess pages, which may result in a lower score or failure to meet a threshold.)

In addressing Factor 4, for each leveraging source, cash or in-kind, you must submit a letter, dated no earlier than the date of this NOFA, from the provider on the provider's letterhead that addresses the following:

(i) The dollar amount or dollar value of the in-kind goods and/or services committed. For each leveraging source, the dollar amount in the commitment letter must be consistent with the dollar amount you indicated in the Budget;

(ii) How the leveraging amount is to be used;

(iii) The date the leveraging amount will be made available;

(iv) Any terms and conditions affecting the commitment, other than receipt of a HUD TCUP Grant; and

(v) The signature of the appropriate executive officer authorized to commit the funds and/or goods and/or services. (See the application kit and Appendix B for a sample commitment letter.)

(G) Certifications.

(1) SF-424B, Assurances for Non-Construction Programs or SF-424D, Assurances-Construction Programs, depending on the activities you propose to undertake.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension.

(H) Acknowledgment of Receipt of Applications (HUD-2993). If you wish to confirm that HUD received your application, please complete this form. This form is optional.

(I) Client Comment and Suggestions (HUD-2994). If you wish to offer comments on the TCUP NOFA, please complete this form. This form is optional.

You may not submit appendices or general support letters or resumes. If you submit letters of leveraging commitment, they must be included in your response to Factor 4. If you submit other documentation, it must be included with the pertinent factor responses (taking note of the page limit).

VI. Environmental Requirements

Environmental Review. Certain eligible activities under this NOFA are categorically excluded from review under the National Environmental Policy Act of 1969 (42 U.S.C. 4321) and are not subject to review under related laws, in accordance with 24 CFR 50.19 (b)(1), (b)(3), (b)(12), or (b)(14). Selection for award does not constitute approval of any proposed sites. If the TCUP application proposes the use of grant funds to assist any non-exempt activities, following selection for award, HUD will perform an environmental review of activities proposed for assistance under the program, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select alternate property; and will not acquire, rehabilitate, convert, demolish, lease, repair, or construct property and not commit or expend HUD or local funds for these program activities with respect to any eligible property until HUD approval of the property is received. In supplying HUD with environmental information, you should use the same guidance as provided in HUD Notice CPD-99-01 entitled “Field Environmental Review Processing for HUD Colonias Initiative (HCI) Grants” issued January 27, 1999.

VII. Authority

This program was approved by the Congress under the CDBG appropriation for Fiscal Year 2001, as part of the FY 2002 HUD Appropriations Act (Public Law 107-73). TCUP is being implemented through this NOFA and the policies governing its operation are contained herein.

Appendix A

The non-standard forms, which follow, are required for your TCUP application.

BILLING CODE 4210-32-P

FUNDING AVAILABILITY FOR THE FAIR HOUSING INITIATIVES PROGRAM (FHIP)

PROGRAM OVERVIEW

Purpose of the Program. To increase compliance with the Fair Housing Act (the Act) and with substantially equivalent State and local fair housing laws.

Available Funds. For FY 2002, approximately $20,250,000 is allocated to three (3) Initiatives as follows:

A. Private Enforcement Initiative (PEI) $11,825,000 million.

B. Education and Outreach Initiative (EOI) $6,325,000 million.

C. Fair Housing Organizations Initiative (FHOI) $2,100,000 million.

Eligible Applicants. Eligibility requirements are described in detail under each of the funded Initiatives and Components, set forth below, and eligible applicants may include: Qualified Fair Housing Organizations (QFHOs); Fair Housing Enforcement Organizations (FHOs); public or private for-profit or not-for-profit organizations or institutions, or other public or private entities that are working to prevent or eliminate discriminatory housing practices; faith-based community-based organizations, State and local governments or their agencies; and Fair Housing Assistance Program (FHAP) agencies (as defined in Section IV of this NOFA).

Application Deadline. May 22, 2002.

Match: No matching funds are required for the Education and Outreach or Private Enforcement Initiatives. However, sponsored organizations under FHOI must meet the requirements described in Section IV (D) below.

ADDITIONAL INFORMATION

If you are interested in applying for funding under the Fair Housing Initiatives Program (FHIP), please review carefully the General Section of this SuperNOFA (hereafter, the General Section), the FHIP Authorizing Statute (Sec. 561 of the Housing and Community Development Act of 1987, as amended) and the FHIP Regulations (24 CFR 125.103-501).

I. Application Due Date, Further Information, and Technical Assistance

A. Application Due Date. You must submit completed applications for all Initiatives and Components by 6 p.m., Eastern Time, on or before May 22, 2002 at HUD Headquarters building, at the address shown below.

See the General Section of this SuperNOFA for specific procedures governing the method of application submission (e.g., mailed applications, express mail, or overnight delivery). In addition, review all information on delivery services permitted into HUD Headquarters building without escort.

B. Address for Submitting Applications. Your application consists of an original signed application form (SF 424) and all items listed in the Checklist (See Section IV and Appendix C for all submission requirements). Submit your completed application (one original and five copies) to: FHIP SuperNOFA 2002 [Specify the Initiative/Component to which you apply], FHIP/FHAP Support Division, Office of Fair Housing and Equal Opportunity, U.S. Department of Housing and Urban Development, 451 Seventh Street, SW, Room 5224, Washington, DC 20410.

When you submit your application, please provide the following information at the front top left corner of the mailing envelope: your organization's name, name of contact person, mailing address (including zip code), telephone number (including area code), and fax number. Applicants for more than one Initiative or Component must submit six copies for each Initiative or Component for which you apply. See General Section of the NOFA for further information on Consolidated Application Submissions.

C. For Further Information and Technical Assistance. You may contact Myron P. Newry or Denise L. Brooks of the FHIP Division, at 202-708-0800 (this is not a toll-free number). Persons with hearing or speech impairments may contact the Division by calling 1-800-290-1617 (this is a toll-free number). Contained in Appendix A of this NOFA is a Question and Answer section, please review this for answers to some of your questions.

Satellite Broadcast. HUD will hold an information broadcast via satellite for prospective applicants to learn more about the program and preparing applications. For more information about the date and time of this broadcast, you should consult the HUD web site at http://www.hud.gov/grants.

II. Amounts Allocated

In Fiscal Year 2002, $20,250,000 was appropriated for the Fair Housing Initiatives Program. This amount is being made available on a competitive basis to eligible organizations responding to this NOFA. The amount available for each Initiative or Component and the maximum amount of funds that can be awarded for each grant are specified as follows:

(A) Private Enforcement Initiative (PEI). Approximately $11,825,000 million is allocated; maximum award is $275,000 per grant; project duration is 12 to 18 months.

(B) Education and Outreach Initiative (EOI). Approximately $6,325,000 million is allocated to the Regional/Local/Community-Based Program and a National Program. The maximum award is $100,000 for the Regional/Local/Community-Based Program and the project duration is 12 months. The maximum award for the National Program is $1,000,000 and the project duration is 12 months for the Media Campaign Component and 24 months for the Fair Housing Awareness Component. EOI has four Components: Regional/Local/Community-Based Programs:

(1) EOI—General Component. Approximately $3,500,000 million is allocated.

(2) EOI—Disability Component. Approximately $825,000 is allocated.

National Program:

(3) Media Campaign Component. Approximately $1,000,000 is allocated.

(4) Fair Housing Awareness Component. Approximately $1,000,000 is allocated.

(C) Fair Housing Organizations Initiative (FHOI). Approximately $2,100,000 is allocated; project duration is three years. Maximum award is $1,050,000 allocated over a three year period at up to $350,000 per year.

III. Program Description; Eligible Applicants; Eligible Activities

A. Program Description. The Fair Housing Initiatives Program (FHIP), 24 CFR part 125, assists fair housing activities that increase compliance with the Fair Housing Act (the Act) and with the substantially equivalent fair housing laws administered by state and local government agencies [Fair Housing Assistance Program Agencies (FHAP)]. Applications submitted for funding under EOI are required to describe a complaint referral process that should result in referrals to HUD of fair housing complaints and other information regarding discriminatory housing practices. Applications selected for funding under PEI and FHOI must comply with the Mandatory Referral requirement described in Section IV(B) of this NOFA.

B. Changes to this year's NOFA. To improve the FHIP NOFA, a number of changes have been made this year. There are 2 new EOI National Program Components: the Media Campaign and the Fair Housing Awareness Components. The project duration for EOI Regional/Local/Community-Based Program and the National Program Media Campaign awards is 12 months and for the National Program's Fair Housing Awareness Component 24 months. For FHOI, the project duration is 3 years. Changes also have been made in how the applications are rated.

For EOI: See Section V (D) “Factors for Award Used to Evaluate and Rate Regional/Local Community-Based Applications” of this NOFA on changes to EOI—General.

For FHOI: HUD has determined that rural areas and areas with immigrant populations (especially racial and ethnic minorities who are not English speaking or have limited English proficiency) are underserved. These underserved areas include: the Colonias, rural areas, or areas that contain large concentrations of persons protected under the Act where either no public or private fair housing enforcement organization exists or the jurisdiction is not sufficiently served by one or more public or private fair housing enforcement organizations.

For PEI: We have increased the award cap from $250,000 to $275,000. In addition, we have eliminated the requirement that applicants with current PEI grants be excluded from participating in this year's NOFA.

Finally, for PEI and FHOI, a total of 5 points will be deducted if the applicant is an organization that has received FHIP funding in the past to conduct enforcement-related activities has not complied with the program requirements regarding mandatory referrals and reimbursement of the Federal government for compensation resulting from FHIP-funded enforcement activity. If you have received PEI funds previously, your application should clearly state how you have complied with this requirement.

Other Changes. This year HUD will take into account an applicant's past performance in evaluating applications for funding. HUD will assess performance ratings for applicants who have received FHIP funding in 1998, 1999, or 2000. If the applicant has received a “poor” performance rating for its most recent performance rating from its Government Technical Representative, its application is ineligible for FY 2002 competition. An applicant that does not agree with its determination of ineligibility for the FY 2002 competition because of “poor” performance must address to HUD's satisfaction the factors resulting in the “poor” performance rating before the FHIP application deadline. If the “poor” performance rating is not resolved to the Department's satisfaction before the application deadline, the application remains ineligible. HUD is interested in increasing the performance level of all grantees; therefore, applicants who are deemed ineligible because of a “poor” performance rating have the right and are encouraged to seek technical assistance from HUD to correct their performance in order to be eligible for future NOFA competition. All other applicants who have not received FHIP funding, or have received FHIP funding prior to 1998 will be evaluated on past performance as outlined in Rating Factor 1.

Finally, applicants must submit with their application a written code of conduct and a description of the methods you will use to ensure that all officers, employees and agents of your organization become aware of your code of conduct (See General Section). [Additional clarification is provided in Appendix A, Most Frequently Asked Questions.]

Bonus Points: See General Section III (C) “Factors For Award Used to Evaluate and Rate Applications” for information on how Bonus Points will be awarded under this SuperNOFA.

C. Ineligible Activities. You are reminded to read carefully the eligibility requirements for each Initiative and Component. Enforcement-related activities are not eligible for funding under EOI and there is a limit on the amount of education-related activities that can be funded in an enforcement grant (PEI or FHOI). No awardee may use FHIP funds to settle a claim, satisfy a judgment, or fulfill a court order in any defensive litigation (24 CFR 125.104(f)).

D. Priorities. Immigrant populations (especially racial and ethnic minorities who are not English speaking or have limited proficiency in English) often face formidable barriers because of discriminatory housing practices. It is especially important that fair housing services be directed to these underserved and immigrant populations and to the specific types of discrimination they may encounter. All applicants are encouraged to address the fair housing needs of these populations.

For FHOI, HUD will fund applications that purpose to provide services in underserved areas (See Section III (B)(1)(b) of this NOFA.

HUD expects applicants to address all forms of housing discrimination covered under the Fair Housing Act. In addition, since the September 11, 2001 attacks in the United States, incidents of bias based on religion and national origin have been on the rise. Applicants should specifically address discrimination under the Fair Housing Act based on national origin and religion and describe education and outreach efforts to these vulnerable communities to provide information about their fair housing rights.

Finally, HUD has determined there is a need to ensure equal opportunity and access to housing in communities across the nation. Applicants submitting applications to the Education and Outreach National Program's two Components (Media Campaign Component and Fair Housing Awareness Component) must address this need. For the Media Campaign Component, applicants are required to provide a centralized and coordinated effort for the development and implementation of a fair housing media campaign designed to educate the public about their fair housing rights. The Fair Housing Awareness Component will provide education and outreach to promote public awareness on predatory lending.

(A) Private Enforcement Initiative (PEI). This Initiative assists private, tax-exempt fair housing enforcement organizations in the investigation and enforcement of alleged violations of the Act and substantially equivalent State and local fair housing laws. As a condition of funding, you will be required to refer to HUD all cases arising from FHIP-funded enforcement activities (see Mandatory Referrals, Section IV below).

(1) Eligible Applicants. Eligible applicants are fair housing enforcement organizations (FHOs) with at least one year of experience in complaint intake, complaint investigation, testing for fair housing violations, and meritorious claims in the two years prior to the filing of this application (24 CFR 125.401(b)(2)) and qualified fair housing enforcement organizations (QFHOs) with at least two years of enforcement-related experience, as noted above, within the three years prior to filing this application, (24 CFR 125.103). You must certify, in the Statement of Eligibility that you submit with this application, that your organization is an FHO or a QFHO and document in the Statement of Eligibility that your organization has the required one or two years of enforcement-related experience. Remember, if you fail to submit the completed Statement of Eligibility (Appendix C), this will be a technical deficiency and you will have 14 days to provide the requested materials (Section V of the General Section of the SuperNOFA). All applicants claiming QFHO and FHO status are required also to submit with their application a copy of its Letter of Determination from the Internal Revenue Service (IRS) in support of its 501(c)(3) tax-exempt status. However, failure to provide this document with your application is a technical deficiency and you will have 14 days to provide the requested information (Section V of the General Section of the SuperNOFA).

(2) Eligibility of Successor Organization. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes in the Statement of Eligibility that it is a private, tax-exempt organization with the requisite two years for a QFHO or one year experience for an FHO.

(3) Eligible Activities include:

(a) Complaint intake of allegations of housing discrimination, testing, evaluating testing results, or providing other investigative and complaint support for administrative and judicial enforcement of fair housing laws;

(b) Investigations of individual complaints and systemic housing discrimination for further enforcement processing by HUD, through testing and other investigative methods;

(c) Mediated agreements or other voluntary resolution of allegations of fair housing discrimination after a complaint has been filed; and

(d) Costs and expenses of litigating fair housing cases, including expert witness fees.

(B) Education and Outreach Initiative (EOI). This Initiative assists projects that inform the public about the rights and obligations under the Act and substantially equivalent State and local fair housing laws. Under this Initiative, you must develop a complaint referral process so that activities funded under this Initiative will result in referrals to HUD of fair housing complaints and other information regarding possible discriminatory housing practices. Applications are solicited for the EOI-Regional/Local/Community-Based Program—in which activities are conducted on a regional/local/community-based level and in a National Program. You may submit your application for the Regional/Local/Community-Based General Component or Disability Component or the National Program's Media Campaign Component or Fair Housing Awareness Component depending upon its focus.

(1) Eligible Applicants. Eligible applicants are QFHOs; FHOs (under this Initiative an FHO is not bound by the requirement to have engaged in enforcement-related activity for at least one year, (24 CFR 125.103); public or private, for-profit or not-for-profit organizations or institutions and other public or private entities that are formulating or carrying out programs to prevent or eliminate discriminatory housing practices (this category includes entities that will be established as a result of receiving an award under this FHIP NOFA); faith-based or community-based organizations; State or local governments or their agencies; and agencies that participate in the FHAP (see the list of FHAP agencies at Appendix D). If you are a disability advocacy group, faith-based or community-based organization or traditional civil rights organization, you are encouraged to apply under this Initiative.

(2) Eligible Activities. The following are eligible activities for EOI: conducting educational symposia; distributing existing fair housing materials throughout your project area; providing outreach and information on fair housing through printed and electronic media; and providing outreach to persons with disabilities and/or their support organizations and service housing providers, and the general public regarding the rights of persons with disabilities under the Act. When conducting your outreach activities, we encourage the use of existing, locally or nationally available fair housing materials; except that you may modify those existing materials in languages other than English.

The Components for the Regional/Local/Community-Based Program are described below:

Disability Component. Applications that emphasize the fair housing needs of persons with disabilities, so that persons with disabilities, housing providers and the general public better understand the rights and obligations under the Act and more fully appreciate the forms of housing discrimination that persons with disabilities may encounter, should submit their applications to the EOI—Disability Component. Although the Component has a disability focus, the funded activities must provide education and outreach to all persons protected under the Act.

General Component. Applications for all other fair housing education and outreach activities should be submitted to the EOI-General Component. One point will be awarded for applications from faith-based or community-based organizations or organizations that propose to either partner or sub-contract with faith-based or community-based organizations in conducting their work programs. Applicants who are submitting applications in conjunction with a faith-based or community-based organization must include in their application a letter of firm commitment from that faith-based or community-based organization. This letter of firm commitment must: (1) identify the faith-based or community-based organization; (2) identify the activities/tasks to be undertaken by the faith-based or community-based organization under this project; and (3) be signed by the individual or organization with legal authority able to make commitments for the organization.

Finally, up to three points will be awarded for applications specifically addressing housing discrimination based on national origin and religion since the September 11, 2001 attacks, as described in Section III(D), Priorities, of this NOFA.

The Components for the National Program are described below:

Media Campaign Component. Activities for funding must provide a centralized, coordinated effort for the development and implementation of a fair housing media campaign designated for FY 2003 Fair Housing Month activities. Additional information on the EOI-National Program is contained within this NOFA under the Factors for Award—National Program Media Campaign Component.

Fair Housing Awareness Component. Grantees must conduct a national campaign to educate the public on the dangers of abusive lending practices that target specific neighborhoods or vulnerable segments of the population. Additional information on the EOI National Program is contained within this NOFA under the Factors for Award—National Program Fair Housing Awareness Component.

(C) Fair Housing Organizations Initiative (FHOI). This Initiative provides assistance to projects that establish or build the capacity of organizations to become viable fair housing enforcement organizations that conduct fair housing enforcement activities in underserved areas (as defined in Section IV) with large concentrations of persons protected by the Act. This is accomplished with the assistance of a sponsoring organization. It is the sponsoring organization that submits the application under this Initiative. The sponsored organization whose enforcement capacity is established or enhanced by funding under this Initiative, will be allowed to participate in this Initiative for three years contingent upon annual performance reviews. Funds are allocated under this NOFA for 3 years and may be distributed to the sponsored organization by the sponsoring organization. The sponsoring organization may expend FHIP funds for administrative costs as described below. HUD has targeted for funding under this Initiative projects that will provide fair housing enforcement services to the Colonias, rural areas, or to areas with large concentrations of individuals who fall within one or more categories protected under the Act and who are immigrants (especially racial and ethnic minorities who are not English speaking or have limited English proficiency).

(1) Eligible Applicants. Only the sponsoring organization is eligible to apply under this Initiative. The sponsoring organization must be a qualified fair housing enforcement organization (QFHO) with at least 2 years of experience in complaint intake, complaint investigation, testing for fair housing violations, and meritorious claims in the 3 years prior to the filing of this application, as defined at 24 CFR 125.103. You must certify in the Statement of Eligibility that you submit with this application that your organization is a QFHO. Remember, if you fail to submit the completed Statement of Eligibility (Appendix C), this will be a technical deficiency and you will have 14 days to provide the requested materials (see Section V of the General Section of the SuperNOFA on technical corrections that do not affect scoring). You are also required to submit a copy of your IRS tax-exempt status with your application. However, failure to provide this document with your application is a technical deficiency, and you will have 14 days to provide the requested information (see Section V of the General Section of the SuperNOFA).

Eligibility of Successor Organization. HUD recognizes that a QFHO may merge with one or more organizations. The merger of a QFHO into a new organization, that has a separate Employer Identification Number (EIN), does not confer QFHO status upon the successor organization. To determine whether the successor organization meets the eligibility requirements for this Initiative, HUD will consider the enforcement-related experience of the successor organization (based upon the successor organization's EIN). The successor organization is not eligible to apply under this Initiative unless it can establish that it is a private, tax-exempt organization with the requisite 2 years of experience as a QFHO.

(2) Eligible Activities. The proposed activities must build the enforcement capacity of the sponsored organization so that it can undertake all of the following activities by the conclusion of year 3 of the grant cycle:

(a) Complaint intake of allegations of housing discrimination, testing, evaluating testing results or providing other investigative and complaint support for administrative and judicial enforcement of fair housing laws;

(b) Investigations of individual complaints and systemic housing discrimination for further enforcement processing by HUD, through testing and other investigative methods;

(c) Mediation or other voluntary resolution of allegations of fair housing discrimination after a complaint has been filed; and

(d) Costs and expenses of litigating fair housing cases, including expert witness fees.

(3) Administrative Costs for the Sponsoring Organization. The sponsoring organization may use no more than 15 percent of the annually awarded funds to cover its costs to administer the grant

IV. Program Requirements

(A) Requirements for All Initiatives.

In addition to the Threshold Requirements in Section II(B) of the General Section of this SuperNOFA, your FHIP-funded program application must also meet the following requirements:

(1) Protected Basis. All FHIP-funded projects must address housing discrimination based upon race, color, religion, sex, disability, familial status, or national origin.

(2) Broad-Based and Full-Serviced. Your organization must conduct a broad-based and full-service enforcement project that addresses discrimination against all persons protected by the Fair Housing Act on the basis of race, color, religion, sex, disability, familial status, or national origin.

(3) Performance Measures and Products. Your application must demonstrate how your project activities will support HUD goals, identify performance measures/outcomes in support of those goals, describe your proposed record-keeping and evaluation systems, and identify current (baseline) conditions and target levels of the performance measures that you plan to achieve. Your application also must contain a strategy for generating project products, with related timelines and milestones. In addition, you must include in your application and work plan program measures to ensure that promises made in your application for persons to be assisted, timelines and budgets to be followed, and results to be achieved can be accounted for and independently assessed to ensure performance goals have been met. Applicants who have included means of assessing progress, tracking performance goals and achievements against promises made in the application will receive higher rating points. If selected for funding, your final performance measures will be negotiated between you and HUD as part of your executed grant agreement.

(4) Reports and Meetings on Performance Measures and Products. You are required to report quarterly on the status of project products against your approved milestones and timelines and meet at least semi-annually with HUD to ensure that project activities satisfy grant requirements. In your final grant report, you must describe the status of performance measures in a spreadsheet format or other manner specified by the Department.

(5) Single Award Limitation/Preference Must Be Stated. You may submit applications under all Initiatives and Components for which your organization is eligible but you will receive only one grant with the exception that successful FHOI applicants may receive a grant award under one of the other Initiatives. If you submit more than one application for funding, you must clearly state your preference in two places in each application you submit: (i) the Transmittal Letter and (ii) the Cover Page. The Selecting Official may disregard your preference if it is in the best interest of the Program to do so. Failure to submit your preference at the time of application will be treated as a technical deficiency, which may be corrected as noted in Section V of the General Section of this SuperNOFA.

(6) Independence of Awards. HUD will review each application separately and without reference to other applications submitted by you or others. You may submit one application to each of the Initiative/Components outlined in this NOFA. However, each application you submit must be independent and capable of being implemented without reliance on the selection of other applications submitted by you or other applicants.

(7) Project Starting Period. For planning purposes, assume a start date no later than thirty days after completion of negotiations. Negotiations are estimated to start on or before September 30, 2002.

(8) Page Limitation and Formatting Requirements. All pages in your application must be numbered consecutively from beginning to end. The maximum number is 10 pages per factor. This does not include any attachments that may be required under each factor (for example, the proposed statement of work and budget required under Factor 3: Soundness of Approach). The narrative pages must be double-spaced and you are required to use 12 point typesize. You must respond fully to each factor to obtain maximum points. Failure to: provide narrative responses to all factors or omitting requested information will result in less than the maximum points available for the given Rating Factor for Award or subfactor. Failure to provide double spaced, 12 point typesize narrative responses will result in five points being deducted from your overall score (one point per factor).

(9) Training funds. Your proposed budget must set-aside funds to participate in HUD-sponsored or approved training ($3,000 for EOI and PEI annually; and $6,000 annually for FHOI). Requests to attend HUD-approved training must be submitted to the GTR for approval in advance of the requested training. Do not include amounts over the $3,000 or $6,000 (as appropriate) for the training set-aside in this category. If applicants do not include these funds in the budget and you are selected for an award, HUD may modify your budget, reallocating the appropriate amount for training.

(10) Payment Contingent on Completion. Payment of FHIP fund is made on a reimbursement basis. Payments are contingent on the satisfactory and timely completion of your project activities and products as reflected in your grant or cooperative agreement. Requests for funds must be accompanied by financial and progress reports.

(11) Accessibility Requirements. All activities, facilities, and materials funded by this Program must be accessible to persons with disabilities (24 CFR 8.2, 8.4, 8.6, and 8.54).

(12) Copyright Materials. You may copyright any work that is eligible for copyright protection subject to HUD's right to reproduce, publish, or otherwise use your work for Federal purposes, and to authorize others to do so as required in 24 CFR 84.36.

(13) Complaints Against Grantees/Cooperative Agreements. Each FHIP grantee/cooperative agreement is overseen by a HUD Grant Officer. Complaints from the public against FHIP grantees should be forwarded to the Grant Officer. The Grant Officer's name and contact information is provided in the grant/cooperative agreement. If, after notice and consideration of relevant information, the Grant Officer concludes that there has been inappropriate conduct, such as a violation of FHIP program requirements, grant, or cooperative agreement terms or conditions or any other applicable statute, regulation or other requirement, HUD will take appropriate action in accordance with 24 CFR 84.62. Such action may include: written reprimand; consideration of past performance in awarding future FHIP applications; repayment to HUD of funds received under the grant; or temporary or permanent denial of participation in the FHIP in accordance with 24 CFR part 24.

(14) Avoiding Double Payments. If you are awarded funds under this NOFA, you (and any subcontractor or consultant) may not charge or claim credit for the activities performed under this project to any other Federal project.

(15) Ineligible Activities.

(a) Fair Housing and Free Speech. None of the amounts made available under this NOFA may be used to investigate or prosecute under the Act any activity engaged in by one or more persons, including the filing or maintaining of a non-frivolous legal action that is protected by the First Amendment to the U.S. Constitution. This includes activities engaged in for the purpose of achieving or preventing action by a government official or entity.

(b) Insurance Testing. HUD will fund organizations who conduct insurance-related enforcement work under the FHIP, but no project will focus exclusively on this issue.

(16) Key Personnel. If your organization is selected for award, you must certify to HUD (HUD Form 40076) whether any staff member identified in the proposal or proposed to be hired (including signator on the SF-424) has been convicted of a felony or crime involving fraud or perjury. In advising HUD, you must specify the crime(s) for which the person was convicted, the date entered, and the penalty received and submit a copy of the report from the police or court documenting the conviction. Depending upon the facts, HUD may place special conditions upon the grantee or the particular person's participation in grant funded activities.

(17) Definitions. The definitions that apply to this FHIP section of the NOFA are as follows:

Broad-based proposals those that include activities that are not limited to a single fair housing issue; instead, they cover multiple issues related to housing discrimination covered under the Act, such as: rental, sales and financing of housing. (See also Full Service Projects below)

Colonias (See General Section).

Complainant means the person (including the Assistant Secretary) who files a complaint under Section 810 of the Act.

Disability advocacy groups mean organizations that traditionally have provided for the civil rights of persons with disabilities. This would include organizations such as Independent Living Centers, and cross-disability legal services groups. Such organizations must be experienced in providing services to persons with a broad range of disabilities, including physical, cognitive, and psychiatric/mental disabilities. Such organizations must demonstrate actual involvement of persons with disabilities throughout their activities, including on staff and board levels.

Enforcement proposals are potential complaints under the Act that are timely, jurisdictional, and well-developed, that could reasonably be expected to become enforcement actions if an impartial investigation finds evidence supporting the allegations and the cases proceeded to a resolution with HUD involvement.

Fair Housing Act means Title VIII of the Civil Rights Act of 1968 as amended by the Fair Housing Amendments Act of 1988 (42 U.S.C. 3600-3620).

Fair Housing Assistance Program (FHAP) Agencies mean State and local government agencies that administer laws substantially equivalent to the Act, as described in 24 CFR part 115 and receive FHAP funds.

Fair Housing Enforcement Organization (FHO) means an organization engaged in fair housing activities as defined in 24 CFR 125.103.

Faith-based and Other Community-based Organizations (See General Section).

Full-service projects must include the following enforcement-related activities in your project application: interviewing potential victims of discrimination; analyzing housing-related issues; taking complaints; testing; evaluating testing results; conducting preliminary investigations; conducting mediation; enforcing meritorious claims through litigation or referral to administrative enforcement agencies; and disseminating information about fair housing laws.

Meritorious claims mean enforcement activities by an organization as defined in 24 CFR 125.103.

Operating budget means your organization's total planned budget expenditures from all sources, including the value of in-kind and monetary contributions, in the period for which funding is requested.

Qualified Fair Housing Enforcement Organization (QFHO) means an organization engaged in fair housing activities as defined in 24 CFR 125.103.

Regional/Local/Community-Based Activities are defined at 24 CFR 125.301(a) & (d).

Rural Areas, according to the Rural Housing and Economic Development Program of Community Planning and Development (CPD), may be defined in one of five ways:

(i) A place having fewer than 2,500 inhabitants (within or outside of metropolitan areas).

(ii) A county with no urban population (i.e., city) or 20,000 inhabitants or more; territory, persons and housing units in the rural portions of ‘extended cities.’

(iii) The rural portions of extended cities in the United States as identified by the U.S. Census Bureau.

(iv) Open country which is not part of or associated with an urban area. The United States Department of Agriculture (USDA) describes open country as a site separated by open space from any adjacent densely populated urban area. Open space includes undeveloped land, agricultural land, or sparsely settled areas, but does not include physical barriers (such as rivers or canals) public parks, commercial and industrial developments, small areas reserved for recreational purposes, and open space set aside for future development.

(v) Any place with a population not in excess of 20,000 and that is not located in a Metropolitan Statistical Area.

Traditional Civil Rights Organizations mean non-profit organizations or institutions and/or private entities with a history and primary mission of securing Federal civil rights protection for groups and individuals protected under the Act or substantially equivalent State or local laws and that are engaged in programs to prevent or eliminate discriminatory housing practices.

Underserved Areas mean jurisdictions that contain large concentrations of persons protected under the Act and where either no public or private fair housing enforcement organizations exist or the jurisdiction is not sufficiently served by one or more public or private enforcement fair housing organizations. (See definitions of Colonias, Faith-based and Community-based organizations above).

Underserved Populations mean groups of individuals who fall within one or more of the categories protected under the Act and who are also: (1) Of an immigrant population (especially racial and ethnic minorities who are not English-speaking or with limited English proficiency), (2) in rural populations, (3) persons living in the Colonias, (4) the homeless, and (5) persons with disabilities who can be historically documented to have been subject to discriminatory practices not having been the focus of Federal, State or local fair housing enforcement efforts.

(18) Grant/Cooperative Agreements. The type of funding instrument HUD may offer a successful applicant will be a grant/cooperative agreement which sets forth the relationship between HUD and the grantee where the principal purpose is the transfer of funds, property, services, or anything of value to accomplish a public purpose. The agreement will identify the eligible activities to be undertaken, financial controls, and special conditions, including sanctions for violations of the agreement. HUD will monitor your progress using provisions of your grant/cooperative agreement to ensure that you have achieved the objectives set out in your agreement. Failure to meet such objectives would be the basis for HUD determining your agreement in default and exercising available sanctions, including suspension, termination, and/or the recapture of your grant/cooperative agreement funds. Also HUD may refer violations or suspected violations to enforcement offices within HUD, the Department of Justice, or other enforcement authorities.

(19) Reallocation of Funds. If after all applications within funding range have been selected or obligations are completed in an Initiative and funds remain available, the selecting official or designee will have the discretion to reallocate leftover funds in rank order between Initiatives as follows:

(a) for EOI, any remaining funds from any component will be reallocated first within the Initiative; if after reallocating funds within the Initiative left over funds remain, they shall be reallocated to PEI then to FHOI;

(b) for PEI, any remaining funds will be reallocated to EOI then to FHOI;

(c) for FHOI, left over funds will be reallocated to PEI then to EOI.

Reallocated funds will be awarded within Initiative as described in Section V of this NOFA.

(20) Affirmatively Furthering Fair Housing. A separate AFFH submission is not required for FHIP because the purpose of the program is to further fair housing.

(21) Conducting Business in Accordance with Core Values and Ethical Standards. (See General Section. Refer also to the discussion on Code of Conduct above).

(22) Product Information. Press releases and any other product intended to be disseminated to the public must be submitted to the Government Technical Representative (GTR) 2 weeks before release for approval and acceptance.

(23) Ensuring the Participation of Small Businesses, Small Disadvantaged Businesses, and Women Owned Businesses. See General Section.

(B) Additional Requirements For PEI and FHOI

(1) Mandatory Referrals. You must refer to HUD all cases arising from FHIP-funded enforcement activities. In all FHIP-funded cases where you find a basis for filing a complaint on behalf of a complainant other than your organization, you must file the complaint with HUD unless the complainant declines to do so in writing. In addition to filing complaints with HUD, a complainant may file a civil action in Federal or State Court.

(2) Outreach Expenses. The funds awarded for enforcement grants may be used for outreach and education activities (hereafter, outreach activities) in order to promote awareness of your project’s services, as follows: under FHOI, you may provide for up to 10 percent of the requested funds for the sponsored organization to be used for outreach activities; under PEI, you may designate up to 5 percent of the requested funds for outreach activities.

(3) Tester Requirements. Testers in your FHIP-funded testing activities must not have prior felony convictions or convictions of crimes involving fraud or perjury. All testers must receive training acceptable to HUD or be experienced in testing procedures and techniques. Testers and the organizations conducting tests, and the employees and agents of these organizations may not:

(a) Have an economic interest in the outcome of the test; except to the extent that they could recover damages as provided by law;

(b) Be a relative related by adoption, blood, or marriage of any party in a case;

(c) Have had any employment or other affiliation, within the past year, with the person or organization to be tested; or

(d) Be a licensed competitor of the person or organization to be tested in the listing, rental, sale, or financing of real estate.

(4) Review and Approval of Testing Methodology. If your SOW proposes testing, other than rental housing testing, HUD may require copies of the following documents to be reviewed and approved by HUD prior to your carrying out the testing activities:

(a) The testing methodology to be used,

(b) The training materials to be provided to testers, and

(c) Other forms, protocols, cover letters, etc., used in the conduct of testing and reporting of results.

The testing methodology and training materials that you submit to HUD for review and approval are for enforcement purposes and will remain confidential.

(5) Conflict of Interest and Use of Settlement Funds.

(a) You may not solicit funds from or seek to provide fair housing educational or other services or products for compensation either directly or indirectly to any person or organization that has been the subject of FHIP-funded testing by your organization during the 12-month period following the test. This does not preclude providing training or technical assistance that is court ordered or contained in a negotiated settlement. HUD reserves the right to impose additional provisions addressing potential conflicts of interest.

(b) You must reimburse the United States for FHIP-funded activities whenever you receive funds as the result of enforcement activities funded in whole or in part by the FHIP program, including testing. You must provide information about reimbursements and/or potential reimbursements in a report that you submit to HUD (see Reports below). Terms for reimbursing the United States will be specified in your grant or cooperative agreement. This reimbursement requirement does not apply to compensation received as a result of a judgment in Federal or State Court. Calculate your reimbursement on a per complaint basis. Identify the complaint, then subtract the amount of non-FHIP funds from the amount of FHIP funds used to resolve the complaint. The difference is the amount owed. For example:

FHIP grant of $15,000 ($10,000 which is for testing: 20 tests @ $500 each). One test results in a $15,000 conciliation/settlement. Additional expenses paid from non-FHIP funds: $100.

Total FHIP funds for the settlement activity that resulted in collected funds: $400.00 Calculation

$500 (Amt. of FHIP funds in activity resulting in conciliation/settlement) -$100 (Non-FHIP funds used in the same activity)

Total $400 to be repaid to HUD.

(6) Reports. You must provide reports in a format (which may be computer-generated), at a frequency and with contents specified by HUD. At a minimum, the report must include the number and basis of complaints filed with HUD, with a FHAP agency, or in Federal/State Court as well as the number and terms of settlements or other outcomes achieved. If HUD does not prescribe a format or frequency, you will provide a narrative report within 90 days after all grant activities have ended or at the end of each 12-month period of the grant, whichever comes first. You do not have to disclose the terms of settlements or judgment that a court or other tribunal orders be kept confidential. You will also be required to provide status reports on case referrals you have made to HUD or a FHAP agency. These reports are for enforcement purposes and will remain confidential.

(7) Enforcement Log. You are required to record information about the funded project in a case tracking log (or Fair Housing Enforcement Log) in a format prescribed by HUD. Such information must include: the number of complaints of possible discrimination you have received; the protected basis of these complaints; the issue, test type, and number of tests utilized in the investigation of each allegation; the respondent type and testing results; the time for case processing, including administrative or judicial proceedings; the cost of testing activities and case processing; the entity to which the case was referred; and the resolution and type of relief sought and received. You must agree to make this log available to HUD. This log will be considered confidential for enforcement purposes.

(8) Attachments. All PEI and FHOI applicants must submit a Statement of Eligibility. All applicants must submit resumes, or position description in lieu of resume, of all key personnel; for those who have received funding for other projects, a copy of the most recent performance assessment from the funding source, if it was a HUD funded project, the most recent SF 269. In addition, FHOI, and PEI applicants must submit the Internal Revenue Service's, Letter of Determination declaring your Section 501(c)(3) status as a tax-exempt organization.

(C) Additional Requirements for Education and Outreach Initiative

Complaint Referral Process. EOI activities do not end with the delivery of educational activities. Their purpose is to enable persons who believe they have experienced housing discrimination to file complaints for investigation and relief. EOI applicants must develop a process for referring fair housing complaints to HUD or substantially equivalent entities under the Act. HUD expects this complaint referral process will result in referrals to HUD of fair housing complaints and other information regarding discriminatory housing practices.

(D) Additional Requirements for Fair Housing Organizations Initiative

Sponsored organization's viability and fair housing enforcement capacity. Over the duration of the grant, the sponsored organization must demonstrate its capacity to become a viable, fair housing enforcement organization that conducts fair housing-related enforcement activities and leverages non-FHIP resources. These are the performance measures that, if not met, may result in termination of the grant, and your description for achieving these measures will be considered when HUD evaluates your application. We will look for this description in your response to Rating Factor 3: Soundness of Approach. Specifically, the application must address:

(a) Fair Housing-related enforcement activities. The sponsored organization must conduct all enforcement-related activities by the conclusion of year 3 of the grant: complaint intake, complaint investigation, testing for fair housing violations, and meritorious claims. Your application must identify which activities the sponsored organization will conduct at the end of the grant year 1, 2 and 3. Your performance measures will be based upon this description, and failure to meet them may result in termination of your grant or cooperative agreement.

(b) Organizational resources. The sponsored organization must not rely exclusively on FHIP funding. At the conclusion of each grant year, the sponsored organization must show increasing support from sources other than what is awarded under this program. Specifically, at the conclusion of year 1, no less than 5% of the funds supporting the sponsored organization's fair housing enforcement-related activities must be funded from non-FHIP funds; at the conclusion of year 2, no less than 10% of the funds supporting the sponsored organization's fair housing enforcement-related activities must be from non-FHIP funds; and at the conclusion of year 3, no less than 20% of the funds supporting the sponsored organization's fair housing enforcement-related activities must be from non-FHIP funds. Your application must state how you will meet these requirements. Your performance measures will be based upon these requirements, and failure to meet them may result in termination of the grant.

V. Application Selection Process

(A) Screening/Threshold Review

Only applications that satisfy all of the applicable requirements under this NOFA will be considered for funding. Applicants meeting any of the following conditions are ineligible.

(1) General Section Requirements and Procedures. If you do not meet the Threshold Requirements set forth in Section II (B) of the General Section of this SuperNOFA.

(2) Debarment and Suspension. If your organization is presently debarred, suspended, proposed for debarment, declared ineligible, or voluntarily excluded from covered transactions by any Federal debarment or agency.

(3) Maximum award. If you request funding in excess of the maximum allowed under the Initiative or Component for which you are applying your application is ineligible. Any amount over the maximum award, even if less than one dollar, will be considered a request in excess of the maximum award. In addition, inconsistencies in the amount requested and/or miscalculations that result in amounts over the maximum award will be considered excessive.

(4) Research Activities. If 25% or more of your project is aimed solely and primarily at research. Also, your application should not require any surveys or questionnaires.

(5) Eligibility Applicants. If you do not meet the eligibility requirements for PEI and FHOI. For PEI, you must be a FHO or a QFHO and document in the Statement of Eligibility that your organization has the required one or two years of enforcement-related experience. For FHOI, you must be a QFHO.

(6) Tax Exempt Status. If you are not a tax-exempt, nonprofit, charitable organization. For PEI and FHOI, you must be a 501(c)(3) tax exempt organization as determined by the Internal Revenue Service (IRS). Your application must include a copy of your Letter of Determination from the Internal Revenue Service, dated prior to the deadline date of this NOFA, in support of your 501(c)(3) tax-exempt status.

(7) Media-based Applications. Applicants who submit applications under the EOI National Program Media Campaign must have as its primary responsibility advertisement and media and have at least 5 years of experience as an advertisement/media organization, or if the applicant is not a media organization, it must include as part of its proposal a subcontract with an established media/advertising or public relations organization, that has experience in conducting national media campaigns. Applicants that fail to meet this requirement or include such subcontract arrangements in their proposals will be ineligible for funding. Further, for-profit awardees must adhere to OMB Circular A-122.

(8) Poor Performance. HUD will assess performance ratings for applicants who have received FHIP funding in 1998, 1999, or 2000. If the applicant has received a “poor” performance rating for its most recent performance rating from its Government Technical Representative, its application is ineligible for FY 2002 competition. An applicant that does not agree with its determination of ineligibility for the FY 2002 competition because of “poor” performance must address to HUD's satisfaction the factors resulting in the “poor” performance rating before the FHIP application deadline. If the “poor” performance rating is not resolved to the Department's satisfaction before the application deadline, the application remains ineligible. HUD is interested in increasing the performance level of all grantees; therefore, applicants who are deemed ineligible because of a “poor” performance rating have the right and are encouraged to seek technical assistance from HUD to correct their performance in order to be eligible for future NOFA competition.

(9) Suits Against the United States. Your application is ineligible if as a current or past recipient of FHIP funds, your organization used any funds provided by HUD for the payment of expenses in connection with litigation against the United States (24 CFR 125.104(f)).

(10) Other Litigation. Your application is ineligible if any recipient under this Program used any funds provided by HUD to settle a claim, satisfy a judgment, or fulfill a court order in any defensive litigation (24 CFR 124.104).

(B) Rating and Ranking. Although all rating factors are organized the same way for all FHIP Initiatives, there are differences in application requirements and rating criteria, which are indicated throughout the Rating Factor instructions. Your application for funding will be evaluated competitively against all other applications submitted under one of the following Initiatives or Components:

(1) Private Enforcement Initiative (PEI)

(2) Education and Outreach Initiative

(a) Regional/Local/Community-Based Program:

i. General Component (EOI—GC)

ii. Disability Component (EOI—DC)

(b) National Program:

iii. Media Campaign Component

iv. Fair Housing Awareness Component

(3) Fair Housing Organizations Initiative (FHOI)

All eligible applications will be reviewed and points awarded based upon: (1) your narrative responses to the Factors for Award and accompanying materials (e.g., resumes) and (2) bonus points, if entitled. The maximum number of points to be awarded for the Rating Factors is 100. See Section III (C) of General Section for discussion on Bonus Points. Applications with a score of seventy (70) points or more will be considered of sufficient quality for funding. The Selecting Official will not select for award any application with a score below seventy (70) points. Generally, applications of sufficient quality for funding will be selected in simple rank order under each Initiative or Component. HUD reserves the right to select applicants out of rank order to achieve greater geographic distribution of awards under each Initiative or Component, as described in Section V (C) below. Selections under each Initiative or Component will continue to be made until either all allocated funds have been obligated or until no applications of sufficient quality remain.

(B) Tie Breaking

When two or more applications have the same total overall score, the application with the higher score under Rating Factor 3: Soundness of Approach will be ranked higher. If this does not break the tie, the application with the higher score under Rating Factor 1: Capacity of the Applicant and Relevant Organizational Experience will be ranked higher. If this does not break the tie, the application requesting the lower amount of FHIP funding will be ranked higher.

(C) Achieving Geographic Diversity of Awards

(1) PEI and EOI. HUD reserves the right to select applications out of rank order under geographic diversity, to ensure that, to the extent possible, applications from more states for each Initiative or Component are selected for funding. If the Selecting Official exercises this discretion, it shall be applied to all qualified applications (applications of sufficient quality for funding—applications that received a score of 70 or more points) in each Initiative or Component in which the Selecting Official applies geographic diversity. The geographic diversity provision will be applied as follows: when there are two or more applications of sufficient quality from the same state, the application(s) with the lower score(s) will be moved to the end of the qualified queue. The applications moved to the end of the qualified queue will retain their rank order. If sufficient funds remain, it is possible that applications moved to the end of the queue may be selected for award.

(2) FHOI. The geographic diversity selection procedures described in paragraph V(C)(1) will be used for FHOI for activities proposed in the same state.

(D) Factors for Award Used to Evaluate and Rate PEI, FHOI and EOI Regional/Local Community-Based Applications. The factors for rating and ranking applications and the maximum points for each Rating Factor are described below. Failure to provide the required information under the appropriate Factor will result in a lower score for that Factor—for example, information in the Project Abstract, although useful for obtaining a concise summary of the proposed activities is not considered in the rating of applications. Please respond fully to the criteria in each Rating Factor and sub-factor and, when directed, provide other information in support of your response. The Factors for Award are set out as follows:

In general. This section applies to all PEI, FHOI, and EOI Regional/Local Community-Based applicants. Your responses to each Rating Factor and including the “In Addition” section below must not exceed 10 page Rating Factor requirement.

In Addition. This section identifies issues to which you must respond, if required, by the particular Initiative or Component for which you are applying.

Rating Factor 1: Capacity of Applicant and Relevant Organizational Experience (20 Points)

You must describe staff expertise and your organization's ability to complete the proposed activities within the grant period. You must also provide performance assessments conducted by your funding sources, including HUD, that have been done of your organization's performance of these activities. Such performance assessments must be signed by or attached to a transmittal signed by the authorized representative of the funding source(s).

In General. HUD recognizes that, in carrying out the proposed activities, you may have persons already on staff, plan to hire additional staff, or rely on subcontractors or consultants to perform specific tasks. You must describe your staffing plan and the extent to which you plan to add staff (employees) or contractors.

(a) (5 Points) Number and expertise of staff (this includes subcontractors and consultants). You must show that you will have sufficient, qualified staff who will be available to complete the proposed activities. Provide the following information for all staff assigned to or hired for this project, not just key personnel (those persons identified in attachments to Rating Factor 3: Soundness of Approach):

(i) Identify, by name and/or title, all persons that will be assigned to the project. You must describe the knowledge and experience of the proposed overall project director and day-to-day program manager in planning and managing large and complex interdisciplinary programs. Indicate the percentage of time that key personnel will devote to your project. To receive maximum points, your day-to-day program manager must devote a minimum of 75% of his/her time to the project. You may demonstrate capacity by thoroughly describing your prior experience in fair housing. You should indicate how this prior experience would be used in carrying out your proposed activities. Your application must clearly identify those persons that are on staff at the time this application is filed, and those persons who will be assigned at a later date; describe each person's duties and responsibilities and their expertise (including years of experience) to perform project tasks; indicate whether the staff person is assigned to work full-time or part-time (if part-time, indicate the percentage of time each person is assigned to the project).

(ii) Attach resumes, or position description in lieu of resumes, for all key personnel. (Resumes do not count against the ten-page limit.)

(iii) Describe the qualifications to be considered in the selection of staff or contractors (and their staff) that will be assigned or hired at a later date, when you expect they will begin working on the project and how project activities will be carried out until then. Assume a start date of September 30, 2002.

(iv) Describe the racial/ethnic diversity of project staff and the applicant's governing board. If there is no diversity, please explain. No explanation of the lack of diversity will result in less points being awarded.

(v) Include a chart showing availability of all named personnel during the proposed period of activity.

(b) (10 Points) Organizational experience. In responding to this subfactor, you must show that your organization has: (i) Conducted a past project or past projects similar in scope and complexity to the project proposed in this application (whether FHIP-funded or not), or (ii) engaged in activities that, although not similar, are readily transferable to the proposed project. Experience will be judged in terms of recent, relevant and successful experience of your staff to undertake eligible activities. In rating this factor, HUD will consider experience within the last 3 years to be recent, experience pertaining to the specific activities to be relevant, and experience producing specific accomplishments to be successful. The more recent the experience and the more experience your own staff members who work on the project have in successfully conducting and completing similar activities, the greater the number of points you will receive for this rating factor. If the applicant organization has not engaged in projects similar to the scope and activities proposed in the application, two (2) points will be deducted.

In addition. If you are applying for funding under PEI or FHOI, provide the following information when responding to this subfactor:

(i) Respond completely to all questions in the Statement of Eligibility. (A copy of a blank Statement of Eligibility appears in the Appendix C to this NOFA.) For PEI, you must clearly state whether you are a QFHO or an FHO. You must provide information that establishes that your organization has engaged in each of the enforcement-related activities, for at least one year (if you are an FHO) or two years (if you are a QFHO). For FHOI, you must be a QFHO.

(ii) Describe the procedure you will use to ensure that testers comply with the requirements in Section IV (B) (3) of this program NOFA.

(iii) If you propose to conduct testing (other than rental or accessibility testing) projects proposing testing in the specific areas (for example, if testing is for sales of housing, your application should outline your sales testing experience) should document that, at a minimum, you have conducted successful testing in those areas. Provide a general description of when and where the tests occurred, the entities tested, and the overall results of the tests, including complaints filed and the settlements or remedies secured.

FHOI. Provide a statement of organizational capacity and experience of the sponsored organization.

In general. (c) (5 Points) Performance on past project(s). You must describe your organization's past performance in conducting activities relevant to your proposal, in the past three years (including FY 1998-2000 FHIP grants), demonstrating good financial management and documenting timely use of funds, timely reporting and submissions of tasks and deliverables. HUD may supplement information you provide with relevant information on hand or available from public sources such as newspapers, Inspector General or General Accounting Office Reports or Findings, hotline complaints that have been proven to have merit, or other such sources of information. In evaluating past performance, the following points will be deducted from your score under this rating sub-factor:

5 points will be deducted if you obtained any “fair performance” assessment;

3 points will be deducted if you obtained any “good performance” assessment; and

0 points will be deducted if you obtained any “excellent performance” assessment.

For other Federal, State and local programs, include an assessment/review of the work performed under past projects. Attach a copy of the funding entity's performance assessment/review of this project, if applicable. The following will apply to funding received from other Federal, State and local programs:

3 points will be deducted for failing to meet target dates and schedules for performance; and

2 points will be deducted for failure to meet measurable program outputs and outcomes.

If you do not have a past performance assessment or prior experience, you should include information such as meeting target dates, meeting program outputs and successful outcomes for projects similar in scope and size and give a description of the purpose of the project and what was accomplished. If audit reports are available, submit a copy of the most recent report. Those applicants that do not submit an audit report will receive a lower score for this sub-factor than those that do.

In addition. (a) If you have received an FHOI or a PEI award under the FY 1998, 1999 or 2000 FHIP NOFA, you must:

(i) Discuss your compliance with the mandatory referral requirement of all cases arising from FHIP-funded activities requirement, as described in the FY 1998, 1999, and 2000 NOFAs. Three (3) points will be deducted for this subfactor if you do not show in your application compliance with the requirement.

(ii) Discuss your compliance with the requirement to reimburse the Federal government for compensation received from FHIP-funded enforcement activities. If you have not reimbursed the Federal government for such compensation, explain why you have not. Also, state whether you reported to HUD any likely compensation that may result in such reimbursement. Two (2) points will be deducted for this sub-factor if you have not complied with the requirement.

Rating Factor 2: Need/Distress/Extent of the Problem (20 Points)

This factor addresses the extent to which there is a need for funding the proposed activities to address a documented fair housing problem in the target area. You will be evaluated on the information that you submit that describes the fair housing need in the geographic area you propose to serve, its urgency and how your project is responsive to that need. You must also describe whether you and/or your project are not served by a State or local FHAP agency.

(a) (15 Points) Documentation of Need. To justify the need for your project, you must describe the following:

(1) The fair housing need, including:

(a) Geographic area to be served;

(b) Populations protected by the Act that will be served—your project must serve all persons protected by the Act; and

(c) The presence of housing discrimination, segregation and/or other indices of discrimination in the project area based upon race, color, religion, sex, national origin, familial status, or disability. You must submit data and studies that support this indication.

(2) The urgency of the identified need. For example:

(a) The consequences to persons protected by the Act if your application is not selected for funding;

(b) The extent to which the organizations provide the services identified in your application;

(3) Other sources that support the need and urgency for this project. For example, use reports, statistics, or other data sources that are sound and reliable, including but not limited to, HUD or other Federal, state or local government reports analyses, relevant economic and/or demographic data, including those that show segregation, foundation reports and studies, news articles, and other information that relate to the identified need. Chapter V of the Fair Housing Planning Guide, Vol. 1 has other suggestions for supporting documentation. You may access the Guide from the HUD web at “www.hud.gov.”

If the fair housing needs you have identified are not covered under the Consolidated Plan and Analysis of Impediments to Fair Housing Choice (AI) or if your locality does not have a CP or AI, you should so indicate, and use other sound data sources to identify the level of need and the urgency in meeting the need. If your application addresses needs that are identified in the AI, you will receive more points than applicants located in an area with an AI that do not relate their program to the identified needs in the AI. For you to receive maximum points for this factor, there must be a direct relationship between your proposed activities, community needs, and the purpose of the program funding.

To the extent possible, the data you use should be specific to the area where the proposed activity will be carried out. You should document needs as they apply to the area where activities will be targeted, rather than the entire locality or state. If the data presented does not specifically represent your target area, you should discuss why the target areas were proposed.

(4) The link between the need and your proposed activities:

(a) how the proposed activities augment or improve upon on-going efforts by public and private agencies, organizations and institutions in the target area, and/or

(b) why, in light of other on-going efforts, the additional funding you are requesting is necessary.

In addition, with respect to (a) Documentation of Need, the following apply to specific FHIP Initiatives or Components:

EOI—Disability Component. Your project must serve all persons protected by the Act.

FHOI. HUD has targeted for funding under this Initiative, projects that will provide fair housing enforcement services to underserved areas and to areas with large concentrations of individuals who fall within one or more categories protected under the Act who are immigrants (especially racial and ethnic minorities who are not English-speaking or have limited English proficiency). Although HUD has targeted these areas, you are still required to justify the need for the sponsored organization by: (i) demonstrating the presence of housing discrimination, segregation and/or other indices of discrimination in the project area based upon race, color, religion, sex, national origin, familial status, or disability and submit data and studies that support your claim; and (ii) explain why the project area is underserved and why the proposed sponsored organization is needed. Your proposal must serve all persons protected by the Act.

(b) (5 Points) Underserved Areas. Up to five points will be awarded when the applicant and project area are not served by a State or local FHAP agency. In instances where the applicant is located in an area not served by a FHAP agency but the project activities are conducted in various geographic areas, some that are not served by a State or local FHAP agency, points will be awarded as follows:

5 points will be awarded if more than 80% of the activities are conducted in areas not served by a State or local FHAP agency.

4 points will be awarded if more than 60% but less than 80% of the activities are conducted in areas not served by a State or local FHAP agency.

3 points will be awarded if more than 40% but less than 60% of the activities are conducted in areas not served by a State or local FHAP agency.

2 points will be awarded if more than 20% but less than 40% of the activities are conducted in areas not served by a State or local FHAP agency.

1 point will be awarded if less than 20% of the activities are conducted in areas not served by a State or local FHAP agency.

You must indicate whether (a) you are located in an area that is served by a State or local FHAP agency (see Appendix C for a list of FHAP agencies); (b) the activities you propose will be conducted in a project areas served by a State or local FHAP agency; and (c) explain why the project area is underserved and/or why the proposed organization or activity is needed.

Attachments. None required.

Rating Factor 3: Soundness of Approach (40 Points)

You must describe your project in detail, demonstrate how your project activities will support HUD goals, propose suggested performance measures/outcomes in support of these goals, and identify current baseline conditions and target levels of the performance measures that you plan to achieve. Also attach a SOW and budget. Your proposed activities must support HUD's goals.

(1) (4 Points) Support of HUD Goals. Describe how your proposed project will further and support HUD. For FY 2002 FHIP applications, address the following:

A. EOI. (i) Applicants that are faith-based and other community-based organizations that propose to either partner or sub-contract with faith-based and other community-based organizations in conducting their work programs will receive one point under this sub-factor. Please describe the following:

(I) Project purpose.

(II) Persons to be served.

(III) Geographic area to be served.

(IV) Proposed activities and who will conduct these activities, e.g., you or a subcontractor(s) or consultant(s).

(V) The methodology you will use to carry out these activities and tasks.

(a) Applicants who partner or sub-contract with faith-based or community based organization in conducting their work program and submit a referral process will receive two points.

(b) Applicants who partner or sub-contract with faith-based or community-based organization in conducting their work program and do not submit a referral process will receive one point.

(ii) Up to three points will be awarded for applications specifically addressing housing discrimination based on national origin and religion since the September 11, 2001 attacks, as described in Section III(D), Priorities, of this NOFA. Please describe the following:

(I) Project purpose.

(II) Persons to be served.

(III) Geographic area to be served.

(IV) Proposed activities and who will conduct these activities, e.g., you or a subcontractor(s) or consultant(s), and

(V) The methodology you will use to carry out these activities and tasks.

(a) Applicants who target outreach activities to specifically address discrimination under the Fair Housing Act based on national origin and religion since the September 11, 2001 attacks and submit a referral process will receive three points.

(b) Applicants who target outreach activities to specifically address discrimination under the Fair Housing Act based on national origin and religion since the September 11, 2001 attacks and do not submit a referral process will receive two points.

B. PEI, FHOI, and EOI—Disability

Should discuss their project purpose and proposed activities, persons to be served, geographic areas and methodology.

In addition. If you apply under the:

EOI. Describe how activities or final products can be used by other organizations and agencies. Also, describe the elements of the complaint referral process you will develop as a task under this grant. Explain how this referral process will result in an increased number of referrals to HUD.

FHOI. Over the course of the grant, the sponsored organization must conduct fair housing-related enforcement activities and leverage non-FHIP resources. These are the performance measures that, if not met, may result in termination of the grant, and your description for achieving these measures will be considered when evaluating your application.

PEI/FHOI. Describe a procedure to ensure that referrals of all complaints are made as required by this NOFA. Your description should include safeguards to ensure that referred complaints are fully jurisdictional under the Act and supported by credible and legitimate evidence that the Act has been violated.

You may conduct limited outreach activities (for PEI and for FHOI), as described in section IV (B)(2). This must be reflected clearly in your SOW and Budget.

(2) (5 Points) Performance Objectives and Measures. Identify and discuss the specific methods and measures you will use (in addition to HUD reporting requirements) to measure progress, evaluate program effectiveness, and identify program changes necessary to improve performance. Describe how you will obtain, document and report the information. You will receive higher points under this subfactor if your application clearly states a specified set of performance criteria and outcomes that can be measured. Clearly identify the results of the proposed activities and what you will use to measure performance. The expected outcomes of your proposed activities should support HUD's strategic goal of “Ensuring Equal Opportunity and Access to Housing.” You will receive fewer points if you fail to develop measurable objectives with respect to your stated activities.

Information Requirements. For PEI and FHOI, your application must include a description of the enforcement proposals to be referred to HUD. Your description must explain the information (see 24 CFR 121.2) you intend to collect and analyze, the type of complaints you anticipate referring to HUD for enforcement purposes, and describe the procedure you will implement for referring such complaints. If you propose a testing program, you must explain how you plan to structure the tests, train investigators, conduct investigations, etc. This description should make clear the safeguards to be used to ensure that complaints referred to HUD are fully jurisdictional under the Act and supported by credible and legitimate evidence that the Act has been violated. Describe the procedures you will put in place to ensure that referrals of all complaints are sent to HUD. Failure to provide this description of your procedure will result in the reduction of 2 points for this subfactor.

(3) (15 Points) Proposed Statement of Work (SOW) and Financial Management. The SOW and budget are attachments that will not count toward the 10-page limit on the narrative response to this factor. However, points will be assigned based on the relevance of proposed activities to stated needs, attention to implementation steps, proposed activities consistent with organizational expertise and capacity and accuracy of the SOW and budget. See Section VI for submission requirements.

Statement of Work—Submit a proposed SOW that comprehensively outlines in chronological order the administrative and program activities and tasks to be performed during the grant period. Your outline should identify all activities and tasks to be performed and by whom (e.g., you, a subcontractor, or partner), and the products that will be provided to HUD and when. You should also include a schedule of your activities and products (with interim implementation steps), staff allocation over the term of the project; staff acquisition and training; and activities of partners and/or subcontractors. The tasks identified in the SOW should be related to the proposed budget (See Appendix C for sample SOW).

Financial Management Capacity. Describe and provide documentation to support your organization's financial management system. In addition, provide documentation about your capabilities in handling financial resources and maintenance of an adequate accounting and internal control procedures.

(4) (16 Points) The Budget Form and the Budget Information—HUD will also assess the soundness of your approach by evaluating the quality, thoroughness, and reasonableness of the budget and financial controls of your organization, including information on your proposed program cost categories. As part of your response, you must prepare a budget that: (1) is reasonable and cost-effective in achieving the goals identified in your proposed SOW; (2) relates tasks in the SOW to the proposed budget costs; (3) is cost-effective; (4) is quantifiable based on the Need identified in Factor 2; and (5) documents and justifies all cost categories in accordance with the cost categories indicated in the Budget Narrative Workplan that is discussed in more detail in paragraphs (a) through (j) below.

Cost Effectiveness of Program. Discuss and provide supportive facts concerning the extent to which your proposed program is cost effective in achieving the anticipated results of the proposed activities. Also, indicate how the proposed project is quantifiable based on the needs identified in Rating Factor 2.

FHOI Provide a statement of transfer of programmatic and management responsibilities from the sponsoring to sponsored organization by the end of grant year 3.

In addition:

Your Non-Construction Programs SF-424A must show the total cost of the project and indicate other sources of funds that will be used for the project. While the costs are based only on estimates, the budget narrative work plan must include information such as quotes obtained from various vendors, or you may rely on historical data. Applicants must round all budget items to the nearest dollar.

A written budget narrative must accompany the proposed budget. It must explain and attach back-up documentation for each cost category. Generally, estimated costs for high-cost items or subcontractors/consultants should be supported by bids from at least three (3) sources. Where there are travel costs for subcontractors/consultants, you must show that local subcontractors/consultants are not available and that the combined travel costs (per diem rates should be consistent with Federal Travel Regulations 41 CFR 301.11) and rates and fees of the out-of-town subcontractors/consultants do not exceed the rates and fees charged by local subcontractors and consultants. The narrative (counted toward the 10 page limit) and supporting documentation (not counted toward the 10 page limit) must address the following for maximum points.

(a) Direct Labor—by position or individual, specify the estimated hours per position, the rate per hour, estimated cost per staff position and the total estimated direct labor costs;

(b) Fringe Benefits—by staff position, identify the rate, the salary base on which the rate was computed, estimate the cost per position, and the total estimated fringe benefits cost;

(c) Material Costs—indicate the item, unit costs per item, the number of items to be purchased, estimated cost per item, and the total estimated material costs;

(d) Transportation Costs—where use of a local private vehicle is proposed, costs must indicate the proposed number of miles (travel costs should be consistent with Federal Travel Regulations), rate per mile of travel identified by item, and estimated total private vehicle costs. Where air transportation is proposed, costs should identify the destination(s), number of trips per destination, estimated air fare and total estimated air transportation costs. If other transportation costs are listed, you should identify the other method of transportation selected, the number of trips to be made and destinations, the estimated costs, and the total estimated costs for any other transportation costs.

(e) Per Diem—you must identify per diem or subsistence costs per travel day, the number of travel days, and the estimated costs for per diem/subsistence, which should total estimated transportation costs. You must use the Federal Travel Regulation for per diem rates for cities listed under “Transportation Costs” in your costs estimates.

(f) Equipment charges—must identify the type of equipment, quantity, unit costs and total estimated equipment costs;

(g) Consultant Costs—indicate the type, estimated number of consultant days, rate per day, total estimated consultant costs per consultant and total estimated costs for all consultants;

(h) Subcontract Costs—identify each proposed subcontract and amount (each proposed subcontract must include a separate budget that identifies proposed costs by cost categories). If applicable, your project budget must include any costs related to subcontract(s) with the FHAP agencies and disability advocacy and/or traditional civil rights organizations that account for activities related to the subcontractor's role in the project. Your application must include a separate detailed budget for each subcontract.

(i) Other Direct Costs—listed by item, quantity, unit costs, total for each item listed, and total direct costs for the award; and

(j) Indirect Costs—identify your approved indirect cost rate base to which the rate applies and total indirect costs. If you do not have an accepted, federally negotiated indirect cost rate, you may use direct cost for all of your program costs. Alternatively you may develop a proposed indirect cost rate in accordance with Office of Management and Budget (OMB) Circular A-122, Cost Principles and Procedures for Non-Profit Organizations, and provide supportive documentation on this calculation. You must establish your approved indirect cost rate base in accordance with Circular A-122. Organizations that have previously established indirect cost rates should not include direct costs in their indirect category.

Rating Factor 4: Leveraging Resources (10 Points Maximum)

This factor addresses your ability to secure additional resources to support your project. Points will be awarded on the basis of the percentage of non-FHIP resources you have identified and how firm the commitment is for those resources.

Firm Commitment of Leveraging. HUD encourages you to secure resources from sources other than what is requested from this program. Community resources may include funding or in-kind contributions, such as work space or services or equipment, allocated to the purpose(s) of your proposal. Resources may be provided by governmental entities (including other HUD programs), public or private non-profit organizations, for-profit private organizations, or other entities willing to work with you. In order to secure points you must establish leveraging of resources by providing letters of firm commitment from the organizations and/or individuals who will support your project. Each letter of firm commitment must: (i) Identify the organization and/or individual committing resources to the project, (ii) identify the sources and amounts of the leveraged resources (the total FHIP and non-FHIP amounts must match those in your proposed budget submitted under Factor 3), and (iii) describe how these resources will be used as part of your SOW. The letter must be signed by the individual or organization official legally able to make commitments for the organization. If the resources are in-kind or donated goods, the commitment letter must indicate the dollar value of those resources (Do not include indirect costs within your in-kind resources. In-kind and matching contributions and Program Income must be in accordance with part 84.23 and 84.24). No points will be awarded for general letters of support endorsing the project from organizations and/or individuals (including elected officials) in your community. The commitment is firm even if the offer is contingent upon HUD making an award under this program NOFA.

For PEI and EOI, if your project will not be supported by non-FHIP resources, then you will not receive any points under this factor. Points will be assigned for PEI and EOI based on the following scale:

2 points will be awarded if your project will be supported by non-FHIP resources, but those funds are less than 5% of the project's total costs are from non-FHIP resources.

4 points will be awarded if at least 5% and less than 10% of the project's total costs are from non-FHIP resources.

6 points will be awarded if at least 10% and less than 20% of the project's total costs are from non-FHIP resources.

8 points will be awarded if at least 20% and less than 30% of the project's total costs are from non-FHIP resources.

10 points will be awarded if at least 30% of the project's total costs are from non-FHIP resources.

For FHOI, 3 points will be awarded if more than 5%, but less than 10% of the project's total cost are from non-FHIP resources.

5 points will be awarded if at least 10% and less than 20% of the project's total costs are from non-FHIP resources.

7 points will be awarded if at least 20% and less than 30% of the project's total costs are from non-FHIP resources.

10 points will be awarded if at least 30% of the project's total costs are from non-FHIP resources.

Rating Factor 5: Coordination, Self-Sufficiency and Sustainability (10 Points)

This factor addresses the extent to which you develop interrelationships, provide increased independence and empowerment, and generate organizational and project self-sufficiency.

1. Coordination—You are encouraged to join together and pool all available resources in a common, coordinated effort. You should relate your activities with other organizations in the project area, participate or promote participation in the project area's Consolidated Planning process (including Analysis of Impediments to Fair Housing Choice), and create partnerships with other activities in the community. In evaluating this factor, HUD will consider the extent to which you demonstrate:

(a) You have coordinated your activities with other known organizations that are not directly participating in your proposed work activities, but with which you share common goals and objectives and are working toward meeting these objectives in a holistic and comprehensive manner.

(b) The extent to which your application implements practical solutions within the grant term to result in assisting beneficiaries of grant program funds in achieving independent living, economic empowerment, educational opportunities, housing choice or improved living environments;

(c) The extent to which your application addresses outreach activities to promote awareness of project activities. At a minimum, your application should discuss procedures you will use to promote awareness of the services provided by your proposal.

2. Self-Sufficiency—You should demonstrate the extent to which your application develops solutions that result in increased independence and empowerment for those in your target areas. Such increased independence can result from such benefits as reducing discrimination practices, increasing awareness of the Act; increasing homeownership; eliminating barriers to housing choice or overcoming the impediments identified in the AI. For the EOI—Disability Component, you should demonstrate how the activities will assist the Department in implementing the Olmstead Supreme Court decision.

3. Sustainability—You should demonstrate the extent to which your program can become financially self-sustaining thereby decreasing your dependence on Federal funding and relying more on State, local and private funding so your activities can be continued after your grant award period is completed.

E. Factors for Award Used To Evaluate and Rate Applications for the National Education and Outreach Initiative Program

The factors for rating and ranking applicants and the maximum points for each factor, are provided below. The maximum number of points awarded any application is 100. Bonus points are not available for this category of funding.

Rating Factor 1: Capacity of the Applicant and Relevant Organizational Experience (20 Points)

This factor addresses the extent to which the applicant has the organizational resources necessary to successfully implement the proposed activities in a timely manner, and the applicant's ability to develop and implement large information campaign projects as appropriate, on a national scale. The rating of the “applicant” or the “applicant's organization and staff” for technical merit or threshold compliance, unless otherwise specified, will include any sub-contractors, consultants, sub-recipients, and members of consortia that are firmly committed to the project.

(5 Points) General Description of Applicant Organization and Relevant Experience.

In rating this factor, HUD will consider the extent to which the applicant demonstrates:

(a) The qualifications of the applicant organization; the type of organization (e.g., public, private, non-profit, for profit); and the organization's general areas of activity or line of business.

(b) If the applicant has managed large, complex, interdisciplinary projects, the applicant must include information on them in its response.

(c) Awards and major accomplishments of the applicant organization must be described. HUD will also consider any documented evidence, such as performance reviews, newspaper articles, or monitoring findings that may reflect positively or negatively upon the ability of the applicant and its proposed staff to perform the work.

(d) The applicant's capability in handling financial resources with adequate financial control procedures and accounting procedures. In addition, HUD will consider findings identified in applicants' most recent audits; accuracy of mathematical calculations; and other available information on financial management capability.

(i) For the Media Campaign Component—Applicants must describe their ability to effectively develop, implement, and manage a media campaign on a national scale. (Applicants must be or include as part of their proposal a subcontract with an established media/advertisement organization that has experience in conducting national media campaigns.) Applicants for FHIP program funding must specifically describe their experience in developing or carrying out programs to prevent or eliminate discriminatory housing practices. Applicants must discuss their and/or subcontractor's ability to implement a coordinated national marketing awareness campaign, especially in the areas of fair housing, discrimination, public health, and housing. In responding to this subfactor, the applicant must describe the extent to which its and/or subcontractor's past activities have resulted in successful national media campaigns as appropriate, especially with respect to developing and implementing innovative strategies resulting in positive public response.

(ii) For the Fair Housing Awareness Component—Applicants must describe their ability to develop, implement and manage a national campaign to raise the public's awareness of subtle abusive and deceptive discriminatory housing loans and mortgage lending practices. You must describe your ability to understand fair housing issues/policies/practices. In responding to this subfactor, describe your knowledge of the sub-prime lending market and your past experience in developing and implementing innovative strategies in combating subtle abusive and deceptive lending practices on a nationwide basis.

(10 Points) Specific Description of Staff for Proposed Activities. The applicant must demonstrate that it has or will have sufficient personnel or will be able to quickly access qualified experts or professionals to deliver the proposed activities timely and effectively, including the readiness and ability of the applicant to immediately begin the proposed work program. Also the applicant must demonstrate relevant knowledge and experience of the overall proposed project director and staff, including the day-to-day program manager, consultants and contractors in planning and managing programs for which funding is being requested. To demonstrate that the applicant has sufficient qualified personnel, the applicant must submit the proposed number of staff hours for the sub-contractor, employees and experts to be allocated and availability of proposed staff to the project, the titles and relevant professional background and experience of each employee and expert proposed to be assigned to the project, and the roles to be performed by each identified employee and expert. Highly competitive applications must demonstrate that proposed staff has at least 3 years of recent and relevant experience to undertake eligible program activities or projects similar in scope or nature and directly relevant to the work activities proposed. Finally, applicants should describe their or their sub-contractor's expertise in languages other than English and in reaching the informational needs of non-English speaking audiences.

(5 Points) Consideration of Past Performance. Your past experience in terms of your ability to attain measurable progress in the implementation of your most recent and similar activities where your performance has been assessed. HUD will take into account your past performance in managing funds, including the ability to account for funds appropriately; timely use of funds received either from HUD or other Federal, state or local programs; meeting performance targets for completion of activities and number of persons to be served or targeted for assistance. HUD will use information related to these measures based on information on hand or available from public sources such as newspapers, Inspector General or Government Accounting Office Reports or Findings, hotline complaints that have been proven to have merit, or other such sources of information. In evaluating past performance, the following will apply to Fiscal Years 1998, 1999, and 2000 FHIP grantees:

5 points will be deducted if you obtained any “fair performance” assessment;

2 points will be deducted if you obtained any “good performance” assessment; and

0 points will be deducted if you obtained any “excellent performance” assessment.

For other Federal, State and local programs, include an assessment/review of the work performed under past projects. Attach a copy of the funding entity's performance assessment/review of this project, if applicable. The following will apply to funding received from other Federal, State and local programs:

3 points will be deducted for failing to meet target dates and schedules for performance; and

2 points will be deducted for failure to meet measurable program outputs and outcomes.

If you do not have a past performance assessment or prior experience you should include information such as meeting target dates, meeting program outputs and successful outcomes for projects similar in scope and give a description of the purpose of the project and what was accomplished. If audit reports are available, submit a copy of the most recent report. Those applicants that do not submit an audit reports will receive a lower score for this sub-factor than those that do.

Rating Factor 2: Need/Approach to the Problem (20 Points)

This factor addresses the extent to which the applicant documents and defines the national need that its proposed activities and methods are intended to address, and how its proposal offers the most effective approach for dealing with that national need. In responding to this factor, an applicant will be evaluated on the following:

(1) The extent to which the applicant defines, describes, and documents the national need the application intends to address, which demonstrates a grasp of the elements of the problem, its pervasiveness at the national level, and an understanding of the necessary mass media vehicles. The applicant's description of the national need will be used to evaluate the depth of the applicant's understanding of the problem as an indication of ability to address the problem; and

(2) If the applicant has experienced staff or if the applicant proposes to use a contractor subgrantee, the extent to which the applicant provides a rationale for how it will utilize its staff or a contractor or subgrantee to incorporate its proposed activities, methods, and media techniques will most effectively deal with the national need described by the applicant in response to subfactor (1), immediately above. To the extent possible, applicants should demonstrate effectiveness in terms of scope and cost.

Rating Factor 3: Soundness of Approach (40 Points)

This factor addresses the quality and cost-effectiveness of the applicant's proposed work plan. The SOW must address the strategy, quality and time frames needed to carry out the project and all activities as proposed.

(5 Points) Measuring Performance Results. Applicants must describe their specific methods and measures to assess progress, evaluate program effectiveness, and identify program changes necessary to improve performance to ensure that commitments made and results to be achieved can be accounted for and independently assessed to ensure performance measurements are met. Applicants who have identified inputs and outcome measurements and included means for assessing these measures, tracking and monitoring performance goals and achievements against commitments made in the application will receive higher points than those that do not.

(15 Points) Statement of Work. Submit a proposed SOW that comprehensively outlines in chronological order the administrative and program activities and tasks to be performed during the grant period. Your outline should also include a schedule of proposed activities and products (with interim implementation steps), staff allocation over the term of the project, staff acquisitions and training, and activities of partners and subcontractors.

For the Media Campaign Component—HUD anticipates that products will be available in at least 3 languages plus English. Deliverables may include Public Service Announcements (PSAs) for radio and television in both majority and minority markets, and posters and other graphic materials. Graphic materials may include, but are not limited to, enlarged reproductions of several print PSAs, separately produced and printed posters for national public dissemination, and the development of ad slicks to market in newspapers and magazines nationwide. The applicant should plan on using a clipping service or other appropriate means to collect information on frequency and scope of the placement of ads.

For the Fair Housing Awareness Component—HUD anticipates that all proposed activities will be conducted in a manner that will reach and benefit those members of the public vulnerable to subtle abusive and deceptive mortgage lending practices (e.g. languages, formats, locations, distribution, use of minority media). Applicants may target such tactics as: Loan flipping, multiple refinancing transactions over short periods of time, balloon payments, insurance packing and other predatory lending tactics. Deliverables may include Public Service Announcements (PSAs) for radio and television, and posters and other graphic materials. Graphic materials may include, but are not limited to; enlarged reproductions of several print PSAs, and separately produced and printed posters for national public dissemination.

In evaluating this factor, HUD will consider the extent to which you submit and describe your:

(10 Points) Work Plan. Applications should include work plans that: (a) Clearly describe the specific activities and tasks to be performed, the sequence in which the tasks are to be performed, noting areas of work which must be performed simultaneously, estimated completion dates, and the work and program deliverables to be completed within the grant period, including specific numbers of quantifiable end products and program improvements the applicant aims to deliver by the end of the award agreement period as a result of the work performed;

(b) Provide national media market coverage, specific protected class focus, as well as focus on persons underserved (ethnic and racial minorities, especially those who are non-English speaking or who are not proficient in English); and

(c) Describe the immediate benefits of the project and how the benefits will be measured. Applicants must describe the methods they will use to determine the effectiveness of their national marketing strategies.

(d) Ensure that your application adheres to Performance Measures as outlined in Section IV(A)(2).

(10 Points) Budget Form and Budget Information. A written budget narrative must accompany the proposed budget. The narrative (counted toward the 10 page limit) and supporting documentation (not counted toward the 10 page limit) must address the following for maximum points:

(1) Cost estimates of salary levels, staff assignments, number of staff hours, and all other budget items are reasonable, allowable, and appropriate for the proposed activities;

(2) The proposed program is cost effective in achieving its anticipated results, as well as in achieving significant impact; and

(3) The proposed program is effective by explaining and attaching back-up documentation for each cost category. Generally, estimated costs for high-cost items or subcontractors/consultants should be supported by bids from at least three (3) sources. Where there are travel costs for subcontractors/consultants, you must show that local subcontractors/consultants are not available and that the combined travel costs (per diem rates should be consistent with Federal Travel Regulations) and rates and fees of the out-of-town subcontractors/consultants do not exceed the rates and fees charged by local subcontractors and consultants. A breakdown of each cost category is listed in Section V(D) of this NOFA.

In addition: (4) The proposed activities will be conducted in a manner (e.g., languages, formats, locations, distribution, use of majority and minority media) that will reach and benefit all members of the public, especially members of target groups identified in the individual program sections of this National NOFA;

(5) How proposed activities will yield long-term results and innovative strategies or “best practices” that can be readily disseminated to other organizations and State and local governments; and

(6) The proposed Media Campaign and Fair Housing Awareness Components make available activities, training and meeting sites, and information services and materials in places and formats that are accessible to all persons including persons with disabilities.

Rating Factor 4: Leveraging Resources (10 Points Maximum)

This factor addresses the ability of the applicant to secure other resources, which can be combined with HUD's program resources to achieve program purposes. In evaluating this factor HUD will consider:

The amount of non-FHIP resources you have identified and how firm the commitment is for those resources. HUD encourages you to secure resources from sources other than what is requested from this program. Resources may include funding or in-kind contributions, such as workspace, donated media announcements, or equipment allocated to the purposes of your proposal. Resources may be provided by governmental entities (including other HUD programs) public or private non-profit organizations, for profit private organizations, or other entities willing to work with you in accordance with the proposed FHIP activities. If your project will not be supported by non-FHIP resources, then you will not receive any points under this factor. Points will be assigned based on the following scale:

2 points will be awarded if your project will be supported by non-FHIP resources, but those funds are less than 5% of the project's total costs are from non-FHIP resources.

4 points will be awarded if at least 5% and less than 10% of the project's total costs are from non-FHIP resources.

6 points will be awarded if at least 10% and less than 20% of the project's total costs are from non-FHIP resources.

8 points will be awarded if at least 20% and less than 30% of the project's total costs are from non-FHIP resources.

10 points will be awarded if more than 30% of the project's total costs are from non-FHIP resources. You must establish leveraging of resources by providing letters of firm commitment from the organizations and/or individuals committing resources to the project. Each letter of firm commitment must: (i) Identify the organizations and/or individuals committing resources to the project; (ii) identify the sources and amounts of the leveraged resources (the total FHIP and non-FHIP amounts must match those in your proposed budget submitted under Factor 3), and (iii) describe how these resources will be used as part of your SOW. The letter must be signed by the individual or organization official legally able to make commitments for the organization. If the resources are in-kind or donated goods, the commitment letter must indicate the dollar value of these resources. No points will be awarded for general letters of support endorsing the project from organizations and/or individuals (including elected officials) in your project area(s).

Rating Factor 5: Coordination, Self-Sufficiency and Sustainability (10 Points)

This factor addresses the extent to which you develop interrelationships, provide increase independence and empowerment, and generate organizational and project self-sufficiency.

1. Coordination—You should address the extent to which your program provides materials, training or services and implements a coordinated process of addressing the national need by using HUD funding resources and other available resources. You must also describe how they plan to use their affiliated branches, or partner with other organizations, to distribute materials or services developed under this National NOFA for use at the local level. In evaluating this factor, HUD will consider:

(a) The extent to which you have developed interrelationships to help build nation-wide efforts that coordinates the resources of multiple applicants and programs. HUD encourages multiple entities to join together and pool all available resources in a common, coordinated effort to obtain national geographic coverage. Describe in your proposal how your project activities will be coordinated with other organizations and linked with: (i) Other on-going HUD-funded program activities; (ii) Other on-going national, Federal, State, local or privately funded activities.

(b) The extent to which your application addresses outreach activities to promote awareness of project activities. This includes: (i) a discussion of how your methods or approaches will ensure that project activities and materials are distributed nationally, regionally, and locally to groups and organizations, (ii) identification of such groups and organizations in your project area, and (iii) an explanation of how your project will promote national coordination with various groups or organizations. At a minimum, your application should discuss procedures you will use to promote awareness of the services provided by your proposal.

2. Self-Sufficiency—You should demonstrate the extent to which your application develops solutions that result in increased independence and empowerment for those on a national level. Such increased independence can result from such benefits as reducing discrimination practices; increasing awareness of the Act; increasing homeownership; or eliminating predatory lending practices.

3. Sustainability—You should demonstrate the extent to which your program can become financially self-sustaining thereby decreasing your dependence on Federal funding and relying more on state, local and private funding so your activities can be continued after your grant award period is completed.

(F) Applicant Notification and Award Procedures

(1) Notification. No information about the review and award process will be available to you during the period of HUD evaluation, which begins on the closing date for applications under this NOFA and lasts approximately 90 days thereafter, except to advise you, in writing or by telephone, if HUD determines that your application is ineligible or has technical deficiencies which may be corrected as described in Section V of the General Section of the SuperNOFA and Section VII of this NOFA.

(2) Negotiations. If you are selected, HUD will require you to participate in negotiations to determine the specific terms of your cooperative or grant agreement. HUD will follow the negotiation procedures described at Section III of the General Section of the SuperNOFA. The selection is conditional and does not become final until the negotiations between the applicant and the Department are successfully concluded and the grant or cooperative agreement is signed and executed. HUD will negotiate only with the person identified in the application as the Director of the organization or if specifically identified in the application, the Project Director. HUD will not negotiate with any third party (i.e, a subcontractor, etc.).

(3) Funding Instrument. HUD expects to award a cost reimbursable or fixed-price cooperative or grant agreement to each applicant selected for award. Upon completion of negotiations, HUD reserves the right to use the funding instrument it determines is most appropriate.

(4) Adjustments to Funding. As provided in Section III of the General Section of the SuperNOFA, HUD may approve an application for an amount lower than the amount requested, fund only portions of your application, withhold funds after approval, reallocate funds among activities and/or require that special conditions be added to your grant agreement, in accordance with 24 CFR 84.14, the requirements of this SuperNOFA, or where:

(a) HUD determines the amount requested for one or more eligible activities is unreasonable or unnecessary;

(b) An ineligible activity is proposed in an otherwise eligible project;

(c) Insufficient amounts remain to fund the full amount requested in the application, and HUD determines that partial funding is a viable option;

(d) The past record of key personnel warrants special conditions; or,

(e) Training funds are not reserved for FHIP training.

(5) Performance Sanctions. A grantee or subcontractor failing to comply with the requirements set forth in its grant agreement will be liable for such sanctions as may be authorized by law, including repayment of improperly used funds, termination of further participation in the FHIP, and denial of further participation in programs of HUD or any Federal agency.

(6) Applicant Debriefing. Beginning not less than 30 days after the awards for assistance are announced in the Federal Register, and for not longer than 120 days, HUD will, upon receiving written request from the applicant, provide a debriefing to the requesting applicant. Materials provided during the debriefing will be the applicant's final scores for each rating factor, final evaluator comments for each rating factor, and the final assessment indicating the basis upon which assistance was provided or denied. Applicants requesting a debriefing must send a written request to Annette Corley, Public Trust Officer, U.S. Department of Housing and Urban Development, FHIP/FHAP Support Division, 451 7th Street SW, Room 5224, Washington, DC 20410. HUD will not release the names of applicants or their scores to third parties. Selections do not become final until final negotiations with HUD are successfully concluded.

VI. Application Submission Requirements

In addition to the forms, certifications and assurances required of applicants to all HUD programs, which can be found in the General Section of the SuperNOFA, you must submit with each FHIP application, the forms, certifications and assurances described below and found at Appendix B.

In General

When applying under any Initiative or Component you must submit the following:

(A) Transmittal Letter. Your transmittal letter must identify: (1) The dollar amount requested, (2) the specific FHIP Initiative, or in the case of EOI, whether for the Regional/Local Community Based Program or the National Program, and the specific Component (General or Disability, Media Based or Fair Housing Awareness), for which you are applying, and (3) your preference for selection, if you are applying to more than one Initiative or Component (does not apply for FHOI).

(B) Cover Page. Respond to Applicant's Preference for Award which identifies your rank order preference if submitting more than one application. Failure to submit the Cover Page will result in a correctable Technical Deficiency as outlined in Section V of the General Section of this NOFA.

(C) Narrative Statement. Respond completely to the instructions under each of the five Factors for Award and include the related items, such as resumes, SOW, and budget. Failure to provide the required information in the appropriate Factor will result in a lower score for that Factor—for example, information in the Project Abstract, although useful for developing a project synopsis, will not be considered when evaluating applications. The narrative responses must not exceed 10 pages per factor (required attachments are not counted); text must be double-spaced and pages numbered consecutively (starting with Factor 1 through the end of Factor 5). Please use 12 typesize for your narrative responses.

(D) Applicants must develop, maintain, and submit a written code of conduct as noted in the General Section.

Listed below are requirements by Factor for the Regional/Local Community Based Programs:

Award Factor 1: Capacity of Applicant and Relevant Organizational Experience—Narrative, Performance Assessments/Evaluation of Past Projects if Applicable

In addition:

For PEI and FHOI Applicants:

(1) Testing Experience. You must document your prior testing experience (see Factor 1: Capacity of the Applicant and Relevant Organizational Experience),

(2) Letter of Determination from IRS of your 501(c)(3) tax-exempt status, and

(3) Statement of Eligibility.

Award Factor 2: Need/Distress/Extent of the Problem

Narrative. Reference or submit data and studies that indicate the presence of housing discrimination, segregation and/or other indices of discrimination in the project area based upon race, color, religion, sex, national origin, familial status or disability, and explain why the project area is underserved and why the proposed organization is needed. Do not attach copies of reports, computer print-outs, etc. If you have tables or exhibits include them. Make sure they are referenced in the text. Attachments not mentioned in the text will not be reviewed necessarily.

Award Factor 3: Soundness of Approach—Narrative, Statement of Work, Budget Form(s), Budget Narrative

You MUST submit a certification from an Independent Public Accountant or your cognizant government auditor on your financial management and audit information. Failure to submit this information will result in points being deducted from your application. In addition, you must describe the information you intend to collect and analyze, the type of complaints you anticipate referring to HUD for enforcement purposes, and describe the procedure you will implement for referring such complaints.

In addition: Depending upon the Initiative or Component for which you are seeking funding, you must respond to the following points in your narrative responses:

(a) For EOI Applicants, You must describe the elements you will use to develop the process for referring fair housing complaints to HUD.

(b) For FHOI Applicants,

(1) The sponsored organization must conduct all of these enforcement-related activities by the conclusion of year 3 of the grant: complaint intake, complaint investigation, testing for fair housing violations, and meritorious claims. The application must specify which activities will be conducted in year 1, year 2, and year 3. Even though HUD has targeted for award projects that assist rural and immigrant populations, you must explain why the proposed fair housing enforcement organization is needed.

(2) Performance Measures. You must address the following:

(i) the sponsored organization's capacity to become a viable, fair housing enforcement organization that conducts fair housing related enforcement activities and leverages non-FHIP resources.

(ii) that the sponsored organization will meet the required performance measures for sponsored organizations and how these measures will be achieved.

Award Factor 4: Leveraging Resources—Narrative. Letter(s) of Firm Commitment

Award Factor 5: Coordination, Self-Sufficiency and Sustainability—Narrative

No attachments are required.

Listed below are the requirements by Factor for the EOI—National Program Components.

Award Factor 1: Capacity of Applicant and Relevant Organizational Experience—Narrative

Performance Assessments/Evaluation of Past Projects if applicable.

Award Factor 2: Need/Distress/Extent of the Problem—Narrative

Reference and submit data and studies that indicate the need for a centralized, coordinated fair housing media designed to educate the public about their fair housing rights. Do not attach copies of reports, computer print-outs, etc. If you have tables or exhibits include them. Make sure they are referenced in the text. Attachments not mentioned in the text will not be reviewed necessarily.

Award Factor 3: Soundness of Approach—Narrative

SOW. Budget Form(s), Budget Narrative. You MUST submit a certification from an Independent Public Accountant or your cognizant government auditor on your financial management and audit information.

Award Factor 4: Leveraging Resources—Narrative

Letter(s) of Firm Commitment.

Award Factor 5: Coordination, Self-Sufficiency and Sustainability—Narrative

No attachments are required.

Audit Information—Unless you are a new Federal applicant, you must submit a certification from an Independent Public Accountant or your cognizant government auditor, stating that the financial management system you employ meets prescribed standards for fund control and accountability required by: OMB Circular A-133, Audits of States, Local Governments and Non-Profit Organizations; OMB Circular A-110 (as codified at 24 CFR part 84), Uniform Administrative Requirements for Grants and Agreements With Institutions of Higher Education, Hospitals, and other Non-Profit Organizations; and/or OMB Circular A-102 (as codified at 24 CFR Part 85) Uniform Administrative Requirements for Grants and Cooperative Agreements to State, Local and Federally-Recognized Indian Tribal Governments. This information must contain the name and telephone number of the Independent Auditor, cognizant Federal auditor, or other audit agency, as applicable. Failure to submit this information will result in points being deducted from your application. This information must be provided before HUD will enter into a grant or cooperative agreement.

VII. Corrections to Deficient Applications

Section V of the General Section of the SuperNOFA provides the procedures for corrections to deficient applications.

VIII. Environmental Requirements

In accordance with 24 CFR 50.19(b)(3), (4), (9), (12), and (13) of HUD regulations, activities assisted under this program are categorically excluded from the requirements of the National Environmental Policy Act and are not subject to environmental review under related laws and authorities.

IX. Authority

Section 561 of the Housing and Community Development Act of 1987, as amended, (42 U.S.C. 3616) established the Fair Housing Initiatives Program (FHIP)) and the implementing regulations are found at 24 CFR part 125.

APPENDIX A—FREQUENTLY ASKED QUESTIONS

Q. If data, tables, exhibits, and studies are submitted with the application, will they be counted toward the 10 page limit requirement?

A. Yes. Summarize the points you want to make in the 10 page narrative statement from the data tables, exhibits, and studies.

Q. In previous years, FHIP applicants were not required to submit the Certification of Consistency with the Consolidated Plan. Is the Certification required this year?

A. Yes.

Q. Where can I find a copy of the Application Kit?

A. There is no Application Kit for the FY2002 FHIP SuperNOFA. The NOFA clearly describes the requirements for completing a successful application and all forms and certifications needed to complete the application are included in the General and FHIP Sections of the SuperNOFA.

Q. What are the maximum number of narrative pages that can be submitted for each Rating Factor?

A. The maximum number is 10 pages per Rating Factor. This does not include any attachments that may be required under each factor (for example, the proposed statement of work and budget required under Factor 3: Soundness of Approach). The narrative pages must be double-spaced and you are required to use 12 typesize. Points will be deducted from your application if this criteria is not met.

Q. The FHIP SuperNOFA refers to QFHOs and FHOs. What is the difference between them?

A. These terms are defined in the FHIP regulations. Both organizations must be private, tax-exempt, charitable organizations that have engaged in enforcement-related activities. The amount of enforcement-related experience is an eligibility requirement for PEI, least one year for and FHOI, at least two years. (See 24 CFR 125.103 for QFHO and 24 CFR 125.401(b)(2) for FHO.)

Applicants to PEI and FHOI are required to complete the Statement of Eligibility—where they self-identify as a QFHO or an FHO and provide information, including dates of enforcement-related activities. The information you provide should enable HUD to determine if your organization meets at least the one or two year enforcement-related experience requirement.

Q. May an applicant subcontract out a percentage of its activities to subcontactors or consultants, if it is selected for a FHIP award?

A. Yes. However, when the expenditures to a particular subcontractor, partner, subgrantee, or consultant exceed 10% of the grant amount, an itemized budget is required.

Q. Is an organization “engaged in testing for fair housing violations” if it hires an organization to subcontractor or consultant in conducting its testing program?

A. Yes, so long as the applicant analyzes the test results, and undertakes some oversight or selection of testing operations.

Q. Does the SuperNOFA identify what makes an application ineligible?

A. Yes. See the eligibility requirements for each Initiative and Section IV(B) of the FHIP NOFA, and the Threshold Criteria in Section V(A).

Q. Can an applicant propose to do an Analysis of Impediments (AI)?

A. No. The applicant can identify activities to be carved out of the AI but not to do planning to develop AI.

Q. Are there major differences between this year's SuperNOFA and last year's?

A. Yes, those differences are explained in Section III of the FHIP NOFA.

Q. At what point may a FHOI “sponsored organization” apply under any FHIP Initiative?

A. A sponsored organization is eligible after three (3) years to apply for funds under EOI and, depending upon its record of conducting enforcement-related activities, may be eligible to apply for funds under PEI.

Q. What are maximum awards?

A. Maximum award is the maximum amount that will be awarded under the Initiative for which you are applying. If you request an amount over this maximum amount, your application will be declared ineligible.

Q. Where do you send completed applications?

A. All completed applications must be received by the FHIP/FHAP Support Division Office in Washington, DC. These applications should be mailed or sent by an express service to the address stated in the SuperNOFA under the Section Address for Submitting Applications.

Q. What is the best method of knowing that the appropriate person has received my application? Should I follow up with a call?

A. Include with your completed application a complete copy of the Acknowledgment of Application Receipt. Be sure to include your correct mailing address and the person to whom the Acknowledgment should be sent. HUD will not acknowledge the receipt of applications over the telephone (see General Section for return receipt requirements).

Q. What is the website address?

A. Http//www.hud.gov/grants

Q. What is the due date?

A. The due date is outlined in this NOFA under Section I, Application Due Date.

Q. If I have a technical question, can I call HUD?

A. Yes, technical questions should be directed to Lauretta A. Dixon, Myron P. Newry, or Denise L. Brooks of the [FHIP/FHAP Support Division at (202) 708-0800 (this is not a toll-free number).] Persons with hearing or speech impairments may call 1-800-290-1617 (this is a toll-free number). Technical assistance does not extend to helping you to write your individual application, but to clarify general application and program requirements.

Q. What is meant by geographic diversity?

A. See comments above in Section V.

Q. As an FHOI applicant, are education and outreach expenses required to come out of my 15% administrative costs?

A. No. The education and outreach expenses can be accounted for in the budget of the organization being established or enhanced.

BILLING CODE 4210-32-P

FUNDING AVAILABILITY FOR THE HOUSING COUNSELING PROGRAM

PROGRAM OVERVIEW

Program Purpose. This program supports the delivery of a wide variety of housing counseling services to homebuyers, homeowners, low- to moderate-income renters, and the homeless. The primary objectives of the program are to expand homeownership opportunities and improve access to affordable housing. Counselors provide guidance and advice to help families and individuals improve their housing conditions and meet the responsibilities of tenancy and homeownership.

Agencies funded through this program may also provide Home Equity Conversion Mortgage (HECM) counseling to elderly homeowners who are looking to convert equity in their homes into income that can be used to pay for home improvements, medical costs, living expenses, or other expenses.

Available Funds. Approximately $18.25 million.

Eligible Applicants. (1) HUD-approved local housing counseling agencies (LHCAs); (2) HUD-approved national and regional intermediaries; and (3) State housing finance agencies (SHFAs).

Application Deadline. May 17, 2002.

Match. No specific ratio required. However, in order to receive points under rating factor 4, applicants are required to demonstrate the commitment of other private and public sources of funding to supplement HUD funding for the applicant's counseling program. HUD does not intend for its housing counseling grants to cover all costs incurred by an applicant.

ADDITIONAL INFORMATION

I. Application Submission, Further Information and Technical Assistance

Application Submission. In addition to reviewing the applicable instructions below, all applicants should consult the General Section of this SuperNOFA and review the new security procedures that affect application submission.

Local Housing Counseling Agencies (LHCAs) and State Housing Finance Agencies (SHFAs) applying under Categories 1 and 3 must submit an original and two copies of a complete application to the Homeownership Center (HOC) whose jurisdiction includes the geographic area in which the applicant is proposing to work (see Appendix B.) Applications submitted to a HOC must be mailed via the United States Postal Service. HUD will not accept hand delivered applications. Your application will be considered timely if it is postmarked on or before 12 midnight on May 17, 2002 and received by the designated HUD office on or within fifteen (15) days of the application due date. All applicants must obtain and save a Certificate of Mailing showing the date when you submit your application to the United States Postal Service (USPS). The Certificate of Mailing will be your documentary evidence that your application was filed on time. Applications should be sent to the attention of the Program Support Division Director, and the envelope should be clearly marked “FY 2002 Housing Counseling Grant Application.”

National and regional housing counseling intermediaries applying under Category 2 must submit an original and two copies of a complete application to Director, Program Support Division, Room 9166, Office of Single Family Housing, HUD Headquarters, 451 Seventh Street, SW., Washington, DC 20410. HUD will not accept hand delivered applications. Applications may be mailed using the United States Postal Service (USPS) or may be shipped via the following delivery services: United Parcel Service (UPS), FedEx, DHL, or Falcon Carrier. No other delivery services are permitted into HUD Headquarters without escort. You must, therefore, use one of the four carriers listed above. The envelope should be clearly marked, “FY 2002 Housing Counseling Intermediary Application.”

Mailed Applications. Your application will be considered timely if it is postmarked on or before 12 midnight on May 17, 2002 and received by the designated HUD office on or within fifteen (15) days of the application due date. All applicants must obtain and save a Certificate of Mailing showing the date when you submit your application to the United States Postal Service (USPS). The Certificate of Mailing will be your documentary evidence that your application was filed on time.

Applications Sent by Overnight/Express Mail Delivery. If your application is sent to HUD Headquarters by overnight delivery or express mail, your application will be considered on time if it is received before or on May 17, 2002, or when you submit documentary evidence that your application was placed in transit with the overnight delivery/express mail service by no later than the application due date. Again, you must use one of the four carrier services listed above. Delivery by these services must be made during HUD Headquarters' business hours, between 8:30 AM and 5:30 PM Eastern Time, Monday to Friday. If these companies do not service your area, you should submit your application via the United States Postal Service.

Grant Application—Colonias. Applicants applying under Category 4 must submit an original and two copies of a complete application to the Santa Ana HOC (see Appendix B.) The Santa Ana HOC will be evaluating all applications submitted from across the country. Applications should be sent to the attention of the Program Support Division Director, and the envelope should be clearly marked “FY 2002 Housing Counseling—Colonias Application”. Applications submitted to a HOC must be mailed via the United States Postal Service. HUD will not accept hand delivered applications. Your application will be considered timely if it is postmarked on or before 12 midnight on May 17, 2002 and received by the Santa Ana HOC on or within fifteen (15) days of the application due date. All applicants must obtain and save a Certificate of Mailing showing the date when you submit your application to the United States Postal Service (USPS). The Certificate of Mailing will be your documentary evidence that your application was filed on time.

Application Kits. There is no application kit. Specific application submission requirements are outlined in Section V.

Further Information. Local housing counseling agencies and State housing finance agencies should call the HOC serving their area (See Appendix B for the contact information for the HOCs). National and regional intermediaries should contact HUD Headquarters, Program Support Division at (202) 708-0317 (this is not a toll-free number). Persons with hearing or speech impairments may access any of these numbers via TTY by calling the toll-free Federal Information Relay Service at 1-800-877-8339. These are not toll free telephone numbers.

Satellite Broadcast. HUD will hold an informational broadcast via satellite for potential applicants to learn more about the program and the application. For more information about the date and time of the broadcast, consult the HUD web site at http://www.hud.gov/grants.

II. Amount Allocated

Under this SuperNOFA, approximately $18.25 million of the $20 million appropriated in FY 2002 is made available for eligible applicants, including $250,000 for counseling services that specifically target Colonias. An allocation of up to $1 million of the $20 million total in program funding has been set aside for housing counseling support which may include continuation of the Housing Counseling Clearinghouse, tuition assistance for housing counselors, and/or other HUD counseling initiatives and activities. An allocation of up to $750,000 of the $20 million appropriated is available for the Home Equity Conversion Mortgage (HECM) Program, as provided in section 255(k) of the National Housing Act (12 U.S.C. 1715z-20).

III. Grant Categories/Eligible Applicants

Grant Categories—Under the Housing Counseling Program, HUD awards grants to qualified public or private nonprofit organizations to provide housing counseling services through four grant categories: (1) Local Housing Counseling Agencies (LHCA); (2) National and Regional Intermediaries; (3) State Housing Finance Agencies (SHFA); and (4) Agencies Serving Colonias.

BILLING CODE 4210-32-P

Eligibility—HUD-approved LHCAs, HUD-approved national or regional intermediaries, and SHFAs are eligible for funding under Category 4, Colonias, as described below. Applicants applying under Category 4 may also apply under one of the other three categories, as described below. A separate application must be submitted for Category 4, in addition to an application for funding under any other category. See Section I, ‘Application Submission,’ above for details on where to submit applications.

HUD-approved LHCAs may only apply for and receive grants under Categories 1 and/or 4, or Category 4 and/or one sub-grant from an intermediary under Category 2 or 3. HUD-approved LHCAs that apply under Category 1 are prohibited from also applying for a subgrant from an intermediary under Category 2 or 3. LHCAs that are not HUD-approved, but are affiliates or branches of SHFAs or national or regional intermediaries, may apply for and receive only one sub-grant from an intermediary under Category 2 or 3, but not both, and/or a sub-grant from an intermediary under category 4, Colonias. They are not, however, eligible to apply directly under Category 4.

HUD-approved national and regional intermediaries may only apply for grants under Categories 2 and/or 4.

SHFAs may only apply for grants under Categories 3 and/or 4.

Category 1—Local Housing Counseling Agencies (LHCAs). Approximately $ 6.6 million is available from HUD to directly fund HUD-approved LHCAs.

Eligible applicants include private and public nonprofit organizations that secure HUD-approval as of the publication date of this SuperNOFA, and retain such approval through the term of any grant awarded. For information on securing HUD-approval as a LHCA, contact the HOC within whose jurisdiction you are located (see Appendix B).

Award: No individual LHCA may be awarded more than $100,000. HUD anticipates that the average award will be approximately $18,500.

Funding allocation: Funding is allocated to each HOC jurisdiction by a formula that reflects the increased emphasis on the expansion of homeownership opportunities for first-time homebuyers and HUD's intent to ensure appropriate geographical distribution of program funds.

Allocations for use in local agency programs by HOC are as follows:

HOC | Funding allocation
Philadelphia HOC | $1,861,698
Atlanta HOC | 1,924,468
Denver HOC | 1,469,281
Santa Ana | 1,344,553
Total | $6.6 million

Category 2—National and Regional Intermediaries. Approximately $10.4 million is available from HUD to directly fund HUD-approved national and regional intermediaries.

Eligible applicants include private and public nonprofit organizations that secure HUD-approval as national or regional intermediaries as of the publication date of this SuperNOFA, and retain such approval through the term of any grant awarded. For information on securing HUD approval as an intermediary, contact the HUD Headquarters Program Support Division at (202) 708-0317.

Intermediaries provide sub-grants to affiliates. Eligible sub-grantees are not required to be HUD-approved, although HUD-approved LHCAs may apply to an intermediary as a sub-grantee. Intermediaries that award sub-grants to affiliates that are not HUD-approved must assure that said affiliates meet or exceed the standards, as specified in paragraph 2-1 of HUD Handbook 7610.1, Rev-4, CHG-1, for HUD-approved LHCAs. To be eligible for a sub-grant, affiliates must certify in the sub-grant agreement that they have not applied for or received a grant under Category 1, or a sub-grant from another intermediary under Category 2, or a sub-grant from a SHFA under Category 3.

Awards for HUD-approved national and regional intermediaries may not exceed $1.5 million and $500,000, respectively.

Category 3—State Housing Finance Agencies (SHFA). Approximately $1 million is available to fund SHFAs that provide housing counseling services directly or serve as intermediaries to affiliates who offer housing counseling services.

Eligible applicants are entities that satisfy the definition in 24 CFR 266.5 of a “housing finance agency.” SHFAs and eligible sub-grantees/affiliates do not need HUD-approval in order to receive these funds. HUD-approved LHCAs may apply to a SHFA as a sub-grantee. SHFAs that award sub-grants to affiliates that are not HUD-approved must assure that said affiliates meet or exceed the standards, as specified in paragraph 2-1 of HUD Handbook 7610.1, REV-4, CHG-1, for HUD-approved LHCAs. To be eligible for a sub-grant, affiliates must certify in the sub-grant agreement that they have not applied for or received a grant under Category 1, or a sub-grant from a HUD-approved intermediary under Category 2, or a sub-grant from another SHFA.

Award: There is no cap on the award amount that a SHFA, or its affiliates, may receive.

Funding Allocation: The amount of funding available to each of the four HUD Homeownership Center jurisdictions is as follows:

HOC | Funding allocation
Atlanta, GA | $254,285
Denver, CO | 254,285
Philadelphia, PA | 267,145
Santa Ana, CA | 224,285
Total | 1,000,000

Category 4—Colonias. Approximately $250,000 is available for housing counseling services that specifically target Colonias.

Eligible applicants include LHCAs and national or regional intermediaries that secure HUD-approval as of the date of the SuperNOFA publication, and retain such approval through the term of any grant awarded. SHFAs are also eligible.

Intermediaries provide sub-grants to affiliates. Eligible sub-grantees are not required to be HUD-approved, although HUD-approved LHCAs may apply to an intermediary as a sub-grantee. Intermediaries that award sub-grants to affiliates that are not HUD-approved must assure that said affiliates meet or exceed the standards, as specified in paragraph 2-1 of HUD Handbook 7610.1, REV-4, CHG-1, for HUD-approved LHCAs.

Award: There is no cap on the award amount.

IV. Eligible Activities

(A) Grantees or sub-grantees directly providing housing counseling services under Categories 1 through 4 may use their HUD housing counseling funds for one or more of the following eligible activities:

(1) Pre-Occupancy Counseling. This includes the following types of one-on-one counseling: pre-purchase, pre-rental, search assistance/mobility, fair housing, budgeting for mortgage or rent payments, money management, and housing care and maintenance. This also may include guidance on how to apply for housing assistance, how to identify and avoid predatory lending practices, as well as referrals to community or homeless services.

(2) Homebuyer Education Programs. These programs are housing related education programs in which educational materials are used in training sessions for multiple participants, including HUD's Homebuyer Education and Learning Program (HELP). For a typical homebuyer education program, participants complete eight to twelve course hours. Agencies that provide this service must also offer individual counseling to complement group sessions.

(3) Post-Purchase/Mortgage Default and Rent Delinquency Counseling. This includes counseling on how to: restructure debt, obtain recertification for rent subsidy, establish reinstatement plans, seek loan forbearance, and manage household finances. This counseling can also include helping victims of predatory lending, educating clients on renter's and landlord's rights, explaining the eviction process, providing referrals to other sources, and assisting clients with locating alternative housing or pursuing loss mitigation strategies.

(4) Post-Purchase/Post-Occupancy Counseling. This includes education programs and counseling activities on property maintenance, personal money management, and relations with lenders and landlords.

(5) Home Equity Conversion Mortgage (HECM) Counseling. HECM counseling assists clients who are 62 years or older with the opportunity to convert the equity in their homes into income to pay living, medical or other expenses.

(6) Home Improvement and Rehabilitation Counseling. This counseling includes educating the client about: their loan and grant options, the loan and/or grant application processes, what housing codes and housing enforcement procedures apply for the intended activity, how to specify and bid construction work, how to enter into construction contracts, and how to manage construction contracts, including actions to address the non-performance of contractors.

(7) Displacement and Relocation Counseling. This counseling includes helping clients understand their rights when faced with displacement, explaining the responsibility of the entity causing displacement, assisting clients with understanding eviction proceedings, providing assistance with locating alternate housing, and referring clients to homeless services.

(8) Marketing and Outreach Initiatives. This includes providing general information about housing opportunities, conducting informational campaigns, and raising awareness about critical housing topics, such as predatory lending or fair housing issues.

Note: For each of the eight general activities you propose, you must be prepared to meet the needs of all individuals requesting services, including the disabled, regardless of the complexity of the services involved.

(B) Intermediaries and SHFAs can directly provide the housing counseling services described above in Section A, or distribute and administer grant funds and provide technical assistance and other services to affiliates, who are eligible to undertake any or all of the eligible housing counseling activities outlined above.

Intermediaries and SHFAs have wide discretion to decide how to allocate their HUD Housing counseling and leveraged funding among their affiliates, with the understanding that a written record must be kept documenting and justifying funding decisions. This record must be made available to affiliates and to HUD. Intermediaries and SHFAs must also execute sub-grant agreements with their affiliates and branches that clearly delineate the mutual responsibilities for program management, including appropriate time frames for reporting results to HUD.

V. Application Submission Requirements

All applicants must meet the requirements listed in Section II of the General Section of the SuperNOFA. Because applications will be handled by various staff members, applications must be bound or secured in a binder, tabbed, and organized as instructed in the General Section of this SuperNOFA, and materials must be submitted in the order in which they appear in this NOFA. Use the checklist below to organize your application.

(A) All applicants. Unless indicated below, all applicants must submit the following:

(1) The standard forms, certifications, and assurances listed in Section II(H) of the General Section of the SuperNOFA (collectively, referred to as the “standard forms”).

(2) HUD-approval. Each applicant is required to submit evidence of HUD-approval as a housing counseling agency, unless the applicant is a SHFA that satisfies the definition of a “housing finance agency” in 24 CFR 266.5.

(3) Form HUD-9902, Housing Counseling Agency Fiscal Year Activity Report, for fiscal year October 1, 2000 through September 30, 2001. If you did not participate in HUD's Housing Counseling Program during October 1, 2000 through September 30, 2001, this report should be completed to reflect your counseling workload during that period. A copy of this form is included in Appendix A of this SuperNOFA.

(4) The Congressional District(s), including the names of the current Senators and Representatives, in which your proposed activities are to occur.

(5) Narrative statements addressing the following five Rating Factors. Responses to the rating factors should provide HUD with detailed quantitative and qualitative information and relevant examples regarding the housing counseling work of your organization. For applicants applying under Category 4, Colonias, narrative statements must address how you will meet the needs of the Colonias you target.

Please be as specific and direct as possible. Responses to each factor should be limited to 10 double-spaced, single-sided pages. However, if you feel you need to include more information to make your case, you should feel free to do so.

Rating Factor 1: Capacity—Readiness and Effectiveness (30 Points)

This factor addresses the readiness and ability of an applicant to immediately begin the proposed work program, as well as the potential for an applicant to cost-effectively and successfully implement the proposed activities indicated under rating factor 3. In rating this factor, HUD will consider the degree to which the applicant, and, if applicable, affiliates:

(1) (10 points) Has sufficient personnel with the relevant knowledge and experience to implement the proposed activities in a timely and effective fashion. Experience is relevant if it corresponds directly to projects of a similar scale and purpose. Please submit:

—Names and titles of employees, including subcontractors and consultants, allocated to each proposed activity, as well as the corresponding staff hours for each task. Clerical staff should not be listed.

—Descriptions of each employee's, subcontractor's, or consultant's relevant professional background and experience related to the tasks they are to perform. Individual descriptions should be limited to one page.

(2) (20 points) Provide quality services in a cost-effective manner. Provide an overview, and submit any supporting data/evidence, of your organization's (and, if applicable, your affiliate organizations”) prior fiscal year performance. At a minimum, responses should:

—Describe your prior fiscal year's counseling results, as they relate to your last year's goals. Include total number of clients served, the major types of counseling conducted, the outcomes for clients as a result of the counseling.

—Identify all of the sources and amounts of funds for counseling in the previous fiscal year.

—Identify specific uses of counseling funds in the previous year, such as staff costs, and the total costs for each use. Justify your expenses from the previous fiscal year to show that they were reasonable, allowable, and appropriate for the counseling activities identified above.

Characterize your performance in the past fiscal year at meeting the grant requirements for your housing counseling activities. Specifically indicate your performance at satisfying reporting requirements (such as Form HUD 9902)—indicate timeliness and completeness of your past reporting. Also indicate whether or not you fully expended grant awards for the past fiscal year. If not fully expended, provide an explanation as to why the funds were not fully expended and the steps you have taken to ensure that future funding will be expended in a timely manner.

HUD may also rely on information from performance reports, financial status information, monitoring reports, audit reports and other information available to HUD in making its determination under this factor.

Rating Factor 2: Need/Extent of the Problem (15 Points)

This factor addresses the extent to which there is a need for funding your proposed activities described under rating factor 3.

(1) (10 points) Applicants must provide recent economic and demographic data, and any other evidence, that demonstrates need relevant to the target area and your proposed activities. Applicants that fail to identify objective data will receive no points for this factor. Responses to this factor must reference data sources that demonstrate the level of need for your proposed program of activities. To the extent that the community you serve has documented need in its Consolidated Plan, Analysis of Impediments to Fair Housing Choice (AI), or other planning documents, reference these in your response. Economic and demographic data must include persons with disabilities located in the target area. The U.S. Census Bureau, for example, maintains disability data by state, county and metropolitan statistical area (MSA) at the following website address: http:www.census.gov/hhes/www/disability.html

(2) (5 points) Listed below are 6 FHA priorities that complement the Departmental priorities listed in Section VI of the General Section of the SuperNOFA. Please indicate which, if any, of the FHA or Departmental priorities your counseling activities will address and provide the data, and source of data, that supports the need in your target community for addressing this priority. You will receive one point for each FHA or Departmental priority you adequately address in your application, up to a total of 5 points.

—Retaining homeownership.

—Serving areas with concentrations of high default and foreclosure rates.

—Predatory lending.

—HECM.

—Fair housing.

—Serving areas underserved by financial institutions.

Rating Factor 3: Scope of Housing Counseling Services/Soundness of Approach (40 Points)

This factor addresses the quality and effectiveness of your proposed housing counseling work plan, which describes all housing counseling activities to be performed. Work plans should include:

(1) (10 points) Your goals and objectives, geographic coverage / target areas, and the proposed housing counseling services and / or intermediary activities you propose to undertake. There must be a clear relationship between the proposed activities, community needs as outlined in Rating Factor 2, and the purposes of the proposed program for an applicant to receive points for this factor.

(2) (15 points) Benefits to be achieved, and indicators by which to measure performance, including the number of clients who will be served. If the number of clients you propose to serve exceeds by 25% or more the number of clients you served in your last reporting year (October 1, 2000 through September 30, 2001), you must demonstrate that you have the financial and human resources to adequately serve the additional clients.

(3) (15 points) Costs, time and resources associated with providing the proposed activities. Describe the level of effort you anticipate is required to meet the needs of your clients. Applicants should carefully document the variety and complexity of the services to be provided. Provide the hourly-labor rate and counseling time per client for proposed tasks to demonstrate the cost-effectiveness of the specific services provided.

Rating Factor 4: Leveraging Resources (10 Points)

HUD housing counseling funding is not intended to fully fund either an organization's housing counseling program, or that of its local affiliates. All organizations that use housing counseling grant funds and their local affiliates are expected to seek other private and public sources of funding for housing counseling to supplement HUD funding. Any agency that does not have other resources available will receive no points for this factor.

Applicants will be evaluated based on their ability to provide evidence that they have obtained additional resources for their housing counseling activities, including: direct financial assistance; in-kind contributions, such as services, equipment, office space; labor; etc. Resources may be provided by governmental entities, public or private nonprofit organizations, for-profit private organizations, or other entities committed to providing you assistance.

In order to obtain points under this factor, the applicant must demonstrate leveraging by providing letters from entities and/or individuals committing resources to the project that include:

—The identity of the entity or individual committing resources to the project.

—Dollar value of the resources to be committed.

—Types of resources to be committed.

—Time period for which the resources will be provided. Commitment letter must demonstrate that funds will be available during the grant period pertaining to this NOFA, October 1, 2002 “ September 31, 2003.

—Responsibilities as they relate to your proposed program.

—The signature of an official of the entity legally able to make commitments on behalf of the entity.

—No conditions that would nullify the commitment. (It is, however, acceptable for the commitment to be conditional on HUD funding.)

Points for this factor will be awarded based on the satisfactory provision of evidence of leveraging and financial sustainability, as described above, and the ratio of requested HUD housing counseling funds to total budget, as follows:

Percentage | Points
1-10 | 10
11-15 | 9
16-20 | 8
21-25 | 7
26-30 | 6
31-35 | 5
36-40 | 4
41-45 | 3
46-50 | 2
51-99 | 1

Rating Factor 5: Coordination, Self-Sufficiency, and Sustainability (5 Points)

This factor addresses the extent to which the applicant is working towards addressing identified needs in a holistic and comprehensive manner through linkages with other organizations / activities in the community to help clients move to self-sufficiency. Sustainability refers to the potential for an applicant organization to become financially self-sustaining, and the potential of a specific project or activity to be sustained into the future absent of any HUD funding. In evaluating this factor, HUD will consider the extent to which applicants can demonstrate they have and will:

(1) Coordinate proposed activities with those of other groups or organizations, including, but not limited to, HUD funded housing counseling agencies, to coordinate the use of housing counseling and support services in your target area. Any written agreements or memoranda of understanding in place should be described and copies provided. The activities undertaken with other entities must be described in detail.

(2) Share information on solutions and outcomes with others. Any written agreements or memoranda of understanding in place should be described and copies provided.

(3) Actively participate in your community's Consolidated Planning process and the Analysis of Impediments to Fair Housing Choice (AI).

(4) Develop linkages to coordinate comprehensive solutions through meetings, information networks, planning processes or other mechanisms with other:

(a) HUD-funded projects/activities outside the scope of those covered by the target area's Consolidated Plan; and

(b) Federal, State or locally funded activities, including those proposed or on-going in the target area.

(B) National and Regional Intermediaries and State Housing Finance Agencies must provide the following:

(1) Identification of which affiliates will receive funding through this grant award. Applicants unable to identify which affiliates will receive sub-grants must explain why this is the case and what process will be used to select grantees. Pursuant to the applicable regulations at 24 CFR 84.82(d)(3)(iii) and 85.30(d)(4), grantees must receive HUD's written approval for sub-grants.

(2) Description of the activities of those affiliates, explicitly stating the types of services to be offered.

(3) Brief description of your relationship with your affiliates (i.e. membership organization, field or branch office, subsidiary organization, etc.).

(4) Brief description of the process that will be used to determine affiliate funding levels, distribute funds, and monitor affiliate performance, including compliance with the civil rights requirements outlined in the General Section of the SuperNOFA.

(C) National and Regional Intermediaries must provide a list of, and certify to, the states in which they maintain offices, including the national office and all affiliates or branch offices.

(D) State Housing Finance Agencies must submit evidence of their statutory authority to operate as a SHFA, and apply for, and use, any funds awarded.

VI. Application Selection Process/Funding Policies

(A) General. Applications will be evaluated competitively, and ranked against all other applicants that applied in the same funding category. For Category 2, applications by national and regional intermediaries will be rated and ranked in HUD Headquarters. For Category 1, LHCAs, and Category 3, SHFAs, applications will be rated and ranked by the relevant HOC. The Santa Ana HOC will rate and rank all applications under Category 4, Colonias. The funding formula described below will be used to calculate award amounts.

(B) Factors For Award Used to Rate and Rank Applications. The Factors for Award, and maximum points for each factor, are outlined above in Section V (A)(5). These factors will be used to evaluate applications and the maximum number of points for each applicant is 100.

(C) Applicant Debriefing. Beginning not less than 30 days after the awards for assistance are announced in the Federal Register, and for not less than 120 days, HUD will, upon receiving written requests from the applicant, provide a debriefing to the requesting applicant. Materials provided during a briefing will be the applicant's final scores for each rating factor, final evaluator comments for each rating factor, and the final assessment indicating the basis upon which assistance was provided or denied. Applicants requesting to be debriefed must send a written request to the person listed as the Contact for further information and technical assistance in Section I above.

(D) Funding Methodology. Only applicants who receive at least 70 points out of the 100 will be considered eligible for funding. All eligible applicants will then be funded in proportion to the score they receive.

This year's formula will work as follows for each category: every agency that receives a score of 70 points will receive a base award of $5,000, then will receive additional funds for every point above the 70 point cutoff. The total number of agencies with scores above 70 will be multiplied by $5,000 and that amount will be subtracted from the total available under the category, or in the cases of Categories 1 and 3, to the HOC. Then, the remaining balance will be divided by the total number of points each agency scores that are above the 70 point cutoff. The division will result in a dollar value for each point. The number of points that each agency scores above the 70 point base will be multiplied by that dollar value. The result of that multiplication will be added to the $5,000 base for the total award amount. For example, an agency with a score of 85 would receive $5,000 plus the dollar value for each point times 15 (15 being the number of points above the 70 point cutoff).

(E) Grant Period. Funds awarded shall be available for a period of twelve (12) calendar months. Applicants selected for award must receive prior HUD approval to incur costs prior to the date of the grant agreement. Grantees may incur pre-award costs ninety (90) calendar days prior to the effective date of the grant agreement All pre-award costs are incurred at the applicant's risk and HUD has no obligation to reimburse such costs if the award is inadequate to cover such costs or the award offer is withdrawn because of the applicant's failure to satisfy the requirements of this NOFA.

(F) Award Instrument. HUD expects to use a grant agreement, but it reserves the right to use the award instrument it determines to be most appropriate. All Housing Counseling Program awards shall be made on a cost reimbursement basis in accordance with the requirements in OMB Circular A-87, Cost Principles for State and Local Governments and Indian Tribal Governments; or OMB Circular A-122, Cost Principles for Non-Profit Organizations, as applicable to your organization; and the administrative requirements established in OMB Circular A-102, which was implemented by 24 CFR part 85 (Administrative Requirements for Grants and Cooperative Agreements to State and Local Governments and Indian Tribal Governments); OMB Circular A-110, which was implemented by 24 CFR part 84 (Grants and Agreements with Institutions of Higher Education, Hospitals and Other Non-Profit Organizations); and OMB Circular A-133 which was implemented by 24 CFR parts 84 and 85. If you receive an award you are also required to ensure that any sub-recipients also comply with the above requirements. OMB circulars can be found at www.whitehouse.omb.gov.

(G) Financial Management Systems. Applicants selected for funding must provide documentation demonstrating that the applicant's financial management systems satisfy the requirements in the applicable regulations at 24 CFR 84.21(b) and 85.20. Consistent with the requirements of the Single Audit Act Amendments of 1996 (31 U.S.C. §§ 7501-07), when the applicant expended $300,000 or more in Federal awards in its most recent fiscal year, such documentation must include a certification from, or most recent audit by, the applicant's Independent Public Accountant that the applicant maintains internal controls over Federal awards; complies with applicable laws, regulations, and contract or grant provisions; and prepares appropriate financial statements. The applicant will have at least thirty (30) calendar days to respond to this requirement. If an applicant does not respond within the prescribed time or responds with insufficient documentation, then HUD may determine that the applicant has not met this requirement and may withdraw the grant offer.

(H) Indirect Cost Rate. You must also submit documentation establishing your organization's indirect cost rate. Such documentation may consist of a certification from, most recent audit, or indirect cost rate agreement by, the cognizant Federal agency or an Independent Public Accountant. If your organization does not have an established indirect cost rate, you will be required to develop and submit an indirect cost proposal to HUD or the cognizant Federal Agency as applicable, for determination of an indirect cost rate that will govern your award. Applicants that do not have a previously established indirect cost rate with a Federal agency shall submit an initial indirect cost rate proposal immediately after the applicant is advised that it will be offered a grant and, in no event, later than three months after the effective date of the grant. OMB Circular A-122 established the requirements to determine allowable direct and indirect costs and the preparation of indirect cost proposals, and can be found at www.whitehouse.omb.gov.

VII. Corrections to Deficient Applications

The General Section of the SuperNOFA provides the procedures for corrections to deficient applications. Applications will be declared ineligible for any of the following reasons:

—If you do not meet the Civil Rights Threshold Requirements set forth in Section II(B) of the General Section of this SuperNOFA.

—If you are presently debarred, suspended, proposed for debarment, declared ineligible, or voluntarily excluded from covered transactions from any Federal department or agency.

VIII. Program Requirements

Agencies selected as grantees or sub-grantees must comply with the following requirements:

(A) General Requirements. The requirements listed in Section II of the General Section of the SuperNOFA apply to this program.

(B) Specific Requirements. Programmatic requirements are outlined in detail in HUD Handbook 7610.1, REV-4, CHG-1, dated October 27, 1997, which can be viewed on HUD's website at http://www.hud.gov/offices/hsg/sfh/hcc_home.cfm. Additionally, the following also apply:

(1) List of Agencies. Pursuant to section 106 (C)(5) of the Housing and Urban Development Act of 1968, HUD maintains a list of all HUD-approved and HUD-funded counseling agencies, including contact information, which interested persons can access. All grantees under Categories 1 and 4, and sub-grantees under Categories 2 and 3, will be placed on this list and must accept subsequent referrals, or when they do not provide the services sought, refer the person to another agency in the area that does provide the services.

(2) Accessibility—All grant recipients and sub-recipients must make counseling offices and services reasonably accessible to persons with a wide range of disabilities and help persons locate suitable housing in locations throughout the applicant's community, target area, or metropolitan area, as defined by the applicant.

(C) Religious Discrimination. Grant recipients and sub-recipients are prohibited from:

(1) Discriminating on behalf of or against any segment of the population in the provision of services or in outreach, including those of other religious affiliations.

(2) Requiring religious instruction or religious counseling, conducting mandatory religious services or worship, engaging in religious proselytizing, and exerting religious influence in the provision of assistance under your housing counseling program.

(D) Entities that are subject to 24 CFR parts 84 and 85 (most nonprofit organizations and State, local and tribal governments or government agencies or instrumentalities who receive Federal awards of financial assistance) are required to develop and maintain a written code of conduct (See Section 84.42 and 85.36(b)(3)). Consistent with regulations governing housing counseling programs, your code of conduct must prohibit real and apparent conflicts of interest that may arise among employees, officers or agents; prohibit the solicitation and acceptance of gifts or gratuities by your officers, employees and agents for their personal benefit in excess of minimal value, and outline administrative and disciplinary actions available to remedy violations of such standards. If awarded assistance under this SuperNOFA, you will be required, prior to entering into a grant agreement with HUD, to submit a copy of your code of conduct and describe the methods you will use to ensure that all officers, employees and agents of your organization are aware of your code of conduct.

(E) Performance Measurement. Grant recipients are required to complete and submit a form HUD-9902, Fiscal Year Activity Report (APPENDIX A). The information compiled from this report provides HUD with its primary means of measuring your program performance.

(F) Environmental Requirements. In accordance with 24 CFR 50.19(b)(9) and (12) of the HUD regulations, activities assisted under this program are categorically excluded from the requirements of the National Environmental Policy Act and are not subject to environmental review under the related laws and authorities.

IX. Authority

HUD's Housing Counseling Program is authorized by Section 106 of the Housing and Urban Development Act of 1968 (12 U.S.C. 1701x), and is generally governed by HUD Handbook 7610.1, REV-4, CHG-1, dated October 27, 1997.

Appendix A—Form HUD-9902, Fiscal Year Activity Report

Appendix B

Homeownership center | States
Philadelphia Homeownership Center, Mr. John Niebieszczanski Patrick V. McNamara Building SF Program Support Branch 4, 477 Michigan Ave. Rm. 1600, Detroit, MI 48226, For technical questions Contact: Robert Wright (215) 656-0527 x3406 | Connecticut, Delaware, District of Columbia, Maine, Maryland, Massachusetts, Michigan, New Hampshire, New Jersey, New York, Ohio, Pennsylvania, Rhode Island, Vermont, Virginia, West Virginia.
Atlanta Homeownership Center, Ms. Gayle Knowlson, 40 Marietta Street, 8th Floor, Atlanta, GA 30303-2806, Contact: Fellece Sawyer-Coleman, (404) 331-5001, x2675 | Alabama, Puerto Rico, Florida, Georgia, Illinois, Indiana, Kentucky, Mississippi, North Carolina, South Carolina, Tennessee
Denver Homeownership Center, Ms. Irma Devich, Wells Fargo Building, 633 17th Street, Denver, CO 80202-3607, Contact: Irma Devich, (303) 672-5216 x1980 | Arkansas, Colorado, Iowa, Louisiana, Minnesota, Missouri, Montana, Nebraska, New Mexico, North Dakota, Oklahoma, South Dakota, Texas, Utah, Wisconsin, Wyoming
Santa Ana Homeownership Center, Mr. Jerrold Mayer, 1600 N. Broadway, Suite 100, Santa Ana, CA 92706-3927, Contact: Rhonda J. Rivera, Chief 1-888-827-5605, (714) 796-1200 x3210 | Alaska, Arizona, California, Hawaii, Oregon, Idaho, Nevada, Washington

BILLING CODE 4210-32-P

FUNDING AVAILABILITY FOR THE LEAD-BASED PAINT HAZARD CONTROL GRANT PROGRAM

PROGRAM OVERVIEW

Purpose of the Program. The purpose of the Lead-Based Paint Hazard Control Grant Program is to assist States, Indian Tribes and local governments in undertaking comprehensive programs to identify and control lead-based paint hazards in eligible privately owned housing for rental or owner-occupants in partnership with faith-based and other community-based organizations.

Available Funds. Approximately $80 million in Fiscal Year 2002.

Eligible Applicants. States, Indian Tribes or local governments. If you are a State or Tribal applicant, you must have a Lead-Based Paint Contractor Certification and Accreditation Program authorized by EPA.

Application Deadline. June 14, 2002.

Match. A minimum of 10% match in local funds.

ADDITIONAL INFORMATION

I. Application Due Date, Application Kits, Further Information, and Technical Assistance

Application Due Date. Submit your completed application (an original and four copies) to HUD postmarked on or before 12:00 midnight, Eastern Time, on June 14, 2002, at the address shown below.

See the General Section of the SuperNOFA for specific procedures concerning the form of application submission (e.g., mailed applications, express mail or overnight delivery).

Application Submission Procedures. New Security Procedures. In HUD has implemented new security procedures that impact on application submission procedures. Please read the following instructions carefully and completely. HUD will not accept hand delivered applications. Applications may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx and Falcon Carrier. Delivery by these services must be made during HUD's Headquarters business hours, between 8:30 AM and 5:30 PM Eastern time, Monday to Friday. If these companies do not service your area, you should submit your application via the United States Postal Service.

Address for Submitting Applications. For Mailed Applications. The address for mailed applications is: Department of Housing and Urban Development, Office of Healthy Homes and Lead Hazard Control, 451 Seventh Street, SW, Room P3206, Washington, DC 20410.

For Application Kits. You may obtain an application kit from the SuperNOFA Information Center at 1-800-HUD-8929. Persons with speech or hearing impairments may call the Center's TTY number at 1-800-HUD-2209. When requesting an application kit, please refer to the Lead-Based Paint Hazard Control Grant Program. Please be sure to provide your name, address (including zip code), and telephone number (including area code).

For Further Information and Technical Assistance. You may contact Ellis G. Goldman, Director, Program Management Division, Office of Healthy Homes and Lead Hazard Control, at the address above; telephone (202) 755-1785, extension 112 (this is not a toll-free number). If you are a hearing-or speech-impaired person, you may reach the above telephone numbers via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

(A) Available Funding. Approximately $80 million in Fiscal Year 2002 funds will be available for the Lead-Based Paint Hazard Control Grant Program.

(B) Allocation of Funds/Grant Awards. Both current or prior (previously funded) grantees or previously unfunded applicants are eligible to apply for grants of $1 million to $2.5 million. Approximately 32 to 40 grants will be awarded. Approximately 80% of the funds shall be available to current and prior Lead-Based Paint Hazard Control grantees. Applications from current and prior (previously funded) grantees will be evaluated and scored as a separate group and will not be in direct competition with applications from previously unfunded applicants. A minimum score of 70 is required for fundable applications. Within the category of current and prior grantees, a new subcategory has been created this year to allow for the “renewal” of current grants that meet specific criteria. Current grantees (with active grants at the application deadline date) whose period of performance commenced on or after January 1, 2000 and that, in their most recent grant, have completed and cleared at least 65 % of the negotiated number of units and have expended, as evidenced by the drawdown from the HUD Line of Credit Control System (LOCCS), at least 45 % of their original HUD Federal grant award by March 31, 2002, are eligible to request up to $2 million to continue grant program activities for an additional 24 months after their current period of performance ends. By achieving the above referenced level of performance significantly ahead of the expected schedule, these grantees have demonstrated a clear basis for eligibility in receiving additional funds without the need to submit a full application in response to the SuperNOFA. The creation of this subcategory reflects the intention of this grant program to move towards more competitive performance-based awards. Applicants eligible to submit a “Request for Renewal” will be required to submit a Total Budget (Federal Share and Matching), work plan strategy and supporting materials prescribed in the application. In addition, grantees awarded grant funds under this subcategory will be required to meet the terms and conditions of their current grant agreement and any additional applicable requirements under this NOFA. Additional details and guidance will be provided in the application kit.

III. Program Description; Eligible Applicants; Eligible Activities

(A) Program Description. The Lead-Based Paint Hazard Control Grant Program assists States, Indian Tribes and local governments in undertaking programs for the identification and control of lead-based paint hazards in eligible privately owned housing units for rental and owner-occupants. Appendix B (Eligibility of HUD Assisted Housing) and the application kit for this program will list the HUD-associated housing programs that meet the definition of eligible housing under this program.

(1) Because lead-based paint is a national problem, these funds will be awarded to:

(a) Maximize the combination of children protected from lead poisoning and housing units where lead-hazards are controlled;

(b) Target lead hazard control efforts at housing in which children are at greatest risk of lead poisoning;

(c) Stimulate cost-effective approaches that can be replicated;

(d) Emphasize lower cost methods of hazard control;

(e) Build local capacity to safely and effectively address lead hazards during lead hazard control, renovation, remodeling, and maintenance activities; and

(f) Affirmatively further fair housing and environmental justice.

(2) The objectives of this program include:

(a) Implementation of a national strategy, as defined in Title X of the Housing and Community Development Act of 1992 (42 U.S.C. 4851 et. seq.) (Title X), to build the community's capacity necessary to eliminate lead-based paint hazards in housing, as widely and quickly as possible by establishing a workable framework for lead-based paint hazard identification and control;

(b) Mobilization of public and private resources, involving cooperation among all levels of government, the private sector, and faith-based and other community-based organizations to develop cost-effective methods for identifying and controlling lead-based paint hazards;

(c) Development of comprehensive community approaches which result in integration of all community resources (governmental, faith-based and other community-based, and private businesses) to address lead hazards in housing;

(d) Integration of lead-safe work practices into housing maintenance, repair, weatherization, rehabilitation, and other programs that will continue after the grant period ends;

(e) Establishment of a public registry (listing) of lead-safe housing or inclusion of the lead-safe status of properties in another publicly accessible address-based property information system; and

(f) To the greatest extent feasible, promotion of job training, employment, and other economic opportunities for low-income and minority residents and businesses that are owned by and/or employ low-income and minority residents as defined in 24 CFR 135.5 (See 59 FR 33881, June 30, 1994).

(B) Eligible Applicants. (1) To be eligible to apply for funding under this program, the applicant must be a State, Indian Tribe, or unit of local government. Multiple units of a local government (or multiple local governments) may apply as part of a consortium; however, you must identify a single primary government or agency as “the applicant.” You may submit only one application. In the event you submit multiple applications, this will be considered a curable (minor) defect and the application review process delayed until you notify HUD in writing which application should be reviewed. Your other applications will be returned unevaluated. (See the General Section of the SuperNOFA, Section V, Corrections to Deficient Applications)

(2) Threshold Requirements. As an applicant, you must meet all of the threshold requirements of Section II(B) of the General Section of the SuperNOFA as well as any specific threshold requirements for applicants under the Lead Hazard Control Grant Program. Applications will not be rated or ranked if they do not meet the threshold requirements of Section II (B) of the general Section of the SuperNOFA.

(3) Consolidated Plans. (This requirement does not apply to Indian Tribes)

(a) If your jurisdiction has a current HUD approved Consolidated Plan, you must submit, as an appendix, a copy of the lead-based paint element included in the approved Consolidated Plan.

(b) If your jurisdiction does not have a currently approved Consolidated Plan, but it is otherwise eligible for this grant program, you must include your jurisdiction's abbreviated Consolidated Plan, which includes a lead-based paint hazard control strategy developed in accordance with 24 CFR 91.235.

(4) Contracts or other formal arrangements with faith-based and other community-based organizations. If selected for funding, local and State applicants must enter into contractual relationships or other formal arrangements with faith-based and other community-based organizations. Such relationships must be established prior to actual execution of the grant agreement. This requirement does not apply to Indian Tribes.

(5) EPA Authorization. If you are a State government or an Indian Tribal government, you must have an EPA authorized Lead-Based Paint Training and Certification Program in effect on the application deadline date to be eligible to apply for Lead Hazard Control Grant funds. The approval date in the Federal Register notice published by the EPA will be used in determining the Training and Certification status of the applicant State or Indian Tribal government.

(6) Current or prior grantees that have not completed a minimum of 35 percent of the units in their most recent grant agreement as of March 31, 2002, are not eligible to apply under this NOFA.

(7) The eligibility factors discussed in paragraphs (1) through (5) above are threshold requirements. If you do not satisfy the appropriate eligibility requirements stated in these paragraphs, HUD will not review your application.

(C) Eligible Activities. HUD is interested in promoting lead hazard control approaches that result in the reduction of this health threat for the maximum number of low-income families with children under six, for the longest period of time, and that demonstrate techniques which are cost-effective, efficient, and replicable elsewhere. Activities must be conducted in compliance with HUD's Lead-Safe Housing Rule, 24 CFR Part 35, and with any applicable requirements of a Training and Certification Program that has been authorized by the Environmental Protection Agency under the requirements of 40 CFR 745.320. Copies of HUD's Lead-Safe Housing Rule, and the companion publication “Interpretive Guidance: The HUD Regulation on Controlling Lead-Based Paint Hazards in Housing Receiving Federal Assistance and Federally Owned Housing Being Sold,” are available from the National Lead Information Clearinghouse at 1-800-424-LEAD and on the Internet at www.hud.gov.

(1) Direct Project Elements that you may undertake directly or through sub-recipients, include:

(a) Performing dust testing, hazard screens, inspections, and risk assessments of eligible housing constructed before 1978 to determine the presence of lead-based paint and/or lead hazards from paint, dust, or soil.

(b) Conducting the required pre-hazard control blood lead testing of children under the age of six years (72 months) residing in units undergoing inspection, risk assessment, or hazard control, unless reimbursable from Medicaid or another source.

(c) Conducting lead hazard control, which may include: interim control of lead-based paint hazards in housing (which may include specialized cleaning techniques to address lead dust); and abatement of lead-based paint hazards, including soil and dust, by means of removal, enclosure, encapsulation, or replacement methods. Complete abatement of all lead-based paint or lead-contaminated soil is not acceptable as a cost-effective strategy unless justification is provided and subsequently approved by HUD. Abatement of lead-contaminated soil should be limited to areas with bare soil in the immediate vicinity of the structure, i.e., drip line or foundation of the structure being treated, and children's play areas.

(d) Carrying out temporary relocation of families and individuals during the period in which hazard control is conducted and until the time the affected unit receives clearance for reoccupancy.

(e) Performing blood lead testing and air sampling to protect the health of the hazard control workers, supervisors, and contractors.

(f) Undertaking minimal housing rehabilitation activities that are specifically required to carry out effective hazard control, and without which the hazard control could not be completed and maintained. Hazard Control grant funds may be used for lead hazard control work done in conjunction with other housing rehabilitation programs. HUD strongly encourages integration of this grant program with housing rehabilitation, weatherization, and other energy conservation activities.

(g) Conducting clearance dust-wipe testing and laboratory analysis.

(h) Engineering and architectural activities that are required for, and in direct support of, lead hazard control.

(i) Providing resources to build capacity for lead-safe housing and lead hazard control, including free delivery of HUD-approved lead-safe work practices training courses for rehab contractors, rehab workers, homeowners, renters, painters, remodelers, maintenance staff, and others conducting renovation, rehabilitation, maintenance or other work in private housing; free delivery of lead sampling technician training, lead-based paint worker or contractor certification training; and subsidies for licensing or certification fees to low-income persons seeking credentials as lead-based paint workers or contractors or lead sampling technicians.

(j) Providing cleaning supplies for lead-hazard control, and instructions or training in their use, to faith-based and other community-based organizations, homeowners, and renters in low-income private housing.

(k) Conducting planning, coordination, and training activities to comply with HUD's Lead-Safe Housing Rule (24 CFR part 35) that became effective on September 15, 2000. These activities should support the expansion of a workforce properly trained in lead-safe work practices which is available to conduct interim controls on HUD assisted housing covered by these regulations. The regulation and interpretive guidance about the rule are available from the National Lead Information Center at 1-800-424-LEAD or www.hud.gov.

(l) Conducting general or targeted community awareness, education or outreach programs on lead hazard control and lead poisoning prevention including educating owners of rental properties on the Fair Housing Act and offering educational materials in languages other than English and providing training on lead-safe maintenance and renovation practices and management. Upon request, this also would include making all materials available in alternative formats to persons with disabilities (e.g.; Braille, audio, large type).

(m) Procuring liability insurance for lead-hazard control activities.

(n) Supporting data collection, analysis, and evaluation of grant program activities. This includes compiling and delivering such information and data as may be required by HUD. This activity is separate from administrative costs.

(o) Conducting applied research activities directed at demonstration of cost effective methods for lead hazard control.

(p) Purchasing or leasing equipment having a per unit cost under $5,000.

(q) Purchasing or leasing no more than two (2) X-ray fluorescence analyzers for use by the Lead-Based Paint Hazard Control Grant Program, if not already available.

(r) Preparing a final report at the conclusion of grant activities.

(2) Support Elements.

(a) Administrative costs. There is a 10% maximum for administrative costs. Specific information on administrative costs is included in this Lead-Based Paint Hazard Control Grant Program section of this SuperNOFA.

(b) Program planning and management costs of sub-grantees and other sub-recipients. (D) Ineligible Activities. You may not use grant funds for any of the following:

(1) Purchase of real property.

(2) Purchase or lease of equipment having a per unit cost in excess of $5,000, except for the purchase of X-ray fluorescence analyzers.

(3) Chelation or other medical treatment costs related to children with elevated blood lead levels. Non-Federal funds used to cover these costs may be counted as part of the required matching contribution.

(4) Lead hazard control activities in publicly owned housing, or project-based Section 8 housing.

IV. Program Requirements

In addition to the program requirements listed in the General Section of this SuperNOFA, the applicant must comply with the following requirements: (A) Conformance of proposed plans to Federal and State policies for Lead-Based Paint Hazard Control. All lead hazard control activities must be conducted in compliance with the applicable requirements of HUD's Lead-Safe Housing Rule, 24 CFR part 35, and as clarified in HUD's Interpretive Guidance about the rule. Activities must also comply with any additional requirements in effect under a State or Tribal Lead-Based Paint Training and Certification Program that has been authorized by the Environmental Protection Agency pursuant to 40 CFR 745.320.

Budgeting

(1) Matching Contribution. You must provide a matching contribution of at least 10% of the requested grant sum. This may be in the form of cash, including private sector funding, or in-kind (non-cash) contributions or a combination of these sources. With the sole exception of Community Development Block Grant (CDBG) funds, Federal funds may not be used to satisfy the statutorily required ten (10) percent matching requirement. Federal funds may be used, however, for contributions above the statutory requirement. If you do not include the minimum 10% match in your application, the application will be rated lower during the evaluation process. If selected for an award, you will be required to provide evidence that the matching contribution requirement will be met before being given the grant.

(2) Direct Lead Hazard Identification and Control Activities. The budget proposed must show a minimum of 60 percent of the total Federal amount requested identified for direct lead hazard control activities. Direct lead hazard control activities consist of dust testing, hazard screens, lead inspections, risk assessments, lead hazard control services, and clearance examinations. Direct hazard control activities do not include relocation, blood testing of residents or workers, housing rehabilitation, training, community education, applied research, purchase of supplies or equipment, or administrative costs.

(3) Lead-Safe Work Practice Training Activities. For most applicants, at least two (2) percent of the total Federal amount in the budget proposal will be necessary to promote the expansion of a workforce properly trained in lead-safe work practices and which is available to conduct interim controls and follow lead-safe work practices while performing work on HUD assisted housing units per the provisions of the HUD Lead Safe Housing Regulation 24 CFR Part 35(1330(a)(4)(iii)(v), and to safely repair, rehabilitate, and maintain other privately-owned residential property. Any applicant that proposes to use less than 2% of the total Federal amount for this purpose shall present evidence that there is currently in place a workforce that is sufficient in size and is properly trained to carry out the work under the Lead Hazard Control grant and the HUD Lead-Safe Housing Regulation.

(4) Applied Research Activities. You may identify a maximum of five (5%) percent of the total grant request for applied research activities.

(5) Administrative Costs. There is a 10% maximum for administrative costs as specified in Section 1011 (j) of the Residential Lead-Based Paint Hazard Reduction Act of 1992 (Title X of the Housing and Community Development Act of 1992, Public Law 102-550). Additional information about allowable administrative costs is provided in Appendix B of this NOFA and in the application kit.

(B) Period of Performance. The period of performance is 36 months for first time grant recipients. The period of performance for current and prior grantees is 30 months, except grantees receiving an award under a “Request for Renewal,” for which there is a 24-month period of performance.

(C) Certified and Trained Performers. Funded activities must be conducted by persons qualified for the activities according to 24 CFR part 35 (possessing certification as abatement contractors, risk assessors, inspectors, abatement workers, or sampling technicians, or others having been trained in a HUD-approved course in lead-safe work practices).

(D) Coastal Barrier Resources Act. Pursuant to the Coastal Barrier Resources Act (16 U.S.C. 3501), you may not use grant funds for properties located in the Coastal Barrier Resources System.

(E) Flood Disaster Protection Act. Under the Flood Disaster Protection Act of 1973 (42 U.S.C. 4001-4128), you may not use grant funds for lead-based paint hazard control of a building or manufactured home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(F) National Historic Preservation Act. The National Historic Preservation Act of 1966 (16 U.S.C. 470) and the regulations at 36 CFR part 800 apply to the lead-based paint hazard control activities that are undertaken pursuant to this program. HUD and the Advisory Council for Historic Preservation have developed an optional Model Agreement for use by grantees and State Historic Preservation Officers in carrying out activities under this program. This may be obtained from the SuperNOFA Clearinghouse.

(G) Waste Disposal. You must handle waste disposal according to the requirements of the appropriate local, State and Federal regulatory agencies. You must handle disposal of wastes from hazard control activities that contain lead-based paint but are not classified as hazardous in accordance with state or local law or the HUD Guidelines for the Evaluation and Control of Lead-Based Hazards in Housing (HUD Guidelines). The Guidelines may be purchased from HUD User (1-800-245-2691) or downloaded from the HUD website (www.hud.gov).

(H) Worker Protection Procedures. You must observe the procedures for worker protection established in the HUD Guidelines, as well as the requirements of the Occupational Health and Safety Administration (OSHA) (29 CFR 1926.62—Lead Exposure in Construction), or the State or local occupational safety and health regulations, whichever are most protective. If other applicable requirements contain more stringent requirements than the HUD Guidelines, the more rigorous standards shall be followed.

(I) Prohibited Practices. You must not engage in practices that are not allowed because of health and safety risks. Methods that generate high levels of lead dust shall be undertaken only with requisite worker protection, containment of dust and debris, suitable cleanup, and clearance. Prohibited practices include:

(1) Open flame burning or torching;

(2) Machine sanding or grinding without a high-efficiency particulate air (HEPA) exhaust control;

(3) Uncontained hydro blasting or high-pressure wash;

(4) Abrasive blasting or sandblasting without HEPA exhaust control;

(5) Heat guns operating above 1100 degrees Fahrenheit;

(6) Chemical paint strippers containing methylene chloride or other volatile hazardous chemicals in a poorly ventilated space; and

(7) Dry scraping or dry sanding, except scraping in conjunction with heat guns or around electrical outlets or when treating no more than two (2) square feet in any one interior room or space, or totaling no more than 20 square feet on exterior surfaces.

(J) Proposed Exceptions to HUD Requirements. Proposed methods that differ from HUD's Lead Safe Housing Rule will be considered on their merits through a separate HUD review and approval process after the grant award is made and a specific justification has been presented. HUD may consult with experts from both the public and private sectors. HUD will not approve methods that, in HUD's opinion, involve a lowering of standards that have the potential to adversely affect the health of residents, contractors or workers, or the environment.

(K) Written Policies and Procedures. You must have clearly established, written policies and procedures for eligibility, program marketing, unit selection, expediting work on homes occupied by children with elevated blood lead levels, and all phases of lead hazard control, including risk assessment, inspection, development of specifications, pre-hazard control blood lead testing, financing, relocation and clearance testing. Grantees, subcontractors, sub-grantees, sub-recipients, and their contractors must adhere to these policies and procedures.

(L) Continued Availability of Lead Safe Housing to Low-Income Families. Units in which lead hazards have been controlled under this program shall be occupied by and/or continue to be available to low-income residents as required by Title X. You must maintain a registry (listing) of units in which lead hazards have been controlled and ensure that these units are marketed to agencies and families as suitable housing for families with children under six. The grantee must notify the owner of the information that is collected so that the owner may make disclosure to tenants in accordance with the requirements under 24 CFR part 35, Subpart A.

(M) Testing. In developing your application budget, include costs for inspection, risk assessment, and clearance testing for each dwelling that will receive lead hazard control, as follows:

(1) Testing. (a) General. All testing and sampling shall conform to the current HUD Guidelines and Federal, state or tribal regulations developed as part of the appropriate contractor certification program. It is particularly important to provide this full cycle of testing for lead hazard control, including interim controls. Testing must be conducted according to the HUD Guidelines and the EPA lead hazard standards rule at 40 CFR part 745. All test results must be provided to the owner in a timely fashion, together with a notice describing the owner's legal duty to disclose the results to tenants and buyers under 24 CFR part 35, Subpart A.

(b) Pre-Hazard Control. A combined inspection and risk assessment is recommended. You should ensure that the results of the pre-hazard control investigation are sufficient to support hazard control decisions. When appropriate, you may elect to perform a lead hazard screen in lieu of an inspection or risk assessment.

(c) Non-Identification of Lead Hazards from Paint, Dust, Soil. In the event you propose to conduct lead hazard control work without identification of lead hazards from paint, dust, and soil, you must fully justify the technical and other rationale for such a proposal. HUD must approve such proposals. Approval is subject to HUD environmental review under 24 CFR part 50.

(d) Clearance Testing. Clearance dust testing must be conducted according to the EPA lead hazards standards rule at 40 CFR part 745 for abatement projects and the Lead-Safe Housing rule (24 CFR part 35) for lead hazard control activities or other abatement. These are available at www.epa.gov and www.hud.gov respectively.

(2) Blood lead testing. Before lead hazard control work begins, each occupant who is under six years old must be tested for lead poisoning within the six months preceding the housing intervention. Any child with an elevated blood lead level must be referred for appropriate medical follow-up. The standards for such testing are described in the Centers for Disease Control and Prevention publications Preventing Lead Poisoning in Young Children (1991), and Screening Young Children for Lead Poisoning: Guidance for State and Local Public Health Officials (1997).

(N) Cooperation With Related Research and Evaluation. You shall cooperate fully with any research or evaluation sponsored by HUD, CDC, EPA or other government agency and associated with this grant program, including preservation of project data and records and compiling requested information in formats provided by the researchers, evaluators or HUD. This also may include the compiling of certain relevant local demographic, dwelling unit, and participant data not contemplated in your original proposal. Participant data shall be subject to Privacy Act protection.

(O) Data collection. You will be required to collect and maintain the data necessary to document the various lead hazard control methods used and the cost of these methods.

(P) Section 3 Employment Opportunities. Please see Section II (E) of the General Section of the SuperNOFA. The requirements of Section 3 of the Housing and Urban Development Act of 1968 are applicable to the Lead-Based Paint Hazard Control Program.

(Q) Replacing Existing Resources. Funds received under this grant program shall not be used to replace existing community resources dedicated to any ongoing project.

(R) Certifications and Assurances. You must include the certifications and assurances listed in the General Section of the SuperNOFA with your application.

(S) Davis-Bacon Act. The Davis-Bacon Act does not apply to this program. However, if you use grant funds in conjunction with other Federal programs in which Davis-Bacon prevailing wage rates apply, then Davis-Bacon provisions would apply to the extent required under the other Federal programs.

(T) Conducting Business in Accordance With HUD Core Values and Ethical Standards. If awarded assistance under this SuperNOFA, you will be required, prior to entering into a grant agreement with HUD, to submit a copy of your code of conduct and describe the methods you will use to ensure that all officers, employees and agents of your organization are aware of your code of conduct (See Section II(B)(2) of the General Section of the SuperNOFA for information about conducting business in accordance with HUD's core values and ethical standards.)

(U) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. Too often, these businesses still experience difficulty accessing information and successfully bidding on Federal contracts. HUD regulations at 24 CFR 85.36(e) require recipients of assistance (grantees and sub grantees) to take all necessary affirmative steps in contracting for purchase of goods or services to assure that minority firms, women's business enterprises, and labor surplus area firms are used when possible. Affirmative steps shall include:

(i) Placing qualified small and minority businesses and women's business enterprises on solicitation lists;

(ii) Assuring that small and minority business, and women's business enterprises are solicited whenever they are potential sources;

(iii) Dividing total requirements, when economically feasible, into smaller tasks or quantities to permit maximum participation by small and minority business, and women's business enterprises;

(iv) Establishing delivery schedules, where the requirement permits, which encourage participation by small and minority business, and women's business enterprises;

(v) Using the services and assistance of the Small Business Administration, and the Minority Business Development Agency of the Department of Commerce; and

(vi) Requiring the prime contractor, if subcontracts are to be let, to take the affirmative steps listed in paragraphs (e)(2)(i) through (v) above.

V. Application Selection Process

(A) Rating and Ranking. Only those applications that meet the threshold review requirements will be rated and ranked. HUD intends to fund the highest ranked applications receiving a minimum score of 70 within the limits of funding, but reserves the right to advance other eligible applicants in funding rank. A decision to advance an applicant will be based on work plan strategies that foster innovative local approaches or lead hazard control methods.

(B) Award Offers. In the selection process, once available funds have been allocated to meet the requested or negotiated amounts of the top eligible applicants, HUD reserves the right to offer any residual amount as partial funding to the next eligible applicant, provided HUD is satisfied that the residual amount is sufficient to support a viable, though reduced effort, by such applicant(s). If you are an applicant offered a reduced grant amount you will have a maximum of seven (7) calendar days to accept such a reduced award. If you fail to respond within the seven-day limit, you shall be considered to have declined the award. Applicants may respond by e-mail, facsimile, or by mail.

(C) Budget. HUD will evaluate your proposed budget to determine if it is reasonable, clearly justified, and consistent with the intended use of grant funds. HUD is not required to approve or fund all proposed activities. Previously unfunded applicants may devote up to 36 months for the planning, implementation, and completion of lead hazard control activities. Current and prior grantees may devote up to 30 months, except those grantees awarded funds under the “Request for Renewal,” for which up to 24 months can be devoted to those activities. You must thoroughly document and justify all budget categories and costs (Part B of Standard Form 424A).

Note: Current grantees eligible to submit a “Request for Renewal” are to complete the required budget forms included in the NOFA and develop a work plan strategy for conducting lead hazard control program activities during the 24-month period of performance. Do not respond to the Factors for Award listed below. The application kit will provide additional guidance for submitting an application.

(D) Factors for Award Used to Evaluate and Rate Applications. The factors for rating and ranking applicants, and maximum points for each factor, are stated below. The maximum number of points to be awarded is 106. This maximum includes six bonus points as described in Section III(C)(1-3) of the General Section of the SuperNOFA, which addresses EZ, Brownfield Showcase Communities, and a court-ordered consideration applicable to this program. A minimum score of 70 is required for fundable applications.

Rating Factor 1: Capacity of the Applicant and Relevant Organizational Experience (20 points for all applicants)

This factor addresses your organizational capacity necessary to successfully implement the proposed activities in a timely manner. The rating of the “applicant” or the “applicant's staff” for technical merit or threshold compliance, unless otherwise specified, includes any faith-based and other community-based organizations, sub-contractors, consultants, sub-recipients, and members of consortia which are firmly committed to your project. In rating this factor, HUD will consider:

(1) The applicant's recent, relevant and successful demonstrated experience (including governmental and faith-based and other community-based partners) to undertake eligible program activities. The applicant must describe the knowledge and experience of the proposed overall project director and day-to-day program manager in planning and managing large and complex interdisciplinary programs, especially involving housing rehabilitation, public health, or environmental programs. The applicant must demonstrate that it has sufficient personnel or will be able to quickly retain qualified experts or professionals, to begin the proposed work program immediately after receiving an award and to perform lead hazard evaluation, lead hazard reduction, and other proposed activities in a timely and effective manner. In the narrative response for this factor, you should include information on your program staff, their experience, their commitment to the program, salary information, and position titles. Resumes (for up to three key personnel), position descriptions, and a clearly identified organizational chart for the lead hazard control grant program effort must be included in an appendix. Indicate the percentage of time that key personnel will devote to your project. The applicant's day-to-day program manager must be experienced in the management of housing rehabilitation or lead hazard control, or similar work involving project management, and must be dedicated to the proposed program for a minimum of 75% of the time. The applicant should provide a description of any previous experience in enrolling units and in completing lead hazard control work, housing rehabilitation or other work in a timely and effective manner. Describe how any other principal components of your agency, other public entities, or other organizations will participate in implementing or otherwise supporting or participating in the grant program. You may demonstrate capacity by thoroughly describing your prior experience in initiating and implementing lead hazard control efforts and/or related environmental, health, or housing projects. You should indicate how this prior experience will be used in carrying out your proposed comprehensive Lead-Based Paint Hazard Control Grant Program.

(2) If the applicant received previous HUD Lead-Based Paint Hazard Control Grant funding, this past experience will be evaluated in terms of cumulative progress and achievements under the previous grant(s). Where the applicant has received multiple HUD Lead Hazard Control Grants, performance under the most recent grant award will be primarily evaluated. If you are a current or prior grantee, you must provide the detail necessary to assure HUD that you will implement the proposed work immediately and perform it concurrently with existing lead hazard control grant work. The applicant must provide a description of its progress and performance in implementing the most recent grant award including the total number of housing units enrolled, assessed, in progress and completed and cleared as of the most recent calendar quarter. The applicant must also describe results from other lead hazard control grant program work plan activities and tasks including results from efforts undertaken to build local capacity for lead hazard control; in implementing HUD's Lead-Safe Housing Rule; “mainstreaming” lead-safe work practices into the private market; and in conducting effective education, outreach, and other training activities. The applicant should also cite specific instances in which the program has made a positive impact in the community. These impacts could include decreases in the number of children with elevated blood lead levels in the target area, average blood lead levels, and dust lead levels. In addition, activities undertaken to develop, enhance or expand the local infrastructure through collaboration should also be discussed.

In evaluating applications for funding HUD will take into account an applicant's past performance in managing funds, including the ability to account for funds appropriately; timely use of funds received either from HUD or other Federal, State or local programs; meeting performance targets for completion of activities and number of persons to be served or targeted for assistance. HUD may use information relating to these items based on information at hand or available from public sources such as newspapers, Inspector General or Government Accounting Office Reports or Findings, hotline complaints that have been proven to have merit, or other such sources of information.

In evaluating past performance, HUD may elect to deduct points from the rating score as specified under the Factors for Award or set threshold levels for performance as specified in the funding announcement.

Rating Factor 2: Needs/Extent of the Problem (20 points for all applicants)

This factor addresses the extent to which there is a need for the proposed program to address a documented problem and will be based on the evidence of lead poisoning, the presence of lead hazards, high risk children, and high risk housing in any proposed target area(s).

(1) Document a critical level of need for your proposed activities in the geographical area where activities will be carried out. Since an objective of the program is to prevent at-risk children from being poisoned, specific attention must be paid to documenting such need as it applies to the targeted areas, rather than the entire locality or state.

(2) Document the following for the target area(s):

(a) Numbers and percentages of children less than 72 months of age

i. numbers and percentages of children with elevated blood lead levels

ii. numbers and percentages of children tested for blood lead levels,

(b) Economic and demographic data relevant to the target area, including poverty and unemployment rates;

(c) Relevant housing market data available from HUD, or other data sources, including the Consolidated Plan/Analysis of Impediments, Public Housing Authority's Five Year Comprehensive Plan, State or local Welfare Department's Welfare Reform Plan, and;

(d) Other data relevant to the target area or jurisdiction that documents an unmet need for lead-safe housing. These data may include the number of units that have been occupied by lead poisoned children where the identified lead-based paint hazards have not been remediated; the number of lead-based paint health and/or housing code violations; or the number of pre-1978 or pre-1960 housing units anticipated to undergo rehabilitation in the next 12 months; the proportion or number of units with lead dust hazards; information about the principal sources of exposure in your community, their prevalence, and the segments and/or characteristics of the housing most affected by these exposure sources; and/or other information about housing condition.

(3) To the extent that statistics and other data contained in your community's Consolidated Plan or Analysis of Impediments to Fair Housing Choice (AI) and other data sources support the extent of the problem, you should include references to the Consolidated Plan, the AI or other data sources in your response.

(4) Provide information about the areas targeted for lead hazard control activities (data may be available from State or local sources, included in your currently approved Consolidated Plan or AI, derived from current Census Data, or available from special studies). The information to be provided includes the following:

(a) The age and condition of housing;

(b) The number and percentage of very-low (income less than 50% of the area median) and low (income less than 80% of the area median) income families, as determined by HUD, with adjustments for smaller and larger families;

(c) The number and proportion of children under six years (72 months) of age at risk of lead poisoning;

(d) The extent of the lead poisoning problem in children under six years (72 months) of age in target areas and the overall jurisdiction; and

(e) Other socioeconomic or environmental factors that demonstrate a need to establish or continue lead hazard control work in your jurisdiction.

(5) You also must provide documentation of the priority that the community's Consolidated Plan and Analysis of Impediments to Fair Housing Choice has placed on addressing the needs you described. If your application addresses needs that are in the Consolidated Plan, Analysis of Impediments to Fair Housing Choice, or the result of court orders or consent decrees, settlements, conciliation agreements, voluntary compliance agreements, and/or Childhood Lead Poisoning Prevention Programs or other relevant local initiatives you will receive more points than applicants that do not relate their program to identified needs.

(6) For you to receive maximum points for this factor, there must be a direct relationship between your proposed lead hazard control activities in the target area(s) and the documented community needs.

Rating Factor 3: Soundness of Approach (40 points for previously unfunded applicants and 50 points for current or prior grantees)

This factor addresses the quality and cost-effectiveness of your proposed work plan and the demonstrated performance of current and prior grantees both in terms of units completed and LOCCS draw downs). You should present information on your proposed lead-based paint hazard control program and describe how it will satisfy the identified needs. To the extent possible, describe a comprehensive strategy to address the need to protect targeted neighborhoods rather than individual units or homes. Your response to this factor must include the following elements:

(1) Lead Hazard Control Work Plan Strategy (32 points for previously unfunded applicants; 42 points for current and prior grantees). Describe your work plan goals and specific time-phased strategy to complete work under the grant within the 36-month period of performance (30 months for existing grantees) for your lead hazard control grant program. You should provide information on:

(a) Implementing a Lead Hazard Control Program (13 points for previously unfunded applicants; 6 points for current or prior grantees). Describe how you will implement the strategy for your proposed lead hazard control program. The description must include information on:

(i) How the project will be managed and staffed, the steps taken to ensure the availability of lead-based paint contractors and workers to conduct lead hazard control interventions, and other activities needed during the planning phase of the program and prior to beginning actual lead hazard control intervention work. In addition, a detailed description of the selection process for sub grantees, subcontractors or sub-recipients, and how assistance and funding will flow from the grantee to the actual performers of work under the grant shall be provided.

(ii) The overall number of eligible privately owned housing units scheduled for lead hazard control intervention work and the strategy for their identification, selection, prioritization, and enrollment in the selected target area(s). Discuss the eligibility criteria for unit selection and how the program will identify units that meet these criteria. Explain how referrals of eligible units from childhood lead poisoning prevention programs, other health or housing agencies or health providers that serve children will be obtained. Also discuss how referrals from the Section 8/Housing Choice Voucher programs and other agencies that provide housing assistance to low-income households with children including CDBG, Home-funded housing programs or other sources will be obtained. (Include as attachments any referral agreements, commitment letters or other documents from other entities that describe their participation in recruiting eligible units in the lead hazard control grant program.) (See Rating Factor 4 Leveraging Resources and Rating Factor 5 Coordination, Self-Sufficiency and Sustainability), Provide estimates of the total number of owner occupied and/or rental units that will receive lead hazard control. You should describe how the program will respond to the needs of children with elevated blood lead levels located outside the target area(s).

(iii) The degree to which the work plan focuses on eligible privately-owned housing units occupied by low-income families with children under six years (72 months) of age. Describe your planned approaches to control lead hazards in vacant and/or occupied units before children are poisoned and your plans to ensure that the program will continue to match these units with low-income families with children under six years (72 months) of age in the future. Discuss strategies to control lead hazards in units where children have already been identified with an elevated blood lead level, including your process for referring and tracking children with elevated blood lead levels for medical case management, and your capacity to rapidly complete lead hazard control work in their units. Also describe your process for referrals of EBL-occupied units that do not meet all the eligibility criteria for inclusion in the lead hazard control grant program. Provide estimates of the number of children you will assist through this program.

(iv) The lead hazard control financing strategy, including eligibility requirements, terms, conditions, dollar limits, and amounts available for lead hazard control work. You must discuss the way assistance from the grant funds will be administered to or on behalf of property owners (e.g. use of grants, deferred loans and/or forgivable loans and the basis and schedule for forgiveness), and the role of other resources, such as private sector financing), as well as the entity that will administer the financing process. Describe any matching requirements proposed for assistance to rental property owners.

(v) You should describe how your proposed program will satisfy the stated needs in the Consolidated Plan. Describe how your proposed program will further and support the policy priorities of the Department, including promoting healthy homes; providing opportunities for self-sufficiency, particularly for persons enrolled in welfare to work programs; or providing educational and job training opportunities. Describe how your strategy will provide long-term benefits to families with children under six years of age. Describe whether any of the proposed activities will occur in an EZ/EC and how they will benefit the residents of those zones or communities.

(b) Lead Hazard Control Outreach and Community Private Sector Involvement (6 points for all applicants). Applicants are encouraged to solicit participation of faith-based and other community-based and private sector organizations to accomplish outreach and community involvement activities and to build long-term capacity and sustain accomplishments in the target area. Applicants that partner, fund, or subcontract with faith-based and other community-based organizations will receive higher points in this sub factor. Your application must describe:

(i) Proposed methods of community education. These may include community awareness, education, training, and outreach programs in support of the work plan and objectives. This description should include general and/or targeted efforts undertaken to assist your program in reducing lead exposure. Programs should be culturally sensitive, targeted, and linguistically appropriate. Upon request, this would include making materials available in alternative formats to persons with disabilities (e.g., Braille, audio, large type), and in other languages common to the community to the extent possible.

(ii) Strategy for involving neighborhood or faith-based and other community-based organizations in your proposed activities. Your activities may include training (including training residents to screen houses through visual assessment and sampling), outreach, community education, marketing, inspection (including dust lead testing), and the conduct of lead hazard control activities. HUD will evaluate the level of substantive involvement during the review process.

(iii) Strategies and methodologies that affirmatively further fair housing and increase access to lead-safe housing for all segments of the population: homeowners, owners of rental properties, and tenants. This outreach should address ways to avoid housing discrimination against families with young children, and ways to ensure that all families will have adequate, lead-safe housing choices in the future.

(c) Technical Approach/Performance (13 points for previously unfunded applicants; 30 points for current or prior grantees). (Previously unfunded applicants are to respond to items (c) i-vii below)

(Current or prior grantees will be evaluated on the basis of cumulative unit production and cumulative LOCCS draw downs made under the grantee's most recent award for the period ending March 31, 2002. Current and prior grantees do not need to respond to items (c) i-vii below but are to provide a response for items viii and ix)

For Previously Unfunded Applicants

(i) Describe your process for the conduct of lead hazard evaluation (risk assessments and/or inspections) in units of eligible privately owned housing to confirm that there are lead-based paint hazards in the housing units where lead hazard control is undertaken. You may use the results of a valid risk assessment or inspection that had been previously performed within that past 6 months by certified inspectors or risk assessors in accordance with the HUD Guidelines if the report identified lead-based paint hazards and it is evident that hazards remain.

(ii) Describe your testing methods, schedule, and costs for performing blood lead testing, risk assessments, inspections and clearance examinations to be used. If you propose to use a more restrictive standard than the HUD/EPA thresholds (e.g., less than 0.5% or 1.0 mg/ square centimeter for lead in paint, or less than 40, 250, 400 mg/square foot for lead in dust on floors, sills and troughs respectively); or 400 ppm in bare soil in children's play areas and 1200 ppm for bare soil in the rest of the yard), identify the standard(s) which will be used. All testing shall be performed in accordance with applicable regulations.

(iii) Describe the lead hazard control methods and strategies that you will undertake and the number of units you will treat for each method selected (interim controls or hazard abatement). Complete abatement of all lead painted surfaces in all units is generally not acceptable as a strategy. In cases where only a few surfaces have lead hazards in a specific unit and abatement is cost-effective, the applicant must provide a detailed rationale for selecting complete abatement as a strategy. Provide an estimate of the per unit costs (and a basis for those estimates) for each lead hazard control method proposed and a schedule for initiating and completing lead hazard control work in the selected units. Discuss efforts to incorporate cost-effective lead hazard control methods. Explain your cost estimates, providing detail on how the estimates were developed, with particular references to cost effectiveness.

(iv) Schedule. Describe your expected schedule for the overall project. Discuss when you plan to perform lead hazard control on your first unit; and complete lead hazard control on all units in the lead hazard control program. Describe the schedule for a typical unit that will receive lead hazard control. Discuss the duration for referral/intake, enrollment and qualification; evaluation; hazard control; and clearance. Describe the schedule for emergency referrals (e.g. unit occupied by a child under the age of 6 years of age with an elevated blood lead level).

(v) Describe how you will integrate proposed lead hazard control activities with rehabilitation activities, including providing the training needed to create a workforce properly trained in lead-safe work practices for units assisted or rehabilitated under other HUD programs, and any collaboration with local housing or health departments, rehabilitation programs or community development corporations to stage lead hazard control and rehabilitation in the same units.

(vi) Describe your contracting process, including development of specifications or adoption of existing specifications for selected lead hazard control methods. Describe the management processes you will use to ensure the cost-effectiveness of your lead hazard control methods. Your application must include a discussion of the contracting process for the conduct of lead hazard control activities in the selected units, and requirements for coordination among lead hazard control, rehabilitation, weatherization, and other contractors.

(vii) Describe your plan for occupant protection or the temporary relocation of occupants of units selected for lead hazard control work. Describe any plan to avoid overnight relocation in small scale projects, consistent with 24 CFR 1345 (a)(2) and HUD's Interpretive Guidance J24, R18, and R19.You should address the use of safe houses and other temporary housing arrangements, storage of household goods, stipends, incentives, etc.

For Current and Prior Grantees

(viii) If you are a current or prior grantee, you must describe the actions you will take to ensure that your proposed lead hazard control work will occur concurrently with other ongoing HUD lead hazard control grant work. Your application must provide the detail necessary to assure HUD that you will implement the proposed work immediately and perform it concurrently with existing lead hazard control grant work. (See rating Factor 1)

(ix) If you are an existing or prior grantee, you must describe your progress in meeting the unit production goals included in your most recent lead hazard control grant award. If the unit production achieved is below the performance values (percentages of units completed) provided in the application kit, and no changes are proposed to your work plan, you should explain why the strategy in the earlier grant remains appropriate. Failure to provide this discussion will result in reduced points for this sub factor. In addition, the expenditure rate as reflected by the timely drawdown of HUD grant funds from the Line of Credit Control System (LOCCS) will be evaluated in conjunction with the achievement of the unit production goal.

(2) Economic Opportunity (4 points for all applicants). Describe the ways you will train individuals and contractors in housing related trades, such as painters, remodelers, renovators, maintenance personnel, and rehabilitation specialists, and others in lead-safe work practices. Describe how you will help to integrate lead-safety into other housing activities, such as meeting the requirements of the HUD Lead-Safe Housing Regulation in housing units rehabilitated or assisted with Federal funds.

Describe the methods to be used to provide economic opportunities for residents and businesses in the community. This discussion should include information on how you will promote training, employment, business development, and contract opportunities as part of your lead hazard control program. Grantees must comply with Section 3 of the Housing and Urban Development Act of 1968 (12 U.S.C. 1701u) and HUD's implementing rules at 24 CFR Part 135. Describe how you will accomplish the requirement by (1) providing training and employment opportunities for low and very low-income persons living within the grantee's jurisdiction, and by (2) providing business opportunities to businesses owned by low and very low-income persons living within the grantees jurisdiction.

(3) Program Evaluation, Data Collection, and Research (4 points for all applicants).

(a) Identify and discuss the specific methods and measures you will use (in addition to HUD reporting requirements) to measure progress, evaluate program effectiveness, and identify program changes necessary to improve performance. Describe how you will obtain, document and report the information.

(b) Provide a detailed description of any proposed applied research activities. Describe the objectives, methodology and impact at the local level of the proposed research activities.

Rating Factor 4: Leveraging Resources (10 points for previously unfunded applicants; 5 points for current or prior grantees)

This factor addresses your ability to obtain other community and private sector resources that can be combined with HUD's program resources to achieve program objectives. Current and prior grantees will be evaluated on their ability to generate new and/or additional resources and partnerships with faith-based and other community-based organizations committed to increasing lead poisoning prevention activities.

(1) In evaluating this factor, HUD will consider the extent to which you have established working partnerships with other entities to get additional resources or commitments to increase the effectiveness of the proposed program activities. Resources may include cash or in-kind contributions of services, equipment, or supplies allocated to the proposed program. Resources may be provided by governmental entities, public or private organizations, and other entities partnering with you. Leveraging arrangements with rental property owners may have the benefits of increasing the efficiency of public lead hazard expenditures and creating a financial stake for rental property owners in the quality of lead hazard control work. Contractual or other formal relationships with faith-based and other community-based organizations are a requirement for State and local government applicants. Documentation of these relationships with faith-based and other community-based organizations must be provided in this application either by signed agreements or commitment letters. This requirement does not apply to applicants who are an Indian Tribe. You also may partner with other program funding recipients to coordinate the use of resources in your target area.

(2) You should detail any activities to increase the understanding of lead poisoning prevention in your community. This could include partnerships with childhood lead screening programs, collaboration with ongoing health, housing or environmental research efforts which could result in a greater availability of resources, and efforts to build capacity for lead-safe housing.

(3) Matching funds must be shown to be specifically dedicated to and integrated into supporting the lead-based paint hazard control program. You may not include funding from any Federally funded program (except the CDBG program) as part of your required 10% match. Other resources from the private sector or other sources committed to the program that exceed the required 10% match will provide points for this rating factor. Contributions above the first 10% may include funds from other Federally funded programs, State, local, charity, non-profit or for-profit entities. You must support each source of contributions, cash or in-kind, both for the required minimum and additional amounts, by a letter of commitment from the contributing entity, whether a public or private source. This letter must describe the contributed resources that you will use in the program and the purpose for which they are designated. Staff in-kind contributions should be given a monetary value. If you do not provide letters specifying details and the amount of the actual contributions, those contributions will not be counted. Matching contributions required of rental property owners may be included as part of your match. Documentation and estimates for the amount of the match should be provided in the annex for this factor.

(4) Applicants will not receive full points under this rating factor if they do not submit evidence of a firm commitment and the appropriate use of leveraged resources under the grant program. Such evidence must be provided by including letters of firm commitment, memoranda of understanding, or other signed agreements to participate from those entities identified as partners in your application. Each letter of commitment, memorandum of understanding, or agreement to participate should include the organization's name, the proposed level of commitment and responsibilities as they relate to your proposed program. The commitment must be signed by an official of the organization legally able to make commitments on behalf of the organization. Describe the role of faith-based and other community-based organizations in specific program activities, such as hazard evaluation and control; monitoring; and awareness, education, and outreach within the community. Describe how you will ensure that commitments to sub grantees specified in your proposal will be honored and executed, contingent upon an award from HUD.

Rating Factor 5: Coordination, Self-Sufficiency, and Sustainability (10 Points for previously unfunded applicants; 5 Points for current or prior grantees)

This factor addresses the extent to which your program reflects a coordinated, community-based process of identifying needs and building a system to prevent lead poisoning in your community's housing by using available HUD and other community resources. This factor consists of three elements: (1) The extent to which you have coordinated your activities with other known organizations that are not directly participating in your proposed work activities, but with which you share common goals and objectives and are working toward meeting these objectives in a holistic and comprehensive manner; (2) The extent to which your application implements practical solutions within the grant term to result in assisting beneficiaries of grant program funds in achieving independent living, economic empowerment, educational opportunities, housing choice, or improved living environments; and (3) The extent to which your program exhibits the potential to be financially self-sustaining by decreasing dependence on Federal funding and relying more on State, local, and private funding so your activities can be continued after your grant award period is completed. In evaluating this factor, HUD will consider how you have:

(1) Coordinated your proposed activities with those of other groups or organizations to best support and coordinate all known activities and the specific steps you will take to share information on solutions and outcomes with others. Any written agreements or memoranda of understanding in place or proposed should be described. You should, at a minimum, describe the activities, in your metropolitan area or region, of other HUD Lead-Based Paint Hazard Control grantees, Centers for Disease Control and Prevention (CDC) Childhood Lead Poisoning Prevention grantees, Maternal and Child Health programs, State Medicaid agencies and child care providers, EPA grantees, EPA Regions and/or EPA-authorized certification and training programs, and other programs which are addressing lead poisoning prevention needs. Efforts undertaken to encourage non-profit organizations, including faith-based organizations, to participate in the program should be described. Coordination also includes providing technical assistance and training to neighboring or regional jurisdictions to facilitate the implementation of lead-based paint hazard control activities in those jurisdictions.

(2) Become actively involved (or if not currently active, describe the specific steps that will be taken to become active) in your community's Consolidated Plan and Analysis of Impediments processes and contribute information, action steps, and strategies to the element of the Consolidated Plan that has been established to identify and address the problem of childhood lead poisoning.

(3) Coordinated and integrated lead hazard control work with the local agencies responsible for housing rehabilitation, housing and health codes, and other related housing programs, as well as with the work of community development corporations, other faith-based and other community-based organizations and childhood lead poisoning prevention programs.

(a) Describe the degree to which lead hazard control work will be done in conjunction with other housing-related activities (i.e., rehabilitation, weatherization, correction of code violations, and other similar work), or your plan for the integration and coordination of lead hazard control activities into those activities in the future.

(b) Describe plans to incorporate lead-based paint maintenance, and hazard control standards with the applicable housing codes and health regulations, including training of workers to conduct such activities.

(c) Describe plans to generate and use public subsidies or other private-sector resources (such as revolving loan funds) to finance future lead hazard control activities.

(d) Describe plans to develop public-private lending partnerships to finance lead hazard control as part of acquisition and rehabilitation financing including the use of Community Reinvestment Act “credits” by lending institutions.

(e) Discuss efforts undertaken to coordinate activities of all agencies and organizations participating in any aspect of the proposed program,

(f) Describe specific plans and objectives to implement a registry of lead-safe housing that is available to the public, or to incorporate housing or inclusion of the lead-safe status of properties in another publicly accessible address-based property information system. Such plans could include strategies on how the information would be managed and made available to the public so that families (particularly low income families with children under age six) can make informed decisions regarding their housing options. Existing grantee applicants must address any registry of lead-safe housing and specifically discuss the availability, amount of information contained, and the use by members of the community.

(g) Detail the extent to which the policy of affirmatively furthering fair housing for all segments of the population is advanced by the proposed activities. Detail how your proposed work plan will support the community's efforts to affirmatively further affordable housing for all segments of the population. If you have an existing grant, you should discuss activities that have contributed to enhanced lead safe housing opportunities to all segments of the population.

(h) Describe plans to adopt or amend statutes, regulations, or policies that will more fully integrate lead hazard control into community policies and priorities.

(4) Describe efforts to coordinate and cooperate with other organizations that will lead to a reduction in lead risks to community residents. This could include such activities as free training to create a workforce properly trained in lead safe work practices, lead-safe repainting and remodeling; promotion of essential maintenance practices; and provision of lead dust testing to low-income, privately-owned homes which may not receive lead hazard control assistance under this grant program.

(5) Describe how your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

VI. Application Submission Requirements

(A) Applicant Information

(1) Application Format. The application narrative response to the Rating Factors is limited to a maximum of 25 pages. Your response must be typewritten on one (1) side only on 8 ½″ x 11″ paper using a 12-point (minimum) font with not less than ¾″ margins on all sides. Appendices should be referenced and discussed in the narrative response. Materials provided in the appendices should directly apply to the rating factor narrative.

(2) Application Checklist. Your application must contain the items listed in this Section VI(A)(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix A to this program section of the SuperNOFA. The application items are as follows:

(a) Transmittal Letter that identifies “the applicant” (or applicants) submitting the application, the dollar amount requested, what the program funds are requested for, and the nature of involvement with faith-based and other community-based organizations.

(b) The name, mailing address, telephone number, and principal contact person of “the applicant.” If you have consortium associates, sub-grantees, partners, major subcontractors, joint venture participants, or others contributing resources to your project, you must provide similar information for each of these partners.

(c) Checklist and Submission Table of Contents.

(d) Applicant Abstract. An abstract describing the goals and objectives of your proposed program (2 page maximum).

(e) Standard Form 424, Application for Federal Assistance.

(f) HUD 424M, Federal Assistance Funding Matrix.

(g) A detailed budget (total budget is the federal share and matching contribution) with supporting cost justifications for all budget categories of your grant request. You must provide a separate estimate for the overall grant management element (Administrative Costs), which is more fully defined in the application kit for this program section of the SuperNOFA. The budget shall include not more than 10% for administrative costs and not less than 90% for direct project elements. A minimum of 60% of the total Federal amount requested must be dedicated to direct lead hazard control activities. A sufficient amount of the total Federal amount must be dedicated to activities to create a workforce properly trained in lead-safe work practices. In the event of a discrepancy between grant amounts requested in various sections of the application, the amount you indicate on the SF-424 will govern as the correct value.

(h) An itemized breakout (using the SF-424A) of your required matching contribution, including:

—Values placed on donated in-kind services;

—Letters or other evidence of commitment from donors; and

—The amounts and sources of contributed resources.

(i) Standard Forms SF-LLL and SF-424B, and HUD Forms 2880, 2990, 2991, 2992, 2993, 2994, 50070 and 50071.

(j) Contracts, Memoranda of Understanding or Agreement, letters of commitment or other documentation describing the proposed roles of agencies, local broad-based task forces, participating faith-based and other community or neighborhood-based groups or organizations, local businesses, and others working with the program.

(k) A copy of the lead hazard control element included in your current program year's Consolidated Plan. You should include the discussion of any lead-based paint issues in your jurisdiction's Analysis of Impediments, particularly as it addresses your target areas.

(l) Narrative responses to the five rating factors.

(B) Proposed Activities. All applications must, at a minimum, describe the proposed activities in the narrative responses to the rating factors. Your narrative statement must be numbered in accordance with each factor for award (Rating Factors 1 through 5).

(C) Applicant Debriefing. See Section VII (E)(2) of the General Section of the SuperNOFA for information about applicant debriefing. Beginning not less than 30 days after the awards for assistance are announced in the above-mentioned Federal Register Notice, and for at least 120 days after awards for assistance are announced, HUD will provide a debriefing to any applicant requesting a debriefing on their application. All requests for debriefings must be made in writing and submitted to the person or organization identified as the Contact under the section entitled For Further Information and Technical Assistance in the program section of the SuperNOFA under which you applied for assistance. Information provided to you during your debriefing will include the final scores you received for each rating factor, final evaluator comments for each rating factor, and the final assessment indicating the basis upon which assistance was provided or denied.

VII. Corrections to Deficient Applications

The General Section of the SuperNOFA provides the procedures for corrections to deficient applications.

VIII. Environmental Requirements

In accordance with HUD regulations in 24 CFR Part 58, recipients of lead-based paint hazard control grants will assume Federal environmental review responsibilities. Recipients of a grant under this funded program will be given guidance in these responsibilities.

IX. Authority

The Lead-Based Paint Hazard Control Program is authorized by Section 1011 of the Residential Lead-Based Paint Hazard Reduction Act of 1992 (Title X of the Housing and Community Development Act of 1992).

Appendix A

The non-standard forms, which follow, are required for your Lead-Based Paint Hazard Control Program application. They are the Checklist and Submission Table of Contents and the Total Budget (Federal Share and Matching Contribution, including instructions).

Appendix B

The description of “Administrative Costs” and the “Eligibility of HUD Assisted Housing” are included in this section of the NOFA.

BILLING CODE 4210-32-P

FUNDING AVAILABILITY FOR HEALTHY HOMES AND LEAD TECHNICAL STUDIES

PROGRAM OVERVIEW

Purpose of the Program. To fund technical studies to improve methods for detecting and controlling lead-based paint and other residential health and safety hazards. The purpose of the Healthy Homes Initiative is to develop, demonstrate and promote cost effective, preventive measures to correct multiple safety and health hazards in the home environment that are associated with serious diseases and injuries in children. The purpose of the lead technical studies program is to improve methods for detecting and controlling residential lead-based paint hazards.

Available Funds. Approximately $2.5 million for healthy homes technical studies, and $1 million for lead technical studies.

Eligible Applicants. Academic and not-for-profit institutions located in the U.S., State and local governments, and federally recognized Indian tribes are eligible to apply. For-profit firms also are eligible; however, they are not allowed to earn a fee.

Application Deadline. June 14, 2002.

Match. None required.

ADDITIONAL INFORMATION

If you are interested in applying for funding under this program, please review carefully the General Section of this SuperNOFA and the following additional information.

I. Application Due Date, Application Kits, Further Information, and Technical Assistance

Application Due Date. Your completed application is due on or before June 14, 2002.

See the General Section of this SuperNOFA for specific procedures that you must follow for the form of application submission (e.g., mailed applications, express mail, overnight delivery, or hand carried).

Address for Submitting Applications. For U.S. Postal Service and Overnight/Express Mailed Applications. The address for mailed applications is: Department of Housing and Urban Development, Office of Healthy Homes and Lead Hazard Control, 451 Seventh Street, SW, Room P3206, Washington, DC 20410.

Application Submission Requirements. New Security Procedures. HUD has implemented new security procedures that impact on application submission procedures. Please read the following instructions carefully and completely. HUD will not accept hand-delivered applications. Applications may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx and Falcon Carrier. Delivery by these services must be made during HUD's Headquarters business hours, between 8:30 AM and 5:30 PM Eastern time, Monday to Friday. If these companies do not service your area, you should submit your application via the United States Postal Service.

For Application Kits. You may obtain an application kit from the SuperNOFA Information Center at 1-800-HUD-8929. Persons with speech or hearing impairments may call the Center's TTY number at 1-800-HUD-2209. When requesting an application kit, please refer to the Healthy Homes and Lead Technical Studies grant program. Please be sure to provide your name, address (including zip code), and telephone number (including area code). Alternatively, you may obtain an application kit by downloading it from the Internet at www.hud.gov.

For Further Information and Technical Assistance. You may contact: Dr. Peter Ashley, Office of Healthy Homes and Lead Hazard Control, at the address above; telephone (202) 755-1785, extension 115, or Ms. Curtissa Coleman, Grants Officer, extension 119 (these are not toll-free numbers). Hearing- and speech-impaired persons may access the above telephone number via TTY by calling the toll-free Federal Information Relay Service at 1-800-877-8339.

II. Amount Allocated

Approximately $2.5 million from HUD's FY 2002 Healthy Homes Initiative appropriation will be available to fund technical studies proposals and approximately $1 million from the FY 2002 lead technical assistance appropriation will be available to fund lead technical studies proposals in FY 2002. Grants or cooperative agreements will be awarded on a competitive basis according to the Rating Factors described in Section V(B). For technical studies under the Healthy Homes Initiative, HUD anticipates awarding 3 to 6 grants ranging from approximately $200,000 to approximately $1 million. For lead technical studies, HUD anticipates awarding 1 to 4 grants ranging from approximately $250,000 to approximately $1 million.

III. Program Description; Eligible Applicants; Eligible Activities

(A) Program Description. Background

(1) General Goals and Objectives. (i) The overall goal of the Healthy Homes and Lead Technical Studies program is to gain knowledge to improve the efficacy and cost-effectiveness of methods for evaluation and control of health and safety hazards in the home. Through the Healthy Homes Initiative, HUD is assessing and promoting new risk reduction techniques and technical studies on the control of key hazards described in Appendix A. Objectives to be addressed by these projects are:

(a) Investigation of the epidemiology of housing-related hazards and illness and injury.

(b) Development and assessment of low-cost test methods and protocols for identification and assessment of housing-related hazards.

(c) Development and assessment of cost-effective methods for reducing or eliminating housing-related hazards.

(d) Evaluation of the effectiveness of housing interventions and public education campaigns, and barriers and incentives affecting future use of the most cost-effective strategies.

(e) Investigation of the health effects on children living in deteriorated housing and the impact on their development and productivity.

(ii) The overall goal of the lead technical studies program is to gain knowledge to improve the efficacy and cost-effectiveness of methods for lead-based paint hazard evaluation and control. HUD is especially interested in the following technical studies topics:

(a) Evaluation of interior and exterior lead hazard control methodologies, especially novel approaches;

(b) The effectiveness of ongoing maintenance activities in controlling lead-based paint hazards;

(c) Other areas of focus that are consistent with the overall goals of HUD's lead technical studies program.

A table of examples of current Healthy Homes and Lead Technical Studies projects being funded by HUD can be found in Appendix C. HUD has also developed resource papers on a number of topic areas of importance under the Healthy Homes Initiative, including mold, environmental aspects of asthma, carbon monoxide, unintentional injuries, and hazard assessment. These papers can be downloaded from HHI web site at www.hud.gov.

(2) Healthy Homes Initiative. The Healthy Homes Initiative (HHI) departs from the more traditional approach of attempting to correct one hazard at a time (e.g., asbestos, radon). In April 1999, HUD submitted to Congress a preliminary plan containing a full description of the Initiative. This description (Summary and Full Report) is available on the HUD website at www.hud.gov. A description of the HHI is available at the HHI website, www/hud.gov.

In addition to deficiencies in basic housing facilities that may impact health, changes in the U.S. housing stock and more sophisticated epidemiological methods and biomedical research have led to the identification of new and often more subtle health hazards in the residential environment (e.g., asthma and mold-induced illness). While such hazards will tend to be found disproportionately in housing that is substandard (e.g., structural problems, lack of adequate heat, etc.), such housing-related environmental hazards may also exist in housing that is otherwise of good quality. Appendix A to this Healthy Homes and Lead Technical Studies program section of the SuperNOFA briefly describes the housing-associated health and injury hazards HUD considers key targets for intervention. Appendix B to this Healthy Homes and Lead Technical Studies program section of the SuperNOFA lists the references that serve as the basis for the information provided in this Healthy Homes and Lead Technical Studies section of this SuperNOFA.

HUD is interested in promoting approaches that are cost-effective and efficient and that result in the reduction of health threats for the maximum number of residents for the long run, and in particular low-income children. The overall goals and objectives of the HHI are to:

(i) Mobilize public and private resources, involving cooperation among all levels of government, the private sector, and faith-based and other community-based organizations to develop the most promising, cost-effective methods for identifying and controlling housing-based hazards.

(ii) Build local capacity to operate sustainable programs that will continue to prevent and, where they occur, minimize and control housing-based hazards in low and very low-income residences when HUD funding is exhausted.

HUD recognizes that there are many key scientific and implementation questions related to this Initiative, some of which were articulated in the HHI Preliminary Plan. With this NOFA, HUD hopes to advance the recognition and control of residential health and safety hazards and more closely examine the link between housing and health.

(3) Lead Technical Studies. HUD has been actively engaged in a number of activities relating to lead-based paint as a result of the Lead-Based Paint Poisoning Prevention Act of 1971, as amended, 42 U.S.C. 4801-4846. Sections 1051 and 1052 of the Lead Based Paint Hazard Reduction Act of 1992 (“Title X”) (42 U.S.C. 4854 and 4854a) state that the Secretary of HUD, in cooperation with other Federal agencies, shall conduct technical studies on specific topics related to the evaluation and subsequent mitigation of residential lead hazards. The HUD-sponsored technical studies program also responds to recommendations that were made by the Task Force on Lead-Based Paint Hazard Reduction and Financing, which was established pursuant to section 1015 of Title X. The Task Force presented its final report to HUD and the Environmental Protection Agency (EPA) in July 1995. The Task Force Report, entitled “Putting the Pieces Together: Controlling Lead Hazards in the Nation's Housing” (see Appendix A of this technical studies program section of the SuperNOFA), recommended research be conducted on a number of key topics to address significant gaps in our knowledge of lead exposure and hazard control.

The findings of technical studies will be used in part to update HUD's Guidelines for the Evaluation and Control of Lead-Based Paint Hazards in Housing (“Guidelines”), which were published in June, 1995 and amended in September, 1997. The Guidelines are a report on state-of-the-art procedures for all aspects of lead-based paint hazard evaluation and control. The Guidelines reflect the Title X framework for lead hazard control, which distinguishes three types of control measures: interim controls, abatement of lead-based paint hazards, and complete abatement of all lead-based paint. Interim controls are designed to address hazards quickly, inexpensively, and temporarily, while abatement is intended to produce a permanent solution. While the Guidelines recommend procedures that are effective in identifying and controlling lead hazards while protecting the health of abatement workers and occupants, HUD recognizes that targeted technical studies and field experience will result in future changes to the Guidelines. For availability of the Guidelines, see Appendix A of this technical studies program section of the SuperNOFA.

(B) Eligible Applicants

Academic and not-for-profit institutions located in the U.S., State and local governments, and federally recognized Indian tribes are eligible under all existing authorizations. For-profit firms also are eligible; however, they are not allowed to earn a fee (i.e., no profit can be made from the project). Federal agencies and Federal employees are not eligible to submit applications. The General Section of the SuperNOFA provides additional eligibility requirements.

(C) Eligible Activities

(1) Healthy Homes Initiative, Eligible Activities

(a) Evaluation of residential health and safety hazard assessment and control methodologies (including both existing methods and the evaluation of improved or novel approaches). Areas of particular interest to HUD include:

—Improving indoor air quality, such as through cost-effective approaches to upgrading residential ventilation or improving control/management of combustion appliances. Applicants should discuss how proposed approaches might affect energy residential energy costs (e.g., increasing air exchange rates resulting in an increase in heating costs).

—Improving or assessing the efficacy of current methods for residential Integrated Pest Management (IPM). IPM approaches focus on the use of economical means for managing pests, which incorporate information on the life cycles of pests and their interaction with the environment, while minimizing hazards to people, property, and the environment (see link at www.hud.gov). HUD is particularly interested in IPM methods for reducing cockroach and/or rodent populations in multifamily housing.

—Controlling excess moisture and dust control measures (e.g., preventing track-in of exterior dust and soil, improved methods for interior dust cleaning) have been identified as key areas in the HHI Preliminary Plan.

— Additional ideas will be considered with an open mind toward novel techniques and applications.

(b) Low-cost analytical techniques for the rapid, on and off-site determination of environmental contaminants of concern (e.g., bioaerosols, pesticides, allergens).

—Establish and validate any necessary procedures, such as extraction and/or digestion that would work well with the field device/procedure.

—Improve old technology (e.g., colorimetric tests, titrimetric procedures) as well as examine and improve newer techniques.

—Consider the safety, environmental impacts, and cost of the procedure, particularly as used in the field.

In proposing technical studies within the broad topic areas discussed in III.C.2(a) and III.C.2(b), applicants should consider the following:

—The “fit” of the proposed hazard assessment and/or control methods within the overall goal of addressing multiple health and safety hazards in a cost-effective manner.

—The efficacy of the proposed methods for hazard control and risk reduction (e.g., how long is effective hazard reduction maintained?).

—Evaluate critical elements and potential weaknesses of the methods or techniques, and address how to minimize the effect of each critical element and/or eliminate or mitigate each weakness.

— Demonstrate where and how these methods have been applied and tested, and/or perform demonstration activities.

Although HUD is soliciting proposals for technical studies on these broad topics, HUD will also consider funding applications for technical studies on topics that are relevant under the overall goals and objectives of this program, as described above. In such instances, the applicant should describe how the proposed project activity addresses these overall goals and objectives.

Applicants should consider the efficiencies that might be gained by working cooperatively with some of the recipients of HUD's Healthy Homes and Lead Hazard Control grants, which are widely distributed throughout the U.S. Information on current grantees is available at www.hud.gov.

You may address one or more of the technical studies topic areas within your proposal, or submit separate applications for different topic areas. Projects need not address all of the objectives within a given topic area.

(2) Lead Technical Studies, Eligible Activities.

(a) Evaluation of Interior and Exterior Lead Hazard Control Methodologies, Especially Novel Approaches. Identify and evaluate new methods and/or techniques for lead-based paint hazard control. Identify materials and/or procedures that may be used for abatement or for interim controls. Show the potential utility of these methods for lead hazard control and risk reduction. Evaluate critical elements and potential weaknesses of the methods or techniques, and address how to minimize the effect of each critical element and/or eliminate or mitigate each weakness. Demonstrate where and how these methods have been applied and tested, and/or perform demonstration activities. Illustrate the results obtained, and the costs involved. Recommend cost-effective changes to the Program for inclusion in future HUD lead hazard control grants, and for possible inclusion in future revisions to the Guidelines.

(b) The Effectiveness of Ongoing Maintenance Program Activities in Controlling Lead-Based Paint Hazards. While a variety of lead abatement and interim control techniques have been evaluated for their effectiveness in controlling lead-based paint hazards at and after their implementation, there is limited study directly assessing the effectiveness of ongoing lead-based paint maintenance programs. Evaluate the effectiveness and feasibility of developing and implementing ongoing lead-based paint maintenance programs, identify program components for which particular implementation difficulties exist, and evaluate proposed measures for overcoming those difficulties. Such quantitative evaluation of program components could address whether and how technically-acceptable and cost-effective work practices are selected and implemented, how effective supervisors are in monitoring work activities to ensure that lead-based paint hazards are controlled and that dust and debris are contained and cleaned up during work, and how well clearance procedures (including necessary re-cleaning) are integrated into the maintenance program, among other factors.

(c) Other Focus Areas that are Consistent with the Overall Goals of HUD's Lead Technical Studies Program. Additional ideas will be considered with an open mind toward novel techniques and applications. Although HUD is soliciting proposals for technical studies on some specific topics, HUD will also consider funding applications for technical studies on topics which are relevant under the overall goals and objectives of the lead hazard control technical studies program, as described above. In such instances, the applicant should describe how the proposed activity addresses these overall goals and objectives.

(D) Ineligible Activities

(1) Purchase or lease of equipment having a per unit cost in excess of $5,000, unless prior written approval is obtained from HUD.

(2) Medical treatment costs.

IV. Program Requirements.

(A) Applicable Requirements. Please refer to Section II of the General Section of the SuperNOFA, Requirements and Procedures Applicable to All Programs. The threshold requirements are listed in Section II B of the General Section of this SuperNOFA. Applicants must comply with these threshold requirements.

(B) Conducting Business in Accordance with HUD Core Values and Ethical Standards. All applicants shall develop and maintain a written code of conduct that reflects HUD's Core Values. Refer to the General Section of the SuperNOFA for additional information.

(C) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. Refer to the General Section of the SuperNOFA for applicable requirements.

(D) Certifications and Assurances. In addition to the certifications mentioned in the Section II(G) of the General Section of the SuperNOFA, you must comply with the following:

(1) All relevant State and Federal regulations regarding exposure to and proper disposal of hazardous materials.

(2) Any blood lead testing, blood lead level test results, and medical referral and follow-up for children under six years of age will be conducted according to the recommendations of the Centers for Disease Control and Prevention (CDC) Preventing Lead Poisoning in Young Children, (See Appendix B of this technical studies program section of the SuperNOFA).

(3) HUD technical studies grant funds will not replace existing resources dedicated to any ongoing project.

(4) Laboratory analysis covered by the National Lead Laboratory Accreditation Program (NLLAP) will be conducted by a laboratory recognized under the program.

(5) Human research subjects will be protected from research risks in conformance with Federal Policy for the Protection of Human Subjects, codified by HUD at 24 CFR part 60.

(6) The requirements of OSHA (e.g., 29 CFR part 1910 and/or 1926, as applicable), or the State or local occupational safety and health regulations, whichever are most stringent, will be met.

(E) Period of Performance. The period of performance cannot exceed 36 months from the time of award.

(F) Conducting Business in Accordance with HUD core Values and Ethical Standards. If awarded assistance under this Super NOFA, you will be required, prior to entering into a grant agreement with HUD, to submit a copy of your code of conduct and describe the methods you will use to ensure that all officers, employees, and agents of your organization are aware of your code of conduct. See Section II(A)(2) of the General Section of the SuperNOFA for information about conducting business in accordance with HUD's core values and ethical standards.

V. Application Selection Process

(A) Submitting Applications for Grants. Applications that meet all of the threshold requirements will be eligible to be scored and ranked, based on the total number of points allocated for each of the rating factors described below in Section V (B) of this program section of the SuperNOFA. Your application must receive a total score of at least 70 points to remain in consideration for funding.

Awards will be made separately in rank order for Healthy Homes Technical Studies applications and Lead Technical Studies applications, within the limits of funding availability for each program.

Within each of the two technical studies programs, you may address more than one of the technical study topic areas within your proposal (e.g., a HH technical studies applicant can address multiple topics consistent with the HHI program objectives), or submit separate applications for different topic areas. Projects need not address all of the objectives within a given topic area. While you will not be penalized for not addressing all of the specific objectives for a given topic area, if two applications for technical study in a given topic have equal scores, HUD will select the applicant whose project addresses the most objectives.

You are encouraged to plan projects that can be completed over a short time period (e.g., 12 to 24 months from the date of award) so useful information generated from the technical studies can be available for policy or program decisions and disseminated to the public as quickly as possible.

Regarding the amount to be awarded to the selected applicants, please refer to the Negotiations section in the General Section of this SuperNOFA.

(1) Use of Residual Funds. In the selection process, HUD reserves the right to offer partial funding to any or all applicants. If you are offered a reduced grant amount, you will have a maximum of fourteen (14) calendar days to accept such a reduced award. If you fail to respond within the 14-day limit, you shall be considered to have declined the award.

(B) Rating Factors. The factors for rating and ranking applicants, and maximum points for each factor, are provided below. The factors or their assigned points differ somewhat from those used for most program areas included in this SuperNOFA because they have been amended for rating the unique aspects of technical study applications. The maximum number of points to be awarded is 100. The EZ/EC bonus points described in the General Section of the SuperNOFA do not apply to this Technical Studies NOFA.

Rating Factor 1: Capacity of the Applicant and Relevant Organizational Experience (30 Points)

This factor addresses the extent to which you have the ability and organizational resources necessary to successfully implement your proposed activities in a timely manner. The rating of you, the “applicant,” will include any sub-grantees, consultants, sub-recipients, and members of consortia that are firmly committed to the project (generally, “subordinate organizations”). In rating this factor HUD will consider the extent to which your application demonstrates:

(1) The capability and qualifications of the principal investigator and key personnel (20 points). Qualifications to carry out the proposed study as evidenced by academic background, relevant publications, and recent (within the past 10 years) relevant research experience. Publications and research experience are considered relevant if they required the acquisition and use of knowledge and skills that can be applied in the planning and execution of the technical study that is proposed under this program section of this SuperNOFA.

(2) Past performance of the study team in managing similar projects (10 points). Demonstrated ability to successfully manage various aspects of a complex technical study in such areas as logistics, study personnel management, data management, quality control, community study involvement (if applicable), and report writing, as well as overall success in project completion (i.e., projects completed on time and within budget). You should also demonstrate that your project would have adequate administrative support, including clerical and specialized support in areas such as accounting and equipment maintenance.

Rating Factor 2: Need/Extent of the Problem (10 Points)

This factor addresses the extent to which there is a need for your proposed study activities to address documented problems, target areas or target groups. In responding to this factor, you should document in detail how your project would make a significant contribution towards achieving some or all of HUD's stated goals and objectives for one or more of the topic areas described in Sections III (A) and (C)(1)-(2) of this program section of the SuperNOFA.

(1) Your rating will be based on the scope and completeness of your documentation that should include available data linking housing-based hazards to disease or injuries to children. Examples of data that might be used to demonstrate need include:

(a) Rates of childhood illnesses or injuries (e.g., asthma, burns) that could be caused or exacerbated by exposure to conditions in the home environment and/or rates of environmentally-related disease or adverse health effects (e.g., hypertension, elevated blood lead levels) that would be addressed by your technical study;

(b) Unavailability of other federal, state or local funding or private sector resources that could be, or are being used, to address the problem. This includes current research projects for which funding will be terminated or significantly reduced in the next 12 months.

(c) Data documenting affected groups or areas that are traditionally underserved or have special needs.

(2) If your application addresses needs that are in the Consolidated Plan, court orders or consent decrees, settlements, conciliation agreements, and voluntary compliance agreements, you will receive more points than applicants that do not relate their program to identified need.

(3) In addition, if you are seeking funding for “other” technical study focus areas, as is described in Section III(C)(1)(b) and III(C)(2)(c), you must document the importance and need for the project with respect to addressing the overall goal of this technical studies program.

Rating Factor 3: Soundness of Approach (50 Points)

This factor addresses the quality of your proposed technical study plan. Specific components include the following:

(1) Soundness of the study design (30 points). The project description/study design must be thorough and feasible, and reflect your knowledge of the relevant scientific literature. You should clearly describe how your study builds upon the current state of knowledge for your focus area. If possible, your study should be designed to address testable hypotheses, which are clearly stated. Your study design should be statistically based, with adequate power to test your stated hypotheses. The study design should be presented as a logical sequence of steps or phases, with individual tasks described for each phase. You should identify any important “decision points” in your study plan and you should discuss plans for data management, analysis and archiving.

Indicate if you will address any of the Department's FY 2002 policy priorities that are applicable to this program (see Section VI of the General Section of the SuperNOFA for a description of these policy priorities). You will receive one point for each of the applicable policy priorities that are addressed in your application. Policy priorities that are potentially applicable to the Healthy Homes and Lead Technical Studies NOFA are: (1) Improving the Quality of Public Housing and Providing More Choices for its Residents; and (2) Colonias.

(2) Quality assurance mechanisms (10 points). You must describe the quality assurance mechanisms that will be integrated into your project design to ensure the validity and quality of the results. Areas to be addressed include acceptance criteria for data quality, procedures for selection of samples/sample sites, sample handling, measurement and analysis, and any standard/nonstandard quality assurance/control procedures to be followed. Documents (e.g., government reports, peer-reviewed academic literature) that provide the basis for your quality assurance mechanisms should be cited.

(3) Project management plan (8 points). The proposal should include a management plan that provides a schedule for the completion of major activities, tasks and deliverables, with an indication that there will be adequate resources (e.g., personnel, financial) to successfully meet the proposed schedule. You are encouraged to plan a project with a duration of 24 months or less.

(5) Budget Proposal (2 Points). Your budget proposal should thoroughly estimate all applicable direct and indirect costs, and be presented in a clear and coherent format in accordance with the requirements listed in the General Section of this SuperNOFA. HUD is not required to approve or fund all proposed activities. Your budget should be submitted in the format provided in Appendix D; an electronic spreadsheet is available on HUD's website, www.hud.gov. You must thoroughly document and justify all budget categories and costs (Part B of Standard Form 424A) and all major tasks, for yourself, sub-recipients, partners, major subcontractors, joint venture participants, or others contributing resources to the project. Your budget proposal should be activity and task related.

Rating Factor 4: Leveraging Resources (5 Points)

Your proposal should demonstrate that the effectiveness of HUD's Healthy Homes and Lead Technical Studies grant funds are being increased by securing other public and/or private resources or by structuring the project in a cost-effective manner, such as integrating the project into an existing study. Resources may include funding or in-kind contributions (such as services, facilities or equipment) allocated to the purpose(s) of your project. Staff and in-kind contributions should be given a monetary value.

You should provide evidence of leveraging/partnerships by attaching to your application the following: Letters of firm commitment, memoranda of understanding, or agreements to participate from those entities identified as partners in the project efforts. Each letter of commitment, memorandum of understanding, or agreement to participate must include the organization's name, proposed level of commitment (with monetary value) and responsibilities as they relate to specific activities or tasks of your proposed program. The commitment must also be signed by an official of the organization legally able to make commitments on behalf of the organization.

Rating Factor 5: Coordination, Self-Sufficiency and Sustainability (5 Points)

(1) The extent to which you have coordinated your activities with other organizations that have or are in the process of conducting similar work. Your proposed study should build upon the existing body of related work and it should not significantly duplicate work that is currently being conducted, or has been conducted, by other organizations (to the extent that this can be ascertained);

(2) The extent to which your project will help generate practical solutions that can be funded and implemented locally for the identification and mitigation of health and safety hazards in residential environments;

(3) The extent to which your project findings can be used by various local and State governmental and non-governmental organizations to develop programs to implement improved evaluation and remediation strategies for addressing health and safety hazards in the residential environment in the absence of additional Federal funding.

VI. Application Submission Requirements

(A) Applicant Data. Your application must contain the items listed in this Section (VI(A)). These items include the standard forms, certifications, and assurances listed in the General Section of the SuperNOFA that are applicable to this funding (collectively, referred to as the “standard forms”). The standard forms can be found in Appendix B to the General Section of the SuperNOFA. The remaining application items that are forms (i.e., excluding such items as narratives), referred to as the non-standard forms can be found as Appendix D to this program section of the SuperNOFA: The items are as follows:

(1) Transmittal Letter that identifies what the technical study program funds are requested for (you should clearly specify that you are applying for funds under either the Healthy Homes Initiative technical studies program or the Lead Hazard Control technical studies program), the dollar amount requested, and the applicant or applicants submitting the application. If two or more organizations are working together on the project, a primary applicant must be designated.

(2) Checklist and Submission Table of Contents (see Appendix D).

(3) The name, mailing address, telephone number, and principal contact person of the prime applicant. If you have consortium associates, sub-grantees, partners, major subcontractors, joint venture participants, or others contributing resources to your project, similar information must be provided for each of these entities.

(4) Completed Forms HUD-2880, Applicant/Recipient Disclosure/Update Report; Certification Regarding Lobbying; and/or SF-LLL, Disclosure of Lobbying Activities, where applicable. A Certification of Consistency with the Consolidated Plan is not required for this application.

(5) Completed Standard Forms SF-424, 424M, 424A, 424B, and other certifications and assurances listed in the General Section of the SuperNOFA.

(6) A detailed total budget with supporting cost justification for all budget categories of the Federal grant request. Use the budget format discussed in Section V(B) Rating Factor 3:5, above. (See Appendix D.)

(7) A two-page (maximum) abstract containing the following information: The project title, the names and affiliations of all investigators, and a summary of the objectives, expected results, and study design described in the proposal.

(8) A project description/narrative statement addressing the rating factors for award of funding under this program section of the SuperNOFA. The narrative statement must be numbered in accordance with each factor for award (Rating Factors 1 through 5). The response to the rating factors should not exceed a total of 25 pages for each technical study topic area. Any pages in excess of this limit will not be read.

(9) Any important attachments, appendices, references, or other relevant information may accompany the project description, but must not exceed twenty (20) pages for the entire application. Any pages in excess of this limit will not be read.

(10) The resumes of the principal investigator and other key personnel. Resumes shall not exceed three pages each, and are limited to information that is relevant in assessing the qualifications of key personnel to conduct and/or manage the proposed technical studies.

(B) Applicant Debriefing. See Section VII(E)(2) of the General Section of the SuperNOFA for information about applicant debriefing.

VII. Corrections to Deficient Applications

The General Section of the SuperNOFA provides the procedures for corrections to deficient applications.

VIII. Environmental Requirements

In accordance with 24 CFR 50.19(b)(1) and (b)(5) of the HUD regulations, activities assisted under this program are categorically excluded from the requirements of the National Environmental Policy Act of 1969 (42 U.S.C. 4321) and are not subject to environmental review under the related laws and authorities.

IX. Authority

These grants are authorized under sections 1051 and 1052 of the Residential Lead Based Paint Hazard Reduction Act of 1992, which is Title X of the Housing and Community Development Act of 1992, sections 501 and 502 of the Housing and Urban Development Act of 1970, and the Departments of Veterans Affairs and Housing and Urban Development, and Independent Agencies Appropriations Act, 2002, Pub. L. 107-73, approved November 26, 2001.

Appendix A

The following briefly describes the housing-associated health and injury hazards HUD considers key targets for intervention:

Allergens and asthma: Experts estimate that 14 million Americans have asthma, with an associated annual cost of $14 billion. Asthma is now recognized as the leading cause of school and work absence, emergency room visits and hospitalization. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50% of inner-city housing and affect 5-15% of the population, whereas dust mite appears to be the dominant allergen in other environments.

Interventions known to have beneficial effects include installation of impervious mattress and pillow covers, which can reduce allergen exposure by 90%. Other dust mite control measures include dehumidification, laundering bedding, and removal of carpets and other dust sinks. Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes: In pipe and furnace insulation materials, asbestos shingles, millboard, textured paints and other coating materials, and floor tiles. Elevated concentrations of airborne asbestos can occur when asbestos-containing materials (ACM) are disturbed by cutting, sanding or other remodeling activities. Improper attempts to remove these materials can release asbestos fibers into the air in homes, increasing asbestos levels and endangering people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACM usually involves either sealing (encapsulation) or covering (enclosure) it. Repair is usually cheaper than removal, but it may make later removal of asbestos more difficult and costly. Repairs should be done only by a professional trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys; cracked or disconnected flue pipe; dirty filters; rust or cracks in the heat exchanger; soot or creosote build-up; and exhaust or gas odors. Installing a carbon monoxide detector is also recommended; however, such a detector will not detect other combustion by-products.

Insect and Rodent pests: The observed association between exposure to cockroach antigen and asthma severity has already been noted above. In addition, cockroaches may act as vehicles to contaminate and environmental surfaces with certain pathogenic organisms. Rodents can transmit a number of communicable diseases to humans, either through bites, arthropod vectors, or exposure to aerosolized excreta. In addition, humans can become sensitized to proteins in rodent, urine, dander and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best studied of the household environmental hazards to children. Although blood lead levels have fallen nationally, a large reservoir of lead remains in housing. The most recent national survey, conducted from 1991-94, showed that nearly one million U.S. preschoolers still have elevated blood lead levels. Overall, the prevalence rate among all children under six years of age is 4.4%. Among low-income children living in older housing where lead-based paint is most prevalent, the rate climbs to 16%; and for African-American children living in such housing, it reaches 21%.

HUD estimates that 38 million dwellings have some lead-based paint, and that 26 million have significant lead-based paint hazards. Of those, about 5.7 million have young children and of those, about 1.6 million have household incomes under $30,000 per year. Costs for lead hazard control can range anywhere from $500 to $15,000 per unit. Corrective measures include paint stabilization, enclosure and removal of certain building components coated with lead paint, and cleanup and “clearance testing,” which ensures the unit is safe for young children.

Mold and moisture: An analysis of several pulmonary disease studies estimates that 25% of airways disease, and 60% of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., integrated pest management, clean & tune furnace, remove debris, vent clothes dryer, cover dirt floor with impermeable vapor barrier) is a few hundred dollars, unless major modification of the ventilation system is needed. In Cleveland, mold interventions, including repairs to ventilation systems and basement flooring, in the most heavily contaminated homes range from $500-$5,000, with some costs also being dedicated to lead hazard control simultaneously through its lead+asthma program.

Pesticide residues: According to the EPA, 75 percent of U.S. households used at least one pesticide product indoors during the past year. Products used most often are insecticides and disinfectants. Another study suggests 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years old, almost one-half stored at least one pesticide product within reach of children. Exposure to chlorpyriphos (CP), a commonly used organophosphate insecticide, in the prenatal and early postnatal period may impair neurodevelopment. While CP is a biodegradable pesticide, substantial persistence of CP in house dust has been demonstrated. Exposure to high levels of cyclodiene pesticides, commonly associated with misapplication, has produced various symptoms, including headaches, dizziness, muscle twitching, weakness, tingling sensations, and nausea. In addition, EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well developed, and the Environmental Protection Agency (EPA) recommends that every home be measured for radon. EPA estimates that materials and labor costs for radon reduction in an existing home are $800-$2500. Including radon resistant techniques in new home construction costs $350-$500, and can save up to $65 annually in energy costs, according to the EPA.

Take home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing before leaving work, or immediately after arriving home. Once a home becomes contaminated, cleaning floors and contact surfaces and replacing furnishings may be necessary to reduce exposures.

Unintentional injuries/fire: Unintentional injury is now the leading cause of death and disability among children younger than 15 years of age. In 1997, nearly 7 million persons in the United States were disabled for at least 1 full day by unintentional injuries received at home. During the same year, 28,400 deaths were attributable to unintentional home injuries, of which 1800 occurred among children 0-4 years of age. Among young children, three types of events accounted for more than 3/4 of deaths: fires/ burns, drownings, and mechanical suffocation. Falls and poisoning are the next most common.

Home visitation protocols have been shown to be effective in reducing exposure to such hazards. The “add-on” cost of injury prevention measures, when combined with other housing interventions are estimated at about $100 per unit. This includes the cost of some injury prevention devices, such as smoke alarms, electrical socket covers, etc.

Appendix B—Relevant Publications and Guidelines

To secure any of the documents listed, call the listed telephone number (generally, the telephone numbers are not toll-free). A number of these references are provided on HUD's CD, “Residential Lead Desktop Reference, 3rd Edition.” This CD is available at no charge from the National Lead Information Clearinghouse, 1-800-424-LEAD.

Regulations

1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without charge from www.osha-slc.gov/OshStd_data/1910_1025.html.

—Lead Exposure in Construction, 29 CFR 1926.62, and appendices A, B, C, and D (Document Number 869022001141). Can be downloaded from the Internet without charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without charge from www.epa.gov/docs/epacfr40/chapt-I.info/subch-I/htm.

3. Lead; Requirements for Lead-Based Paint Activities in Target Housing and Child-Occupied Facilities; Final Rule: 40 CFR part 745 (EPA) (Lead Hazard Standards, Work Practice Standards, EPA and State Certification and Accreditation Programs for those engaged in lead-based paint activities)—Telephone: 1-202-554-1404 (Toxic Substances Control Act Hotline) (not a toll-free number). Can be downloaded from the Internet without charge from www.epa.gov/lead/.

4. Requirements for Notification, Evaluation and Reduction of Lead-Based Paint Hazards in Federally Owned Residential Property and Housing Receiving Federal Assistance; Final Rule: 24 CFR part 35, subparts A through R, published September 15, 1999, at Federal Register pages 50201 through 50231(HUD)—Telephone: 1-800-424-LEAD (National Lead Information Center). Can be downloaded from the Internet without charge from www.hud.gov/offices/lead.

5. U.S. Environmental Protection Agency. Lead; Identification of Dangerous Levels of Lead; Final Rule at 66 FR 1205-1240, January 5, 2001. TSCA Hotline: 202-554-1404 (not a toll-free number). Can be downloaded from the Internet without charge from www.epa.gov/lead/leadhaz.htm.

Guidelines

1. Guidelines for the Evaluation and Control of Lead-Based Paint Hazards in Housing; HUD, June 1995, and amended September 1997. (available for a charge)—Telephone: 800-245-2691. Can be downloaded from the Internet without charge from www.hud.gov/offices/lead.

2. Preventing Lead Poisoning in Young Children; Centers for Disease Control, October 1991: Telephone: 888-232-6789. Can be downloaded from the Internet without charge from www.hud.gov/offices/lead.

3. Screening Young Children for Lead Poisoning: Guidance for State and Local Public Health Officials, November 1997; Centers for Disease Control and Prevention (CDC): Telephone: 888-232-6789. Can be downloaded from the Internet without charge from www.hud.gov/offices/lead.

Reports and Articles

1. Putting the Pieces Together: Controlling Lead Hazards in the Nation's Housing, (Summary and Full Report); HUD, July 1995 (available for a charge)—Telephone 800-245-2691. Can be downloaded from the Internet without charge from www.hud.gov/offices/lead.

2. The Healthy Homes Initiative: A Preliminary Plan (Summary and Full Report); HUD, July 1995. Can be downloaded from the Internet without charge from www.hud.gov/offices/lead.

3. Institute of Medicine. Indoor Allergens. Assessing and Controlling Adverse Health Effects. National Academy Press. Washington, D.C. 1993.

4. Mott L., Our Children at Risk. Natural Resources Defense Council. Washington, D.C. 1997. Can be ordered from the Internet from www.nrdc.org.

5. Rom W.N., Ed. Environmental and Occupational Medicine. Little, Brown and Co., Boston. 1992.

6. President's Task Force on Environmental Health Risks and Safety Risks to Children. Asthma and The Environment: An Action Plan to Protect Children. Washington, D.C. 1999. Eliminating Childhood Lead Poisoning: A Federal Strategy Targeting Lead Paint Hazards. Washington, D.C. 2000. Can be downloaded from the Internet without charge from www.epa.gov/children.

BILLING CODE 4210-32-P

FUNDING AVAILABILITY FOR THE HEALTHY HOMES DEMONSTRATION PROGRAM

PROGRAM OVERVIEW

Purpose of the Program. The purpose of the Healthy Homes Demonstration Program is to develop, demonstrate and promote cost-effective, preventive measures to correct multiple safety and health hazards in the home environment that produce serious diseases and injuries in children. HUD is interested in reducing health threats to the maximum number of residents, especially children, in a cost efficient manner.

Available Funds. Approximately $5 million of funds.

Eligible Applicants. Not-for-profit institutions, and for-profit firms located in the U.S., state and local governments, and federally recognized Indian Tribes are eligible to apply. For-profit firms are not allowed to include a fee in the cost proposal (i.e., no profit can be made from the project). Federal agencies and federal employees are not eligible to apply for this program.

Application Deadline. June 14, 2002.

Match. None.

ADDITIONAL INFORMATION

If you are interested in applying for funding under this initiative, please review carefully the General Section of this SuperNOFA and the following additional information.

I. Application Due Date, Application Kits, Further Information, and Technical Assistance

Application Due Date. The application due date is June 14, 2002. Your completed application (one original and four copies) must be postmarked before 12:00 midnight Eastern Time, on June 14, 2002, and mailed to the address shown below.

Application Submission Procedures. New Security Procedures. HUD has implemented new security procedures that impact on application submission procedures. Please read the following instructions carefully and completely. HUD will not accept hand-delivered applications. Applications may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx and Falcon Carrier. Delivery by these services must be made during HUD's Headquarters business hours, between 8:30 AM and 5:30 PM Eastern time, Monday to Friday. If these companies do not service your area, you should submit your application via the United States Postal Service.

Address for Submitting Applications. The address for all applications submitted is: Department of Housing and Urban Development, Office of Healthy Homes and Lead Hazard Control, Attn: Ellen R. Taylor, 451 Seventh Street, SW., Room P3206, Washington, DC 20410.

For Application Kits. You may obtain an application kit from the SuperNOFA Information Center at 1-800-HUD-8929, or the TTY number at 1-800-HUD-2209. When requesting an application kit, please refer to the Healthy Homes Demonstration Program. Please be sure to provide your name, address (including zip code), and telephone number (including area code). Alternatively, you may obtain an application kit by downloading it from the Internet at www.hud.gov.

For Further Information and Technical Assistance. You may contact Ms. Ellen Taylor, Planning and Standards Division, Office of Healthy Homes and Lead Hazard Control, at the address above; telephone (202) 755-1785, extension 116, or Ms. Curtissa Coleman Grants Officer, extension 119. (These are not toll-free numbers.) Hearing- and speech-impaired persons may access the above telephone numbers via TTY by calling the toll-free Federal Information Relay Service at 1-800-877-8339.

Satellite Broadcasts. HUD will hold information broadcasts via satellite for potential applicants to learn more about the programs in this SuperNOFA and preparation of the applications. For more information about the date and time of the broadcast, you should consult the HUD website at www.hud.gov.

II. Amount Allocated

Approximately $5 million will be available under the FY 2002 appropriation. Grants will be awarded on a competitive basis following evaluation of all proposals according to the Rating Factors described in Section V(C) of this program section. HUD anticipates that approximately 6 to 8 grants will be awarded, ranging from approximately $250,000 to approximately $1,000,000.

III. Program Description; Eligible Applicants; Eligible Activities

(A) Program Description

(1) Background. The Healthy Homes Demonstration Program is a part of HUD's Healthy Homes Initiative. The Healthy Homes Initiative (HHI) departs from the more traditional approach of attempting to correct one hazard at a time (e.g., asbestos, radon). In April 1999, HUD submitted to Congress a preliminary plan containing a full description of the Initiative. This description (Summary and Full Report) is available on the HUD website at www.hud.gov.

The HHI builds upon HUD's existing housing-related health and safety issues, including lead hazard control, building structural safety, electrical safety, and fire protection to address multiple childhood diseases and injuries, such as asthma, mold-induced illness, carbon monoxide poisoning, and other conditions, related to housing in a more coordinated fashion. A coordinated effort is feasible because a limited number of building deficiencies contribute to many hazards. Substantial savings are possible using this approach, because separate visits to a home by an inspector, public health nurse, or outreach worker can add significant costs to efforts to eliminate hazards. A description of the HHI program, and a link to the Healthy Homes website, are available at www.hud.gov.

In addition to deficiencies in basic housing facilities that may impact health, changes in the U.S. housing stock and more sophisticated epidemiological methods and biomedical research have led to the identification of new and often more subtle health hazards in the residential environment. While such hazards will tend to be found disproportionately in housing that is substandard (e.g., structural problems, lack of adequate heat, etc.), such housing-related environmental hazards may also exist in housing that is otherwise of good quality. Appendix A to the Healthy Homes (HH) Demonstration program section of the SuperNOFA briefly describes the housing-associated health and injury hazards HUD considers key targets for intervention. Appendix B to the HH Demonstration program section of the SuperNOFA lists the references that serve as the basis for the information provided in this section of the SuperNOFA.

HUD is interested in promoting approaches that are cost-effective and efficient and that result in the reduction of health threats for the maximum number of residents for the long run, and, in particular, for low-income children. Section VI of the General Section of the SuperNOFA presents HUD's FY 2002 Policy Priorities and the text below presents the overall goals and objectives of the HHI:

(a) Mobilize public and private resources, involving cooperation among all levels of government, the private sector, and faith-based and other community-based organizations to develop the most promising, cost-effective methods for identifying and controlling housing-based hazards.

(b) Build local capacity to operate sustainable programs that will prevent and control housing-based hazards in low and very low-income residences when HUD funding is exhausted.

(c) Affirmatively further fair housing and environmental justice.

(2) Healthy Homes Demonstration Activities. Through the Healthy Homes Demonstration program, HUD will initiate competitive projects to promote implementation of available risk reduction techniques for the control of key hazards described in Appendix A. HUD will award demonstration projects that implement housing assessment, maintenance, renovation and construction techniques to identify and correct housing-related illness and injury risk factors, and disseminate healthy homes information and replicate successful interventions.

HUD will evaluate proposals based on the elements described below. Applicants are required to be specific as to the locations where they are targeting their intervention activities to occur, the residents, individuals, or groups targeted to receive interventions, and the organizations targeted to continue to operate effective intervention strategies over the life of the award and thereafter.

Objectives to be addressed by these demonstration projects are:

(a) Identification of target areas and homes where interventions will occur.

(b) Identification and evaluation of effective methods of hazard abatement and risk reduction.

(c) Development of appropriately-scaled, flexible, cost-effective and efficient intervention strategies that take into account the range of conditions likely to be encountered in older housing, and that maximize the number of housing units that receive an intervention.

(d) Development of methodologies for evaluating intervention effectiveness.

(e) Development of local capacity in target areas and target groups to operate sustainable programs to prevent and control housing-based hazards, especially in low and very-low income residences.

(f) Development of a cost-effective protocol for identifying homes that are candidates for interventions, identifying hazards in these homes, and screening out homes where structural or other condition factors (e.g., cost) make interventions infeasible or impractical.

(g) Development and delivery of public outreach programs that provide information about effective methods for preventing housing-related childhood diseases and injuries and for promoting the use of these interventions.

(h) Targeting, through education and outreach, specific high-risk communities and other identified audiences such as homeowners, landlords, health care deliverers, pregnant women, children, residential construction contractors, maintenance personnel, housing inspectors, real estate professionals, home buyers, and low-income minority families.

(i) Implementation of media strategies to use print, radio and television to increase public awareness of housing-related hazards that threaten children.

(j) Dissemination of existing tools and, as needed, new tools to inform parents and caregivers about housing-related hazards and enable them to take prompt corrective action.

(B) Eligible Activities

The following direct activities and support activities are eligible under this grant program.

(1) Direct Project Elements (activities conducted by you and any sub-recipients):

(a) Performing evaluations of eligible housing to determine the presence of housing-based hazards (e.g., mold growth, allergens, unvented appliances, exposed steam pipes or radiators, deteriorated lead-based paint) through the use of generally accepted testing procedures.

(b) Conducting housing interventions to remediate existing housing-based hazards and address conditions that could result in their recurrence. Any lead hazard evaluation and control work shall be conducted by persons qualified for the activities according to 24 CFR part 35, especially sections 13.1325 for abatement and 13.1330 for interim controls. Qualified persons must possess certification as abatement contractors, risk assessors, inspectors, abatement workers, or sampling technicians, or otherwise having been trained in a HUD-approved course in lead-safe work practices. You may refer to the HUD Guidelines for the Evaluation and Control of Lead-Based Paint Hazards in Housing (Guidelines) for additional information. The Guidelines and/or applicable regulations may be downloaded from the Office of Healthy Homes and Lead Hazard Control's homepage, linked to www.hud.gov. All pest control activities shall incorporate the principles and methods of integrated pest management (IPM). In technical terms, IPM is the coordinated use of pest and environmental information with available pest control methods to prevent unacceptable levels of pest damage by the most economical means and with the least possible hazard to people, property, and the environment. (One information source is the University of Minnesota's electronic textbook of Integrated Pest Management, available at http://ipmworld.umn.edu/textbook.htm.)

(c) Undertaking housing rehabilitation activities that are specifically required to carry out effective control of housing-based hazards, and without which the intervention could not be completed and maintained. Grant funds under this program may also be used to control lead-based paint hazards, but such controls may not be a principal focus of the grant.

(d) Carrying out temporary relocation of families and individuals, when necessary, during the period in which intervention is conducted and until the time the affected unit receives clearance for re-occupancy. Residents relocated must be guaranteed the choice of returning to the unit after the intervention.

(e) If medical examinations of young children for conditions caused or exacerbated by exposure to hazards are demonstrated to be critical to the outcome of your project, and there are no alternative sources to cover these costs, conducting such examinations.

(f) Environmental sampling, and medical testing recommended by a physician or applicable occupational or public health agency to protect the health of the intervention workers, supervisors, and contractors, unless reimbursable from another source.

(g) Conducting clearance testing and analysis for lead, mold, carbon monoxide and/or other toxins as appropriate, with respect to generally accepted standards or criteria, or where not available, other appropriate levels justified in conjunction with the project. Clearance dust samples related to lead-based paint must be analyzed by a laboratory recognized by EPA's National Lead Laboratory Accreditation Program (NLLAP). All tests results related to lead-based paint must be provided to the owner of the unit, together with a notice describing the owner's legal duty to disclose the results to tenants and buyers.

(h) Carrying out architectural, engineering and work specification development and other construction management services to control housing-based hazards and remediate existing hazards.

(i) Providing training on safe maintenance practices to homeowners, renters, painters, remodelers, and housing maintenance staff working in low or very-low income housing.

(j) Providing cleaning supplies for hazard intervention and hazard control to faith-based and other community-based organizations for use by homeowners and tenants in low-income housing, or to such homeowners and tenants directly. (See Section VI(E) of the General Section of the SuperNOFA for more information about faith-based and other community-based organizations.)

(k) Conducting general or targeted community education programs on environmental health and safety hazards. This activity would include training on safe maintenance and renovation practices, among other topics. It would also include making materials available, upon request, in alternative formats for persons with disabilities (e.g., Braille, audio, large type), and in languages other than English that are common in the community, whenever possible.

(l) Securing liability insurance for hazard evaluation and control activities to be performed. This activity is not an administrative activity.

(m) Supporting data collection, analysis, and evaluation of project activities.

(n) Maintaining a registry (updated at least monthly) of housing units in which housing-based hazards were not found during evaluation, and those in which such problems and hazards have been controlled. Units on the registry should be given priority for affirmatively marketing to low-income families with young children, and such families should be given preference for occupancy when they are vacant. (If you are selected for an award, HUD will provide specific data requirements for the registry.)

(o) Preparing quarterly progress reports and an overall final grant report detailing activities (e.g., number of units tested, types of interventions provided, evaluation of the most cost-efficient methodologies by type of unit), findings, and recommended future actions for cost-effective interventions, at the conclusion of grant activities.

(2) Support Elements.

(a) Your administrative costs.

(b) Program planning and management costs of sub-grantees and other sub-recipients.

(D) Ineligible Activities

(1) Purchase of real property.

(2) Purchase or lease of equipment having a per unit cost in excess of $5,000, unless prior written approval is obtained from HUD.

(3) Medical treatment costs, except as specified in Section III (C) (1)(e) above.

IV. Program Requirements

In addition to program requirements listed in the General Section of the SuperNOFA, you, the applicant, must comply with the following requirements:

(A) Budgeting—Administrative Costs. There is a 10% maximum for administrative costs, as specified in Section 1011(j) of the Residential Lead-Based Paint Hazard Reduction Act of 1992 (Title X of the Housing and Community Development Act of 1992, Public Law 102-550). Additional information about allowable administrative costs is provided in Appendix C of this NOFA.

(B) Period of Performance. The period of performance cannot exceed 36 months from the time of the award.

(C) Coastal Barrier Resources Act. Pursuant to the Coastal Barrier Resources Act (16 U.S.C. 3501), funds may not be used for properties located in the Coastal Barrier Resources System.

(D) Flood Disaster Protection Act. Under the Flood Disaster Protection Act of 1973 (42 U.S.C. 4001-4128), funds may not be used for construction, reconstruction, repair or improvement of a building or mobile home which is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(E) National Historic Preservation Act. The National Historic Preservation Act of 1966 (16 U.S.C. 470) (NHPA) and the regulations at 36 CFR part 800 apply to the mold intervention and related hazard control activities that are undertaken pursuant to this program. HUD and the Advisory Council for Historic Preservation have developed an optional Model Agreement for use by grantees and State Historic Preservation Officers in carrying out any lead hazard control activities under this program. This must be obtained from the SuperNOFA Information Center at 1-800-HUD-8929.

(F) Waste Disposal. Waste disposal will be handled according to the requirements of the Occupational Health and Safety Administration (OSHA) (e.g., 29 CFR part 1910 and/or 1926, as applicable), the Environmental Protection Agency (EPA) (e.g., 40 CFR parts 61, 260-282, 300-374, and/or 700-799, as applicable), the Department of Transportation (e.g., 49 CFR parts 171-177), and/or appropriate state or local regulatory agencies and applicable EPA, HUD, state and local regulatory agency guidance.

(G) Worker Protection Procedures. You must comply with the requirements of OSHA (e.g., 29 CFR part 1910 and/or 1926, as applicable), or the state or local occupational safety and health regulations, whichever are most stringent.

(H) Written Policies and Procedures. You must have written policies and procedures for all phases of intervention, including evaluation, development of specifications, financing, occupant relocation, independent project inspection, and clearance testing (e.g., for mold, lead, carbon monoxide or other hazards, as applicable). You and all your subcontractors, sub-recipients, and their contractors must comply with these policies and procedures.

(I) Clearance Testing for Lead Hazard Control Activities. Clearance dust testing must be conducted according to the EPA lead hazards standards rule at 40 CFR part 745 for abatement projects and the Lead-Safe Housing rule (24 CFR part 35) for lead hazard control activities other than abatement. These are available at www.epa.gov/lead and www.hud.gov, respectively.

(J) Continued Availability of Safe Housing to Low-Income Families. Units in which housing-based hazards have been controlled under this program shall be occupied by and/or continue to be available to low-income residents for not less than 3 years following the completion of intervention activities.

(K) Environmental Review. You must comply with HUD's regulations in 24 CFR 50.3(h) in carrying out responsibilities regarding environmental review. Recipients of a grant under this NOFA will be given guidance in these responsibilities.

(L) Conducting Business in Accordance with HUD Core Values and Ethical Standards. If awarded assistance under this SuperNOFA, you will be required, prior to entering into a grant agreement with HUD, to submit a copy of your code of conduct and describe the methods you will use to ensure that all officers, employees, and agents of your organization are aware of your code of conduct. See Section II(A)(2) of the General Section of the SuperNOFA for information about conducting business in accordance with HUD's core values and ethical standards.

(M) Relocation. Any person (including individuals, partnerships, corporations or associations) who moves from real property or moves personal property from real property directly (1) because of a written notice to acquire real property, in whole or in part, or (2) because of the acquisition of the real property, in whole or in part, for a HUD-assisted activity, is covered by Federal relocation statute and regulations. Specifically, this type of move is covered by the acquisition policies and procedures and the relocation requirements of the Uniform Relocation Assistance and Real Property Acquisition Policies Act of 1970, as amended (URA), and the implementing government-wide regulation at 49 CFR part 24. The relocation requirements of the URA and the government-wide regulations cover any person who moves permanently from real property or moves personal property from real property directly because of acquisition, rehabilitation or demolition for an activity undertaken with HUD assistance.

(N) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. Refer to the General Section of the SuperNOFA for applicable requirements.

(O) Economic Opportunities for Low- and Very Low-Income Persons (Section 3). Recipients of assistance must comply with Section 3 of the Housing and Urban Development Act of 1968, 12 U.S.C. 1701u (Economic Opportunities for Low- and Very Low-Income Persons in Connection with Assisted Projects) and the HUD regulations at 24 CFR part 135, including the reporting requirements of subpart E. Section 3 requires recipients to ensure that, to the greatest extent feasible, training, employment and other economic opportunities will be directed to (1) low and very low income persons, particularly those who are recipients of government assistance for housing, and (2) business concerns which provide economic opportunities to low and very low-income persons. Frequently Asked Questions (FAQs) about Section 3 requirements are available at www.hud.gov.

(P) Data collection and provision. You must collect, maintain and provide to HUD the data necessary to document the various approaches used to evaluate and control housing-based hazards, including evaluation and control methods, building conditions, medical and familial information (with confidentiality of individually-identifiable information ensured) in order to determine the effectiveness and relative cost of these methods.

(Q) Certifications and Assurances. You must include the certifications and assurances listed in Section II(H) of the General Section of the SuperNOFA with your application. A Certification of Consistency with the Consolidated Plan is not required for this application.

(R) Davis-Bacon Act. The Davis-Bacon Act does not apply to this program. However, if program funds are used in conjunction with other Federal programs in which Davis-Bacon prevailing wage rates apply, then Davis-Bacon provisions would apply to the extent required under the other federal programs.

V. Application Selection Process

(A) Threshold Requirements. Please see Section II(B) of the General Section of this SuperNOFA. As an applicant, you must meet all of the threshold requirements of Section II(B) of the General Section of the SuperNOFA. Applications that meet all of the threshold requirements will be eligible to be scored and ranked based on the total number of points allocated for each of the rating factors described below. Your application must receive a total score of at least 70 points to remain in consideration for funding.

(B) Rating and Ranking. HUD intends to award the highest ranked applications listed in the Programs Section of the SuperNOFA within the limits of funding availability.

(1) In evaluating applications for funding HUD will take into account an applicant's past performance in managing funds, including the ability to account for funds appropriately; timely use of funds received either from HUD or other federal, state or local programs; meeting performance targets for completion of activities and number of persons to be served or targeted for assistance. HUD may use information relating to these items based on information at hand or available from public sources such as newspapers, Inspector General or Government Accounting Office Reports or Findings, hotline complaints that have been proven to have merit, or other such sources of information. In evaluating past performance, HUD may elect to deduct points from the rating score as specified under the Factors for Award or set threshold levels for performance as specified in the funding announcement.

(C) Factors for Award Used to Evaluate and Rate Applications. This section provides the factors for rating and ranking your application and the maximum points for each factor. The maximum number of points to be awarded is 106, including the potential for six bonus points, as defined in paragraphs (1) through (3) of Section III (C) of the General Section of the SuperNOFA. This maximum includes two EZ/EC bonus points, two bonus points for Brownfields Showcase Communities, and two bonus points for the court ordered consideration in the City of Dallas, Texas, as described in Section III(C) of the General Section of the SuperNOFA

Rating Factor 1: Capacity of the Applicant and Relevant Organizational Experience (20 Points)

This factor addresses your organizational capacity necessary to successfully implement your proposed activities in a timely manner. The rating of you or your staff includes any faith-based and other community-based organizations, sub-contractors, consultants, sub-recipients, and members of consortia that are firmly committed to your project. Applicants that are, or propose to, either partner, fund, or sub-contract with grassroots organizations, particularly faith-based and other community-based non-profits in conducting their work programs will receive higher rating points as specified in the Program Section of this SuperNOFA. See Section VI(E) of the General Section of the SuperNOFA for additional information. In rating this factor HUD will consider:

(1) Your recent, relevant and successful demonstrated experience in undertaking eligible program activities. You must describe the knowledge and experience of the proposed overall project director and day-to-day project manager in planning and managing large and complex interdisciplinary programs, especially those involving housing, public health, or environmental programs. In your narrative response for this factor, you should include information on your project staff, their experience, commitment to the project, and position titles. Resumes of up to three (3) pages each and position descriptions for up to three personnel in addition to the project director and project manager, and a clearly delineated organizational chart for your project must be included in an appendix. Copies of job announcements (including salary range) should be included for any key positions that are currently vacant, or contingent upon an award. Indicate the percentage of time that key personnel will devote to your project and any salary costs to be paid by funds from this program. Include descriptions of the experience and qualifications of subcontractors and consultants.

(2) Your qualifications to carry out the proposed activities as evidenced by experience, academic background, training, and/or relevant publications of project staff.

(3) Whether you have sufficient personnel, or will be able to quickly retain qualified experts or professionals to begin your proposed project immediately, and to perform your proposed activities in a timely and effective fashion. Describe how principal components of your organization will participate in, or support, your project. You should thoroughly describe capacity, as demonstrated by experience in initiating and implementing related environmental, health, or housing projects.

Rating Factor 2: Need/Extent of the Problem (15 Points)

This factor addresses the extent to which there is a need for your proposed project activities to address documented problems, target area(s) and target groups.

(1) Document a critical level of need for your proposed activities in the area where activities will be carried out. You should pay specific attention to documenting the need as it applies to your target area(s), rather than the larger geographic area.

(2) Your documentation should summarize available data linking housing-based hazards to disease or injuries to children in your target area(s). Examples of data that might be used to demonstrate need, include:

(a) Economic and demographic data relevant to your target area(s), including poverty and unemployment rates;

(b) Rates of childhood illnesses (e.g., asthma, allergies, hypertension, elevated blood lead levels) or injuries (e.g., falls, burns) among children residing in your target areas that could be caused or exacerbated by exposure to conditions in the home environment; and

(c) Unavailability of other Federal, state or local funding or private sector resources that could be, or are being, used to address the problem.

(3) For the areas targeted for your project activities, provide data available in your jurisdiction's currently approved Consolidated Plan and the Analysis of Impediments to Fair Housing Choice (AI) or derived from current census data or from other sources. All data that address the following should be documented:

(a) The age and condition of housing;

(b) The number and percentage of very-low and low-income families with incomes less than 50% and 80% of the median income, respectively, as determined by HUD, for the area, with adjustments for smaller and larger families. Statistics that describe low and very-low income families are available at www.huduser.org/datasets/il/fmr00/sect82.html. Additional census statistics are available at: www.census.gov/hhes/www/income00.html, www.census.gov/hhes/income/income00/statemhi.html, and www.huduser.org/datasets/il/fmr00/index.html.

(c) To the extent that statistics and other data contained in your community's Consolidated Plan or AI support the extent of the problem, you should include references to the Consolidated Plan or AI in your response.

(d) Data documenting targeted groups that are traditionally underserved or have special needs. If the data presented in your response does not specifically represent your target area, you should discuss why the target areas are being proposed. If your application addresses needs that are in the Consolidated Plan or AI, court orders or consent decrees, settlements, conciliation agreements, and voluntary compliance agreements, you will receive more points than applicants that do not relate their project to an identified need.

Rating Factor 3: Soundness of Approach (45 Points)

This factor addresses the quality and cost-effectiveness of your proposed work plan. You should present information on the proposed approach for addressing housing-based hazards and describe how proposed activities would help HUD achieve its goals for this program area. For you to receive maximum points for this factor, there must be a direct relationship between the proposed activities, community needs, and the purpose of the project. You may find that developing a Logic Model would be useful for this Rating Factor; information about developing a Logic Model is available at: www.hud.gov. The response to this factor should include the following elements:

(1) Approach for Developing the Project (25 points). Describe your overall approach for your proposed project. The description must include a discussion of specific planned project activities that address one or more of the following categories:

(a) Project activities (15 points).

(i) Describe in detail how you will identify, select, prioritize, and enroll units of eligible housing in which you will undertake housing-based hazard interventions, how you will integrate safe work practices into housing maintenance, repair, and improvements, and then target such units to low-income families with young children. You should use all reasonably available sources of information on controlling housing-based hazards in buildings and protecting workers and occupants during and after the intervention process.

(ii) Describe any assessment tools you would employ to establish baseline data.

(iii) Provide the estimated total number of owner occupied and/or rental units in which you will conduct interventions.

(iv) Describe your process for evaluating units of eligible housing in which you will undertake housing-based hazard interventions.

(v) Describe any specialized testing or visual inspection that you will conduct during unit inspection with reference to source(s) of the protocol(s).

(vi) Discuss efforts to incorporate cost-effective methods to address multiple environmental health and safety hazards, and describe the specific interventions you will utilize to control housing-based hazards before children are affected; and/or to control these hazards in units where children have already been treated for illnesses or injuries associated with housing-based hazards (e.g., burns, lead poisoning, asthma).

(vii) Describe the process for your referral of children for medical case management if this is not ongoing.

(viii) Describe your process for the development of work specifications for the selected interventions.

(ix) Describe your management processes to be used to ensure the cost-effectiveness of the housing interventions, and provide cost estimates per intervention and per unit.

(x) Discuss your contracting process to obtain contractors to conduct interventions in selected units.

(xi) Describe your plan for the temporary relocation of occupants of units selected for intervention, if relocation is necessary, and how you will determine the need for relocation. Address the use of safe houses and other housing arrangements, storage of household goods, stipends, incentives, etc. Describe how you will meet relocation requirements.

(xii) Describe your plan for ensuring right of return and/or first referral for occupants of units selected for intervention who have had to move for intervention to occur.

(xiii) Describe how you will affirmatively further fair housing.

(xiv) Describe the financing strategy, including eligibility requirements, terms, conditions, and amounts available, to be employed in conducting housing-based hazards activities. You must discuss the way funds will be administered (e.g., use of grants, deferred loans, forgivable loans, other resources, private sector financing, etc.) as well as the agency that will administer the process.

(xv) Proposed methods of community education. These should include community awareness, education, training, and outreach programs in support of your work plan and objectives that are culturally sensitive, targeted, and linguistically appropriate.

(xvi) Proposed involvement of neighborhood, or faith-based and other community-based organizations in the proposed activities. These activities may include outreach, community education, marketing, inspection, and housing evaluations and interventions.

(xvii) Proposed methods to reach high-risk groups and communities, vulnerable populations and persons traditionally underserved.

(xviii) Indicate if, and describe how, you will address any of HUD's Departmental policy priorities. (See Section VI of the General Section of the SuperNOFA for a fuller explanation of HUD's policy priorities.) Policy priorities that are potentially applicable to the Healthy Homes Demonstration NOFA are: 1) Improving the Quality of Public Housing and Providing More Choices for its Residents; 2) Increasing the Participation of Faith-based and other Community-based Organizations in HUD Program Implementation; and 3) Colonias. You will receive one point for each of the applicable policy priorities that are addressed in your application.

(b) Project Evaluation (10 points). You are required to identify and discuss the specific methods you will use to measure progress towards your goals, track and report results of interventions, and evaluate the effectiveness of interventions:

(i) Discuss the performance goals for your project and identify specific outcome measures;

(ii) Describe how the outcome information will be obtained, documented, and reported.

(2) Approach for Implementing the Project (20 points). Describe your project goals and objectives and the strategy you will use in planning and executing the project. You should provide information on the general approach and overall plan employed.

(a) Baseline Plan for Project Management (10 points). Include a management plan that:

(i) Lists the project objectives, major tasks and activities. All specific activities necessary to complete the proposed project must be included in the task listing;

(ii) Incorporates appropriate performance goals and benchmarks;

(iii) Identifies major milestones and provides a schedule for the assignment, tracking and completion of major tasks and activities, and a timeframe for delivery;

(iv) Designates resources and identifies responsible entities; and

(v) Provides an estimate of per unit (or other appropriate apportionment) costs (and a basis for those estimates) for the type of interventions that are planned.

(b) Budget Justification (5 points). Your proposed budget will be evaluated for the extent to which it is reasonable, clearly justified, and consistent with the project management plan and intended use of program funds. HUD is not required to approve or fund all proposed activities. Your budget should be submitted in the format recommended in Appendix D of this NOFA. An electronic spreadsheet and other budgetary forms are available on HUD's website, at www.hud.gov. You must thoroughly document and justify all budget categories and costs (Part B of Standard Form 424A) and all major tasks, for yourself, sub-recipients, partners, major subcontractors, joint venture participants, or others contributing resources to the project. Describe clearly and in detail your budgeted costs for each required program element (major task) included in your overall plan.

(c) Economic Opportunity (5 points). To the greatest extent feasible, your project should promote job training, employment, and other economic opportunities for low-income and minority residents and businesses which are owned by, and/or employ, low-income and minority residents as defined in 24 CFR 135.5. You should:

(i) Describe how you or your partners will comply with Section 3 of the Housing and Urban Development Act of 1968 (12 U.S.C. 1701u) and HUD's implementing rules at 24 CFR part 135. Describe how you will accomplish this requirement by (1) providing training and employment opportunities for low- and very low-income persons living within the grantee's jurisdiction, and by (2) providing business opportunities to businesses owned by low and very low-income persons living within the grantee's jurisdiction.

(ii) Describe how you or your partners will satisfy the requirements of Section 3 of the Housing and Urban Development Act of 1968 to give preference to hiring low and very low-income persons or contracting with businesses owned by or employing low and very-low income persons. Frequently Asked Questions about Section 3 requirements are available at www.hud.gov.

(iii) Describe how your proposed project will further and support the policy priorities of the Department, including providing opportunities for self-sufficiency, particularly for persons enrolled in welfare-to-work programs; or providing educational and job training opportunities; and

(iv) Describe the extent to which your proposed activities will occur in an Empowerment Zone or Enterprise Community (EZ/EC), Urban Enhanced Enterprise Community (EEC), Strategic Planning Community or Renewal Community, Brownfields Showcase Community, or the City of Dallas, Texas as defined in Section III(C)(1) through (3) of the General Section of the SuperNOFA.

Rating Factor 4: Leveraging Resources (10 Points)

This factor addresses your ability to secure other community resources (such as financing, supplies or services) that can be combined with HUD's resources to achieve project purposes.

(1) In evaluating this factor, HUD will consider the extent to which you have partnered with other entities to secure additional resources to increase the effectiveness of your proposed project. Describe how other organizations will participate in or support your project. Resources may include funding or in-kind contributions (such as services or equipment) allocated to your proposed project. Resources may be provided by state and local governmental entities, public or private organizations, or other entities willing to be your partner in this effort.

(2) Each source of contributions (financial or in-kind) must be supported by a letter of commitment from the contributing entity, whether a public or private source, which must describe the contributed resources that will be used in your project. Staff in-kind contributions should be given a market-based monetary value. If you fail to provide letters of commitment with specific details including the amount of the actual contributions, you will not get rating points for this factor. Each letter of commitment, memorandum of understanding, or agreement to participate shall include the organization's name and the proposed level of commitment and responsibilities as they relate to the proposed project. The commitment must be signed by an official legally able to make commitments on behalf of the organization.

Rating Factor 5: Coordination, Self-Sufficiency and Sustainability (10 Points)

This factor consists of three elements:

(1) The extent to which you have coordinated your activities with other known organizations that are not directly participating in your proposed work activities, but with which you share common goals and objectives and are working toward meeting these objectives in a holistic and comprehensive manner. Applicants that are, or propose to, either partner, fund, or sub-contract with grassroots organizations, particularly faith-based and other community-based non-profits in conducting their work programs will receive higher rating points as specified in the Program Section of this SuperNOFA. See Section VI(E) of the General Section of the SuperNOFA for additional information about faith-based and other community-based organizations.

(a) Describe your plan for integrating and coordinating housing-based hazard interventions with other housing-related activities (e.g., rehabilitation, weatherization, removal of code violations, and other similar work).

(b) Describe your plans to consolidate housing-based hazard interventions with applicable housing codes and health regulations.

(c) Describe your plans to generate and use public subsidies or other resources (such as revolving loan funds) to finance future interventions to prevent and control housing-based hazards, particularly in low and very low-income housing.

(d) Detail the extent to which you will ensure that the needs of minorities and persons with disabilities will be addressed adequately during your intervention activities; and that housing in which hazards have been addressed will remain available and affordable in the long run for low-income, minority, large families, and for persons with disabilities.

(2) The extent to which your application implements practical solutions within the grant term to result in assisting beneficiaries of grant program funds in achieving independent living, economic empowerment, educational opportunities, housing choice or improved living environments;

(3) The extent to which your program exhibits the potential to be financially self-sustaining by decreasing dependence on federal funding and relying more on state, local and private funding so your activities can be continued after your grant award period is completed.

(D) Applicant Debriefing. See Section VII (E)(2) of the General Section of the SuperNOFA for information about applicant debriefing.

VI. Application Submission Requirements

(A) Applicant Information. You should submit your application in accordance with the format and instructions contained in this program section of this SuperNOFA. The following is a checklist of required application contents. Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard forms” are listed in the Checklist and Submission Table of Contents provided in Appendix D of this NOFA and are available electronically at www.hud.gov. The items are as follows:

(1) Transmittal letter (one-page only) that summarizes your proposed project, provides the dollar amount requested, and identifies you and your partners in the application.

(2) The name, mailing address, and telephone number of the principal contact person. If you are a consortium of associates, sub-recipients, partners, major subcontractors, joint venture participants, or others contributing resources to the project, similar information shall also be provided for each of these entities and you must specify the primary entity.

(3) Checklist and Submission Table of Contents.

(4) Standard Forms SF-424, 424A (Section B), 424B (Assurances/Non-Construction Programs), 424M, Total Budget (Federal Share and Matching).

(5) HUD-2880 (Disclosure and Update Report); HUD 2990 (Certification of Consistency with EZ/EC Strategic Plan); HUD 2992 (Certification regarding Debarment and Suspension); HUD 50070 (Certification for a Drug-Free Workplace); HUD 50071 (Certifications of Payments to Influence Federal Transactions); Form SF-LLL Disclosure of Lobbying Activities, where applicable. A Certification of Consistency with the Consolidated Plan is not required for this application.

(6) Application Abstract. An abstract describing the goals and objectives of your proposed program (2-page maximum) must be included in the proposal.

(7) A narrative statement addressing the rating factors for award. The narrative statement must be numbered in accordance with each factor for award (Rating Factors 1 through 5). The response to the rating factors must not exceed a total of 25 pages (12 point font with 1 inch margins). Any pages in excess of this limit will not be read. (The 25-page limit does not apply to the two-page abstract.)

(8) Any attachments, appendices, references, or other relevant information that directly support the narrative may accompany it, but must not exceed twenty (20) pages (12 point font with 1 inch margins) for your entire application. Any pages in excess of this limit will not be read. Specific criteria for the content of the appendices for the Healthy Homes Demonstration Program grant application are listed in the Checklist and Submission Table of Contents. (See Appendix D of this NOFA.)

(9) A detailed budget with supporting cost justification for all budget categories of your funding request, in accordance with Rating Factor 3, element (2)(b). This information will not be counted towards the page limits. A detailed budget must also be provided for any subcontractors, subgrantees, or subrecipients receiving greater than 10% of the Federal budget request.

(10) The resumes and position descriptions of your project director and project manager and up to three additional key personnel (in accordance with Rating Factor 1), not to exceed three pages each (12-point font with 1-inch margins). This information is to be included in Appendix 1 and will not be counted towards the page limit.

VII. Corrections to Deficient Applications

The General Section of the SuperNOFA provides the procedures for corrections to deficient applications.

VIII. Environmental Requirements

Activities assisted under this program are subject to HUD environmental review to the extent required under 24 CFR part 50. An award under the Healthy Homes Initiative does not constitute approval of specific sites where activities may be carried out. Following award execution, HUD will perform environmental reviews for activities to be carried out on properties proposed by your organization. You may not rehabilitate, convert, repair or construct a property, or commit or expend program funds or non-HUD funds for these program activities for any eligible property, until you receive written notification from the appropriate HUD official that HUD has completed its environmental review and the property has been approved. The results of environmental reviews may require that proposed activities be modified or proposed sites rejected.

IX. Authority

The authority for this program is Sections 501 and 502 of the Housing and Urban Development Act of 1970 and the Departments of Veterans Affairs and Housing and Urban Development, and Independent Agencies Appropriations Act, 2002, Public Law 107-73, approved November 26, 2001.

Appendix A

The following briefly describes the housing-associated health and injury hazards HUD considers key targets for intervention. More information about housing-associated health and injury hazards is available at the Healthy Homes Initiative website, linked to www.hud.gov.

Allergens and asthma: Experts estimate that 14 million Americans have asthma, with an associated annual cost of $14 billion. Asthma is now recognized as the leading cause of school and work absence, emergency room visits and hospitalization. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50% of inner-city housing and affect 5-15% of the population, whereas dust mite appears to be the dominant allergen in other environments.

Interventions known to have beneficial effects include installation of impervious mattress and pillow covers, which can reduce allergen exposure by 90%. Other dust mite control measures include dehumidification, laundering bedding, and removal of carpets and other dust sinks. Cleaning carpets with tannic acid solution has also been demonstrated to greatly reduce dust mites. Asthma prevention program costs have been estimated at about $500 per unit, which includes about $150 for educational interventions. Additional information is available in HUD's research topic paper, “Healthy Homes Issues: Asthma” available at the Resources, Technical Resources link of HUD's Healthy Homes Initiative website, linked to www.hud.gov.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes: in pipe and furnace insulation materials, asbestos shingles, millboard, textured paints and other coating materials, and floor tiles. Elevated concentrations of airborne asbestos can occur when asbestos-containing materials (ACM) are disturbed by cutting, sanding or other remodeling activities. Improper attempts to remove these materials can release asbestos fibers into the air in homes, increasing asbestos levels and endangering people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACM usually involves either sealing (encapsulation) or covering (enclosure) it. Repair is usually cheaper than removal, but it may make later removal of asbestos more difficult and costly. Repairs should be done only by a professional, trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys; cracked or disconnected flue pipe; dirty filters; rust or cracks in the heat exchanger; soot or creosote build-up; and exhaust or gas odors. Installing a carbon monoxide detector is also recommended; however, such a detector will not detect other combustion by-products.

Insect and rodent pests: The observed association between exposure to cockroach antigen and asthma severity has already been noted above. In addition, cockroaches may act as vehicles to contaminate and environmental surfaces with certain pathogenic organisms. Rodents can transmit a number of communicable diseases to humans, either through bites, arthropod vectors, or exposure to aerosolized excreta. In addition, humans can become sensitized to proteins in rodent urine, dander and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and use of traps. In technical terms, Integrated Pest Management (IPM) is the coordinated use of pest and environmental information with available pest control methods to prevent unacceptable levels of pest damage by the most economical means and with the least possible hazard to people, property, and the environment. (One information source is the University of Minnesota's electronic textbook of Integrated Pest Management, available at http://ipmworld.umn.edu/textbook.htm.)

Lead: Exposure to lead, especially from deteriorating lead-based paint, remains one of the most important and best studied of the household environmental hazards to children. Although blood lead levels have fallen nationally, a large reservoir of lead remains in housing. The most recent national survey, conducted from 1991-94, showed that nearly one million U.S. preschoolers still have elevated blood lead levels. Overall, the prevalence rate among all children under six years of age is 4.4%. Among low-income children living in older housing where lead-based paint is most prevalent, the rate climbs to 16%; and for African-American children living in such housing, it reaches 21%.

HUD estimates that 38 million dwellings have some lead-based paint, and that 26 million have significant lead-based paint hazards. Of those, about 5.7 million have young children and of those, about 1.6 million have household incomes under $30,000 per year. Costs for Lead Hazard Control can range anywhere from $500 to $15,000 per unit. Corrective measures include paint stabilization, enclosure and removal of certain building components coated with lead paint, and cleanup and “clearance testing,” which ensures the unit is safe for young children.

Mold and moisture: An analysis of several pulmonary disease studies estimates that 25% of airways disease, and 60% of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities. Additional information is available in HUD's research topic paper, “Healthy Homes Issues: Mold” available at the Resources, Technical Resources link of HUD's Healthy Homes Initiative website, linked to www.hud.gov.

The cost of mold/moisture-related intervention work (e.g., integrated pest management, clean and tune furnace, remove debris, vent clothes dryer, cover dirt floor with impermeable vapor barrier) is a few hundred dollars, unless major modification of the ventilation system is needed. For example, in Cleveland, mold interventions, including repairs to ventilation systems and basement flooring, in the most heavily contaminated homes range from $500—$5,000, with some costs also being dedicated to lead hazard control simultaneously through its Lead+Asthma program.

Pesticide residues: According to the EPA, 75 percent of U.S. households used at least one pesticide product indoors during the past year. Products used most often are insecticides and disinfectants. Another study suggests 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years old, almost one-half stored at least one pesticide product within reach of children. Exposure to chlorpyriphos (CP), a commonly used organophosphate insecticide, in the prenatal and early postnatal period may impair neurodevelopment. While CP is a biodegradable pesticide, substantial persistence of CP in house dust has been demonstrated. Exposure to high levels of cyclodiene pesticides, commonly associated with misapplication, has produced various symptoms, including headaches, dizziness, muscle twitching, weakness, tingling sensations, and nausea. In addition, EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well developed, and the Environmental Protection Agency (EPA) recommends that every home be measured for radon. EPA estimates that materials and labor costs for radon reduction in an existing home are $800-$2500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing before leaving work, or immediately after arriving home. Once a home becomes contaminated, cleaning floors and contact surfaces and replacing furnishings may be necessary to reduce exposures.

Unintentional injuries/fire: Unintentional injury is now the leading cause of death and disability among children younger than 15 years of age. In 1997, nearly 7 million persons in the United States were disabled for at least 1 full day by unintentional injuries received at home. During the same year, 28,400 deaths were attributable to unintentional home injuries, of which 1800 occurred among children 0-4 years of age. Among young children, three types of events accounted for more than \3/4\ of deaths: fires/burns, drownings, and mechanical suffocation. Falls and poisoning are the next most common.

Home visitation protocols have been shown to be effective in reducing exposure to such hazards. The “add-on” cost of injury prevention measures, when combined with other housing interventions are estimated at about $100 per unit. This includes the cost of some injury prevention devices, such as smoke alarms, electrical socket covers, etc.

Appendix B

References: To secure any of the documents listed, call the listed telephone number (generally, the telephone numbers are not toll-free). A number of these references are provided on HUD's CD, “Residential Lead Desktop Reference, 3rd Edition.” This CD is available at no charge from the National Lead Information Clearinghouse, 1-800-424-LEAD.

Regulations

1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without charge from www.osha_slc.gov/OshStd_data/1910_1025.html.

—Lead Exposure in Construction, 29 CFR 1926.62, and appendices A, B, C, and D (Document Number 869022001141). Can be downloaded from the Internet without charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without charge from www.epa.gov/docs/epacfr40/chapt-I.info/subch-I.htm.

3. Lead; Requirements for Lead-Based Paint Activities in Target Housing and Child-Occupied Facilities; Final Rule: 40 CFR Part 745, (EPA) (Lead Hazard Standards, Work Practice Standards, EDP and State Certification and Accreditation programs for those engaged in lead-based paint activities)—Telephone: 1-202-554-1404 (Toxic Substances Control Act Hotline) (not a toll-free number). Can be downloaded from the Internet without charge from www.epa.gov/lead.

GUIDELINES

1. Guidelines for the Evaluation and Control of Lead-Based Paint Hazards in Housing; HUD, June 1995, and amended September, 1997. (available for a charge)—Telephone: 800-245-2691. Can be downloaded from the Internet without charge from www.hud.gov/offices/lead.

2. Preventing Lead Poisoning in Young Children; Centers for Disease Control, October 1991: Telephone: 888-232-6789. Can be downloaded from the Internet without charge from www.hud.gov/offices/lead.

3. Screening Young Children for Lead Poisoning: Guidance for State and Local Public Health Officials, November 1997; Centers for Disease Control and Prevention (CDC): Telephone: 888-232-6789. Can be downloaded from the Internet without charge from www.hud.gov/offices/lead.

REPORTS

1. Putting the Pieces Together: Controlling Lead Hazards in the Nation's Housing, (Summary and Full Report); HUD, July 1995 (available for a charge)—Telephone 800-245-2691. Can be downloaded from the Internet without charge from www.hud.gov/offices/lead.

2. The Healthy Homes Initiative: A Preliminary Plan (Summary and Full Report); HUD, July 1995. Can be downloaded from the Internet without charge from www.hud.gov/offices/lead.

3. Institute of Medicine. Indoor Allergens. Assessing and Controlling Adverse Health Effects. National Academy Press. Washington, D.C. 1993.

4. Mott L., Our Children at Risk. Natural Resources Defense Council. Washington, D.C. 1997. Can be ordered from the Internet from www.nrdc.org

5. Rom W.N., Ed. Environmental and Occupational Medicine. Little, Brown and Co., Boston. 1992.

6. President's Task Force on Environmental Health Risks and Safety Risks to Children. Asthma and The Environment: An Action Plan to Protect Children. Washington, D.C. 1999. Eliminating Childhood Lead Poisoning: A Federal Strategy Targeting Lead Paint Hazards. Washington, D.C., 2000. Can be downloaded from the Internet without charge from www.epa.gov/children.

Appendix C

Administrative Costs

I. Purpose

The intent of this HUD grant program is to allow the Grantee to be reimbursed for the reasonable direct and indirect costs, subject to a top limit, for overall management of the grant. In most circumstances the Grantee, whether a state or a local government, is expected to serve principally as a conduit to pass funding to sub-grantees, which are to be responsible for performance of the lead-hazard reduction work. Congress set a top limit of ten (10) percent of the total grant sum for the Grantee to perform the function of overall management of the grant program, including passing on funding to sub-grantees. The cost of that function, for the purpose of this grant, is defined as the “administrative cost” of the grant, and is limited to ten (10) percent of the total grant amount. The balance of ninety (90) percent or more of the total grant sum is reserved for the sub-grantee/direct-performers of the lead-hazard reduction work.

II. Administrative Costs: What They Are Not

For the purposes of this HUD grant program for States and local governments to provide support for the evaluation and reduction of lead-hazards in low and moderate-income, private target housing: the term “administrative costs” should not be confused with the terms “general and administrative cost”, “indirect costs”, “overhead”, and “burden rate”. These are accounting terms, usually represented by a government-accepted standard percentage rate. The percentage rate allocates a fair share of an organization's costs that cannot be attributed to a particular project or department (such as the chief executive's salary or the costs of the organization's headquarters building) to all projects and operating departments (such as the Fire Department; the Police Department; the Community Development Department, the Health Department or this program). Such allocated costs are added to those projects' or departments' direct costs to determine their total costs to the organization.

III. Administrative Costs: What They Are

For the purposes of this HUD grant program, “Administrative Costs” are the Grantee's allowable direct costs for the overall management of the grant program plus the allocable indirect costs. The allowable limit of such costs that can be reimbursed under this program is ten (10) percent of the total grant sum. Should the Grantee's actual costs for overall management of the grant program exceed ten (10) percent of the total grant sum, those excess costs shall be paid for by the Grantee. However, excess costs paid for by the Grantee and may be shown as part of the requirement for cost-sharing funds to support the grant.

IV. Administrative Costs: Definition

A. General

Administrative costs, are the allowable, reasonable, and allocable direct and indirect costs related to the overall management of the HUD grant for lead-hazard reduction activities. Those costs shall be segregated in a separate cost center within the Grantee's accounting system, and they are eligible costs for reimbursement as part of the grant, subject to the ten (10) percent limit. Such administrative costs do not include any of the staff and overhead costs directly arising from specific sub-grantee program activities eligible under Section III(B) of this Healthy Homes Demonstration NOFA, because those costs are eligible for reimbursement under a separate cost center as a direct part of project activities.

The Grantee may elect to serve solely as a conduit to sub-grantees, who will in turn perform the direct program activities eligible under NOFA Section III(B), or the grantee may elect to perform all or a part of the direct program activities in other parts of its own organization, which shall have their own segregated, cost centers for those direct program activities. In either case, not more than 10 percent of the total HUD grant sum may be devoted to administrative costs, and not less than 90% of the total grant sum shall be devoted to direct program activities. Grantee shall take care not to mix or attribute administrative costs to the direct project cost centers.

B. Specific

Reasonable costs for the Grantee's overall grant management, coordination, monitoring, and evaluation are eligible administrative costs. Subject to the ten (10) percent limit, such costs include, but are not limited to, necessary expenditures for the following, goods, activities and services:

(1) Salaries, wages, and related costs of the Grantee's staff, the staff of affiliated public agencies, or other staff engaged in Grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The Grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; (However, a more general education program, helping the public understand the nature of lead hazards, lead hazard reduction, blood-lead screening, and the health consequences of lead poisoning is a direct project support activity).

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to overall grant management such as overall-grant legal services, overall-grant accounting services, and overall-grant audit services;

(4) Other costs for goods and services required for and directly related to the overall management of the grant program, including such goods and services as telephone, postage, rental of equipment, renter's insurance for the program management space, utilities, office supplies, and rental and maintenance (but not purchase) of office space for the program.

(5) The fair and allocable share of Grantee's general costs that are not directly attributable to specific projects or operating departments such as: The Mayor's and City Council's salaries and related costs; the costs of the City's General Council's office, not charged off to particular projects or operating departments; and the costs of the City's Accounting Department not charged back to specific projects or operating departments. (If Grantee has an established burden rate it should be used; if not Grantee shall be assigned a negotiated provisional burden rate, subject to final audit.)

Appendix D

Forms: The non-standard forms, which follow, are required for your Healthy Homes Demonstration application. They are the Checklist and Submission Table of Contents and the Total Budget (Federal Share and Matching Contribution, including instructions).

BILLING CODE 4210-32-P

FUNDING AVAILABILITY FOR THE BROWNFIELDS ECONOMIC DEVELOPMENT INITIATIVE (BEDI)

PROGRAM OVERVIEW

Purpose of the Program. BEDI funds are used to enhance the security of a loan guaranteed by HUD under Section 108 of the Housing and Community Development Act of 1974, as amended, for the same project, or to improve the viability of a project financed with the Section 108-guaranteed loan. HUD intends to make available approximately $26 million in BEDI funds along with almost $3 million in unobligated Economic Development Initiative (EDI) funds, totaling approximately $29 million that will be available in FY 2002 to stimulate economic development by local governments and private sector parties in brownfields.

HUD desires to see BEDI funds (as defined in Section III (A)(1) below) and Section 108 funds used to finance projects and activities in brownfields that will provide near-term results and demonstrable economic benefits, such as job creation and increases in the local tax base. A BEDI grant must be used in conjunction with a new Section 108 guaranteed loan commitment. In FY 2002, HUD seeks to increase economic development opportunity throughout the country and promote energy efficient projects.

Available Funds. Approximately $29 million, as further described in Section II below. The maximum amount of any BEDI grant award this year will be $2 million per project.

Eligible Applicants. Only units of general local government eligible for assistance under the Community Development Block Grant (CDBG) program may apply for a BEDI grant and a Section 108 Guaranteed Loan. CDBG-eligible urban counties may also apply for funding, but units of general local government which participate in the Urban County may not submit an application independent of the Urban County. (See Section III(B) below for additional information regarding eligible applicants.)

Application Deadline. July 9, 2002.

ADDITIONAL INFORMATION

If you are interested in applying for funding under this program, please review carefully the General Section of this SuperNOFA and the following additional information.

I. Application Due Date, Application Kits, Further Information, and Technical Assistance

Application Due Date. Please submit your completed applications (one original and three copies) on or before July 9, 2002, to the addresses shown below.

Application Submission Procedures. New Security Procedures. HUD has implemented new security procedures that apply to application submission. Please read the following instructions carefully and completely. HUD will not accept hand delivered applications. Only a limited number of express delivery services have access to the Robert C. Weaver, HUD Headquarters Building. All applications to field offices, homeownership centers and program hubs must be delivered by the United States Postal Service (USPS). Applications sent to the Robert C. Weaver Building may be mailed using the United States Postal Service or may be shipped via the following delivery services: United Parcel Service (UPS), FedEx, DHL, or Falcon Carrier. No other delivery services are permitted into the Robert C. Weaver Building without escort. To avoid potential delivery problems, therefore, you must use one of the four carriers listed above. For purposes of this program section to the SuperNOFA, delivery by the approved services must be made during HUD's business hours, i.e., between 8:30 AM and 5:30 PM Eastern time, Monday through Friday. If one of these companies does not serve your area, you should submit your application via the USPS.

Mailed Applications. Your application will be considered timely filed if it is postmarked on or before 12:00 midnight of the application due date and received by the designated HUD office by or within fifteen (15) days of the application due date. All applicants must obtain and save a Certificate of Mailing (PS Form 3817) showing the date when the application was submitted to the USPS. The Certificate of Mailing will be your documentary evidence that the application was timely filed. The Certificate of Mailing is available from the USP.

Applications Sent by Overnight/Express Mail Delivery To HUD Headquarters. An application sent by overnight delivery or express mail to HUD Headquarters will be considered by HUD as timely filed if it is received before or on the application due date, or if documentary evidence is provided that the application was placed in transit with the overnight delivery/express mail service by no later than the application due date.

Applications to HUD Field Offices. Applications submitted to HUD Field Offices must be mailed via the United States Postal Service. At the same time the application and copies are submitted to HUD Headquarters, an additional copy should be submitted to the Community Planning and Development Division of the appropriate HUD Field Office for the applicant's jurisdiction.

Addresses for Submitting Applications. To HUD Headquarters. Submit your completed application (an original and two copies) by mail or permitted delivery service to: Processing and Control Unit, Room 7251, Office of Community Planning and Development, Department of Housing and Urban Development, 451 Seventh Street, SW, Washington, D.C. 20410, Attention: BEDI.

When submitting the application, please specify BEDI on any label or mailing container, and include the applicant's name, mailing address (including zip code), street address (if different from mailing address) and zip code, and voice and facsimile telephone numbers (including area code), along with the contact person's name and voice and facsimile telephone numbers (including area code).

For Application Kits. To request an Application Kit and any supplemental information, please call HUD's SuperNOFA Information line toll free at 1-800-HUD-8929. When requesting an Application Kit, please refer to BEDI. Please be sure to provide the applicant's name, address (including zip code), and telephone number (including area code), along with the name and phone number of your contact person. Persons with hearing or speech impairments may call the Center's TTY number at 1-800-HUD-2209 to obtain an application kit. The Application Kit will also be available on the Internet through the HUD web site at http://www.hud.gov.

For Further Information and Technical Assistance. Contact Lisa Peoples, Economic Development Specialist, Office of Economic Development, Department of Housing and Urban Development, 451 Seventh Street, SW, Room 7140, Washington, DC 20410, telephone (202) 708-0614 ext. 4456 (this is not a toll-free number). Persons with speech or hearing impairments may access this number via TTY by calling the toll-free Federal Information Relay Service at 1-800-877-8339. Before the application due date, HUD staff will be available to provide you with general guidance and technical assistance about this BEDI NOFA. However, HUD staff are not permitted to assist in preparing your BEDI application. Following selection of applicants, but before awards are made, HUD staff are available to assist in clarifying or confirming information that is a prerequisite to the offer of an award by HUD. In addition, the Section 108 Loan Guarantee program is not a competitive program and therefore is not subject to those provisions of the HUD Reform Act pertaining to competitions that do not permit HUD staff to assist in the preparation of applications. HUD staff are available to provide advice and assistance to develop your Section 108 loan application.

Applicant Debriefing. Beginning not less than 30 days after the awards for assistance are announced, HUD will, upon receiving written request from the applicant, provide a debriefing to the requesting applicant. Information provided during a briefing will be the applicant's final scores for each rating factor, final evaluator comments for each rating factor, and the final assessment indicating the basis upon which assistance was provided or denied. Applicants requesting to be debriefed must send a written request to the contact person for the BEDI program, Ms. Lisa Peoples, at the address listed in the preceding paragraph.

Satellite Broadcast. HUD will hold an information broadcast via satellite for potential applicants to learn more about the program and preparation of BEDI application(s). For more information about the date and time of the broadcast, you should consult the HUD web site at http://www.hud.gov.

II. Amount Allocated

HUD has available a maximum of $29,008,155 for grant awards under this program section. This amount consists of $25 million in appropriations under “Brownfields Redevelopment” heading in the Fiscal Year 2002 HUD Appropriations Act, $1,065,000 of unobligated appropriated funds from the Fiscal Year 2001 HUD Appropriations Act under the “Brownfields Redevelopment” heading, and $2,943,155 in funds originally appropriated for awards under the competitive Economic Development Initiative (EDI) program under the Fiscal Year 2000 HUD Appropriations Act. All such funds are authorized by Section 108(q) of the Act (as defined below). Consequently there will be no separate competition for EDI funds this year, and all of these funds are being made available by HUD for the purpose of assisting public entities in the redevelopment of brownfields. The maximum amount of a BEDI award under this competition is $2 million per project. If any additional funds become available for the BEDI program during Fiscal Year 2002, HUD may either fund additional applicants in accordance with this program section of the SuperNOFA, or may add these funds to funds available for future competitions pursuant to Section 108(q) of the Act.

III. Program Description; Eligible Applicants; Eligible Activities

(A) Program Description. BEDI is designed to help cities redevelop abandoned, idled, or underutilized industrial and commercial facilities where expansion or redevelopment is complicated by real or perceived environmental contamination, i.e., brownfields. BEDI provides funding to local governments to be used in conjunction with Section 108 loan guarantees to finance redevelopment of brownfields sites. A BEDI grant award will be conditioned upon, and must be used in conjunction with, a new Section 108-guaranteed loan commitment. Both Section 108 loan guarantee proceeds and BEDI grant funds are initially made available by HUD to units of general local government eligible for assistance through either HUD's Entitlement or State and Small Cities segments of the Community Development Block Grant program. Such public entities may re-loan the Section 108 loan proceeds and provide BEDI funds to a business or other entity to carry out an approved brownfield economic development project, or the public entity may carry out the eligible project itself, as provided in the approved application. In either case, BEDI grant funds and the 108 proceeds must be used to support the same eligible project.

(1) Definitions. Unless otherwise defined herein, terms defined in 24 CFR part 570 and used in this program section of this SuperNOFA shall have the respective meanings given thereto in that part.

Act means Title I, Housing and Community Development Act of 1974, as amended (42 U.S.C. 5301 et seq.).

Application means a single set of documents submitted by an eligible applicant for BEDI grant funds, in accordance with the provisions of this program section of the SuperNOFA to finance a brownfield economic development project. A BEDI application must be accompanied by a Section 108 loan guarantee request, which may consist of either a brief summary of the proposed use of 108 funds, or a full application, which may either be submitted at the same time as the BEDI application or be provided within 60 days of BEDI grant award, as more fully explained in Section IV(C) of this program section. Note that the Section 108 application must be submitted to the appropriate HUD field office concurrently with its submission to Headquarters.

Brownfields means abandoned, idled, or under-used real property (including industrial and commercial facilities) where expansion or redevelopment is complicated by real or perceived contamination.

Brownfields Economic Development Initiative (BEDI) funds means the appropriated funds made available for the competition under this program section from any available BEDI or EDI appropriation.

Brownfields Economic Development Initiative (BEDI) project means an activity or activities (including mixed use projects with housing components) that are eligible under Section 108(q) of the Act and under 24 CFR 570.703, and that increase economic opportunity for persons of low- and moderate-income or that stimulate or retain businesses or jobs or that otherwise lead to economic revitalization in connection with brownfields.

CDBG funds means those funds collectively so defined at 24 CFR 570.3, including grant funds received pursuant to Section 108(q) and this program section of this SuperNOFA.

Economic Development Initiative (EDI) grant means the provision of economic development grant assistance under Section 108(q) of the Act, as authorized by Section 232 of the Multifamily Housing Property Disposition Reform Act of 1994 (Pub.L. 103-233, approved April 11, 1994).

EPA means the U.S. Environmental Protection Agency.

Firm Commitment means either a written agreement or letter of understanding by which an applicant and/or a third party:

(1) Agrees to perform an activity specified in the application, and demonstrates its relationship to the proposed BEDI/Section 108 project;

(2) Specifies the amount of the commitment, and demonstrates that it has the financial and organizational capacity to deliver the resources necessary to successfully complete the activity; if the committed activity is to be self-financed, the third party must evidence its financial capacity through a corporate or personal financial statement or other appropriate means; and

(3) Irrevocably commits the resources to the activity either through cash or in-kind services or contributions; if any portion is to be financed through a grant or loan from another public or private organization, that institution's grant or loan commitment must be firmly committed as well.

Any such agreement or letter of understanding shall be understood as being contingent upon receipt of the BEDI grant.

In order for an applicant's commitment of CDBG funds to be accepted by HUD as additional financing for a BEDI project, a resolution from the local governing body (e.g., city/borough council) authorizing the amount and permitted use(s) of the funds must be provided. Each agreement or letter of commitment must include the organization's name and proposed total level of commitment (including how the value was determined) and responsibilities as they relate to the proposed BEDI project. The commitment must be signed by an official of the organization legally authorized to make commitments on behalf of the organization, and remain in effect for a period stated in the commitment.

Grassroots organization means any such organization as defined in Section VI (E)(2) of the General Section of the SuperNOFA above.

Showcase Community means an applicant chosen by the Federal Government's Brownfields National Partnership for inclusion in the Federal Government's Brownfields Showcase Communities program. (See Section III(C)(2) of the General Section of the SuperNOFA) for advice on locating a list of Showcase communities.)

Strategic Plan means a strategy developed and agreed to by the nominating local government(s) and State(s) and submitted in partial fulfillment of the application requirements for an Empowerment Zone or Enterprise Community designated pursuant to 24 CFR part 597 or part 598.

(2) Background. HUD has multiple programs which are intended to stimulate economic and community development and promote economic revitalization of distressed areas, and which can be effectively employed to address and remedy brownfields conditions. Primary among HUD's resources are the Community Development Block Grant (CDBG) program and the Section 108 loan guarantee program.

(a) The CDBG program provides grant funds ($4.341 billion in FY 2002) by formula to local governments (either directly or through States) to carry out community and economic development activities. The Section 108 loan guarantee program provides CDBG-recipient communities with a source of financing for economic development, public facilities, and other eligible large scale physical development projects. HUD is authorized pursuant to Section 108 to guarantee notes issued by CDBG entitlement communities and non-entitlement units of general local government eligible to receive funds under the State CDBG program. The Section 108 program is subject to the regulations of 24 CFR part 570 applicable to the CDBG program as described in 24 CFR part 570, subpart M. BEDI grants must support Section 108 loan guarantees as generally described in this program section of this SuperNOFA.

(b) For FY 2002, the Section 108 program is authorized at $608,696,000 in loan guarantee authority. The full faith and credit of the United States is pledged to the payment of all guarantees made under Section 108. Under this program, communities (and States, as applicable) pledge their continuing CDBG allocations as security for loans guaranteed by HUD. The Section 108 program, however, does not require CDBG funds to be escrowed for loan repayment (unless such an arrangement is specifically negotiated as loan security and included in the applicable “Contract for Loan Guarantee Assistance.”) This means that a community can ordinarily continue to spend its existing allocation for other CDBG purposes, unless needed for loan repayment.

(3) EDI Program. The EDI authorization, Section 108(q) of the Act, was enacted in 1994 and is intended to complement and enhance the Section 108 Loan Guarantee program. $2,943,155 in FY 2000 EDI appropriations is being made available under this program section of the SuperNOFA, conditioned on their award and use for brownfields economic development projects in accordance with this program section. A purpose of EDI (and BEDI) grant funds is to reduce grantees' potential loss of future CDBG allocations:

(a) By strengthening the economic feasibility of a project financed with Section 108 funds (and thereby increasing the probability that the project will generate enough cash to repay the guaranteed loan);

(b) By directly enhancing the security of the Section 108-guaranteed loan; or

(c) Through a combination of these or other risk mitigation techniques.

(4) BEDI Program. In the FY 2002 HUD Appropriations Act, Congress has made a specific appropriation of $25 million as authorized by Section 108(q) of the Act to assist in financing brownfields redevelopment, which funds are being made available under this program section along with $1,065,000 in unobligated funds appropriated for FY 2001 for brownfields redevelopment.

HUD intends all the funds available pursuant to this program section of the SuperNOFA to be used for purposes of the redevelopment of brownfields sites. Accordingly, BEDI funds shall be used as the stimulus for local governments and private sector parties to commence redevelopment or continue phased redevelopment efforts on brownfields sites where contamination is known or suspected and a redevelopment plan exists. HUD desires to see BEDI and Section 108 funds used to finance projects and activities that will provide near-term results and demonstrable economic benefits, such as job creation and increases in the local tax base. HUD does not encourage applications whose scope is limited only to site acquisition and/or remediation (i.e., land banking), where there is no immediately planned redevelopment.

(5) Integration of Other Government Brownfields Programs. HUD expects and encourages local governments which are designated through (a) the Federal Government's Brownfields Showcase Community program, (b) other Federal brownfields programs (e.g., EPA's Assessment Pilot, Tax Incentive, or Revolving Loan Fund programs), (c) a State-supported brownfields program, or (d) a State or local related economic development program, to integrate efforts arising from those programs in developing projects for assistance under HUD's BEDI and Section 108 programs. Applicants should elaborate upon these ties in their response to the rating factors, where appropriate (e.g., “Capacity of the Applicant,” “Soundness of Approach,” “Leveraging Resources,” or “ Coordination, Self-Sufficiency and Sustainability”—Rating Factors 1, 3, 4, and 5 respectively.)

(6) Additional Security for Section 108 Loan Guarantee. Public entities should be mindful of the need to provide additional security for the Section 108 loan guarantee pursuant to 24 CFR 570.705(b)(3). Although a public entity is required by the Act to pledge its current and future CDBG funds as security for the Section 108 loan guarantee, the public entity will usually be required to furnish additional collateral. In most cases, the additional collateral consists (in whole or in part) of the asset financed with the Section 108 loan funds (e.g., a loan made to a business as part of an economic development project). Applications proposing uses for BEDI funding that directly enhance the value of the assets securing the Section 108 loan will help ensure that the project-based asset(s) will satisfy the additional collateral requirements.

(7) Uses of BEDI Funds. Provided that proposals are consistent with other CDBG requirements, including meeting National Objectives and activity eligibility requirements under § 570.703 of the Section 108 Loan Guarantee regulations, the following are illustrative of ways in which BEDI funds can be used to support 108-guaranteed loans:

(a) Land Writedowns. Local governments may use a combination of Section 108 and BEDI funds to acquire a brownfield site for purposes of reconveying the site to a private developer at a discount from its purchase price. This approach would provide the developer with an asset of enhanced value that could be used as collateral for other sources of funding. Such other sources of financing could be used to finance environmental remediation or other development costs. In theory, the level of BEDI assistance could approximate the difference between the original cost of the site and its remediation in comparison to the market value of the remediated property.

(b) Site Remediation Costs. Local governments may use BEDI funds in any of several ways to address site remediation costs. If the local government proposes to use Section 108 funds to acquire real property, BEDI funds could be used to address assessment and site remediation costs as part of demolition, clearance, or site preparation activities. If the local government uses Section 108 funds to make a loan to a developer, BEDI funds could be granted or loaned to the developer for the purpose of addressing remediation costs as part of an economic development activity.

(c) Funding Reserves. The cash flow generated by an economic development project may be expected to be relatively “thin” in the early stages of the project, i.e., potentially insufficient to meet operating expenses and debt service obligations. The BEDI grant can make it possible for reserves to be established in a way that enhances the economic feasibility of the project.

(d) Over-Collateralizing the Section 108 Loan. The use of BEDI grant funds may be structured in appropriate cases to improve the likelihood that project-generated cash flow will be sufficient to cover debt service on the Section 108 loan directly and therefore enhance the security of the guaranteed loan. One technique for accomplishing this approach is over-collateralization of the Section 108 loan.

The creation of a loan pool funded with both Section 108 and BEDI grant funds, for example, would provide loans to various businesses from the combined pool at an interest rate equal to or greater than the rate on the Section 108 loan. The total loan portfolio could then be pledged to the repayment of the Section 108 loan.

(e) Direct Enhancement of the Security of the Section 108 Loan. The BEDI grant can be used to cover the cost of providing credit enhancements for the Section 108 loan. For example, the BEDI grant can be used to cover the cost of a standby letter of credit, issued in favor of HUD. This letter of credit will be available to fund amounts due on the Section 108 loan if other sources fail to materialize, and thus will serve to protect the public entity's future CDBG funds.

(f) Provision of Financing to For-Profit Businesses at a Below Market Interest Rate.

While the rates on loans guaranteed under Section 108 are only slightly above the rates on comparable U.S. Treasury obligations, they may nonetheless be higher than can be afforded by businesses, non-profit groups or public entities in severely economically distressed neighborhoods. The BEDI grant can be used to make Section 108 financing affordable by serving to “buy down” the interest rate up front, or make full or partial interest payments. This might increase the financial viability of the businesses or other entities in the early start-up period, which might not otherwise be possible with Section 108 alone. This strategy would be particularly useful where a community was undertaking a large commercial or retail project in a brownfield area in order to act as a catalyst for other development in the area.

(g) Combination of Techniques. A combination of the above could be employed to implement a BEDI project successfully.

(B) Eligible Applicants. (1) Any public entity eligible to apply for Section 108 loan guarantee assistance in accordance with 24 CFR 570.702 may apply for BEDI grant assistance under Section 108(q). Eligible applicants are CDBG entitlement units of general local government and non-entitlement units of general local government eligible to receive loan guarantees under 24 CFR part 570, subpart M. Urban Counties, as defined at 24 CFR 570.3 and 570.307, are eligible applicants for BEDI funds; units of general local government that participate in an Urban County program are not independently eligible applicants. For non-entitlement applicants other than those subject to 24 CFR 570, subpart F, applicants will be required to provide evidence in the application from an authorized official of the State agency responsible for administering the State CDBG program stating that it will support the related Section 108 loan with a pledge of its CDBG funds pursuant to the requirements of 24 CFR 570.705(b)(2). Such evidence shall take the form of the HUD Certification titled “SECTION 108 LOAN GUARANTEES: State Certifications Related to Nonentitlement Public Entities” included in this program section to the SuperNOFA, or which may be obtained either by downloading from the Internet or in the BEDI Application Kit to be published shortly after publication of this SuperNOFA. Note that effective January 25, 1995, non-entitlement public entities in the State of Hawaii are authorized to apply to HUD for Section 108 loans (see 59 FR 47510, December 27, 1994). Thus non-entitlement public entities in all 50 states and Puerto Rico are eligible to participate in the Section 108 and BEDI programs.

(2) Applicants for BEDI projects must comply with the threshold requirements of Section II of the General Section of the SuperNOFA.

(C) Eligible Activities and National Objectives. (1) BEDI grant funds and Section 108 loan guarantee funds may be used for activities listed at 24 CFR 570.703, provided such activities are carried out as part of a BEDI project as described in this program section of the SuperNOFA. You are required to submit applications that seek funding for BEDI projects that will contribute to the redevelopment and revitalization of brownfields. Applications that fail to meet the threshold requirements found in Section II(B) of the General Section of the SuperNOFA and the program requirements of this section will not be rated, ranked, or otherwise considered by HUD.

(2) Each activity assisted with Section 108 loan guarantee or BEDI funds must meet a national objective of the CDBG program as described in 24 CFR 570.208. Applicants must clearly identify in their narrative statement (as described in Section V(B) of this program section below) the CDBG national objective to be achieved by the proposed project and provide the appropriate CDBG national objective regulatory citation found at 24 CFR 570.208. Applicants must also address, when applicable, how the proposed activities will comply with the public benefit standards of the CDBG program as reflected in the regulation at 24 CFR 570.209 for the Entitlement and Small Cities programs, or 24 CFR 570.482 for the State CDBG program.

(3) A grantee's aggregate use of its CDBG funds, including any Section 108 loan guarantee proceeds and Section 108(q) (BEDI) funds provided pursuant to this program section of the SuperNOFA, must comply with the CDBG primary objective requirements as described in Section 101(c) of the Act and 24 CFR 570.200(a) (3) for entitlement grantees, or 570.484 in the case of a recipient under a State's program.

(4) Applicants are reminded of the Department's Policy Priorities for FY 2002 found in SectionVI of the General Section of the SuperNOFA, several of which apply to this program section, as described below, under Rating Factors 3 and 5 in Section V of this program section.

IV. Program Requirements

(A) CDBG Program Regulations. In addition to 24 CFR 570.701 (Definitions), § 570.702 (Eligible applicants), and § 570.703 (Eligible activities), as explained in Section III (C) of this program section of the SuperNOFA, the CDBG regulatory requirements cited in 24 CFR 570.707, including subparts J (Grant Administration), K (Other Program Requirements), and O (Performance Reviews) govern the use of BEDI funds, as applicable.

(B) Compliance with Applicable Laws. Applicants are advised that an award of BEDI funding does not in any way relieve the applicant or third party users of BEDI funds from compliance with all applicable Federal, State and local laws, particularly those addressing the environment. Applicants are further advised that HUD may require evidence that any project involving remediation has been or will be carried out in accordance with applicable law, including voluntary clean up programs.

(C) Related Section 108 Loan Guarantee Request. (1) Each BEDI application must be accompanied by a request for new Section 108 loan guarantee assistance. The request may take any of the four forms as defined below. Notwithstanding the form of your request for new Section 108 loan guarantee assistance under paragraphs (a), (b), (c), or (d) below of this Section IV(C), you must include citations to the specific regulatory subsection supporting activity eligibility and National Objectives compliance for the Section 108 funds described in your application. (See Section III(C) of this program section of the SuperNOFA.) Both the BEDI and Section 108 funds must be used in conjunction with the same BEDI project.

(a) A full application for new Section 108 loan guarantee(s), including the documents listed at 24 CFR 570.704(b).

(b) A brief description (not to exceed three pages) of the project to be applied for in a subsequent new Section 108 loan guarantee application(s). Such a 108 application(s) will be submitted within 60 days of written notice of BEDI selection. BEDI awards will be conditioned on approval of actual Section 108 loan commitments in a specific ratio of BEDI funds to Section 108 funds as approved by HUD in the BEDI award. The application description must be sufficient to support the basic eligibility of the proposed project and activities for Section 108 assistance. (See Section III(C) of this program section of the SuperNOFA.)

(c) A copy of a pending, unapproved Section 108 loan guarantee application, and any proposed amendments to the Section 108 application which are related to the BEDI application. The applicant's submission of such a BEDI/Section 108 application shall be deemed by HUD to constitute a request to suspend separate processing of the Section 108 application. The Section 108 application will not be approved until on or after the date of the related BEDI award.

(d) A request for Section 108 loan guarantee assistance (analogous to Section IV(C)(1)(a) or (b) of this BEDI section of the SuperNOFA) that proposes to increase the amount of a previously approved application. However, any amount of Section 108 loan guarantee authority approved before HUD's announcement of a BEDI grant for the same project is not eligible to be used in conjunction with a BEDI grant under this program section.

(2) Further, a Section 108 loan guarantee amount that is required to be used in conjunction with a prior EDI or BEDI grant award, whether or not the Section 108 loan guarantee has been approved as of the date of this SuperNOFA, is not eligible for a BEDI award under this SuperNOFA. For example, if a public entity has a previously approved Section 108 loan guarantee commitment of $12 million, even if none of the funds have been utilized, or if the public entity had previously been awarded a BEDI grant of $1 million and had agreed to submit a Section 108 loan application for $10 million in support of that BEDI grant, the public entity's application under this program section of this SuperNOFA must propose to increase the amount of its total Section 108 loan guarantee commitments beyond those amounts (the $12 million or $10 million in this example) to which it has previously agreed.

(D) Prohibitions on Use of BEDI and Section 108 Funds. Certain restrictions shall apply to the use of BEDI and Section 108 funds:

(1) BEDI grant funds must not be used as a resource to immediately repay the principal of a loan guaranteed under Section 108. Repayment of principal is only permissible with BEDI grant funds as a matter of security if other sources projected for repayment of principal prove to be unavailable.

(2) Section 108 loan obligations may not be subordinated, directly or indirectly, to federally tax exempt obligations. Pursuant to Office of Management and Budget (OMB) Circular A-129 (Rev.) Appendix A, Sections II. 2.c. and d., (Policies for Federal Credit Programs and Non-Tax Receivables), Section 108 guaranteed loan funds may not directly or indirectly support federally tax-exempt obligations.

(3) BEDI grant funds shall not be used in any manner by grantees to provide public or private sector entities with funding to remediate conditions caused by their own actions, where the public entity (or other known prospective beneficiary of the proposed BEDI grant) has been determined responsible for causation and remediation by order of a court or a Federal, State, or local regulatory agency, or is responsible for the remediation as part of a settlement approved by such a court or agency.

(4) Applicants may not propose projects on sites which are listed or proposed to be listed on EPA's National Priority List (NPL). Further, applicants are cautioned against proposing projects on sites where the nature and degree of environmental contamination is not well quantified or which are the subject of on-going litigation or environmental enforcement action.

(5) Your attention is called to Section I (D) of the General Section of the SuperNOFA, which notes that the FY 2001 HUD Appropriations Act prohibits the use of funds appropriated under such Act from being used to benefit a facility whose predominant use is the sale of tobacco. See that section for more details.

(6) In addition, BEDI grant assistance cannot be used to leverage a Section 108 loan guarantee approved prior to the date of HUD's announcement of a BEDI grant pursuant to this SuperNOFA. However, the BEDI grant may be awarded before HUD approval of the Section 108 commitment if HUD determines that such award will further the purposes of the Act.

(7) A BEDI award will not be made if the Section 108 request contained in the application (See Section IV(C) of this program section) calls for the use of the Section 108-guaranteed obligation solely as security for other financing on the project.

(A) Time-frames. BEDI grant awards will contain conditions requiring grantees to adhere to time-frames mutually agreed on by the applicant/grantee and HUD for implementing proposed projects and drawing Section 108 and BEDI funds. However, as a condition of any award under this program section, if the related Section 108 application has not been submitted and approved and the Note guaranteed within fifteen (15) months of written HUD notification of grant award, HUD may deobligate the BEDI funds. In addition, if a grantee should fall fifty percent (50%) or more behind both the stated activity and draw-down schedules provided for in the BEDI grant agreement within the first eighteen (18) months of the grant period, and for each quarter thereafter, HUD may recapture the balance of the grant funds (unless HUD has authorized an amendment to the stated schedules in writing, in which case the aforementioned 50% calculation would apply to the amended and approved schedules). If BEDI grant funds and Section 108 loan proceeds are not disbursed to the applicant within the timeframes specified in the BEDI Grant Agreement, HUD reserves the right to recapture the BEDI funds.

(F) Limitations on Grant Amounts. (1) HUD expects to approve BEDI grant amounts for approvable applications with a range of ratios of BEDI grant funds awarded to new Section 108 loan guarantee commitments but the minimum ratio will be $1.00 of Section 108 loan guarantee commitments for every $1.00 of BEDI grant funds. However, if you propose a leverage ratio of exactly 1:1, your application, while still meeting the threshold requirement, will not receive any points under the Rating Factor 4, paragraph (1): “Leverage of Section 108 Funds.”

To receive points under this Factor, applications will have to exceed the 1:1 minimum ratio, and the higher the ratio, the more points will be awarded. Because the proposed ratio of BEDI funds to Section 108 funds represents an applicant's financial commitment, HUD will condition the BEDI grant award on the grantee's achievement of that specific ratio. Its failure to meet that condition by obtaining timely HUD approval of a commitment for, and issuance of, the required Section 108 guaranteed obligations ratio will result in the cancellation and recapture of all or a proportionate share of the BEDI grant award.

(2) HUD will cap BEDI awards at a maximum of $2 million per project. An application in excess of $2 million will be reduced to the extent HUD determines that such a reduction is appropriate.

(3) After selection, but prior to grant award, if HUD determines that an application can be funded at a lesser BEDI grant amount than requested and still be feasible and consistent with the proposed plan and the purposes of the Act, it reserves the right to reduce the amount of the BEDI award and/or increase the required Section 108 loan guarantee commitment.

(4) In the event you are awarded a BEDI grant that has been reduced below the original request (e.g., your application contained some activities that were ineligible, exceeded the $2 million cap, or there were insufficient funds to fund the last competitive application at the full amount requested), you will be required to modify your project plans and application to conform the terms of HUD approval before HUD will execute a grant agreement.

(5) HUD also will proportionately reduce or deobligate the BEDI award if you do not submit an approvable Section 108 loan guarantee application and issue Section 108-guaranteed obligations on a timely basis (including any extension authorized by HUD) in the amount required by the BEDI/108 leveraging ratio, which will be approved by HUD as a special condition of the BEDI grant award (see Section IV(E)(1) above of this program section of the SuperNOFA).

(6) Any modifications or amendments to your application approved pursuant to this SuperNOFA, whether requested by you or by HUD, must be within the scope of the approved original BEDI application in all respects material to rating the application, unless HUD determines that your revised application remains within the competitive range and is otherwise approvable under this SuperNOFA competition.

(7) In the case of a requested increase in guarantee assistance for a project with a previously approved Section 108 loan guarantee commitment (as further discussed in Section IV(C)(1)(d), above), the BEDI assistance approved will be based on the increased amount of Section 108 loan guarantee assistance.

(G) Timing of Grant Awards and Disbursements. (1) To the extent you submit a full and complete Section 108 application with the BEDI grant application, HUD will evaluate your Section 108 application immediately following the competition for BEDI grant funds. Note that the 108 application must be submitted to the appropriate HUD field office concurrently with submission to Headquarters.

(2) HUD's notice to you of the amount and conditions of BEDI funds awarded, based upon review of the BEDI application, constitutes an obligation of grant funds, subject to compliance with the conditions of award and execution of a grant agreement. However, BEDI funds must not be disbursed to the grantee before the issuance of the related Section 108 guaranteed obligations.

(3) Pursuant to the FY 2002 HUD Appropriations Act (Pub. L. 107-73, under the “Brownfields Redevelopment” heading) and 31 U.S.C. 1552(a), FY 2002 BEDI funds must be obligated (i.e., awarded) by HUD by September 30, 2003, and must be disbursed by HUD to the grantee by September 30, 2008. FY 2000 EDI funds must be obligated by September 30, 2002, and must be disbursed by HUD to the grantee by September 30, 2007. FY 2001 BEDI funds are not subject to statutory obligation or disbursement deadlines. In all cases, however, HUD reserves the right to require earlier disbursement under a BEDI grant agreement.

(H) Economic Opportunities for Low and Very Low-Income Persons, including Those with Disabilities. Section 3 of the Housing and Urban Development Act of 1968 (12 U.S.C. 1701u) is applicable to BEDI grant recipients. Please see Section II(E) of the General Section of the SuperNOFA.

(I) Nondiscrimination. In addition to the other requirements found in Section II of the General Section of this SuperNOFA, Section 109 of the Housing and Community Development Act of 1974, as amended (42 U.S.C. 5309), is applicable to BEDI grant recipients. Applicants must therefore adhere to HUD regulations at 24 CFR parts 6 and 570, including, but not limited to, reporting and record-keeping requirements under 24 CFR 570.506 and 570.507, and must have resolved to HUD's satisfaction any letter of noncompliance findings under Section 109 before the deadline for BEDI application submission.

(J) Obligation to affirmatively further fair housing. Grantees that use BEDI funds in projects that involve the construction, rehabilitation, or other provision of residential housing are obliged to affirmatively further fair housing. Therefore, applicants that propose to use BEDI funds in projects that involve residential housing must include in their applications an explanation of how they propose to further fair housing opportunities for persons on the basis of race, color, national origin, sex, religion, familial status, or disability. Applicants should respond to this requirement under Rating Factor 3, subfactor (1). Affirmative activities include, but are not limited to, initial and periodic assessments of the extent to which affordable and accessible housing opportunities are provided or denied to persons by race, color, national origin, sex, religion, familial status, or disability; outreach to persons in underserved population groups or advocacy organizations representing such persons; and affirmatively fair marketing. Applicants that do not propose to use BEDI funds in projects that involve residential housing should include a statement to this effect in their applications.

(K) Core Values—your attention is called to Section II(B)(2) of the General Section of the SuperNOFA.

(L) Small Businesses—another of HUD's goals, to increase the participation of small and disadvantaged, including women-owned, businesses, if possible, is described more particularly in Section II(F) of the General Section of the SuperNOFA.

V. The Application Selection Process

(A) Rating and Ranking.

(1) Each rating factor and the maximum number of points are provided below. The maximum number of points to be awarded is 106. To be eligible for funding, a BEDI application must obtain a total score of at least 70 points, of which a minimum of 40 points (out of a maximum possible score of 60 points) must be achieved in Rating Factors 1 (Capacity) and 3 (Soundness of Approach) combined.

(2) All applications meeting BEDI program and threshold requirements will be rated under the selection criteria below. Applications must include citations to the specific regulatory subsections supporting eligibility of activities and compliance with National Objectives. (See Section III(C) of this program section of this SuperNOFA). The applicant must also provide narrative statements in response to each of the rating factors below.

Applications will be selected for funding as follows:

(3) All BEDI grant applications that meet threshold requirements will be ranked separately in order of points assigned with the applications receiving more points ranked above those receiving fewer points.

(4) In the event two or more applications are given the same score, but there are insufficient funds to fund all of the tied applications, the application(s) with the highest score(s) on Rating Factor 3 (Soundness of Approach) shall be selected. If there is still a tie, the following Factors will be considered sequentially, with the application having the high score on that Factor taking precedence until the tie is broken: Rating Factor 1 (Capacity and Experience), Rating Factor 2 (Distress/Extent of the Problem), Rating Factor 4 (Leveraging Resources), and Rating Factor 5 (Coordination, Self-Sufficiency and Sustainability).

(5) Fundable BEDI project applications must meet the threshold requirements stipulated in Section II(B) of the General Section of this SuperNOFA and be complete as required by the submission requirements of this program section of the SuperNOFA or they will not be ranked. Economic development projects will be funded in rank order until the total aggregate amount of the applications funded is equal to the maximum amount available in the competition (subject to the limitations described in Section IV(F) above).

(B) BEDI Narrative Statement

(1) Applications must contain narrative statements printed in 12 point type, with sequentially numbered pages for the entire application, including forms and exhibits. The BEDI narrative statement must not exceed three (3) 8.5″ by 11″ pages, doubled-spaced. The BEDI narrative statement should:

(a) Describe the activities that will be carried out with the BEDI grant funds, and explain the nature and extent of the brownfield problem(s) affecting the the site and/or structure(s) already on the site; and

(b) Describe how the proposed uses of BEDI funds will meet the National Objectives under 24 CFR 570.208 of the CDBG program and qualify as eligible activities under 24 CFR 570.703. Applications must include citations to the specific regulatory subsections supporting eligibility of activities and compliance with National Objectives. (See Section III(C) of this program section of this SuperNOFA).

(2) The applicant must also provide in narrative form responses to each of the rating factors below.

(C) Factors for Award Used to Evaluate and Rate Applications. HUD will evaluate all applications for funding assistance based on the following factors, the responses to which demonstrate the quality of the proposed project or activities, and the applicant's capacity and commitment to use the BEDI funds in accordance with the purposes of the Act.

(D) Responses to Rating Factors 1-5 below shall not exceed fifteen (15) double-spaced pages combined.

Rating Factor 1: Capacity of the Applicant and Relevant Organizational Experience (25 Points Maximum)

This factor addresses the extent to which you have the organizational resources necessary to successfully implement the proposed activities in a timely manner. The rating of the “applicant” or the “applicant's organization and staff” will include any subcontractors, consultants, and sub-recipients that are firmly committed (see definition in Section III(A)(1) above) to participate in the activities described in the application. In rating this factor, HUD will consider the following:

(1) (up to 15 points) The applicant should demonstrate that it has the organization, the staff and financial resources in place to implement the specific steps required to successfully carry out its proposed BEDI/Section 108 project. Evidence of this capacity includes:

(a) Performance in the administration of its CDBG, HOME or other HUD programs;

(b) Performance, if any, in carrying out economic development projects similar to that proposed, including brownfields economic development or redevelopment projects, if any, and the ability to conduct prudent underwriting, if applicable;

(c) Ability to carry out projects and programs in a timely manner. An applicant must address its performance in spending previously awarded funds, if any, in a timely manner, including, for CDBG entitlement recipients, the extent to which it has met the HUD standard of having no more than 1.5 times its entitlement amount undisbursed (see 24 CFR 570.902(a)(1)(i)); and,

(d) If applicable, capacity to manage projects and funds awarded as a result of a federal Empowerment Zone/Enterprise Community designation (including Enhanced Enterprise Community (EEC) designation).

(e) An applicant that has previously received an EDI or BEDI grant award must describe the status of the implementation of those project(s) assisted with EDI or BEDI funds, any delays that have been encountered and the actions it is taking to overcome any such delays in carrying out the project(s) in a timely manner. For such previously funded EDI or BEDI grant projects, HUD will award more rating points for applications providing evidence of achievement of specific measurable outcomes in carrying out approved activities funded with such grant funds and the associated Section 108-guaranteed loan funds.

If any of the rating criteria listed under (a) through (e) above do not apply to an application, the rating for this subfactor (1) shall be based solely upon the other applicable criteria.

(2) (up to 10 points) Experience and performance of subrecipients, nonprofit organizations and other entities, if any, that have a role in implementing the proposed BEDI/108 program should be included in the response to this subfactor (2). If there are no third parties participating with the applicant in the proposed project, points under this subfactor (2) will be allocated under subfactor (1) and added to the maximum points possible under it.

Experience will be judged in terms of recent (i.e., within the past 3 years) and successful performance of activities relevant to those proposed in the BEDI application. The more recent and extensive the experience, the greater the number of points that will be awarded for this Factor.

In responding to sections (1) and (2) above of this Factor, applications that merely summarize the amount of funds received/spent/under management will receive fewer points than those providing specific measurable information on accomplishments.

In addition to the application, HUD also may rely on information at hand or available from public sources such as newspapers, from performance and/or monitoring reports, Inspector General or Government Accounting Office reports or findings, hotline complaints that have been proven to have merit, audit reports and other available information in rating this Factor.

Rating Factor 2: Distress/Extent of the Problem (20 Points Maximum)

This Factor addresses the extent to which there is need for funding the proposed activities based on levels of distress in both the jurisdiction of the public entity that is the applicant and the geographic area that will benefit from the project. In responding to this Factor, applications will be evaluated on the extent to which the level of distress is documented and compared with national data.

(1) In applying this Factor, HUD will consider current levels of distress defined in standard geographic terms in the area (i.e., Census Tract(s) or Block Groups immediately surrounding the project site up to a radius of one-half mile), or it may be the target area proposed to be served by the project, along with the jurisdiction in which the project is to be located. The applicant should describe the nature of the distress that the project is designed to address and the rationale for its definition of the area to be benefited. Examples of project beneficiaries include: (a) those receiving or using products or services produced by the project, and (b) those employed by the project.

To the extent that the applicant's Consolidated Plan, its Analysis of Impediments to Fair Housing choice (AI), and/or its Anti-Poverty Strategy found therein identify the level of distress in the jurisdiction and the neighborhood in which the project is to be carried out, references to such documents should be included in preparing the response to this Factor.

Notwithstanding the above, an applicant proposing a project to be located outside the area for which benefit is claimed could still receive points under this Factor if a clear rationale is provided linking the proposed project location and the benefits to be derived by persons living in the target area.

(2) Applicants should provide data that address the following specific indicators of distress:

(a) Poverty rate (up to 8 points)—data should be provided in both absolute and percentage form (i.e., whole numbers and percents) for both the target area and the applicant's jurisdiction as a whole; an application that compares the local poverty rate in the following manner to the national average at the time of submission will receive points under this section as follows:

(i) Equal to or greater than, but less than twice, the national average: 2 points;

(ii) Equal to or greater than twice, but less than three times, the national average: 5 points;

(iii) Equal to or greater than three times the national average: 8 points.

(b) Unemployment (up to 8 points)—an application that compares the local unemployment rate for the applicant's jurisdiction and the target area in the following manner to the national average at the time of submission will receive points under this Section as follows:

(i) Equal to or greater than, but less than twice, the national average: 2 points;

(ii) Equal to or greater than twice, but less than three times, the national average: 4 points;

(iii) Equal to or greater than three times, but less than four times, the national average: 6 points;

(iv) Equal to or greater than four times the national average: 8 points.

(c) Other Indicators of social and/or economic decline that best capture the applicant's local situation (up to 4 points)—examples that could be provided under this section include information demonstrating the target area and the jurisdiction's stagnant or falling tax base, including recent (within the last three years) commercial or industrial closings, downturns or layoffs; housing conditions, such as the number and percentage of substandard and/or overcrowded units; rent burden (defined as average housing cost divided by average income) for both the target area and jurisdiction; local crime statistics.

HUD requires use of sound and reliable data (e.g., U.S. Census data, State statistical reports, university studies/reports that are verifiable) to support distress levels cited in each application. A source for all information along with the publication or origination date must also be provided. Updated Census data are available as follows for the listed indicators:

Unemployment rate—estimated monthly for counties, with a two-month lag;

Poverty rate—estimated every two years, with a three-year lag, with 2000 being the most recent available.

In rating applications under this Factor, HUD reserves the right to consider sources of available objective data other than, or in addition to, those provided by applicants, in order to compare such data to those provided by applicants.

Rating Factor 3: Soundness of Approach (35 Points Maximum)

This factor addresses the quality and cost-effectiveness of the proposed plan. The relationship between the proposed eligible activities, community needs and purposes of the program funding must be clearly described, as follows, in order to receive points for this Factor. In rating this Factor, HUD will consider the following:

(1) Consistency/appropriateness of proposed activities with identified needs. (Up to 8 points)—The extent to which the proposed plan for use of BEDI grant/Section 108-guaranteed loan funds will address the needs described in Rating Factor 2 above regarding the distress and extent of the problem in the target area or area to be benefited. The applicant should provide a clear and quantified explanation of this relationship. As part of the response to this Factor, an applicant should also identify the specific eligible activities it will carry out, and should fully describe:

(a) How the project will achieve one of the National Objectives under the Community Development Block Grant program, and

(b) How the project will address the applicant's Consolidated Plan and its Analysis of Impediments, if any, including the following issues:

(i) Affordable housing—the extent to which the applicant will offer current residents of the proposed site or area that will benefit from the proposal an opportunity to relocate to environmentally healthy housing or neighborhoods which have more amenities and services, better employment and educational opportunities, and to housing that provides the accessibility and visitability features that families require, or to remain in the revitalized neighborhood, if applicable; and

(ii) The extent to which it will be used to accommodate people with disabilities.

(2) Feasibility and Demonstrable Benefits. (Up to 15 points)—The extent to which the plan is logical, feasible and likely to achieve its stated purpose. HUD's desire is to fund projects and activities that will quickly produce demonstrable results and advance the purposes of the BEDI program. Points for this subfactor will be awarded in two parts, for the following:

(a) Understanding of Steps to Implement. (Up to 8 points)—The extent to which the plan demonstrates a clear understanding of the steps required to implement the project, including the actions that all parties responsible for implementing the project must complete.

(i) Pre-construction—the extent to which your response to this Factor takes into account site selection, planning, and environmental issues typical of many brownfields remediation efforts will be considered under this subfactor. You are cautioned, for example, against proposing projects on sites where the nature and degree of environmental contamination is not well-quantified or that are the subject of on-going litigation or environmental enforcement. Moreover, sites with unknown or exceptionally expensive contamination problems may be beyond the scope of the BEDI program's financial resources, and sites subject to pending and current litigation may not be available for remediation and development or redevelopment in a time-frame consistent with HUD's desire for rapid progress in the use of BEDI and Section 108 funds.

(ii) Description of problem and solution—the applicant should explain each undertaking and the sequence of undertakings that are required to complete the project. This includes a full description of both the problem (including, but not limited to, the extent of environmental contamination) and the benefits that will accrue from the project, i.e., permanent jobs, amount of commercial or industrial space, housing units to be provided, and the timing of the delivery of benefits. For multi-phase projects, the response to this Factor must clearly delineate the different phases, whether or not they are to be funded by BEDI/Section 108 funds, as well as a proposed schedule for drawing down all funds necessary to complete the project, including BEDI and Section 108 funds.

(iii) Monitoring performance—the extent to which applications describe means of assessing progress, tracking performance goals and achievements against Plan objectives.

(b) Timeliness (Up to 7 points)—The extent to which the plan demonstrates that the project is “ready to go”, i.e., will produce demonstrable benefits within a short period of time.

(i) Applications providing evidence that authority necessary to proceed with the project activities identified in subfactor (a) above, such as any necessary zoning classification, waivers, general and special use permits, assessment district designation, public easements and rights-of way, memoranda of understanding, site control, etc., have been sought and/or received will receive up to three (3) points for this subfactor (i).

(ii) The applicant should provide a specific time schedule (with both beginning and end dates) for carrying out the project and identify measurable objectives (acquisition, site improvements, construction, etc.) to be accomplished. (Up to 2 points)

A timeline form is provided in Appendix A to this program section of the NOFA and also in the Application Kit for this purpose, but HUD will consider the timeline only as an illustration of the narrative response to this subfactor (2).

(iii) BEDI applications accompanied by a full and complete Section 108 application will receive up to two (2) points for this subfactor (iii).

(3) Financial Feasibility/Need (up to 10 Points)—The extent to which the applicant demonstrates that its project is financially feasible based on its proposed use of BEDI and Section 108 funds. In responding to this subfactor (3), the applicant must clearly address the question of why the BEDI funds are critical to the success of this project by providing the following items, as applicable:

(a) Project costs and financial requirements—a funding sources and uses statement, as well as the derivation of project costs;

(b) How the BEDI and Section 108 funds will be used;

(c) The applicant's criteria for determining funding need and feasibility;

(4) Other (Up to 2 Points)—

(a) The extent to which the project demonstrates energy-efficient solutions to the problems addressed in Rating Factor 2 above, in the construction and/or the operation phases once the overall project is completed. Examples of such conservation and/or other efficiencies include the following: combining heat and power systems as part of electrical generation; adopting Department of Energy weatherization guidelines for property rehabilitation; and purchasing Environmental Protection Agency-identified Energy Star appliances. (Up to 1 point)

(b) Applications providing evidence of partnership, funding and/or subcontracting agreements with grassroots organizations, as defined in Section II(F)(2) of the General Section of the SuperNOFA, will receive up to one (1) point under this subfactor (b).

Rating Factor 4: Leveraging Resources (15 Points Maximum)

In evaluating this factor, HUD will consider the extent to which the response demonstrates the likelihood that the project will leverage both Section 108 loan and other public or private funds as part of the total project resources. This factor has two subfactors, each with its own maximum point total:

(1) Leverage of Section 108 funds. (Up to 8 points)—

The minimum ratio of Section 108 funds to BEDI funds in any project may not be less than 1:1. The extent to which the proposed project leverages an amount of Section 108 funds greater than a 1:1 ratio will result in that application's receiving a higher number of points. If the application has a ratio of 1:1, it will not receive any points under this subfactor. The higher the ratio of additional new Section 108 funds to BEDI funds proposed in an application, the more points it will receive under this subfactor. (See Section IV(F)(1) and (5) of this program section of the SuperNOFA regarding the conditioning of BEDI awards on achievement of a specific BEDI/Section 108 leveraging ratio.)

(2) Leverage of Other Financial Resources. (Up to 7 points)—

HUD will evaluate the extent to which other funds (public or private) are leveraged by BEDI grant funds, and the extent to which such other funds are firmly committed to the project. This could include the use of CDBG funds, other federal or state grants or loans, local general funds, project equity or commercial financing provided by private sources or funds from non-profits or other sources. Funds will be considered committed to the project if they meet the definition of “Firm Commitment” found in Section III(A)(1) above, and may be subject to completion of any environmental review required under 24 CFR part 58 for the project.

Rating Factor 5: Coordination, Self-Sufficiency & Sustainability (5 Points Maximum)

This factor addresses the extent to which the applicant has coordinated its activities with other organizations not directly participating in the proposed project, but which share common community development goals; the extent to which it participates or promotes participation in its or the State's Consolidated Planning process; and that it is working towards addressing a need described in Rating Factor 2 above in a comprehensive manner through linkages with other activities in the community.

(1) Coordination—in evaluating this factor, HUD will consider the extent to which the applicant demonstrates it has coordinated its proposed activities with those of other groups or organizations, including other federal, state or local governmental activities in the area, if any, before submission, in order to best complement, support and coordinate all activities; and developed specific steps to share information on solutions and outcomes with others. Any written agreements or memoranda of understanding in place, or that will be in place after award, should be described in the application.

(2) Developed linkages—applications should describe linkages with other HUD-funded projects/activities outside the scope of those covered by the Consolidated Plan, as well as established linkages and outreach with residents of the project area, i.e., specific steps to develop linkages with other activities, programs or projects (through meetings, information networks, planning processes or other mechanisms to coordinate activities), so that solutions are holistic and comprehensive.

(3) Self-sufficiency—applications should describe the extent to which project activities will result in long term physical and economic improvement for the current residents of the target area or neighborhood in which the project will be carried out, and which will allow them to continue to live in a redeveloped or revitalized neighborhood and thus share in the anticipated economic benefits the project is expected to generate.

(4) Sustainability—the extent to which the project incorporates one or more elements that facilitate a successful transition of welfare recipients to work, including the number of jobs that are part of career path or apprenticeship programs to be created by the project and the impact of the project on job creation that will benefit individuals on welfare or low-to very low-income persons. Such an element could include, for example, linking the proposed project or loan fund to social and/or other services needed to enable welfare recipients to successfully secure and carry out full-time jobs in the private sector; provision of job training to welfare recipients who might be hired by businesses financed through the proposal; and/or incentives for businesses financed with BEDI/Section 108 funds to hire and train welfare recipients, including those with disabilities.

Bonus Points

An application may receive up to six (6) bonus points, until the maximum of six points are achieved. Two bonus points may be awarded for each of the following:

(a) Projects that are located either in federally-designated Empowerment Zones, Enterprise or Renewal Communities, or Strategic Planning Communities (See Section III(C)(2) of the General Section of the SuperNOFA) for advice on locating a list of designated communities);

(b) Projects that are located in Brownfields Showcase Communities designated by EPA (See Section III(C)(2) of the General Section of the SuperNOFA) for advice on locating a list of Showcase communities.)

(c) Qualifying projects in the City of Dallas, Texas, as mandated by a decision by the U.S. District Court for the Northern District of Texas, Dallas Division. Up to two (2) additional points will be awarded to an application that describes how the use of BEDI and Section 108 loan funds will be used to help eradicate the vestiges of racial segregation in the Dallas Housing Authority's programs consistent with the Court's order. For specific details, please see Section III(C)(3) in the General Section of the SuperNOFA.

VI. Application Submission Requirements

(A) BEDI Funding. An application for a BEDI grant under this program section of the SuperNOFA must have the following items to be complete. The standard forms, certifications and assurances that are required for the BEDI application (and listed in paragraph (I) below) can be found in Appendix B to the General Section. The remaining application items that are forms (i.e., excluding such items as narratives or letters, etc.), referred to as the “non-standard forms”, can be found in Appendix A to this program section of the SuperNOFA.

(B) Transmittal Letter signed by the authorized representative of the eligible applicant indicating that it is submitting the application for funding under the Brownfields Economic Development Initiative Program and is requesting funding consideration for a BEDI project.

(C) Checklist and Submission Table of Contents indicating the page numbers where the submission items can be found in the application (form HUD-40076-EDI/BEDI).

(D) BEDI Narrative Statement (not to exceed 3 pages) describing BEDI-funded eligible activities within the proposed project. (See Section V(B) of this program section.)

(E) EDI/BEDI/Section 108 Funding Eligibility Statement. A completed EDI/BEDI Section 108 Funding Eligibility Statement (form HUD-40076-EDI/BEDI).

(F) Request for Loan Guarantee Assistance. A request for loan guarantee assistance under Section 108, as further described in Section IV(C) of this program section of the SuperNOFA. Full application guidelines for the Section 108 program are found at 24 CFR 570.704.

(G) Narrative Responses to Factors for Award (not to exceed 15 pages overall):

(1) Rating Factor 1: Capacity and Relevant Organizational Experience. Provide a narrative indicating the capacity of your organization and staff to perform the work for which it is requesting funding.

(2) Rating Factor 2: Need Statement Identifying the level of Distress/Extent of the Problem. Provide a narrative statement including any documentation supporting the statement of need. Optional form HUD-40076-EDI/BEDI may also be used as a format to respond to this Factor for Award.

(3) Rating Factor 3: Soundness of Approach. Include the activities, budget and time frame for conducting activities in the response (see form HUD 40076-EDI/BEDI).

(4) Rating Factor 4: Leveraging Resources. The response should include a completed copy of form HUD-40076-EDI/BEDI, “Rating Factor 4: Leveraging Resources—Sources and Uses Statement.”

(5) Rating Factor 5: Coordination, Self-sufficiency and Sustainability: Provide a narrative response to this factor.

(H) Request for Funds. A single application must contain a request for funds for a single BEDI/108 project. An applicant may submit more than one application for each additional unrelated BEDI/108 project, but in no event will HUD rate and rank more than one BEDI project per application.

(I) Additional Application Forms and Certifications. In addition to any forms that have been submitted in response to Section VI (A)—(H) above (which may be found at Appendix A), the following forms and certifications must also be submitted in accordance with Section II(H) of the General Section of this SuperNOFA:

(1) Application for Federal Assistance (Standard Form (SF-424);

(2) Federal Assistance Funding Matrix (HUD 424-M);

(3) Standard Form for Assurances—Non-Construction Programs (SF 424-B) and/or Standard Form for Assurances—Construction Programs (SF 424-D): not required for BEDI applications since the “Leveraging Resources—Sources and Uses Statement” serves the same purpose as a budget form, but must be submitted with the Section 108 application. Since these forms contain assurances of compliance with civil rights and other regulatory requirements, BEDI applicants may elect to provide the signed assurances either with the BEDI or the Section 108 application.

(4) Drug-Free Workplace Certification, HUD-50070.

(5) Certification of Payments to Influence Federal Transactions, HUD-50071, (and if applicant and/or participating parties are engaged in lobbying, the Disclosure Form Regarding Lobbying, SF-LLL);

(6) Applicant/Recipient Disclosure/Update Report, HUD-2880;

(7) Certification Regarding Debarment and Suspension, HUD-2992;

(8) Certification of Consistency With EZ/EC Strategic Plan, HUD-2990;

These forms are found in the Appendix B to the General Section of this SuperNOFA. The non-standard forms for the BEDI applications are in Appendix A to this program section.

If an applicant wishes to receive an acknowledgment of HUD's receipt of its application, it should submit a completed Acknowledgment of Receipt of Application form.

VII. Corrections to Deficient Applications

The General Section of the SuperNOFA provides the procedures for corrections to deficient applications.

VIII. Environmental Requirements

(A) Environmental Review. After the completion of this competition and after HUD's award of BEDI grant funds, pursuant to 24 CFR 570.604, each project or activity assisted under this program is subject to the provisions of 24 CFR part 58, including limitations on the BEDI grantee and Section 108 public entity's commitment of HUD and non-HUD funds prior to the completion of environmental review, notification and release of funds. No such assistance will be released by HUD until a request for release of funds is submitted and the requirements of 24 CFR part 58 have been met. All public entities, including non-entitlement public entities, shall submit the request for release of funds and related certification, required pursuant to 24 CFR part 58, to the appropriate HUD field office for each project to be assisted.

(B) Environmental Justice. (1) Executive Order 12898 (Federal Actions to Address Environmental Justice in Minority Populations and Low-Income Populations) directs Federal agencies to develop strategies to address environmental justice. Environmental justice seeks to rectify the disproportionately high burden of environmental pollution that is often borne by low-income, minority, and other disadvantaged communities, and to ensure community involvement in policies and programs addressing this issue.

(2) Brownfields are often located in distressed neighborhoods, contribute to neighborhood blight, and lower the quality of social, economic, and environmental health of communities. The BEDI program is intended to promote the clean up and redevelopment of brownfields sites and HUD expects that projects presented for BEDI funding will integrate environmental justice concerns and provide demonstrable benefits for affected communities and their current residents for the long term.

IX. Authority

Section 108(q), Title I, Housing and Community Development Act of 1974, as amended, (42 U.S.C. 5301); 24 CFR part 570.

Appendix A

The non-standard forms for your BEDI application follow.

BILLING CODE 4210-32-P

FUNDING AVAILABILITY FOR SELF-HELP HOMEOWNERSHIP OPPORTUNITY PROGRAM (SHOP)

PROGRAM OVERVIEW

Purpose of the Program. To facilitate and encourage innovative homeownership opportunities through self-help housing where the homebuyer contributes a significant amount of sweat-equity toward the construction of the new dwelling.

Available Funds. Approximately $22 million.

Eligible Applicants. You must be a national or regional nonprofit organization or consortium.

Application Deadline. June 19, 2002.

Match. None.

ADDITIONAL INFORMATION

If you are interested in applying for funding under this program, please review carefully the General Section of this SuperNOFA and the following additional information:

I. Application Due Date, Standard Forms, Further Information, and Technical Assistance

Application Due Date. Applications for SHOP grants are due on or before June 19, 2002.

See the General Section of this SuperNOFA for specific procedures governing the form of application submission (e.g., mailed applications, express mail, or overnight delivery).

Application Submission Procedures. New Security Procedures. HUD has implemented new security procedures that apply to application submission. Please read the following instructions carefully and completely. HUD will not accept hand-delivered applications. Applications may be mailed using the United States Postal Service (UPS) or may be shipped via the following delivery services: United Parcel Service (UPS), FedEx, DHL, or Falcon Carrier. No other delivery services are permitted into HUD Headquarters without an escort. You must, therefore, use one of the four carriers listed above.

Mailed Applications. Your application will be considered timely filed if your application is postmarked on or before 12:00 midnight on the application due date and received in HUD Headquarters on or within fifteen (15) days of the application due date. Applicants must obtain and save a Certificate of Mailing showing the date, when your application was submitted to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express service no later than the application due date. Due to new security measures, you must use one of four carrier services that do business with HUD Headquarters regularly. These services are UPS, DHL, FedEx and Falcon Carrier. Delivery by these services must be made during HUD's Headquarters business hours, between 8:30 AM and 5:30 PM Eastern time, Monday through Friday. If these companies do not service your area, you should submit your application via the United States Postal Service.

Address for Submitting Applications. Submit one original and two copies of the application to Department of Housing and Urban Development, Office of Community Planning and Development, Processing and Control Unit, 451 Seventh Street, SW, Room 7251, Washington, DC 20410, ATTN: Self-Help Homeownership Opportunity Program (SHOP).

For Application Forms. Only national and regional nonprofit organizations and consortia are eligible to apply. There is no separate application kit. This notice contains all the information necessary for submission of your application. Copies of the standard forms are located in the General Section of this SuperNOFA or you may request copies by calling HUD's SuperNOFA Information Center at: 1-800-HUD-8929. If you have a hearing or speech impairment, please call the Center's TTY number at 1-800-HUD-2209. When requesting standard forms, you should refer to SHOP and provide your name and address (including zip code) and telephone number (including area code). See Section VI for application submission requirements. You may also access the application requirements on the Internet through HUD's web site at www.hud.gov/grants.

Further Information and Technical Assistance. You may contact Lou Thompson, Office of Affordable Housing Programs, Department of Housing and Urban Development, Room 7168, 451 Seventh Street, SW., Washington, DC 20410; telephone (202) 708-2684, ext. 4594 (this is not a toll-free number). This number can be accessed via TTY by calling the Federal Information Relay Service Operator at 1-800-877-8339.

Satellite Broadcast. HUD will hold an information broadcast via satellite for potential applicants to learn more about the program and preparation of the application. For more information about the date and time of the broadcast, you should consult the HUD web site at http://www.hud.gov/grants.

II. Amount Allocated

The amount available for this program is approximately $22 million. Any unobligated funds from previous competitions or additional funds that may become available, as a result of deobligation or recaptures from previous awards or budget transfers, may be used in addition to the Fiscal Year 2002 appropriation to fund applications submitted in response to this NOFA.

III. Program Description; Eligible Applicants; Eligible Activities

(A) Program Description. SHOP is intended to facilitate and encourage innovative homeownership opportunities on a national geographically-diverse basis through self-help housing where the homebuyer contributes a significant amount of sweat-equity toward the construction or rehabilitation of the dwelling.

Decent, safe, and sanitary non-luxury dwellings developed under SHOP must be made available to eligible homebuyers at prices below the prevailing market prices. Eligible homebuyers are low-income individuals and families (those whose annual incomes do not exceed 80 percent of the median income for the area, as established by HUD) who are unable to purchase a dwelling. Housing assisted under this Notice must involve community participation through the use of homebuyers and/or volunteers in the construction of dwellings and by other activities that involve the community in the project.

(B) Eligible Applicants. You must be a national or regional nonprofit organization or consortium that has the capacity and experience to provide or facilitate self-help housing homeownership opportunities. Local affiliates of national or regional organizations or consortia must apply as part of the national or regional organization or consortia and may not apply for SHOP independently. “Regional” is defined for the purpose of this program section of the SuperNOFA to be a “regional area” such as the Southwest or Northeast that must include at least two or more States (the States need not be contiguous and the operational boundaries of the organization need not precisely conform to State boundaries). If you are a consortium, one organization must be chosen as the lead entity. The lead entity must submit the application and, if selected for funding, will execute the grant agreement and assume primary responsibility for carrying out grant activities in compliance with all program requirements. Other participants in your consortium must be identified in your application.

Your application may not propose a partnership with or funding for any affiliate or consortium member that is also included in another SHOP application. You must assure that any affiliate or consortium member under your FY 2002 application is not also seeking funding from another SHOP applicant for FY 2002 funds.

(C) Eligible Activities. The only eligible activities are: (1) land acquisition (including financing and closing costs), which may include reimbursing an organization, consortium, or affiliate, upon approval of any required environmental review, for nongrant amounts of the organization, consortium, or affiliate advanced to acquire land before completion of the review; (2) infrastructure improvements (installing, extending, constructing, rehabilitating, or otherwise improving utilities and other infrastructure, including removal of environmental hazards); and (3) administration, planning and management development as defined under the HOME Investment Partnerships Program (24 CFR 92.207) and not to exceed 20 percent of any SHOP grant. Funding of eligible activities may be used for both single-family and multifamily dwellings.

(D) Ineligible Costs: Costs associated with the rehabilitation, improvement, or construction of dwellings are not eligible uses of program funds.

IV. Program Requirements

In addition to meeting the Requirements and Procedures Applicable to All Programs in Section II of the General Section of this SuperNOFA, you are subject to the following SHOP requirements:

(A) Conducting Business In Accordance With Core Values and Ethical Standards: See Section II(B)(2) of General Section of the SuperNOFA.

(B) Statutory Requirements. You must comply with all statutory requirements applicable to SHOP as cited in Section IX of this program section below. There are no regulations for this program. You must be capable of:

(1) Developing, through significant amounts of sweat-equity and volunteer labor, at least 30 dwellings at an average cost of no more than $10,000 per unit in SHOP funds for land acquisition and infrastructure improvements;

(2) Using your grant to leverage other sources of funding, including private or other public funds, to complete the housing units;

(3) Developing quality dwellings that comply with local building and safety codes and standards and which will be available to homebuyers at prices below the prevailing market price; and

(4) Scheduling activities to expend all grant funds awarded and substantially fulfill your obligations under your grant agreement, including timely development of the appropriate number of dwelling units. Grant funds must be expended within 24 months, except that grant funds provided to affiliates and consortium members that develop five or more units must be expended within 36 months.

(C) Economic Opportunities for Low- and Very Low-Income Persons (Section 3). If you fund infrastructure improvements under this program, you are required to comply with section 3 of the Housing and Urban Development Act of 1968, 12 U.S.C. 1701u (Economic Opportunities for Low- and Very Low-Income Persons) and the HUD regulations at 24 CFR part 135, including the reporting requirements in subpart E. Section 3 requires that you provide training, employment and other economic opportunities, to the greatest extent feasible, to: (1) Low- and very low-income persons, particularly those who are recipients of government assistance for housing and (2) business concerns which provide economic opportunities to low- and very low-income persons.

V. Application Selection Process

(A) Rating. HUD will review all applications in accordance with the Application Selection Process in Section III of the General Section of this SuperNOFA. HUD will review all applications based on the threshold factors listed in Section V(D) of this program section below. Applications that meet all threshold requirements will be rated according to the selection factors in this section of the SuperNOFA. Applications that do not meet all threshold factors will be rejected and not rated.

(B) Ranking and Selection Procedures. Applications that receive a total rating of 70 points or more (without the addition of Empowerment Zones/Enterprise Communities/Urban Enhanced Enterprise Communities/Strategic Planning Communities, or Renewal Communities [RC/EZ/ECs] bonus points) will be eligible for selection, and HUD will place them in rank order. After adding any bonus points for RC/EZ/ECs, HUD will consider rank order and funds availability in the selection and funding of applications.

HUD reserves the right to fund less than the full amount requested in any application to ensure a fair distribution of the funds and that dwellings will be developed on a national geographically-diverse basis as required by the statute. HUD will not fund any portion of an application that is ineligible for funding under program statutory requirements, or which does not meet the requirements of the General Section of this SuperNOFA or the requirements in the SHOP section of the SuperNOFA. HUD will not fund any eligible applicant for less than the minimum amount necessary to complete at least 30 homes (at a maximum investment of $10,000 per home or a lesser amount if lower costs are reflected in the application). If funds remain after all selections have been made, these funds may be available for other competitions.

(C) Applicant Debriefing. Beginning not less than 30 days after the awards for assistance are announced in the Federal Register, and not longer than 120 days, HUD will, upon receiving a written request from an applicant, provide a debriefing to the requesting applicant. Materials provided during a briefing will be the applicant's final score for each rating factor, final evaluator comments for each rating factor, and the final assessment indicating the basis upon which assistance was provided or denied. Applicants requesting to be debriefed must send a written request to Lou Thompson, Office of Affordable Housing Programs, Department of Housing and Urban Development, Room 7168, 451 Seventh Street, SW, Washington, DC 20410.

(D) Threshold Requirements. The following threshold requirements apply specifically to SHOP. You must also be sure to address the threshold requirements listed in Section II(B) of the General Section of the SuperNOFA and must submit all forms, certifications, and assurances identified in Section II(H) of the General Section.

(1) You, the applicant, must be eligible to apply under SHOP (see Section III(B) of this program section of the SuperNOFA).

(2) The amount of funding you request must support no less than 30 self-help units and may not exceed an average investment of $10,000 per unit in SHOP funding.

(3) The population you plan to serve must be eligible under SHOP (see Section III(A) of this program section of the SuperNOFA).

(4) You must demonstrate that you have completed at least 30 self-help homeownership units within a national or regional area (where the homebuyers contributed a significant amount of sweat-equity and/or volunteer labor toward the construction of the dwellings) within the 24-month period preceding the publication of this SuperNOFA.

Submission Threshold Requirements:

(1) Evidence of your non-profit status, such as a copy of a current Internal Revenue Service ruling that your organization is exempt from taxation under section 501(c)(3) or 501(c)(4) of the Internal Revenue Code of 1986. Where an IRS ruling is unavailable, you may submit a certified copy of your approved charter, articles of incorporation or bylaws demonstrating that you are established as a nonprofit organization under state law. If you are a consortium, each participant in your consortium must be a nonprofit organization. Each consortium member must submit evidence of its nonprofit status to the lead entity for inclusion in the Consortium's application package.

Submission threshold requirements (2) through (4) require no additional submissions. These requirements are addressed under the submission requirements for the rating factors listed in Section V(D) of this program section of the SuperNOFA below.

(E) Factors for Award Used to Evaluate Applications. HUD will rate all SHOP applications that successfully complete technical processing using the Rating Factors and the Application Submission Requirements described below. The maximum number of points for this program is 102. This includes two RC/EZ/EC bonus points, as described in Section III(C)(1) of the General Section of the SuperNOFA. In evaluating applications for funding, HUD will take into account an applicant's past performance in managing funds, including accounting for funds appropriately, the timely use of funds received from HUD, meeting performance targets for completion of activities, and the number of persons served.

Rating Factor 1: Capacity of the Applicant and Relevant Organizational Staff (20 Points)

This factor examines the extent to which you, as a single applicant or as a consortium (including affiliates and/or members of the consortium, if any), have the experience and organizational resources necessary to carry out the proposed activities in a timely manner.

In evaluating this factor, HUD will consider your recent and relevant experience in carrying out the activities you propose, and your administrative and fiscal management capability to administer the grant, including the ability to account for funds appropriately. HUD will assess your organization's past performance based upon performance reports for completion of activities and the number of families/persons provided housing, financial status information focusing on expediency of draws and use of funds, monitoring reports, audit reports and other information available to HUD in making its determination under this factor. If you are not a current recipient of HUD funds, you should submit any existing internal or external performance reports or other information that will assist HUD in making this determination.

Submission Requirements for Rating Factor 1.

(1) You must describe your past experience in carrying out activities (describe the time frame when these activities occurred) that are the same as, or similar to, the activities you propose for funding, and demonstrate reasonable success in carrying out those activities. You may demonstrate such reasonable success by showing that your previous activities were carried out as proposed consistent with the time frame you proposed for completion of all work. You must show that established benchmarks for acquiring properties and completing housing construction were met and performance reports were submitted, as required. You must also describe any delays that were encountered, and the actions you took to overcome such delays to successfully complete your program.

(2) You must demonstrate that you have completed at least 30 self-help homeownership units within a national or regional area (where the homebuyers contributed sweat-equity and/or volunteer labor toward the construction of the dwellings) within the 24-month period preceding the publication of this SuperNOFA. In identifying these recent projects, please include all projects completed, regardless of whether they were funded with Federal, State, local, public or private funds.

(3) You must provide a description of your organization's management structure. You must also describe how you will staff and manage your proposed activities within the organization if funds are awarded.

(4) You must demonstrate your ability to handle financial resources with adequate financial control and accounting procedures. You must describe how your financial control procedures meet 24 CFR 84.21, “Standards for Financial Management Systems.” You must provide a copy of your most recent audit (only an audit of the lead entity must be provided with an application for a consortium).

(5) You must demonstrate your experience and ability in constructing and altering homes by describing the kinds of features that you have used to design homes in accordance with universal design or otherwise make homes accessible to the elderly or persons with disabilities.

Rating Factor 2: Need/Extent of the Problem (15 Points)

This factor examines the extent to which you identify the community need, or problem, or distress that your proposed activities will target, and the urgency of meeting that need.

The purpose of this factor is to make sure that funding is provided where a need for funding exists. Under this factor, you must identify the need or needs in the community that your proposed activities are designed to address or, if you plan to select specific affiliates only after you receive SHOP funding, you must demonstrate how you plan to identify need prior to your selection of affiliates.

Submission Requirements for Rating Factor 2.

(1) Identify the communities or areas in which your proposed activities will be carried out or how you will select communities or projects based on need after you have received an award under SHOP.

(2) Depending on the type of activities proposed, the kind of information you submit to demonstrate the need or needs in the target area may include, but is not limited to, one or more of the following:

(a) Housing market data such as information included in the local Five Year Consolidated Plan or other data sources;

(b) Data dealing with such factors as housing density, housing affordability, housing age or deterioration, and lack of adequate infrastructure or utilities;

(c) Data on the need for accessible homes in the area;

(d) Evidence of housing discrimination;

(e) Evidence from the local Analysis of Impediments to Fair Housing Choice that shows the need for this program.

Rating Factor 3: Soundness of Approach (45 Points)

This factor examines the quality of your plan of proposed activities. In evaluating this factor HUD will consider:

(1) Your specific use of SHOP funds, the number of units and the type(s) of housing to be constructed, and the use of sweat equity/volunteer labor; your established timeline for performance; your schedule for expending funds and completing construction; the proposed budget and cost effectiveness of your program; and your plans to reach all potentially-eligible homebuyers, including those with disabilities or least likely to apply. You may not require a homebuyer to make financial contributions to a unit other than cash contributed for down payment or closing costs at the time of acquisition.

(2) How your planned activities further the Department's FY 2002 policy priorities noted in Section VI of the General Section. You will receive one rating point for each priority addressed in your program of activities and associated with performance measures. For FY 2002, HUD's policy priorities are:

(i) Increasing Homeownership Opportunities for Low- and Moderate-Income Persons, Persons with Disabilities and the Elderly, and Minorities and Families where English may be a second language.

(ii) Improving the Quality of Public Housing and Providing More Choices for Its Residents.

(iii) Encouraging Accessible Design Features: Visitability in New Construction and Substantial Rehabilitation Activities and Universal Design.

(iv) Improving Computer Access, Literacy, and Employment Opportunities.

(v) Providing Full and Equal Access to Faith Based and Other Community Based Organizations in HUD Program Implementation.

(vi) Ensuring that Programs are Accountable for the Promises Made and the Actions Taken.

(vii) Colonias.

Submission Requirements for Factor 3

(1) Identify all activities you propose to fund with SHOP.

(2) Provide a timetable for the selection of your participating local affiliates if they are not specified in the application.

(3) Identify the housing type(s) (single family or multifamily, or both) you plan to develop and the form of ownership (fee simple, condominium, cooperative, etc.) you propose to use.

(4) Submit a construction and completion schedule which expends SHOP funds and substantially fulfills your obligations, including the development of the appropriate number of dwelling units, within 24 months, or in the case of affiliates that develop five or more units, within 36 months, and demonstrates that remaining housing construction will be completed within a reasonable period of time.

(5) Submit a timeline listing milestones against which HUD is to measure your performance progress in expending funds, and completing acquisition, infrastructure and housing construction activities within the schedule in Item 4 above. These milestones should be at reasonable intervals (e.g., monthly, quarterly, etc.).

(6) Describe how your proposed activities address the need or needs you have identified under Rating Factor 2 above.

(7) List the long- and short-term benefits from your activities to the community and targeted groups within the community, and describe how you will ascertain and measure the benefits.

(8) Provide a detailed budget with a break out for each proposed task and each budget category (acquisition, infrastructure improvements, and administration) in the SF-424A. If SHOP funds will be used for administration of your grant, you must include the cost of monitoring affiliates once during the grant period. Your budget must also include leveraged funding to cover all costs of completing the proposed number of units.

(9) Demonstrate that projected costs for the proposed activities do not deviate substantially from the norm in the locale in which your activities will take place, will not exceed an average cost of $10,000 per unit in SHOP funds, and illustrate your ability to carry out your proposed activities cost effectively.

(10) Describe how each of the Department's policy priorities are furthered by your proposed activities. To receive a point for a policy priority, you must describe how your proposed work activities address the specific policy and list proposed performance measurements related to it.

(11) Describe how you will reach potential homebuyers through the use of services and materials that are accessible or visitable to all persons, including persons with disabilities (e.g., languages, formats, locations, distribution, and use of minority media to attract those least likely to apply).

(12) Describe your criteria and procedures for selecting homebuyers and how activities will benefit eligible homebuyers.

(13) Describe how your proposed activities will yield long-term results and innovative strategies or “best practices” that can be readily disseminated to other organizations, communities, and/or State and local governments.

(14) Describe how your program will provide reasonable accommodations for persons with a variety of disabilities by providing “sweat equity” assignments that can be performed by the client regardless of disability.

Rating Factor 4: Leveraging Resources (15 Points)

This factor addresses your ability to secure other resources that can be combined with HUD's program resources to achieve the purposes of SHOP. HUD will consider only those leveraging contributions for which current firm commitments have been provided. Leveraging can be counted only if you have secured a firm financial commitment described and listed under this Factor. A firm commitment letter means the agreement by which the contributing partner or entity agrees to perform an activity specified in your application which should demonstrate your financial capacity to deliver the resources necessary to carry out the activity. Firm commitments of resources may be in the form of cash funding, in-kind contributions, or personnel from Federal, State, local, and private sources, which are jointly referred to as your leverage partners. HUD will also consider the extent that the applicant's proposed sweat-equity requirements and other leveraged resources will serve to reduce costs to the homebuyers.

Submission Requirements for Factor 4

(1) Provide a list of amounts and sources of all firm commitments of cash funding, in-kind contributions, or personnel from other Federal, State, local, and private sources which will be available to complete your project. Together with the grant funds, these commitments must be sufficient to develop the proposed number of units in your application, which must be 30 units or more.

(2) Provide firm written commitments (letters, agreements, etc.) from the source of the commitment to support your list of firm commitments. This written commitment should include your organization's name, the contributing organization's name, and the proposed type and level of commitment and responsibilities as they relate to your proposed program. This leveraging commitment must be signed by an official of the organization legally able to make the commitment on behalf of the organization and must be specifically targeted to support your FY 2002 SHOP application. The written commitment may be contingent upon your receiving a grant award.

(3) Provide a description of the individual sweat-equity requirements (types of tasks and number of hours) of your program and how this contribution of labor will serve to reduce the costs of the home to the homebuyer. Reasonable accommodation must be allowed for persons with a variety of disabilities to participate in your program.

Rating Factor 5: Coordination, Self-Sufficiency and Sustainability (5 Points)

This factor addresses the extent to which your application reflects a comprehensive approach that coordinates effectively with other organizations in the community and fosters self-sufficiency of beneficiaries in your program after completion of the grant award. In evaluating this factor, HUD will consider:

(1) The extent to which you have coordinated your activities with other known organizations that are not directly participating in your proposed work activities, but with which you share common goals and objectives and are working toward meeting these objectives in a holistic and comprehensive manner; and

(2) The extent to which your application implements practical solutions within the grant term to result in assisting beneficiaries of grant program funds in achieving independent living, housing choice or improved living environments.

Submission Requirements for Factor 5

(1) Describe the steps taken to coordinate your program activities at the national, regional and local levels with other organizations not directly participating in your program and work activities. If affiliates are selected after grant award, you must describe how your selections will be made to ensure that the affiliates' programs fit in with other activities and programs that are being carried out by others in the local communities.

(2) Describe the steps to be taken within the grant term that provide assistance to homebuyers in a manner that achieves independent living, housing choice in a wider range of neighborhoods and improved living conditions free from overcrowding and environmental hazards, such as lead-based paint, Brownfields, etc.

VI. Application Requirements and Checklist for Application Submission

Your application consists of the items listed in this Section VI. The standard forms, certifications, and assurances that are applicable to this funding (collectively, referred to as the “standard forms”) can be found in Appendix B to the General Section of the SuperNOFA. The following checklist helps to ensure that all of the required items have been submitted in order to receive consideration for funding:

___ Standard Form 424, Application for Federal Assistance (signed by the authorized representative of the organization eligible to receive funds)

___ Evidence of Non-Profit status

___A copy of your code of conduct and a narrative description of the methods you will use to ensure that all officers, employees and agents of your organization become aware of your code of conduct.

Narrative Statement Addressing:

___ Factor 1—Capacity of the Applicant and Relevant Organizational Staff, including recent audit.

___ Factor 2—Need/Extent of the Problem

___ Factor 3—Soundness of Approach

___ Factor 4—Leveraging Resources

___ Factor 5—Coordination, Self Sufficiency and Sustainability

Forms, Certifications and Assurances:

___ SF 424A, Budget Information, Non-Construction Programs

___ SF 424B, Assurances—Non-Construction Programs

___ SF 424M, Federal Assistance Funding Matrix

___ HUD-50070, Certification for a Drug-Free Workplace

___HUD-50071, Certification of Payment to Influence Federal Transactions

___SF-LLL, Disclosure of Lobbying Activity, as applicable

___HUD-2880, Applicant/Recipient Disclosure/Update Report

___HUD-2990, Certification of Consistency with the RC/EZ/EC Strategic Plan

___HUD-2992, Certification Regarding Debarment and Suspension

___HUD-2993, Acknowledgment of Application Receipt

VII. Corrections to Deficient Applications

The General Section of the SuperNOFA provides the procedures for corrections to deficient applications.

VIII. Environmental Requirements

The provisions contained in Section 305(c) of the Multifamily Housing Property Disposition Reform Act of 1994, Environmental Review, implemented in the Environmental Review regulations at 24 CFR part 58, are applicable to properties assisted with SHOP funds. All SHOP assistance is subject to the National Environmental Policy Act of 1969 and related federal environmental authorities. SHOP grant applicants are cautioned that no federal or non-federal funds or assistance which limits reasonable choices or could produce a significant adverse environmental impact may be committed to a project until all required environmental reviews and notifications have been completed by a unit of general local government, tribe or State and until HUD approves a recipient's request for release of funds under the environmental provisions contained in 24 CFR part 58. Not withstanding the preceding sentence, in accordance with Section 11(d)(2)(A) of the Housing Opportunity Extension Act of l996 and HUD Notice CPD-01-09, an organization, consortium or affiliate receiving SHOP assistance may advance nongrant funds to acquire land prior to completion of an environmental review and HUD's approval of a request for release of funds and environmental certification. Any advances to acquire land prior to such approval are made at the risk of the organization, consortium or affiliate and reimbursement from SHOP funds for such advances will depend on the result of the environmental review.

IX. Authority

The funding made available under this program section of the SuperNOFA is authorized by section 11 of the Housing Opportunity Program Extension Act of 1996 (42 U.S.C. 12805 note) (the “Extension Act”).

BILLING CODE 4210-32-P

FUNDING AVAILABILITY FOR THE YOUTHBUILD PROGRAM

PROGRAM OVERVIEW

Purpose of the Program. The purpose of the Youthbuild program is to assist disadvantaged young adults in distressed communities in completing their high school education, to provide on-site construction training experiences which also results in the rehabilitation or construction of housing for homeless persons and low- and very low-income families, to foster leadership skills, to further opportunities for placement in apprenticeship programs, and to promote economic self-sufficiency.

Available Funds. Approximately $59,750,000 is available for the Youthbuild Program.

Adjustments to Funding. HUD reserves the right to utilize this year's funding to fund previous years errors prior to rating and ranking this year's applications. HUD reserves the right to reallocate funds between categories to achieve the maximum allocation of funds.

Eligible Applicants. Eligible applicants are public or private nonprofit agencies, including State or local housing agencies or authorities, State or units of local government, or any entity eligible to provide education and employment training under other Federal employment training programs, as further defined in HUD's regulation at 24 CFR 585.4.

Application Deadline. May 30, 2002.

Match. None.

ADDITIONAL INFORMATION

If you are interested in applying for funding under this program, please carefully review the General Section of this SuperNOFA and the following additional information.

I. Application Due Date and Technical Assistance

Application Due Date. Completed applications (one original signed application and two copies) must be submitted on or before May 30, 2002 to the HUD Headquarters address shown below.

Application Submission Procedures. New Security Procedures. HUD has implemented new security procedures that impact application submission procedures. Please read the following instructions carefully and completely.

Addresses for Submitting Applications. Completed applications (one original signed application and two copies) must be submitted to the Processing and Control Unit, Office of Community Planning and Development, Department of Housing and Urban Development, 451 Seventh Street, SW, Room 7255, Washington, DC 20410, Attention: Youthbuild Program. When submitting your application, please include your name and mailing address (including zip code) and telephone number and fax number (including area code).

Applications sent to HUD headquarters may be mailed using the United States Postal (USPS) or may be shipped via the following delivery services: United Parcel Services (UPS), FedEx, DHL, or Falcon Carrier. No other delivery services are permitted into HUD Headquarters without escort. You must, therefore, use one of the four carriers listed above. Delivery of these services must be made during business hours between 8:30 AM and 5:30 PM Eastern time, Monday through Friday. If these companies do not service your area, you should submit your application via the United State Postal Service.

Mailed Applications. Your applications will be considered timely filed if postmarked on or before 12:00 midnight (Eastern Time) on the application due date and received at the address above on or within fifteen (15) calendar days of the application due date. All applicants must obtain and save a Certificate of Mailing showing the date when you submitted your application to the United States Postal Service (USPS). The Certificate of Mailing will be your documentary evidence that your application was filed in a timely manner.

Applications sent by overnight delivery or express mail will be considered timely filed if they are received before or on the application due date, or upon submission of documentary evidence that your application was placed in transit with the overnight delivery service by no later than the specified application due date. For Application Kits. For an application kit and any supplemental material please call the SuperNOFA Information Center at 1-800-HUD-8929. Persons with hearing or speech impairments may call the Center's TTY number at 1-800-HUD-2209. An application kit also will be available on the Internet through the HUD web site at http://www.hud.gov. When requesting an application kit, please refer to Youthbuild and provide your name, address (including zip code), and telephone number (including area code).

For information concerning the HUD Youthbuild program, contact Ms. Phyllis Williams, Community Planning and Development Specialist, Office of Rural Housing and Economic Development, Office of Community Planning and Development, Department of Housing and Urban Development, 451 Seventh Street, SW, Room 7136, Washington, DC 20410; telephone (202) 708-2035 (this is not a toll-free number). Persons with speech or hearing impairments may access this number via TTY by calling the toll-free Federal Information Relay Service at 1-800-877-8339.

For Technical Assistance. Write or call Mr. Peter Twichell, YouthBuild USA, 58 Day Street, Somerville, MA 02144, telephone (617) 623-9900, ext. 1211, under contract with HUD to provide technical assistance. Prior to the application deadline, YouthBuild USA will be available to provide general guidance on the application submission process and location of information, but not guidance in actually preparing the application. HUD staff will also be available to provide technical assistance.

Satellite Broadcast. HUD will hold an information broadcast via satellite for potential applicants to learn more about the program and preparation of an application. For more information about the date and time of this broadcast, you should consult the HUD web site at http://www.hud.gov.

II. Amount Allocated

(A) Available Funds. Approximately $59,750,000 in Fiscal Year (FY) 2002 funding is being made available through this program section of this SuperNOFA for the Youthbuild program. The breakdown of funding is discussed below.

The FY 2002 HUD Appropriations Act. The Department of Veterans Affairs and Housing and Urban Development, and Independent Agencies Appropriations Act, 2002 (Pub.L. 107-73 approved November 26, 2001) (the “FY 2002 HUD Appropriations Act”) made $65,000,000 available of which $59,750,000 is allocated for grants.

(B) Funding Categories. HUD will award up to $59,750,000 on a competitive basis. Funds will be divided between four categories of grants as described below.

Category 1 New Applicants. HUD will award up to $10,000,000 for new applicants that have not previously received implementation grants since the inception of the Program for a period not to exceed 30 months. The maximum amount awarded to a successful applicant in this category is $400,000.

Category 2 Grants up to $700,000. HUD will award up to $37,750,000 for grants up to $700,000 for a period not to exceed 30 months. The maximum amount awarded to a successful applicant in this category is $700,000.

Category 3 Underserved and Rural Areas. HUD will award up to $10,000,000 for grants to organizations serving clients in underserved and rural areas as defined in this NOFA for a period not to exceed 30 months. The maximum amount awarded to a successful applicant in this category is $400,000.

Category 4 Individual Development Accounts (IDAs). HUD will award up to $2,000,000 for grants for previous or existing Youthbuild grantees for a period not to exceed 30 months, to support the outreach, development and implementation of Individual Development Accounts (IDAs) for Youthbuild program participants. The maximum amount awarded under this category is $200,000.

Applicants must indicate on their transmittal/cover letter which funding categories they are applying for.

III. Program Description and Eligible Activities

(A) Program Description. The purposes of the Youthbuild Program are to:

(1) Provide economically disadvantaged young adults with opportunities to obtain an educational experience that will enhance their employment skills, as a means to achieving self-sufficiency;

(2) Foster the development of leadership skills and commitment to community;

(3) Expand the supply of permanent affordable housing for homeless and low- and very low-income persons by providing implementation grants for carrying out a Youthbuild program;

(4) Provide disadvantaged young adults with meaningful on-site training experiences in housing construction and rehabilitation that will enable them to render a service to their communities by helping to meet the housing needs of homeless persons and low-income families; and

(5) Give to the greatest extent possible, job training, employment, contracting and other economic opportunities to low-income young adults.

HUD also focuses on the Youthbuild Program as a way to foster the development of nonprofit organizations which over time can provide the services mentioned above to disadvantaged youth and which at the same time rely less on HUD's financial support to carryout these activities.

(B) Eligible Activities.

(1) Work and activities associated with the acquisition, architectural and engineering work, rehabilitation or construction of the housing, as defined in HUD's regulations at 24 CFR 585.309, 585.310, and 585.311.

(2) Relocation payments and other assistance required to comply with HUD's regulation at 24 CFR 585.308;

(3) Costs of ongoing training and technical assistance needs related to carrying out a Youthbuild program;

(4) Education, job training, counseling, employment, leadership development services and optional activities that meet the needs of the participants including entrepreneurial training, drivers' education, apprenticeship opportunities, financial literacy, credit counseling, assistance programs for those with learning disabilities, and in-house staff training;

(5) Outreach to potential participants;

(6) Wages, benefits, and need-based stipends for participants and;

(7) Administrative costs, which must not exceed 10 percent of the grant award.

HUD encourages you to use grant funds for outreach, recruitment, training and other services for the participants that facilitate program implementation. Please refer to HUD's regulation at 24 CFR 585.305 for further details on eligible activities.

IV. Program Requirements

In addition to the requirements listed in the General Section of this SuperNOFA, as an applicant you must comply with the following Youthbuild program requirements:

(A) Eligible Applicants. Eligible applicants as defined in HUD's regulation at 24 CFR 585.4.

(B) Eligible Participants. Participants in a Youthbuild program must be very low-income high school dropouts between the ages of 16 and 24, inclusive, at the time of enrollment. Up to 25 percent of participants may be above very low-income, or may be high school graduates (or equivalent), but must have educational needs (such as lack of reading, writing and communication skills) that justify their participation in the program.

(C) Locational Limitations. You may submit more than one application in the current competition if your program's participant recruitment and housing areas are in different jurisdictions. Each application you submit may only propose activities to carry out one Youthbuild program, i.e., to start a new Youthbuild program or to fund new classes of Youthbuild participants for an existing program.

(D) Response to NOFA—Page Limitation. The total narrative response to all factors identified in Section VI of this program NOFA must not exceed 15 pages, and must be submitted on 8.5” by 11” paper, using a 12 point font, with lines double spaced and printed only on one side. Please note that submitting pages in excess of the page limit will not disqualify your application. However, HUD will not review or consider the information on any excess pages, which may result in a lower score or failure to meet a threshold.

(E) Youthbuild Program Components. Applications that receive assistance under this Youthbuild Program section of the SuperNOFA must contain the three components described as follows:

(1) Educational and job training services;

(2) Leadership training, counseling, and other support activities;

(3) On-site training through actual housing rehabilitation and/or new construction work, including the provision of alternative training experiences that are necessary as a reasonable accommodation for students with disabilities.

(F) Identification of and Access to Property. Your application must identify the location of the site(s) or property(ies) (e.g. addresses, parcel numbers, etc.) that will be used for on-site construction. Your application MUST contain a letter from the property owner or property management company(ies) allowing access to the housing site(s) for on-site construction training. HUD may deem as ineligible any application that fails to specifically identify the location of the on-site construction.

(G) Training Requirement. Each program must be structured so that 50 percent of each participant's time is spent in on-site training and the other 50 percent in educational training.

(H) Economic Opportunities for Low and Very Low-Income Persons (Section 3). Section 3 of the Housing and Urban Development Act of 1968, (12 U.S.C. 1701u) is applicable to the Youthbuild program. Please see Section II of the General Section of the SuperNOFA.

(I) Participation in Local Workforce Investment Act One-Stop Center. Youthbuild grantees are mandatory partners in one-stop centers authorized by the Workforce Investment Act of 1998 (Pub. L. 105-220).

V. Desirable Elements of a Youthbuild Program

You should document the extent to which HUD's initiatives are furthered by the proposed activities. Such initiatives include:

(1) Promoting healthy, safe, and energy efficient homes;

(2) Affirmatively furthering fair housing by promoting greater opportunities for housing choice for minorities and persons with disabilities;

(3) Providing opportunities for self-sufficiency, particularly for persons enrolled in welfare to work programs;

(4) Providing educational, apprenticeship and job training opportunities;

(5) Promoting welfare reform;

(6) Encouraging visitability in new construction and substantial rehabilitation activities; and

(7) Encouraging universal design.

First time applicants. If you are a first time applicant applying for funding under Category 1, HUD recommends that you have a graduating class of not more than 20 participants.

VI. Application Selection Process

Applicants must meet all of the applicable threshold requirements of Section II(B) of the General Section of the SuperNOFA and Sections IV(A), (B), (C), (D), (E), (F), (G) and (H) of this program section of the SuperNOFA. HUD will review each application and assign points in accordance with the selection factors described in this section. The maximum number of points is 102 (except for an application submitted by the City of Dallas, Texas, which would be eligible for a maximum of 104 points). HUD will award up to two (2) additional points, as described in the General Section of the SuperNOFA, to any application submitted by the City of Dallas, Texas, to the extent that Factor 3 is addressed. Due to an order of the U.S. District Court for the Northern District of Texas, Dallas Division, with respect to any application submitted by the City of Dallas, Texas, HUD will consider the extent to which the application's proposed activities will eradicate the vestiges of racial segregation in the Dallas Housing Authority's programs consistent with the Court's order. This maximum includes two Renewal Community/Empowerment Zone/Enterprise Community (RC/EZ/EC) bonus points as described in Section III(C) of the General Section of the SuperNOFA. An application must receive a minimum of 70 points to be eligible for funding.

(A) Rating and Ranking.

(1) General. To review and rate applications, HUD may establish panels including officials from other Federal agencies and outside experts or consultants to obtain certain expertise and other outside points of view. In evaluating applications for funding, HUD will take into account an applicant's past performance in managing funds, including the ability to account for funds appropriately, timely use of funds received either from HUD or from other Federal, State or local programs and meeting performance targets for completion of activities and number of persons served or targeted for assistance. HUD may use information relating to these items based on information at hand or available from public sources such as newspapers, Inspector General or Government Accounting Office Reports or Findings, hotline complaints that have been proven to have merit, or other such sources of information.

(2) Rating. All applications for funding will be evaluated against the rating factors described in Section (VI) of this NOFA.

(3) Ranking. Applications will be ranked separately within each of the four funding categories. Applications will be selected for funding in accordance with their rank order in each category.

(4) To be eligible for funding, an application must have an overall minimum score of 70 points and a minimum score of 40 points for the total combined number of points for Rating Factors 1 (Capacity of the Applicant and Relevant Organization) and Rating Factor 3 (Soundness of Approach).

If two or more applications are rated fundable and have the same score, but there are insufficient funds to fund all of them, HUD will select the application(s) with the highest score for Rating Factor 3 (Soundness of Approach). If two or more applications still have the same score, the highest score in the following factors will be selected sequentially until one highest score can be determined: Rating Factor 1 (Capacity of the Applicant and Relevant Organization); Rating Factor 4 (Leveraging of Resources) and Rating Factor 2 (Need/Extent of the Problem).

(B) Categories of Grants. HUD will make grants in four categories:

(1) Category 1 Grants. Grants for new applicants that have not previously received funding under the Youthbuild program since the inception of the Program and that have elected not to apply under Category 2 or 3. HUD will make available approximately $10,000,000 to new applicants proposing grant(s) of $400,000 or less for activities not to exceed 30 months.

(2) Category 2 Grants. HUD will make available approximately $37,750,000 to applicants proposing grant(s) of $700,000 or less for activities not to exceed 30 months.

(3) Category 3 Grants. HUD will make available $10,000,000 for applicants proposing grant(s) of $400,000 or less to establish programs in underserved and rural areas not to exceed 30 months. Rural and Underserved areas are defined as follows:

(a) Rural Area. A Rural area is defined in one of five ways:

(i) A place having fewer than 2,500 inhabitants (within or outside of metropolitan areas).

(ii) A county with an urban population of 20,000 inhabitants or more.

(iii) Rural portions of extended cities, as identified by the U.S. Census Bureau.

(iv) Open country, which is not part of or associated with an urban area. The United States Department of Agriculture (USDA) describes “open country” as a site separated by open space from any adjacent densely populated urban area. Open space includes undeveloped land, agricultural land or sparsely settled areas but does not include physical barriers, (such as rivers and canals), public parks, commercial and industrial developments, small areas reserved for recreational purposes, and open space set aside for future development.

(v) Any place with a population not in excess of 20,000 and not located in a Metropolitan Statistical Area.

(b) Underserved Area. An underserved area is defined as an area comprised of census tracts with the following distress criteria:

(i) A census tract where the unemployment remains high (50 percent or more above the nation's unemployment rate) and

(ii) A census tract where high rates of poverty (50 percent or more above the national average) persists.

(4) Category 4 Grants. HUD will make available approximately $2,000,000 for applicants proposing grants of $200,000 or less to develop or support Individual Development Accounts (IDAs).

IDAs are matched savings accounts designed to assist low and very low-income families to accumulate savings for education, job training, homeownership or small business or micro-enterprise development. IDAs may be structured to provide both current program participants and those who successfully completed the program with access to IDAs. This category of funds must be used in conjunction with funds awarded under Category 2 or Category 3 and may be used for outreach, financial literacy training, matching funds, administrative costs and/or monitoring. Participants save monthly for a specific purpose with their savings matched by designated funders (usually at a rate ranging from one dollar for each dollar saved to four dollars for each dollar saved). In order to be considered for funding under Category 4 (Individual Development Accounts), the applicant must apply for Category 4 along with either Category 2 or Category 3. In order to be awarded funding under Category 4, the applicant must also be awarded funding under either Category 2 or Category 3.

(C) Grant Period. You must expend funds awarded within 30 months of the effective date of the grant agreement, or such other period specified.

(D) Maximum Awards. Under the competition established by this Youthbuild Program section of the SuperNOFA, the maximum award for a Youthbuild grant is $700,000. Special Note: The maximum award under the combined categories 2 and 4 is $900,000. HUD will not make amendments to awards under this competition that will increase previously approved grant amounts.

(E) Potential Environmental Disqualification. HUD reserves the right to disqualify an application where one or more environmental thresholds are exceeded if HUD determines that it cannot conduct the environmental review and satisfactorily complete the review within the HUD application review period. (See 24 CFR 585.307.) Environmental thresholds are explained in Appendix A of this program section of this SuperNOFA. Complete form 2C13a, 2C13b, or 2C13c and form 2C15 only if you are proposing to use Youthbuild funds for new housing construction or rehabilitation.

(F) Notification of Approval or Disapproval. HUD will notify you whether or not you have been selected for an award. If you are selected, HUD's notice to you of the amount of the grant award based on the approved application will constitute HUD's CONDITIONAL approval, subject to negotiation and execution of the grant agreement by HUD.

(G) Rating Factors for Award Used to Evaluate and Rate Applications. The factors for rating and ranking applicants, and maximum points for each factor, are provided below. The maximum number of points for the program is 104. This includes two RC/EZ/EC bonus points, as described in the General Section of the SuperNOFA and two bonus points given to the city of Dallas, TX.

(H) Application Debriefing. Beginning not less than 30 days after the awards for assistance are announced in the Federal Register, and for not less than 120 days, HUD will, upon written request from the applicant, provide a debriefing to the requesting applicant. Materials provided during the debriefing will be the applicant's final scores for each rating factor, final evaluator comments for each rating factor, and the final assessment indicating the basis upon which the assistance was provided or denied. Applicants requesting to be debriefed must send a written request to Ms. Jackie W. Mitchell, Director, Office of Rural Housing and Economic Development (ORHED), Office of Community Planning and Development, 451 Seventh Street, SW, Room 7136, Washington, DC 20410. Debriefing information can be found in Section VII(E)(2) of the General Section of the SuperNOFA.

Rating Factor 1: Capacity of the Applicant and Relevant Organizational Experience (15 points)

This factor addresses the qualifications and experience of the applicant and participating parties to implement a successful young adult education, training program in accordance with your work plan as further described in Factor 3. HUD will review and evaluate information provided documenting recent capability. Experience within the last 5 years will be considered recent. In reviewing this rating factor, HUD will evaluate the following sub-factors:

(1) Team Member Composition and Experience (5 points). Your experience and the experience of your project director, core staff competencies including your day-to-day program manager, consultants and contractors. You must demonstrate that your program manager has the background, experience and capacity to implement all of the program components of the proposed work plan, as evidenced by recent work experience (within the last 5 years) in managing projects of the same or similar size, dollar amount, types of activities and beneficiaries as those proposed in your work plan. If any gaps exist in your experience or organizational structure to carry out the program, describe how you will fill those gaps including the hiring of consultants or other outside parties. Applicants for funding under Category 4 (Individual Development Accounts) should include in their response their experience and capability in providing support services to low income individuals and families seeking to achieve economic sustainability and self-sufficiency and in recruiting, educating and assisting project participants to increase their economic independence and general well-being through economic literacy education and the accumulation of assets.

(2) Organizational Structure (5 points). The structure of your organization, management structure, including reporting relationships of key staff, a system for coordinating with outside contractors or third party service providers, a mechanism for an internal and external auditing relationships, and an accounting system which meets Federal accounting system requirements. You should provide a clear description of how your organizational structure will operate to carry out your work plan.

(3) Relevant Experience (5 points). The objectives and accomplishments of your past experience in conducting similar activities. You must describe your past project objectives and accomplishments which are similar to those of your proposed work plan to show your effectiveness and timeliness in managing similar projects. If you have received similar grants including previous Youthbuild grants, you must describe your effectiveness of your administration including timeliness and performance in meeting reporting requirements and your ability to have resolved problems that presented themselves during the grant period. In addressing timeliness of reports, you must compare when your reports were due with when they were actually submitted. You must describe your achievements, including those of previous Youthbuild grants, of specific measurable outcome objectives. Specific outcome objectives include: number of youths recruited, trained and received GEDs; number of youths obtaining jobs (i.e. those that are a part of a career path or apprenticeship program), number of youths participating in apprenticeships and number of housing units rehabilitated or constructed and made available for low and moderate income persons.

Also, you must describe the extent to which you or participating partners have been successful in past education, training and employment programs and activities, including Federally-funded Youthbuild programs. If you have received a Youthbuild grant, you must submit copies of your last two progress reports or, if applicable, a closeout report. In applying the rating criteria, HUD will take into consideration your performance (including meeting target dates and schedules) as reported.

The more recent, relevant, and successful the experience of the proposed team members, organization and other participating entities in relation to the work plan, the greater the number of points that you will receive. For previous and existing Youthbuild grantees, applicants that can demonstrate a closer and greater linkage between the expected outcomes and the previously generated outcomes will receive a higher amount of points for this Factor.

Rating Factor 2: Need/Extent of the Problem (25 Points)

This Factor addresses the extent to which there is need for funding the proposed activities based on levels of distress and an indication of the urgency of meeting the need/distress in the applicant's target area. In responding to this Factor, applications will be evaluated on the extent to which the level of need for the proposed activity and the urgency in meeting the need are documented and compared, vis-a-vis the target area and national data.

(1) In applying this Factor, HUD will consider current levels of distress for the area (i.e., Census Tract(s) or Block Groups) immediately surrounding the project site or the target area to be served by the proposed project, and in the nation. This means that an application that provides data that show levels of distress in the target area expressed as a percent greater than the national average will be rated higher under this Factor.

Notwithstanding the above, an applicant proposing a project to be located outside the target area could still receive points under the Distress Factor if a clear rationale and linkage is provided linking the proposed project location and the benefits to be derived by persons living in more distressed area(s) of the applicant's target area.

(2) Applicants should provide data that address indicators of distress, as follows:

(a) Poverty (5 points)—data should be provided in both absolute and percentage form (i.e., whole numbers and percents) for the target area(s); an application that compares the local poverty rate in the following manner to the national average at the time of submission will receive points under this section as follows:

(1) Less than the national average: 0 points

(2) Equal to but less than twice the national average: 1 points

(3) Twice but less than three times the national average: 3 points

(4) Three or more times the national average: 5 points

(b) Unemployment (5 points)—for the project area;

(1) Less than the national average: 0 points

(2) Equal to but less than twice the national average: 1 points

(3) Twice but less than three times the national average: 2 points

(4) Three but less than four times the national average: 3 points

(5) Four but less than five times the national average: 4 points

(6) Five or more times the national average: 5 points

(c) High School Dropouts (10 points)—for the project area;

(1) Less than the national average: 0 points

(2) Equal to but less than twice the national average: 2 points

(3) Twice but less than three times the national average: 4 points

(4) Three but less than four times the national average: 6 points

(5) Four but less than five times the national average: 8 points

(6) Five or more times the national average: 10 points

(d) Other Indicators of social and/or economic decline that best capture the applicant's local situation (5 points). Examples that could be provided under this section are information on the community's stagnant or falling tax base, including recent commercial or industrial closings, housing conditions, such as the number and percentage of substandard and/or overcrowded units, rent burden (defined as average housing cost divided by average income) for the target area and urgency in addressing problems facing youth, local crime statistics, etc.

(3) In rating applications under this Factor, HUD reserves the right to consider sources of available objective data, such as the U.S. Census, other than, or in addition to, those provided by applicants, and to compare such data to those provided by applicants and local crime statistics for the project site.

HUD requires use of sound and reliable data (e.g., U.S. Census data, State statistical reports, university studies/reports that are verifiable) to support distress levels cited in each application. A source for all information along with the publication or origination date must also be provided.

Updated Census data are available as follows for the listed indicators:

(a) Unemployment rate—estimated monthly, with a two-month lag;

(b) Population—estimated for incorporated places through 2000;

(c) Poverty rate—1990 data being the most recent available.

Rating Factor 3: Soundness of Approach (40 points)

Youthbuild Program Work Plan. This factor addresses the quality and cost-effectiveness of your proposed work plan. There must be a clear relationship between your proposed activities, community needs and the purpose of the Youthbuild program. HUD will consider the overall quality and feasibility of your proposed work plan and budget which must be consistent with the Youthbuild program as measured by your specific activities and outcomes.

Specifically, HUD will consider the following categories when assessing your proposed work plan:

(1) Program Components (15 points):

(a) Outreach strategy, recruitment strategy and selection activities. HUD will determine the extent to which you demonstrate a clear linkage with the following work plan activities and proposed outcomes and results. Points will be awarded based upon overall quality and feasibility of the outreach, recruitment and selection activities, the number and types of outreach activities, number of youths to be recruited including eligible participants who are harder to reach and comprehensiveness of the local selection process.

Letters describing specific resources or services to be contributed by non-applicant organizations must be included in your application. In evaluating this category, HUD will consider:

(i) Specific steps you will take to attract potential eligible participants who are unlikely to be aware of this program (because of race, ethnicity, sex or disability) and selection strategies;

(ii) Special outreach efforts you will make to recruit eligible young women, young women with dependent children, and persons receiving public assistance; and

(iii) Recruitment arrangements you have made with public agencies, courts, homeless shelters, local school systems, local workforce development systems, one-stop centers and, community-based organizations, etc. You will receive a greater number of points if your outreach and recruitment arrangements are consistent with the purpose of the Youthbuild program and your project goals and the resources provided.

(b) Educational and job training services and activities. HUD will evaluate the extent to which you demonstrate a clear linkage with the following work plan activities and proposed outcomes and results.

Letters describing specific resources or services to be contributed by non-applicant organizations must be included in your application. Points will be awarded based upon the quality and feasibility of your proposed curriculum, qualifications of instructors and proposed wages and stipends for youth participants. In evaluating this category, HUD will consider:

(i) The types of in-class academic and vocational instruction you will provide;

(ii) The number and qualifications of program instructors and ratio of instructors to participants;

(iii) Scheduling plan for classroom and on-the-job training needed to meet program requirements and ensure timely completion of your program; and

(iv) Reasonable payments of participants' wages, stipends, and incentives. You will receive a greater number of points if your educational and job training services are consistent with the purpose of the Youthbuild program and your project goals and the resources provided.

(c) Leadership development. HUD will determine the extent to which you demonstrate a clear linkage with work plan activities and proposed outcomes and results. Letters describing specific resources or services to be contributed by non-applicant organizations must be submitted in your application. Points will be awarded based upon the quality and feasibility of your proposed leadership curriculum, qualifications of instructors and the impact of the proposed leadership activities on the target area. You must describe the leadership development training you will offer to participants and strategies for providing the training to build group cohesion and peer support. You will receive a greater number of points if your leadership development activities are consistent with the purpose of the Youthbuild program and your project goals and the resources provided.

(d) Support services. HUD will determine the extent to which you demonstrate a clear linkage with work plan activities and proposed outcomes and results.

Letters describing specific resources or services to be contributed by non-applicant organizations must be included in your application. Points will be awarded based upon the quality and feasibility of your proposed support services strategy and stipends for the participants.

You must assess the need for counseling and referral services during each stage of program implementation: outreach strategy, recruitment strategy, youths interviewed and not selected for the program, program participants, youths who drop out of the program and graduates of the program. Describe how the participant needs will be addressed, document counseling and referral services to be offered to participants, the type of counseling, social services, and/or need-based stipends you will provide.

Special Note to applicants under Category 4 for Individual Development Accounts:

Applicants under this Category should precisely identify the target population(s) to be served and provide a description of the geographic area to be impacted. Applicants that target individuals residing in one or more well defined neighborhoods or communities (including public housing developments, RCs/EZs/ECs) that experience high rates of poverty or unemployment will also receive a greater number of points under this subfactor. Applicants applying under Category 4 should describe, in outline form, how the IDA program would operate. The applicant should outline: (i) The process for the recruitment of participants; (ii) how participants will be selected; (iii) how and with what assistance will the participant determine the levels of savings and purpose or qualified expenses; (iv) when, where and with whom the participant is to sign a savings plan agreement; (v) the process for opening an IDA account and the role of the participating financial institution; (vi) how and where savings deposits are to be made and the consequences to a participant should the participant fail to make a scheduled deposit; (vii) where, when and from whom the participant will receive financial literacy, credit repair and other training and support services; (viii) where, when and from whom will the participant receive training needed support to remain employed to assure continued savings from earned income; (ix) where, when and from whom the participant will receive training needed with respect to the qualified expenditure or purpose of the IDA, in the area of homeownership, pursuit of educational goal, business plan development and management, etc.; and (x) when, where and how the participant will make withdrawals to support the purposes of the IDA, once the IDA savings and match goals have been achieved. Applicants must also identify the state or Federal institution with which they are partnering in the development and implementation of their IDA project.

All applicants under Category 4 must include a copy of a signed agreement between the applicant and the financial institution(s), which sets forth: (i) That the project's reserve fund will be established in the financial institution; (ii) the rate of interest to be paid on amounts in the reserve fund; (iii) how, when, and where participant deposits will be made; (iv) how and when matching contributions will be made (e.g. in a parallel account); (v) the rate and frequency of interest payments on accounts, including matching contributions; (vi) the data and reports that will be furnished to the grantee concerning the reserve fund and IDA accounts; (vii) the contribution, if any, being made by the financial institution for deposit in the reserve fund, and the schedule of deposits of such contribution; and (viii) other services to be provided by the financial institution(s) that could strengthen the project, such as financial education seminars, favorable pricing on fees, out-stationing of services in community facilities, or assistance in recruitment of project participants. The narrative response to this subfactor need only identify the partnering financial institution(s) and reference the agreement(s) provided with the application.

Applicants will receive a greater number of points if your support service activities are consistent with the purpose of the Youthbuild program and your project goals and the resources provided.

(e) Follow-up assistance and support activities to program graduates. HUD will evaluate the extent to which you provide assistance to Youthbuild program participants after graduation. Letters describing specific resources or services to be contributed by non-applicant organizations must be included in your application. Points will be awarded based upon the quality and feasibility of your proposed strategy. You must describe the type of proposed assistance and support which should be based upon an assessment of the needs of the program graduates and should include continued linkage to the local Youthbuild program, counseling and social service referral services. You will receive a greater number of points if your follow-up assistance and support service activities to program graduates are consistent with the purpose of the Youthbuild program and your project goals and the resources provided.

(f) On-site training. HUD will evaluate the extent to which the work plan provides for quality and comprehensive on-site construction training by addressing the categories below. Letters describing specific resources or services to be contributed by any non-applicant organizations must be included in your application. Points will be awarded based upon the quality and feasibility of your proposed curriculum, experience of proposed instructors, number of youth to be trained and wages or stipends for participants. HUD will consider:

(i) The housing construction or rehabilitation activities participants will undertake at the site(s) to be used for the on-site training component of the program as provided in the training curriculum and methodology for carrying out on-site training;

(ii) The qualification and number of on-site supervisors;

(iii) The ratio of trainers to participants;

(iv) The number of participants per site; and

(v) The amounts, wages, and/or stipends you will pay to participants during on-site work.

All applicants will receive a greater number of points if your on-site training plan is consistent with the purpose of the Youthbuild program and your project goals and the resources provided.

(2) Strategy for Job Placement. (10 points)

HUD will evaluate the quality and feasibility of your proposed strategy to place youth participants in permanent jobs.

Letters describing specific resources or services to be contributed by non-applicant organizations must be included in your application. You will be rated on the following factors: (a) Proposed number of youth to obtain jobs that promote economic self-sufficiency (i.e. those that are a part of career paths or apprenticeship programs); (b) proposed number of youths who will continue post-secondary or secondary education; (c) proposed number of youths to receive entrepreneurship training. Two points of this factor will be awarded based upon the comprehensiveness and feasibility of your strategies and procedures to place youth participants in related apprenticeships and commitments from construction trade unions. You will receive a greater number of points if your strategy for job placement is consistent with the purpose of the Youthbuild program, your proposed project and the resources provided.

(3) Expected Outcomes. (5 points). Describe the number of youths to be trained and the number of housing units to be rehabilitated or constructed. As a part of this evaluation, HUD will assess the cost effectiveness of your stated outcomes as compared to the funds that you are requesting in the Youthbuild Grant Budget. You will receive a greater number of points if your proposed outcomes are consistent with the purpose of the Youthbuild program, your proposed project and the resources provided.

(4) Housing Program Priority. (10 points) HUD will assign Housing Program Priority points to all applications that contain evidence that housing resources for other Federal, State, local or private sources that are available and firmly committed to cover all costs, in full, for the following housing activities for the proposed Youthbuild program: acquisition, architect and engineering fees, construction, and rehabilitation. Applications that do not include proper documentation of firm financial commitments of non-Youthbuild resources or propose to use Youthbuild grant funds, in whole or in part, or do not evidence site control, for any one of the housing activities listed above will not be entitled to housing program priority points. Forms 2C, Housing Site Description, and 2C10, Youthbuild Grant Individual Housing Project Site Estimate, must be completed to receive the Housing Program Priority points.

Rating Factor 4: Leveraging Resources (10 Points)

(Exhibit 4B Non-Housing Program Resources Must Be Complete and You Must Provide Letters of Firm Commitment From the Donor With the Amount of Cash of In-Kind Contribution) This factor addresses the ability of the applicant to secure non-HUD resources. This factor measures the extent to which you have established partnerships with other entities to secure resources for your proposed program. Each commitment described in the narrative for this Factor must have a firm commitment letter. Grantees who leverage significant resources will receive a greater number of points.

HUD will evaluate the extent to which firm commitment of resources are obtained from Federal, State, local, and private and nonprofit sources. HUD will award a greater number of points based upon a comparison of the extent of leveraged funds and the requested Youthbuild grant. The greater the amount of resources leveraged, the higher the points that will be awarded. In assigning points for this criterion, HUD will consider the level of non-applicant resources obtained for cash or in-kind contributions to cover the following kinds of areas:

(1) Social services (i.e., counseling and training);

(2) Use of existing vocational, adult, and bilingual educational courses;

(3) Donation of labor, resource personnel, supplies, teaching materials, classroom, and/or meeting space;

(4) For Individual Development Accounts matching funds, financial services or other resources to be provided in support of such accounts; and

(5) Other commitments. In rating this element, HUD will consider only those contributions for which current firm commitments have been provided. HUD will evaluate the level of non-applicant resources proposed based on their importance to the total program. Leveraging will only be counted if you have secured a firm financial commitment. A firm commitment letter means the agreement by which an applicant's partner or contributing entity agrees to perform an activity specified in the application and demonstrates the financial capacity to deliver the resources necessary to carry out the activity, and commits the resources to the activity either in cash, through in-kind services or contributions and is irrevocable, subject only to approval and receipt of a FY 2002 Youthbuild grant. For all applicants, each letter of commitment should include the organization's name, the applicant's name, the proposed program, the proposed total level of commitment and responsibilities as they relate to the proposed program. The commitment must also be signed by an official of the organization legally able to make commitments on behalf of the organization and not earlier than the date that this NOFA is published. In documenting a firm commitment, the applicant's partner or contributing entity must:

(i) Specify the authority by which the commitment is made, the amount of the commitment and the use of funds. If the committed activity is to be self-financed, the applicant's partner or contributing entity must evidence its financial capability through a corporate or personal financial statement or other appropriate means. If any portion of it is to be financed through a lending institution, the participant must evidence the institution's commitment to fund the commitment.

(ii) State the amount and use of the commitment, and the relationship of the commitment to the proposed investment; and

(iii) Affirm that its investment is contingent only upon receipt of FY 2002 Youthbuild funds and state a willingness on the part of the signatory to sign a legally binding commitment (conditioned on HUD environmental review and approval of a property, where applicable) upon award of the grant.

Resources from other Federal, State, Local governments or Private Entities. HUD encourages use of existing housing and homeless assistance programs administered by HUD or other Federal, State, local governments, or private and nonprofit housing programs as part of your Youthbuild program. In addition, HUD encourages use of other non-Youthbuild funds available for vocational, adult, and bilingual education programs or for job training under the Workforce Investment Act and the Personal Responsibility and Work Opportunity Reconciliation Act of 1996.

Grantees who leverage significant resources will receive more points.

(1) Public sector sources—Federal, State, or local government sources to provide resources to carry out Youthbuild activities. (5 points)

(2) Private or nonprofit sector sources to provide resources to carry out Youthbuild activities. (5 points)

Rating Factor 5: Coordination, Self-Sufficiency and Sustainability (10 Points)

This factor addresses the extent to which your proposed program is coordinated with other ongoing and related activities in the area you propose to serve, how well your program outcomes result in increased independence and empowerment to your beneficiaries, and your organization's ability to becoming financially self-sustaining into the future absent any HUD funding. Your response to this sub-factor should provide a clear statement of the adverse conditions to be addressed by your organization's assistance, the expertise of your organization in addressing those conditions and your plans for ensuring that your organization will be able to sustain those efforts without further assistance from HUD at the conclusion of the grant period. HUD will evaluate the extent to which your application meets the following three elements: (1) Coordination of activities (4 points). The extent to which you have coordinated your activities with other known organizations that are not directly in your proposed work activities, but with which you share common goals and objectives and are working toward meeting these objectives in a holistic and comprehensive manner. The goal of coordination is to ensure that programs do not operate in isolation. The more your activities are coordinated with other agencies in your service area, the more points you will receive. An example of coordination activities would be the applicant's partnership with an existing child day care facility (which is not funded by program) that provides day care services to the Youthbuild participants during the hours they are being trained or receiving education. (2) Self-Sufficiency (3 points) The extent to which your application implements practical solutions within the grant term that result in assisting beneficiaries of grant program funds in achieving independent living, economic empowerment, educational opportunities, housing choice or improved environments which are free from environmental hazards such as lead hazards, brownfields, overcrowded housing, etc. Applicants that clearly describe the extent to which proposed activities result in increased independence and empowerment for their beneficiaries will receive higher points in this sub-factor. (3) Sustainability (3 points). The extent to which your program exhibits the potential to be financially self-sustaining by decreasing dependence on Youthbuild funding and relying more on state, local and private funding so your activities can be continued after your grant award is complete. Applicants that demonstrate a reduced dependence on Youthbuild funds over the life of their award will receive a greater number of points for this sub-factor. This decreasing dependence on Youthbuild funds should be present in a workplan that explains how this independence will be achieved.

VII. Application Submission Requirements

(A) Site Access Submission Requirements. You must submit identification of specific housing sites, and firm evidence of site access.

(1) Guidance on evidence of site access:

(i) If the applicant or joint applicant has a contract or option to purchase the property, you should provide a statement to that effect and include a copy of the contract or option;

(ii) If a third party owns the property or has a contract or option to purchase, that third party must provide a letter to you stating the nature of the ownership and specifically providing you with access to the property for the purposes of the program and the time frame in which the property will be available. In the case of a contract or option, include a copy of the document; and

(iii) You must provide the required certification that the proposed activities are consistent with the HUD-approved Consolidated Plan in accordance with 24 CFR part 91 and referenced in the General Section of the SuperNOFA.

(B) Category 3 applicants only. You must state that the proposed project to be established will be located in an underserved or rural area as defined in Section (VI)(B)(3) of this notice.

(C) Application Items. Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

(1) SF-424, Application for Federal Assistance.

(2) HUD-424M, Federal Assistance Funding Matrix.

(3) SF-424A, Budget Information for Non-Construction Programs.

(4) SF-424B, Assurances for Construction Programs.

(5) SF-424C, Budget Information for Construction Programs.

(6) HUD-50070, Certification of Drug-Free Workplace.

(7) HUD-2880, Applicant/Recipient Disclosure/Update Form.

(8) HUD-50071, Certification of Payments to Influence Certain Federal Transactions;

(9) SF-LLL, Disclosure of Lobbying Activities (if applicable);

(10) HUD-2992, Certification Regarding Debarment and Suspension;

(11) Letters from property owners allowing access to the housing site for construction training.

(12) Submission of 501(c)(3) status and/or letter certifying non-profit status if the applicant is a public non-profit organization.

(13) Narrative Response to Factors for Award.

Factor 1—Capacity of the Applicant and Relevant Organizational Experience.

Factor 2—Need/Extent of the Problem.

Factor 3—Soundness of Approach, including the following non-narrative items: (a) Completed Youthbuild Grant Budget (Exhibit 4A), (b) housing site description (Exhibit 2C), (c) Youthbuild Grant individual housing site estimate (Exhibit 2C10), (d) letters from non-applicant resource providers describing contributions or support, (e) documentation necessary to complete environmental review (Exhibit 2C15), and description of relocation, if applicable.

Factor 4—Leveraging Resources, including your letters(s) evidencing the leveraged commitment(s), which will not be counted in the 15 page limitation.

Factor 5—Coordination, Self Sufficiency and Sustainability, include HUD-2991, Certification of Consistency with the Consolidated Plan.

(14) HUD-2990, Certification of Consistency with the EZ/EC Strategic Plan (if applicable);

(D) The total narrative response to all factors identified in Section VI(C)(13) of this program NOFA must not exceed 15 pages, and must be submitted on 8.5″ by 11″ paper, using a 12 point font, with lines double-spaced and printed only on one side. Please note that submitting pages in excess of the page limit will not disqualify your application. However, HUD will neither review nor consider the information on any excess pages, which may result in a lower score or failure to meet a threshold.

VIII. Corrections to Deficient Applications

The General Section of the SuperNOFA provides the procedures for corrections to deficient applications.

IX. Environmental Requirements

Environmental procedures apply to HUD approval of grants when you propose to use Youthbuild funds to cover any costs for the lease, acquisition, rehabilitation, or new construction of real property proposed for housing project development. Environmental procedures do not apply to HUD approval of your application when you propose to use your Youthbuild funds solely to cover costs for classroom and/or on-the-job construction training and support services.

If you propose to use your Youthbuild funds to cover any costs of the lease, acquisition, rehabilitation, or new construction of real property, you must submit all relevant environmental information in your application to support HUD decision-making in accordance with the environmental procedures and standards set forth in HUD Regulation 24 CFR 585.307.

X. Authority

This program is authorized under subtitle D of title IV of the Cranston-Gonzalez National Affordable Housing Act, as added by section 164 of the Housing and Community Development Act of 1992 (Pub. L. 102-550, 106 Stat. 3723, 42 U.S.C. 12899). The Youthbuild Program regulations are found in 24 CFR part 585.

Appendix A—Instructions for Completion of Youthbuild Environmental Requirements (Exhibit 2C(15))

A. Instructions to Applicants

1. If you propose to use Youthbuild funds to cover any costs of the lease, acquisition, rehabilitation, or new construction or real property, you shall submit all relevant environmental information in your application to support HUD decision making in accordance with the environmental procedures and standards set forth in 24 CFR 585.307. For each proposed Youthbuild property for which HUD environmental procedures apply, you are to prepare a separate Exhibit 2C(15) in which you supply HUD with environmental threshold information and letters from qualified data sources (see definition below) which support the information. HUD will review your submission and determine how, if necessary, HUD will comply with any Federal laws and authorities that may be applicable to your property proposed for Youthbuild funding. If environmental procedures apply and Exhibit 2C(15) with supporting documentation is not included then the application will be deemed ineligible.

You are to follow these instructions for preparing Exhibit 2C(15). The instructions advise you on how to obtain and document certain information to be supplied to HUD in this exhibit. Before selecting a property for Youthbuild funding, you should read these instructions and be advised that HUD encourages you to select, to the extent practicable, properties and locations that are free of environmental hazards and problems discussed in these instructions. The responses to the environmental criteria in Exhibit 2C(15) will be used to determine environmental approval or disapproval by HUD of proposals for physical development of properties.

2. After selecting a property for proposed Youthbuild funding, you are to determine the activities to be undertaken with your Youthbuild funds. You are to indicate in Section E whether the Youthbuild funds will be used for:

(a) Lease or purchase of a property;

(b) Minor rehabilitation or

(c) Major rehabilitation; or

(d) New construction of housing.

The activities proposed for Youthbuild funding will determine the kind of data that you will need to obtain from a qualified data source in order to complete Exhibit 2C(15).

3. Once you have selected a property and determined the activities for Youthbuild funding, you are advised to check with your city or county agency that administers HUD's Community Development Block Grant program and performs environmental reviews, or the local planning agency. The reason is that most, if not all, the data needed for preparing Exhibit 2C(15) is readily available from the local community development agency and the local planning agency. You are advised to ask the environmental staff of those agencies the following:

(a) Has the agency ever prepared an environmental review of the proposed Youthbuild property or the neighborhood in which the property is located, and if so, would it provide a copy to the applicant for use by HUD;

(b) Would the agency assist you in completing section G; or if the agency is not able to help complete any item in section G, would the agency advise you which local or State agency is the appropriate qualified data source for obtaining the information.

Also, you should check with the local planning agency before proceeding elsewhere for the information.

You are advised that the cost of preparing information and analyses needed for Exhibit 2C(15) is an eligible cost under the Youthbuild program and is reimbursable if you are approved for a grant.

4. The following definitions are of key terms used in these instructions. Most of the other terms are technical and their definition would be known to qualified data sources.

(a) Qualified data source means any Federal, State or local agency with expertise or experience in environmental protection (e.g., the local community development agency; the land planning agency; the State environmental protection agency; the State Historic Preservation Officer) or any other source qualified to provide reliable information on the particular subject. A letter supporting the information from each qualified data source is to be attached to Exhibit 2C(15).

(b) Minor rehabilitation means proposed fixing and building repair:

(i) Where the estimated cost of the work is less than 75 percent of the property value after completion;

(ii) That does not involve changes in land use from residential to nonresidential, or from nonresidential to residential;

(iii) That does not involve the demolition of one or more buildings, or parts of a building, containing the primary use served by the project; and

(iv) That does not increase unit density by more than 20 percent.

For minor rehabilitation of a building located in a floodplain, the criteria for substantial improvement modify this definition. (See Item B 3 below)

(c) Major rehabilitation means proposed fixing and building repair:

(i) Where the estimated cost of the work is 75 percent or more of the property value after completion; or

(ii) That involves changes in land use from residential to nonresidential, or from nonresidential to residential; or

(iii) That involves the demolition of one or more buildings, or parts of a building, containing the primary use served by the project; or

(iv) That increases unit density by more than 20 percent.

(d) Multifamily housing means any residential building that contains five or more apartments or rooming units.

(e) Single-family housing means any residential building that contains one-to-four dwelling units.

Because each Federal environmental law or authority has compliance requirements that differ according to the type of proposed activity to be funded, you are required to supply information in Exhibit 2C(15) only for the type of activity for which the Youthbuild grant will be used.

(a) If you propose new construction or major rehabilitation of multifamily housing, you must supply complete and reliable environmental threshold information for items 1 through 13 in section G.

(b) If you propose new construction of single family housing, you must supply complete and reliable environmental threshold information for items 1 through 12 in section G.

(c) If you propose minor rehabilitation of multifamily or single-family housing, or the purchase or lease of a property, you must supply complete and reliable environmental threshold information for items 1 through 7 in section G.

5. Applicants subject to HUD's environmental procedures are to submit Exhibit 2C(15) and accompanying documentation to HUD with the applications for grant assistance. Such applicants are prohibited from committing or expending State, local or other funds to undertake property rehabilitation, construction (including demolition), or acquisition (including lease), until HUD and the grantee execute a grant agreement for the proposed Youthbuild project.

6. HUD reserves the right to disqualify any application where one or more environmental thresholds are exceeded if HUD determines that the compliance review cannot be conducted and satisfactorily completed within the HUD review period for Youthbuild applications.

B. Environmental Threshold and Documentation Requirements

The threshold and documentation requirements for each of the Federal environmental laws and authorities are described below, following the same order as they appear in section G .

1. Site within designated coastal barrier resources:

Threshold: Youthbuild applicants are prohibited by Federal law from using Federal financial assistance for properties, if the properties are located within designated coastal barriers of the Atlantic Ocean, Gulf of Mexico, and the Great Lakes (Coastal Barrier Resources Act, as amended, 16 U.S.C. 3501).

* Documentation: You are to select either A or B for the condition that best describes the property and report the option selected in item 1 of section G.

A. You state that your program operates in a community that does not contain any shores along the Atlantic Ocean, the Gulf of Mexico, or the Great Lakes.

B. If your program operates in a community that does contain shores along the Atlantic Ocean, the Gulf of Mexico, or the Great Lakes, you must provide HUD with a finding made by a qualified data source stating that the proposed property is not located within a designated coastal barrier resource by citing the map panel number of the official maps issued by the Department of the Interior (DOI) on the basis of which the finding was made.

2. Site contaminated with toxic chemicals and radioactive materials:

Threshold: Under HUD policy, as described in HUD Notice 79-33 (Policy Guidance to Address the Problems Posed by Toxic Chemicals and Radioactive Materials), HUD will not approve the provision of financial assistance to residential properties located on contaminated sites. Sites known or suspected to be contaminated by toxic chemicals or radioactive materials include but are not limited to sites: (i) listed on either an EPA Superfund National Priorities List (NPL) or CERCLA (Comprehensive Environmental Response, Compensation, and Liability Act) List, or equivalent State list; (ii) located within 3,000 feet of a toxic or solid waste landfill site; or (iii) with an underground storage tank (which is not a residential fuel tank).

* Documentation: You are to select either A or B for the condition that best describes property and report the option selected in item 2 of section G.

A. You are providing HUD with a finding made by a qualified data source stating that the proposed Youthbuild property and any neighboring properties do not contain any sites known or suspected to be contaminated with toxic chemicals and radioactive materials.

B. You are providing any site contamination data by a qualified data source in your letter for HUD's evaluation of contamination and/or suspicion of any contamination of a proposed property or any neighboring properties.

3. Site affecting a floodplain:

Threshold: A property located within a floodplain and proposed for funding is subject to Executive Order 11988, Floodplain Management. The Executive Order directs HUD to avoid, where practicable, proposed financial support for any floodplain property, whenever HUD has options to approve properties in flood-free locations. The Order does not apply to existing single-family properties proposed for purchase or lease except for: (i) Property that is located within a floodway or coastal high hazard area; and (ii) substantial improvement. Substantial improvement for flood hazard purposes means any property rehabilitation which: (a) Increases the unit density of the property; or (b) equals or exceeds 50 percent of the market value of the property before rehabilitation, but excluding the costs for correcting health, sanitary, and safety code violations. Note: Proposed funding for substantial improvement and new construction are subject to the Executive Order decision-making process. This may result in a disqualification of your application (refer above to number 7 under “Instructions to Applicants”).

* Documentation: You are to select A or B for the condition that best describes your property and report the option selected in item 3 of section G.

A. You are providing HUD with a finding made by a qualified data source stating that the property is not located within the Special Flood Hazard Area (SFHA).

B. You are providing HUD with a finding made by a qualified data source that the property is located within the Special Flood Hazard Area (SFHA) and indicating if whether the property is located within a floodway or coastal high hazard area.

The information for A and B must provide HUD with the flood map panel number obtained either from the official maps issued for the National Flood Insurance Program or from the property appraisal report used to make the finding.

For all proposed rehabilitation of properties that are located within a SFHA, you must provide HUD with estimates of: (i) the property value before rehabilitation, and (ii) the cost of the proposed rehabilitation. Provide the estimates in section F.

If the property is found to be located within a SFHA, proceed to item 4 on flood insurance protection. Otherwise proceed to item 5.

4. Building requiring flood insurance protection:

Threshold: HUD will estimate the amount and period of flood insurance coverage that is to be made a condition of approval of any HUD financial assistance for a building located within a Special Flood Hazard Area (SFHA). The Flood Disaster Protection Act of 1973 requires owners of HUD-assisted buildings to purchase and maintain flood insurance protection as a condition of approval of any HUD financial assistance for the proposed purchase, rehabilitation, or new construction of any SFHA building. The law prescribes the coverage period and dollar amount of flood insurance protection.

Proof of Purchase of Flood Insurance Protection: You must provide HUD with proof of purchase of flood insurance protection for any proposed Youthbuild building located within the SFHA, whenever HUD funding is being used for property purchase, rehabilitation, or new construction. The standard documentation for compliance is the Policy Declarations form issued by the National Flood Insurance Program (NFIP) or issued by any property insurance company offering coverage under the NFIP. Whenever the requirement applies to coverage which extends to future years, the grant agreement will require that the insured has its insurer automatically forward to HUD, in the same manner as to the insured, an information copy of the Policy Declarations form, which is used to verify compliance. The Youthbuild applicant's responsibility ceases in cases where a mortgage loan is approved requiring flood insurance as condition of loan approval by a lender (other than the Youthbuild applicant), whose responsibility is to assure flood insurance coverage for the loan.

*Documentation: You are to select either A or B for the condition that best describes your property and report the option selected in item 4 of section G.

A. You already own the property and attach a copy of the Policy Declarations form confirming that a current flood insurance policy is in effect and the policy provides adequate coverage for the building proposed for the Youthbuild project located within the Special Flood Hazard Area.

B. After you have purchased (or constructed, in the case of proposed new construction) the Youthbuild property, you must obtain and maintain flood insurance protection. For the term and amount of coverage prescribed by law, you must provide HUD with a copy of the Policy Declarations form confirming that the flood insurance policy is in effect and the policy provides adequate coverage for the Youthbuild building located within the Special Flood Hazard Area.

5. Site within clear zones or accident potential zones of airports and airfields:

Threshold: HUD policy as described in 24 CFR part 51, subpart D applies to HUD approval of financial assistance to: (a) properties located within clear zones; and (b) in the case of new construction or major rehabilitation, properties located within accident potential zones.

(a) Clear zones: New construction and major rehabilitation of a property that is located on a clear zone site is prohibited. HUD financial assistance in a clear zone is allowed only for the proposed lease, purchase, or minor rehabilitation of properties (24 CFR 51.302(a)). For HUD funding approval for any property in a clear zone: (a) HUD will give advance written notice to the prospective property buyer in accord with 24 CFR 51.303(a)(3); and (b) a copy of the HUD notice signed by the prospective property buyer will be placed in the property file. The written notice informs the prospective property buyer of: (i) The potential hazards from airplane accidents which studies have shown more likely to occur within clear zones than in other areas around the airport/airfield; and (ii) the potential acquisition by airport or airfield operators, who may wish to buy the property at some future date as part of a clear zone acquisition program.

(b) Accident potential zones: For properties located within the accident potential zone (APZ), HUD shall determine whether the use of the property is generally consistent with Department of Defense “Land Use Compatibility Guidelines for Accident Potential Zones.”

*Documentation: You are to select either A or B for the condition that best describes your property and report the option selected in item 5 of section G.

A. The property is not located within 3,000 feet of a civil airport or military airfield.

B. If your property is located within 3,000 feet of a civil airport or military airfield, you must provide HUD with a finding from the airport operator stating whether or not the property is located within a runway clear zone at a civil airport, or a clear zone or accident potential zone at a military airfield.

For properties that are located within a runway clear zone or a clear zone or accident potential zone, if you propose to rehabilitate such a property you must provide HUD with estimates of: (i) The cost of the proposed rehabilitation, and (ii) the property value after completion of the rehabilitation. The estimates are to be provided in section F.

6. Site is or affects an historic property:

Threshold: Only if a property is proposed for rehabilitation or new construction must HUD in consultation with the State Historic Preservation Officer (SHPO), and following the Department of the Interiors Standards and Guidelines for Evaluation, make a determination whether the property is:

(a) Listed on or formally determined to be eligible for listing on the National Register of Historic Places;

(b) Located within or directly adjacent to an historic district; or

(c) A property whose area of potential effects includes an historic district or property.

Historic properties and districts are subject by law to special protection and historic preservation processing which HUD must perform to comply with the regulations of the Advisory Council on Historic Preservation (ACHP: 36 CFR part 800). Note: If you are using information from the SHPO as a qualified data source you need to allow sufficient time to obtain the information from the SHPO. You may wish to make special arrangements with the SHPO for rapid review of the proposed property where this is practicable. In addition, for properties determined to be historic properties, HUD will require 30 to 90 days in most cases for HUD to perform historic preservation compliance with the ACHP regulations. This may result in a disqualification of the application (refer above to number 7 under “Instructions to Applicants”).

*Documentation: You are to select one of the following options that best describes the condition of your property and report the option selected in item 6 of section G.

A. You propose financial assistance for rehabilitation or new construction, and are providing HUD with a SHPO's finding that the proposed Youthbuild activity:

1. Is located within an area where there are no historic properties; or

2. Will have no effect on historic properties; or

3. Will have an effect on historic properties not considered adverse

B. You propose financial assistance for rehabilitation or new construction, and are providing HUD with a SHPOs finding that the proposed Youthbuild activity will have an adverse effect on historic properties.

C. You are providing HUD with a copy of a letter from the SHPO stating any reasons for not being able to provide you with the requested information and finding.

7. Site near hazardous industrial operations:

Threshold: Properties that are located near hazardous industrial operations handling fuels or chemicals of an explosive or flammable nature are subject to HUD safety standards (24 CFR 51, Subpart C). However, under the Youthbuild program, these standards would apply only if you propose: (i) Construction of a building; (ii) conversion of a non-residential land use to a residential land use including making habitable a building condemned for habitation; or (iii) rehabilitation that increases the density of a residential structure by increasing the number of dwelling or rooming units. In the case of tanks containing common liquid fuels, the requirement for an acceptable separation distance (ASD) calculation only applies to storage tanks that have a capacity of more than 100 gallons.

*Documentation: You are to select one of the following options that best describe the condition of the property, and report the option selected in item 7 of section G.

A. The proposed project does not include: (i) Construction of a building; (ii) conversion of a non-residential land use to a residential land use including making habitable a building condemned for habitation; or (iii) rehabilitation that increases the density of a residential structure by increasing the number of dwelling or rooming units.

B. The proposed project includes: (i) construction of a building; (ii) conversion of a non-residential land use to a residential land use including making habitable a building condemned for habitation; or (iii) rehabilitation that increases the density of a residential structure by increasing the number of dwelling or rooming units; and you are providing HUD with a finding by a qualified data source that the proposed property is not located within the immediate vicinity of hazardous industrial operations handling fuel or chemicals of an explosive or flammable nature by citing data used and the maps used.

C. The applicant proposes: (i) Construction of a building; (ii) conversion of a non-residential land use to a residential land use including making habitable a building condemned for habitation; or (iii) rehabilitation that increases the density of a residential structure by increasing the number of dwelling or rooming units; and the grantee provides HUD a finding made by a qualified data source stating: (1) That the proposed property is located within the immediate vicinity of hazardous industrial operations handling fuel or chemicals of an explosive or flammable nature; (2) the type and scale of such hazardous industrial operations; (3) the distance of such operations from the proposed property; (4) a preliminary calculation of the acceptable separation distance (ASD) between such operations and the proposed property; and (5) a recommendation as to whether it is safe to use the property in accord with 24 CFR 51, Subpart C.

8. Site near high noise source:

Threshold: For new construction which is to occur in high noise areas (i.e. exceeding 65 decibels), applicants shall incorporate noise attenuation features to the extent required by HUD environmental criteria and standards contained in Subpart B (Noise Abatement and Control) of 24 CFR part 51. Approvals in a Normally unacceptable noise zone require a minimum of 5 decibels additional sound attenuation for buildings having noise-sensitive uses if the day-night average sound level is greater than 65 decibels but does not exceed 70 decibels, or a minimum of 10 decibels of additional sound attenuation if the day-night average sound level is greater than 70 decibels but does not exceed 75 decibels.

Proposed housing sites with above 75 decibels are unacceptable and the noise attenuation measures require the approval of the Assistant Secretary for Community Planning and Development. In Unacceptable noise zones, HUD strongly encourages conversion of noise-exposed sites to non-housing land uses compatible with the high noise levels.

For major rehabilitation projects involving five or more dwelling units located in the “Normally Unacceptable” and “Unacceptable” noise zones, HUD actively seeks to have project sponsors incorporate noise attenuation features, given the extent and nature of the rehabilitation being undertaken and the level of exterior noise exposure.

*Documentation: You are to select A or B for the condition that best describes their project and report the option selected in item 8 of section G.

A. You are providing HUD with a finding made by a qualified data source stating that the property proposed by the applicant for a major rehabilitation or new construction project involving five or more dwelling units is not located within: (I) 1,000 feet of a major noise source, road, or highway; (ii) 3,000 feet of a railroad; or (iii) 1 mile of a civil or 5 miles of a military airfield.

B. The applicant provides HUD with a finding made by a qualified data source: (I) Stating that the plans for the property proposed by the applicant for a major rehabilitation or new construction project involving five or more dwelling units will incorporate noise attenuation features in accord with HUD environmental criteria and standards contained in Subpart B (Noise Abatement and Control) of 24 CFR part 51; (ii) stating whether the property is located within a “Normally Unacceptable” or “Unacceptable” noise zone; and (iii) providing HUD plans and a statement of the anticipated interior noise levels.

9. Site affecting coastal zone management:

Threshold: Only for proposed activities involving new construction or major rehabilitation of multifamily housing does the Coastal Zone Management (CZM) authority apply. Projects that can affect the coastal zone must be carried out in a manner consistent with the approved State coastal zone management program under Sec. 307 of the Coastal Zone Management Act of 1972, as amended.

*Documentation: You are to select either A or B for the condition that best describes the project and report the option selected in item 9 of section G.

A. You state that your project is not located within a coastal zone, as defined by the States Coastal Zone Management Plan.

B. If your project is located within a coastal zone, you are providing HUD with a finding made by the State CZM agency that the project proposed by the applicant is consistent with the approved State coastal zone management program.

10. Site affecting a sole source aquifer:

Threshold: The sole source aquifer authority applies primarily to activities involving proposed new construction or conversion to housing of non-residential property. Projects which can affect aquifers designated by the Environmental Protection Agency (EPA) must be reviewed for impact on such designated aquifer sources. The Safe Drinking Water Act of 1974 requires protection of drinking water systems which are the sole or principal drinking water source for an area and which, if contaminated, would create a significant hazard to public health.

*Documentation: You are to select either A or B for the condition that best describes their project and report the option selected in item 10 of section G.

A. You are providing HUD with a finding made by a qualified data source stating that the proposed property is not located on nor does it affect a sole source aquifer designated by EPA.

B. If your project proposes new construction or conversion activities that are located on or may affect any sole source aquifer designated by the EPA, you are identifying the aquifer and providing HUD with an explanation of the effect on the aquifer from a qualified data source, and/or a copy of any comments on the proposed project that have been received from the EPA Regional Office as well as from any State or local agency with jurisdiction for protecting the drinking water system.

11. Site affecting endangered species:

Threshold: The Endangered Species Protection (ESP) authority applies primarily to activities involving proposed new construction or conversion to housing of a non-residential property. Projects which can affect listed or proposed endangered or threatened species or critical habitats require consultation with the Department of the Interior in compliance with the procedure of Section 7 of the Endangered Species Act of 1973, as amended.

*Documentation: You are to select either A or B for the condition that best describes the property and report the option selected in item 11 of section G.

A. If your project proposes new construction or conversion activities, you are providing HUD with a finding made by a qualified data source that the project is not likely to affect any listed or proposed endangered or threatened species or critical habitat. The finding shall indicate whether the project is located within a critical habitat, and if so, explain why the project is not likely to affect the species or habitat.

B. If your project proposes new construction or conversion activities that are likely to affect listed or proposed endangered or threatened species or critical habitat, you are providing HUD with a statement from a qualified data source explaining the likely affect, and/or a finding made by the Fish and Wildlife Service of the Department of the Interior stating as acceptable the proposed mitigation that you will provide to protect any affected endangered or threatened species or critical habitat.

12. Site affecting a designated wetland:

Threshold: New construction or conversion to housing of a non-residential property located within a designated wetland is subject to Executive Order 11990, Protection of Wetlands. This Executive Order directs HUD to avoid, where practicable, financial support for new construction on wetland property. Note: Proposed funding for new construction or conversion is subject to the Executive Order decision making process. This may result in a disqualification of the application (refer above to number 7 under “Instructions to Applicants”).

*Documentation: You are to select A or B for the condition that best describes the property and report the option selected in item 12 of section G.

A. You are providing HUD with a finding made by a qualified data source stating that the property is not located within a designated wetland where new construction or conversion is proposed.

B. You are providing HUD with a finding made by a qualified data source that the property is located within a designated wetland, which applies only to property where new construction or conversion is proposed.

The information for A and B must provide HUD with the wetland panel number obtained from official maps issued by the Department of the Interior on the basis of which the finding was made, or where DOI has not mapped the area, a letter or other documentation from the Army Corps of Engineers or other Federal agency.

13. Significant impact to the human environment:

Threshold: HUD must perform an environmental assessment of any property proposed for major rehabilitation or new construction except for a single-family property having one-to-four dwelling units. It is the policy of the Department to reject proposals which have significant adverse environmental impacts and to encourage the modification of projects in order to enhance environmental quality and minimize environmental harm. This policy is authorized by the National Environmental Policy Act (NEPA) and the implementing regulations of the Council on Environmental Quality and HUD's Environmental Rule at 24 CFR part 50.

*Documentation: You are to provide HUD with any information on any adverse environmental impacts that affect the property or that the project would create. You are to report this data on a separate sheet and attach it to Exhibit 2C(15). Examples of adverse impacts are: soil instability and erodibility; natural or person-made hazards and nuisances; air pollution; inadequate infrastructure (e.g., water supply, waste water treatment, storm water management, solid waste collection), inadequate public services (i.e., fire, police, health care, social services, schools, parks) and transportation; and encroachment on prime farmlands and wild and scenic river areas. You are to identify any significant impacts to the human environment.

Appendix B

The non-standard forms, which follow, are required for your Youthbuild application.

BILLING CODE 4210-32-P

FUNDING AVAILABILITY FOR THE RURAL HOUSING AND ECONOMIC DEVELOPMENT PROGRAM

PROGRAM OVERVIEW

Purpose of Program: The purpose of the Rural Housing and Economic Development (RHED) program is to build capacity at the State and local level for rural housing and economic development and to support innovative housing and economic development activities in rural areas. The funds made available under this program will be awarded competitively, through a selection process conducted by HUD in consultation with the United States Department of Agriculture (USDA).

Available Funds: Approximately $25 million in Fiscal Year (FY) 2002 funding.

Eligible Applicants: Local, rural, non-profit organizations; community development corporations; federally recognized Indian tribes; State housing finance agencies; and, State economic development and/or community development agencies.

Application Deadline: April 26, 2002.

Match: None.

ADDITIONAL INFORMATION

If you are interested in applying for funding under this program, please review carefully the General Section of this SuperNOFA and the following additional information:

I. Application Due Date, Further Information and Technical Assistance

Application Due Date: Applications for RHED grants are due on or before April 26, 2002.

See the General Section of this SuperNOFA for specific procedures governing the form of application submission (e.g., mailed applications, express mail, or overnight delivery).

Application Submission Procedures. New Security Procedures. HUD has implemented new security procedures that apply to application submission . Please read the following instructions carefully and completely. HUD will not accept hand-delivered applications. Applications may be mailed using the United States Postal Service (UPS) or may be shipped via the following delivery services: United Parcel Service (UPS), FedEx, DHL, or Falcon Carrier. No other delivery services are permitted into HUD Headquarters without an escort. You must, therefore, use one of the four carriers listed above.

Mailed Applications. Your application will be considered timely filed if your application is postmarked on or before 12:00 midnight on the application due date and received in HUD Headquarters on or within fifteen (15) days of the application due date. Applicants must obtain and save a Certificate of Mailing showing the date, when your application was submitted to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express service no later than the application due date. Due to new security measures, you must use one of four carrier services that do business with HUD Headquarters regularly. These services are UPS, DHL, FedEx and Falcon Carrier. Delivery by these services must be made during HUD's Headquarters business hours, between 8:30 AM and 5:30 PM Eastern time, Monday through Friday. If these companies do not service your area, you should submit your application via the United States Postal Service.

Address for Submitting Applications: Completed applications (one original and two copies) must be submitted to: Processing and Control Unit, Room 7255, Office of Community Planning and Development, Department of Housing and Urban Development, 451 Seventh Street, SW., Washington, DC 20410; ATTN: Office of Rural Housing and Economic Development. When submitting your application, please include your name, mailing address (including zip code), telephone number, and fax number (including area code).

For Application Kits. An application kit is not necessary for submitting an application in response to this announcement. This announcement contains all the information necessary for the submission of your application for the Rural Housing and Economic Development Program.

For Further Information and Technical Assistance. All information and materials required to submit an application for funding under the HUD Rural Housing and Economic Development program are included in the Appendix to this NOFA.

For information concerning the HUD Rural Housing and Economic Development program, contact Mr. Marty Horwath, Community Planning and Development Specialist, or Ms. Holly A. Kelly, Economic Development Program Specialist, Office of Community Planning and Development (CPD), Department of Housing and Urban Development, 451 7th Street, SW., Room 7136, Washington, DC 20410; telephone 202-708-2035 (this is not a toll-free number). Persons with speech or hearing impairments may access this number via TTY by calling the toll-free Federal Information Relay Service at 1-800-877-8339.

Prior to the application deadline, HUD staff at the number above will be available to provide general guidance, but not guidance in actually preparing the application. Following selection, but prior to award, HUD staff will be available to assist in clarifying or confirming information that is a prerequisite to the offer of an award by HUD.

Satellite Broadcast. HUD will hold an information broadcast via satellite for potential applicants to learn more about the program and preparation of an application. For more information about the date and time of this broadcast, consult the HUD web site at www.hud.gov.

II. Amount Allocated

(A) Available Funds. Approximately $25 million in Fiscal Year (FY) 2002 funding is being made available through this NOFA. The breakdown for this funding is below.

(B) The FY 2002 HUD Appropriations Act. The Departments of Veterans Affairs and Housing and Urban Development, and Independent Agencies Appropriations Act, 2002 (Pub. L. 107-73 approved November 26, 2001) (the “FY 2002 HUD Appropriations Act”) made $25 million in FY 2002 funds available under the RHED program.

(C) Funding Categories/ Maximum Award Amounts. HUD will award up to approximately $25 million on a competitive basis in the following funding categories. Applicants must apply for funds in one of the two categories: Category (1), Capacity Building; or Category (2), Support for Innovative Housing and Economic Development Activities. Only one application will be accepted from any given organization.

(1) Capacity Building. HUD will award up to approximately $10 million to build capacity. This amount will go directly to local rural non-profits, community development corporations (CDCs) and federally recognized Indian tribes to increase an organization's capacity to support innovative housing and economic development activities. The maximum amount awarded to a successful applicant in this category will be $150,000. If you received two or more RHED grant for capacity building since 1999, you are not eligible to apply under this category. If you received an RHED grant in 2001 for capacity building, you are eligible for a maximum award of $100,000 under this category.

(2) Support for Innovative Housing and Economic Development Activities. HUD will award up to approximately $15 million to federally recognized Indian tribes, State Housing Finance Agencies (HFA)s, state community and/or economic development agencies, local rural non-profits and CDCs to support innovative housing and economic development activities in rural areas nationwide. The maximum amount awarded to a successful applicant in this category will be $400,000.

III. Program Description; Eligible Applicants; Eligible Activities

(A) Program Description.

(1) Background. There is a great need for expanding the supply of housing in rural America, particularly affordable housing for low-income families and individuals. A number of rural areas have experienced rapid growth as a result of employment opportunities, and now face a shortage of affordable housing. In other rural areas, out-migration other factors contributing to economic dislocation, have caused severe economic distress. There has been a growing national recognition of the need to enhance the capacity of federally recognized Indian tribes, local rural non-profits, CDCs, and State community and/or economic development agencies to expand the supply of affordable housing and to engage in economic development activities in rural areas.

A number of resources are available from the Federal government to address these problems, including programs of the United States Department of Agriculture (USDA), the Economic Development Administration (EDA), the Appalachian Regional Commission (ARC), the Department of Interior (for Indian Tribes) and HUD. The Rural Housing and Economic Development program has been developed to supplement these resources and to focus specifically on capacity building and innovative approaches to housing and economic development in rural areas. In administering these funds, HUD encourages you to coordinate your activities supported by any of these agencies.

(2) Definitions. Appalachia's Distressed Counties means those counties in Appalachia that ARC has determined to have unemployment and poverty rates that are 150 percent of the respective U.S. rates and per capita income that is less than 67 percent of the U.S. per capita income, and counties with 200 percent of the U.S. poverty rate and one other indicator such as percent of overcrowded housing, etc. Appendix B to this notice identifies ARC's list of distressed counties.

Colonia means any identifiable community that:

(i) Is located in the State of Arizona, California, New Mexico, or Texas;

(ii) Is located in the U.S.-Mexico border region (that is, within 150 miles of the border between the U.S. and Mexico); and

(iii) Meets objective need criteria, including lack of potable water supply, lack of adequate sewage systems, and lack of decent, safe, sanitary, and accessible housing.

Farmworker means a farm employee of an owner, tenant, labor contractor, or other operator raising or harvesting agricultural or aquacultural commodities; or a worker in the employment of a farm operator, handling, planting, drying, packing, grading, storing, delivering to storage or market, or carrying to market agricultural or aquacultural commodities produced by the operator. Seasonal farm workers are those farm employees who typically do not have a constant year round salary.

A firm commitment means the agreement by which an applicant's partner agrees to perform an activity specified in the application and demonstrates the financial capacity to deliver the resources necessary to carry out the activity, and commits the resources to the activity either in cash or through in-kind contributions and is irrevocable, subject only to approval and receipt of a FY 2002 RHED grant. Each letter of commitment should include the organization's name, the applicant's name, the proposed program, the proposed total level of commitment and responsibilities as they relate to the proposed program. The commitment must also be signed by an official of the organization legally able to make commitments on behalf of the organization and dated not earlier than the date of publication of this NOFA. In documenting a firm commitment, the applicant's partner must:

(i) Specify the authority by which the commitment is made, the amount of the commitment, the use of funds and the relationship of the commitment to the proposed investment. If the committed activity is to be self-financed, the applicant's partner must evidence its financial capability through a corporate or personal financial statement or other appropriate means. If any portion of it is to be financed through a lending institution, the participant must evidence the institution's commitment to fund the loan;

(ii) Affirm that the commitment is contingent only upon the receipt of FY 2002 RHED funds and state a willingness on the part of the signatory to sign a legally binding commitment (conditioned on HUD environmental review and approval of a property, where applicable) upon award of the grant.

Indian tribe means any entity eligible to apply for funding under the Indian Community Development Block Grant (ICDBG) program (see 24 CFR 1003.5(a)). The list of federally recognized Indian tribes can be found notice published by the Department of the Interior on March 13, 2000, at 65 FR 13299, and is also available from HUD.

Innovative housing activities means projects, techniques, methods, combinations of assistance, construction materials, and energy efficiency improvements or financing institutions or sources new to the eligible area, or its population. The innovative activities can also build upon and enhance a model that already exists.

Local rural non-profit or community development corporation means either:

(i) Any private entity with tax-exempt status recognized by the Internal Revenue Service (IRS) which serves the eligible rural area involved in the application (including local affiliates of national organizations that provide technical and capacity building assistance in rural areas); or

(ii) Any public non-profit such as a Council of Governments that will serve specific local non-profit organizations in the eligible area.

Lower Mississippi Delta Region means the eight state, 235 county/parish region defined by Congress in the Lower Mississippi Delta Development Act, Pub.L. 100-460. Appendix C to this notice identifies the counties referenced in the Act.

Rural area may be defined in one of five ways:

(i) A place having fewer than 2,500 inhabitants (within or outside of metropolitan areas).

(ii) A county with an urban population of 20,000 inhabitants or less.

(iii) Territory, persons, and housing units in the rural portions of “extended cities.” The U.S. Census Bureau identifies the rural portions of extended cities.

(iv) Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, and open space set aside for future development.

(v) Any place with a population not in excess of 20,000 and not located in a Metropolitan Statistical Area.

State economic development and/or community development agency means any state agency that has promotion of statewide or local community/economic development as its primary purpose.

State Housing Finance Agency means any state agency created to assist local communities and housing providers with financing assistance for development of housing in rural areas, particularly for low- and moderate-income people.

(3) Eligible applicants. Eligible applicants for each of the funding categories are as follows:

(a) For capacity building funding. If you are a local rural non-profit, CDC, or federally recognized Indian tribe, you are eligible for capacity building funding to carry out innovative housing and economic development activities which may also enable an applicant to become self-sustaining in the future.

(b) For support for innovative housing and economic development activities funding. If you are a local, rural non-profit; CDC; federally recognized Indian tribe; State HFA; or State economic development and/or community development agency, you may apply for funding to support innovative housing and economic development activities in rural areas.

(4) Eligible activities. The following are examples of eligible activities under the Rural Housing and Economic Development program. These examples are illustrative and are not meant to limit the activities that you may propose in your application.

(a) For capacity building funding. Capacity building for innovative rural housing and economic development involves the enhancement of existing organizations to carry out new functions and/or to more effectively perform existing functions. Activities may include, but are not limited to the following:

(i) Enhancement of existing functions or creation of new functions to provide affordable housing and economic development in rural areas;

(ii) Acquisition of additional space and support facilities;

(iii) Salaries for additional staff needed to conduct the work, including financial management specialists, and economic development specialists;

(iv) Training of staff in the areas of financial management, economic development financing, housing accessibility and visitability standards, fair housing issues and complaint filing;

(v) Development of business plans in order for the organization to be self-sustaining;

(vi) Development of Management Information Systems (MIS) and software to enable better and more accurate reporting of information to HUD and to other entities;

(vii) Development of feasibility studies and market studies;

(viii) Training on energy efficiency in construction for housing and commercial projects;

(ix) Housing counseling services including the provision of information on budgeting, access to credit and other federal program assistance available including the Section 502 Single Family Housing Loan program under the USDA;

(x) Coordinating with the USDA in holding training sessions with your staff on the Section 502 Single Family Housing loan program and other housing or economic development programs available from USDA;

(xi) Conducting conferences or meetings with other Federal and State agencies to inform residents of programs, rights and responsibilities associated with homebuying opportunities; and;

(xii) Arranging for technical assistance to conduct needs assessments, conduct asset inventories and to develop strategic plans.

(i) Administrative costs for assistance under this funding category may not exceed fifteen percent (15%) of the total grant award.

(b) For support of innovative housing and economic development activities.

(i) This category is intended to support, but not be limited to, other costs for innovative housing and economic development activities. Activities may include, but are not limited to the following:

(i) Cost for using new or innovative construction, energy efficiency or other techniques that will result in the design and/or construction of innovative housing and economic development projects;

(ii) Preparation of plans, architectural or engineering drawings;

(iii) Preparation of legal documents, government paperwork requirements and applications to allow construction of housing and economic development activities to occur in the jurisdiction;

(i) Financial assistance for the acquisition of land and buildings;

(i) Demolition of property to permit construction or rehabilitation activities to occur;

(i) Development of infrastructure to support the housing or economic development activities;

(i) Purchase of construction materials;

(ii) Job training to support the activities of the organization;

(iii) Homeownership counseling, including credit counseling, budgeting, access to credit, and other federal assistance available including the Section 502 Single Family Housing Loan program under the USDA;

(iv) Coordinating with the USDA in holding training sessions with staff on the Section 502 Single Family Housing loan program and other housing or economic development programs available from USDA;

(v) Conducting conferences or meetings with other Federal and State agencies to inform residents of programs, rights and responsibilities associated with homebuying opportunities;

(vi) Development of feasibility studies and market studies;

(vii) Development of Management Information Systems (MIS) and software to enable better and more accurate reporting of information to HUD and to other entities;

(viii) Establishing Community Development Financial Institutions (CDFIs), lines of credit, revolving loan funds, microenterprises, and small business incubators; and

(ix) Provision of direct financial assistance to homeowners/businesses/developers, etc. This can be in the form of establishing default reserves, pooling/securitization mechanisms, loans, grants, etc.

Applicants are reminded that they must affirmatively further fair housing. Grantees should demonstrate that their activities will continue to serve the populations that are in need and that beneficiaries will have a choice of innovative housing and economic development opportunities as a result of these activities.

(i) Administrative costs for assistance under this funding category may not exceed fifteen percent (15%) of the total grant award.

(5) Ineligible activities. Examples of ineligible activities for both funding categories include:

(i) the use of RHED grant funds for income payments to subsidize individuals or families;

(ii) political activities;

(iii) general governmental expenses other than expenses related to the administrative cost of the grant; or

(iv) projects and activities intended for personal gain or private use.

IV. Program Requirements

(A) General. To be eligible for funding under this program section of this SuperNOFA, you must meet the threshold and statutory or regulatory requirements applicable to all programs set forth in Section II of the General Section of the SuperNOFA. In addition to the above, you must meet the following program specific requirements.

(B) Accounting System Requirements. RHED requires that successful applicants have in place an accounting system that meets the policies, guidance, and requirements as described in the following applicable OMB Circulars and Code of Federal Regulations:

(1) OMB Circular No. A-87 (Cost Principles Applicable to Grants, Contracts and Other Agreements with State and Local Governments);

(2) OMB Circular No. A-122 (Cost Principles for Nonprofit Organizations), (3) OMB Circular No. A-133 (Audits of States, Local Governments, and Non-Profit Organizations);

(4) 24 CFR part 84 (Grants and Agreements with Institutions of Higher Education, Hospitals, and other Non-Profit Organizations); and

(5) 24 CFR part 85 (Administrative Requirements for Grants and Cooperative Agreements to State, Local, and Federally recognized Indian tribal governments).

These documents apply to the award, acceptance and use of assistance under the Rural Housing and Economic Development program NOFA, and to the remedies for noncompliance, except when inconsistent with the provisions of the FY 2002 HUD Appropriations Act, other Federal statutes or the provisions of this NOFA.

(C) Ethical Standards. HUD requires that all grantees adhere to core values and ethical business practices, as described in Section II (B)(2) of the General Section of the SuperNOFA as a condition of the award.

(D) Ensuring the Participation of Small Businesses, Small Disadvantaged Businesses, and Women-Owned Businesses. HUD requires grantees to use small businesses, small disadvantaged businesses and women-owned businesses in conducting your work activities, if possible. Please refer to Section II (F) of the General Section of the SuperNOFA for specific requirements.

(E) Forms, Certifications and Assurances. You, the applicant, are required to submit signed copies of the standard forms, certifications and assurances included in the Appendix of this NOFA signed by the managing officer of your organization.

(F) Environmental Review. Selection for award does not constitute approval of any proposed sites. Following selection for award, HUD will perform an environmental review of activities proposed for assistance under this part, in accordance with 24 CFR part 50. The results of the environmental review may require that proposed activities be modified or that proposed sites be rejected. Applicants are particularly cautioned not to undertake or commit funds for acquisition or development of proposed properties (including establishing lines of credit that permit financing of such activities or making commitments for loans that would finance such activities from a revolving loan fund capitalized by funds under this NOFA) prior to HUD approval of specific properties or areas. Each application must contain an assurance that you, the applicant, will assist HUD to comply with part 50; will supply HUD with all available, relevant information to perform an environmental review for each proposed property; will carry out mitigating measures required by HUD or select alternate property; and will not acquire, rehabilitate, convert, demolish, lease, repair or construct property, nor commit or expend HUD or local funds for these program activities with respect to any eligible property, until HUD approval of the property is received. In supplying HUD with environmental information, grantees are to use the same guidance as provided in the Notice CPD-99-01, entitled “Field Environmental Processing for HUD Colonias Initiative (HCI) grants” issued January 27, 1999.

(G) Conflicts of Interest. Consultants and experts assisting HUD in rating and ranking applicants for funding under this NOFA are subject to 18 U.S.C. 208. Refer to Section II (K) of the General Section of the SuperNOFA.

(H) Grant Amounts. In the event, you, the applicant, are awarded a grant that has been reduced (e.g. the application contained some activities that were ineligible or budget information did not support the request), you will be required to modify your project plans and application to conform to the terms of HUD's approval before execution of the grant agreement. HUD reserves the right to reduce or de-obligate the award if approvable modifications to the proposed project are not submitted by the awardee in the required amounts in a timely manner. Any modifications must be within the scope of the original application. HUD reserves the right not to make awards under this NOFA.

(I) Grant Period. Recipients will have 36 months from the date of the executed grant agreement to complete all project activities. .

(J) Lead-Based Paint Hazard Control. All property assisted under the Rural Housing and Economic Development program is covered by the Lead-Based Paint Poisoning Prevention Act (42 U.S.C. 4821-4846) and HUD's implementing regulations at 24 CFR part 35.

(K) Adjustments to Funding. In addition to the items identified under Section III (E) of the General Section of the SuperNOFA, HUD:

(1) reserves the right to utilize this year's funding to fund previous year's errors prior to rating and ranking this year's applications. HUD reserves the right to reallocate funds between categories to achieve the maximum allocation of funds in both categories.

(2) If after all eligible applicants have been selected for funding in Category 2 and funds remain, the remaining funds will be allocated to Category 1 to fund additional eligible applications in that category. If a balance of funds remain, HUD reserves the right to utilize those funds toward the following year's competetion.

V. Policy Priorities

You should document the extent to which HUD's policy priorities are furthered by the proposed activities. Applicants that include activities that can result in the achievement of these Departmental policy priorities as described below and in Section VI of the General Section of this SuperNOFA will receive higher rating points in evaluating your application for funding. Four Departmental policy priorities are listed below. You will receive 1 rating point for each priority addressed in your program of activities and associated with performance measurements and your management plan under Rating Factor 3, described in Section VI of this program NOFA. Such priorities include:

(1) Increasing homeownership for low- and moderate-income persons, persons with disabilities and the elderly, and minorities and families where English may be a second language.

(2) Encouraging visitability in new construction and substantial rehabilitation activities, allowing a person with mobility impairments access into a home, but not requiring that all features be made accessible. A visitable home also serves persons without disabilities, such as a person pushing a stroller or delivering a large appliance. Encouraging universal design, simplifying life for everyone by making products, communications and the built environment more usable by as many people at little or no extra cost. Universal design is the design of products and environments to be usable by all people, to the greatest extent possible at little or not extra cost.

(3) Improving computer access, literacy, and employment opportunities, by providing access to computers to low- and moderate-income adults and children who do not have access and therefore may be disadvantaged with respect to education, work and training opportunities. HUD encourages applicants to incorporate education and job training opportunities through initiatives such as HUD's Neighborhood Networks and 20/20 Education communities in their programs.

(4) Increasing economic mobility choices for rural residents. HUD wants to improve the quality of life for rural residents by providing more residents a chance to move into homeownership opportunities or to provide a community with greater housing choices.

VI. Application Selection Process

(A) Rating and Ranking.

(1) General. To review and rate applications, HUD may establish panels including outside experts or consultants to obtain certain expertise and outside points of view, including views from other Federal agencies.

(2) Rating. All applicants for funding will be evaluated against the criteria below. In evaluating applications for funding, HUD will take into account an applicant's past performance in managing funds, including the ability to account for funds appropriately; timely use of funds received either from HUD or other Federal, State or local programs; meeting performance targets for completion of activities and number of persons to be served or targeted for assistance. HUD may use information relating to these items based on information at hand or available from public sources such as newspapers, Inspector General or Government Accounting Office Reports or Findings, hotline complaints that have been proven to have merit, or other such sources of information. In evaluating past performance, HUD will deduct points from rating scores as specified under Rating Factor 1, Capacity of the Applicant and Relevant Organizational Experience, described in this Section below.

(3) Ranking. Applicants will be ranked separately within each of the two funding categories. Applicants will be selected for funding in accordance with their rank order in each category. An application must receive a minimum score of 70 points to be eligible for funding. If two or more applications are rated fundable and have the same score, but there are insufficient funds to fund all of them, the applications(s) with the highest score for Rating Factor 2 (Need and Extent of the Problem) shall be selected. If applications still have the same score, the highest score in the following factors will be selected sequentially until one highest score can be determined, Rating Factor 3 (Soundness of Approach), Rating Factor 1 (Capacity and Experience), Rating Factor 5 (Coordination, Self-Sufficiency, and Sustainability) and Rating Factor 4 (Leveraging Resources). To be eligible for funding in the Innovative category, an application must have a minimum score of 30 points for the total combined number of points for Rating Factors 1 and 3. To be eligible for funding in the Capacity Building category, an application must have a minimum score of 25 points for Rating Factor 3.

(B) Initial screening. During the period immediately following the application deadline, HUD will screen each application to determine eligibility. Applications will be rejected if they:

(1) Are submitted by ineligible applicants (including applicants that do not meet the threshold requirements described in Section II(B) of the General Section of the SuperNOFA);

(2) Do not serve an eligible rural area;

(3) Do not meet the objectives of the RHED program;

(4) Propose a program for which significant activities are ineligible.

(C) Rating Factors for Award Used to Evaluate and Rate Applications. The factors for rating and ranking applicants, and maximum points for each factor, are provided below. The maximum number of points for this program is 102. This includes two RC/EZ/EC bonus points, as described in the General Section of the SuperNOFA.

(D) Notification of Approval and Disapproval. HUD will notify you whether or not you have been selected for an award. If you are selected, HUD's notice to you of the amount of the grant award based on the approved application will constitute HUD's preliminary approval, subject to negotiation and execution of the grant agreement by HUD.

(E) Applicant Debriefing. Any applicant can obtain a debriefing of their application. Please refer to Section VII (E) of the General Section of the SuperNOFA for details on the conditions and timeframes for requesting a debriefing. In addition, applicants requesting a debriefing must send a written request to Ms. Jackie W. Mitchell, Director, Office of Rural Housing and Economic Development (RHED), at the address listed in Section I of this NOFA under “For Further Information and Technical Assistance.”

Rating Factor 1—Capacity of the Applicant and Relevant Organizational Experience (15 points)

This rating factor addresses the extent to which you have the organizational resources necessary to successfully implement your proposed work plan as further described in Rating Factor 3 in a timely manner within the 36 month award period.

Rating standards applicable to individual funding categories. The two funding categories have different objectives. Accordingly, in addition to the generally applicable rating standard discussed above, different standards as discussed below will be used to judge the experience and qualifications of the applicants for each of the two funding categories. HUD fully supports emerging organizations who desire to develop internal capacity. Therefore, the following categories will be evaluated:

(1) For Capacity Building applications. (15 points) Team members, composition, experience, organizational structure and management capacity. Your response to this subfactor should clearly state the need which your organization is to address through the request for assistance. In addition, you should describe how the enhanced capacity realized through the assistance will fulfill that need. HUD will evaluate the experience of your project director, core staff, any outside consultants, contractors, subrecipients, and project partners to implement all of the work activities in your workplan as they relate to innovative housing and economic development activities. In evaluating your capacity to do the work, HUD will assess the recentness and relevancy of the prior work experience of each of the parties listed above to execute the prescribed activities; the services that consultants or other parties will provide to fill gaps in your staffing structure to enable you to carry out the proposed workplan; the experience of your project director in managing projects of similar size, scope, and dollar amount; the lines of authority and procedures that you have in place for ensuring that workplan goals and objectives are being met, consultants and other project partners are performing as planned, and that beneficiaries are being adequately served. In responding to this sub-factor, please indicate how the capacity building assistance will strengthen or otherwise impact your organization's current housing or economic development program portfolio, or if you are a new grantee, how will the capacity assistance ensure that you can carry out your proposed activities. In judging your response to this factor, HUD will only consider work experience gained within the last 3 years. When responding, please be sure to provide the dates, job titles and relevancy of the past experience to work undertaken by the employee or contractor under your proposed RHED application. The more recent, relevant, and successful the experience is of your team members in relationship to the workplan activities, the greater the number of points that you will receive.

(2) For Support for Innovative Rural Housing and Economic Development Activities applications.

(a) (5 points) Team members, composition, and experience. HUD will evaluate the experience of your project director, core staff, any outside consultants, contractors, subrecipients, and project partners to implement all of the work activities in your workplan. In evaluating your capacity to do the work, HUD will assess the recentness and relevancy of the prior work experience of each of the parties listed above, to execute the prescribed activities; the services that consultants or other parties will provide to fill gaps in your staffing structure to enable you to carry out the proposed workplan; the experience of your project director in managing projects of similar size, scope, and dollar amount; the lines of authority and procedures that you have in place for ensuring that workplan goals and objectives are being met, that consultants and other project partners are performing as planned, and that beneficiaries are being adequately served. In judging your response to this factor, HUD will only consider work experience gained within the last 7 years. When responding, please be sure to provide the dates, job titles and relevancy of the past experience to work undertaken by the employee or contractor under your proposed RHED application. The more recent, relevant, and successful the experience is of your team members in relationship to the workplan activities, the greater the number of points that you will receive.

(b) (5 points) Organizational structure and management capacity. HUD will evaluate the extent to which you can demonstrate your organization's ability to manage a workforce composed of full time and/or part-time staff as well as any consultant staff and your ability to work with community-based groups or organizations in resolving issues related to affordable housing and economic development. In evaluating this sub-factor, HUD will take into account your experience in working with community-based organizations to design and implement programs which address the identified housing and economic development issues. The more recent, relevant, and successful the experience is of your organization and any participating entities, the greater the number of points that you will receive.

(c) (5 points) Experience with performance based funding requirements. HUD will evaluate your experience in producing timely products and reports in any previous grant programs undertaken with HUD funds or other Federal, state, local or non-profit or for-profit organization funds. In assessing points for this sub-factor, HUD reserves the right to take into account your past performance in meeting performance and reporting goals on any previous HUD awards. HUD will deduct one point for each of the following activities related to previous HUD grant programs for which unsatisfactory performance has been verified and related to: (1) Managing funds, including the ability to account for funds appropriately; (2) timely use of funds received either from HUD or other Federal, State, or local programs; and (3) significant and consistent failure to met performance targets. Among the specific outcomes to be measured are the number of jobs created or retained the number of people trained, the number of housing units rehabilitated or constructed and made available for low- and moderate-income persons, or other relevant objective performance measures related to your previous job experience and/or grant programs. Applicants that can demonstrate a closer and greater linkage between the expected outcomes and the previously generated outcomes will receive higher points for this sub-factor.

Rating Factor 2—Need and Extent of the Problem (25 Points)

The Rural Housing and Economic Development program has been designed to address the problems of rural poverty, inadequate housing and lack of economic opportunity. This Factor addresses the extent to which there is need for funding the proposed activities based on levels of distress, and an indication of the urgency of meeting the need/distress in the applicant's target area. In responding to this Factor, applications will be evaluated on the extent to which the level of need for the proposed activity and the urgency in meeting the need are documented and compared, vis-à-vis, the target area, and national data.

(1) In applying this Factor, HUD will compare current levels of need in the area (i.e. Census Tract(s) or Block Groups), immediately surrounding the project site or the target area to be served by the proposed project and in the national level of need. This means that an application that provides data that show levels of need in the project area expressed as a percent greater than the national average, will be rated higher under this Factor. Notwithstanding the above, an applicant proposing a project to be located outside the target area could still receive points under the Need Factor if a clear rationale and linkage is provided linking the proposed project location and the benefits to be derived by persons living in more distressed area(s) of the applicant's target area.

(2) Applicants should provide data that address indicators of need as follows:

(a) Poverty Rate (5 points)—data should be provided in both absolute and percentage form (i.e., whole numbers and percents) for the target area(s). An application that compares the local poverty rate in the following manner to the national average at the time of submission will receive points under this section as follows:

(i) Less than the national average = 0 points;

(ii) Equal to but less than twice the national average = 1 points;

(iii) Twice but less than three times the national average = 3 points;

(iv) Three or more times the national average = 5 points.

(b) Unemployment (5 points)—for the target area:

(i) Less than the national average = 0 points;

(ii) Equal to but less than twice the national average = 1 points;

(iii) Twice but less than three times the national average = 2 points;

(iv) Three but less than four times the national average = 3 points;

(v) Four but less than five times the national average = 4 points;

(vi) Five or more times the national average = 5 points.

(c) Other indicators of social and/or economic decline that best capture the applicant's local situation (5 points)—Examples that could be provided under this section are information on the community's stagnant or falling tax base, including recent commercial or industrial closings, housing conditions, such as the number and percentage of substandard and/or overcrowded units, rent burden (defined as average housing cost divided by average income) for the target area, local crime statistics, etc. To the extent that the applicant's statewide or local Consolidated Plan, its Analysis of Impediments to Fair Housing choice (AI), and/or its Anti-Poverty Strategy identify the level of distress in the community and the neighborhood in which the project is to be carried out, references to such documents should be included in preparing the response to this Factor.

(3) In rating applications under this Factor, HUD reserves the right to consider sources of available objective data other than, or in addition to, those provided by applicants, and to compare such data to those provided by applicants for the project site. This data includes the use of U.S. Census data or information received from USDA.

(a) HUD requires use of sound and reliable data (e.g., U.S. Census data, State statistical reports, university studies/reports that are verifiable) to support distress levels cited in each application. A source for all information along with the publication or origination date must also be provided.

(b) Updated Census data are available for the following indicators:

(i) Unemployment rate—estimated monthly for counties, with a two-month lag;

(ii) Population—estimated for incorporated places and counties, through 2000;

(c) Poverty rate—1990 data being the most recent available.

(d) Demographics of Distress—Special Factors (10 points). Because of the concern of HUD with meeting the needs of certain underserved areas, you will be awarded a total of ten points if you are located in or propose to serve one or more of the following populations, your application demonstrates that 100 percent of the beneficiaries supported by RHED funds are in one or more of the following populations. You must also specifically identify how each population will be served and that the proposed service area meets the definition of “eligible rural area” as described in Section III(A)(2) of this NOFA:

(i) Areas with very small populations in non-urban areas (2,500 population or less);

(ii) Seasonal farmworkers;

(iii) Federally recognized Indian Tribes;

(iv) Colonias;

(v) Appalachia's Distressed Counties; or

(vi) The Lower Mississippi Delta Region (8 States and 235 counties/parishes). For these underserved areas, you should ensure that the populations that you serve and the documentation that you provide is consistent with the information described in the above paragraphs under this rating factor.

Rating Factor 3—Soundness of Approach (40 Points)

This factor addresses the overall quality of your proposed workplan, taking into account the project and the activities proposed to be undertaken; the cost-effectiveness of your proposed program; and the linkages between identified needs, the purposes of this program and your proposed activities and tasks. In addition, this factor addresses your ability to ensure that a clear linkage exists between innovative rural housing and economic development. In assessing cost-effectiveness, HUD will take into account your staffing levels, beneficiaries to be served, a timetable for the achievement of program outcomes, the delivery of products and reports and any anticipated outcomes or products. You will receive a greater number of points if your workplan is consistent with the purpose of the RHED program, your program goals and the resources provided.

(a) (20 points) Management Plan. A clearly defined management plan which identifies each of the projects and activities you will carry out to further the objectives of this program; describes the linkage between rural housing and economic development activities; and addresses the needs identified in Factor 2, including needs that had been previously identified in a statewide or local Analysis of Impediments to Fair Housing Choice (AI) or Consolidated Plan. The populations that were described in Rating Factor 2 for the purpose of documenting need should be the same populations which will receive the primary benefit of the activities, both immediately and longterm. The benefits should be affirmatively marketed to those populations least likely to apply for and receive these benefits without such marketing. Your timetable should address the measurable goals and objectives to be achieved through the proposed activities; the method you will use for evaluating and monitoring program progress with respect to those activities and the method you will use to ensure that the activities will be completed on time and within your proposed budget estimates. Applicants that have a clearly defined management plan and which can produce results in less than 36 months will receive higher rating points for this sub-factor. Your management plan should also include the budget for your program, broken out for each line item. Documented projected cost estimates from outside sources are also required. Applicants should submit their workplan on a spreadsheet showing each project, to be undertaken and the tasks (to the extent necessary or appropriate) in your workplan to implement the project with your associated budget estimate per activity/task. Your workplan should provide the rationale for your proposed activities and any assumptions used in determining your project timeline and budget estimates. Failure to provide your rationale may result in an application receiving fewer points for lack of clarity in the proposed management plan. Applicants that propose as part of their workplan activities that address and support HUD's policy priority areas as outlined in Section (V) of this NOFA will receive one rating point for each of the policy priorities described under this sub-factor.

(b) (15 points) Expected Outcomes. HUD encourages applicants to include in their workplans, program measures to ensure that goals established in your application can be accounted for and independently assessed to ensure that performance measures have been met. HUD will be assessing outcomes resulting from your proposed workplan for the likelihood it will result in measurable and achievable outcomes that will alleviate or address the needs described in Rating Factor 2 and that those outcomes can and will be sustained beyond the grant period, without further assistance from HUD. You must include in this sub-factor a qualitative or quantitative description of estimated outcomes in order to receive points for this sub-factor. Outcomes may be described in terms of the estimated number of new units constructed or units rehabilitated; jobs retained or created; loans financed; individuals trained, counseled or assisted; and/or number of persons on welfare or under-employed trained in a career path or apprenticeship program.

The exact nature of the expected outcomes will vary according to your proposed workplan. Applicants that propose activities to increase their capacity to carry out innovative rural housing and economic development activities should include among their projected outcomes performance measures for maintaining the financial health and integrity of the organization. Applicants that can demonstrate clearly identified outcomes and the means for ensuring that outcomes will be tracked and are likely to be achieved will receive a greater number of points under this sub-factor.

(c) (5 points) Self-monitoring and Program Evaluation. Your workplan will be evaluated to ensure that you have a mechanism for monitoring and self-assessing your progress in meeting program goals and objectives, ensuring that the integrity of the use of funds is in accordance with OMB Cost Principles and record-keeping requirements and the approved program budget. Applicants that clearly define roles and responsibilities and steps to be taken to meet this requirement will receive a greater number of rating points in the evaluation. Therefore, your workplan should describe and identify the specific steps that you will take to carry out a self-monitoring function that meets these requirements.

Rating Factor 4—Leveraging Resources (10 Points)

This factor addresses the extent to which applicants for any of the two funding categories have obtained firm commitments of financial or in-kind resources from other Federal, State, local, and private sources. For every RHED dollar anticipated, you should provide the specific amount of dollars leveraged. In assigning points for this criterion, HUD will consider the level of outside resources obtained for cash or in-kind services that support activities proposed in your application. HUD will award a greater number of points based upon a comparison of the extent of leveraged funds compared to the requested RHED grant. This criterion is applicable to both funding categories under this NOFA. The level of outside resources for which commitments are obtained will be evaluated based on their importance to the total program. You must provide evidence of leveraging by including in the application letters of firm commitment to participate from any entity, including your own organization, that will be providing matching funds to the project. Each commitment described in the narrative of this factor must be in accordance with the definition of “firm commitment” as defined in Section III(A)(2) of this NOFA.

Rating Factor 5—Coordination, Self-Sufficiency and Sustainability (10 Points)

This factor addresses the extent to which your proposed program is coordinated with other ongoing and related activities in the area you propose to serve, how well your program outcomes result in increased independence and empowerment to your beneficiaries, and your organization's ability to becoming financially self-sustaining into the future absent any HUD funding.

This factor consists of three elements:

(1) Coordination of activities (4 points). The extent to which you have coordinated your activities with other known organizations that are not directly participating in your proposed work activities, but with which you share common goals and objectives and are working toward meeting these objectives in a holistic and comprehensive manner. The goal of coordination is to ensure that programs do not operate in isolation. The more your activities are coordinated with other ongoing activities in your service area, the more points you will receive.

(2) Self-Sufficiency (3 points). The extent to which your application implements practical solutions within the grant term that result in assisting beneficiaries of grant program funds in achieving independent living, economic empowerment, educational opportunities, housing choice or improved living environments which are free from environmental hazards such as lead hazards, brownfields, overcrowded housing, etc. Applicants that clearly describe the extent to which proposed activities result in increased independence and empowerment for their beneficiaries will receive higher points in this sub-factor.

(3) Sustainability (3 points). The extent to which your program exhibits the potential to be financially self-sustaining by decreasing dependence on RHED funding and relying more on state, local, and private funding so your activities can be continued after your grant award is complete. Applicants that demonstrate a reduced dependence on RHED funds over the life of their award will receive a greater number of rating points for this sub-factor.

RC/EZ/EC Bonus Points (2 points)

HUD will award two bonus points to all applications that include documentation stating that the proposed eligible activities/projects will be located in and serve Federally designated Rural Renewal Communities, Rural Empowerment Zones or Enterprise Communities (Rural EZs/ECs). A listing of Federally designated Rural RCs, EZs and ECs is available on the Internet at http://www.hud.gov.

VII. Application Submission Requirements

(A) Form of Application. All pages of the application shall be numbered sequentially. Your application must include an original and two copies of the items listed below.

(B) Application Items. Your application must contain the items listed in this section. These items include the standard forms and non-standard certifications that can be found in the Appendices to this program section of the SuperNOFA. The items are as follows:

(1) A transmittal letter;

(2) A table of contents;

(3) A signed SF-424 (application form);

(4) A budget for all funds (Federal and Non-Federal) and a breakdown of all Federal funds requested, in the format provided in Appendix A of this NOFA;

(5) Documentation of funds pledged in support of Rating Factor 4—“Leveraging Resources” (which will not be counted in the 15 page limitation);

(6) The required certifications (signed, as appropriate, and attached as an Appendix);

(7) Acknowledgment of the Application Receipt form (submitted with application and returned to you as verification of timely receipt).

(8) If you are a private nonprofit organization, a copy of your organization's IRS ruling providing tax-exempt status under section 501 of the IRS Code of 1986, as amended.

(9) The attached forms specifying:

(a) Which category of funds, as described in Section II(C), you are applying for.

(b) Which of the five definitions of the term “rural area” set forth in Section III(A)(2) of this NOFA applies to the proposed service area and accompanying documentation as indicated on the form; and

(10) The Environmental Review Assurance.

(11) Narrative Response to Factors for Award

(a) You must describe your organization and the assignment of responsibilities for the work to be carried out under the grant (Rating Factor 1).

(b) You must describe the need and extent of the problem and populations to be served (Rating Factor 2).

(c) You must submit a workplan which describes your soundness of approach and the clear linkage between rural housing and economic development (Rating Factor 3). In addressing this submission requirement, you must:

(i) Describe the activities you propose to undertake to address the needs which have been identified, the linkage between rural housing and economic development, and describe the specific outcomes you expect to achieve.

(ii) Include a management plan which identifies the specific actions you will take to complete the proposed activities on time and a budget in the format provided which explains the uses of both Federal and non-Federal funds and the period of performance under the grant.

(iii) Include a discussion of the process by which the work accomplished with the grant will be evaluated to determine if the objectives of the grant were met.

(d) You must identify the resources which will be leveraged by the amount of this grant's funding that you are requesting. (Rating Factor 4). To receive the maximum number of points under Rating Factor 4 you must provide evidence of firm commitments. The commitment can be contingent upon HUD site approval following environmental review.

(e) You must describe the extent to which your program reflects a coordinated, community based process of identifying needs and building a system to address these needs, providing program beneficiaries outcomes resulting in increased independence and empowerment, and the potential for your organization to become financially self-sustaining.(Rating Factor 5).

The total narrative response to all factors should not exceed 15 pages and must be submitted on 8.5” by 11” paper, using a 12 point font size, with lines double spaced and printed only on one side. Please note that although submitting pages in excess of the page limit will not disqualify your application, HUD will not consider or review the information on any excess pages, which may result in a lower score or failure to meet a threshold.

VIII. Corrections to Deficient Applications

The General Section of the SuperNOFA provides the procedures for corrections to deficient applications. After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any eligibility or selection factors. Examples of curable (correctable) technical deficiencies include your failure to submit the proper certifications or your failure to submit an application that contains an original signature by an authorized official. In each case, HUD will notify you in writing by describing the clarification or technical deficiency. HUD will notify applicants by facsimile or by return receipt requested. Applicants must submit clarifications or corrections of technical deficiencies in accordance with the information provided by HUD within 5 calendar days of the date of receipt of the HUD notification. If your deficiency is not corrected within this time period, HUD will reject your application as incomplete, and it will not be considered for funding.

Catalog of Federal Domestic Assistance

The Catalogue of Federal Domestic Assistance number is: 14.250

IX. Authority

The Departments of Veterans Affairs and Housing and Urban Development, and Independent Agencies Appropriations Act, 2002 Pub.L. 107-73, approved November 26, 2001).

Appendix A

The standard and non-standard forms that follow are required for your RHED application.

BILLING CODE 4210-32-C

FUNDING AVAILABILITY FOR PUBLIC HOUSING RESIDENT OPPORTUNITIES AND SELF SUFFICIENCY (ROSS) PROGRAM

PROGRAM OVERVIEW

Purpose of Program. The purpose of the Public Housing Resident Opportunities and Self Sufficiency (ROSS) Program is to link services to public and Indian housing residents by providing grants for supportive services, resident empowerment activities and activities to assist residents in becoming economically self-sufficient.

Available Funds. A total of $80.1 million; approximately $70 million from FY 2002 funds and $10.1 million in carryover funding.

Eligible Applicants. Public Housing Agencies (PHAs), resident management corporations (RMCs), resident councils (RCs), resident organizations (ROs), Intermediary Resident Organizations (IROs), City-Wide Resident Organizations (CWROs) and nonprofit entities supported by residents. Indian tribes (tribes) and tribally designated housing entities (TDHEs) are eligible for grants under the Resident Management and Business Development (RMBD), Capacity Building (CB), and Resident Service Delivery Models (RSDM) funding categories. Tribes and TDHEs are not eligible for grants as part of Neighborhood Networks, Homeownership Supportive Services and renewal of public housing service coordinator funding categories.

Application Deadline for ROSS Funding Categories.

May 14, 2002 for Resident Management and Business Development;

May 14 2002 for Capacity Building;

June 18, 2002 for Resident Service Delivery Models;

July 10, 2002 for Homeownership Supportive Services;

July 10, 2002 for Neighborhood Networks Centers; and

May 14, 2002 for Public Housing Service Coordinator.

Match. At least 25 percent of the grant amount is required as the grant match. This match does not have to be a cash match. The match can be in-kind and/or cash contributions.

ADDITIONAL INFORMATION

If you are interested in applying for funding under any of these programs, please review carefully the General Section of this SuperNOFA and the following additional information.

I. Application Due Date, Application Kits, Further Information and Technical Assistance.

Application Due Date. Your completed application (one original and two copies is due on or before 12:00 midnight, Eastern time, on the following application due dates to HUD Headquarters at the address shown below.

May 14, 2002 for Resident Management and Business Development;

May 14, 2002 for Capacity Building;

June 18, 2002 for Resident Service Delivery Models;

July 10, 2002 for Homeownership and Supportive Services;

July 10, 2002 for Neighborhood Networks Centers; and

May 14, 2002 for Renewal of Public Housing Service Coordinator grants.

See the General Section of this SuperNOFA for specific procedures governing the form of application submission (e.g., mail application, express mail, overnight delivery, or hand-carried).

New Security Procedures. HUD has implemented new security procedures that impact on application submission procedures. Please read the following instructions carefully and completely. HUD will not accept hand delivered applications. Applicants must comply with the procedures included in the General Section of the SuperNOFA. Address for Submitting Applications. You must submit your completed ROSS Program application (the original and two copies) to the Grants Management Center (GMC), 501 School Street, SW., Suite 800, Washington, DC 20024, by mail using the United States Postal Service (USPS) or it may be delivered only via the following four carrier services: United Parcel Service (UPS), FedEx, DHL, or Falcon Carrier. Delivery by these services must be made during HUD's Headquarters business hours, between 8:30 am and 5:30 pm Eastern Standard Time, Monday to Friday. If these companies do not service your area, you must submit your application via the United States Postal Service. All mailed applications must be postmarked on or before midnight of their due date and received within 15 days of the due date.

In the case of tribes/TDHEs, please submit your completed application (the original and two copies) to Denver Program Office of Native American Programs (DPONAP), 1999 Broadway, Suite 3390, Denver, CO 80202, by mail using the United States Postal Service (USPS) or it may be delivered only via the following four carrier services: United Parcel Service (UPS), FedEx, DHL, or Falcon Carrier. Delivery by these services must be made during HUD's business hours, between 8:30 am and 5:30 pm Eastern Standard Time (or Mountain Standard Time for Tribes/TDHEs), Monday to Friday. If these companies do not service your area, you must submit your application via the United States Postal Service. All mailed applications must be postmarked on or before midnight of their due date and received within 15 days of the due date.

For Application Kits. For an application kit and any supplemental material, please call the SuperNOFA Information Center at 1-800-HUD-8929. Persons with hearing or speech impairments may call the Center's TTY number at 1-800-HUD-2209. When requesting an application kit, please refer to the ROSS Program, and provide your name, address (including zip code) and telephone number (including area code). An application kit is also available on the Internet through the HUD web site at http://www.hud.gov/grants.

For Further Information and Technical Assistance. You may contact the local HUD field office or you may call the Public and Indian Housing Information and Resource Center at 1-800-955-2232. In the case of tribes/TDHEs, please contact the Local Area DPONAP or Carol Quinlan, DPONAP, Denver Program Office at 1-800-561-5913 or (303) 675-1600 (this is not a toll free number).

Satellite Broadcast. HUD will hold an information broadcast via satellite for potential applicants to learn more about the program and preparation of the application. For more information about the date and time of the broadcast, you should consult the HUD web site at http://www.hud.gov/grants.

II. Amount Allocated

(A) Total Amount. A total amount of $80.1 million is allocated for this NOFA. This amount is comprised of $70 million from the FY 2002 Departments of Veterans Affairs and Housing and Urban Development, and Independent Agencies Appropriations Act of 2001, and $10.1 million in carryover funding. For FY 2002, approximately $55 million is available for the Resident Opportunities and Self Sufficiency Program under Section 34 of the U.S. Housing Act of 1937, and $15 million is available from the Public Housing Capital Fund for Neighborhood Networks in public housing developments. The $10.1 million in carryover funding is composed of approximately $8.2 million from FY 1998 and FY 1999 carryover funding is being used from the Public Housing Capital Fund, and an additional $1.9 million is carried over from the FY 2000 Community Development Block Grant fund. The $8.2 million is composed of approximately $2.6 million from the Departments of Veterans Affairs and Housing and Urban Development and Independent Agencies Appropriations Act of 1998 and approximately $5.6 million from the Departments of Veterans Affairs and Housing and Urban Development and Independent Agencies Appropriations Act of 1999.

(B) Allocation. To the extent that there are a sufficient number of qualified applications, not less than 25 percent of funds available for ROSS shall be provided directly to Resident councils (RCs), Resident Organizations (ROs), Resident Management Corporations (RMCs), Intermediary Resident Organizations (IROs), tribes/TDHEs on behalf of tribal residents and City-Wide Resident Organizations (CWROs). This requirement will be implemented by the awards made to resident organizations for the Resident Management and Business Development, Capacity Building, and the Resident Service Delivery Models funding categories.

(C) Funding Categories and Funds Allocated to Each Category. The funding categories under ROSS and the amount allocated for each funding category are as follows:

(1) Resident Management and Business Development (RMBD). A total of $6 million is allocated for this funding category.

(i) Grants will be made directly to site-basedRAs/ROs, RMCs, CWROs, and to tribal ROs, tribal RMCs, tribes/TDHEs that partner with tribal ROs and tribal RMCs to: increase resident involvement and participation in their housing developments; develop resident management opportunities; provide resident-led business or cooperative development opportunities; and obtain necessary supportive services for self-sufficiency.

(ii) The maximum grant award for this funding category is $100,000 per applicant.

(2) Capacity Building (CB). A total of $5 million is allocated for this funding category, described below:

(i) CB grants will be made to Intermediary Resident Organizations (IROs), tribes/TDHEs on behalf of tribal housing residents, tribal ROs, tribal RMCs, and non-profits which operate associations and networks that administer programs benefiting resident organizations. These grants provide assistance to site-based resident associations who do not yet have the capacity to administer a welfare-to-work program or conduct management activities.

(ii) You may apply for funding that will be used to assist public and tribal housing residents in establishing a new resident organization or you may apply for funds to help or enhance the capacity of existing resident organizations to enable residents to participate in housing agency decision-making, manage all or a portion of their housing developments, and/or apply for and administer grants.

(iii) The maximum amounts for CB grants are: $100,000 for CWROs or tribes/TDHEs per applicant, and $240,000 per applicant for all other eligible applicants. Applicants are required to allocate at least two-thirds of the total grant to direct funding of CB activities for site-based RAs/ROs and/or tribal ROs. CWROs or tribes/TDHEs are required to serve a minimum of 3 RAs and/or tribal ROs. All other applicants are required to serve a minimum of 10 RAs and/or tribal ROs.

(3) Resident Service Delivery Models (RSDM). A total of $22.9 million is allocated for this category of funding. The Resident Service Delivery Models (RSDM) funding category provides grants to Public Housing Agencies (PHAs), tribes/TDHEs or directly to resident management corporations, resident councils, or resident organizations, and nonprofit entities supported by residents. There are two sub-categories of grants under this funding category: Family Grants for program-related activities and supportive services to establish and implement comprehensive programs that achieve resident self-sufficiency for families; and Elderly and Persons with Disabilities Grants for independent living for the elderly and persons with disabilities.

(a) RSDM Family sub-category.

(i) Maximum grant amount. For RSDM, the maximum grant amounts are as follows:

For PHAs applying for family grants, the maximum grant application award will be based on the number of occupied family conventional public housing units. Tribes/TDHEs applying for RSDM should refer to section III (e) of this NOFA for computation of units for the maximum grant amount.

(ii) For the RSDM family category, PHAs must use the number of occupied conventional family public housing units to determine the maximum grant amount in accordance with the categories listed below for families:

— For PHAs with 1 to 780 occupied family units, the maximum grant award is $250,000.

— For PHAs with 781 to 7,300 occupied family units, the maximum grant award is $500,000.

—For PHAs with 7,301 or more occupied family units, the maximum grant award is $1,000,000.

(b) RSDM Elderly and persons with disabilities sub-category.

(i) Maximum grant amount. For the Elderly and Persons with Disabilities RSDM Category, PHAs must use the number of occupied elderly conventional public housing units to determine the maximum awards listed below:

— For 1 to 217 units occupied by elderly residents and persons with disabilities, the maximum grant award is $100,000.

— For 218 to 1,155 units occupied by elderly residents and persons with disabilities, the maximum grant award is $200,000.

— For 1,156 or more units occupied by elderly residents and persons with disabilities, the maximum grant award is $300,000.

(c) The maximum grant award is $100,000 for each RA.

(d) Nonprofit entities supported by residents or RAs/ROs are limited to $100,000 for each RA/RO. A non-profit may submit a single application for no more than three different RAs for a maximum grant award of $300,000.

(e) Tribes/TDHEs should use the number of units counted as Formula Current Assisted Stock for Fiscal Year 2001 as defined in 24 CFR 1000.316. Tribes who have not previously received funds from the Department under the 1937 Housing Act should count housing units under management that are owned and operated by the Tribe and are identified in their housing inventory as of September 30, 2001 for either family or elderly/disabled units.

(4) Homeownership Supportive Services (HSS). A total of $11.2 million is allocated for this funding category.

(i) This funding category provides grants for a targeted group of public housing residents who were beneficiaries of previously awarded ROSS grants, and public housing Family Self-Sufficiency participants funded through operating subsidy. This funding category recognizes the improved earning capacity of residents participating in self-sufficiency programs and provides the support necessary to achieve increased opportunities for homeownership for public housing residents through housing choice vouchers. Under this funding category, PHAs will receive grants for counseling and other supportive services to achieve homeownership for public housing residents. PHAs will design and develop homeownership supportive services for public housing residents. These supportive services shall comprehensively address the needs identified by the PHA for public housing families to obtain homeownership.

(ii) Grants will be made to PHAs. Tribes/TDHEs are not eligible applicants for the HSS.

(iii) For the Homeownership Supportive Services grants, PHAs must use the number of occupied conventional family public housing units to determine the maximum grant amount in accordance with the categories listed below for families:

— For PHAs with 1 to 780 occupied family units, the maximum grant award is $300,000.

— For PHAs with 781 to 7,300 occupied family units, the maximum grant award is $400,000.

— For PHAs with 7,301 or more occupied family units, the maximum grant award is $500,000.

(5) Neighborhood Networks (NN). A total of $15 million is allocated for this funding category. Of this funding, $12 million will provide grants to PHAs to establish and operate new Neighborhood Networks Centers for public housing residents; and $3 million will provide funding to update and expand existing computer technology centers to become Neighborhood Networks centers. Computer centers operating in public housing developments or planned for public housing developments will receive assistance to secure the necessary space, computer hardware, software and peripherals necessary to operate self-sustaining NN centers. Conversion to NN centers will be part of the proposed grant for existing and new computer centers.

(i) For new NN centers, PHAs must use the number of occupied conventional family public housing units to determine the maximum grant amount in accordance with the categories listed below for families:

— For PHAs with 1 to 780 occupied family units, the maximum grant award is $150,000.

— For PHAs with 781 to 7,300 occupied family units, the maximum grant award is $250,000.

— For PHAs with 7,301 or more occupied family units, the maximum grant award is $450,000.

(ii) To update and expand new and existing technology centers, PHAs must use the number of occupied conventional family public housing units to determine the maximum grant amount in accordance with the categories listed below for families:

— For PHAs with 1 to 780 occupied family units, the maximum grant award is $50,000.

— For PHAs with 781 to 7,300 occupied family units, the maximum grant award is $100,000.

— For PHAs with 7,301 or more occupied family units, the maximum grant award is $200,000.

(6) Service Coordinator Renewals. A total of $20 million is allocated for this funding category.

(i) The Service Coordinator Renewal category provides grants to PHAs to address the needs of public housing residents who are elderly and persons with disabilities. Service coordinators help residents obtain supportive services that are needed to maintain independent living. Only renewals of FY 1995 Public Housing Elderly and Persons with Disabilities Service Coordinator grants will be funded under this ROSS competition; no applications for new Service Coordinator grants will be accepted.

(ii) These funds may only be used as follows:

— Renewal of existing Service Coordinator (SC) grants from FY 1995. This limitation is imposed to achieve Congressional intent to renew all service coordinator and congregate services grants.

— For the Elderly and Persons with Disabilities Service Coordinators category, award amounts cannot be higher than your highest funding and staffing level for any one-year period that was approved for their last funded Service Coordinator Grant. An increase of up to 2 percent over this amount will be allowed if supported by a narrative justification.

(D) Transfer of Funds. Funds for Neighborhood Networks centers may not be transferred to any other funding category within this NOFA. If all funds are not awarded in the RMBD, CB, HSS, SC funding categories, funds will be transferred to the RSDM funding category in this competition.

(E) Number of Applications Permitted. PHAs applying for Service Coordinator Renewal grants under this program section of the SuperNOFA may apply for one renewal grant and three additional grants in the NN, HSS and RSDM funding categories. RO applicants may submit a total of two applications for RMBD and RSDM, but not more than one application in any one funding category. Nonprofit applicants may submit a total of two applications for CB and RSDM, but not more than one application in any one funding category under this ROSS competition. Please read each funding category carefully for additional limitations.

III. Program Description; Eligible Applicants; Eligible Activities

(A) Program Description. The purpose of ROSS is to assist residents to become economically self-sufficient by providing supportive services and resident empowerment activities. This program is consistent with the Department's goal to most effectively focus resources on “welfare to work” and on independent living for the elderly and persons with disabilities. HUD is looking for applications that implement practical solutions within the grant term, and result in improved economic self-sufficiency for public or Indian housing residents. HUD seeks holistic solutions that involve the support of the entire community in providing self-sufficiency opportunities for residents. Therefore, HUD encourages you to involve elderly and persons with disabilities in activities that support self-sufficiency, such as child-care, mentoring, or after school care. This philosophy should be reflected in your proposed grant activities for all funding categories within this ROSS competition. Current experience with welfare to work programs has shown that a single approach or program does not always result in residents reaching desired self-sufficiency goals. The ROSS program permits proposed grant activities, which will build on or expand previous self-sufficiency efforts. Within the scope of the ROSS Program, proposed grant activities may be directed toward building on the foundation created by previous ROSS grants or other federal, State and local self-sufficiency efforts. Proposed grant activities may enhance self-sufficiency by providing opportunities for increased earning capacity; use of tools to encourage economic capacity (such as Individual Development Accounts); and action on resident goals to move toward homeownership. A description of each of the funding categories was provided in Section II of this program section. This section describes the eligible applicants and eligible activities of each funding category.

(B) Definitions.

City-Wide Resident Organization consists of members from Resident Councils, Resident Management Corporations, and Resident Organizations who reside in housing developments that are owned and operated by the same PHA within a city.

Community Facility means a non-dwelling structure that provides space for multiple supportive services for the benefit of public or Indian housing residents and others eligible for the services provided. Services that may include but are not limited to:

(1) Child care;

(2) After-school activities for youth;

(3) Job training;

(4) Twenty/20 Education Communities (TECs) (formerly Campus of Learners) activities; and

(5) English as a Second Language (ESL) classes.

Contract Administrator means an overall administrator and/or a financial management agent that oversees the financial aspects of a grant and assists in the entire implementation of the grant. A signed Contractor Administrator Partnership Agreement must be included in your application. This agreement may be contingent upon you receiving a grant award and adherence to PHA or tribe/TDHE procurement policies. The contract administrator must assure that the financial management system and procurement procedures fully comply with 24 CFR part 84. Contract Administrators may be: Local Housing Agencies; community-based organizations such as Community Development Corporations (CDCs), churches, temples, synagogues, mosques; non-profits; State/Regional associations and organizations. Troubled PHAs are not eligible to be Contract Administrators.

Firmly Committed means that the amount of resources and their dedication to ROSS-funded activities must be explicit, in writing and signed by a person authorized to make the commitment or by a person who certifies the commitment is by an authorized body or person. This written agreement may be contingent upon receiving an award.

Elderly person means a person who is at least 62 years of age.

Jurisdiction-Wide Resident Organization means an incorporated nonprofit organization or association that meets the following requirements:

(1) Most of its activities are conducted within the jurisdiction of a single housing agency;

(2) There are no incorporated Resident Councils or Resident Management Corporations within the jurisdiction of the single housing agency;

(3) It has experience in providing start-up and capacity-building training to residents and resident organizations; and

(4) Public housing residents representing unincorporated Resident Councils within the jurisdiction of the single housing agency must comprise the majority of the board of directors.

Tribally Designated Housing Entity (TDHE) is an entity authorized or established by one or more Indian tribes to act on behalf of each such tribe authorizing or establishing the housing entity.

Indian Tribe means any tribe, band, nation, or other organized group of a community of Indians, including any Alaska native village or regional or village corporation as defined in or established pursuant to the Alaska Native Claims Settlement Act, that is recognized as eligible for the special programs and services provided by the United States to Indians because of their status as Indians pursuant to the Indian Self Determination and Education Act of 1975.

Intermediary Resident Organizations means Jurisdiction-Wide Resident Organizations, City-Wide Resident Organizations, State-Wide Resident Organizations, Regional Resident Organizations, and National Resident Organizations.

National Resident Organization (NRO) means an incorporated nonprofit organization or association for public housing that meets each of the following requirements:

(1) It is national (i.e., conducts activities or provides services in at least two HUD Areas or two States);

(2) It has experience in providing start-up and capacity-building training to residents and resident organizations; and

(3) Public housing residents representing different geographical locations in the country must comprise the majority of the board of directors.

Person with disabilities means a person who:

(1) Has a condition defined as a disability in section 223 of the Social Security Act;

(2) Has a developmental disability as defined in section 102 of the Developmental Disabilities Assistance Bill of Rights Act; or

(3) Is determined to have a physical, mental, or emotional impairment which:

(a) Is expected to be of long-continued and indefinite duration;

(b) Substantially impedes his or her ability to live independently; and

(c) Is of such a nature that such ability could be improved by more suitable housing conditions.

The term “person with disabilities” does not exclude persons who have the disease of acquired immunodeficiency syndrome or any conditions arising from the etiologic agent for acquired immunodeficiency syndrome. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

Program Coordinator is a person who is responsible for coordinating various proposed activities to ensure that their accomplishment will assist in achieving the overall grant goals and objectives.

Project is the same as “low-income housing project” as defined in section 3(b)(1) of the United States Housing Act of 1937 (42 U.S.C. 1437 et seq.) (1937 Act).

Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO).

Resident Council (RC) means (as provided in 24 CFR 964.115) an incorporated or unincorporated nonprofit organization or association that shall consist of persons residing in public housing and must meet each of the following requirements in order to receive official recognition from the PHA/HUD, and be eligible to receive funds for RC activities and stipends for officers for their related costs for volunteer work in public housing. (Although 24 CFR part 964 defines an RC as an incorporated or unincorporated nonprofit organization, HUD requires RC applicants for ROSS grants to be registered with the State at the time of application submission.) The following also applies to resident councils:

(1) The RC must adopt written procedures such as by-laws, or a constitution, which provides for the election of residents to the governing board by the voting membership of the public housing residents. The elections must be held on a regular basis, but at least once every 3 years. The written procedures must provide for the recall of the resident board by the voting membership. These provisions shall allow for a petition or other expression of the voting membership's desire for a recall election, and set the percentage of voting membership that must be in agreement in order to hold a recall election. This threshold shall not be less than 10 percent of the voting membership.

(2) The RC must have a democratically elected governing board that is elected by the voting membership. At a minimum, the governing board should consist of five elected board members. The voting membership must consist of heads of households (any age) and other residents at least 18 years of age or older and whose names appear on a lease for the unit in the public housing that the resident council represents.

(3) The RC may represent residents residing in:

(a) Scattered site buildings in areas of contiguous row houses;

(b) One or more contiguous buildings;

(c) A development; or

(d) A combination of the buildings or developments described above.

Regional Resident Organization (RRO) means an incorporated nonprofit organization or association for public housing that meets each of the following requirements:

(1) The RRO is regional (i.e., not limited by HUD Areas);

(2) The RRO has experience in providing start-up and capacity-building training to residents and resident organizations; and

(3) Public housing residents representing different geographical locations in the region must comprise the majority of the board of directors.

Resident Management Corporation (RMC) (see 24 CFR 964.7, 964.120) means an entity that consists of residents residing in public housing and must have each of the following characteristics in order to receive official recognition by the PHA and HUD:

(1) The RMC shall be a nonprofit organization that is validly incorporated under the laws of the State in which it is located;

(2) The RMC may be established by more than one RC, so long as each such council:

(a) Approves the establishment of the corporation; and

(b) Has representation on the Board of Directors of the corporation.

(3) The RMC shall have an elected Board of Directors, and elections must be held at least once every 3 years;

(4) The RMC's by-laws shall require the Board of Directors to include resident representatives of each RC involved in establishing the corporation; include qualifications to run for office, frequency of elections, procedures for recall; and term limits if desired;

(5) The RMC's voting members shall be heads of households (any age) and other residents at least 18 years of age and whose names appear on the lease of a unit in public housing represented by the RMC;

(6) Where an RC already exists for the development, or a portion of the development, the RMC shall be approved by the RC board and a majority of the residents. If there is no RC, a majority of the residents of the public housing development it will represent must approve the establishment of such a corporation for the purposes of managing the project; and

(7) The RMC may serve as both the RMC and the RC, so long as the corporation meets the requirements of 24 CFR part 964 for an RC.

Resident Organization (RO) for tribal entities means an incorporated or nonprofit tribal organization or association that meets each of the following criteria:

(1) It shall consist of residents only, and only residents may vote;

(2) If it represents residents in more that one development or in all of the developments of the tribal/TDHE community, it shall fairly represent residents from each development that it represents;

(3) It shall adopt written procedures providing for the election of specific officers on a regular basis; and

(4) It shall have democratically elected a governing board. The voting membership of the board shall consist solely of the residents of the development or developments that the tribal RO represents.

Secretary means the Secretary of Housing and Urban Development.

Site-Based Resident Associations means Resident Councils and Resident Management Corporations.

Statewide Resident Organization (SRO) means a Site-Based incorporated nonprofit organization or association for public housing that meets the following requirements:

(1) The SRO is Statewide;

(2) The SRO has experience in providing start-up and capacity-building training to residents and resident organizations; and

(3) Public housing residents representing different geographical locations in the State must comprise the majority of the Board of Directors.

Tribal/TDHE Resident Group means tribal/TDHE resident groups that are democratically elected groups such as IHA-wide resident groups, area-wide resident groups, single development groups, or resident management corporations (RCMs).

(C) Resident Management and Business Development (RMBD). This funding category makes grants to establish and strengthen organizational capacity for site-based resident organizations that do not have the capacity to administer a welfare to work program or conduct management activities, conduct training or implement business development.

(1) Eligible applicants. Site-Based Resident Associations (RAs), tribes/TDHES, tribes/TDHEs that partner with tribal ROs or tribal RMCs and City-Wide Resident Organizations (CWROs). If you are an RA/RO that is a beneficiary or recipient of proposed grant activities by a CWRO/TDHE, then you cannot also apply under this category. You may only submit one application under this funding category.

(2) Eligible participants. Program participants must be residents of conventional public housing or Indian housing programs. You must provide a certification that at least 51 percent of those served by your proposed activities are residents affected by welfare reform.

(3) Eligible Activities. Funding is limited to the following activities below:

(a) Training related to resident-owned business, cooperative development, resident property management and technical assistance for job training and placement in housing developments. Proposed grant activities may include but are not limited to: feasibility and market studies; development of business plans; outreach activities; and innovative financing methods including revolving loan funds and the development of credit unions; and legal advice in establishing a resident-managed business entity or cooperative.

(b) Establishing and funding revolving loan funds. Revolving loan funds cannot be used for acquisition, disposition, or physical development;

(c) Training residents, as potential employees of an RMC, in skills directly related to the operation, management, maintenance and financial systems of a development;

(d) Training residents with respect to fair housing requirements; and

(e) Gaining assistance in negotiating management contracts and designing a long-range planning system.

(f) Providing social support needs (such as self-sufficiency and youth initiatives) including:

(g) Feasibility studies to determine training and social services needs;

(h) Training in management-related trade skills, computer skills, and similar skills;

(i) Management-related employment training and counseling including job search assistance, job development assistance, job placement assistance, and follow up assistance;

(j) Supportive services including: child care services; educational services, remedial education, literacy training, ESL instruction, assistance in attaining a GED; vocational training including computer training; health care outreach and referral services; meal services for the elderly or persons with disabilities; personal assistance to maintain hygiene/appearance for the elderly or persons with disabilities; housekeeping assistance for the elderly or persons with disabilities; transportation services; congregate services for the elderly or persons with disabilities; and case management;

(k) Training for programs such as childcare, early childhood development, parent involvement, volunteer services, parenting skills, before and after school programs;

(l) Training programs on health, nutrition, safety and substance abuse. Food costs that are directly attributable to the nutrition and health training are eligible grant expenditures. These are not food costs associated with entertainment.

(m) Workshops for youth services including: child abuse and neglect prevention, tutorial services, youth leadership skills, youth mentoring, peer pressure reversal, life skills, and goal planning. The workshops can be held in partnership with community-based organizations such as local Boys and Girls Clubs, YMCA/YWCA, Boy/Girl Scouts, Campfire, and Big Brother/Big Sisters. Proposed activities may include training in the development of strategies to successfully implement a youth program. For example, assessing the needs and problems of youth, improving youth initiatives that are currently active, and training youth, housing agency staff, resident management corporations and resident councils or resident organizations on youth initiatives and program activities;

(n) Physical improvements to facilities at public or tribal housing developments to provide space for self-sufficiency activities for residents, i.e. to provide cosmetic improvements and repairs to space to conduct community activities; or to expand existing community space for your proposed ROSS activities or modifications for accessibility for persons with disabilities. Renovation, conversion, and repair costs may be essential parts of physical improvements. In addition, architectural, engineering, and related professional services required to prepare architectural plans or drawings, write-ups, specifications or inspections may also be part of the cost components to implement physical improvements. Your physical improvements may not exceed 50 percent of the total grant amount and must be directly related to providing space for self-sufficiency activities for residents. Refer to Office of Management and Budget (OMB) Circular A-87, Cost Principles for State, Local and Indian Tribal Governments; all renovations must meet appropriate accessibility requirements, including Section 504 requirements at 24 CFR part 8, Architectural Barriers Act at 24 CFR part 40, the Americans with Disabilities Act and the Fair Housing Act.

(i) The renovation, conversion, or combination of vacant dwelling units in a PHA or tribal development to create common areas to accommodate the provision of supportive services is an eligible activity for physical improvements.

(ii) The renovation of existing common areas in a PHA or tribal development to accommodate the provision of supportive services.

(iii) The renovation or repair of facilities located near the premises of one or more PHA or tribal developments to accommodate the provision of supportive services.

(iv) If renovation, conversion, or repair is done off-site, the PHA, tribe or owner must provide documentation that it has control of the proposed property for not less than 2 years and preferably for 4 years or more. Control can be evidenced through a lease agreement, ownership documentation, or other appropriate documentation.

(4) Ineligible Resident Management and Business Development Activities and Costs.

(a) Entertainment, including associated costs such as food and beverages, except normal per diem for meals related to travel performed in connection with implementing the Work Plan. A travel budget limit of a maximum of $5,000 is allowed to support travel expenses. These travel expenses must directly pertain to travel related to work plan implementation.

(b) Purchase or rental of land.

(c) Activities not directly related to the welfare-to-work initiatives (e.g., lead-based paint testing and abatement and operating capital for economic development activities).

(d) Purchase of any vehicle (car, van, bus, etc.).

(e) Payment of salaries for routine project operations, such as security and maintenance, or for applicant staff, except that a reasonable amount of grant funds may be used to hire a person to coordinate the Resident Management and Business Development grant activities or coordinate on-site social services.

(f) Payment of fees for lobbying services.

(g) Any expenditures that are fraudulent, wasteful or otherwise incurred contrary to HUD or OMB directives.

(h) Any cost otherwise eligible under this program section of the SuperNOFA for which funds are being provided from any other source.

(i) Entertainment equipment such as televisions, radios, stereos, and VCRs. An exception to this item may be granted by the HUD Field or DPONAP Office if funding is being utilized specifically for the purposes of establishing a business directly related to radio, television or film or some other form of technical communication, and equipment is being utilized for training of residents, ROs or RAs. All such exceptions must be authorized in writing by the HUD Field or DPONAP Office before purchases may be made.

(j) The cost of application preparation is not eligible.

(5) Supporting Information. The following information may be useful in developing proposed grant activities and costs:

(a) Training. Training activities may include training on HUD regulations and policies governing the operation of low-income public or Indian housing including contracting/procurement regulations; financial management; job and business development training; capacity building to develop the necessary skills to assume management responsibilities at the project and property management; and training in accessing other funding sources.

(b) Hiring trainers or other experts. Resident grantees must ensure that all training is provided by a qualified public housing or management specialist (Consultant/Trainer), HUD Headquarters, Field or DPONAP staff, or the local PHA or tribe /TDHE. A qualified trainer is one who has a high degree of working program knowledge. To ensure the successful implementation of the grant Work Plan activities, you are required to determine the need to contract for outside consulting/training services. You and the PHA or tribe/TDHE must jointly select and approve the consultant/trainer. Your application should make maximum use of your PHA, non-profit, or other Federal, State, or local government resources for technical assistance and training needs. The amount allowed for hiring an individual consultant for this purpose shall not exceed 30 percent of your total grant amount or $30,000, whichever is less. The amount available for all consultants and contracts should not exceed 50 percent of your grant amount or $50,000, whichever is less. HUD Field or DPONAP Offices will monitor this process to ensure compliance with program and OMB requirements, and particularly the requirement for competitive bidding. You must use performance-based contracting, which requires that fees be paid in exchange for goods and services actually delivered. For example, a trainer would be paid for the number of residents that were trained, i.e., performance, regardless of the maximum dollar amount quoted in the contract.

(c) Stipends. Trainees and program participants of an RA, RO or CWRO, may receive stipends for participating in or receiving training under Resident Management to cover reasonable costs related to participation in training and other activities in your program, subject to the availability of funds. The stipends should be used for additional costs incurred during the training programs, such as childcare and transportation costs. The cost of stipends may not exceed $200 per month per trainee without written HUD Field or DPONAP Office authorization.

(d) Reimbursement of Reasonable Expenses. Reimbursement of reasonable expenses incurred by Officers and Board members in the performance of their fiduciary duties and/or training related to the performance of their official duties.

(e) Travel. Travel directly related to the successful completion of your required Work Plan adhere to the travel policy that sets travel costs at a maximum amount of $5,000 per RA or RO without special HUD approval.

(f) Child-Care Expenses. Childcare expenses for individual staff, board members, or residents in cases where those who need child care are involved in training-related activities associated with your grant activities.

(g) Costs incurred by a RA or RO in applying for 501(c) tax-exempt status with the Internal Revenue Service. Please refer to the Internal Revenue Service (IRS) Publication 557, which describes the requirements for section 501(c) tax exempt organizations and list the applicable forms required.

(h) Administrative costs. These costs are necessary for the implementation of your grant activities. Administrative costs are not to exceed 20 percent of the grant. Appropriate administrative costs include, but are not limited to, the following reasonable costs or activities:

(i) Space and equipment. Maintenance, utility costs, postage, building lease/rental costs, purchase or lease of telephone, computer, printing, copying, and sundry non-dwelling equipment (such as office supplies, software, and furniture). If appropriate, you may also include rental or lease of a car, van, or bus by resident grantees to attend training. You must justify the need for this equipment or space based on services being delivered in relationship to implementing your approved grant activities;

(6) Grant term. The grant term for Resident Management and Business Development grants is thirty-six months from the execution date of your grant agreement.

(D) Capacity Building.

(1) Eligible applicants. (a) Intermediary Resident Organizations (IROs) on behalf of public or Indian housing residents, which include Public Housing Site-Based Resident Councils, Resident Organizations and Resident Management Corporations, may apply for Capacity Building (CB) grants. IROs include National Resident Organizations, Statewide Resident Organizations, Regional Resident Organizations, City-Wide Resident Organizations, and Jurisdiction-Wide Resident Organizations.

(b) Non-profits that operate as associations or networks that administer programs that benefit public or Indian housing resident organizations are also eligible for this funding category.

(2) Eligible activities. Eligible activities for CB grants may include, but are not limited to:

(a) Training for Resident Advisory Board Members and Resident representatives that serve on the PHA Board of Directors, and for resident Board members in community organizing, Board development, and leadership training;

(b) Assessing the feasibility of training existing resident groups for resident management or for a specific resident management project;

(c) Assisting in the creation of an RMC, such as consulting and legal assistance to incorporate, preparing by-laws and drafting a corporate charter;

(d) Developing the management capabilities of existing resident organizations; and

(e) Determining the feasibility of homeownership by residents, including assessing the feasibility of other housing (including HUD-owned or held single or multi-family) affordable for purchase by residents.

(3) Ineligible Activities. Ineligible activities are the same as those listed in Section III(C)(4) of this program section of the SuperNOFA, above.

(a) In addition, physical development activities are not eligible for funding under CB grants.

(b) The cost of application preparation is not eligible.

(4) Administrative costs may include, but are not limited to, purchase of furniture, office equipment and supplies, training, quality assurance, travel, and utilities. Administrative costs must not exceed 20 percent of the total grant costs.

(5) Grant term. The grant term for Capacity Building grants is thirty-six months from the execution date of the grant agreement.

(E) Resident Service Delivery Models (RSDM).

(1) Eligible Applicants. (a) Family. This funding category provides grants to PHAs, tribes/TDHEs, resident management corporations, resident councils, resident organizations, and nonprofit entities supported by residents, to enable them to establish and implement comprehensive programs that assist residents in becoming self-sufficient.

(b) Elderly and Persons with Disabilities. PHAs, tribes/TDHEs and non-profits supported by a duly elected resident council are the only eligible applicants in providing supportive services for the elderly and persons with disabilities.

(c) IROs with 501(c) status may apply as non-profit entities under this funding category.

(2) Number of RSDM Applications Permitted.

(a) General. A PHA or tribe/TDHE must submit an application either for a family or an elderly grant. ROs or RCs must submit one application for a family grant; and non-profits may submit one application for a family or elderly grant representing up to three public or Indian housing resident groups.

(b) Joint applications. Two or more applicants may join together to submit a joint application for proposed grant activities. Joint applications must designate a lead applicant. All parties in a joint application (lead or non-lead) are considered to be applying for ROSS and are therefore subject to the limit of one ROSS application per applicant, with the exception of those Public Housing Service Coordinator renewal applicants that may also apply in one additional ROSS category. Both lead and non-lead applicants are subject to threshold requirements. Joint applications may include PHAs, RAs, IROs, Tribes/TDHEs, and nonprofit entities on behalf of resident organizations. Joint applications must also provide evidence of resident support. The maximum funding for joint applications cannot exceed the sum of the individual grants as specified above. Any eligible applicant can serve as a lead applicant.

(3) Eligible participants. Program participants must be residents of conventional public or Indian housing. You must provide a certification that at least 51 percent of those served by your proposed activities are residents affected by welfare reform.

(4) Eligible Activities. Funds may be used for the activities described below for the family category.

(a) Program Coordinator. You are encouraged to include a Program Coordinator for either proposed family or elderly RSDM activities for the entire term of your grant. A Program Coordinator is a person who is responsible for coordinating various proposed activities to ensure that their accomplishment will assist in achieving overall grant goals and objectives.

(b) Physical improvements. Physical improvements to provide space for self-sufficiency activities for residents (i.e. to provide cosmetic repairs for space to conduct community activities; or to expand existing community space for proposed ROSS activities) or modification for accessibility for persons with disabilities. Renovation, conversion, and repair costs may be essential parts of physical improvements. In addition, architectural, engineering, and related professional services required to prepare architectural plans or drawings, write-ups, specifications or inspections may also be part of the cost components to implement physical improvements. Physical improvements may not exceed 50 percent of the total grant amount and must be directly related to providing space for self-sufficiency activities for residents. Refer to Office of Management and Budget (OMB) Circular A-87, Cost Principles for State, Local and Indian Tribal Governments. All renovations must meet appropriate accessibility requirements, including Section 504 requirements at 24 CFR part 8, Architectural Barriers Act at 24 CFR part 40, the Americans with Disabilities Act and the Fair Housing Act. Physical improvements include the following:

(i) The renovation, conversion, or combination of vacant dwelling units in a housing development to create common areas to accommodate the provision of supportive services is an eligible activity for physical improvement;

(ii) The renovation of existing common areas in a housing development to accommodate the provision of supportive services is an eligible activity for physical improvements;

(iii) The renovation or repair of facilities located near the premises of one or more housing developments to accommodate the provision of supportive services is an eligible activity for physical improvements;

(iv) If renovation, conversion, or repair is done off-site, you must provide documentation that you have control of the proposed property for not less than 2 years and preferably for 4 years or more. Control can be evidenced through a lease agreement, ownership documentation or other appropriate documentation.

(c) Entrepreneurship training. Entrepreneurship training includes literacy training, computer skills training, and business development planning.

(d) Entrepreneurship development. Entrepreneurship development includes entrepreneurship training curriculum and entrepreneurship courses.

(e) Micro/Loan fund. Developing a strategy for establishing a revolving micro/loan fund and/or capitalizing a loan fund, including licensing, bonding, and insurance needed to operate a business. Revolving loan funds cannot be used for acquisition, disposition, or physical development.

(f) Developing credit unions. Developing a strategy to establish and/or create on-site credit union(s) to provide financial and economic development initiatives to PHA residents. (RSDM grant funds cannot be used to capitalize a credit union.) The credit union can support the normal financial management needs of the community (i.e., check cashing, savings, consumer loans, micro-businesses money management, home buyer counseling, educational loans, and other revolving loans).

(g) Individual development accounts. Activities or programs that encourage residents to contribute to matched savings accounts known as Individual Development Accounts (IDAs). These programs include financial counseling and education activities. (RSDM funds cannot be used as matching funds for the actual savings account).

(h) Employment training and counseling (e.g., job training, establishing registered apprenticeship programs, preparation and counseling, job search assistance, job development and placement, and supportive services to support job training and apprenticeship activities).

(i) Employer linkage and job placement.

(j) Enhanced self-sufficiency programs or work initiatives. These programs will reinforce initial welfare to work programs and will focus on efforts to increase the earning capacity of residents. With a goal of increased resident earning capacity, additional efforts may be undertaken to establish or develop programs through job training, employment training and counseling, employer linkages and job placement, or other welfare to work initiatives. Activities may include but are not limited to assisting eligible residents in: securing better-paying jobs, seeking an improved work environment, preparing for work in a new job category, or obtaining enhanced job-related skills and educational training.

(k) Family only—supportive services activities. The provision of services to assist eligible residents to become economically self-sufficient, particularly families with children where the head of household would benefit from the receipt of supportive services and is working, seeking work, or is preparing for work by participating in job training or educational programs. Eligible supportive services may include, but are not limited to:

(1) Child care, of a type that provides sufficient hours of operation and serves appropriate ages as needed to facilitate parental access to education and job opportunities;

(2) Computer-based educational opportunities, skills training, and entrepreneurial activities;

(3) Homeownership training and counseling, development of feasibility studies and preparation of homeownership plans/proposals;

(4) Education including but not limited to: remedial education; computer skills training; career counseling; literacy training; assistance in the attainment of certificates of high school equivalency; two-year college tuition assistance; trade school assistance; youth leadership skills and related activities (activities may include peer leadership roles training for youth counselors, peer pressure reversal, life skills, and goal planning). Academic support shall not be limited to TANF recipients;

(5) Youth mentoring of a type that mobilizes a potential pool of role models to serve as mentors to public housing youth. Mentor activities may include after-school tutoring, help with problem resolution issues, illegal drugs avoidance, job counseling, or mental health counseling;

(6) Transportation costs, as necessary to enable any participating family member to receive available services to commute to his or her training or supportive services activities or place of employment;

(7) Personal well-being (e.g., family/parental development counseling, parenting skills training for adult and teenage parents, self-development counseling, support groups/counseling for victims of domestic violence, and/or families with a mentally ill member, etc.);

(8) Supportive health care services (e.g., outreach and referral services to substance and alcohol abuse treatment and counseling, mental health services, wellness programs). Food costs that are directly attributable to the actual nutrition and health training are eligible grant expenditure. These are not food costs associated with entertainment;

(9) Contracting for case management services or employment of case managers, which must ensure confidentiality about resident's disabilities;

(l) Administrative costs. Administrative costs may include, but are not limited to, purchase of furniture, office equipment and supplies, quality assurance, travel, and utilities. Administrative costs must not exceed 20 percent of the total grant costs;

(m) Stipends. No more than $200 per participant per month of the grant award may be used for stipends for active trainees and program participants to cover the reasonable costs related to participation in training and other activities.

(5) Elderly and persons with disabilities“eligible activities. Supportive services activities for elderly and persons with disabilities activities may include, but are not limited to:

(a) A Program Coordinator (See Section III (E) (4) (a) for a description);

(b) Meal service adequate to meet nutritional need;

(c) Assistance with daily activities;

(d) Housekeeping aid;

(e) Transportation services;

(f) Health and nutrition programs, preventive health education, referral to community resources;

(g) Personal emergency response;

(h) Congregate services—includes supportive services that are provided in a congregate setting at a conventional public housing development;

(i) Case management;

(6) Administrative costs. Administrative costs, which may include, but are not limited to, purchase of furniture, office equipment and supplies, training, quality assurance, travel, and utilities. Administrative costs must not exceed 20 percent of the total grant costs.

(7) Ineligible Activities. Activities for which costs are ineligible for funding under the RSDM funding category include:

(a) Elderly Service Coordinator salary funding;

(b) Payment of wages and/or salaries to participants receiving supportive services and/or training programs, except that grant funds under family RSDM may be used to hire a resident(s) as a Program Coordinator or to provide training program activities;

(c) Purchase or rental of land;

(d) New construction, materials, costs;

(e) Purchase of vehicles; and

(f) Cost of application preparation is not eligible.

(8) Grant term. The grant term for Resident Service Delivery Models grants is thirty-six months from the execution date of the grant agreement.

(F) Homeownership Supportive Services (HSS). This funding category makes grants to PHAs for homeownership counseling and other supportive services for public housing residents who have participated in self-sufficiency programs. HSS activities including housing counseling are a missing link for working public housing residents to secure homeownership. HSS will build on the foundation of previous self-sufficiency activities to enhance the economic benefit for residents. Through these self-sufficiency programs the improved earning capacity of residents can be recognized as a foundation for homeownership. These grants will provide public housing residents with critical preparation for moving from renting to homeownership. In addition, HSS grants will create a pool of residents adequately prepared to pursue homeownership through the housing choice voucher program or other local homeownership programs. Therefore, HSS supports the existing section 8 homeownership program activities.

(1) Eligible Applicants. This funding category provides grants to PHAs for homeownership supportive services for public housing residents that were recipients of previously awarded ROSS grants and participates in the public housing Family Self Sufficiency Program funded from the operating fund. Tribes/TDHEs are not eligible applicants for HSS.

(2) Eligible participants and requirements. Program participants must meet all of the following conditions:

(a) This funding category is targeted to the population of public housing residents that were recipients/beneficiaries of previously awarded ROSS grants between FY 1999 and FY 2000, and participates in the public housing Family Self Sufficiency Program funded from the operating fund.

(b) Program participants must be residents of conventional public housing. As the applicant you must provide a statement that all of those served are residents affected by welfare reform. This includes those residents who are currently eligible, currently receiving, or have received within the preceding five years, assistance or services funded under TANF, SSI, or food stamp program.

(c) Where the number of targeted residents is not sufficient, the PHA may request a waiver to include conventional public housing residents, who participated in State and/or local self sufficiency programs in order to address homeownership needs in the local area.

(d) ROSS families or PH FSS residents to be targeted for proposed grant activities must meet the following eligibility requirements: Demonstrate an increase over a base year in earned income of at least 35 percent; achieve a level of income within the acceptable range for the local minimum income for home purchases in the local area; and currently reside in public housing.

(e) PHAs must have a Section 8 Homeownership program as stated in 24 CFR 982.625 et seq. (65 FR 55163). Those PHAs that have not elected to provide assistance under the voucher homeownership option (see final rule published September 12, 2000, 65 FR 55134), will be required to make such option available to eligible applicants who receive a voucher.

(f) In applying for HSS, applicants will be required to offer a minimum of 10 housing choice vouchers per year for eligible residents described above.

(3) Eligible Activities. Under this funding category, PHAs will design and develop homeownership supportive services for public housing residents. These supportive services shall comprehensively address the needs identified by the PHA for public housing families to obtain homeownership.

(a) Eligible activities shall include but not be limited to: Pre-purchase homeownership counseling and training; which may include training on such subjects as credit and financial management; credit repair; housing search; how to finance purchase of a home; fair housing; Individual Development Accounts, Real Estate Settlement Procedures Act (RESPA); and home maintenance.

(b) Program Coordinator. You are encouraged to include a Program Coordinator for activities for the entire term of your grant. A Program Coordinator is a person who is responsible for coordinating various proposed activities to ensure that their accomplishment will assist in achieving overall grant goals and objectives.

(c) Physical improvements. Physical improvements to facilities at public or tribal housing developments to provide space for self-sufficiency activities for residents, i.e. to provide cosmetic improvements and repairs to space to conduct community activities; or to expand existing community space for your proposed ROSS activities or modifications for accessibility for persons with disabilities. Renovation, conversion, and repair costs may be essential parts of physical improvements. In addition, architectural, engineering, and related professional services required to prepare architectural plans or drawings, write-ups, specifications or inspections may also be part of the cost components to implement physical improvements. Your physical improvements may not exceed 50 percent of the total grant amount and must be directly related to providing space for self-sufficiency activities for residents. Refer to Office of Management and Budget (OMB) Circular A-87, Cost Principles for State, Local and Indian Tribal Governments; All renovations must meet appropriate accessibility requirements, including Section 504 requirements at 24 CFR part 8, Architectural Barriers Act at 24 CFR part 40, the Americans with Disabilities Act and the Fair Housing Act.

(i) The renovation, conversion, or combination of vacant dwelling units in a PHA or tribal development to create common areas to accommodate the provision of supportive services is an eligible activity for physical improvements.

(ii) The renovation of existing common areas in a PHA or tribal development to accommodate the provision of supportive services.

(iii) The renovation or repair of facilities located near the premises of one or more PHA or tribal developments to accommodate the provision of supportive services.

(iv) If renovation, conversion, or repair is done off-site, the PHA, tribe or owner must provide documentation that it has control of the proposed property for not less than 2 years and preferably for 4 years or more. Control can be evidenced through a lease agreement, ownership documentation, or other appropriate documentation.

(d) PHAs are strongly encouraged to partner with HUD-approved housing counseling agencies, or other agencies that provide housing counseling services.

(e) Administrative Costs. These costs are necessary for the implementation of your grant activities. Administrative costs are not to exceed 10 percent of the grant. Appropriate administrative costs include, but are not limited to, the following reasonable costs or activities:

(f) Space and equipment. Maintenance, utility costs, postage, building lease/rental costs, purchase or lease of telephone, computer, printing, copying, and sundry non-dwelling equipment (such as office supplies, software, and furniture). You must justify the need for this equipment or space based on services being delivered in relationship to implementing your approved grant activities.

(4) Grant Term. The grant term for Homeownership supportive services grants is thirty-six months from the execution date of your grant agreement.

(G) Neighborhood Networks. This funding category provides grants to PHAs to establish and/or operate Neighborhood Networks Centers that use computer technology and telecommunications or to update and expand existing computer centers. These computer centers will function as self-sustaining Neighborhood Networks Centers that: Increase the use of computer technology; reduce welfare dependency; promote economic self sufficiency; improve human development; provide opportunities for job training and development; expand educational opportunities for residents; develop access to health and nutrition information; and empower the clients they serve. All awardees will be required to complete the NN Business Plan and receive designation as a NN center within the grant term as part of proposed grant activities.

(1) Eligible Applicants. This funding category provides grants to PHAs. Tribes/TDHEs are not eligible applicants for NN under this funding category.

(2) Eligible Activities. Under this funding category, funds may be used for the following activities for either new NN or to update and expand existing computer centers to become NN:

(a) Program Coordinator. You are encouraged to include a Program Coordinator for NN activities for the entire term of your grant. A Program Coordinator is a person who is responsible for coordinating various proposed activities to ensure that their accomplishment will assist in achieving overall grant goals and objectives.

(b) Physical improvements. Physical improvements must directly relate to providing space for Neighborhood Networks Center activities for residents, including modifications for accessibility for persons with disabilities. Renovation, conversion, and repair costs may be essential parts of physical improvements. In addition, architectural, engineering, and related professional services required to prepare architectural plans or drawings, write-ups, specifications or inspections may also be part of the cost components to implement physical improvements. Your physical improvements may not exceed 20 percent of the total grant amount and must be directly related to providing space for self-sufficiency activities for residents. Refer to Office of Management and Budget (OMB) Circular A-87, Cost Principles for State, Local and Indian Tribal Governments; All renovations must meet appropriate accessibility requirements, including Section 504 requirements at 24 CFR part 8, Architectural Barriers Act at 24 CFR part 40, the Americans with Disabilities Act and the Fair Housing Act.

(i) The renovation, conversion, or combination of vacant dwelling units in a PHA or tribal development to create common areas to accommodate the provision of a NN and supportive services is an eligible activity for physical improvements.

(ii) The renovation of existing common areas in a PHA development to accommodate the provision of a NN and supportive services.

(iii) The renovation or repair of facilities located near the premises of one or more PHA or tribal developments to accommodate the provision of supportive services.

(iv) If renovation, conversion, or repair is done off-site, the PHA, tribe or owner must provide documentation that it has control of the proposed property for not less than 2 years and preferably for 4 years or more. Control can be evidenced through a lease agreement, ownership documentation, or other appropriate documentation.

(3) Maintenance and insurance costs. Include installing, training, and maintaining the hardware and software as well as insurance coverage for the space and equipment. Costs of computer hardware and software necessary to accommodate the needs of persons with disabilities are an eligible cost for this funding category.

(4) Online computer center coordinator. Costs for implementing the Neighborhood Networks Center and coordinating with social and supportive services staff.

(5) Security and related costs. Includes space and minor refitting, locks, and oversight.

(6) Resident development and training courses. These courses may be on disk, through the Web, and/or presented live.

(7) Distance Learning Equipment. Distance learning equipment, including the costs for video casting and purchase/lease/rental of distance learning equipment.

(8) Administrative Costs. Administrative costs may include, but are not limited to, purchase of furniture, office equipment and supplies, training, quality assurance, travel, and utilities. Administrative costs must not exceed 20 percent of the total grant costs.

(9) Grant Term. The grant term for Neighborhood Networks grants is thirty-six months from the execution date of the grant agreement.

(H) Service Coordinators for Elderly and Persons with Disabilities.

(1) Eligible Applicants. This funding category provides grants to PHAs with developments designated for the elderly and persons with disabilities, which were initially awarded in FY 1995. Tribes/TDHEs are not eligible for public housing service coordinator renewal grants.

(2) Joint Applications. Two or more PHAs may join together to share a service coordinator and to submit joint applications. Joint applicants must designate a lead applicant. All joint applicants must be existing service coordinator grantees.

(3) Eligible Developments. To be eligible, a development must have elderly residents and/or non-elderly residents with disabilities who together total at least 25 percent of the building's residents.

(4) Eligible Activities. Under this funding category, funds may be used for the following activities:

(a) Service Coordinator. To pay for the salary, fringe benefits, and related administrative costs for employing a service coordinator. A service coordinator is a social service staff person hired or contracted by the PHA. The coordinator is responsible for assuring that elderly residents, especially those who are frail or at risk, and those non-elderly residents with disabilities are linked to the supportive services they need to continue living independently in that development. The service coordinator, however, may not require any elderly person or person with disabilities to accept the supportive services. For the purposes of this program, a service coordinator is any person who is responsible for one or more of the following functions:

(i) Working with community service providers to coordinate the provision of services and to tailor the services to the needs and characteristics of eligible residents;

(ii) Establishing a system to monitor and evaluate the delivery, impact, effectiveness and outcomes of supportive services under this program;

(iii) Coordinating this program with other independent living or self-sufficiency, education and employment programs;

(iv) Performing other duties and functions to assist residents to remain independent, and to prevent unnecessary institutionalization; and

(v) Mobilizing other national and local public/private resources and partnerships.

(b) Administrative Costs. Administrative costs may include, but are not limited to, purchase of furniture, office equipment and supplies, training, quality assurance, travel, and utilities. Administrative costs must not exceed 20 percent of the total grant costs.

(5) Ineligible Activities/Costs. (a) Applicants may not use these monies to replace current funding from other sources for a Service Coordinator or for some other staff person who performs service coordinator functions; and

(b) The cost of application preparation is not eligible.

(6) Grant Term. The grant term for Elderly or Persons with Disabilities Service Coordinator grants is 12 months.

IV. Program Requirements

The requirements of this section are applicable to all applicants, and grantees under this announcement of funding availability.

(A) Compliance with Fair Housing and Civil Rights Laws. Your application must meet all the applicable threshold requirements found in Section II (B) of the General Section of the SuperNOFA, as well as the following requirements.

(B) Affirmatively Furthering Fair Housing. You must adhere to the requirements as provided in Section II(D) of the General Section of the SuperNOFA.

(C) Conducting Business In Accordance With Core Values and Ethical Standards. All applicants shall develop and maintain a written code of conduct that reflects Core Values. See Section II(B)(2) of the General Section of the SuperNOFA for requirements.

(D) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. See Section II (F) of the General Section of the SuperNOFA for requirements.

(E) Economic Opportunities for Low and Very Low Income Persons (Section 3). You must adhere to the requirements as provided in Section II (E) of the General Section of the SuperNOFA.

(F) Certifications and Assurances. You must comply with the certifications and assurances contained in Section II (G) of the General Section of the SuperNOFA.

(G) Applicant Internet Access. Prior to the initial draw down, all grantees must have secured online access to the Internet as a means to communicate with HUD on grant matters. Tribes/TDHEs awardees may submit a waiver request to the Office of Native American Programs for this requirement if Internet access cannot be obtained.

(H) ROSS Evaluation and Assessment. All applicants selected for award must be willing to participate in the evaluation and assessment that HUD intends to conduct for the ROSS Program. At grant award HUD will provide additional information on the evaluation and assessment for applicants who receive awards.

(I) ROSS Performance Measures. All applicants selected for award must use ROSS Performance Measures in grant reporting for all awards. A comprehensive list of Performance Measures is provided in Appendix A to this NOFA. At grant award HUD will provide additional information on the Performance Measures for applicants who receive awards.

V. Application Selection Process

(A) Application Selection Process for Resident Management and Business Development. Applicants for Resident Management and Business Development grants are required to address application submission requirements, but are not required to address selection factors. Eligibility will be determined by applications that meet the threshold requirements of Section VI of this program section of the SuperNOFA. HUD will accept for funding a maximum of the first five eligible applications from each of the ten federal regions and DPONAP on a first-come, first-serve basis for this SuperNOFA. Any funds remaining after making awards to the first five eligible applications from each region and DPONAP will be awarded to the next eligible application from each region, then the next, and so forth until funds are exhausted. If sufficient funds are not available in any round to fund an eligible application from each region and DPONAP, the eligible applications will then be funded in the order in which they were received regardless of region. Where physical development activities are proposed, HUD will perform an environmental review, to the extent required by 24 CFR part 50, prior to award. The results of the environmental review may require that proposed activities be modified or proposed sites rejected. If all funds are not awarded in this funding category, available funds may be transferable to the RSDM funding category in this ROSS competition.

(B) Application Selection Process for Capacity Building. Applicants for Capacity Building grants are required to address application submission requirements but are not required to address selection factors. Eligibility will be determined by applications that meet the threshold requirements of Section VI of this program section of the SuperNOFA. HUD will accept for funding the first two eligible applications from each of the ten federal regions and DPONAP on a first-come, first-served basis for this SuperNOFA. Any funds remaining after making awards to the first two eligible applications from each region and DPONAP will be awarded to the next eligible application from each region and DPONAP, then the next, and so forth until funds are exhausted. If sufficient funds are not available in any round to fund an eligible application from each region and DPONAP, the eligible applications will then be funded in the order in which they were received regardless of region and DPONAP. If all funds are not awarded in this funding category, available funds may be transferable to the RSDM funding category in this ROSS competition.

(C) Application Selection Process for Resident Service Delivery Models.

(1) Three types of reviews will be conducted: a screening to determine if your application submission is complete and on time; a threshold review to determine applicant eligibility; and a technical review to rate your application based on the five rating factors provided in this section. A minimum score of 70 is required to be considered for funding. If you are not the PHA or Tribe/TDHE, where physical development activities are proposed, HUD will perform an environmental review, to the extent required by 24 CFR part 50, prior to award. The results of the environmental review may require that proposed activities be modified or proposed sites rejected.

(2) The selection process is designed to achieve geographic diversity of grant awards throughout the country. HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order regardless of region and DPONAP and will fully fund as many as possible with remaining funds. Additional funding rounds to utilized transferred funding will be awarded utilizing the process described above.

(3) Factors for Award Used to Evaluate and Rate RSDM Applications. The factors for rating and ranking applicants and maximum points for each factor are provided below. The maximum number of points available for this program is 102. This includes two RC/EZ/EC bonus points, as described in the General Section of the SuperNOFA. The application kit contains a certification that must be completed for the applicant to be considered for RC/EZ/EC bonus points and a listing of federally designated RCs, EZs and ECs. In addition, a list of RCs, EZs, and ECs is attached to the General Section of the SuperNOFA as Appendix A-2 and is also available from the SuperNOFA Information Center, and the HUD web site, www.hud.gov. A RSDM application must receive a total of 70 points out of 100 to be eligible for funding.

Rating Factor 1: Capacity of the Applicant and Relevant Organizational Experience (20 Points)

This factor addresses the extent to which the applicant has the organizational resources necessary to successfully implement the proposed activities in a timely manner. In rating this factor HUD will consider the extent to which the proposal demonstrates:

(1) Proposed Program Staffing. (7 Points)

(a) Experience. (4 Points) The knowledge and experience of your proposed project director and staff, including the day-to-day program manager, sub-recipients and partners in planning and managing programs for which funding is being requested. Your experience will be judged in terms of recent, relevant and successful experience to undertake eligible program activities.

(b) Sufficiency. (3 Points) You and your sub-recipients and partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management. (7 Points)

(a) Program Administration. (4 Points) The soundness of the proposed management of your proposed RSDM program. To receive a high score, you must provide a comprehensive description of your project management structure. Your narrative must provide a description of how any co-applicants, sub-grantees, and other partner agencies relate to the program administrator as well as the lines of authority and accountability among all components of your proposed program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record. (6 Points) To receive a high score, you must demonstrate your (or your proposed Administrator's) program compliance and successful implementation of any resident self-sufficiency, enhanced self-sufficiency program, welfare-to-work initiative, or economic independence oriented grants (including those listed below) awarded to you or overseen by your Administrator. If you or your Administrator has no prior experience in operating programs that foster resident self-sufficiency, enhanced self-sufficiency program, welfare-to-work initiative, or economic independence you will receive a score of 0 on this factor. Your past experience may include, but is not limited to, administering the following grants: Family Investment Center Program; Youth Development Initiative under Family Investment Center Program; Youth Apprenticeship Program; Apprenticeship Demonstration in the Construction Trades Program; Urban Youth Corps Program; HOPE I Program; Public Housing Service Coordinator Program; Public Housing Drug Elimination Program; Tenant Opportunities Program; Economic Development and Supportive Services; Indian Housing Drug Elimination Program; and Youth Sports Program.

Rating Factor 2: Need/Extent of the Problem (20 Points)

This factor addresses the extent to which there is a need for funding your proposed program activities to address a documented problem in the target area. You will be evaluated on the extent to which they document a critical level of need in the development or your proposed activities in the area where activities will be carried out. In responding to this factor, you will be evaluated on:

(1) A Needs Assessment Document. (18 Points) HUD will award up to 18 points based on the quality and comprehensiveness of the needs assessment document.

(a) To obtain maximum points for Family RSDM applications, this document must contain statistical data, which provides:

(i) A thorough socioeconomic profile of the eligible residents to be served by your program, in relationship to PHA-wide and national public and assisted housing data on residents who are on TANF, SSI benefits, or other fixed income arrangements; in job training, entrepreneurship, or community service programs; and employed;

(ii) Specific information on training, contracting, and employment through the PHA or tribe/TDHE;

(iii) An assessment of the current service delivery system as it relates to the needs of the target population, including the number and type of services, the location of services, and community facilities currently in use. For enhanced self-sufficiency programs, you must describe specific baseline elements upon which goals will be measured;

(iv) A description of the goals, objectives, and program strategies that will result in the successful transition of residents from welfare-to-work increased earning capacity or sustained work; and

(v) For enhanced self-sufficiency programs, you must describe how your proposed grant activities will contribute to the economic stability of the affected area.

(b) In order to obtain maximum points for Elderly and Persons with Disabilities RSDM applications, the needs assessment document should contain statistical data that provide:

(i) The numbers of residents needing assistance for activities of daily living;

(ii) An assessment of the current service delivery system as it relates to the needs of the target population, including the number and type of services, the location of services, and community facilities currently in use;

(iii) A description of the goals, objectives, and program strategies that will result in increased independence for proposed program participants;

(2) Level of Priority in Consolidated Plan or Indian Housing Plan. (2 Points) Documentation of the level of priority the locality's, or in the case of small cities, the State's, Consolidated Plan, or Indian Housing Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed work plan. In rating this factor HUD will consider: the viability and comprehensiveness of your strategies to address the needs of residents; budget appropriateness/efficient use of grant; the speed at which you can realistically accomplish the goals of the proposed RSDM program; the soundness of your plan to evaluate the success of your proposed RSDM program at completion and during program implementation; and resident and other partnerships; and policy priorities.

(1) Viability and comprehensiveness of the strategies to address the needs of residents (21 Points). The score under this subfactor will be based on the viability and comprehensiveness of your strategies to address the needs of residents:

(a) Services. (18 Points for Family RSDM applicants and 21 Points for Elderly and Persons with Disabilities RSDM applicants). More points are awarded in the Elderly and Persons with Disabilities RSDM applications to balance other sections of the rating criteria where points are not applicable to an Elderly and Persons with Disabilities RSDM applicant) The score under this subfactor will be based on the following:

(i) For Family RSDM applications, the extent to which your plan provides services that specifically address the successful transition from welfare to work of non-elderly families. To receive a high score, your plan must include case management/counseling, job training/development/placement (and/or business training/development/startup), childcare, and transportation services. If you are not proposing to use RSDM funding for these activities, you must show that you will provide these services with other funds or through specific commitments from partners.

(ii) In order to receive maximum points, the goals and objectives of your proposed plan must represent significant achievements related to welfare-to-work, enhanced self-sufficiency programs or other initiatives which build on previous welfare-to-work programs, and other self-sufficiency/independence goals. Specifically for those residents affected by welfare reform, we are interested in achievements that are performance outcomes such as the number of residents employed or businesses started, in addition to process descriptions, such as the number of residents receiving training. Similarly, for those residents involved in enhanced self-sufficiency programs, we are interested in achievements related to performance measures such as sustained work and increased earning capacity.

(iii) For Elderly and/or Persons with Disabilities RSDM applications, services in your plan should include case management, health care, congregate services and transportation. To obtain maximum points, you must describe the goals, objectives, and program strategies that will result in increased independence for proposed program participants; your services must be located in a community facility; and must be available on a 12-hour basis or as needed by the eligible residents.

(b) Resident Contracting and Employment. (3 Points for Family RSDM applicants) The score in this factor will be based on the extent to which residents will achieve self-sufficiency or increased earning capacity through your contracts with resident-owned businesses and through resident employment. A high score will be awarded where there is documentation (a letter or resolution from your governing body) describing your commitment to hire or contract with at least 15 percent of residents and a narrative describing the number of resident jobs or contracts involved, as well as the training processes related to the comprehensive plan of your application. Elderly and Persons with Disabilities RSDM applications will not be scored on the criterion in this subcategory.

(2) Budget Appropriateness/Efficient Use of Grant. (5 Points for Family RSDM and Elderly and Persons with Disabilities RSDM) The score in this factor will be based on the following:

(a) Detailed Budget Breakout. The extent to which your application includes a detailed budget breakout for each budget category in the SF-424A.

(b) Reasonable Administrative Costs. The extent to which your application includes administrative costs at or below the 20 percent administrative cost ceiling.

(c) Budget Efficiency. The extent to which your application requests funds commensurate with the level of effort necessary to accomplish your goals and anticipated results.

(3) Reasonableness of the Timetable. (2 Points for Family RSDM applicants and 4 Points for Elderly and Persons with Disabilities RSDM applicants. More points are awarded in Elderly and Persons with Disabilities RSDM applications in order to balance other sections of the rating criteria where points are not applicable to an Elderly and Persons with Disabilities RSDM applicant)

The score in this factor will be based on a reasonable response that you can accomplish the goals of your proposed RSDM program. To receive a high score, you must demonstrate that it will make substantial program implementation progress within the first six months after grant execution, including putting staff in place, finalizing partnership arrangements, completing the development of requests for proposals, and achieving other milestones that are prerequisites for implementation of the program. In addition, you must demonstrate that your proposed timetable for all components of the proposed program is feasible considering the size of your award and activities and results that can be accomplished within the 36-month time limit.

(4) Program Assessment. (3 Points for Family RSDM and Elderly and Persons with Disabilities RSDM) The score in this factor will be based on the soundness of your plan to evaluate the success of your proposed RSDM program both at the completion of your program and during program implementation. At a minimum, you must track the goals and objectives of your proposed work plan program, which must include, if applicable, a plan for monitoring your Contract Administrator's performance. Your application should track specific measurable achievements for the use of program funds, such as number of residents employed, salary scales of jobs obtained, persons removed from welfare roles 12 months or longer, number of elderly or persons with disabilities residents receiving supportive services, increased earnings based on grant activities, and number of persons receiving certificates for successful completion of training in careers such as computer technology.

(5) Resident and Other Partnerships (9 Points for Family RSDM applicants and 7 Points for Elderly and Persons with Disabilities RSDM applicants)

(a) Resident Involvement in RSDM Activities (3 Points for Family RSDM applicants and 4 Points for Elderly and Persons with Disabilities RSDM applicants. More points are awarded in Elderly and Persons with Disabilities RSDM applications in order to balance other sections of the rating criteria where points are not applicable to an Elderly and Persons with Disabilities RSDM applicant): The score in this factor will be based on the extent of resident involvement in developing your proposed RSDM program as well as the extent of proposed resident involvement in implementing your proposed RSDM program. To receive a high score on this factor, you must describe the involvement of residents in the planning phase for this program, and a commitment to provide continued involvement in grant implementation. For applicants to receive the maximum number of points, a work plan must be included.

(b) Other Partnerships. (3 Points) The score in this factor will be based on the successful integration of partners into implementation of the proposed RSDM program. To receive a high score, you must provide a signed Memorandum of Understanding (MOU) or other equivalent signed documentation that delineates the roles and responsibilities of each of the parties in your program and the benefits they will receive. In assessing this subfactor, HUD will examine a number of aspects of the proposed partnership, including:

(i) The division of responsibilities or management structure of your proposed partnership relative to the expertise and resources of your partners;

(ii) The extent to which the partnership as a whole addresses the unmet resident needs; and

(iii) The extent to which the addition of the partners provides the ability to meet needs that the applicant could not meet without the partner(s).

(c) Overall Relationship/Coordination. (3 Points for Family RSDM only) For Family RSDM applicants, the score in this factor will be based on the extent of coordination between your proposed RSDM program and any existing or proposed programs within your jurisdiction. To receive a high score, you must contain an MOU that describes collaboration between the applicant and residents on all of the specific components related to the work plan of the proposed RSDM program. To receive points, at a minimum, you must have a narrative description of this collaboration. Elderly and Persons with Disabilities RSDM applications will not be scored on this criterion.

Rating Factor 4: Leveraging Resources (10 Points)

This factor addresses your ability to secure community resources (note: financing is a community resource) that can be combined with HUD's program resources to achieve program purposes. You must have at least a 25 percent cash or in-kind match to receive points under this rating factor. Leveraging in excess of the 25 percent of the grant amount will receive a higher point value. In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the RSDM grant amount proposed in this application. “Firmly committed” means there must be a written agreement with the provider of resources, signed by an official legally able to make commitments on behalf of the organization. The signed, written agreement may be contingent upon you receiving a grant award. Other resources and services may include: the value of in-kind services, contributions or administrative costs provided to the applicant; funds from Federal sources (not including RSDM funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate should include the organization's name, proposed level of commitment and responsibilities as they relate to the proposed program.

Rating Factor 5: Coordination, Self-Sufficiency and Sustainability (10 Points)

This factor addresses the extent to which your program reflects a coordinated, community-based process of identifying needs and building a system to address the needs by using available HUD funding resources and other resources available to the community.

In evaluating this factor HUD will consider the extent to which your application addresses:

(1) Coordination with the Consolidated Plan or Indian Housing Plan. (2 Points for Family RSDM applicants and 6 points for Elderly and Persons with Disabilities RSDM applicants. More points are awarded for Elderly and Persons with Disabilities RSDM applications in order to balance other sections of the rating criteria where points are not applicable to an Elderly and Persons with Disabilities RSDM applicant.) Demonstrates the applicant has reviewed the community's Consolidated Plan and/or Analysis of Impediments to Fair Housing Choice, and has proposed activities that address the priorities, needs, goals or objectives in those documents; or substantially furthers fair housing choice in the community.

(2) For Family RSDM Applications, Coordination with the State and/or Local Welfare Plan (4 Points): Provides evidence that your proposed RSDM program has been coordinated with and supports the PHA's efforts to increase resident self-sufficiency or increase resident earning capacity and is coordinated and consistent with the State, or local Welfare Plan.

(3) Coordination with Other Activities (4 Points) Demonstrates that in carrying out your program activities, you will develop linkages with: other HUD-funded program activities proposed or on-going in the community; or other State, Federal or locally funded activities proposed or on-going in the community which, taken as a whole, support and sustain a comprehensive system to address the needs.

(D) Application Selection Process for Homeownership Supportive Services.

(1) Three types of reviews will be conducted: a screening to determine if your application submission is complete and on time; a threshold review to determine applicant eligibility; and a technical review to rate your application based on the five rating factors provided in this section.

The selection process is designed to achieve geographic diversity of grant awards throughout the country. HUD will first select the highest ranked application from each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds. If all funds are not awarded in RMBD, CB, HSS, SC funding categories, funds will be transferred to RSDM funding categories in this competition.

(2) Factors for Award Used to Evaluate and Rate HSS Applications. The factors for rating and ranking applicants and maximum points for each factor are provided below. The maximum number of points available for this program is 1024. This includes two RC/EZ/EC bonus points, as described in the General Section of the SuperNOFA. The application kit contains a certification that must be completed for the applicant to be considered for RC/EZ/EC bonus points and a listing of federally designated RCs, EZs and ECs. In addition, a list of RCs, EZs, and ECs is attached to the General Section of the SuperNOFA as Appendix A-2 and is also available from the SuperNOFA Information Center, and the HUD web site, www.hud.gov. A HSS application must receive a total of 70 points out of 100 to be eligible for funding.

Rating Factor 1: Capacity of the Applicant and Relevant Organizational Experience (20 Points)

This factor addresses the extent to which the applicant has the organizational resources necessary to successfully implement the proposed activities in a timely manner. In rating this factor HUD will consider the extent to which the proposal demonstrates:

(1) Proposed Program Staffing. (7 Points)

(a) Experience. (4 Points) The knowledge and experience of your proposed project director and staff, including the day-to-day program manager, sub-recipients and partners in planning and managing programs for which funding is being requested. Your experience will be judged in terms of recent, relevant and successful experience to undertake eligible program activities.

(b) Sufficiency. (3 Points) You and your sub-recipients and partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management. (7 Points)

(a) Program Administration. (4 Points) The soundness of the proposed management of your proposed HSS program. To receive a high score, you must provide a comprehensive description of your project management structure. Your narrative must provide a description of how any co-applicants, sub-grantees, and other partner agencies relate to the program administrator as well as the lines of authority and accountability among all components of your proposed program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record. (6 Points) To receive a high score, you must demonstrate your (or your proposed Administrator's) program compliance and successful implementation of any resident self-sufficiency, homeownership or independence-oriented grants (including those listed below) awarded to you or overseen by your Administrator. If you or your Administrator has no prior experience in operating programs that foster resident self-sufficiency, homeownership, or independence you will receive a score of 0 on this factor. Your past experience may include, but is not limited to, administering the following grants or programs: Family Self Sufficiency; Family Investment Center Program; Youth Development Initiative under Family Investment Center Program; Youth Apprenticeship Program; Apprenticeship Demonstration in the Construction Trades Program; Urban Youth Corps Program; HOPE I Program; Public Housing Service Coordinator Program; housing choice voucher homeownership program; Public Housing Drug Elimination Program; Tenant Opportunities Program; Economic Development and Supportive Services; and Youth Sports Program.

Rating Factor 2: Need/Extent of the Problem (20 Points)

This factor addresses the extent to which there is a need for funding your proposed program activities to address the need/goal of the target population of pervious ROSS recipients/beneficiaries. You will be evaluated on the extent to which you document your proposed activities demonstrate that participants in self sufficiency programs are able to move from renting to homeownership, based on need, increases in resident income and other self sufficiency efforts. In responding to this factor, you will be evaluated on:

(1) A Needs/Goals Assessment Document. (18 Points) HUD will award up to 18 points based on the quality and comprehensiveness of the needs assessment document. To obtain maximum points for HSS applications, this document must contain statistical data that provides:

(a) A thorough socioeconomic profile of the eligible residents to be served by your program, in relationship to PHA-wide and national public and assisted housing data on residents who are on TANF, SSI benefits, or other fixed income arrangements; in job training, entrepreneurship, or community service programs; and employed;

(b) Specific information on training, contracting, and employment through the PHA;

(c) An assessment of the current service delivery system as it relates to the needs of the target population, including the number and type of services, the location of services, and community facilities currently in use;

(d) A description of the goals, objectives, and program strategies that will result in the successful transition of residents from renters to homeowners.

(2) Level of Priority in Consolidated Plan. (2 Points) Documentation of the level of priority the locality's, or in the case of small cities, the State's, Consolidated Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed work plan. In rating this factor HUD will consider: The viability and comprehensiveness of your strategies to address the needs of residents; budget appropriateness/efficient use of grant; the speed at which you can realistically accomplish the goals of the proposed HSS program; the soundness of your plan to evaluate the success of your proposed HSS program at completion and during program implementation; and resident and other partnerships; and policy priorities.

(1) Viability and comprehensiveness of the strategies to address the homeownership of transferred residents. (18 Points) The score under this subfactor will be based on the viability and comprehensiveness of your strategies to address the counseling needs of residents identified for homeownership.

(a) Services. The score under this subfactor will be based on the following:

(i) The extent to which your plan provides services that specifically addresses the successful transition from renters to homeowners. To receive a high score, your plan must include case management and/or counseling.

(ii) In order to receive maximum points, the goals and objectives of your proposed plan must represent significant achievements related to moving from renting to homeownership. Specifically for those residents affected by welfare reform, we are interested in achievements that are performance outcomes of residents targeted for homeownership, in addition to, descriptions of residents receiving training and homeownership counseling activities.

(2) Budget Appropriateness/Efficient Use of Grant. (8 Points) The score in this factor will be based on the following:

(a) Detailed Budget Breakout. The extent to which your application includes a detailed budget breakout for each budget category in the SF-424A.

(b) Reasonable Administrative Costs. The extent to which your application includes administrative costs at or below the 10 percent administrative cost ceiling.

(c) Budget Efficiency. The extent to which your application requests funds commensurate with the level of effort necessary to accomplish your goals and anticipated results.

(d) Reasonableness of the Timetable.

The score in this factor will be based on a reasonable response that you can accomplish the goals of your proposed HSS program. To receive a high score, you must demonstrate that it will make substantial program implementation progress within the first six months after grant execution, including putting staff in place, finalizing partnership arrangements, completing the development of requests for proposals, and achieving other milestones that are prerequisites for implementation of the program. In addition, you must demonstrate that your proposed timetable for all components of the proposed program is feasible considering the size of your award and activities and results that can be accomplished within the 36-month time limit.

(3) Program Assessment. (5 Points). The score in this factor will be based on the soundness of your plan to evaluate the success of your proposed HSS program both at the completion of your program and during program implementation. At a minimum, you must track the goals and objectives of your proposed work plan program. Your application should track specific measurable achievements for the use of program funds, such as number of residents counseled on becoming homeowners.

(4) Resident and Other Partnerships. (9 Points)

(a) Resident Involvement in HSS Activities. (3 Points). The score in this factor will be based on the extent of resident involvement in developing your proposed HSS program as well as the extent of proposed resident involvement in implementing your proposed HSS program. To receive a high score on this factor, you must describe the involvement of residents in the planning phase for this program, and a commitment to provide continued involvement in grant implementation. For applicants to receive the maximum number of points, a work plan, must be included.

(b) Other Partnerships. (3 Points) The score in this factor will be based on the successful integration of partners into implementation of the proposed HSS program. To receive a high score, you must provide a signed Memorandum of Understanding (MOU) or other equivalent signed documentation that delineates the roles and responsibilities of each of the parties in your program and the benefits they will receive. In assessing this subfactor, HUD will examine a number of aspects of the proposed partnership, including:

(i) The division of responsibilities or management structure of your proposed partnership relative to the expertise and resources of your partners;

(ii) The extent to which the partnership as a whole addresses the unmet resident needs; and

(iii) The extent to which the addition of the partners provides the ability to meet needs that the applicant could not meet without the partner(s).

(c) Overall Relationship/Coordination. (3 Points) For HSS applicants, the score in this factor will be based on the extent of coordination between your proposed HSS program and any existing or proposed programs within your jurisdiction. To receive points, at a minimum, you must have a narrative description of this collaboration.

Rating Factor 4: Leveraging Resources (10 Points)

This factor addresses your ability to secure community resources (note: financing is a community resource) that can be combined with HUD's program resources to achieve program purposes. You must have at least a 25 percent cash or in-kind match to receive points under this rating factor. Leveraging in excess of the 25 percent of the grant amount will receive a higher point value.

In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the HSS grant amount proposed in this application. “Firmly committed” means there must be a written agreement with the provider of resources, signed by an official legally able to make commitments on behalf of the organization. The signed, written agreement may be contingent upon you receiving a grant award. Other resources and services may include: The value of in-kind services, contributions or administrative costs provided to the applicant; funds from Federal sources (not including HSS funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate must include the organization's name, proposed level of commitment and responsibilities as they relate to the proposed program.

Rating Factor 5: Coordination, Self-Sufficiency and Sustainability (10 Points)

This factor addresses the extent to which your program reflects a coordinated, community-based process of identifying needs and building a system to address the needs by using available HUD funding resources and other resources available to the community.

In evaluating this factor HUD will consider the extent to which your application addresses:

(1) Coordination with the Consolidated Plan (2 points). Demonstrates the applicant has reviewed the community's Consolidated Plan and/or Analysis of Impediments to Fair Housing Choice, and has proposed activities that address the priorities, needs, goals or objectives in those documents; or substantially furthers fair housing choice in the community.

(2) For HSS Program Applications, Coordination with the State and/or Local Welfare Plan (4 Points). Provides evidence that your proposed HSS program has been coordinated with and supports the PHA's efforts to increase resident homeownership and is coordinated and consistent with the State, or local Welfare Plan.

(3) Coordination with Other Activities (4 Points). Demonstrates that in carrying out your program activities, you will develop linkages with: other HUD-funded program activities proposed or on-going in the community; or other State, Federal or locally funded activities proposed or on-going in the community which, taken as a whole, support and sustain a comprehensive system to address the needs.

(E) Application Selection Process for Neighborhood Networks Centers.

(1) Three types of reviews will be conducted: A screening to determine if your application submission is complete and on time; a threshold review to determine applicant eligibility; and a technical review to rate your application based on the five rating factors provided in this section. A minimum score of 70 is required to be considered for funding.

(2) The selection process is designed to achieve geographic diversity of grant awards throughout the country. HUD will first select the highest ranked application from each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds. NN funds may not be transferred to any other funding category within this NOFA.

(3) Factors for Award Used to Evaluate and Rate NN Applications. The factors for rating and ranking applicants and maximum points for each factor are provided below. The maximum number of points available for this program is 102. This includes two RC/EZ/EC bonus points, as described in the General Section of the SuperNOFA. The application kit contains a certification that must be completed for the applicant to be considered for RC/EZ/EC bonus points and a listing of federally designated RCs, EZs and ECs. In addition, a list of RCs, EZs, and ECs is attached to the General Section of the SuperNOFA as Appendix A-2 and is also available from the SuperNOFA Information Center, and the HUD web site, www.hud.gov. A NN application must receive a total of 70 points out of 100 to be eligible for funding.

Rating Factor 1: Capacity of the Applicant and Relevant Organizational Experience (20 Points)

This factor addresses the extent to which the applicant has the organizational resources necessary to successfully implement the proposed activities in a timely manner. In rating this factor HUD will consider the extent to which the proposal demonstrates:

(1) Proposed Program Staffing. (7 Points)

(a) Experience. (4 Points) The knowledge and experience of your proposed project director and staff, including the day-to-day program manager, sub-recipients and partners in planning and managing programs for which funding is being requested. Your experience will be judged in terms of recent, relevant and successful experience to undertake eligible program activities.

(b) Sufficiency. (3 Points) You and your sub-recipients and partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management. (7 Points)

(a) Program Administration. (4 Points) The soundness of the proposed management of your proposed NN program. To receive a high score, you must provide a comprehensive description of your project management structure. Your narrative must provide a description of how any co-applicants, sub-grantees, and other partner agencies relate to the program administrator as well as the lines of authority and accountability among all components of your proposed program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record. (6 Points) To receive a high score, you must demonstrate your (or your proposed Administrator's) program compliance and successful implementation of any resident self-sufficiency, technology-oriented training, community-based job training, telecommunications, or other computer services (including those listed below) awarded to you or overseen by your Administrator. If you or your Administrator has no prior experience in operating programs that foster resident use of technology, computer instruction, or other computer services you will receive a score of 0 on this factor. Your past experience may include, but is not limited to, administering the following grants or programs: Family Self Sufficiency; Family Investment Center Program; Youth Development Initiative under Family Investment Center Program; Youth Apprenticeship Program; Apprenticeship Demonstration in the Construction Trades Program; Urban Youth Corps Program; HOPE I Program; Public Housing Service Coordinator Program; housing choice voucher homeownership program; Public Housing Drug Elimination Program; Tenant Opportunities Program; Economic Development and Supportive Services; and Youth Sports Program.

Rating Factor 2: Need/Extent of the Problem (20 Points)

This factor addresses the extent to which there is a need for funding your proposed program activities to address the need of public housing residents for computer technology. You will be evaluated on the extent to which you document your proposed activities in this area. In responding to this factor, you will be evaluated on:

(1) A Needs/Goals Assessment Document. (18 Points) HUD will award up to 18 points based on the quality and comprehensiveness of the needs assessment document. To obtain maximum points for NN applications, this document must contain statistical data that provides:

(a) A profile of the eligible residents to be served by your NN center and its programs;

(b) Specific information on activities and programs to be undertaken as part of the NN center including job training, adult education, using the Internet to make linkages with health care providers, health services, and health information, youth and afterschool programs and other proposed activities;

(c) An assessment of the needs of the target population, including the number and type of services, the location of services, and community facilities currently in use;

(d) A description of the goals and objectives of the NN center.

(2) Level of Priority in Consolidated Plan. (2 Points) Documentation of the level of priority the locality's, or in the case of small cities, the State's, Consolidated Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed work plan. In rating this factor HUD will consider: the viability and comprehensiveness of your strategies to address the needs of residents; budget appropriateness/efficient use of grant; the speed at which you can realistically accomplish the goals of the proposed NN program; the soundness of your plan to evaluate the success of your proposed NN program at completion and during program implementation; and resident and other partnerships; and policy priorities.

(1) Viability and comprehensiveness of the strategies to address Neighborhood Networks needs in the proposed area. (10 Points) The score under this subfactor will be based on the viability and comprehensiveness of your strategies to address electronic information needs.

Your application must describe how the Neighborhood Networks Center or its conversion to Neighborhood Networks will address job training, adult education, using the Internet to make linkages with health care providers, health services, and health information, and youth and after-school programs.

(2) Budget Appropriateness/Efficient Use of Grant. (10 Points) The score in this factor will be based on the following:

(a) Detailed Budget Break-Out. The extent to which your application includes a detailed budget breakout for each budget category in the SF-424A. Your application must include Chart C: Summary of Budget Line Items, for your proposed activities, and Chart D: Budget Work Plan Summary.

(b) Reasonable Administrative Costs. The extent to which your application includes administrative costs at or below the 15 percent administrative cost ceiling.

(c) Budget Efficiency. The extent to which your application requests funds commensurate with the level of effort necessary to accomplish your goals and anticipated results.

(d) Reasonableness of the Timetable.

The score in this factor will be based on a reasonable response that you can accomplish the goals of your proposed NN program. To receive a high score, you must demonstrate that it will make substantial program implementation progress within the first six months after grant execution, including putting staff in place, finalizing partnership arrangements, completing the development of requests for proposals, and achieving other milestones that are prerequisites for implementation of the program. In addition, you must demonstrate that your proposed timetable for all components of the proposed program is feasible considering the size of your award and activities and results that can be accomplished within the 36-month time limit.

(3) Program Assessment. (10 Points) The score in this factor will be based on the soundness of your plan to evaluate the success and sustainability of your proposed NN program both at the completion of your program and during program implementation. At a minimum, you must track the goals and objectives of your proposed work plan program. Your application should track specific measurable achievements for the use of program funds, such as number of residents using proposed computer related services/programs being offered by the NN. Each applicant must describe how the existing computer center or proposed computer center will become a Neighborhood Networks Center and be self-sustaining after the proposed grant period has been completed.

(4) Resident and Other Partnerships (10 Points).

(a) Resident Involvement in NN Program Activities (4 Points) The score in this factor will be based on the extent of resident involvement in developing and planning for your proposed NN program as well as the extent of proposed resident involvement in implementing your proposed NN program. To receive a high score on this factor, you must describe the involvement of residents in the planning phase for this program, and a commitment to provide continued involvement in grant implementation. For applicants to receive the maximum number of points, a work plan, must be included.

(b) Other Partnerships. (3 Points) The score in this factor will be based on the successful integration of partners into implementation of the proposed NN program. To receive a high score, you must provide a signed Memorandum of Understanding (MOU) or other equivalent signed documentation that delineates the roles and responsibilities of each of the parties in your program and the benefits they will receive. Your application should include local partnerships in support of NN activities such as job training, adult education, using the Internet to make linkages with health care providers, health services, and health information, and youth and after school programs. In assessing this subfactor, HUD will examine a number of aspects of the proposed partnership, including:

(i) The division of responsibilities/management structure of your proposed partnership relative to the expertise and resources of your partners;

(ii) The extent to which the partnership as a whole addresses the unmet resident needs; and (iii) The extent to which the addition of the partners provides the ability to meet needs that the applicant could not meet without the partner(s).

(c) Overall Relationship/Coordination. (3 Points) For NN applicants, the score in this factor will be based on the extent of coordination between your proposed NN program and any existing or proposed programs within your jurisdiction. To receive points, at a minimum, you must have a narrative description of this collaboration.

Rating Factor 4: Leveraging Resources (10 Points)

This factor addresses your ability to secure community resources (note: financing is a community resource) that can be combined with HUD's program resources to achieve program purposes. You must have at least a 25 percent cash or in-kind match to receive points under this rating factor. Leveraging in excess of the 25 percent of the grant amount will receive a higher point value.

In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the NN grant amount proposed in this application. “Firmly committed” means there must be a written agreement with the provider of resources, signed by an official legally able to make commitments on behalf of the organization. The signed, written agreement may be contingent upon you receiving a grant award. Other resources and services may include: the value of in-kind services, contributions or administrative costs provided to the applicant; funds from Federal sources (not including NN funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate must include the organization's name, proposed level of commitment and responsibilities as they relate to the proposed program.

Rating Factor 5: Coordination, Self-Sufficiency and Sustainability (10 Points)

This factor addresses the extent to which your program reflects a coordinated, community-based process of identifying needs and building a system to address the needs by using available HUD funding resources and other resources available to the community.

In evaluating this factor HUD will consider the extent to which your application addresses:

(1) Coordination with the Consolidated Plan (2 points). Demonstrates the applicant has reviewed the community's Consolidated Plan and/or Analysis of Impediments to Fair Housing Choice, and has proposed activities that address the priorities, needs, goals or objectives in those documents; or substantially furthers fair housing choice in the community.

(2) For NN Program Applications, Coordination with the State and/or Local Welfare Plan (4 Points). Provides evidence that your proposed NN program has been coordinated with and supports the PHA's efforts to reduce welfare dependency coordinated and consistent with the State, or local Welfare Plan.

(3) Coordination with Other Activities (4 Points). Demonstrates that in carrying out your program activities, you will develop linkages with: other HUD-funded program activities proposed or on-going in the community; or other State, Federal or locally funded activities proposed or on-going in the community which, taken as a whole, support and sustain a comprehensive system to address the technology needs of public housing residents.

(F) Application Selection Process for Service Coordinators.

Applicants for Service Coordinators are required to address application submission requirements but are not required to address selection factors. Eligibility will be determined by applications that meet the threshold requirements of Section IV of this program section of the SuperNOFA.

If all funds are not awarded in RMBD, CB, HSS, or SC funding categories, funds will be transferred to RSDM funding categories in this competition.

VI. Application Submission Requirements

(A) All Applications. All applications for assistance under the ROSS competition for all funding categories must include the forms, certifications and assurances listed in Section IV of the General Section of the SuperNOFA (collectively referred to as the “standard forms”). These forms are:

SF-424, Application Federal Assistance;

HUD-424M, Federal Assistance Funding Matrix;

SF-424A, Federal Assistance Budget Information—Non Construction;

SF-424B, Assurances for Non-Construction Programs;

HUD Form 50070, Drug-Free Workplace Certification;

HUD Form 50071, Certification of Payments to Influence Federal Transactions, and if applicable SF-LLL, Disclosure of Lobbying Activities;

HUD Form 2880, Applicant/Recipient Disclosure/Update Report;

HUD Form 2991, Certification of Consistency with the Consolidated Plan;

HUD Form 2992, Certification of Debarment and Suspension;

HUD Form 2993, Acknowledgment of Application Receipt.

The standard forms can be found in Appendix B to the General Section of the SuperNOFA. The remaining application items that are forms (i.e., excluding such items as narratives), referred to as the “non-standard forms” can be found as Appendix A to this program section of the SuperNOFA.

All applicants must include the following information regardless of the category under which they are applying for funds.

(1) ROSS Application Cover Sheet;

(2) ROSS Fact Sheet;

(3) ROSS Program Summary;

(4) Certification of Consistency and Compliance with General SuperNOFA Program Requirements;

(5) Match Requirement. (a) You must supplement grant funds with an in-kind and/or cash match of not less than 25 percent of the grant amount. This match does not have to be a cash match. The match may include: the value of in-kind services, contributions or administrative costs provided to the applicant; funds from Federal sources (but not ROSS funds); funds from any State or local government sources; and funds from private contributions. Any services, such as childcare or mentoring, conducted by elderly or persons with disabilities residents who are not TANF participants, will not be counted toward your match requirement. You may also satisfy the match requirement by establishing the in-kind value of computer and office equipment, software and space used for training in computer technology, education/employment and skills development for self-sufficiency training programs such as Twenty/20 Education Communities (TEC Centers) or Neighborhood Networks Centers.

(b) You must demonstrate that the cash or in-kind resources and services, which you will use as match amounts (including resources from a Comprehensive Grant, other governmental units/agencies of any type, and/or private sources, whether for-profit or not-for-profit), are firmly committed and will support the proposed grant activities. “Firmly committed” means there must be a written agreement to provide the resources and services signed by an official legally able to make commitments on behalf of the organization that specifies the cash and/or in-kind assistance to be provided. If offering in-kind assistance, the letter must provide an estimated dollar value for the in-kind services. The written agreement may be contingent upon your receiving a grant award. The following are guidelines for valuing certain types of in-kind contributions:

(i) The value of volunteer time and services shall be computed at a rate of six dollars per hour except that the value of volunteer time and services involving professional and other special skills shall be computed on the basis of the usual and customary hourly rate paid for the service in the community where the activity is located; and

(ii) The value of any donated material, equipment, building, or lease shall be computed based on the fair market value at time of donation. Such value shall be documented by bills of sale, advertised prices, appraisals, or other information for comparable property similarly situated not more than one-year old taken from the community where the item or activity is located, as appropriate. You may also satisfy the match requirement by establishing the in-kind value of computer and office equipment, software and space used for training in computer technology, education/employment and skills development for sufficiency training programs such as Twenty/20 Education Communities (TEC Centers) or Neighborhood Networks Centers.

(B) RMBD Applications. Applicants for Resident Management and Business Development grants are required to address application submission requirements, but are not required to address selection factors. A threshold review, and not application submission requirements, will be used for determining eligibility for first-come first serve funding.

All applications for funding under this funding category must contain the following documents and information (Please note that items 1-9 are threshold requirements used to determine awards for this category; item 10 and its subsections will be used for grant administration):

(1) Your application must contain a written certification that at least 51 percent of the public housing residents to be included in the proposed program are currently eligible to receive, are currently receiving, or have received within the preceding five years, assistance or services funded under the TANF, SSI, food stamp programs, or tribal welfare programs.

(2) Your application must contain a signed Memorandum of Understanding (MOU) between the RA and the PHA or the RO/RMC and the Tribe/TDHE which describes the specific roles, responsibilities and activities to be undertaken by all parties to the MOU. Your MOU, at a minimum must identify the principal parties (i.e. the name of the PHA or tribe/TDHE and RA or RO, the terms of agreement), expectations or terms for each party, and indicate that the agreement pertains to the support of your grant application. This document is the basis for the foundation of the relationship between the RA or RO and PHA or tribe/TDHE. The MOU must be precise and outline the specific duties and objectives to be accomplished under the grant. All MOUs must be finalized, dated and signed by duly authorized officials of both the RA or RO and PHA or tribe/TDHE upon submission of the application.

(3) Accessible Community Facility. You must provide written evidence (e.g. through an executed use agreement if the facility is to be provided by an entity other than the PHA or tribe/TDHE) that a majority of the proposed activities will be administered at community facilities within easy transportation access (i.e., walking or by direct (no transfers required)), convenient, inexpensive and reliable transportation of the property represented by the PHA or tribe/TDHE. The written agreement must certify that community facilities meet the structural accessibility requirement of section 504 of the Rehabilitation Act of 1973 and the Americans With Disabilities Act of 1990. If a tribe/TDHE is the applicant and is using its own property as a community facility, it is not exempt from this requirement. The tribe/TDHE is still required to provide a narrative to address all details requested for this threshold requirement.

(4) Your application must contain letter(s) of support indicating supplemental grant funds of not less than 25 percent of the grant amount. See Section VI(A)(5) of the program section of this SuperNOFA.

(5) For applicants other than Tribes/TDHEs, you must provide either a signed certification from HUD or an Independent Public Accountant that your financial management system and procurement procedures fully comply with 24 CFR part 84, or your application must contain a signed Contract Administrator Partnership Agreement that you will use the services of a Contract Administrator in administering your grant. Applicants that are troubled PHAs are required to provide written agreement that a Contract Administrator has been retained for the term of the grant. Those tribes/TDHEs that HUD has determined to have difficulty in managing grants will be required to provide a written agreement that a Contract Administrator has been retained for the term of the grant. In cases where the Contract Administrator is the PHA or tribe/TDHE, the Contract Administration responsibilities can be incorporated into the MOU discussed above.

(6) Except for Tribes/TDHEs, if you are a RA/RC/RMC/CWRO you must include evidence that your organization is registered with the State as a nonprofit corporation at the time of application submission or has section 501(c) status with the United States Internal Revenue Service at the time of application. Evidence of State registration shall be a copy of the certificate of incorporation or certificate of good standing from the State Government (i.e. Secretary of State or Secretary of Corporations). Evidence of 501(c) status shall be a copy of the IRS 501(c) designation.

(7) Certification of Resident Council Board Elections. If you are a Resident Organization, you must submit certifications of the RA/ROs board election as required by HUD, signed by the local PHA or tribe/TDHE and/or an independent third party monitor and notarized.

(8) List of RAs, ROs or Indian housing residents participating with the City-Wide Resident Organization (CWRO) or tribe/TDHE. You must list in your application, the name(s) of RAs or ROs that will receive services and you must submit letters of support from each RA or RO identified in your application. Your application must describe the Indian housing residents to be served by proposed grant activities.

(9) Physical Improvements. You must submit a description of the renovation or conversion to be conducted along with a budget and timetable for those activities. You must demonstrate a firm commitment of assistance from one or more sources ensuring that supportive services will be provided for not less that 2 years following the completion of renovation, conversion, or repair activities funded under this ROSS competition.

(10) The following are application submission requirements and will not be used for determining eligibility for first-come first serve funding:

(a) Explanations for proposed grant activities must be provided by narrative statements or descriptions;

(b) Resident Management and Business Development grant applications must include a narrative description (two page limit) describing the activities that you will carry out with RMBD grant funds. Your description must include specific goals, objectives and program strategies that will result in successful transition of residents from welfare to work or other proposed grant activities;

(c) Your RMBD application must provide information about the RA or RO, including its history, staff qualifications, and its previous experience (two page limit). For proposed grant staffing, you must include a resume or summary of qualifications for all proposed grant staff:

Chart A—RMBD Program Staffing

Chart B—RMBD Applicant/Administrator Track Record

Chart C—Summary RMBD Budget line Items

(d) You must provide a summary of a proposed work plan to carry out proposed grant activities. This work plan must include tasks, budgeted amounts, and dates for all activities during the grant period.

Chart D—Budget Workplan Summary.

(C) Applications for Capacity Building. All applications for funding under this funding category must contain the following documents and information. Only threshold requirements, and not application submission requirements, will be used for determining eligibility for funding. (Please note that items 1-6 are threshold requirements for a threshold review that will be used to determine awards for this category; items 7-11 will not be used to select awardees):

(1) Except for Tribes/TDHEs applicants, you must provide evidence that your organization has registered with the State as a nonprofit corporation or has 501(c) nonprofit corporation status with the United States Internal Revenue Service at the time of application submission.

(2) Your application must contain letter(s) of support indicating supplemental grant funds of not less than 25 percent of the grant amount. See Section VI(A)(5) of this program section of the SuperNOFA.

(3) In CB applications, you must list in your application the name of the RAs or ROs that will receive training, technical assistance and/or coordinated supportive services and you must submit letters of support from each entity identified in your application.

(4) For applicants other than Tribes/TDHEs, you must provide either a signed certification from HUD or an Independent Public Accountant that your financial management system and procurement procedures fully comply with 24 CFR part 84 or part 85, or your application must contain a signed Contract Administrator Partnership Agreement that you will use the services of a Contract Administrator in administering your grant. Applicants that are troubled PHAs are required to provide written agreement that a Contract Administrator has been retained for the term of the grant. In cases where the Contract Administrator is the PHA the Contract Administration responsibilities can be incorporated into the MOU discussed below.

(5) Your application must contain a signed Memorandum of Understanding (MOU) between the RA or RO and PHA or tribe/TDHE which describes the specific roles, responsibilities and activities to be undertaken by all parties to the MOU. Your MOU, at a minimum, must identify the principal parties (i.e. the name of the PHA or tribe/TDHE and IRO/nonprofit , the terms of agreement), expectations or terms for each party, and indicate that the agreement pertains to the support of your grant application. This document is the basis for the foundation of the relationship between the IRO/nonprofit and PHA or tribe/TDHE. The MOU must be precise and outline the specific duties and objectives to be accomplished under the grant. All MOUs must be finalized, dated and signed by duly authorized officials of both the IRO/nonprofit and PHA or tribe/TDHE upon submission of the application.

(6) You must provide written evidence (e.g. through an executed space use agreement if the facility is to be provided by an entity other than the PHA or tribe/TDHE) that proposed CB activities or training will take place. The community facilities must be within easy transportation access (i.e., walking or by direct (no transfers required)), convenient, inexpensive and reliable transportation of the property represented by the PHA or tribe/TDHE. The written agreement must certify that community facilities meet the structural accessibility requirement of section 504 of the Rehabilitation Act of 1973 and the Americans With Disabilities Act of 1990. If a tribe/TDHE is the applicant and is using its own property as a community facility, it is not exempt from this requirement. The tribe/TDHE is still required to provide a narrative to address all details requested for this threshold requirement.

The following are application submission requirements. Only threshold requirements, and not application submission requirements, will be used to determine eligibility for first-come first serve funding.

(7) Explanations for proposed grant activities must be provided by narrative statements or descriptions as well as the forms indicated below.

(8) Needs Assessment. For the CB grant applications you must provide a narrative description of proposed activities that addresses the following information:

(a) A description of the geographic boundaries of the RAs, ROs, RMCs, or tribes/TDHEs included in the application;

(b) A description of the public or Indian housing community;

(c) A detailed description of the issues or problems involved with each RA or RO to be served by the grant; and

(d) The resources that are currently being devoted to the problem or issue under consideration.

(9) Proposed Program Activities. CB grant applications must include a narrative description describing the activities that you will carry out with CB grant funds. Your description must include specific goals, objectives and program strategies that will result in successful proposed grant activities;

(10) Experience and Staffing. Your CB grant application must provide information about the your organization, including its history, staff qualifications, and its previous experience (two page limit). For proposed grant staffing, you must include a resume or summary of qualifications for all proposed grant staff:

Chart A—CB Program Staffing

Chart B—CB Applicant/Administrator Track Record

Chart C—Summary CB Budget Line Items

(11) Budget and Cost Information. You must provide a summary of your proposed work plan to carry out your proposed grant activities. The work plan must include tasks/activities, budgeted amounts, and start and end dates for all activities during the grant period.

Chart D—Budget Workplan Summary

(D) Application Submission Requirements for Resident Service Delivery Models. All applications for funding under this funding category must contain the following documents and information (Please note that items 1-10 are threshold requirements for a threshold review and responses to factors of award will be used to determine scoring of rating and ranking factors for this category):

(1) Your application must contain a written certification that at least 51 percent of the public housing residents to be included in the proposed program are currently eligible to receive, are currently receiving, or have received within the preceding five years, assistance or services funded under the TANF, SSI, food stamp programs or tribal welfare programs.

(2) Elderly and/or Persons with Disabilities Housing Development Certification. A certification that at least 25 percent of the residents of the development(s) proposed for grant activities are elderly and/or non-elderly people with disabilities at the time of application.

(3) Accessible Community Facility. You must provide evidence (e.g. through an executed use agreement if the facility is to be provided by an entity other than the PHA or tribe/TDHE) that a majority of the proposed activities will be administered at community facilities within easy transportation access (i.e., walking or by direct (no transfers required)), convenient, inexpensive and reliable transportation) of the property represented by the PHA or tribe/TDHE. The written agreement must certify that the community facilities meet the structural accessibility requirements of section 504 of the Rehabilitation Act of 1973 and the Americans With Disabilities Act of 1990. If a tribe/TDHE is the applicant and is using its own property as a community facility, it is not exempt from this requirement. The tribe/TDHE is still required to provide a narrative to address all details requested for this threshold requirement.

(4) Your application must contain letter(s) of support indicating supplemental grant funds of not less than 25 percent of the grant amount. See Section VI(A)(5) of this program section of the SuperNOFA.

(5) Physical Improvements. You must submit a description of the renovation or conversion to be conducted along with a budget and timetable for those activities. You must demonstrate a firm commitment of assistance from one or more sources ensuring that supportive services will be provided for not less that 2 years following the completion of renovation, conversion, or repair activities funded under this ROSS competition.

(6) Except for PHA's or tribes/TDHEs, you must provide either a signed certification from HUD or an Independent Public Accountant that your financial management system and procurement procedures fully comply with 24 CFR part 84 or 85, or your application must contain a signed Contract Administrator Partnership Agreement that you will use the services of a Contract Administrator in administering your grant. Applicants that are troubled PHAs are required to provide evidence that a Contract Administrator has been retained for the term of the grant. In cases where the Contract Administrator is the PHA, the Contract Administration responsibilities can be incorporated into the MOU discussed below.

(7) Applicant Non-Profit Status. Except for PHAs or tribes/TDHEs, you must provide evidence that the applicant is registered with the State as a nonprofit corporation or has 501(c) status with the United States Internal Revenue Service at the time of application submission. Evidence of State registration shall be a copy of the certificate of incorporation or certificate of good standing from the State Government (i.e. Secretary of State or Secretary of Corporations). Evidence of 501(c) status shall be a copy of the IRS 501(c) designation.

(8) Certification of Resident Council Board Elections.

(9) List of RAs or ROs Receiving Support. In RSDM applications you must list in your application the name of the RAs or ROs that will receive training, technical assistance and/or coordinated supportive services and must submit letters of support from each entity identified in your application.

(10) Responses to Factors of Award may be narrative statements or descriptions and the forms indicated below:

Factor 1—Capacity of the Applicant and Relevant Organizational Experience;

Chart A—Program Staffing

Chart B—Applicant/Administrator Track Record

Factor 2—Need/Extent of the Problem;

Chart C—Summary Budget line Items

Chart D—Budget Workplan Summary

Factor 3—Soundness of Approach;

Factor 4—Leveraging Resources; and

Factor 5—Coordination, Self-Sufficiency and Sustainability.

Certification of Consistency with the Consolidated Plan

Bonus Points

Certification of Consistency with the RC/EZ/EC Strategic Plan

(E) Application Submission Requirements for Homeownership Supportive Services. All applications for funding under this funding category must contain the following documents and information (Please note that items 1-5 are threshold requirements for a threshold review and responses to factors of award will be used to determine scoring of rating and ranking factors for this category):

(1) Your application must contain a written certification that at least 51 percent of the public housing residents to be included in the proposed program are currently eligible to receive, are currently receiving, or have received within the preceding five years, assistance or services funded under the TANF, SSI, or food stamp programs.

(2) Your application must provide evidence that the targeted population of public housing residents to be served by the proposed grant (a) were beneficiaries of a previously awarded ROSS grant between FY 1999 and FY 2000, or a state or local self-sufficiency program, (b) participates in a public housing family self-sufficiency program funded from operating subsidies, (c) had increases in earned income of at least 35% over a base year, and (d) achieved a level of income that is within the acceptable range of the local minimum income required for the purchase of a home in the local area.

(3) You must provide evidence (e.g. through an executed use agreement if the facility is to be provided by an entity other than the PHA) that a majority of the proposed activities will be administered at accessible community facilities within easy transportation access (i.e., walking or by direct (no transfers required)), convenient, inexpensive and reliable transportation) of the property represented by the PHA. The written agreement must certify that the community facilities meet the structural accessibility requirements of section 504 of the Rehabilitation Act of 1973 and the Americans With Disabilities Act of 1990.

(4) Physical Improvements. You must submit a description of the renovation or conversion to be conducted along with a budget and timetable for those activities. You must demonstrate a firm commitment of assistance from one or more sources ensuring that supportive services will be provided for not less that 2 years following the completion of renovation, conversion, or repair activities funded under this ROSS competition.

(5) Your application must contain letter(s) of support indicating supplemental grant funds of not less than 25 percent of the grant amount. See Section VI(A)(5) of this program section of the SuperNOFA.

(6) Responses to Factors of Award may be narrative statements or descriptions and the forms indicated below:

Factor 1—Capacity of the Applicant and Relevant Organizational Experience;

Chart A—Program Staffing.

Chart B—Applicant/Administrator Track Record.

Factor 2—Need/Extent of the Problem;

Factor 3—Soundness of Approach;

Chart C—Summary Budget line Items.

Chart D—Budget Work plan Summary.

Factor 4—Leveraging Resources; and

Factor 5—Coordination, Self-Sufficiency and Sustainability.

Certification of Consistency with the Consolidated Plan

Bonus Points

Certification of Consistency with the RC/EZ/EC Strategic Plan.

(F) Application Submission Requirements for Neighborhood Networks Centers. All applications for funding under this funding category must contain the following documents and information (Please note that items 1-5 are threshold requirements that will be used for a threshold review and responses to factors of award will be used to determine scores for rating and ranking for this category;);

(1) Your application must contain a written certification that at least 51 percent of the public housing residents to be included in the proposed program are currently eligible to receive, are currently receiving, or have received within the preceding five years, assistance or services funded under the TANF, SSI, or food stamp programs.

(2) Accessible Community Facility. You must provide written evidence (e.g. through an executed use agreement if the facility is to be provided by an entity other than the PHA that a majority of the proposed activities will be administered at community facilities within easy transportation access (i.e., walking or by direct (no transfers required)), convenient, inexpensive and reliable transportation) of the property represented by the PHA. The written agreement must certify that community facilities meet the structural accessibility requirement of section 504 of the Rehabilitation Act of 1973 and the Americans With Disabilities Act of 1990.

(3) Your application must contain letter(s) of support indicating supplemental grant funds of not less than 25 percent of the grant amount. See Section VI(A)(5) of the program section of this SuperNOFA.

(4) You must have an approved financial management system and procurement procedures. As evidence of your approved financial management or procurement system, you must provide a copy of your latest audit report indicating that there are no deficiencies in either area and that your financial management system and procurement procedures fully comply with 24 CFR part 85. Applicants that are troubled PHAs are required to provide written agreement that a Contract Administrator has been retained for the term of the grant.

(5) Physical Improvements. You must submit a description of the renovation or conversion to be conducted along with a budget and timetable for those activities. You must demonstrate a firm commitment of assistance from one or more sources ensuring that supportive services will be provided for not less than 2 years following the completion of renovation, conversion, or repair activities funded under this ROSS competition. The following are application submission requirements and will not be used for determining eligibility for funding.

(6) Responses to Factors of Award may be narrative statements or descriptions and the forms indicated below:

Factor 1—Capacity of the Applicant and Relevant Organizational Experience;

Chart A—Program Staffing

Chart B—Applicant/Administrator Track Record

Factor 2—Need/Extent of the Problem;

Factor 3—Soundness of Approach;

Chart C—Summary Budget line Items

Chart D—Budget Work plan Summary

Factor 4—Leveraging Resources; and

Factor 5—Coordination, Self-Sufficiency and Sustainability.

Certification of Consistency with the Consolidated Plan

Bonus Points

Certification of Consistency with the RC/EZ/EC Strategic Plan.

(G) Application Submission Requirements for Public Housing Service Coordinators for the Elderly and Persons with Disabilities. All applications for funding under this funding category must contain the following documents and information (Please note that items 1-2 are threshold requirements for a threshold review to be used to determine renewal funding for this category):

(1) Your application must contain letter(s) of support indicating supplemental grant funds of not less than 25 percent of the grant amount. See Section VI(A)(5) of this program section of the SuperNOFA.

(2) SC Request Letter Format.

The following are application submission requirements. Only threshold requirements, and not application submission requirements, will be used for determining eligibility for renewal funding.

(3) Evidence of comparable salaries in local area; and

(4) Lead Agency letter format (if appropriate);

VII. Corrections to Deficient Applications

The General Section of the SuperNOFA provides the procedures for corrections to deficient applications.

VIII. Environmental Requirements

It is anticipated that most activities under this ROSS funding will be categorically excluded under 24 CFR 58.34(a)(3) or (a)(9), 58.35(b)(2) or (b)(4), 50.19(b)(3), (b)(9), (b)(12), or (b)(14). An applicant proposing any long-term leasing, or physical development activities is prohibited from rehabilitating, converting, leasing, repairing or constructing property, or committing or expending HUD or non-HUD funds for these types of program activities, until one of the following has occurred:

(1) If the grantee is not a PHA or tribe/TDHE, HUD has completed an environmental review to the extent required by 24 CFR part 50, prior to grant award.

(2) If the grantee is a PHA or tribe/TDHE, HUD has approved the grantee's Request for Release of Funds (HUD Form 7015.15) following a Responsible Entity's completion of an environmental review under 24 CFR part 58, where required, or if HUD has determined in accordance with § 58.11 to perform the environmental review itself under part 50, HUD has completed the environmental review.

IX. Authority

Section 34 of the U.S. Housing Act of 1937 and 24 CFR 964.

Appendix B

The non-standard forms, which follow, are required for the ROSS application.

BILLING CODE 4210-32-P

FUNDING AVAILABILITY FOR CONTINUUM OF CARE HOMELESS ASSISTANCE PROGRAMS—SUPPORTIVE HOUSING PROGRAM (SHP), SHELTER PLUS CARE (S+C), SECTION 8 MODERATE REHABILITATION SINGLE ROOM OCCUPANCY PROGRAM FOR HOMELESS INDIVIDUALS (SRO)

PROGRAM OVERVIEW

Purpose of the Programs. The purpose of the Continuum of Care Homeless Assistance Programs is to fund projects that will fill gaps in locally developed Continuum of Care systems to assist homeless persons to move to self-sufficiency and permanent housing. An important element of meeting this objective is to fund projects that will meet the Department's goal of ending chronic homelessness.

Available Funds. Approximately $950 million.

Eligible Applicants. The chart in the Appendix A to this program section of this SuperNOFA identifies the eligible applicants for each of the three programs under the Continuum of Care.

Application Deadline. June 21, 2002.

Match. Yes.

ADDITIONAL INFORMATION

If you are interested in applying for funding under any of the Continuum of Care Homeless Assistance programs, please review carefully the General Section of the SuperNOFA and the following additional information.

I. Application Due Date, Application Kits, Further Information, and Technical Assistance

Application Due Date. Your completed application (an original containing the signed documentation and two copies) is due on or before 5:30 PM Eastern time, on June 21, 2002 to the addresses shown below.

See the General Section of this SuperNOFA for specific procedures that you must follow for the form of application submissions (e.g., mailed applications, express mail, or overnight delivery).

New Security Procedures. HUD has implemented new security procedures that apply to application submission. Please read the following instructions carefully and completely. HUD will not accept hand delivered applications. Applications may be mailed using the United States Postal Service (USPS) or may be shipped via the following delivery services: United Parcel Service (UPS), FedEX, DHL, or Falcon Carrier. No other delivery services are permitted into HUD Headquarters without escort. You must, therefore, use one of the four carriers listed above.

Mailed Applications. Your application will be considered timely filed if your application is postmarked on or before 12:00 midnight on the application due date and received by HUD Headquarters on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of the four carrier services that do business with HUD Headquarters regularly. These services are UPS, DHL, FedEx, and Falcon Carrier. Delivery by these services must be made during HUD's Headquarters business hours, between 8:30 AM and 5:30 PM Eastern time, Monday to Friday. If these companies do not service your area, you should submit your application via the United States Postal Service.

Addresses for Submitting Applications. To HUD Headquarters. Submit your original completed application (the application with the original signed documentation) to: Room 7270, Office of Community Planning and Development, Department of Housing and Urban Development, 451 Seventh Street, SW., Washington, DC 20410, Attention: Continuum of Care Programs.

To the Appropriate CPD Field Office. Also submit two copies of your completed application to the Community Planning and Development Division of the appropriate HUD Field Office for your jurisdiction. The HUD Field Office must receive the two copies of your application by the deadline date as well. The determination, however, that your application was received on time will be made solely on receipt of the application at HUD Headquarters in Washington. Reviews will be based upon the contents of the application submitted to HUD Headquarters.

For Application Kits. For an application kit, please call the SuperNOFA Information Center at 1-800-HUD-8929 (voice) or 1-800-HUD-2209 (TTY), or you may download an application by Internet at http://www.hud.gov.

For Further Information. You may contact the HUD Field Office serving your area, at the telephone number shown in Appendix A to the General Section of the SuperNOFA, or you may contact the Community Connections Information Center at 1-800-998-9999 (voice) or 1-800-HUD-2209 (TTY) or by Internet at: http://www.hud.gov.

For Technical Assistance. Before the application deadline, HUD staff will be available to provide you with general guidance. HUD staff, however, cannot provide you with guidance in actually preparing your application. HUD Field Office staff also will be available to help you identify organizations in your community that are involved in developing the Continuum of Care system. Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

Satellite Broadcast. HUD will hold an information broadcast via satellite for potential applicants to learn more about the program and preparation of the application. For more information about the date and time of the broadcast, you should consult the HUD web site at http://www.hud.gov.

II. Amount Allocated

Approximately $950 million is available for this competition in FY 2002. Any unobligated funds from previous competitions or additional funds that may become available as a result of deobligations or recaptures from previous awards or budget transfers may be used in addition to 2002 appropriations to fund applications submitted in response to this program section of this SuperNOFA. The FY 2002 HUD Appropriation Act requires HUD to obligate all Continuum of Care homeless assistance funds by September 30, 2004. While these funds will remain available for expenditure for five years following that date, any funds that you have not used by September 30, 2009, will cease to be available altogether. In the Continuum programs, obligation occurs upon execution of the grant agreement by HUD and the grantee, or in the Section 8 Moderate Rehabilitation for Single Room Occupancy program, execution of the Annual Contributions Contract (ACC). If you do not have a fully executed grant agreement or ACC by September 30, 2004, your award will be withdrawn. If you have not used all program funds by September 30, 2009, the funds will be deobligated. This requirement is in conflict with the statutory ten years of funding that is authorized for the Section 8 Moderate Rehabilitation Single Room Occupancy for Homeless Individuals program, the Shelter Plus Care/SRO component program and the Shelter Plus Care with Rehabilitation component program. HUD will seek legislative authority to exempt these programs from the statutory mandate that any unexpended balances remaining in an account five years after they cease to be available for obligation are cancelled. If this legislative authority is not passed, project applicants should be aware that remaining funds will be cancelled by September 30, 2009. The funds available for the Continuum of Care program can be used under any of three programs that can assist in creating community systems for combating homelessness. The three programs are:

(1) Supportive Housing;

(2) Shelter Plus Care; and

(3) Section 8 Moderate Rehabilitation Single Room Occupancy for Homeless Individuals.

The chart in the Appendix A to this program section of this SuperNOFA summarizes key aspects of the programs, and also provides the citations for the statutes and regulations that authorize these programs. The regulations listed in the chart provide more detailed descriptions of each of the programs.

As in previous funding availability announcements for the Continuum of Care Homeless Assistance Programs, HUD will not specify amounts for each of the three programs this year. Instead, the distribution of funds among the three programs will depend largely on locally determined priorities and overall demand. Local priorities notwithstanding, the FY 2002 HUD Appropriations Act requires that not less than 30 percent of this year's $1.123 billion Homeless Assistance Grants appropriation, excluding amounts provided for one-year renewals under the Shelter Plus Care Program, must be used for permanent housing projects. For the purposes of this 2002 NOFA, HUD is estimating that $118 million of the appropriation will be provided for one-year Shelter Plus Care Program renewals. (See Sections V(A)(5)(b) and V(A)(8) of this program section of the SuperNOFA for additional information.) Since this permanent housing set-aside requirement is expected to continue to be part of future competitions and may affect project funding selections as described below, you are strongly encouraged to begin planning as soon as possible for new permanent housing projects to be included as part of your submission in this and future competitions.

Under the FY 2002 HUD Appropriations Act, eligible Shelter Plus Care Program grants whose terms are expiring in FY2003 and Shelter Plus Care Program grants that have been extended beyond their original five-year terms but which are projected to run out of funds in FY 2003 will be renewed for one year provided that they are determined to be needed by the Continuum of Care as evidenced by their inclusion on the priority chart. These projects must also meet the applicant and sponsor eligibility and capacity requirements described in Section V(A)(1) of this NOFA. However, these S+C renewal projects will not count against a continuum's pro rata need amount. On the other hand, no S+C renewal adjustment will be made to a Continuum of Care's pro rata need amount since these projects are being funded outside of the competition. Please be advised that Shelter Plus Care renewal applications which are not submitted as part of either a “consolidated” or “associated” Continuum of Care application will not be considered as eligible for funding. (See Section VI for a description of the three options for submitting applications.)

III. Program Description; Eligible Applicants; Eligible Activities

(A) Program Description.

(1) Developing Continuum of Care Systems. The purpose of the Continuum of Care Homeless Assistance Programs is to fund projects that will fill gaps in locally developed Continuum of Care systems to assist homeless persons, especially the chronically homeless, to move to self-sufficiency and permanent housing. The process of developing a Continuum of Care system to assist homeless persons is part of the community's larger effort of developing a Consolidated Plan. For a community to successfully address its often complex and interrelated problems, including homelessness, the community must marshal its varied resources—community and economic development resources, social service resources, housing and homeless assistance resources—and use them in a coordinated and effective manner. The Consolidated Plan, including the Analysis of Impediments to Fair Housing Choice, serves as the vehicle for a community to comprehensively identify each of its needs and to coordinate a plan of action for addressing them.

In addition to prevention, a Continuum of Care system consists of four basic components:

(a) A system of outreach and assessment for determining the needs and conditions of an individual or family who is homeless;

(b) Emergency shelters with appropriate supportive services to help ensure that homeless individuals and families receive adequate emergency shelter and referral to necessary service providers or housing finders;

(c) Transitional housing with appropriate supportive services to help those homeless individuals and families who are not prepared to make the transition to permanent housing and independent living; and

(d) Permanent housing, or permanent supportive housing, to help meet the long-term needs of homeless individuals and families.

A Continuum of Care system is developed through a community-wide or region-wide process involving nonprofit organizations (including those representing persons with disabilities), government agencies, public housing authorities, faith-based and other community-based organizations and other homeless providers, housing developers and service providers, private businesses and business associations, law enforcement agencies, funding providers, and homeless or formerly homeless persons. To ensure that the Continuum of Care system addresses the needs of homeless veterans, it is particularly important that you involve veteran service organizations with specific experience in serving homeless veterans. A Continuum of Care system should address the specific needs of each homeless subpopulation: the jobless, veterans, persons with serious mental illnesses, persons with substance abuse issues, persons with HIV/AIDS, persons with co-occurring diagnoses, victims of domestic violence, youth, and any others. The term “co-occurring diagnoses” may include diagnoses of multiple physical disabilities or multiple mental disabilities or a combination of these two types.

Your application is more likely to be given a high score under the Continuum of Care scoring factors if the application demonstrates the achievement of three basic goals:

• That you have provided maximum participation by nonprofit organizations (including those representing persons with disabilities), government agencies, public housing authorities, faith-based and other community-based organizations and other homeless providers, housing developers and service providers, private businesses and business associations, law enforcement agencies, funding providers, and homeless or formerly homeless persons.

• That you have created, maintained and built upon a community-wide inventory of housing and services for homeless families and individuals; identified the full spectrum of needs of homeless families and individuals; and coordinated efforts to fill gaps between the current inventory and existing needs. This coordinated effort must appropriately address all aspects of the continuum, especially permanent housing.

• That you have instituted a Continuum of Care-wide strategy to coordinate homeless assistance with mainstream health, social services and employment programs for which homeless individuals and families may be eligible. These programs include Medicaid, Children's Health Insurance Program, Temporary Assistance for Needy Families, Food Stamps, and services funding through the Mental Health Block Grant and Substance Abuse Block Grant, Workforce Investment Act, Welfare-to-Work grant program, and Veterans Health Care.

Should HUD determine, in its sole discretion, that sufficient evidence exists to confirm that the entity responsible for convening and managing the Continuum of Care process in a community has failed to follow locally established or accepted procedures governing the conduct of that process or has failed to provide for a fair process, including a project priority selection process that gives equal consideration to projects proposed by nonprofit organizations, HUD reserves the authority to impose sanctions up to and including a prohibition on that entity and the individuals comprising that entity from participating in that capacity in the future. In making this determination, HUD will consider as evidence court proceedings and decisions, or the determinations of other independent and impartial review bodies. This authority cannot be exercised until after a description of procedural safeguards, including an opportunity for comment and appeal, and the specific process and procedures for imposing a prohibition or debarment, have been published in the Federal Register.

In deciding what geographic area you will cover in your Continuum of Care strategy, you should be aware that the single most important factor in being awarded funding under this competition will be the strength of your Continuum of Care strategy when measured against the Continuum of Care rating factors described in this program section of the SuperNOFA. When you determine what jurisdictions to include in your Continuum of Care strategy area, include only those jurisdictions that are involved in the development and implementation of the Continuum of Care strategy.

The more jurisdictions you include in the Continuum of Care strategy area, the larger the pro rata need share that will be allocated to the strategy area (as described in Section V (A)(5) of this program section of the SuperNOFA). However, it would be a mistake to include jurisdictions that are not fully involved in the development and implementation of the Continuum of Care strategy since this would adversely affect the Continuum of Care score. If you are a rural county, you may wish to consider working with larger groups of contiguous counties to develop a region-wide or multi-county Continuum of Care strategy covering the combined service areas of these counties.

Since the basic concept of a Continuum of Care strategy is to create a single, coordinated, inclusive homeless assistance system for an area, the areas covered by Continuum of Care strategies should not overlap. If the geography included in your Continuum of Care strategy geographically overlaps to the extent that it competes with another application, projects within the Continuum of Care application that receive the highest Continuum of Care score will be eligible for up to 40 Need points. Projects in the competing Continuum of Care application with the lower Continuum of Care score will be eligible for only 10 Need points. In no case will the same geographical area be used more than one time in assigning Need points. The local HUD Field Office can help you determine if any of the areas proposed for inclusion by your Continuum of Care system is also likely to be claimed under another Continuum of Care system in this competition.

(2) Prioritizing. In HUD's view, project priority decisions are best made through a local process, which includes nonprofit organizations, and are key to the ultimate goal of reducing homelessness. Again this year, you must list all projects proposed for funding in priority order from the highest priority to the lowest, and indicate the applicant, project sponsor, and term for each project. Generally, this priority order will mean, for example, that if HUD has funds available only to award 8 of 10 proposed projects, then it will award funding to the first eight eligible projects listed, except as may be necessary to achieve the 30 percent overall permanent housing requirement—in which case higher priority non-permanent housing projects may be skipped over to fund lower priority permanent housing projects. Since you are now able to closely calculate your Continuum of Care's total pro rata need amount using information provided to you from HUD, and now that you no longer need to carry the large cost burden imposed by Shelter Plus Care five-year renewals, the tiering of projects (splitting into two or more projects by year or by units) on your priority list is not permitted.

To promote permanent housing, a special incentive is being provided to Continuum of Care systems that place an eligible, new permanent housing project in the number one priority slot on the priority list. See Section V (A)(5)(b) of this program section of the SuperNOFA for a description of this incentive.

HUD will use this priority list to award up to 40 points per project under the “Need” scoring factors. Higher priority projects will receive more points under Need than lower priority projects. A project priority chart is included in the application kit and you should complete and submit it. If you do not submit clear project priority designations for the continuum, or if HUD, at its sole discretion, cannot determine priority designations, then HUD will give all projects the lowest score for Need.

(3) Project renewals. If your Supportive Housing or Shelter Plus Care grant will be expiring in calendar year 2003, or if your Shelter Plus Care Program grant has been extended beyond its original five-year term and is projected to run out of funds in FY 2003, you must apply under this Continuum of Care program section of the SuperNOFA to get continued funding.

Your local needs analysis process must consider the need to continue funding for projects expiring in calendar year 2003. HUD will not fund competitive renewals out of order on the priority list except as may be necessary to achieve the 30 percent overall permanent housing requirement. HUD reserves the authority to use FY 2003 funds, if available, to conditionally select for one year of funding lower-rated eligible SHP renewal projects that are assigned 40 need points in either a “consolidated” or “associated” Continuum of Care application receiving at least 20 points under the Continuum of Care scoring factor that would not otherwise receive funding for these projects.

It is important that SHP renewals and Shelter Plus Care non-competitive renewals meet minimum project eligibility and capacity standards identified in this program section of the SuperNOFA or they will be rejected from consideration for either competitive or non-competitive funding.

For the renewal of a Supportive Housing Program project, you may request funding for one (1), two (2) or three (3) years. The total amount of the request cannot exceed the average yearly amount received in total for leasing, supportive services, and/or operations for the grant being renewed, plus up to five percent for administration.

For the renewal of a Shelter Plus Care project, the grant term will be one (1) year, as specified by Congress. For Shelter Plus Care renewals, you may request up to the amount determined by multiplying the number of units under lease at the time of your application for renewal funding by the applicable current Fair Market Rent(s) by 12 months, except that for Shelter Plus Care grants having been awarded one year of renewal funding in 2001, the number of units requested for renewal this year may not exceed the number of units funded in 2001. While full funding of existing grants may be requested, there is no guarantee that the entire amount will be awarded. As is the case with SHP, HUD will recapture Shelter Plus Care grant funds remaining unspent at the end of the previous grant period when it renews a grant. The one-year term of non-competitively awarded Shelter Plus Care renewal projects may not be extended.

This program section of the SuperNOFA is not applicable to the renewal of funding under the SRO program. For further guidance on SRO renewals, please contact your local HUD Field Office.

As a project applicant, you are eligible to apply for renewal of a grant only if you have executed a grant agreement for the project directly with HUD. If you are a project sponsor or subrecipient who has not signed such an agreement, you are not eligible to apply for renewal of these projects. HUD will reject applications for renewal submitted by ineligible applicants. If you have questions about your eligibility to apply for project renewal, contact the local HUD field office. To be considered an applicant when applying as part of a “consolidated” application, you must be an eligible applicant for the program for which you are applying, and you must submit an originally signed Form SF-424 and the necessary certifications and assurances. (See Section VI for a description of the three options for submitting an application.) Only public housing authorities and private nonprofits are eligible applicants for the Section 8 Moderate Rehabilitation for Single Room Occupancy program. If you are a unit of general local government acting as an applicant for a consolidated application and plan to include a request for Section 8 SRO funds, you must have a public housing authority or nonprofit listed as the Section 8 SRO applicant and they must submit a signed Form SF-424, along with all necessary certifications and assurances applicable to the Section 8 SRO project.

(B) Eligible Applicants

See Appendix A.

(C) Eligible Activities

See Appendix A.

IV. Program Requirements

(A) Conducting Business In Accordance With Core Values and Ethical Standards

See Section II(A)(2) of General Section of the SuperNOFA.

(B) Statutory and Regulatory Requirements

If your project is selected for funding as a result of the competition, you will be required to coordinate and integrate your homeless program with other mainstream health, social services, and employment programs for which homeless populations may be eligible, including Medicaid, Children's Health Insurance Program, Temporary Assistance for Needy Families, Food Stamps, and services funding through the Mental Health Block Grant and Substance Abuse Block Grant, Workforce Investment Act, Welfare-to-Work grant program and Veterans Health Care. In addition, as a condition for award, any governmental entity serving as an applicant must agree to develop and implement, to the maximum extent practicable and where appropriate, policies and protocols for the discharge of persons from publicly funded institutions or systems of care (such as health care facilities, foster care or other youth facilities, or correction programs and institutions) in order to prevent such discharge from immediately resulting in homelessness for such persons. This condition for award is intended to emphasize that States and units of general local government are primarily responsible for the care of these individuals, and to forestall attempts to use scarce McKinney-Vento Act funds to assist such persons in lieu of State and local resources.

(C) Program specific requirements follow:

(1) SRO Program. As an applicant, you need to know that the following limitations apply to the Section 8 SRO program:

• Under section 8(e)(2) of the United States Housing Act of 1937, no single project may contain more than 100 assisted units;

• Under 24 CFR 882.802, applicants that are private nonprofit organizations must subcontract with a Public Housing Authority to administer the SRO assistance;

• Under section 8(e)(2) of the United States Housing Act of 1937 and 24 CFR 882.802, rehabilitation must involve a minimum expenditure of $3,000 for a unit, including its prorated share of work to be accomplished on common areas or systems, to upgrade conditions to comply with the Housing Quality Standards.

• Under section 441(e) of the McKinney-Vento Act and 24 CFR 882.805(d)(1), HUD publishes the SRO per unit rehabilitation cost limit each year to take into account changes in construction costs. This cost limitation applies to rehabilitation that is compensated for in a Housing Assistance Payments Contract. For purposes of Fiscal Year 2002 funding, the cost limitation is raised from $18,200 to $18,500 per unit to take into account increases in construction costs during the past 12-month period.

• The SRO Program is subject to the Federal labor standards provisions at 24 CFR part 882, subpart H.

• Individuals assisted through the SRO Program must meet the definition of homeless individual found at section 103 of the McKinney-Vento Act.

(2) Shelter Plus Care/SRO Component. With regard to the SRO component of the Shelter Plus Care program, if you are a State or a unit of general local government, you must subcontract with a Public Housing Authority to administer the Shelter Plus Care assistance. Also with regard to this component, no single project may contain more than 100 units.

(3) Supportive Housing Program. Please be advised that where an applicant for Supportive Housing Program funding is a State or unit of general local government that utilizes one or more nonprofit organizations to administer the homeless assistance project(s), administrative funds provided as part of the SHP grant must be passed on to the nonprofit organization(s) in proportion to the administrative burden borne by them for the SHP project(s). HUD will consider States or units of general local government that pass on at least 50 percent of the administrative funds made available under the grant as having met this requirement which was contained in the congressional committees' report accompanying the FY 2001 HUD Appropriations Act. This requirement does not apply to either the SRO Program, since no administrative funds are provided as part of the grant, or to the S+C Program, since paying the costs associated with the administration of these grants is ineligible by regulation.

(D) Match

You must match Supportive Housing Program funds provided for acquisition, rehabilitation, and new construction with an equal amount of funds from other sources; for operating costs, since by law SHP can pay no more than 75% of the total operating budget for supportive housing, you must provide at least 25% of the annual operating costs. In addition, you must provide a 25% cash match of all SHP funding for supportive services. The cash source may be you, the Federal Government, State and local governments, or private resources. You must match rental assistance provided through the Shelter Plus Care Program in the aggregate with supportive services.

(E) Timeliness Standards

As an applicant, you are expected to initiate your approved projects promptly in accordance with Section II of this NOFA. In addition, HUD may take action if you fail to satisfy the following timeliness standards:

(1) Supportive Housing Program

• HUD will deselect your award if you do not demonstrate site control within one (1) year of the date of your grant award letter, as required by the McKinney-Vento Act at 42 U.S.C. 11386(a)(3) and implemented in program regulations at 24 CFR 583.320(a).

• HUD may deobligate SHP funds if the following additional timeliness standards are not met:

—You must begin construction activities within eighteen (18) months of the date of HUD's grant award letter and complete them within thirty-six (36) months after that notification.

—For activities that cannot begin until construction activities are completed, such as supportive service or operating activities that will be conducted within the building being rehabilitated or newly constructed, you must begin these activities within three (3) months after you complete construction.

—You must begin all activities that may proceed independent of construction activities within twelve (12) months of the date of HUD's grant award letter.

(2) Shelter Plus Care Program Components Except SRO Component

HUD may deobligate S+C funds if you do not meet the following timeliness standards:

• For Tenant-based Rental Assistance, for Sponsor-based Rental Assistance, and for Project-based Rental Assistance without rehabilitation, you must start the rental assistance within twelve (12) months of the date of HUD's grant award letter.

• For Project-based Rental Assistance with rehabilitation, you must complete the rehabilitation within twelve (12) months of the date of HUD's grant award letter.

(3) SRO Program and SRO Component of the Shelter Plus Care Program

For projects carried out under the SRO program and the SRO component of the S+C program, the rehabilitation work must be completed and the Housing Assistance Payments contract executed within twelve (12) months of execution of the Annual Contributions Contract. HUD may reduce the number of units or the amount of the annual contribution commitment if, in HUD's determination, the Public Housing Authority fails to demonstrate a good faith effort to adhere to this schedule.

V. Application Selection Process

(A) Review, Rating and Conditional Selection. HUD will use the same review, rating, and conditional selection process for all three programs (S+C, SRO, and SHP). The standard factors for award identified in the General Section of this SuperNOFA have been modified in this program section as described below. Only the factors described in this program section—Continuum of Care and Need—will be used to assign points. To review and rate applications, HUD may establish panels. In order to obtain certain expertise and outside points of view, including views from other Federal agencies, these panels may include persons not currently employed by HUD. Two types of reviews will be conducted. Paragraphs (1) and (2) below describe threshold reviews and paragraphs (3) and (4) describe factors—Continuum of Care and Need—that will be used to assign points. Up to 104 points (including 2 bonus points for RC/EZ/EC communities described in Section III (C)(1), and 2 bonus points for the court-ordered consideration described in Section III (C)(3), of the General Section of the SuperNOFA) will be assigned using these factors.

(1) Applicant and sponsor eligibility and capacity. HUD will review your capacity as the applicant and project sponsor to ensure the eligibility and capacity standards in this section are met. If HUD determines these standards are not met, the project will be rejected from the competition. The eligibility and capacity standards are:

• You must be eligible to apply for the specific program;

• You must demonstrate ability to carry out the project(s). With respect to each proposed project, this means that in addition to knowledge of and experience with homelessness in general, the organization carrying out the project, its employees, or its partners, must have the necessary experience and knowledge to carry out the specific activities proposed, such as housing development, housing management, and service delivery;

• If you or the project sponsors are current or past recipients of assistance under a HUD McKinney-Vento Act program, there must have been no delay in implementing projects exceeding applicable program timeliness standards that HUD determines is within your or the project sponsor's control, no unresolved HUD finding, or no outstanding audit finding of a material nature regarding the administration of the program; and

• You and the project sponsors must be in compliance with applicable civil rights laws and Executive Orders, and must meet the threshold requirements of Section II(B) of the General Section of the SuperNOFA.

(2) Project eligibility. HUD will review projects to determine if they meet the following eligibility standards. If HUD determines the following standards are not met by a specific project or activity, the project or activity will be rejected from the competition.

• The population to be served must meet the eligibility requirements of the specific program, as described in this program section;

• At least one of the activities for which assistance is requested must be eligible under the specific program, as described in the program regulations;

• The project must be cost-effective in HUD's opinion, including costs associated with construction, operations, administration, and supportive services with such costs not deviating substantially from the norm in that locale for the type of structure or kind of activity;

• For the Section 8 SRO program, at least 25 percent of the units to be assisted at any one site must be vacant at the time of application. Tenants returning after having vacated their units during the rehabilitation period are not eligible to receive rental assistance under the SRO Program since they do not meet the McKinney-Vento Act definition of homeless individual; and

• For those projects proposed under the SHP innovative category: Whether or not a project is considered innovative will be determined on the basis that the particular approach proposed is new and can be replicated.

(3) Project quality. HUD will review projects to determine if they meet the following quality standards. The housing and services proposed must be appropriate to the needs of the persons to be served. HUD may find a project to be inappropriate if:

• The type, scale and general location of the housing or services do not fit the needs of the proposed participants. A S+C or SHP project renewal will be considered as having met this requirement through its previously approved grant application.

• A specific plan for ensuring that clients will be assisted to obtain the benefits of the mainstream health, social service, and employment programs for which they are eligible is not provided. A S+C project renewal will be considered as having met this requirement through its previously approved grant application;

• Housing accessibility for persons with disabilities will not be provided as required by applicable laws. A SHP or S+C project renewal will be considered as having met this requirement through its previously approved grant application;

• The description of supportive services only projects, and all others, do not show how participants will be helped to access permanent housing and achieve self-sufficiency. A S+C project renewal will be considered as having met this requirement through its previously approved grant application;

• Renewal projects must evidence satisfactory performance for their existing grant in HUD's opinion based upon the substantial achievement of their program goals as reflected in their most recent Annual Progress Report. (New projects funded for one year in 2001 are not subject to this requirement.);

• Renewal projects do not evidence that they have assisted clients to obtain the benefits of the mainstream health, social service, and employment programs for which they were eligible as evidenced in their most recent Annual Progress Report;

(4) Continuum of Care. HUD will award up to 60 points as follows:

(a) Process and Strategy. HUD will award up to 20 points based on the extent to which your application demonstrates:

• The existence of a coordinated and inclusive community process, including organizational structure(s), for developing and implementing a Continuum of Care strategy which includes nonprofit organizations (such as veterans service organizations, organizations representing persons with disabilities, faith-based and other community-based organizations, and other groups serving homeless persons), State and local governmental agencies, public housing authorities, housing developers and service providers, law enforcement, hospital and medical entities, funding providers, local businesses and business associations, and homeless or formerly homeless persons; and

• That a well-defined and comprehensive strategy has been developed which addresses the components of a Continuum of Care system (i.e., prevention, outreach, intake, and assessment; emergency shelter; transitional housing; permanent and permanent supportive housing) and that strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings.

(b) Gaps and Priorities. HUD will award up to 20 points based on the extent to which your application:

(i) Describes the gap analysis performed, uses reliable information and sources that are presented completely and accurately; and

(ii) Proposes projects that are not inconsistent with the gaps analysis described in the Continuum of Care strategy, describes a fair project selection process, explains how gaps identified through the analysis are being addressed, and correctly completes the priority chart.

When HUD reviews a community's Continuum of Care to determine the points to assign, HUD will consider whether the community took its renewal needs into account in preparing its project priority list. (See discussion on renewals in Section III(A)(3) of this NOFA.)

(c) Supplemental Resources. HUD will award up to 15 points based on the extent to which your application incorporates mainstream resources and demonstrates leveraging of funds requested under this program section of the SuperNOFA with other resources, including private, other public, and mainstream services and housing programs. To achieve the highest rating for this factor, applicants must evidence explicit Continuum of Care-wide strategies to coordinate homeless assistance with mainstream health, social services and employment programs for which homeless populations may be eligible. These include Medicaid, Children’s Health Insurance Program, Temporary Assistance for Needy Families, Food Stamps, and services funding through the Mental Health Block Grant and Substance Abuse Block Grant, Workforce Investment Act, the Welfare-to-Work grant program, and Veterans Health Care.

(d) Emphasis on housing. HUD will award up to 5 points based upon the relationship between funds requested for housing activities and funds requested for supportive service activities among projects assigned 40 need points (excluding Shelter Plus Care renewals). Points will be awarded on a sliding scale with the Continuums with the highest percentage of approvable requests for funds for housing activities receiving the highest points. To receive points, the Continuum must have a total amount of approvable funds for housing activities that is at least 50 percent of funds for all approvable projects that are assigned 40 need points (excluding Shelter Plus Care renewals). HUD will count as housing activity all approvable funds for rental assistance and approvable funds for acquisition, rehabilitation, construction, leasing and operations when used in connection with housing.

(e) EZ/EC bonus points. As provided for in Section III(C)(1) of the General Section of this SuperNOFA, HUD will add a bonus of up to 2 points to the Continuum of Care score when: (1) At least one proposed homeless assistance project will be located within the boundaries and/or will principally serve the residents of a federal Empowerment Zone, Enterprise Community, Enhanced Enterprise Community, Strategic Planning Community or Renewal Community (collectively “EZ/EC”); and (2) if priority placement will be given by the project(s) to homeless persons living on the streets or in shelters within the EZ/EC, or whose last known address was within the EZ/EC. In addition, and in order for a Continuum of Care system to receive any of the bonus points, the applicant must specifically state how it meets the requirements for the two EZ/EC bonus points, and provide a narrative describing the extent of the linkages and coordination between proposed projects and the EZ/EC. Examples of such coordination include having common board or committee membership (EZ/EC and Continuum of Care), and having EZ/EC resources directed toward Continuum of Care activities. The greater the extent of EZ/EC involvement in, and coordination with, the implementation strategy for the Continuum of Care system and projects, the greater the likelihood that bonus points will be awarded.

(f) Court-ordered consideration. Section III(C)(3) of the General Section is applicable to this program.

(5) Need. HUD will award up to 40 points for need. There is a three-step approach to determining the need scores to be awarded to projects:

(a) Determining relative need: To determine the homeless assistance need of a particular jurisdiction, HUD will use nationally available data, including the following factors as used in the Emergency Shelter Grants program: data on poverty, housing overcrowding, population, age of housing, and growth lag. Applying those factors to a particular jurisdiction provides an estimate of the relative need index for that jurisdiction compared to other jurisdictions applying for assistance under this program section of the SuperNOFA.

(b) Applying relative need: HUD will then apply that relative need index to the total amount of funding estimated to be competitively available under this program section of the SuperNOFA to determine a jurisdiction's pro rata need. However, in order to promote permanent housing for the homeless, if a Continuum of Care's number one priority project qualifies as an eligible, new permanent housing project, then the full amount of that project's eligible activities, up to the lesser of 100 percent of the Continuum of Care's preliminary pro rata need or $500,000, will be added to the final pro rata need amount for the Continuum. HUD also reserves the right to adjust pro rata need, if necessary, to address SHP project renewals.

(c) Awarding need points to projects: Once the pro rata need is established, it is applied against the priority project list in the application. Starting from the highest priority project, HUD proceeds down the list to award need points to each project. An eligible project will receive the full 40 points for need if at least one half of its requested amount falls within the pro rata need amount for that Continuum of Care (COC). Thereafter, HUD proceeds further down the priority project list and awards 15 points for need to each project if at least one half of its requested amount falls within the “second tier” of pro rata need amount for that Continuum of Care. The “second tier” is the amount between the pro rata need and twice the pro rata need for the COC. Remaining projects each receive 10 points. If projects are not prioritized for the Continuum, then all projects will receive 10 points for Need.

In the case of competing applications from a single jurisdiction or service area, projects in the application that received the highest score out of the possible 60 points for Continuum of Care are eligible for up to 40 points under Need. Projects in the competing applications with lower Continuum of Care scores are eligible for only 10 points under Need.

(6) Ranking. HUD will add the score for Continuum of Care to the Need score and EZ/EC bonus points, if any, to obtain a total score for each project. The projects will then be ranked from highest to lowest according to the total combined score.

(7) Conditional Selection and Adjustments to Funding.

(a) Conditional Selection. Whether a project is conditionally selected, as described in Section V (B) below, will depend on its overall ranking compared to others, except that HUD reserves the right to select lower rated eligible projects in order to meet the 30 percent overall permanent housing requirement. (See Section V (A)(8) for additional selection information.)

When insufficient funds remain to fund all projects in the competition having the same total score, HUD will first fund permanent housing projects if necessary to achieve the 30 percent overall permanent housing requirement. HUD will then break ties among the remaining projects with the same total score by comparing scores received by the projects for each of the following scoring factors, in the order shown: Need, Overall Continuum of Care score, COC Process and Strategy, COC Gaps and Priorities, and COC Supplemental Resources. The final tie-breaking factor is the priority number of the competing projects on the applicable COC priority list(s).

(b) Adjustments to Funding. The Secretary of HUD has determined that geographic diversity is appropriate to carrying out homeless assistance programs in an effective manner. HUD believes that geographic diversity can be achieved best by awarding grants to as many COCs as possible. To this end, in instances where any of the 50 States, the District of Columbia, the Commonwealth of Puerto Rico, Guam, the Northern Mariana Islands, the Virgin Islands, and American Samoa does not have at least one funded COC, HUD reserves the right to fund eligible project(s) receiving 40 Need points in the COC with the highest total score in that jurisdiction. To qualify for funding, the total score for these first tier projects on the COC priority list must be at least 65 points. In the case of two or more COCs with the same total score, HUD will use the tie-breaking rules described above. In addition, if the highest priority project passing threshold requirements within a COC fails to meet the criteria for receiving 40 Need points, HUD reserves the right to reduce the total requested amount for that project to allow it to qualify for 40 Need points. Finally, if the total amount that would be awarded for first tier projects in a Continuum of Care exceeds the final pro rata need amount for that COC by more than $250,000, the lowest priority first tier project being selected for funding will be reduced to the level necessary to ensure that the total amount being awarded for such projects does not exceed the final pro rata need amount by more than $250,000. HUD may otherwise adjust funding of applications in accordance with the provisions of Section III(E) of the General Section of the SuperNOFA. In addition, HUD reserves the right to ensure that a project that is applying for, and eligible for, selection under this competition is not awarded funds that duplicate activities.

(8) Additional selection considerations. HUD also will apply the limitations on funding described below in making conditional selections.

In accordance with the appropriation for homeless assistance grants in the Fiscal Year 2002 Appropriation Act for HUD (Pub.L. 107-73, approved November 26, 2001; 115 Stat. 651), HUD will use not less than 30 percent of the total FY 2002 Homeless Assistance Grants appropriation, excluding amounts provided for renewals under the Shelter Plus Care Program, to fund projects that meet the definition of permanent housing. Projects meeting the definition of permanent housing for this purpose are: (1) New Shelter Plus Care projects, (2) Section 8 SRO projects, and (3) new and renewal projects under the Supportive Housing Program that are designated as either permanent housing for homeless persons with disabilities or Safe Havens projects having the characteristics of permanent housing for homeless persons with disabilities, including leases with the program participants, that, in addition, have been assigned at least 15 Need points, and which are submitted as part of either a “consolidated” or “associated” Continuum of Care application receiving at least 20 points under the Continuum of Care scoring factor. However, no Continuum of Care application may receive more than 30 percent of its pro rata need, up to $3 million, for “second-tier” permanent housing projects assigned 15 Need points that are selected for funding under this procedure. (See Section V(A)(5)(c) for definition of “second-tier”.) Since the FY 2002 Homeless Assistance Grants appropriation, excluding an estimated $118 million for Shelter Plus Care Program renewals, is $1.005 billion, not less than approximately $302 million must be awarded to permanent housing projects unless an insufficient number of approvable permanent housing projects are submitted. This permanent housing funding requirement may result in higher scoring non-permanent housing projects being skipped over to fund lower scoring permanent housing projects or, within a Continuum, higher priority non-permanent housing projects being skipped over to fund lower priority permanent housing projects. HUD will first skip over new non-permanent housing projects when making project selections in order to meet the 30 percent requirement. If the 30 percent requirement has not been met after skipping over the new non-permanent housing projects, then HUD will skip over non-permanent housing renewal projects. In skipping over new non-permanent housing projects, HUD will begin with the lowest rated, eligible new non-permanent project at the funding line and continue up the ranking until the 30 percent requirement is met. If HUD is required to skip over non-permanent housing renewal projects, HUD will proceed in the same way.

In accordance with section 429 of the McKinney-Vento Act, HUD will award Supportive Housing funds as follows: Not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney-Vento Act, as amended by the Housing and Community Development Act of 1992, at least 10 percent of Shelter Plus Care funds will be awarded for each of the four components of the program: Tenant-based Rental Assistance; Sponsor-based Rental Assistance; Project-based Rental Assistance; and Section 8 Moderate Rehabilitation of Single Room Occupancy Dwellings for Homeless Individuals (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney-Vento Act, no more than 10 percent of the assistance made available for Shelter Plus Care in any fiscal year may be used for programs located within any one unit of general local government. In accordance with section 441(c) of the McKinney-Vento Act, no city or urban county may have Section 8 SRO projects receiving a total of more than 10 percent of the assistance made available under this program. HUD is defining the 10 percent availability this fiscal year as $10 million for Shelter Plus Care and $10 million for Section 8 SRO. However, if the amount awarded under either of these two programs exceeds $100 million, then the amount awarded to any one unit of general local government (for purposes of the Shelter Plus Care program) or city or urban county (for the purposes of the SRO program) could be up to 10 percent of the actual total amount awarded for that program.

Lastly, HUD reserves the right to reduce the amount of a grant if necessary to ensure that no more than 10 percent of assistance made available under this program section of the SuperNOFA will be awarded for projects located within any one unit of general local government or within the geographic area covered by any one Continuum of Care. If HUD exercises a right it has reserved under this program section of the SuperNOFA, that right will be exercised uniformly across all applications received in response to this program section of the SuperNOFA.

(B) Action on Conditionally Selected Applications. HUD will notify conditionally selected applicants in writing. As necessary, HUD will subsequently request them to submit additional project information, which may include documentation to show the project is financially feasible; documentation of firm commitments for cash match; documentation showing site control; information necessary for HUD to perform an environmental review, where applicable; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant, but instead to either: use them to select the next highest ranked application(s) from the original competition for which there are sufficient funds available; or add them to funds available for the next competition for the applicable program.

(C) Applicant Debriefing. See Section VII (E)(2) of the General Section of the SuperNOFA.

VI. Application Submission Requirements

The application kit provides the application materials, including Form SF-424 and certifications, that must be used in applying for homeless assistance under this SuperNOFA. These application materials substitute for the forms, certifications, and assurances listed in Section II(H) of the General Section of the SuperNOFA (collectively, the “standard” forms).

In addition to the required narratives, the items that you must submit to HUD as part of the application for homeless assistance funding are the following:

(1) 2002 Application Summary Form

(2) Continuum of Care and Project Exhibits

(3) Gaps Analysis Form

(4) Project Priorities Form

(5) Project Leveraging Form

(6) EZ/EC Certification

(7) SF-424

(8) Applicant Certifications

(9) Consolidated Plan Certification(s)

The standard forms can be found in Appendix B to the General Section of the SuperNOFA. The remaining forms (i.e., excluding such items as narratives), referred to as the non-standard forms, can be found in Appendix B to this program section of the SuperNOFA).

The application requires a description of the Continuum of Care system and the proposed project(s). To ensure that no applicant is afforded an advantage in the rating of the Continuum of Care element (described in Section V (A)(4) above), HUD is establishing a limitation of 25 pages, excluding required multiple page tables or charts but including any attachments, on the length of Exhibit 1 of any application submitted in response to this NOFA. HUD will not consider the contents of any pages exceeding this limit when rating the Continuum of Care element of any application. The application kit also contains certifications that the applicant will comply with fair housing and civil rights requirements, program regulations, and other Federal requirements, and (where applicable) that the proposed activities are consistent with the HUD-approved Consolidated Plan of the applicable State or unit of general local government, including the Analysis of Impediments to Fair Housing Choice and the Action Plan to address these impediments. Projects funded under this SuperNOFA shall operate in a fashion that does not deprive any individual of any right protected by the Fair Housing Act (42 U.S.C. 3601-19), Section 504 of the Rehabilitation Act of 1973 (29 U.S.C. 794), the Americans with Disabilities Act of 1990 (42 U.S.C. 12101 et seq.), Title VI of the Civil Rights Act of 1964 (42 U.S.C. 2000d), Section 109 of the Housing and Community Development Act of 1974 (42 U.S.C. 5301) or the Age Discrimination Act of 1974 (42 U.S.C. 6101).

There are three options for submitting an application under this program section of the SuperNOFA.

One: A “Consolidated Application” is submitted when a jurisdiction (or a consortium of jurisdictions) submits a single application encompassing a Continuum of Care strategy and containing all the projects within that strategy for which funding is being requested. Individual projects are contained within the one consolidated application. Grant funding may go to one entity which then administers all funded projects submitted in the application, or under this option, grant funding may go to all or any of the projects individually. Your application will specify the grantee for each project.

Two: “Associated Applications” are submitted when applicants plan and organize a single Continuum of Care strategy that is adopted by project sponsors or operators who choose to submit separate applications for projects while including the identical Continuum of Care strategy. In this case, project funding would go to each successful applicant individually and each would be responsible to HUD for administering its separate grant.

Three: A “Solo Application” is submitted when an applicant applies for a project exclusive of participation in any community-wide or region-wide Continuum of Care development process.

Options one and two are not substantively different and will be considered equally competitive. Applicants are advised that projects that are not a part of a Continuum of Care strategy will receive few, if any, points under the Continuum of Care rating factors.

VII. Corrections to Deficient Applications

The General Section of the SuperNOFA provides the procedures for corrections to deficient applications (See Section V of the General Section).

VIII. Environmental, Local Resident Employment, and Relocation Requirements

(A) Environmental Requirements. All Continuum of Care assistance is subject to the National Environmental Policy Act and applicable related Federal environmental authorities. Section 208 of Public Law 106-377 (114 Stat. 1441, approved October 27, 2000) amended section 443 of the Stewart B. McKinney-Vento Homeless Assistance Act to provide that for purposes of environmental review, Continuum of Care projects shall be treated as assistance for special projects that are subject to section 305(c) of the Multifamily Housing Property Disposition Reform Act of 1994, and shall be subject to HUD's regulations implementing that section. The effect of this provision is that environmental reviews for Continuum of Care activities are to be completed by responsible entities (States or units of general local government) in accordance with 24 CFR part 58, whether or not the applicant is itself a State or a unit of general local government. Applicants (such as PHAs or nonprofit organizations) that are not States or units of general local government must request the unit of general local government to perform the environmental review. This statutory provision supersedes those portions of 24 CFR 582.230 and 583.230 that provide for automatic HUD environmental review in the case of applications from such entities. With this exception, conditional selection of projects under the Continuum of Care Program is subject to the environmental review requirements of 24 CFR 582.230, 583.230, and 882.804(c), as applicable. Recipients may not commit or expend any Continuum of Care assistance or nonfederal funds on project activities (other than those listed in 24 CFR 58.22(c), 58.34 or 58.35(b)) until HUD has approved a Request for Release of Funds and environmental certification from the responsible entity. The expenditure or commitment of Continuum of Care assistance or nonfederal funds for such activities prior to this HUD approval may result in the denial of assistance for the project under consideration.

(B) Local Resident Employment. To the extent that any housing assistance (including rental assistance) funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

(C) Relocation. The SHP, S+C, and SRO programs are subject to the requirements of the Uniform Relocation Assistance and Real Property Acquisition Policies Act of 1970, as amended (URA). These requirements are explained in HUD Handbook 1378, Tenant Assistance, Relocation and Real Property Acquisition. Any person or family that moves, even temporarily, as a direct result of acquisition, rehabilitation or demolition for a project that is assisted through one of these programs (whether or not HUD funded the acquisition, rehabilitation or demolition) is entitled to relocation assistance. Displacement that results from leasing a unit in a structure may also trigger relocation requirements. Relocation assistance can be expensive. To avoid unnecessary costs, it is important to provide occupants with timely information notices, including a general information notice to be sent at the time the application is submitted to HUD. HUD Handbook 1378 contains guideform information notices. The HUD field office can provide a copy of the handbook and copies of appropriate information booklets to be provided to occupants. Accordingly, if the site is occupied, the applicant should contact the HUD field office in the planning stage to obtain advice, including help in estimating the cost of required relocation assistance.

IX. Authority

The Supportive Housing Program is authorized by title IV, subtitle C, of the Stewart B. McKinney-Vento Homeless Assistance Act (McKinney-Vento Act), 42 U.S.C. 11381. Funds made available under this program section of the SuperNOFA for the Supportive Housing Program are subject to the program regulations at 24 CFR part 583.

The Shelter Plus Care program is authorized by title IV, subtitle F, of the McKinney-Vento Act, 42 U.S.C. 11403. Funds made available under this program section of the SuperNOFA for the Shelter Plus Care program are subject to the program regulations at 24 CFR part 582.

The Section 8 Moderate Rehabilitation Program for Single Room Occupancy Dwellings for Homeless Individuals (SRO) is authorized by section 441 of the McKinney-Vento Act, 42 U.S.C. 11401. Funds made available under this NOFA for the SRO program are subject to the program regulations at 24 CFR part 882, subpart H.

BILLING CODE 4210-32-P

FUNDING AVAILABILITY FOR SECTION 202 SUPPORTIVE HOUSING FOR THE ELDERLY PROGRAM (SECTION 202 PROGRAM)

PROGRAM OVERVIEW

Purpose of the Program. This program provides supportive housing for very low-income persons 62 years of age or older.

Available Funds. Approximately $485.6 million.

Eligible Applicants. Private nonprofit organizations and nonprofit consumer cooperatives (see Section III(B) of this NOFA). (See Section VIII of this NOFA for information regarding the formation of the Owner corporation.)

Eligible Activities. New construction, rehabilitation, or acquisition of housing with or without rehabilitation (see Section III(C) of this NOFA).

Application Deadline. June 5, 2002.

Match Requirements. No.

ADDITIONAL INFORMATION

If you are interested in applying for funding under this program, please review carefully the General Section of this SuperNOFA and the following additional information.

I. Application Due Date, Application Kits, Further Information, and Technical Assistance

Application Due Date. Submit your completed applications on or before 6 p.m., local time, on June 5, 2002 at the address shown below.

See the General Section of this SuperNOFA for specific procedures governing the submission of applications to HUD Field Offices. Only Section 202 applications mailed by United States Postal Service (USPS) will be accepted.

Address for Submitting Applications. Submit your completed application (an original and four copies are required) to the Director of the appropriate Multifamily Hub Office or Multifamily Program Center as listed in Appendix A to the Section 811 program section of this SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov/grants. Persons with hearing or speech impairments may call the Center's TTY number at 1-800-HUD-2209.

For Application Kits. For an application kit and any supplemental materials, please call HUD's SuperNOFA Information Center at 1-800-HUD-8929. Persons with hearing or speech impairments may call the Center's TTY number at 1-800-HUD-2209. When requesting an application kit, please refer to the Section 202 Program and provide your name, address (including zip code), and telephone number (including area code). The application kit also will be available on the Internet through the HUD web site at http://www.hud.gov/grants and from the appropriate Multifamily Hub or Multifamily Program Center.

For Further Information and Technical Assistance. You may contact the appropriate Multifamily Hub Office or Multifamily Program Center, Evelyn Berry at HUD Headquarters at (202) 708-2866, or access the Internet at http://www.hud.gov/grants. Persons with hearing and speech challenges may access the above number via TTY (text telephone) by calling the Federal Relay Service at 1-800-877-8339 (this is a toll-free number).

HUD encourages minority organizations and grassroots organizations (e.g., civic organizations, congregations and faith-based and other community-based organizations) to participate in this program and strongly recommends that prospective applicants attend the local HUD Office workshop. At the workshops, HUD will explain application procedures and requirements as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to ensure that any necessary arrangements can be made to enable your attendance and participation in the workshop.

If you cannot attend the workshop, call the appropriate HUD Office if you have any questions concerning the submission of applications to that particular office and to request any materials distributed at the workshop.

Satellite Broadcast. HUD will hold an information broadcast via satellite for potential applicants to learn more about the program and preparation of the application. For more information about the date and time of the broadcast, you should consult the HUD web site at http://www.hud.gov/grants.

II. Amount Allocated

For FY 2002, $ 485,585,696 is available for capital advances for the supportive housing for the elderly program. The FY 2002 HUD Appropriations Act, Pub. L. 107-73, approved November 26, 2001, (HUD Appropriations Act) provides $683,286,000 for capital advances, including amendments to capital advance contracts, for supportive housing for the elderly as authorized by section 202 of the Housing Act of 1959 (12 U.S.C. 1701q), as amended by section 801 of the Cranston-Gonzalez National Affordable Housing Act (Pub. L. 101-625, approved November 28, 1990), and for project rental assistance, and amendments to contracts for project rental assistance, for supportive housing for the elderly under section 202(c)(2) of the Housing Act of 1959. Of this amount, $600,000 shall be transferred to the Working Capital Fund for the development and maintenance of information technology systems.

In accordance with the waiver authority provided in the HUD Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY 2002 formula consists of one data element: A measure of the number of one and two person elderly renter households with incomes at or below HUD's Very-low Income Limit (50 percent of area median family income, as determined by HUD, with an adjustment for household size), which have housing deficiencies. The counts of elderly renter households with housing deficiencies were taken from a special tabulation of the 1990 Decennial Census. The formula focuses the allocation on targeting the funds based on the unmet needs of elderly renter households with housing problems.

Under Section 202, 85 percent of the total capital advance amount is allocated to metropolitan areas and 15 percent to nonmetropolitan areas. In addition, each HUD Office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each HUD Office jurisdiction whose fair share exceeds the minimum set-aside based on the allocation formula fair share factors described below.

Note: The allocations for metropolitan and nonmetropolitan portions of the Multifamily Hub or Program Center jurisdictions reflect the most current definitions of metropolitan and nonmetropolitan areas, as defined by the Office of Management and Budget.

A fair share factor is developed for each metropolitan and nonmetropolitan portion of each local HUD Office jurisdiction by dividing the number of elderly renter households in the respective metropolitan and nonmetropolitan portion of the jurisdiction by the total number of elderly rental households in the metropolitan and nonmetropolitan portions of the United States. The resulting percentage for each local HUD Office jurisdiction is then adjusted to reflect the relative cost of providing housing among the HUD Office jurisdictions. The adjusted needs percentage for the applicable metropolitan or nonmetropolitan portion of each jurisdiction is then multiplied by the respective total remaining capital advance funds available nationwide. Based on the allocation formula, HUD has allocated the available capital advance funds as shown on the following chart:

BILLING CODE 4210-32-P

III. Program Description; Eligible Applicants; Eligible Activities

(A) Program Description. HUD provides capital advances and contracts for project rental assistance in accordance with 24 CFR part 891. Capital advances may be used for the construction or rehabilitation of a structure, or acquisition of a structure with or without rehabilitation (including structures from the Federal Deposit Insurance Corporation (FDIC). Capital advance funds bear no interest and are based on development cost limits published in this SuperNOFA. Repayment of the capital advance is not required as long as the housing remains available for occupancy by very low-income elderly persons for at least 40 years.

Project rental assistance contract (PRAC) funds are used to cover the difference between what the residents pay for rent and the HUD-approved expense to operate the project. PRAC funds may also be used to provide supportive services and to hire a service coordinator in those projects serving the frail elderly residents. The supportive services must be appropriate to the category or categories of frail elderly residents to be served.

(B) Eligible Applicants. Private nonprofit organizations and nonprofit consumer cooperatives are the only eligible applicants under this Section 202 Program. Neither a public body nor an instrumentality of a public body is eligible to participate in the program.

A Sponsor or Co-sponsor may not apply for more than 200 units of housing for the elderly in a single Hub or more than 10 percent of the total units allocated to all HUD Offices. Also, no single application may propose more than the number of units allocated to a HUD office or 125 units, whichever is less. Reservations for projects will not be approved for fewer than 5 units. If the proposed project will be a scattered-site development, the 5-unit minimum requirement will apply to each site. Affiliated entities that submit separate applications are considered to be a single entity for the purpose of these limits.

(C) Eligible Activities. Section 202 capital advance funds must be used to finance the development of housing through new construction, rehabilitation, or acquisition of housing with or without rehabilitation. Capital advance funds may also be used in combination with other non-Section 202 funding sources to develop additional units for a mixed-finance or mixed-used project. Project rental assistance funds are provided to cover the difference between the HUD-approved operating costs and the amount the residents pay (each resident pays 30 percent of adjusted income) as well as to provide supportive services to frail elderly residents. In projects principally serving the frail elderly, eligible costs include the salary of a service coordinator.

Note: For purposes of approving Section 202 capital advances, HUD will consider proposals involving mixed-financing or a mixed-use purpose for additional units. However, you must obtain funds to assist the additional units with other than PRAC funds. HUD will not provide PRAC funds for non-Section 202 units.

(D) Ineligible Activities. Section 202 funds may not be used for nursing homes, infirmaries, medical facilities, mobile home projects, community centers, headquarters for organizations for the elderly, nonhousekeeping accommodations, or refinancing of sponsor-owned facilities without rehabilitation.

Note: You may propose to rehabilitate an existing currently-owned or leased structure that may or may not already serve elderly persons.

IV. Program Requirements

In addition to the program requirements listed in the General Section of this SuperNOFA, as an applicant, you must comply with the following requirements. By signing the Section 202 Application for a Fund Reservation, you are certifying that you, the applicant, will comply with all program requirements, including the following requirements:

(A) Statutory and Regulatory Requirements. You must comply with all Section 202 Program statutory and regulatory requirements, as listed in Sections III, IV and IX of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

(C) Development Cost Limits. (1) The following development cost limits, adjusted by locality as described in Section IV(C)(2) of this program section of the SuperNOFA, below, will be used to determine the capital advance amount to be reserved for projects for the elderly:

(a) The total development cost of the property or project attributable to dwelling use (less the incremental development cost and the capitalized operating costs associated with any excess amenities and design features you must pay for) may not exceed:

Nonelevator structures:

$41,238 per family unit without a bedroom;

$47,548 per family unit with one bedroom;

$57,344 per family unit with two bedrooms;

For elevator structures:

$43,398 per family unit without a bedroom;

$49,748 per family unit with one bedroom;

$60,493 per family unit with two bedrooms.

(b) These cost limits reflect those costs reasonable and necessary to develop a project of modest design that complies with HUD minimum property standards; the accessibility requirements of § 891.120(b); and the project design and cost standards of § 891.120 and § 891.210.

(2) Increased development cost limits.

(a) HUD may increase the development cost limits set forth in Section IV(C)(1) of this program section of the SuperNOFA, above, by up to 140 percent in any geographic area where the cost levels require, and may increase the development cost limits by up to 160 percent on a project-by-project basis. This increase may include covering additional costs to make dwelling units accessible through rehabilitation.

(b) If HUD finds that high construction costs in Alaska, Guam, the Virgin Islands, or Hawaii make it infeasible to construct dwellings, without the sacrifice of sound standards of construction, design, and livability, within the development cost limits provided in Section IV(C)(1) of this program section of the SuperNOFA, above, the amount of the capital advances may be increased to compensate for such costs. The increase may not exceed the limits established under this section (including any high cost area adjustment) by more than 50 percent.

(D) Minimum Capital Investment. Selected nonprofit organizations must provide a minimum capital investment of one-half of one percent of the HUD-approved capital advance amount, not to exceed $10,000 in accordance with § 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

(E) Accessibility. If you intend to construct, substantially rehabilitate, or acquire, with or without rehabilitation, structures to be used as housing for the elderly, you should note 24 CFR 891.120, which requires that your project meets accessibility requirements. In addition, you should note that 24 CFR 8.4(b)(5) prohibits the selection of a site or location which has the purpose or effect of excluding persons with disabilities from the Federally-assisted program or activity. Thus, if you choose an existing structure, make sure that it can be made accessible in accordance with 24 CFR 891.120 and section 504 of the Rehabilitation Act of 1973, without resulting in an infeasible project. HUD also encourages you to add accessible design features beyond those required under civil rights laws and regulations. See Section VI(C) of the General Section of this SuperNOFA, entitled “Encouraging Accessible Design Features.”

(F) Conducting Business in Accordance with HUD Core Values and Ethical Standards. Section 202 Sponsors are not subject to the requirements of 24 CFR parts 84 and 85 as outlined in the General Section of this SuperNOFA. However, Sponsors are still subject to the core values and ethical standards as they relate to the conflict of interest provisions in 24 CFR 891.130. To ensure compliance with the program's conflict of interest provisions, Section 202 applicants are required to sign a Conflict of Interest Resolution and include it in the Section 202 application package. Further, if awarded a Section 202 fund reservation, the officers, directors, board members, trustees, stockholders and authorized agents of the Section 202 Sponsor and Owner entities will be required to submit to HUD individual certifications regarding compliance with HUD's conflict of interest requirements.

(G) Ensuring the Participation of Small Businesses , Small Disadvantaged Businesses, and Women-Owned Businesses. Although the Section 202 program is not subject to the provision of 24 CFR 85.36(e) as described in the corresponding paragraph in the General Section of the SuperNOFA, you are required to comply with Executive Order 12432, Minority Business Enterprise Development and Executive Order 11625, Prescribing Additional Arrangements for Developing and Coordinating a National Program for Minority Business Enterprise as they relate to the encouragement of HUD grantees to utilize minority business enterprises.

(H) Fair Housing Requirements. You must comply with the requirements of the Fair Housing Act, Title VI of the Civil Rights Act, the Age Discrimination Act of 1975, the affirmative fair housing marketing requirements of 24 CFR part 200, subpart M and the implementing regulations at 24 CFR part 108, and other applicable Federal, State and local laws prohibiting discrimination and promoting equal opportunity. In addition, you are required to affirmatively further fair housing in conducting your program or activities in accord with Section II(D) of the General Section of the SuperNOFA entitled “Affirmatively Furthering Fair Housing.”

(I) Economic Opportunities for Low and Very Low-Income Persons (Section 3). You must comply with Section 3 of the Housing and Urban Development Act of 1968, 12 U.S.C. 1701u (Economic Opportunities for Low and Very Low-Income Persons), and its implementing regulations at 24 CFR part 135. You must ensure that training, employment and other economic opportunities shall, to the greatest extent feasible, be directed toward low and very low-income persons, particularly those who are recipients of government assistance for housing and to business concerns which provide economic opportunities to low and very low-income persons. To comply with Section 3 requirements, you are hereby certifying that you will strongly encourage your general contractor and subcontractors to participate in local apprenticeship programs or training programs registered with or certified by the Department of Labor's Office of Apprenticeship, Training, Employer and Labor Services or recognized State Apprenticeship Agency.

(J) Design and Cost Standards. You must comply with HUD's Section 202 design and cost standards (24 CFR 891.120 and 891.210, the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990.

(K) Acquisition and Relocation. You must comply with the Uniform Relocation Assistance and Real Property Acquisition Policies Act of 1970, as amended (49 CFR part 24, and 24 CFR 891.155(e)) (URA) which covers the acquisition of sites, with or without, existing structures. However, you are exempt from complying with the site acquisition requirements of the URA if you do not have the power of eminent domain and prior to entering into a contract of sale, option to purchase or any other method of obtaining site control, you inform the seller of the land (1) that you do not have the power of eminent domain and, therefore, you will not acquire the property if negotiations fail to result in an amicable agreement, and (2) of the estimate of the fair market value of the property. An appraisal is not required to meet this requirement, however, your files must include an explanation (with reasonable evidence) of the basis for the estimate.

(L) Formation of Owner Corporation. You must form an Owner (in accordance with 24 CFR 891.205) after issuance of the capital advance, must cause the Owner to file a request for determination of eligibility and a request for capital advance, and must provide sufficient resources to the Owner to ensure the development and long-term operation of the project, including capitalizing the Owner at firm commitment processing in an amount sufficient to meet its obligations in connection with the project.

(M) Supportive Services. You must not require residents to accept any supportive services as a condition of occupancy.

(N) Davis-Bacon. You must comply with the Davis-Bacon requirements and the Contract Work Hours and Safety Standards Act.

(O) Flood Disaster Protection Act of 1973. You must comply with the requirements under the Flood Disaster Protection Act of 1973 (42 U.S.C. 4001-4128) and the Coastal Barrier Resources Act (16 U.S.C. 3601).

(P) National Environmental Policy Act. You must comply with the National Environmental Policy Act of 1969 (NEPA) (42 U.S.C. 4321) and applicable related environmental authorities at 24 CFR 50.4, HUD's implementing regulations at 24 CFR part 50 and 24 CFR 891.155(b).

(Q) Truth and Accuracy. By signing your application, you are certifying that the information you are providing to HUD in your application under the Section 202 Program of Supportive Housing for the Elderly is true and accurate, to the best of your knowledge.

(R) Expiration of Section 202 Funds. The FY 2002 HUD Appropriations Act requires HUD to obligate all 202 funds appropriated for FY 2002 by September 30, 2004. Under 31 U.S.C. Section 1551, no funds can be disbursed from the account after September 30, 2009. Under Section 202, obligation of funds occurs for both capital advances and project rental assistance upon fund reservation and acceptance. If all funds are not disbursed by HUD and expended by the project Owner by September 30, 2009, the funds even though obligated will expire and no further disbursements can be made from this account. In submitting an application you need to carefully consider whether your proposed project can be completed through final capital advance closing no later than September 30, 2009. Furthermore, absent Congressional relief, all unexpended balances, including any remaining balance on PRAC contracts, will be cancelled as of October 1, 2009. Amounts needed to maintain PRAC payments for any remaining term on the affected contracts beyond that date will have to be funded from other current appropriations.

V. Application Selection Process

(A) Review for Curable Deficiencies. You should ensure that your application is complete before submitting it to the appropriate HUD Office. HUD will screen all applications received by the deadline for curable deficiencies. A curable deficiency is a missing Exhibit or portion of an Exhibit that will not affect the rating of the application. The following is a list of the deficiencies that will be considered curable in a Section 202 application:

Exhibits

(1) Form 92015-CA (Application Form)*

(2) (a) Articles of Incorporation*

(b) By-laws*

(c) IRS tax exemption ruling*

(4) (c)(ii) Energy efficiency

(d)(i) Evidence of site control

(d)(ii) Evidence site is free of limitations, restrictions or reverters

(d)(vi) Phase I Environmental Site Assessment

(d)(vii) Letter from State Historic Preservation Officer (SHPO)

(6) Relocation

(7) (a) Standard Form 424, Application for Federal Assistance and Compliance with Executive Order 12372*

(b) HUD-50070, Certification of a Drug-free Workplace

(c) Form-HUD 50071, Certification of Payments to Influence Federal Transactions and Standard Form-LLL, Disclosure of Lobbying Activities

(d) Form-HUD 2880, Applicant/Recipient Disclosure/Update Report

(e) Form-HUD 2992, Certification Regarding Debarment and Suspension

(f) Form-HUD 2991, Certification of Consistency with Consolidated Plan

(g) Conflict of Interest Resolution

(h) Resolution for Commitment to Project*

The HUD Office will notify you in writing if your application is missing any of the above exhibits or portions of exhibits and you will be given 14 days from the date of the HUD notification to submit the information required to cure the noted deficiencies. The items identified by an asterisk (*) must be dated on or before the application deadline date.

(B) Rating. HUD will review and rate your application in accordance with the Application Selection Process in the General Section of this SuperNOFA with the following exception. HUD will not reject your application based on technical review without notifying you of that rejection with all the reasons for rejection, and providing you an opportunity to appeal. You will have 14 calendar days from the date of HUD's written notice to appeal a technical rejection to the HUD office.

The HUD office will make a determination on an appeal before making its selection recommendations. All applications will be either rated or technically rejected at the end of technical review. If your application meets all program eligibility requirements after completion of technical review, it will be rated according to the rating factors in Section V(D) of this Section 202 Program section of the SuperNOFA.

If an Exhibit or portion of an Exhibit listed above as curable is not discovered as a missing item until technical processing, HUD will provide you with 14 calendar days in which to cure the deficiency.

(C) Ranking and Selection Procedures. Applications submitted in response to the advertised metropolitan allocations or nonmetropolitan allocations that have a total base score (without the addition of EC/EZ bonus points) of 70 points or more and meet all of the applicable threshold requirements of Section II(B) of the General Section of the SuperNOFA will be eligible for selection, and HUD will place them in rank order per metropolitan or nonmetropolitan allocation. These applications, after adding any bonus points for EC/EZ, will be selected based on rank order, up to and including the last application that can be funded out of each HUD office's metropolitan or nonmetropolitan allocation. HUD offices must not skip over any applications in order to select one based on the funds remaining. After making the initial selections in each allocation area, however, HUD may use any residual funds to select the next rank-ordered application by reducing the number of units by no more than 10 percent, rounded to the nearest whole number, provided the reduction will not render the project infeasible. For this purpose, however, HUD will not reduce the number of units in projects of five units or less.

Once this process has been completed, HUD offices may combine their unused metropolitan and nonmetropolitan funds in order to select the next ranked application in either category, using the unit reduction policy described above, if necessary.

After the offices have funded all possible projects based on the process above, combined metropolitan and nonmetropolitan residual funds from all HUD Offices in each Multifamily Hub will be combined. These funds will be used first to restore units to projects reduced by HUD offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds. Applications may not be skipped over to select one based on funds remaining. However, HUD may use any remaining residual funds to select the next rank-ordered application by reducing the number of units by no more than 10 percent rounded to the nearest whole number, provided the reduction will not render the project infeasible or result in the project being less than five units.

Funds remaining after these processes are completed will be returned to Headquarters. HUD Headquarters will use these residual funds first to restore units to projects reduced by HUD offices as a result of the instructions for using their residual funds. Second, HUD Headquarters will use these funds for selecting applications based on field offices' rankings beginning with the highest rated application nationwide. However, after restoring units to projects where necessary, priority will be given to those applications for projects in non-metropolitan areas, if necessary to meet the statutory requirement pertaining to Section 202 funding in non-metropolitan areas. Only one application will be selected per HUD office from the national residual amount. If there are no approvable applications in other HUD offices, the process will begin with the selection of the next highest rated application nationwide. This process will continue until all approvable applications are selected using the available remaining funds.

(D) Factors For Award Used To Evaluate and Rate Applications. HUD will rate applications that successfully complete technical processing using the Rating Factors set forth below and in accordance with the application submission requirements identified in Section VI(B) below. The maximum number of points an application may receive under this program is 102. This includes two EZ/EC bonus points, as described in the General Section of the SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), (B)(3)(e) and (B)(5) of Section VI of this program section of the SuperNOFA.

In rating this factor, HUD will consider the extent to which your application demonstrates your ability to develop and operate the proposed housing on a long-term basis, considering the following:

(a)(i) (14 points) The scope, extent, and quality of your experience in providing housing or related services to those proposed to be served by the project and the scope of the proposed project (i.e., number of units, services, relocation costs, development, and operation) in relationship to your demonstrated development and management capacity as well as your financial management capability;

(a)(ii) (1 point) Your organization is a grassroots organization as defined in the General Section of this SuperNOFA.

(b) (10 points) The scope, extent, and quality of your experience in providing housing or related services to minority persons or families as well as your ties to the community at large and to the minority and elderly communities in particular. For purposes of this program section of the SuperNOFA, “minority” means the basic racial and ethnic categories for Federal statistics and administrative reporting, as defined in the Appendix section of the Office of Management and Budget's (OMB) Federal Register Notice entitled “Revisions to the Standards for the Classification of Federal Data on Race and Ethnicity” and dated October 30, 1997 (62 FR 58782-90). It can be found on the OMB Website at www.whitehouse.gov/omb/fedreg/ombdir15.html.

(c) (−2 points) A fund reservation you received under either the Section 202 Program of Supportive Housing for the Elderly or the Section 811 Program of Supportive Housing for Persons with Disabilities has been extended beyond 36 months (except if the delay was beyond your control). Examples of such delays include, but are not limited to, initial closing delays that are: (1) directly attributable to HUD, (2) directly attributable to third party opposition, including litigation, and (3) due to a disaster, as declared by the President of the United States.

(d) (−1 point) Amendment money was required as a result of the delay (except if the delay was beyond your control).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD office. The data could include information on the number of existing Federally assisted housing units (HUD and RHS) for the elderly in the area and current occupancy in such facilities; Federally assisted housing for the elderly under construction or for which fund reservations have been issued; and in accordance with an agreement between HUD and the RHS, comments from the RHS on the demand for additional assisted housing and the possible harm to existing projects in the same housing market area. The Department will also review more favorably those applications which establish a connection between the proposed project and the community's Analysis of Impediments to Fair Housing Choice (AI) or other planning document that analyzes fair housing issues and is prepared by a local planning or similar organization. You must show how your proposed project will address an impediment to fair housing choice described in the AI or meet a need identified in the other type of planning document.

Rating Factor 3: Soundness of Approach (40 Points)

This factor addresses the quality and effectiveness of your proposal. There must be a clear relationship between your proposed activities, the community's needs and purposes of the program funding for your application to receive points for this factor. Submit information responding to this factor in accordance with Application Submission Requirements in paragraphs (B)(4)(c), (B)(4)(d) and (B)(4)(e) of Section VI of this program section of the SuperNOFA. In evaluating this factor, HUD will consider the following:

(a)(i) (15 points) The proximity or accessibility of the site to shopping, medical facilities, transportation, places of worship, recreational facilities, places of employment, and other necessary services to the intended occupants; adequacy of utilities and streets; freedom of the site from adverse environmental conditions; compliance with site and neighborhood standards (24 CFR 891.125(a), (d) and (e));

(a)(ii) (-1 point) HUD will deduct one (1) point from this Factor if the site(s) is not already permissively zoned for the intended use.

(b) (10 points) The suitability of the site from the standpoints of promoting a greater choice of housing opportunities for minority elderly persons/families, and affirmatively furthering fair housing. In reviewing this criterion, HUD will assess whether the site meets the site and neighborhood standards at 24 CFR 891.125(b) and (c) by examining relevant data in your application or in the HUD Office. Where appropriate, HUD may visit the site.

(i) The site will be deemed acceptable if it increases housing choice and opportunity by:—Expanding housing opportunities in non-minority neighborhoods (if located in such a neighborhood). The term “nonminority area” is defined as one in which the minority population is lower than 10 percent; or

— Contributing to the revitalization of and reinvestment in minority neighborhoods, including improvement of the level, quality and affordability of services furnished to minority elderly. You should refer to the Site and Neighborhood Standards provisions of the regulations governing the Section 202 Supportive Housing for the Elderly program (24 CFR 891.125(b) and (c)) when considering sites for your project.

(ii) For the purpose of this competition, the term “minority neighborhood (area of minority concentration)” is defined as one where any one of the following statistical conditions exists:

— The percentage of persons of a particular racial or ethnic minority is at least 20 points higher than the minority's or combination of minorities' percentage in the housing market as a whole; or,

— The neighborhood's total percentage of minority persons is at least 20 points higher than the total percentage of minorities for the housing market as a whole; or,

— In the case of a metropolitan area, the neighborhood's total percentage of minority persons exceeds 50 percent of its population.

(c) (3 points) The extent to which your proposed design will meet the special physical needs of elderly persons;

(d) (3 points) The extent to which the proposed size and unit mix of the housing will enable you to manage and operate the housing efficiently and ensure that the provision of supportive services will be accomplished in an economical fashion;

(e) (3 points) The extent to which the proposed design of the housing will accommodate the provision of supportive services that are expected to be needed, initially and over the useful life of the housing, by the category or categories of elderly persons the housing is intended to serve;

(f) (3 points) The extent to which the proposed supportive services meet the identified needs of the anticipated residents; and

(g) (3 points) The extent to which you demonstrate that the identified supportive services will be provided on a consistent, long-term basis.

(h) (−1 point) HUD will deduct one (1) point from the rating of this Factor if you do not include a plan for completing your project within the initial fund reservation period of 18 months.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, and your demonstrated ability to enlist volunteers and raise local funds.

Rating Factor 5: Coordination, Self Sufficiency and Sustainability (10 Points)

This factor addresses the extent to which you coordinated your activities with other known organizations that will not be directly involved in the proposed project, participate or promote participation in the community's planning process (e.g., the Consolidated Planning process, including the Analysis of Impediments to Fair Housing Choice), and are working toward addressing a need in a holistic and comprehensive manner to ensure that the project will not operate in isolation. This factor also addresses the extent to which your project will implement practical solutions that will result in assisting residents in achieving independent living, educational opportunities, and improved living environments. Finally, this factor addresses the extent to which the long-term viability of your project will be sustained for the duration of the 40-year capital advance period. Submit information responding to this factor in accordance with Application Submission Requirements in paragraphs (B)(3)(f), (B)(3)(g), (B)(3)(h),(B)(3)(i) and (B)(3)(j) of Section VI of this program section of the SuperNOFA.

(a) (2 points) Your involvement of elderly persons, particularly minority elderly persons, in the development of the application, and your intent to involve elderly persons, particularly minority elderly persons, in the development and operation of the project;

(b) (2 points) The extent to which you coordinated your application with other organizations that will not be directly participating in your project, but with which you share common goals and objectives and are working toward meeting these objectives in a holistic and comprehensive manner;

(c) (2 points) The extent to which you demonstrated that you have been actively involved, or if not currently active, the steps you will take to become actively involved in the community's planning process (e.g., the Consolidated Planning process, including the Analysis of Impediments to Fair Housing Choice) to identify and address a need/problem that is related in whole or part, directly or indirectly to the proposed project;

(d) (2 points) The extent to which your project will implement practical solutions that will result in assisting residents in achieving independent living, educational opportunities, and improved living environments; and

(e) (2 points) The extent to which you demonstrated that your project will remain viable as housing with the availability of supportive services for very low-income elderly persons for the 40-year capital advance period.

Bonus Points

(2 bonus points) Location of proposed site in an EZ/EC area, as described in the General Section of this SuperNOFA. Submit the information responding to the bonus points in accordance with the Application Submission Requirements in paragraph (B)(7)(i) of Section VI of this program section of the SuperNOFA.

(E) Applicant Debriefing. Beginning not less than 30 days after the awards for assistance are announced pursuant to this program NOFA, HUD will provide a debriefing to any applicant requesting a debriefing on their application. All requests for debriefings must be made in writing and submitted to the Director, of the Office of Multifamily Housing in the local HUD Office in which the application was filed. Materials provided to you during your debriefing will include the final scores you received for each rating factor, final evaluator comments for each rating factor, and the final assessment indicating the basis upon which assistance was provided or denied.

VI. Application Submission Requirements

(A) Application. Your application must include all of the information, materials, forms, and exhibits listed in Section VI(B) of this program section of the SuperNOFA (unless you were selected for a Section 202 fund reservation within the last three funding cycles). If you qualify for this exception, you are not required to submit the information described in Sections VI(B)(2)(a), (b), and (c) of this program section of the SuperNOFA (Exhibits 2.a., b., and c. of the application kit), which are the articles of incorporation, (or other organizational documents), by-laws, and the IRS tax exemption, respectively. If there has been a change in any of these documents since your previous HUD approval, you must submit the updated information in your application. HUD offices will verify your indication of previous HUD approval by checking the project number and approval status with the appropriate HUD Office based on the information submitted in response to Section VI(B)(2) below.

In addition to this relief of paperwork burden in preparing applications, you will be able to submit information and exhibits you have previously prepared for prior applications under Section 202, Section 811, or other funding programs. Examples of exhibits that may be readily adapted or amended to decrease the burden of application preparation include, among others, those on previous participation in the Section 202 or Section 811 Programs, your experience in the provision of housing and services, supportive services plan, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

(1) Form HUD-92015-CA, Application for Section 202 Supportive Housing Capital Advance.

(2) Evidence of your and each Co-Sponsor's legal status as a private nonprofit organization or nonprofit consumer cooperative, including the following:

(2)(a) Articles of Incorporation, constitution, or other organizational documents;

(2)(b) By-laws;

(2)(c) IRS tax exemption ruling (this must be submitted by you and each Co-Sponsor, including churches). A consumer cooperative that is tax exempt under State law, has never been liable for payment of Federal income taxes, and does not pay patronage dividends may be exempt from the requirement set out in the previous sentence if it is not eligible for tax exemption.

Note: If you received a Section 202 Fund Reservation within the last three funding cycles, you are not required to submit the documents described in paragraphs (2)(a), (2)(b), and (2)(c), above. Instead, you must submit the project number of the latest application selected and the HUD office to which it was submitted. If there have been any modifications or additions to the subject documents, indicate such, and submit the new material.

(3) A description of your purpose, community ties, and experience, including the following:

(3)(a) A description of your purpose, current activities and how long you have been in existence;

(3)(b) A description of your ties to the community in which your project will be located and to the minority and elderly communities in particular, including a description of the specific geographic area(s) in which you have served;

(3)(c) A description of local government support for the project (including financial assistance, donation of land, provision of services, etc.);

(3)(d) Letters of support for your organization and for the proposed project from organizations familiar with the housing and supportive services needs of the elderly that you expect to serve in the proposed project;

(3)(e) A description of your housing and/or supportive services experience. The description should include any rental housing projects and/or supportive services facilities that you have sponsored, owned, and/or operated; your past or current involvement in any programs other than housing that demonstrates your management capabilities (including financial management) and experience; your experience in serving the elderly, including elderly persons with disabilities, and/or families and minorities; and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(3)(f) A description of your efforts to involve elderly persons, including minority elderly persons, in the development of the application, as well as your intent to involve elderly persons in the development and operation of the project.

(3)(g) A description of the steps you took to coordinate your application with other organizations, that will not be directly involved in your project but with which you share common goals and objectives, to complement and/or support the proposed project so that the project will provide a comprehensive and holistic solution to the needs of the elderly. Also, describe the steps you will take, if funded, to share information on solutions and outcomes relative to the development of the proposed project.

(3)(h) A description of your involvement in the community's planning process (e.g., the Consolidated Planning process, including the Analysis of Impediments to Fair Housing Choice), including:

(3)(h)(i) An identification of the lead/facilitating agency that organizes/administers the process;

(3)(h)(ii) An identification of the areas of the community's planning process in which you participate;

(3)(h)(iii) Your level of participation in the process, including active involvement with any neighborhood-based organizations, associations, or any committees that support programs and activities that enhance projects or the lives of residents of the projects, such as the one proposed in your application.

If you are not currently active, describe the specific steps you will take to become active in the community's planning process. If adopting the Consolidated Plan community process, consult the local HUD Office for the identification of the appropriate area.

(3)(i) A description of the practical solutions you will implement which will enable the residents of your project to achieve independent living. In addition, describe the educational opportunities you will provide for the residents and how you will provide them. This description should include any activities that will enhance the quality of life for the residents. And, finally, describe how your proposed project will be an improved living environment for the residents when compared to their previous place of residence.

(3)(j) Describe how you will ensure that your proposed project will remain viable as housing with the availability of supportive services for very low-income elderly persons for the 40-year capital advance period. This description should address the measures you would take should any of the following occur: (i) funding for any of the needed supportive services becomes depleted, or (ii) if, for any state-funded services for your project, the state changes its policy regarding the provision of supportive services to projects such as the one you propose, or (iii) if the need for housing for the elderly wanes over time, causing vacancies in your project.

(4) Project information, including the following:

(4)(a) Evidence of need for supportive housing. Such evidence would include a description of the category or categories of elderly persons the housing is intended to serve and evidence demonstrating sustained effective demand for supportive housing for that population in the market area to be served, taking into consideration the occupancy and vacancy conditions in existing Federally assisted housing for the elderly (HUD and RHS; e.g., public housing); State or local data on the limitations in activities of daily living among the elderly in the area; aging in place in existing assisted rentals; trends in demographic changes in elderly population and households; the numbers of income eligible elderly households by size, tenure, and housing condition; the types of supportive services arrangements currently available in the area; and the use of such services as evidenced by data from local social service agencies or agencies on aging. Also, a description of how information in the community's Analysis of Impediments to Fair Housing Choice was used in documenting the need for the project.

(4)(b) A description of how the proposed project will benefit the target population and the community in which it will be located.

(4)(c) A description of the project, including the following:

(4)(c)(i) A narrative description of the building design, including a description of the number of units with bedroom distributions, any special design features, amenities, and/or community space, and how this design will facilitate the delivery of services in an economical fashion and accommodate the changing needs of the residents over the next 10-20 years.

Note: If these community spaces, amenities, or features would not comply with the project design and cost standards of 24 CFR 891.120 and the special project standards of 24 CFR 891.210, you must state your ability and willingness to contribute both the incremental development cost and continuing operating cost associated with the community spaces, amenities, or features;

(4)(c)(ii) A description of whether and how the project will promote energy efficiency, and, if applicable, innovative construction or rehabilitation methods or technologies to be used that will promote efficient construction.

(4)(c)(iii) If applicable, a description of any plans and the actions you have taken to create a mixed-finance/mixed-use project by developing additional units (i.e., in addition to the Section 202 units) with the use of Section 202 capital advance funds in combination with other funding sources. Specify the number of Section 202 units and the number of additional units from non-Section 202 funding sources. Provide copies of any letters you have sent seeking outside funding for the non-Section 202 units and any responses thereto. You also must demonstrate your ability to proceed with the development of a Section 202 project that will not involve mixed-financing or a mixed-use purpose, as proposed in your application, in the event you are later unable to obtain the necessary outside funding or HUD disapproves your proposal for mixed-financing or a mixed-use.

Note: Approval of the Section 202 capital advance will not necessarily be approval of the mixed-finance/mixed-use proposal. If approved for a reservation of capital advance funds, you will be required to submit, after reservation of capital advance funds, a detailed proposal outlining how you will fund both development and operation of the additional units in accordance with HUD instructions that will be issued later. Based on the strength of your organization and HUD's prior experience with your projects, as well as your outline of your intentions, at the time of making the fund reservation, HUD will determine whether you will be permitted to submit a mixed-finance/mixed-use proposal at a later time. Only those Sponsors that indicate in their application for a fund reservation an intention to propose additional units will be eligible to submit, at a later time, a mixed-finance/mixed-use proposal for additional units. (A mixed-finance/mixed-use project, as used here, does not include the development of Section 202 units using secondary/supplemental financing or the development of a mixed-use project in which the Section 202 units are mortgaged separately from the other uses of the structure).

(4)(c)(iv) Describe your plan for completing the proposed project within the initial 18-month term of the fund reservation (optional).

(4)(d) Evidence that the Sponsor has site control and permissive zoning, including the following:

(4)(d)(i) Acceptable evidence of site control is limited to any one of the following:

(A) Deed or long-term leasehold which evidences that you have title to or a leasehold interest in the site. If a leasehold, the term of the lease must be at least 75 years;

(B) Contract of sale for the site which is free of any limitations affecting ability to deliver ownership to you after you receive and accept a notice of Section 202 capital advance. The only condition for closing on the sale can be your receipt and acceptance of the capital advance. The contract of sale cannot require closing on a date earlier than the Section 202 closing.

(C) Option to purchase or for a long-term leasehold which must remain in effect for six months from the date on which the applications are due, and must state a firm price binding on the seller. The only condition on which the option may be terminated is if you are not awarded a fund reservation. The option must be renewable at the end of the six months option period.

(D) Where the proposed site is subject to a mortgage under a HUD program (e.g., an earlier 202 or an FHA insured mortgage), you must submit evidence that consent to release of the site from that mortgage has been obtained or has been requested from HUD and from the mortgagee, if other than HUD.

(E) For sites to be acquired from a public body, evidence is needed that the public body possesses clear title to the site and has entered into a legally binding agreement to lease or convey the site to you after you receive and accept a notice of Section 202 capital advance. Where HUD determines that time constraints of the funding round will not permit all of the required official actions (e.g., approval of Community Planning Boards) that are necessary to convey publicly-owned sites, a letter in the application from the mayor or director of the appropriate local agency indicating that conveyance or leasing of the site is acceptable without imposition of additional covenants or restrictions and only contingent on the necessary approval action. Such a letter commitment will be considered sufficient evidence of site control.

Note: For this funding cycle, New York City-owned sites that are designated as community gardens and are involved in litigation will not meet site control requirements due to litigation involving those sites.

(4)(d)(ii) Whether you have title to the site, a contract of sale, an option to purchase, or are acquiring the site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of such covenants or restrictions must be submitted with the application. If the site is subject to any such limitations, restrictions, or reverters, the application will be rejected. Purchase money mortgages that will be satisfied from capital advance funds are not considered to be limitations or restrictions that would adversely affect the use of the site. If the contract of sale or the option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the section 202 project or from any other development team member.

(4)(d)(iii) Evidence that the project as proposed is permissible under applicable zoning ordinances or regulations, or a statement of the proposed action required to make the proposed project permissible and the basis for your belief that the proposed action will be completed successfully before the submission of the firm commitment application (e.g., a summary of the results of any requests for rezoning and/or the procedures for obtaining special or conditional use permits on land in similar zoning classifications and the time required for such rezoning, or preliminary indications of acceptability from zoning bodies, etc.).

(4)(d)(iv) A narrative topographical and demographic description of the suitability of the site and area, and how the site will promote greater housing opportunities for minority elderly persons, thereby affirmatively furthering fair housing.

Note: You can best demonstrate your commitment to affirmatively furthering fair housing by describing how your proposed activities will assist the jurisdiction in overcoming impediments to fair housing choice identified in the applicable jurisdiction's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(4)(d)(v) A map showing the location of the site, the racial composition of the neighborhood, and any areas of racial concentration. For this competition, applicants should use the racial and ethnic data categories stated in the Appendix section of the October 30, 1997, Office of Management and Budget Federal Register Notice (62 FR 58782-90), (www.whitehouse.gov/omb/fedreg/ombdir15.html) and data from the 1990 Census of Population when determining the racial and ethnic composition of the neighborhood surrounding the proposed site. Data from the 1990 Census of Population may be found at www.factfinder.census.gov/servlet/BasicFactsServlet.

(4)(d)(vi) A Phase I Environmental Site Assessment (ESA), in accordance with the American Society for Testing and Material (ASTM) Standards E 1527-97, as amended. The Phase I ESA must be completed and submitted with the application. In order for the Phase I ESA to be acceptable, it must have been completed, or updated, no earlier than six months prior to application deadline date. Therefore, it is important that you start the Phase I ESA process as soon after publication of this SuperNOFA as possible.

If the Phase I ESA indicates the possible presence of contamination and/or hazards, you must decide whether to continue with this site or choose another site. Should you choose another site, the same Phase I ESA process identified above must be followed for the new site. NOTE: You are not limited to acquiring properties from the FDIC. However, if the property is to be acquired from the FDIC, include a copy of the FDIC prepared Transaction Screen Checklist or Phase I ESA, and applicable documentation, per the FDIC/RTC Environmental Guidelines.

If you choose to continue with the original site on which the Phase I ESA indicated contamination or hazards, you must undertake a detailed Phase II Environmental Site Assessment (ESA) by an appropriate professional. If the Phase II ESA reveals site contamination, the extent of the contamination and a plan for clean-up of the site must be submitted to the local HUD office. The plan for clean-up must include a contract for remediation of the problem(s) and an approval letter from the applicable Federal, State, and/or local agency with jurisdiction over the site. In order for the application to be considered for review under this FY 2002 funding competition, you must submit this information to the local HUD office on or before July 5, 2002.

Note: This could be an expensive undertaking. You must pay for the cost of any clean-up and/or remediation.

(4)(d)(vii) A letter from the State Historic Preservation Officer (SHPO) indicating whether the proposed site has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and,

(C) A copy of the SHPO's response, if available.

(4)(e) Provision of supportive services in the proposed facility:

(4)(e)(i) A detailed description of the supportive services proposed to be provided to the anticipated occupancy;

(4)(e)(ii) A description of public or private sources of assistance that reasonably could be expected to fund the proposed services;

(4)(e)(iii) The manner in which such services will be provided to such persons (i.e., on or off-site), including whether a service coordinator will facilitate the adequate provision of such services, and how the services will meet the identified needs of the residents.

Note: You may not require residents, as a condition of occupancy, to accept any supportive service.

(5) A list of the applications, if any, that you have submitted or are planning to submit to any other HUD office in response to this announcement of Section 202 Program funding availability or the announcement of Section 811 Program (Supportive Housing for Persons with Disabilities) funding availability, published elsewhere in this SuperNOFA. Indicate by HUD office, the proposed location by city and State, and the number of units requested for each application. Include a list of all FY 2001 and prior year projects to which you are a party. Identify each by project number and HUD Office and include the following information: (a) Whether the project has initially closed and, if so, when; (b) if the project was older than 36 months when it initially closed or is older than 36 months now and has not initially closed, provide the reasons for the delay in closing; (c) whether amendment money was or will be needed for any project in (b) above; and (d) those projects which have not been finally closed.

(6) A statement that:

(6)(a) Identifies all persons (families, individuals, businesses, and nonprofit organizations), by race/minority group, and status as owners or tenants, occupying the property on the date of submission of the application for a capital advance;

(6)(b) Indicates the estimated cost of relocation payments and other services;

(6)(c) Identifies the staff organization that will carry out the relocation activities; and

(6)(d) Identifies all persons who have moved from the site within the past 12 months.

Note: If any of the relocation costs will be funded from sources other than the section 202 capital advance, you must provide evidence of a firm commitment of these funds. When evaluating applications, HUD will consider the total cost of proposals (i.e., cost of site acquisition, relocation, construction, and other project costs).

(7) Certifications and Resolutions. In addition to the certifications and assurances listed in the General Section of this SuperNOFA with the exception of SF-424A, SF-424B, SF-424C, SF-424D, HUD-424M and the OMB Circulars which are not required, you are required to submit signed copies of the following:

(7)(a) Standard Form 424. Application for Federal Assistance, indication of whether you are delinquent on any Federal debt, and compliance with Executive Order 12372 (a certification that you have submitted a copy of your application , if required, to the State agency (Single Point of Contact) for state review in accordance with Executive Order 12372). (See instructions for submitting this form in the Consolidated Application Submission section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510). A certification attesting to the eligibility of your principals.

(7)(f) Certification of Consistency with the Consolidated Plan (Plan), Form HUD-2991, for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(g) A certified Board Resolution that no officer or director of the Sponsor or Owner has or will have any financial interest in any contract with the Owner or in any firm or corporation that has or will have a contract with the Owner, including a current listing of all duly qualified and sitting officers and directors by title, and the beginning and ending dates of each person's term.

(7)(h) A certified Board Resolution, acknowledging the responsibilities of sponsorship, long-term support of the project(s), your willingness to assist the Owner to develop, own, manage, and provide appropriate services in connection with the proposed project, and that it reflects the will of your membership. Also, the resolution shall indicate your willingness to fund the estimated start-up expenses, the Minimum Capital Investment (one-half of one-percent of the HUD-approved capital advance, not to exceed $10,000, if nonaffiliated with a National Sponsor; one-half of one-percent of the HUD-approved capital advance, not to exceed $25,000, for all other Sponsors;), and the estimated cost of any amenities or features (and operating costs related thereto) that would not be covered by the approved capital advance.

(7)(i) Certification of Consistency with the EZ/EC Strategic Plan, HUD-2990). A certification that the project is consistent with the EZ/EC strategic plan, is located within the EZ/EC, and serves EZ/EC residents. (This certification is not required if the project site(s) will not be located in an EZ/EC.)

VII. Corrections to Deficient Applications

The General Section of the SuperNOFA provides the procedures for corrections to deficient applications.

VIII. Formation of Owner Corporation for Development of Section 202 Projects and for Section 202 Projects Involving Mixed-Financing or a Mixed-Use Purpose.

Applicant eligibility for purposes of applying for a Section 202 fund reservation under this NOFA has not changed; i.e., all Section 202 Sponsors and Co-Sponsors must be private nonprofit organizations and nonprofit consumer cooperatives. However, the Owner corporation, when later formed by the Sponsor, may be (1) a single-purpose private nonprofit organization that has tax-exempt status under Section 501(c)(3) or Section 501(c)(4) of the Internal Revenue Code of 1986, (2) nonprofit consumer cooperative, OR (3) for purposes of developing a mixed-finance/mixed-use project for developing additional units over and above the Section 202 units, a for-profit limited partnership with a nonprofit entity as the sole general partner.

IX. Authority

The Section 202 Supportive Housing for the Elderly Program is authorized by section 202 of the Housing Act of 1959 (12 U.S.C. 1701q), as amended by section 801 of the Cranston-Gonzalez National Affordable Housing Act (Pub.L. 101-625; approved November 28, 1990); the Housing and Community Development Act of 1992 (Pub.L. 102-550; approved October 28, 1992), the Rescissions Act (Pub.L. 104-19; enacted on July 27, 1995); the American Homeownership and Economic Opportunity Act of 2000 (Pub. L. 106-569; approved December 27, 2000); and the Fiscal Year 2002 HUD Appropriations Act (Pub. L. 107-73, approved November 26, 2001).

Appendix A

Addresses for Submitting Applications

Please see Appendix A to the Section 811 Program Section of this SuperNOFA. Submit your completed application (an original and four copies) to the Director of the appropriate Multifamily Hub Office or Multifamily Program Center as listed in Appendix A to the Section 811 program section of this SuperNOFA. See Section I., Address for Submitting Applications, of this program NOFA, for the exceptions regarding where to file your application.

Appendix B

The non-standard forms, which follow, are required for your Section 202 Program application.

BILLING CODE 4210-32-P

FUNDING AVAILABILITY FOR THE ASSISTED LIVING CONVERSION PROGRAM (ALCP) FOR ELIGIBLE MULTIFAMILY HOUSING PROJECTS

PROGRAM OVERVIEW

Purpose of the Program. The purpose of this program is to provide grants for the conversion of some or all of the dwelling units in an eligible project into assisted living facilities (ALFs) for frail elderly persons.

Available Funds. Approximately $93 million are available for the conversion of eligible multifamily projects to ALFs ($50 million under the Fiscal Year 2002 Appropriations Act and $43 million in Fiscal Year 2001 carryover funds).

Eligible Applicants. Only private nonprofit project owners of eligible developments (as described in Section III of this NOFA) may apply for and become the recipient of a grant.

Application Due Dates. July 3, 2002.

Match. None required.

ADDITIONAL INFORMATION

I. Application Due Date, Application Kits, and Technical Assistance

Application Due Date. Your completed application (one original and four copies) is due on July 3, 2002, at the address shown below.

Application Submission Procedures. New Security Procedures. HUD has implemented new security procedures that impact application submission procedures. See the General Section of the SuperNOFA for specific procedures governing the form of application submission (e.g., mailed applications, express mail, or overnight delivery.) Only ALCP applications mailed by the United States Postal Service (USPS) will be accepted by HUD.

Addresses for Submitting Applications. The official place for receipt of your application is ONLY in the appropriate Multifamily Hub Office. Submit an original and four copies of the ALCP application to the Director of the appropriate HUD Multifamily Hub Office, as listed in Appendix A of this NOFA, with jurisdiction over your development.

Appendix B to this NOFA lists the 18 Multifamily Hubs with the Program Centers under them, to facilitate applicants knowing the correct location to send the application. Your application will be considered timely filed if your application is postmarked on or before 12:00 midnight on the application due date and received by the designated HUD Office on or within fifteen (15) days of the application due date. All applicants must obtain and save a Certificate of Mailing showing the date, when you submit your application to the USPS. The Certificate of Mailing will be your documentary evidence that your application was timely filed.

For Application Kits, Further Information, and Technical Assistance.

For Application Kits. You may obtain an ALCP application kit and supplemental information by calling the SuperNOFA Information Center at (voice) 1-800-HUD-8929 (1-800-483-8929). Persons with hearing or speech impairment may call the Center's TTY number at 1-800-HUD-2209. Please be sure to provide your name, address (including zip code), and telephone number (including area code). The application kit is also available on the Internet through the HUD web site at http://www.hud.gov/grants.

Note: There is a separate application kit for service coordinator funds (which is necessary for those needing to enhance or add service coordination per Section III (B)(13) of this NOFA).

For Further Information and Technical Assistance. You should contact the Multifamily Hub where you will be mailing your ALCP Application. (Please refer to Hub telephone numbers in Appendix A.)

You also may contact Faye Norman, Housing Project Manager at (202) 708-3000 x2482 or Aretha Williams, Director, Grant Policy and Management Division, Room 6138 at (202) 708-3000 x2480 for questions regarding the ALF process. This is not a toll free number. Ms. Williams can be reached, by e-mail, at “aretha_m._williams@hud.gov” and Ms. Norman at “faye_l._norman@hud.gov. Both Ms. Williams and Ms. Norman are located at the Department of Housing and Urban Development, 451 Seventh Street, SW., Washington, DC 20410.

If you have a hearing or speech impairment, you may access the telephone number via TTY by calling the Federal Information Relay Service at 1-800-877-8339.

II. Amount Allocated

This NOFA makes available approximately $93 million (approximately $78 million for the physical conversion of eligible multifamily assisted housing projects or portions of projects to ALFs and approximately $15 million for the conversion of up to 3 unused or underutilized commercial properties to ALFs). The Fiscal Year (FY) 2002 funding of $50 million is in the Departments of Veterans Affairs and Housing and Urban Development, and Independent Agencies Appropriations Act Pub.L.107-73, approved November 26, 2002). The $93 million includes $43 million in Fiscal Year 2001 carryover funds. The allocation formula used for the ALCP to fair share the $78,000,000 reflects demographic characteristics of age and incidence of frailty that would be expected for program participants. The FY 2002 formula consists of three data elements from the 1990 decennial census:

(1) The number of non-institutional elderly population aged 75 years or older with a self-care limitation,

(2) The number of non-institutional elderly population aged 75 or older with a mobility limitation, and,

(3) The number of the non-institutional elderly population aged 75 or older with both a mobility limitation and a self-care limitation. The data were taken from the 1990 Census Special Tabulation on Aging, STP-14, sponsored by the Administration on Aging, U.S. Department of Health and Human Services.

A mobility limitation is defined as a health condition that has lasted for six (6) or more months, making it difficult for the person to go outside the home alone. This includes outside activities such as shopping or visiting the doctor's office. A self-care limitation is defined as a health care limitation that has lasted for six (6) months or more which makes it difficult for the person to take care of his/her own personal needs such as dressing, bathing, or getting around in the home.

A fair share factor for each state was developed by taking the sum of the three elements within each state as a percentage of the sum of the three elements for the total United States. The resulting percentage for each state was then adjusted to reflect the relative difference in the cost of providing housing among the states. The total of the grant funds available ($78 million) was multiplied by the adjusted fair share percentage for each state, and the resulting funds for each state were totaled for each Hub.

The ALCP grant funds fair share allocations, based on the formula above, to the 18 multifamily Hubs are as shown on the following chart:

Fiscal Year Allocation 2002 for the Assisted Living Conversion Program (ALCP) of Eligible Assisted Multifamily Projects
HUB | Grant authority
Boston | 4,726,439
Buffalo | 2,091,360
New York | 4,497,621
Philadelphia | 8,527,962
Baltimore | 3,183,601
Greensboro | 3,276,631
Atlanta | 5,712,662
Jacksonville | 6,746,209
Chicago | 5,957,418
Columbus | 3,345,185
Detroit | 2,733,470
Minneapolis | 2,843,015
Fort Worth | 5,972,447
Kansas Coty | 4,841,730
Denver | 1,728,217
Los Angeles | 4,574,289
San Francisco | 4,649,855
Seattle | 2,591,889
Total | 78,000,000

III. Program Description; Eligible and Ineligible Applicants, Developments, and Activities

(A) Program Description. Assisted living facilities (ALFs) are designed to accommodate frail elderly persons and people with disabilities who need certain support services (e.g., assistance with eating, bathing, grooming, dressing and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205. Assisted living is defined in section 232(b)(6) of the National Housing Act (12 U.S.C. 1715w).

The ALCP provides funding for the physical costs of converting some or all of the units of an eligible multifamily development into an ALF, including the unit configuration, common and services space and any necessary remodeling, consistent with HUD or the State's statute/regulations (whichever is more stringent). Typical funding will cover basic physical conversion of existing project units, common and services space. There must be sufficient community space to accommodate a central kitchen or dining facility, lounges, recreation and other multiple-areas available to all residents of the project, or office/staff spaces in the ALF. When food is prepared at an off-site location, the preparation area of the facility must be of sufficient size to allow for the installation of a full kitchen, if necessary. You must provide supportive services for the residents either directly or through a third party. Your application must include a firm commitment for the supportive services to be offered within the ALF as part of the application. You may charge assisted living residents for meals and/or service fees. Residents may contract with third party agencies directly for nursing, therapy or other services not offered by the ALF.

(B) Program Requirements. The following program requirements apply: (Note: Program Requirements described in paragraphs 3, (8)(a) and (b), and (12) below are not applicable to applicants requesting funding to convert commercial facilities):

(1) Your ALF facility must be licensed and regulated by the state (or if there is no state law providing such licensing and regulation, by the municipality or other subdivision in which the facility is located). Each assisted living unit must include its own kitchen, bathroom, living/dining area (1 bedroom unit) or bedroom/living/dining area (efficiency unit) and must meet the state and/or local licensing, building, zoning and other requirements for an ALF.

(2) Your ALF must be available to qualified elderly persons and persons with disabilities, consistent with the rules and payment plans of the State, who need and want the supportive services in order to remain independent and avoid premature institutionalization.

(3) Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement which shall be an addendum to the applicable project lease.

(4) At a minimum, your ALF must provide room, board (as defined in Section III(B)(6)) of this NOFA) and continuous protective oversight (CPO). CPO involves a range of activities and services that may include such things as awareness by management and staff of the occupant's condition and location as well as an ability to intervene in a crisis for dependent and relatively independent occupants on a 24-hour basis. The two occupant groups in an ALF are:

(a) Independent Occupants: Awareness by management and staff of the occupant's condition and whereabouts as well as the availability of assistance for the occupants as needed.

(b) Dependent occupants: Supervision of nutrition, assistance with medication and continuous responsibility for the occupants' welfare.

(5) Anyone moving into an ALF unit must agree to accept as a condition of occupancy the board and services required for the purpose of complying with state and local law and regulation. However, occupancy in an ALF unit may not be conditioned on receipt of other services or board not required by state or local requirements.

(6) Your ALF must offer three meals per day to each resident.

(a) Residents in projects which were originally constructed without kitchens in their units must take such meals as required by their mandatory meals agreement, or by the state's mandated requirements if more stringent (e.g., 2 meals, 2 snacks daily).

(b) Residents whose apartments have kitchens must take at least the number of meals a day provided by the facility, per their mandatory meals requirement, or as required by state or local rules, if more stringent. If the facility does not have a mandatory meals plan, then state and local rules govern.

In either case, ALF management must coordinate meals requirements with the needs of residents who are out part of the day (e.g., in day care). The meals program may not be operated at a profit by the project owner.

(7) Your ALF's operation must be part of the project owner's management organization. Some or all of its functions may be contracted out. The ALF must predicate its budget on a two-tiered structure under which board and supportive service income and expenses must be maintained separately and independently from the regular income and expenses of the applicable project. The two components of ALF costs are:

(a) Charges/payment for board, which may be on a sliding scale or any other equitable fee system; and

(b) Charges/payment for necessary supportive services, which may include a combination of resident fees, Medicaid and/or other third party payments.

(8) Priority admissions for ALF units are as follows:

(a) Current residents desiring an ALF unit and meeting the program requirements (no resident can be required to accept an ALF unit).

(b) Qualified individuals or families needing ALF services who are already on the project's waiting list;

(c) Qualified individuals or families in the community needing ALF services wanting to be added to the project's waiting list; and

Note: Qualified disabled non-elderly persons needing assisted living services are eligible to occupy these units on the same basis as elderly persons, except for section 202 project rental assistance contracts (PRAC) projects and unused/underutilized commercial properties.

(9) The management of the project must set up a separate waiting list for ALF units. ALF units must be for eligible residents who meet the admissions/discharge requirements as established for assisted living by State and local licensing, or HUD frailty requirements under 24 CFR 891.205 if more stringent.

(10) Costs of meals and supportive services are NOT covered by this HUD grant. These items must be paid for through other sources (e.g., a mix of resident fees and/or third party providers). Evidence of third party commitment(s) must be included as part of the application. (See Section IV(B) of this NOFA.) The assisted living supportive services program must promote independence and provide personal care assistance based on individual needs in a home-like environment (see Section VI(B)(8)(b) through (c) of this NOFA).

(11) Upon receipt of a grant under this program, all project owners participating in the ALCP must provide a Declaration of Restrictive Covenants (DRC), which will be recorded with the land, to retain the low income character of the housing, and to maintain the project (including the ALF), as a moderate, low, or very low income facility (as appropriate) for at least 20 years beyond the current 40-to-50 year term of the mortgage loan or capital advance. Recipients of grant funds to convert unused or underutilized commercial property must provide a DRC for at least 20 years or for the term of the mortgage on the property whichever is longer.

(12) This program does NOT allow permanent displacement of any resident living in the project at the time the application was submitted to HUD. (HUD will only provide temporary relocation costs for current tenants if they must vacate their unit while conversion work is underway (normal temporary relocation costs include increases in rent, reconnection of telephones, moving costs and appropriate out-of-pocket expenses)).

(13) The ALCP requires service coordination responsible for linking the ALF to services in the community which are available to low income persons. All projects funded under this NOFA must have sufficient service coordination in place, or request additional funds if appropriate, to ensure that services meeting licensing requirements are available to ALF residents on an ongoing basis. Service coordination must be described in the application (see Section VI(B)(8)(b) through (c) of this NOFA). If you need to enhance an existing service coordination program or add one where it does not exist, you may apply for funding through the Service Coordinator NOFA, published elsewhere in this SuperNOFA, and attach a copy of the Form HUD 424M so indicating the request to the ALCP application. Alternatively, you may show evidence that funding for the enhanced service coordination is provided by other sources and indicate such funding on the HUD Form 424M which is exhibit 10(c) of your ALF application. If you are funded under this NOFA and requested new or enhanced service coordination you will be funded first under the service coordinator NOFA.

Note: If you are a Section 202 PRAC project owner or an owner with unused or underutilized commercial properties, you are NOT eligible to request funding under the service coordinator NOFA. Section 202 PRAC owners can pay for the service coordinator out of PRAC funds.

In addition to above requirements, the following applicable guidelines are stated:

(a) The ALF must be staffed either directly or through coordination with local agencies, depending on state regulations or local requirements. These may also serve non-ALF residents of the project on a time available and appropriate fee basis.

(b) The ALF may cater to the special needs of residents depending on their condition or diagnosis, such as Alzheimer's disease. If it does so, the design/environment of such facilities must accommodate those needs, e.g., dementia special care unit. However, the ALF CANNOT provide a service it is not licensed by the State or locality to provide.

Note 1: Owners of section 202/PRAC projects are reminded that they may include a PRAC payment of up to $15/unit/month not to exceed 15% of the total program cost, consistent with 24 CFR 891.225(b)(2) to cover part of the cost of meals and/or supportive services for frail elderly residents, including residents of the ALF.

Note 2: Training for ALF staff is an eligible project cost under existing operating procedures.

For further information on ALFs, please refer to Handbook 4600.1, CHG-1, “Mortgage Insurance for Residential Care Facilities,” Chapter 13. This Handbook and recent ALF program Notices are accessible through HUDCLIPS on HUD's web site. The URL for the HUDCLIPS Database Selection Screen is http://www.hudclips.org/subscriber/cgi/legis.cgi. These notices are in the Handbooks and Notices—Housing Notices database. Enter only the number without the letter prefix (e.g., 99-16) in the “Document number” to retrieve the program notice.

For further guidance on service coordinators, please refer to Handbook 4381.5 REV-2, CHANGE-2, Chapter 8, “The Management Agent's Handbook,” which is also available through the HUDCLIPS database.

(C) Eligible Applicants. Only private nonprofit owners of eligible multifamily assisted housing developments specified in section 683(2) (B), (C), (D), (E), and (F) of the Housing and Community Development Act of 1992 (Pub. L. 102-550, approved October 28, 1992) and private nonprofit owners of an unused or underutilized commercial property are eligible for funding. To be eligible, project owners must meet the following criteria where applicable:

(1) Must be in compliance with your Loan Agreement, Capital Advance Agreement, Regulatory Agreement, Housing Assistance Payment contract, Project Rental Assistance Contract, Rent Supplement or LMSA contract, or any other HUD grant or contract document.

(2) Must be in compliance with all fair housing and civil rights laws, statutes, regulations, and executive orders as enumerated in 24 CFR 5.105(a). See Section V(B) of this NOFA for further explanation.

Note: If your eligibility status changes during the course of the grant term, making it ineligible to receive the grant (e.g., prepayment of mortgage, sale/TPA of property, or opting out of a Section 8 Housing Assistance Payment (HAP) contract), HUD retains the right to terminate the grant and recover funds made available through this NOFA.

(D) Eligible Developments.

(1) Section 202 projects, Section 202 projects receiving rental assistance under Section 8, and Section 202 projects receiving project rental assistance under Section 202(C)(2). Rural housing projects assisted under Section 515 of the Housing Act of 1949 receiving Section 8 rental assistance are also included. Projects receiving project-based rental assistance under Section 8, among others, housing constructed, substantially rehabilitated or receiving moderate rehabilitation assistance under Section 8. Also included are housing financed by a below-market interest rate loan or mortgage insured under Section 221(d)(3) of the National Housing Act; and housing with financing insured, assisted or held by HUD or a State or State Agency under Section 236 of the National Housing Act. The housing projects must be owned by a private nonprofit entity that is designated primarily for occupancy by elderly persons. The project must have been in occupancy for at least five years from the date the HUD-92485 Form Permission to Occupy Project Mortgages was issued and final closing must have been completed. Your project must:

(a) Meet HUD's Uniform Physical Conditions Standards at 24 CFR part 5, subpart G. Meeting these standards as described, means that the project, based on the most recent Real Estate Assessment Center (REAC) physical inspection report and responses thereto, must have a “satisfactory” rating as evidenced by a score of 60 or better or a HUD-approved and on schedule repair plan for developments scoring less than 60. Additionally, the project must have no uncorrected and outstanding Exigent Health and Safety violations. Finally, the project must not have on file a management review with a rating of “minimally satisfactory” or “unsatisfactory” with open and unresolved findings.

(b) Have a residual receipts account separate from the Reserve for Replacement account, or agree to establish this account as a condition for getting the award(s).

(2) Unused and underutilized commercial properties.

(E) Ineligible Applicants.

(1) Owners of developments designed specifically for people with disabilities.

(2) Owners of Section 232 developments.

(3) Property management companies and agents of property management companies.

(4) Limited dividend partnerships.

(5) Nonprofit Public Agencies.

(6) Owners of unused/underutilized hospitals or other health-related facility which are considered to be eleemosynary institutions rather than commercial enterprises.

(F) Eligible Conversion Activities. Eligible activities are:

(1) Retrofitting to meet Section 504 accessibility requirements, minimum property standards for accessibility and/or building codes and health and safety standards for ALFs in that jurisdiction. Examples are items such as addition of:

(a) Sprinkler systems;

(b) An elevator or upgrades thereto;

(c) Lighting upgrades;

(d) Major physical or mechanical systems of projects necessary to meet local code or assisted living requirements;

(e) Upgrading to accessible units for the ALF with movable cabinetry, accessible appliances, sinks, bathroom and kitchen fixtures, closets, hardware and grab bars, widening of doors, etc.;

(f) Upgrades to safety and emergency alert systems;

(g) Addition of hallway railings; and,

(h) Medication storage and work stations;

(2) Retrofitting to add, modify and/or outfit common space, office or related space for ALF staff including a service coordinator and file security, and/or a central kitchen/dining facility to support the ALF function (e.g., outfit lounge/common space/dining furniture, kitchen equipment for cooking/serving and dishware).

(3) Retrofitting to upgrade a regular unit to an accessible unit for a person/family with disabilities who is being displaced from an accessible unit in the portion of the project that is being converted to the ALF, where another accessible unit is not available.

(4) Temporary relocation (not applicable to commercial property).

(5) Consultant, architectural and legal fees.

(6) Vacancy payments not more than 30 days after conversion to an ALF.

(G) Ineligible Activities. You may not use funds available through this NOFA to:

(1) Add additional dwelling units to the existing project (not applicable to commercial property);

(2) Pay the costs of any of the necessary direct supportive services needed to operate the ALF;

(3) Purchase or lease additional land;

(4) Rehabilitate (see definition at 24 CFR 891.105) the project for needs unrelated directly to the conversion of units and common space for assisted living;

(5) Use the ALCP to reduce the number of accessible units in the project that are not part of the ALF (not applicable to commercial property);

(6) Permanently relocate any resident out of the project; and,

(7) Increase the management fee.

IV. Program Requirements

Each applicant must comply with the following requirements:

(A) Statutory, Regulatory, and Other Program Requirements. You must comply with all applicable statutory requirements to the projects specified in Section 202(b) and statutory requirements under Section 232(b)(6). Please note that all ALCP projects must conform to the 500-year flood plain limitation (See Section VII of this NOFA.) Construction of ALCP units is considered a “critical action” for purposes of the flood plain requirement.

Excess Residual Receipts (over $500/unit) and Reserve for Replacement (R4R) funds (over $1000/unit) in Project Accounts that are not approved for another use at the time of application to HUD under this NOFA are considered available funds and must be applied towards the cost of conversion activities. Before making this determination, however, HUD staff will consider the extent of repair/replacement needs indicated in the most recent REAC physical inspection and not yet approved and any ongoing commitments such as non-grant-based service coordinator or other funding, where existing, deduct the estimated costs of such items from the R4R and residual receipts balances to determine the extent of available residual receipts and R4R funds for the ALCP. (This paragraph is not applicable to commercial properties.)

If funded, you must also file a HUD Form-2530 for all construction contractors, architects, consultants, and service provider organizations under direct contract with you that will be engaged under this NOFA and comply with all State and local licensing, zoning and building code requirements.

(B) Meals and Supportive Services. You must develop and submit a Supportive Services Plan (SSP) for the services and coordination of the supportive services which will be offered in the ALF to the appropriate state or local organization(s) which are expected to fund those supportive services. (See Section VI(B)(8) of this NOFA below, for the information which must be in the SSP.) You must submit one copy of your SSP to each appropriate State or local service funding organizations well in advance of the application deadline, for appropriate review. The State or local funding organization(s) must return the SSP to you with appropriate comments and indication of funding commitment, which you will then include with the application you submit to HUD.

You must ALSO submit the SSP to the appropriate organization(s) which license ALFs in your jurisdiction. The licensing agency(ies) must approve your plan, and must also certify that the ALF and the proposed supportive services identified in your SSP, are consistent with local statute and regulations and well designed to serve the needs of the frail elderly and people with disabilities who will reside in the ALF portion of your project.

Finally, you must also submit an agreement to pursue appropriate ALF licensing in a timely manner.

(C) Minimum Size Limits for an ALF. An ALF must be economically feasible. Consistent with HUD Handbook 4600.1, CHG-1, the minimum size for an ALF is five units.

(D) Economic Opportunities for Low and Very Low Income Persons (Section 3). You must comply with section 3 of the Housing and Urban Development Act of 1968, 12 U.S.C. 1701u (Economic Opportunities for Low and Very Low Income Persons), and its implementing regulations at 24 CFR part 135. You must ensure that training, employment and other economic opportunities shall, to the greatest extent feasible, be directed toward low and very low income persons, particularly those who are recipients of government assistance for housing and to business concerns which provide economic opportunities to low and very low income persons and including people with disabilities.

(E) Compliance with Fair Housing and Civil Rights Laws. If you, the applicant (a) have been charged with a systemic violation of the Fair Housing Act by the Secretary alleging ongoing discrimination; (b) are the defendant in a Fair Housing Act lawsuit filed by the Department of Justice alleging an ongoing pattern or practice of discrimination; or (c) have received a letter of noncompliance findings under Title VI of the Civil Rights Act of 1964, section 504 of the Rehabilitation Act of 1973, or section 109 of the Housing and Community Development Act of 1974, your application will not be evaluated under this NOFA if, the charge, lawsuit, or letter of findings has not been resolved to the satisfaction of the Department before the application deadline, HUD's decision regarding whether a charge, lawsuit, or a letter of findings has been satisfactorily resolved will be based upon whether appropriate actions have been taken to address allegations of ongoing discrimination in the policies or practices involved in the charge, lawsuit, or letter of findings.

(F) Additional Nondiscrimination Requirements. As you will be converting some of your project to an ALF, you should note that 24 CFR 891.120(b) requires you to meet all accessibility requirements. Additionally, you must comply with the section 504 regulations at 24 CFR part 8, the Americans with Disabilities Act and the regulations at 28 CFR part 36, as applicable.

(G) Executive Order 12372. Information regarding this requirement may be found in the General Section of the SuperNOFA.

(H) Conducting Business in Accordance with HUD Core Values and Ethical Standards. Owners are required to develop and maintain a written code of conduct in accordance with 24 CFR 84.42. Consistent with regulations governing specific programs, your code of conduct must prohibit real and apparent conflicts of interest that may arise among employees, officers or agents; prohibit the solicitation and acceptance of gifts or gratuities by your officers, employees and agents for their personal benefit in excess of minimal value, and outline administrative and disciplinary actions available to remedy violations of such standards. If awarded assistance, you will be required, prior to entering into a grant agreement with HUD, to submit a copy of your code of conduct and describe the methods you will use to ensure that all officers, employees and agents of your organization are aware of your code of conduct. You will also be required to sign the Conflict of Interest Resolution and include it in your application see Exhibit (10)(i).

(I) Ensuring the Participation of Small Businesses, Small Disadvantaged Business, and Women-Owned Business. Information regarding this provision may be found in the General Section of the SuperNOFA. Upon acceptance of grant funds under the ALCP, Grantees must comply with the requirements pursuant to Executive Orders 11625 and 12432 (concerning Minority Business Enterprises) and Executive Order 12138 (concerning Women's Business Enterprise).

(J) Compliance with Other Program Requirements: By the submission of the application for grant funds, the Owner is certifying to comply with the following program requirements:

(1) Establish a residual receipt account as soon as there is surplus cash available, if applicable.

(2) Apply for an ALF license with due diligence and in a timely fashion.

(3) Comply with the requirements of the Fair Housing Act, Title VI of the Civil Rights Act, the Age Discrimination Act of 1975, Section 3 of the Housing and Urban Development Act of 1968 (12 U.S.C. 1701u) and the implementing regulations at 24 CFR part 135, the affirmative fair housing marketing requirements of 24 CFR part 200, subpart M and the implementing regulations at 24 CFR part 108, and other applicable Federal, State and local laws prohibiting discrimination and promoting equal opportunity including affirmatively furthering fair housing, and other certifications listed in the application.

(4) Comply with section 232 of the National Housing Act, as applicable, the Uniform Federal Accessibility Standards (24 CFR 40.7), section 504 of the Rehabilitation Act of 1973 and HUD's implementing regulations at 24 CFR part 8, and the design and construction requirements of the Fair Housing Act and HUD's implementing regulations at 24 CFR part 100, and the Americans with Disabilities Act of 1990 for all portions of the development physically affected by this proposal;

(5) Comply with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant in which the total cost of the physical conversion to an ALF (and including any additional renovation work undertaken at the same time) is $500,000 or more (this includes ALCP grant funds, owner funds, or any third party funds loaned or granted in support of the conversion or other renovation for the project associated with this grant), AND in which the ALF portion of the project is 12 units or more.

V. Application Selection Process

(A) Review for Curable Deficiencies. You should ensure that your application is complete before submitting it to HUD.

HUD will screen all applications received by the deadline for curable deficiencies. With respect to correction of deficient applications, HUD may not, after the application due date and consistent with HUD's regulations in 24 CFR part 4, subpart B, consider any unsolicited information an applicant may want to provide. HUD may contact an applicant to clarify an item in the application or to correct technical deficiencies. Please note, however, that HUD may not seek clarification of items or responses that improve the substantive quality of a response to any selection factors. In order not to unreasonably exclude applications from being rated and ranked, HUD may contact applicants to ensure proper completion of the application and will do so on a uniform basis for all applicants. Examples of curable (correctable) technical deficiencies include failure to submit the proper certifications or failure to submit an application that contains an original signature by an authorized official. In each case, under this NOFA, the appropriate HUD Multifamily Hub Office will notify you in writing by describing the clarification or technical deficiency. You must submit clarifications or corrections of technical deficiencies in accordance with the information provided by the Hub Office within 14 calendar days of the date of receipt of the HUD notification. (If the due date falls on a Saturday, Sunday, or Federal holiday, your correction must be received by HUD on the next day that is not a Saturday, Sunday, or Federal holiday.) If the deficiency is not corrected within this time period, HUD will reject the application as incomplete, and it will not be considered for funding. The following is a list of the deficiencies that will be considered curable in ALCP applications:

Exhibits

(1) *(a) Articles of Incorporation, or certification of Articles of Incorporation.

*(b) By-laws, or certification of by-laws.

(3) Evidence of occupancy for at least five years (not applicable to commercial facilities).

(5) (c) Original project plans.

(h) Relocation (not applicable to commercial property).

(7) Evidence of Permissive Zoning.

(8) (g) Support Letters from Governmental Agencies that License ALFs.

(10) Certifications, Forms and Resolution

(a) Standard Form 424, Application for Federal Assistance and Compliance with Executive Order 12372.

(b) Standard Form 424D, Assurances Construction Programs.

(c) Form HUD 424M, Federal Assistance Funding Matrix.

(d) Form HUD-50070, Drug-free Workplace.

(e) Form HUD-50071, Payments to Influence Federal Transactions and Standard Form-LLL, Disclosure of Lobbying Activities.

(f) Form HUD 2880, Applicant/Recipient Disclosure/Update Report including Social Security and Employment Identification numbers.

(g) Form HUD-2992, Certification Regarding Debarment and Suspension.

(h) Form HUD-2991, Certification of Consistency with the Consolidated Plan (Plan), for the Jurisdiction in which the Proposed ALF will be located.

(i) Conflict of Interest Resolution.

The appropriate Hub Office will notify you in writing if your application is missing any of the exhibits listed above and you will be given 14 days from the date of receipt of the HUD notification to submit the information required to cure the noted deficiencies. The exhibits identified by an asterisk (*) must be dated on or before the application deadline date. If not so dated the application will be rejected.

After the completeness review, HUD staff will review your application to determine whether the application meets the threshold requirements listed below. Only if your application meets all the threshold requirements is it eligible to be rated and ranked. Applications that do not pass threshold will be rejected.

(B) Threshold Review. In order to pass threshold, you must:

(1) Be in compliance with all fair housing and civil rights laws, statutes, regulations, and executive orders as enumerated in 24 CFR 5.105(a), and as noted earlier in this NOFA under Sections III(B)(2) and IV(E).

(2) Be an eligible applicant.

(3) Not request more funds than advertised.

(4) Additionally, HUD will also reject your application if the SSP and/or commitment and support letter(s) from the appropriate funding organizations and the appropriate licensing agency(ies):

(i) Are not submitted with your application;

(ii) Indicate that the ALF units, facilities, meals and supportive services to be provided are not designed to meet the special needs of the residents who will reside in the ALF as defined in this NOFA,

(iii) Do not show commitment for funding the meals and supportive services proposed; or

(iv) Indicate that the project as proposed will not meet the licensing requirements of the appropriate State/local agency(ies).

(C) Review Panels

The Office of Housing's Multifamily Hubs will establish panels to review all eligible applications that have passed threshold. The panels may include knowledgeable persons not currently employed by HUD.

(D) Rating of Applications (See paragraph below for selection of applications for commercial properties).

HUD staff teams will review and rate ALCP applications in accordance with the Ranking and Selection procedures (see Section V(F) of this NOFA below). All applications will be either rated or technically rejected at the end of technical review. If your application meets all program eligibility requirements after completion of technical review, it will be rated according to the rating selection factors in Section V(G) of this NOFA. HUD reserves the right to reduce the amount requested in the application if any proposed components are ineligible or if the cost of items is not deemed reasonable. HUD will NOT reject an ALCP application based on technical review without notifying you of that rejection with all the reasons for the rejection, and providing you an opportunity to appeal. As discussed above, you will have 14 calendar days from the date of HUD's written notice to appeal a technical rejection to the Multifamily Hub where the applications were sent originally. HUD staff will make a determination on an appeal before finalizing selection recommendations.

(E) Applicant Debriefing. Beginning not less than 30 days after the awards for assistance are announced in the above-mentioned Federal Register notice, and for not longer than 120 days after awards for assistance are announced, HUD will provide a debriefing to any applicant requesting a debriefing on their application. All requests for debriefing must be made in writing and submitted to the local Hub in which you applied for assistance. Materials provided to you during your debriefing will include the final scores you received for each rating factor, final evaluator comments for each rating factor, and the final assessment indicating the basis upon which assistance was provided or denied.

(F) Ranking and Selection Procedures. (Paragraphs (F)(1)—(4) are not applicable to applicants of commercial properties.)

Applications submitted in response to this NOFA that are eligible, pass threshold and have a total score of 70 points (or more) are eligible for ranking and selection. (Applications for the conversion of commercial properties with a score of at least 70 points will not be ranked but will be submitted to HUD Headquarters for selection.)

(1) Hub staff teams will be established for ALCP review in each Hub to do the application ratings (see Section V(D) above). See list of Hubs in Appendix A of this NOFA.

(2) From within rank order, Hub staff teams in each of the 18 Hubs will select the highest ranked applications from within that Hub in order, that can be funded from within the dollars available. Each Hub will select applications based on rank order up to and including the last application that can be funded out of each Hub's allocation. Hubs must not skip over any applications in order to select one based on the funds remaining.

(3) After making the initial selections, however, Hubs may use any residual funds to select the next rank-ordered application by reducing the dollars requested by no more than 10 percent (10%) and reducing the number of units proposed, but in no case reducing the number of units below the financial threshold feasibility of five ALF units.

(4) Funds remaining after these processes are completed will be returned to HUD Headquarters. HUD will use these funds to restore units to any project reduced as a result of using the residual grant funds in a Hub. Secondly, HUD will use these funds for selecting one or more additional applications based on the Hubs rating and rankings, beginning with the highest rated application within the 18 Hubs. Only one application will be selected per Hub from the national residual amount. If there are no approvable applications in other Hubs, the process will begin again with the selection of the next highest rated application within the remaining Hubs. This process will continue until all approvable applications are selected using the available remaining funds. If there is a tie score between two or more applications, and there are insufficient residual funds to cover all tied applications, HUD Headquarters staff will choose the winning application(s) by lottery and/or reduction of grant requests consistent with the instructions above.

(5) Up to 3 applications will be selected using the $15 million set-aside to provide grant funds to nonprofit applicants proposing to convert unused or underutilized commercial property into assisted living. HUD Multifamily Hubs will review applications for commercial properties for completeness and compliance with the eligibility criteria set forth in Section III of this NOFA. Hub staff will forward applications to Headquarters providing the application was received by the deadline date, meets all eligibility criteria, proposes reasonable costs for eligible activities, and includes all technical corrections by the designated deadline date. Headquarters will select no more than 3 applications on a first-come, first-served basis that can be funded within the $15,000,000 available.

Note: Only applications that can be fully funded will be selected. If an application that cannot be fully funded is selected, it will be discarded and another application selected until an applicant is selected that is within the available remaining funds. Any remaining funds after this selection process will be returned to the funds allocated for eligible multifamily assisted projects.

(G) Factors For Award Used To Evaluate and Rate Applications.

HUD will rate ALCP applications that successfully complete technical processing using the Rating Factors set forth below and in accordance with the application submission requirements identified in Section VI(B) of this NOFA, below. The maximum number of points an application may receive under this program is 100.

(1) The Department encourages applicants to either partner, fund or sub-contract with grassroots organizations, particularly faith-based and other community-based organizations in conducting their work programs. (See the General Section of the SuperNOFA for the definition of “grassroots organizations”).

Rating Factor 1: Capacity of the Applicant and Relevant Organizational Staff (20 Points)

This factor addresses your capacity to carry out the conversion in a timely, cost-conscious and effective manner. It also reviews your experience with the supportive services which the ALF intends to provide to elderly residents, especially in such areas as meals, 24-hour staffing and on-site health care. Submit information responding to this factor in accordance with Application Submission Requirements in Sections VI(B)(5)(a), (8)(h), and (2)(d) of this NOFA.

In rating this factor, HUD will consider the extent to which your application demonstrates your ability to carry out a successful conversion of the project and to implement the plan to deliver the supportive services on a-long term basis, considering the following:

(1) (9 points) The practicality of your plan and timetable to carry out the physical conversion of the development to the ALF.

(2) (10 points) Your past experience in providing or arranging for supportive services either on or off site for those who are frail. (If you are applying to convert an unused or underutilized commercial facility to assisted living and you do not own or operate a project with frail elderly residents, you must provide information on any past experience in providing or arranging supportive services for those who are frail.) Examples are: Meals delivered to apartment of resident or in a congregate setting (2 points), arranging for or providing personal care (3 points), providing 24-hour staffing (1 point), providing or making available on-site preventive health care (2 points) and other support services (2 points).

(3) (1 point) Your organization is a “grassroots” organization as defined in the General Section of the SuperNOFA.

Rating Factor 2: Need/Extent of the Problem (20 Points)

This factor addresses the extent to which the conversion is needed by the categories of elderly persons and persons with disabilities that the ALF is intended to serve (very low income elderly persons and people with disabilities who have limitations in three or more activities of daily living). The application must provide evidence of current needs among project residents (not applicable to applications proposing to convert unused or underutilized commercial facilities) and needs of potential residents in the housing market area for such persons including economic and demographic information on very-low income frail elderly and people with disabilities and information on current assisted living resources in the market area.

The factor also addresses your inability to fund the repairs or conversion activities from existing financial resources. In making this determination, HUD will consider project financial information or the organization's financial information for unused or underutilized commercial facilities. Submit information responding to this factor in accordance with Application Submission Requirements in Section VI(B)(4)(a) through (d), (2)(c) and (9)(a) through (c) of the NOFA. In evaluating this factor, HUD will consider:

(1) (7 points) The need for assisted living among the elderly and disabled residents of the project taking into consideration those currently in need and the depth of future needs given aging in place. (Not applicable to applications to convert unused or underutilized commercial facilities to assisted living.)

(2) (3 points (10 points for applications to convert unused or underutilized commercial facilities to assisted living.)) The need for assisted living among very-low income elderly persons and people with disabilities in the housing market area.

(3) (9 points) Insufficient funding for any needed conversion work, as evidenced by the project's financial statements and specifically the lack of excess reserve for replacement dollars (R4R) and residual receipts. If the available R4R and residual receipts are less than 10% of the total funds needed−9 points; if the available R4R and residual receipts are 10−50% of need = 5 points; and, if the available R4R and residual receipts are 51% or more of the total funds of needed = 0 points). For commercial properties, if the available working capital exceeds 10 percent of the total conversion = 5 points; if the working capital is less than 10 percent of the total conversion = 9 points.

(4) (1 point) The Department will provide one (1) point to those applications which establish a connection between the proposed ALF and the community's Analysis of Impediments to Fair Housing Choice (AI) or other planning document that analyzes fair housing issues and is prepared by a local planning or similar organization.

Rating Factor 3: Soundness of Approach (40 Points).

This factor addresses the quality and effectiveness of your proposal in addressing the proposed conversion, effectiveness of service coordination and management planning and the meals and supportive services which the ALF intends to provide. There must be a relationship between the proposed activities, the project's and the community's needs and purposes of the program funding for your application to receive points for this factor. Submit information responding to this factor in accordance with Application Submission Requirements in Sections VI(B)(5)(b) through (e) and (h) and (7) and (B)(8))(a) through (e) and (g) and (h) of this NOFA.

In evaluating this factor, HUD will consider the following:

(1) (12 points) The extent to which the proposed ALF design will meet the special physical needs of frail elderly persons or persons with disabilities expected to be served at reasonable cost (consider the ALF design: meets needs = 12 points; ALF design partially meets needs = 6 points; and ALF design does not meet needs = 0 points).

(2) (12 points) The extent to which the ALF's proposed management and operational plan ensures that the provision of both meals and supportive services planned will be accomplished over time. (Consider ALF design/management plan: meets needs of management operations = 12 points; ALF design/management plan partially meets needs of management operations = 6 points; and ALF design/management plan does not meet needs of management operations = 0 points.)

(3) (7 points) The extent to which the proposed supportive services meet the anticipated needs of the frail elderly and disabled residents (consider Yes = 7 points; partially meets needs = 4 points; and, does not meet needs = 0 points); and

(4) (7 points) The extent to which the service coordination function is addressed and explained as onsite and sufficient, onsite and augmented or new, and addresses the ongoing procurement of needed services for the residents of the ALF (does meet = 7 points, partially meets = 4 points, does not meet = 0 points).

(5) (2 point) The extent to which there is an operating philosophy which promotes the autonomy and independence of the frail elderly persons it is intended to serve (is fully addressed = 2 points, no or not addressed = 0 points).

Rating Factor 4: Leveraging Resources (10 Points)

This factor addresses your ability to secure other community resources which can be combined with HUD's grant funds to achieve program purposes. For the ALCP to succeed, you MUST generate local funding for the necessary supportive services to operate the ALF. HUD also encourages local funding for some of the necessary conversion work, or other work needed in the project (e.g., general modernization) which is NOT specifically linked to the ALF).

Submit information responding to this factor in accordance with Application Submission Requirements in Section VI(B)(5)(f), (g), and (B)(8)(f) of this NOFA.

(1) (5 points) The extent to which there are commitments for the funding needed for the meals and the supportive services planned for the ALF and that the total cost of the estimated budget of the ALF is covered. Consider 90% or more commitment for the total budget with no more than 10% general support = 5 points; 80-89.9% or more commitment for the total budget with no more than 20% general support = 4 points; 65-79.9% firm commitment with no more than 35% general support = 3 points; 40-64.9% firm commitment for the total budget with no more than 60% general commitment = 2 points; less than 40% firm commitment for the total budget with no more than 60% general support = 0 points.

(2) (3 points) The extent of local organizations' support which is firmly committed to providing at least 50 percent of the total cost of ALF conversion (consider 50% or more = 3 points, 20-49.9% = 2 points, and under 20% = 0 points).

(3) (2 points) The extent of local organizational support which is firmly committed to providing funds for additional repair or retrofit necessary for the project NOT specifically directed to activities eligible under this NOFA (consider yes = 2 points, no = 0 points).

Rating Factor 5: Coordination, Self-sufficiency and Sustainability (10 Points)

This factor addresses the extent to which you have evidenced general support for conversion by participating in your community's Consolidated Planning Process, involving the residents in the planning process (not applicable to applications proposing to convert unused or underutilized commercial facilities); the extent to which you have coordinated your activities with other known organizations that are not directly participating in your proposed work activities and are working toward addressing the need in a holistic and comprehensive manner through linkages with other activities in the community; the extent to which your project will implement practical solutions that will result in assisting residents in achieving independent living and the extent to which the project will be viable absent HUD funds but rely more on state, local and private funds. Submit information responding to this factor in accordance with Application Submission Requirements in Section VI(B)(2)(a) through (d), (B)(8)(a)-(e) of this NOFA.

(1) (4 points) The extent to which you have coordinated your activities with other known organizations that are not directly participating in your proposed work activities, but share common goals and objectives and are working together to meet objectives; the involvement of project residents (including minority residents) or their representatives, in the development of the ALCP application, and your intent to involve residents, in the development and operation of the project and in relocation planning (Minus two (−2) points if not addressed); (If you are applying to convert an unused or underutilized commercial facility to assisted living, provide information on the involvement of elderly persons in the development of the ALCP application, and your intent to involve residents, in the development and operation of the project.)

(2) (2 points) The extent to which you demonstrated that you have been actively involved (or if not currently active, the steps you will take to become actively involved) in your community's Consolidated Planning/AI processes to identify and address a need/problem that is related in whole or part, directly or indirectly to the proposed project;

(3) (2 points) The extent to which your assisted living facility will implement practical solutions that will result in assisting residents in achieving independent living and improved living environment.

(4) (2 points) The extent to which you demonstrate that the project will be viable absent HUD funds while relying more on state, local and private funds.

VI. Application Submission Requirements

(A) Application—General. Your application must include all of the information, materials, forms, and exhibits listed in Section VI(B). In cases where your (i) articles of incorporation and (ii) by-laws have NOT changed since the project was originally approved by HUD, self-certification to that effect—that the documents on file with HUD are current—is sufficient. Items in Section VI(B) for which self-certification of currency is possible are denoted by a “**”.

In addition to the relief of paperwork burden in preparing applications, you will not have to submit certain new/recent information and exhibits you have previously prepared. See individual item descriptions, below to identify such items. An example of such an item may be the FY 2001 Annual Financial Statement.

(B) General Application Requirements.

(1) Application Summary for the Assisted Living Conversion Program and Evidence that you are a private non-profit organization or nonprofit consumer cooperative and have the legal ability to operate an ALF program, per the following:

(a) Articles of Incorporation, constitution, or other organizational documents, or self-certification of these documents, if there has been no change in the Articles since they were originally filed with HUD;** and

(b) By-laws, (for non-profits) or self-certification of by-laws, if there has been no change in the by-laws since they were originally filed with HUD.**

(2) A description of your community ties and established linkages:

(a) A description of your links to the community at large and to the minority and elderly communities in particular; and

(b) A description of your efforts to involve elderly persons, including minority elderly persons and persons with disabilities in:

(i) The development of the application;

(ii) The development of the ALF operating philosophy;

(iii) Review of the application prior to submission to HUD; and

(iv) Your intent to involve elderly persons in the operation of the project or not.

Also, demonstrate that you made the application available to the residents of the project (in their language(s)) AND requested and considered comments from them (in their language(s)). Applicants of converted commercial facilities should indicate that the application will be made available to the residents of the project in their language(s) and will request and consider comments from them in their language(s).

(c) A description of your involvement in your community's Consolidated Planning and Analysis of Impediments to Fair Housing (AI) processes including:

(i) An identification of the lead/facilitating agency(ies) that organizes/administers the processes;

(ii) A listing of the Consolidated Plan/AI issue areas in which you participate; and

(iii) The level of your participation in the processes, including active involvement with any neighborhood-based organizations, associations, or any committees that support programs and activities that enhance projects or the lives of residents of the projects, such as the one proposed in your application.

If you are not currently active, describe the specific steps you will take to become active in the Consolidated Planning and AI processes. (Consult the local HUD Office for the identification of the Consolidated Plan community process for the appropriate area.)

(d) A description of how the assisted living facility will implement practical solutions that will result in assisting residents in achieving independent living and improved living environment.

(3) Evidence of your project being in occupancy for at least five years as of the date of application to HUD. (Not applicable to commercial facilities.)

(4) A market analysis of the need for the proposed ALF units, including information from both the project and the housing market, containing:

(a) Evidence of need for the ALF by current project residents: (Not applicable to commercial facilities.)

(i) A description of the demographic characteristics of the elderly residents currently living in the project, including the current number of residents, distribution of residents by age and sex, an estimate of the number of residents with frailties/limitations in activities of daily living and an estimate of the number of residents in need of assisted living services. (Not applicable to commercial facilities.)

(ii) A description of the services which are currently available to the residents and/or provided on or off-site and what services are lacking; (Not applicable to commercial facilities.)

(b) Evidence of the need for ALF units by very low income elderly and disabled households in the market area; a description of the trend in elderly and disabled population and household change; data on the demographic characteristics of the very low income elderly in need of assisted living services (age, race, sex, household size and tenure) and extent of residents with frailty/limitations in existing federally-assisted housing for the elderly (HUD and Rural Housing Service); and an estimate of the very low income elderly and disabled in need of assisted living taking into consideration any available State or local data.

(c) A description of the extent, types and availability and cost of alternate care and services locally, such as: Home health care, adult day care, housekeeping services, meals programs, visiting nurses, on-call transportation services, health care and providers of supportive services who address the needs of the local low income population.

(d) A description of how information in the community's Analysis of Impediments to Fair Housing Choice was used in documenting the need for the ALF (covering items in Section VI(B)(4)(a) and (b) of this NOFA).

(5) A description of the physical ALF conversion, including the following:

(a) How you propose to carry out the physical conversion (including a timetable and relocation planning).

(b) A short narrative stating the number of units, special design features, community and office space/storage, dining and kitchen facility and staff space and the physical relationship to the rest of the project. Also, you must describe how this design will facilitate the delivery of services in an economical fashion and accommodate the changing needs of the residents over at least the next 10 years.

(c) A copy of the original plans for all units and other areas of the development which will be included in the conversion. (If you are applying to convert an unused or underutilized commercial facility to assisted living, provide a copy of the original plans of the facility).

(d) A description of the conversion must clearly address the following accessibility issues: All door openings must have a minimum clear opening of 32 inches; and, all bathrooms and kitchens must be accessible to and functional for persons in wheelchairs, according to the “Uniform Federal Accessibility Standards.”

(e) Architectural sketches of the conversion to a scale of ¼ inch to one foot that indicate the following:

(i) All doors being widened;

(ii) Typical kitchen and bathroom reconfiguration: Show all wheelchair clearances, wall reinforcing, grab bars and elevations of counters and work surfaces;

(iii) Bedroom/living/dining area modification, if needed;

(iv) Any reconfigured common space;

(v) Added/reconfigured office and storage space;

(vi) Monitoring stations, and

(vii) The kitchen and dining facility.

All architectural modifications must meet section 504 and ADA requirements as appropriate.

(f) A budget showing at least estimated costs for materials, supplies, fixtures and labor for each of the items listed in Section VI(B)(5)(e), items i through vii, above.

(g) Include firm commitment letters with specific dollar amounts from appropriate organization(s) for conversion needs (within the scope of the ALF conversion NOFA) which will be supported by non-HUD funding.

(h) A description of any relocation of current tenants including a statement that: (Not applicable to commercial property applicants.)

(i) Indicates the estimated cost of temporary relocation payments and other related services;

(ii) Identifies the staff organization that will carry out the relocation activities; and

(iii) Identifies all tenants that will have to be temporarily moved to another unit within the development OR from the development during the period that the physical conversion of the project is under way.

Note: If any of the relocation costs will be funded from sources other than the ALCP grant, you must provide evidence of a firm commitment of these funds. When evaluating applications, HUD will consider the total cost of proposals (i.e., cost of conversion, temporary relocation, service coordinator and other project costs).

(6) A description of any retrofit or renovation which will be done at the project (with third party funds) that is separate and distinct from the ALF conversion. With such description, attach firm commitment letters from third party organizations in specific dollar amounts which will cover the cost of any work outside the scope of this NOFA.

(7) Evidence of permissive zoning, showing that the modifications to include the ALF into the project as proposed are permissible under applicable zoning ordinances or regulations, or a statement of the proposed action required to make the proposed project permissible and the basis for your belief that the proposed action will be completed successfully within six months of the date of grant award by HUD (e.g., a summary of the results of any requests for rezoning and/or the procedures for obtaining special or conditional use permits on land in similar zoning classifications and the time required for such rezoning, or preliminary indications of acceptability from zoning bodies, etc.);

(8) A supportive services plan (SSP), a copy of which must be submitted to the appropriate state and/or local agency as instructed in Section IV(B) of this NOFA. For those applicants needing to contact state Medicaid offices, a list is provided on the Internet at “www.hcfa.gov/medicaid/medicaid.htm.” The SSP must include:

(a) A description of the supportive services needed for the frail elderly the ALF is expected to serve. This must include at least (i) meals and such other supportive services required locally or by the State, and (ii) such optional services or care to be offered on an “as needed” basis.

Examples of both mandatory and optional services (which will vary from state to state) are: Two meals and two snacks or three meals daily; 24-hour protective oversight; personal care; housekeeping services; personal counseling and transportation.

(b) A description of how you will provide the supportive services to those who are frail and have disabilities (i.e., on or off-site or combination of on or off-site), including an explanation of how the service coordination role will facilitate the adequate provision of such services to ALF residents, and how the services will meet the identified needs of the residents. Also indicate how you intend to fund the service coordinator role.

(c) A description of how the operation of your ALF will work. Address: (i) General operating procedures; (ii) ALF philosophy and how it will promote the autonomy and independence of the frail elderly and persons with disabilities; (iii) what will the service coordination function will do and the extent to which this function already exists, or will be augmented or new; (iv) ALF staff training plans; and (v) the degree to which and how the ALF will relate to the day-to-day operations of the rest of the project.

(d) The monthly individual rate for board and supportive services for the ALF listing the total fee and components of the total fee for the items required by state or local licensing AND list the appropriate rate for any optional services you plan to offer to the ALF residents. Provide an estimate of the total annual costs of the required board and supportive services you expect to provide and an estimate of the amount of optional services you expect to provide.

(e) List who will pay for the board and supportive services (e.g., $__ for meals by sponsor, $__ for housekeeping services by city government; $__ for personal care by State Department of Health; $__ for __ by state __ program; $__ in fees by tenants; and, $__ by __).

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

(f) A support/commitment letter from EACH listed proposed funding source per paragraph (e), above, for the planned meals and supportive services listed in the application. The letter must cover the total planned annual commitment (and multiyear amount total, if different), length of time for the commitment, and the amounts payable for each service covered by the provider/paying organization. There must be a letter from EACH participating organization listed in Section VI(B)(8)(e) of this NOFA, above.

(g) A support letter from EACH governmental agency which provides licensing for ALFs in that jurisdiction.

(h) A description of your relevant experience in arranging for and/or delivering supportive services to frail residents. (If you are applying to convert an unused or underutilized commercial facility to assisted living, provide information on your relevant experience in arranging for and/or delivering supportive services to frail elderly persons). The description should include any supportive services facilities owned/operated; your past or current involvement in any project-based programs that demonstrates your management capabilities. The description should include data on the facilities and specific meals and/or supportive services provided on a regular basis, the racial/ethnic composition of the populations served, if available, and information and testimonials from residents or community leaders on the quality of the services.

Note: If a funds request for service coordination for the ALF and/or the whole project is included as part of this application, the Form HUD-424M, indicating the dollars requested must be attached as Exhibit 10(c). Do NOT attach the whole service coordinator application.

(9) A description of your project's resources: (Items (9)(a)-(b) are not applicable to applicants of commercial property.)

(a) A copy of the most recent project Repair and Replacement (R4R) account statement, and an R4R analysis showing plans for its use over the next five years, and any approvals received from the HUD field office to date.

(b) A copy of the most recent Residual Receipts Account statement. Indicate any approvals for the use of such receipts from the field office for over $500/unit.

(c) Annual Financial Statement (AFS). If your FY 2002 AFS was due to REAC more than 120 days BEFORE the due date for this application, in the interest of reducing work burden, only include the date that it was sent to REAC. If the AFS was due to REAC 120 days or less from the due date of this application, you MUST include a paper copy. For commercial properties, the most recent financial statement or annual report.

(10) Forms, Certifications and Resolutions. The following exhibits, forms, certifications and assurances are required:

(a) Standard Form 424, Application for Federal Assistance and indication of whether you are delinquent on any federal debt and compliance with Executive Order 12372 (a certification that you have submitted a copy of your application, if required, to the State agency (Single Point of Contact) for State review in accordance with Executive Order 12372 (see the General Section of the SuperNOFA for instructions in submitting this form).

(b) Standard Form 424D, Assurances, Construction Programs.

(c) Form HUD 424M, Federal Assistance Funding Matrix.

(d) Form HUD-50070, Drug-free Workplace. Certification to provide a drug-free workplace.

(e) Form HUD-50071, Payments to Influence Federal Transactions and Standard Form-LLL, Disclosure of Lobbying Activities. Certification of whether any of the funds received will be used to influence any federal transactions and disclosure of these activities, if applicable.

(f) Form-HUD 2880, Applicant/Recipient Disclosure/Update Report, including Social Security and Employment Identification numbers. A disclosure of assistance from other government sources received in connection with the project.

(g) Certification Regarding Debarment and Suspension (HUD-2992) (24 CFR 24.510).

(h) Form HUD-2991, Certification of Consistency with the Consolidated Plan (Plan), for the jurisdiction in which the proposed ALF will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the plan to HUD. The certifications must be submitted as part of the application by the application submission deadline date set forth herein. The Plan regulations are published in 24 CFR part 91.

(i) A certified Board Resolution that no officer or director of the Owner has or will have any financial interest in any contract with the Owner or in any firm or corporation that has or will have a contract with the Owner, including a current listing of all duly qualified and sitting officers and directors by title, and the beginning and ending dates of each person's term.

VII. Environmental Requirements

Your ALCP application is subject to the National Environmental Policy Act of 1969 and applicable related Federal environmental authorities. (See 24 CFR part 50, as applicable.) An environmental review will be completed by HUD before the award of any grant under this program. Pursuant to 24 CFR part 55, ALCP projects are critical actions for purposes of floodplain management review.

VIII. Authority

The Assisted Living Conversion Program is authorized by Section 202(b) of the Housing Act of 1959 (12 U.S.C. 1701q-2) and the Fiscal Year 2002 Departments of Veterans Affairs and Housing and Urban Development, and Independent Agencies Appropriations Act.

Appendix A.—HUD Field Office List for Mailing Assisted Living Conversion Program Applications

HUD—Boston Hub

Boston Office, Room 301, Thomas P. O'Neill, Jr., Federal Building, 10 Causeway Street, Boston, MA 02222-1092, (617) 565-5234, TTY Number: (617) 565-5453.

HUD—New York Hub

New York Office, 26 Federal Plaza—32nd Floor, New York, NY 10278-0068, (212) 264-8000, TTY Number: (212) 264-0927

HUD—Buffalo Hub

Buffalo Office, Fifth Floor, Lafayette Court, 465 Main Street, Buffalo, NY 14203-1780, (716) 551-5755, TTY Number: (716) 551-5787

HUD—Philadelphia Hub

Philadelphia Office, The Wanamaker Building, 100 Penn Square East, Philadelphia, PA 19107-3380, (215) 656-0600, TTY Number: (215) 656-3452

HUD—Baltimore Hub

Baltimore Office, Fifth Floor, City Crescent Building, 10 South Howard Street, Baltimore, MD 21201-2505, (410) 962-2520, TTY Number: (410) 962-0106

HUD—Greensboro Hub

Greensboro Office, Koger Building, 2306 West Meadowview Road, Greensboro, NC 27407-3707, (336) 547-4000, TTY Number: (336) 547-4055

HUD—Atlanta Hub

Atlanta Office, 40 Marietta Street—Five Points Plaza, Atlanta, GA 30303-2806, (404) 331-5001, TTY Number: (404) 730-2654

HUD—Jacksonville Hub

Jacksonville Office, Suite 2200, Southern Bell Tower, 301 West Bay Street, Jacksonville, FL 32202-5121, (904) 232-2626, TTY Number: (904) 232-2631

HUD—Chicago Hub

Chicago Office, Ralph H. Metcalfe Federal Building, 77 West Jackson Boulevard, Chicago, IL 60604-3507, (312) 353-5680, TTY Number: (312) 353-5944

HUD—Detroit Hub

Detroit Office, Patrick V. McNamara Federal Building, 477 Michigan Avenue—17th Floor, Detroit, MI 48226-2592, (313) 226-7900, TTY Number: (313) 226-6899

HUD—Columbus Hub

Columbus Office, 200 North High Street, 7th Floor, Columbus, OH 43215-2499, (614) 469-5737, TTY Number: (614) 469-6694

HUD—Minneapolis Hub

Minneapolis Office, 220 Second Street, South, Minneapolis, MN 55401-2195, (612) 370-3000, TTY Number: (612) 370-3186

HUD—Ft. Worth Hub

Ft. Worth Office, 801 N. Cherry Street, P.O. Box 2905, Fort Worth, TX 76113-2905, (817) 978-9000, TTY Number: (817) 978-9273

HUD—Kansas City Hub

Kansas City Office, Room 200, Gateway Tower II, 400 State Avenue, Kansas City, KS 66101-2406, (913) 551-5462, TTY Number: (913) 551-6972

HUD—Denver Hub

Denver Office, 633 17th Street, Denver, CO 80202-3607, (303) 672-5440, TTY Number: (303) 672-5248

HUD—San Francisco Hub

San Francisco Office, Philip Burton Federal Building and U.S. Courthouse, 450 Golden Gate Avenue, P.O. Box 36003, San Francisco, CA 94102-3448, (415) 436-6550, TTY Number: (415) 436-6594

HUD—Los Angeles Hub

Los Angeles Office, 611 West 6th Street, Suite 800, Los Angeles, CA 90017-3106, (213) 894-8000, TTY Number: (213) 894-8133

HUD—Seattle Hub

Seattle Office, Seattle Federal Office Building, 909 1st Avenue, Suite 200, Seattle, WA 98104-1000, (206) 220-5101, TTY Number: (206) 220-5185

Note: The first line of the mailing address for all offices is the U. S. Department of Housing and Urban Development. Telephone numbers listed are not toll free.

Appendix B

HUD—Boston Hub

Hartford Office, One Corporate Center, 19th Floor, Hartford, CT 06103-3220, (860) 240-4800, TTY Number: (860) 240-4665

Boston Office, Room 375, Thomas P. O'Neill, Jr., Federal Building, 10 Causeway Street, Boston, MA 02222-1092, (617) 565-5234, TTY Number: (617) 565-5453

Manchester Office, Norris Cotton Federal Building, 275 Chestnut Street, Manchester, NH 03101-2487, (603) 666-7681, TTY Number: (603) 666-7518

Providence Office, Sixth Floor, 10 Weybosset Street, Providence, RI 02903-2808, (401) 528-5230, TTY Number: (401) 528-5403

HUD—New York Hub

New York Office, 26 Federal Plaza, New York, NY 10278-0068, (212) 264-8000, TTY Number: (212) 264-0927

HUD—Buffalo Hub

Buffalo Office, Fifth Floor, Lafayette Court, 465 Main Street, Buffalo, NY 14203-1780, (716) 551-5755, TTY Number: (716) 551-5787

HUD—Philadelphia Hub

Philadelphia Office, The Wanamaker Building, 100 Penn Square East, Philadelphia, PA 19107-3380, (215) 656-0600, TTY Number: (215) 656-3452

Charleston Office, Suite 708, 405 Capitol Street, Charleston, WV 25301-1795, (304) 347-7000, TTY Number: (304) 347-5332

Newark Office, Thirteenth Floor, One Newark Center, Newark, NJ 07102-5260, (973) 622-7900, TTY Number: (973) 645-3298

Pittsburgh Office, 339 Sixth Avenue, Sixth Floor, Pittsburgh, PA 15222-2515, (412) 644-6428, TTY Number: (412) 644-5747

HUD—Baltimore Hub

Baltimore Office, Fifth Floor, City Crescent Building, 10 South Howard Street, Baltimore, MD 21201-2505, (410) 962-2520, TTY Number: (410) 962-0106

Washington, DC Office, 820 First Street, NE, Suite 300, Washington, D.C. 20002-4205, (202) 275-9200, TTY Number: (202) 275-0772

Richmond Office, The 3600 Centre, 3600 West Broad Street, Richmond, VA 23230-4920, (804) 278-4500, TTY Number: (804) 278-4501

HUD—Greensboro Hub

Greensboro Office, Koger Building, 2306 West Meadowview Road, Greensboro, NC 27407-3707, (336) 547-4000, TTY Number: (336) 547-4055

Columbia Office, Strom Thurmond Federal Building, 1835-45 Assembly Street, Columbia, SC 29201-2480, (803) 765-5592, TTY Number: (803) 253-3071

HUD—Atlanta Hub

Atlanta Office, Richard B. Russell Federal Building, 75 Spring Street, S.W., Suite 600, 40 Marietta Street—Five Points Plaza, Atlanta, GA 30303-3388 2806, (404) 331-5136 5001, TTY Number: (404) 730-2654

San Juan Office, Edificio Administracion de Terrenos, 171 Carlos Chardon Avenue, Suite 301, San Juan, PR 00918-0903, (787) 766-5400, TTY Number: (787) 776-5609

Louisville Office, 601 West Broadway, P.O. Box 1044, Louisville, KY 40201-1044, (502) 582-5251, TTY Number: 1-800-648-6056

Knoxville Office, Third Floor, John J. Duncan Federal Building, 710 Locust Street, Knoxville, TN 37902-2526, (423) 545-4384, TTY Number: (423) 545-4559

Nashville Office, Suite 200, 251 Cumberland Bend, Nashville, TN 37228-1803, (615) 736-5213, TTY Number: (615) 736-2886

HUD—Jacksonville Hub

Jacksonville Office, Suite 2200, Southern Bell Tower, 301 West Bay Street, Jacksonville, FL 32202-5121, (904) 232-2626, TTY Number: (904) 232-2631

Birmingham Office, Suite 300, Beacon Ridge Tower, 600 Beacon Parkway, West, Birmingham, AL 35209-3144, (205) 290-7617, TTY Number: (205) 290-7624

Jackson Office, Suite 910, Doctor A.H. McCoy Federal Building, 100 West Capitol Street, Jackson, MS 39269-1096, (601) 965-4700, TTY Number: (601) 965-4171

HUD—Chicago Hub

Chicago Office, Ralph H. Metcalfe Federal Building, 77 West Jackson Boulevard, Chicago, IL 60604-3507, (312) 353-5680, TTY Number: (312) 353-5944

Indianapolis Office, 151 North Delaware Street, Indianapolis, IN 46204-2526, (317) 226-6303, TTY Number: (317) 226-7081

HUD—Detroit Hub

Detroit Office, Patrick V. McNamara Federal Building, 477 Michigan Avenue, Detroit, MI 48226-2592, (313) 226-7900, TTY Number: (313) 226-6899

Grand Rapids Office, Trade Center Building, 50 Louis Street, NW. Third Floor, Grand Rapids, MI 49503-2648, (616) 456-2100, TTY Number: (616) 456-2159

HUD—Columbus Hub

Columbus Office, 200 North High Street, 7th Floor, Columbus, OH 43215-2499, (614) 469-5737, TTY Number: (614) 469-6694

Cleveland Office, Renaissance Building, 1350 Euclid Avenue, Suite 500, Cleveland, OH 44115-1815, (216) 522-4058, TTY Number: (216) 522-2261

HUD—Minneapolis Hub

Minneapolis Office, 220 Second Street, South, Minneapolis, MN 55401-2195, (612) 370-3000, TTY Number: (612) 370-3186

Milwaukee Office, Suite 1380, Henry S. Reuss Federal Plaza, 310 West Wisconsin Avenue, Milwaukee, WI 53203-2289, (414) 297-3214, TTY Number: (414) 297-1423

HUD—Ft. Worth Hub

Little Rock Office, Suite 900, TCBY Tower, 425 West Capitol Avenue, Little Rock, AR 72201-3488, (501) 324-5931, TTY Number: (501) 324-5931

New Orleans Office, Ninth Floor, Hale Boggs Federal Building, 501 Magazine Street, New Orleans, LA 70130-3099, (504) 589-7200, TTY Number: (504) 589-7279

Ft. Worth Office, 801 N. Cherry Street, P.O. Box 2905, Fort Worth, TX 76113-2905, (817) 978-9000, TTY Number: (817) 978-9273

Houston Office, Suite 200, Norfolk Tower, 2211 Norfolk, Houston, TX 77098-4096, (713) 313-2274, TTY Number: (713) 834-3274

San Antonio Office, Washington Square, 800 Dolorosa Street, San Antonio, TX 78207-4563, (210) 475-6800, TTY Number: (210) 475-6885

HUD—Great Plains

Des Moines Office, Room 239, Federal Building, 210 Walnut Street, Des Moines, IA 50309-2155, (515) 284-4512, TTY Number: (515) 284-4728

Kansas City Office, Room 200, Gateway Tower II, 400 State Avenue, Kansas City, KS 66101-2406, (913) 551-5462, TTY Number: (913) 551-6972

Omaha Office, Executive Tower Centre, 10909 Mill Valley Road, Omaha, NE 68154-3955, (402) 492-3100, TTY Number: (402) 492-3183

Saint Louis Office, Third Floor, Robert A. Young Federal Building, 1222 Spruce Street, St. Louis, MO 63103-2836, (314) 539-6583, TTY Number: (314) 539-6331

Oklahoma City Office, 500 West Main Street, Suite 400, Oklahoma City, OK 73102-2233, (405) 553-7401, TTY Number: 1-800-877-8339

HUD—Denver Hub

Denver Office, 633 17th Street, Denver, CO 80202-3607, (303) 672-5440, TTY Number: (303) 672-5248

HUD—San Francisco Hub

Phoenix Office, Suite 1600, Two Arizona Center, 400 North 5th Street, Phoenix, AZ 85004-2361, (602) 379-4434, TTY Number: (602) 379-4464

San Francisco Office, Philip Burton Federal Building and U.S. Courthouse, 450 Golden Gate Avenue, P.O. Box 36003, San Francisco, CA 94102-3448, (415) 436-6550, TTY Number: (415) 436-6594

Honolulu Office, Suite 500, 7 Waterfront Plaza, 500 Ala Moana Boulevard, Honolulu, HI 96813-4918, (808) 522-8185, TTY Number: (808) 522-8193

HUD—Los Angeles Hub

Los Angeles Office, 611 West 6th Street, Suite 800, Los Angeles, CA 90017-3106, (213) 894-8000, TTY Number: (213) 894-8133

HUD—Seattle Hub

Portland Office, 400 Southwest Sixth Avenue, Suite 700, Portland, OR 97204-1632, (503) 326-2561, TTY Number: (503) 326-3656

Note: The first line of the mailing address for all offices is the U. S. Department of Housing and Urban Development. Telephone numbers listed are not toll free.

APPENDIX C

The non-standard forms required for the ALCP application.

BILLING CODE 4210-32-P

FUNDING AVAILABILITY FOR THE SECTION 811 PROGRAM OF SUPPORTIVE HOUSING FOR PERSONS WITH DISABILITIES (SECTION 811 PROGRAM)

Program Overview

Purpose of the Program. This program provides funding for supportive housing for very low-income persons with disabilities who are at least 18 years old. Additionally, organizations receiving funds must assure that an array of community support services are identified and available. (Please note that funding for a related program, Mainstream Housing Opportunities for Persons with Disabilities, is found elsewhere in this SuperNOFA.)

Available Funds. Approximately $117.5 million.

Eligible Applicants. Nonprofit organizations that have a section 501(c)(3) tax exemption from the Internal Revenue Service (See Section III(B) of this NOFA). (See Section VIII of this NOFA for information regarding the formation of the Owner corporation.)

Eligible Activities. New construction, rehabilitation, or acquisition (with or without rehabilitation) of housing (see Section III(C) of this NOFA).

Application Deadline. June 5, 2002.

Match Requirements. No.

Additional Information

If you are interested in applying for funding under this program, please review carefully the General Section of this SuperNOFA and the following additional information.

I. Application Due Date, Application Kits, Further Information, and Technical Assistance

Application Due Date. Submit your completed application on or before 6:00 pm, local time, on June 5, 2002, at the address shown below.

See the General Section of this SuperNOFA for specific procedures governing the application submission requirements to HUD field offices. Only Section 811 applications mailed via the United States Postal Service will be accepted.

Address for Submitting Applications. Submit your completed application (an original and four copies are required) to the Director of the appropriate Multifamily Hub Office or Multifamily Program Center as listed in Appendix A to this program section of the SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov/grants. Persons with hearing or speech impairments may call the Center's TTY number at 1-800-HUD-2209.

For Application Kits. For an application kit and any supplemental information, please call HUD's SuperNOFA Information Center at 1-800-HUD-8929. Persons with hearing or speech impairments may call the Center's TTY number at 1-800-HUD-2209. When requesting an application kit, please refer to the Section 811 Program and provide your name, address (including zip code), and telephone number (including area code). The application kit also will be available on the Internet through the HUD Web site at http://www.hud.gov/grants and from the appropriate Multifamily Hub Office or Multifamily Program Center.

For Further Information and Technical Assistance. You may contact the appropriate Multifamily Hub Office or Multifamily Program Center, Gail Williamson at HUD Headquarters at (202) 708-2866, or access the Internet at http://www.hud.gov/grants. Persons with hearing and speech impairments may access the above number via TTY (text telephone) by calling the Federal Relay Service at 1-800-877-8339 (this is a toll-free number).

HUD encourages minority organizations and grassroots organizations (e.g., civic organizations, congregations and faith-based and other community-based organizations) to participate in this program and strongly recommends prospective applicants attend the local HUD Office workshop. At the workshops, HUD will explain application procedures and requirements, as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to assure that any necessary arrangements can be made to enable their attendance and participation in the workshop.

If you cannot attend the workshop, call the appropriate HUD Office if you have any questions regarding the submission of applications to that particular office and to request any materials distributed at the workshop.

Satellite Broadcast. HUD will hold an information broadcast via satellite for potential applicants to learn more about the program and preparation of the application. For more information about the date and time of the broadcast, you should consult the HUD Web site at http://www.hud.gov/grants.

II. Amount Allocated

For FY 2002, $117,475,266 for capital advances is available for the Section 811 Program of Supportive Housing for Persons with Disabilities. The FY 2002 HUD Appropriations Act (Pub.L. 107-73, approved November 26, 2001) (HUD Appropriations Act) provides $240,865,000 for capital advances, including amendments to capital advance contracts; for supportive housing for persons with disabilities, as authorized by section 811 of the National Affordable Housing Act of 1990 (NAHA); and for project rental assistance for supportive housing for persons with disabilities under section 811 of the NAHA, including amendments to contracts for such assistance and renewal of expiring contracts for such assistance for up to a 1-year term and for tenant-based rental assistance contracts entered into pursuant to section 811 of the NAHA. Of this amount, $600,000 shall be transferred to the Working Capital Fund for the development and maintenance of information technology systems.

Twenty-five percent (25%) of $215,823,000 or $53.9 million (the amount remaining after the deductions for project rental assistance contract (PRAC) renewals, renewals of expiring contracts for tenant-based assistance and the amount to be transferred to the Working Capital Fund) is being set aside for tenant-based rental assistance for persons with disabilities administered through public housing agencies (PHAs) and nonprofit organizations under the Mainstream Housing Opportunities for Persons with Disabilities Program which is found elsewhere in this SuperNOFA.

In accordance with the waiver authority provided in the HUD Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY 2002 formula consists of two data elements from the 1990 Decennial Census: (1) the number of non-institutionalized persons age 16 or older with a work disability and a mobility or self-care limitation and (2) the number of non-institutionalized persons age 16 or older having a mobility or self-care limitation but having no work disability.

A work disability is defined as a health condition that had lasted for 6 or more months which limited the kind (restricted the choice of jobs) or amount (not able to work full time) of work a person could do at a job or business. A mobility limitation is defined as a health condition that lasted for 6 or more months, making it difficult for the person to go outside the home alone. This includes outside activities, such as shopping or visiting a doctor's office. A self-care limitation is defined as a health care limitation that had lasted for 6 or more months which made it difficult for the person to take care of his/her own personal needs such as dressing, bathing, or getting around inside the home. Temporary (short term) problems such as broken bones that are expected to heal normally are not considered problems.

Under the Section 811 Program, each HUD Office jurisdiction receives sufficient capital advance funds for a minimum of 10 units. The total amount of capital advance funds to support this minimum set-aside is then subtracted from the total capital advance available. The remainder is fair shared to each HUD Office jurisdiction whose fair share would exceed the set-aside based on the allocation formula fair share factors described below.

The fair share factors were developed by taking the sum of the number of persons in each of the two elements for each state, or state portion, of each local HUD Office jurisdiction as a percent of the sum of the two data elements from the Decennial Census, described above, for the total United States. The resulting percentage for each local HUD Office is then adjusted to reflect the relative cost of providing housing among the local HUD Office jurisdictions. The adjusted needs percentage for each local HUD Office is then multiplied by the total amount of capital advance funds available nationwide.

The Section 811 capital advance funds have been allocated, based on the formula above, to 51 local HUD Offices as shown on the following chart:

BILLING CODE 4210-32-P

III. Program Description; Eligible Applicants; Eligible Activities

(A) Program Description. HUD provides capital advances and contracts for project rental assistance in accordance with 24 CFR part 891. Capital advances may be used to construct, rehabilitate, or acquire structures (including structures from the Federal Deposit Insurance Corporation (FDIC)), to be developed into a variety of housing options described in Section III(C) below. Capital advance funds may also be used in combination with other non-Section 811 funding sources to develop additional units for a mixed-finance or mixed-use project. (See Note below.) Capital advance funds bear no interest and are based on development cost limits published in this SuperNOFA. Repayment of the capital advance is not required as long as the housing remains available for at least 40 years for occupancy by very low-income persons with disabilities. PRAC funds are used to cover the difference between the tenants' contributions toward rent (30 percent of adjusted income) and the HUD-approved cost to operate the project.

Note: For purposes of approving Section 811 capital advances, HUD will consider proposals involving mixed-financing or a mixed-use purpose for additional units if the Sponsor has legal control of an approvable site and the additional units do not cause the project to exceed the project size limits if they will also house persons with disabilities. However, you must obtain funds to assist the additional units with other than PRAC funds. HUD will not provide PRAC funds for non-Section 811 units.

(B) Eligible Applicants. Nonprofit organizations with a section 501(c)(3) tax exemption from the Internal Revenue Service are the only eligible applicants for this program. A Sponsor or Co-sponsor may not apply for more than 70 units of housing or 4 projects (whichever is less) for persons with disabilities in a single Hub. In addition, a Sponsor or Co-sponsor may not apply for more units in a given HUD Office than allocated for the Section 811 program in that HUD Office, or for more than 10 percent of the total units allocated in all HUD offices. If the proposed project will be an independent living project, your application must request at least five units, not necessarily in one structure. If your proposed project will be a group home, your Sponsor must request at least two units per group home. If your proposed project will be a combination of an independent living project and a group home, your application must request at least the minimum number of units for each project type. Affiliated entities that submit separate applications are considered a single entity for the purpose of these limits.

(C) Eligible Activities. The types of housing that can be developed with Section 811 capital advance funds include independent living projects, dwelling units in multifamily housing developments, condominium and cooperative housing and small group homes.

(Note: You may propose to rehabilitate an existing currently-owned or leased structure that may or may not already serve persons with disabilities.)

(D) Ineligible Activities. Section 811 funds may not be used for any of the following:

(1) Nursing homes, infirmaries and medical facilities;

(2) Transitional housing facilities;

(3) Manufactured housing facilities;

(4) Intermediate care facilities;

(5) Community centers, with or without special components for use by persons with disabilities;

(6) Sheltered workshops and centers for persons with disabilities;

(7) Headquarters for organizations for persons with disabilities; and

(8) Refinancing of Sponsor-owned facilities without rehabilitation.

IV. Program Requirements

By signing Form HUD-92016, Application for a Section 811 Capital Advance, you are certifying that you will comply with the program requirements listed in the General Section of this SuperNOFA as well as the following requirements:

(A) Statutory and Regulatory Requirements. You must comply with all statutory and regulatory requirements listed in Sections III, IV and IX of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

(C) Development Cost Limits. (1) The following development cost limits, adjusted by locality as described in Section IV(C)(2) below, must be used to determine the capital advance amount reserved for projects for persons with disabilities:

(a) For independent living projects and dwelling units in multifamily housing developments, condominium and cooperative housing: The total development cost of the project attributable to dwelling use (less the incremental development cost and the capitalized operating costs associated with any excess amenities and design features you will pay for) may not exceed:

Non-elevator structures:

$41,238 per family unit without a bedroom;

$47,548 per family unit with one bedroom;

$57,344 per family unit with two bedrooms;

$73,400 per family unit with three bedrooms;

$81,770 per family unit with four bedrooms.

For elevator structures:

$43,398 per family unit without a bedroom;

$49,748 per family unit with one bedroom;

$60,493 per family unit with two bedrooms;

$78,257 per family unit with three bedrooms;

$85,902 per family unit with four bedrooms.

(b) For group homes only:

Type of Disability
# Residents | Physical/developmental | Chronic mental illness
2 | $166,022 | $160,262
3 | 178,533 | 172,340
4 | 191,045 | 183,069
5 | 203,556 | 193,798
6 | 216,054 | 204,527

(c) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120.

(2) Increased development cost limits.

(a) HUD may increase the development cost limits set forth in Section IV(C)(1) of this program section of the SuperNOFA by up to 140 percent in any geographic area where the cost levels require, and may increase the development cost limits by up to 160 percent on a project-by-project basis. This increase may include covering additional costs to make dwelling units accessible through rehabilitation.

(b) If HUD finds that high construction costs in Alaska, Guam, the Virgin Islands or Hawaii make it infeasible to construct dwellings, without the sacrifice of sound standards of construction, design, and livability, within the development cost limits provided in Section IV(C)(1) of this program section of the SuperNOFA, the amount of capital advances may be increased to compensate for such costs. The increase may not exceed the limits established under this section (including any high cost area adjustment) by more than 50 percent.

(c) For group homes only, HUD Offices may approve increases in the development cost limits in Section IV(C)(1)(b), above, in areas where you can provide sufficient documentation that high land costs limit or prohibit project feasibility. An example of acceptable documentation is evidence of at least three land sales which have actually taken place (listed prices for land are not acceptable) within the last two years in the area where your project is to be built. The average cost of the documented sales must exceed ten percent of the development cost limit for your project in order for an increase to be considered.

(D) Minimum Capital Investment. Selected nonprofit organizations must provide a minimum capital investment of one-half of one percent of the HUD-approved capital advance amount not to exceed a maximum of $10,000 in accordance with 24 CFR 891.145.

(E) Accessibility. If you intend to construct, substantially rehabilitate, or acquire, with or without rehabilitation, structures to be used as housing for persons with disabilities, you should note 24 CFR 891.310, which requires that your project meet accessibility requirements. In addition, you should note that 24 CFR 8.4(b)(5) prohibits the selection of a site or location which has the purpose or effect of excluding persons with disabilities from the Federally assisted program or activity. Thus, if you choose an existing structure, make sure that it can be made accessible, in accordance with 24 CFR 891.120, 891.310 and section 504 of the Rehabilitation Act of 1973, without resulting in an infeasible project. HUD also encourages you to add accessible design features beyond those required under civil rights laws and regulations. See Section VI(C) of the General Section of this SuperNOFA, entitled “Encouraging Accessible Design Features.”

(F) Conducting Business in Accordance With Core Values and Ethical Standards. Section 811 Sponsors are not subject to the requirements of 24 CFR parts 84 and 85 as outlined in the General Section of this SuperNOFA. However, Sponsors are still subject to the core values and ethical standards as they relate to the conflict of interest provisions in 24 CFR 891.130. To ensure compliance with the program's conflict of interest provisions, you are required to submit a signed Conflict of Interest Resolution and include it in your application. Further, if awarded a Section 811 fund reservation, the officers, directors, board members, trustees, stockholders and authorized agents of the Section 811 Sponsor and Owner entities will be required to submit to HUD individual certifications regarding compliance with HUD's conflict of interest requirements.

(G) Ensuring the Participation of Small Businesses, Small Disadvantaged Businesses, and Women-Owned Businesses. Although the Section 811 program is not subject to the provisions of 24 CFR 85.36(e) as described in the corresponding paragraph in the General Section of the SuperNOFA, you are required to comply with Executive Order 12432—Minority Business Enterprise Development and Executive Order 11625, Prescribing Additional Arrangements for Developing and Coordinating a National Program for Minority Business Enterprise as they relate to the encouragement of HUD grantees to utilize minority business enterprises.

(H) Fair Housing Requirements. You must comply with the requirements of the Fair Housing Act, Title VI of the Civil Rights Act, the Age Discrimination Act of 1975, the affirmative fair housing marketing requirements of 24 CFR part 200, subpart M, and the implementing regulations at 24 CFR part 108, and other applicable Federal, State and local laws prohibiting discrimination and promoting equal opportunity. You are required to affirmatively further fair housing in conducting your programs or activities in accord with Section II(D) of the General Section of the SuperNOFA entitled, “Affirmatively Furthering Fair Housing.”

(I) Economic Opportunities for Low and Very Low Income Persons. You must comply with section 3 of the Housing and Urban Development Act of 1968, 12 U.S.C. 1701u (Economic Opportunities for Low and Very Low Income Persons) and its implementing regulations at 24 CFR part 135. To comply, you must ensure that training, employment and other economic opportunities are directed, to the greatest extent feasible, toward low and very low income persons, particularly those who are recipients of government assistance for housing; and to business concerns which provide economic opportunities to low and very low income persons. To comply with section 3 requirements, you are required to strongly encourage the general contractor and subcontractors to participate in local apprenticeship programs or training programs registered with or certified by the Department of Labor's Office of Apprenticeship, Training, Employer and Labor Services or recognized State Apprenticeship Agency.

(J) Design and Cost Standards. You must comply with HUD's Section 811 project design and cost standards (24 CFR 891.120 and 891.310), the Uniform Federal Accessibility Standards (24 CFR 40.7), section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990.

(K) Acquisition and Relocation. You must comply with the Uniform Relocation Assistance and Real Property Acquisition Policies Act of 1970, as amended (49 CFR part 24 and 24 CFR part 891.155(e)) (URA), which covers the acquisition of sites, with or without existing structures. However, you are exempt from complying with the site acquisition requirements of the URA if you do not have the power of eminent domain and prior to entering into a contract of sale, option to purchase or any other method of obtaining site control, you inform the seller of the land: (1) That you do not have the power of eminent domain and, therefore, you will not acquire the property if negotiations fail to result in an amicable agreement, and (2) of the estimate of the fair market value of the property. An appraisal is not required to meet this requirement, however, your files must include an explanation, with reasonable evidence of the basis for the estimate.

(L) Formation of Owner Corporation. You must form an “Owner” in accordance with 24 CFR 891.305 after issuance of the capital advance; cause the Owner to file a request for determination of eligibility and a request for capital advance, and provide sufficient resources to the Owner to insure the development and long-term operation of the project, including capitalizing the Owner at firm commitment processing in an amount sufficient to meet its obligations in connection with the project.

(M) Supportive Services. You are required to include a Supportive Services Plan and a certification from the appropriate State or local agency that the provision of services identified in your Supportive Services Plan is well designed to address the individual health, mental health and other needs of persons with disabilities who will live in your proposed project. Section VI(B)(4)(e) of this program section of the SuperNOFA, below, outlines the information that must be in the Supportive Services Plan. You must submit one copy of your Supportive Services Plan to the appropriate State or local agency well in advance of the application submission deadline date for the State or local agency to review your Supportive Services Plan and complete the Supportive Services Certification and return it to you so that you can include it in the application you submit to HUD.

(1) HUD will reject your application if the supportive services certification:

(i) Is not submitted with your application and is not submitted to HUD within the 14-day cure period; or

(ii) Indicates that the provision of supportive services is not well designed to address the individual health, mental health and other needs of persons with disabilities who will live in your project; or

(iii) Indicates that the provision of supportive services will not enhance independent living success or promote the dignity of the persons with disabilities who will live in your proposed project.

(2) In addition, if the agency completing the certification will be a major funding or referral source for your proposed project or be responsible for licensing the project, HUD will reject your application if either the agency's supportive services certification indicates—or, where the agency fails to complete item 3 or 4 of the certification, HUD determines that:

(i) You failed to demonstrate that supportive services will be available on a consistent long-term basis; and/or

(ii) The proposed housing is not consistent with State or local agency plans/policies addressing the housing needs of people with disabilities.

Any prospective resident of a Section 811 project who believes he/she needs supportive services must be given the choice to be responsible for acquiring his/her own services or to take part in your Supportive Services Plan which must be designed to meet the individual needs of each resident.

You must not require residents to accept any supportive services as a condition of occupancy or admission.

(N) Davis-Bacon. You must comply with the Davis-Bacon Requirements and the Contract Work Hours and Safety Standards Act.

(O) Flood Disaster Protection Act of 1973. You must comply with the requirements under the Flood Disaster Protection Act of 1973 (42 U.S.C. 4001-4128) and the Coastal Barrier Resources Act (16 U.S.C. 3601).

(P) National Environmental Policy Act. You must comply with the National Environmental Policy Act of 1969 (NEPA)(42 U.S.C. 4321) and applicable related environmental authorities at 24 CFR Part 50.4 and HUD's implementing regulations at 24 CFR part 50 and 24 CFR 891.155(b).

(Q) Sites. (1) NAHA requires you to provide in your application either:

(a) Evidence of site control, or

(b) A reasonable assurance that you will have control of a site within six months of notification of fund reservation.

(2) Accordingly, if you have control of a site at the time you submit your application, you must include evidence of such as described in Section VI(B)(4)(d)(i) of this program section of the SuperNOFA relative to site control. If you do not have site control of one or more of your sites, you must provide the information required in Section VI(B)(4)(d)(ix) of this program section of the SuperNOFA under “site identified” for any site not under control as a reasonable assurance that site control will be obtained within six months of fund reservation notification.

(3) Under Criterion (a) of Rating Factor 3 in Section V(D), below, related to your proposed site, your application has the potential of earning 17 points. Criterion (a)(i) is related to site approvability and is worth a maximum of 7 points. Five points for Criterion (a)(ii) will be awarded if your project will represent an integrated housing model (e.g., condominium units scattered within one or more buildings or non-contiguous independent living units on scattered sites). Criterion (a)(iii) which is worth five points for site control will be awarded as outlined in Section IV(D)(5) below. Regardless of whether you submit evidence of site control or have identified a site without obtaining control of the site, the site will be evaluated based on its proximity or accessibility to shopping, medical facilities, transportation, places of worship, recreational facilities, places of employment and other necessary services to the intended tenants.

(4) To meet the “proximity” or “accessibility” test, you must demonstrate that community services and amenities described above are either near or accessible to the residents. Sites where the community services and amenities described above are either near or accessible to the residents other than solely by a project residence or private vehicle will be rated more favorably than sites where residents must depend upon the project residence or private vehicle to access such community services and amenities. Your application will also be evaluated to determine whether it complies with the site and neighborhood standards in 24 CFR 891.125.

(5) Criterion (a)(iii) relates to the existence of legally acceptable site control. If you:

(a) Submit evidence of site control for all proposed sites in your application,

(b) The evidence is determined to be legally acceptable for all of the sites, and

(c) All of the sites are approvable (i.e., receive a score of 1 or higher for Criterion (a)(i), your application will receive 5 points for Criterion (a)(iii).

(d) If any of your proposed sites are not permissively zoned, one (1) point will be deducted in Criterion 3(a)(iv).

(6) If your application contains evidence of site control where either the evidence or the site is not approvable, your application will not be rejected provided you indicate in your application that you are willing to seek an alternate site and provide an assurance that site control will be obtained within six months of fund reservation notification.

(R) Project Size Limits.

(1) Independent living project—The minimum number of units that can be applied for in one application is five; not necessarily in one structure. The maximum number of persons with disabilities that can be housed in an independent living project is 14 plus one additional one or two bedroom unit for a resident manager, if necessary.

(2) Group home—The minimum number of persons with disabilities that can reside in a group home is two, and the maximum number is six. An additional one or two bedroom unit can be provided for a resident manager. Only one person per bedroom is allowed, unless two residents choose to share one bedroom or a resident determines he/she needs another person to share his/her bedroom.

(S) Lead-Based Paint. You must comply with the requirements of the Lead-Based Paint Poisoning Prevention Act (42 U.S.C. 4821-4846) and implementing regulations at 24 CFR part 35.

(T) Truth and Accuracy. By signing your application, you are certifying that the information you are providing to HUD in your application under the Section 811 Program of Supportive Housing for Persons with Disabilities is true and accurate, to the best of your knowledge.

(U) Expiration of Section 811 Funds. The FY 2002 HUD Appropriations Act requires HUD to obligate all Section 811 funds appropriated for FY 2002 by September 30, 2004. Under 31 USC 1551, no funds can be disbursed from this account after September 30, 2009. Under Section 811, obligation of funds occurs for both capital advances and project rental assistance upon fund reservation and acceptance. If all funds are not disbursed by HUD and expended by the project owner by September 30, 2009, the funds, even though obligated, will expire and no further disbursements can be made from this account. In submitting an application, you need to carefully consider whether your proposed project can be completed through final capital advance closing no later than September 30, 2009. Furthermore, absent Congressional relief, all unexpended balances, including any remaining balance on PRAC contracts, will be cancelled as of October 1, 2009. Amounts needed to maintain PRAC payments for any remaining term on the affected contracts beyond that date will have to be funded from other current appropriations.

V. Application Selection Process

(A) Review for Curable Deficiencies. You should ensure that your application is complete before submitting it to the appropriate HUD office. HUD will screen all applications received by the deadline to determine if there are any curable deficiencies. A curable deficiency is a missing Exhibit or portion of an Exhibit that will not affect the rating of your application. The following is a list of the only deficiencies that will be considered curable in a Section 811 application:

Exhibits

(1) Form 92016-CA (Application Form)*

(2) (a) Articles of Incorporation*

(b) By-laws*

(c) IRS tax exemption ruling*

(4) (c)(ii) Energy efficiency

(d)(vii) Letter from the State Historic Preservation Officer (SHPO)

(d)(viii) Seek alternate site

(e) Supportive Services Plan

(6) Relocation

(7) (a) Standard Form 424, Application for Federal Assistance (and compliance with Executive Order 12372)*

(b) Form-HUD 50070, Certification of a Drug-Free Workplace

(c) Form-HUD 50071, Certification of Payments to Influence Federal Transactions and Standard Form-LLL, Disclosure of Lobbying Activities

(d) Form-HUD 2880, Applicant/Recipient Disclosure/Update Report

(e) Form-HUD 2992, Certification Regarding Debarment and Suspension

(f) Form-HUD 2991, Certification of Consistency with Consolidated Plan

(g) Conflict of Interest Resolution

(h) Resolution for Commitment to Project*

(j) Supportive Services Certification

The HUD Office will notify you in writing if your application is missing any of the above exhibits or portions of exhibits and will give you 14 days from the date of the notification to submit the information required to cure the noted deficiencies. The items identified by an asterisk (*) must be dated on or before the application deadline date.

(B) Rating. HUD will review and rate your application in accordance with the Application Selection Process in the General Section of this SuperNOFA with the following exception. HUD will not reject your application based on technical review without notifying you of the rejection with all the reasons for rejection and providing you an opportunity to appeal. You will have 14 calendar days from the date of HUD's written notice to appeal a technical rejection to the HUD Office.

The HUD Office will make a determination on an appeal before making its selection recommendations. Your application(s) will be either rated or technically rejected at the end of technical review. If your application meets all program eligibility requirements after completion of technical review, your application will be rated according to the Rating Factors in Section V(D) below.

If an Exhibit or portion of an Exhibit listed above as curable is not discovered as missing until technical processing, HUD will provide you with 14 calendar days in which to cure the deficiency.

(C) Ranking and Selection Procedures. Applications that have a total base score of 70 points or more (without the addition of EC/EZ bonus points) and meet all of the applicable threshold requirements of Section II(B) of the General Section of the SuperNOFA will be eligible for selection and will be placed in rank order. HUD will select applications, after adding any bonus points for EC/EZ, based on rank order, up to and including the last application that can be funded out of each HUD Office's allocation. HUD Offices must not skip over any applications in order to select one based on the funds remaining. After making the initial selections, however, HUD may use any residual funds to select the next rank-ordered application by reducing the number of units by no more than 10 percent rounded to the nearest whole number, provided the reduction will not render the project infeasible. For this purpose, however, HUD will not reduce the number of units in projects of five units or less.

After this process is completed, residual funds from all HUD Offices within each Multifamily Hub will be combined. First, these funds will be used to restore units to projects reduced by HUD Offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds. Applications may not be skipped over to select one based on funds remaining. However, HUD may use any remaining residual funds, to select the next rank-ordered application by reducing the number of units by no more than 10 percent rounded to the nearest whole number, provided the reduction will not render the project infeasible or result in the project being less than 5 units.

Funds remaining after these processes are completed will be returned to Headquarters. HUD Headquarters will use these funds first to restore units to projects reduced by HUD Offices as a result of the instructions for using their residual funds. HUD Headquarters will then use these funds for selecting applications based on field offices' rankings, beginning with the highest rated application nationwide. Only one application will be selected per HUD Office from the national residual amount. If there are no approvable applications in other HUD Offices, the process will begin again with the selection of the next highest rated application nationwide. This process will continue until all approvable applications are selected using the available remaining funds.

(D) Factors For Award Used To Evaluate and Rate Applications. HUD will rate applications that successfully complete technical processing using the Rating Factors set forth below and in accordance with the application submission requirements in Section VI(B) below. The maximum number of points an application may receive under this program is 102. This includes two (2) EZ/EC bonus points, as described in the General Section of this SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), (B)(3)(e), and (B)(5) of Section VI of this program section of the SuperNOFA.

In rating this factor, HUD will consider the extent to which your application demonstrates your ability to develop and operate the proposed housing on a long-term basis, considering the following:

(a)(i) (11 points) The scope, extent, and quality of your experience in providing housing or related services to those proposed to be served by the project and the scope of the proposed project (i.e., number of units, services, relocation costs, development, and operation) in relationship to your demonstrated development and management capacity as well as your financial management capability;

(a)(ii) (1 point) Your organization is a “grassroots” organization as defined in the General Section of this SuperNOFA.

(b) (8 points) The scope, extent, and quality of your experience in providing housing or related services to minority persons or families as well as your ties to the community at large and to the minority and disability communities in particular. For purposes of this program section of the SuperNOFA, “minority” means the basic racial and ethnic categories for Federal statistics and administrative reporting, as defined in the Appendix section of the Office of Management and Budget's (OMB) Federal Register Notice entitled “Revisions to the Standards for the Classification of Federal Data on Race and Ethnicity” and dated October 30, 1997 (62 FR 58782-90). This notice contains the definitions of the various racial and ethnic data categories that were used in the 1990 Census. It can be found on the OMB Web site at: www.whitehouse.gov/omb/fedreg/ombdir15.html.

(c) (5 points) You have experience in developing integrated housing (e.g., condominium units scattered within one or more buildings or non-contiguous independent living units on scattered sites).

(d) (−2 points) A fund reservation you received under either the Section 811 program of Supportive Housing for Persons with Disabilities or the Section 202 program of Supportive Housing for the Elderly has been extended beyond 36 months (except if the delay was beyond your control). Examples of such delays include, but are not limited to, initial closing delays that are: (1) directly attributable to HUD, (2) directly attributable to third party opposition, including litigation, and (3) due to a disaster, as declared by the President of the United States.

(e) (−1 point) Amendment money was required as a result of the delay in (d) above (except if the delay was beyond your control).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD Office. The data could include the availability of existing comparable subsidized housing for persons with disabilities and current occupancy in such housing, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

Rating Factor 3: Soundness of Approach (38 Points)

This factor addresses the quality and effectiveness of your proposal. There must be a clear relationship between the proposed activities, the community's needs and purposes of the program funding for your application to receive points for this factor. Submit information responding to this factor in accordance with Application Submission Requirements in paragraphs (B)(2)(d), (B)(4)(c), (B)(4)(d), and (B)(4)(e) of Section VI of this program section of the SuperNOFA. In evaluating this factor, HUD will consider the following:

(a)(i) (7 points) Site approvability—The proximity or accessibility (other than by sole means of a project residence or private vehicle) of the site to shopping, medical facilities, transportation, places of worship, recreational facilities, places of employment, and other necessary services to the intended tenants; adequacy of utilities and streets, and freedom of the site from adverse environmental conditions (based on site visit for site control projects only); and compliance with site and neighborhood standards in 24 CFR 891.125(a), (d), and (e);

(a)(ii) (5 points) Integrated model—If your project will be an integrated model as described in Section IV(Q) above, your application will receive 5 points for this Criterion.

(a)(iii) (5 points) Site control—If your application contains legally acceptable site control for all proposed sites and all of the proposed sites are approvable (i.e., receive a score of 1 or higher on Criterion (a)(i)), your application will receive 5 points for site control.

(a)(iv) (−1 point) One or more of your proposed sites is not permissively zoned for the intended use.

(b) (8 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the HUD Office. If appropriate, HUD may visit the site.

(i) The site will be deemed acceptable if it increases housing choice and opportunity by:

—Expanding housing opportunities in non-minority neighborhoods if located in such a neighborhood. (“Nonminority area” is defined as one in which the minority population is lower than 10 percent.); or

—Contributing to the revitalization of and reinvestment in minority neighborhoods, including improvement of the level, quality and affordability of services furnished to minority persons with disabilities. You should refer to the Site and Neighborhood Standards provisions of the regulations governing the Section 811 Supportive Housing Program (24 CFR 891.125(b) and (c)) when considering sites for your projects.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market area as a whole; or

—In the case of a metropolitan area, the neighborhood's total percentage of minority persons exceeds 50 percent of its population.

(c) (4 points) The extent to which the proposed design of the project, including both the exterior and interior design, will meet the individual needs of persons with disabilities the housing is expected to serve;

(d) (4 points) The extent to which the proposed design of the project and its placement in the neighborhood will facilitate the integration of the residents into the surrounding community and promote the ability of the residents to live as independently as possible; and

(e) (5 points) At least 51% of your board members are persons with disabilities.

(f) (-1 point) Your application did not include a plan for completing your project within the initial fund reservation period of 18 months.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, developing integrated housing models and your demonstrated ability to enlist volunteers and raise local funds.

Rating Factor 5: Coordination, Self-Sufficiency and Sustainability (12 Points)

This factor addresses the extent to which you coordinated your activities with other known organizations that will not be directly involved in the proposed project, participate or promote participation in the community's planning process (e.g., the Consolidated Planning process including the Analysis of Impediments to Fair Housing Choice), and are working towards addressing a need in a holistic and comprehensive manner to ensure that the project will not operate in isolation. This factor also addresses the extent to which your project will implement practical solutions that will result in assisting residents in achieving independent living, economic empowerment, educational opportunities, and improved living environments. Finally, this factor addresses the extent to which the long-term viability of your project will be sustained for the duration of the 40-year capital advance period. Submit information responding to this factor in accordance with Application Submission Requirements in paragraphs (B)(3)(f), (B)(3)(g), (B)(3)(h), (B)(3)(i) and (B)(3)(j) of Section VI of this program section of the SuperNOFA.

(a) (3 points) You involved persons with disabilities (including minority persons with disabilities) in the development of the application, and will involve persons with disabilities (including minority persons with disabilities) in the development and operation of the project;

(b) (2 points) The extent to which you coordinated your application with other organizations (including local independent living centers; a list of such can be obtained from the local HUD Office) that will not be directly participating in your project, but with which you share common goals and objectives and are working toward meeting these objectives in a holistic and comprehensive manner;

(c) (2 points) The extent to which you demonstrated that you have been actively involved, or if not currently active, the steps you will take to become actively involved in the community's planning process (e.g., the Consolidated Planning process including the Analysis of Impediments to Fair Housing Choice) to identify and address a need/problem that is related in whole or part, directly or indirectly to the proposed project;

(d) (2 points) The extent to which your project will implement practical solutions that will result in assisting residents in achieving independent living, economic empowerment, educational opportunities, and improved living environments; and

(e) (2 points) The extent to which you demonstrated that your project will remain viable as housing with the availability of supportive services for very low income persons with disabilities for the 40-year capital advance period.

(f) (1 point) Your project will provide activities that will improve computer access, literacy and employment opportunities (e.g., programs that can teach residents how to use computers to achieve educational goals and economic self-sufficiency through job training and placement).

Bonus Points

(2 bonus points) Location of proposed site in an EZ/EC area, as described in the General Section of this SuperNOFA. Submit the information responding to the bonus points in accordance with the Application Submission Requirements in paragraph (B)(7)(i) of Section VI of this program section of the SuperNOFA.

(E) Applicant Debriefing. In accordance with the General Section of this SuperNOFA, you may request a debriefing on your application. The request must be made in writing to the Director of Multifamily Housing in the HUD Field Office to which you sent your application no sooner than 30 days after the awards for assistance are announced in the Federal Register. Materials provided to you during your debriefing will be the score you received for each rating factor, final evaluator comments for each rating factor, and the final assessment indicating the basis upon which assistance was provided or denied.

VI. Application Submission Requirements

(A) Application. Your application must include all of the information, materials, forms, and exhibits listed in Section VI(B) of this program section of the SuperNOFA (unless you were selected for a Section 811 fund reservation within the last three funding cycles). If you qualify for this exception, you are not required to submit the information described in Section VI(B)(2)(a), (b), and (c), below, of this program section of the SuperNOFA (Exhibits 2.a., b., and c. of the application kit), which are the articles of incorporation (or other organizational documents), by-laws, and the IRS tax exemption, respectively. If there has been a change in any of these documents since your previous HUD approval, you must submit the updated information in your application. The HUD Office will verify your indication of previous HUD approval by checking the project number and approval status with the appropriate HUD Office based on information submitted in Section VI(B)(2) below.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

Note: You may apply for a scattered site project in one application.

(1) Form HUD-92016-CA, Application for Section 811 Supportive Housing Capital Advance.

(2) Evidence of your and each Co-Sponsor's legal status as a nonprofit organization, including the following:

(2)(a) Articles of Incorporation, constitution, or other organizational documents;

(2)(b) By-laws;

(2)(c) IRS section 501(c)(3) tax exemption ruling (this must be submitted by you and all Co-Sponsors, including churches).

Note: If you received a Section 811 Fund Reservation within the last three funding cycles, you are not required to submit the documents described in paragraph (2)(a), (2)(b), and (2)(c), above. Instead, you must submit the project number of the latest application selected and the HUD office to which it was submitted. If there have been any modifications or additions to the subject documents, indicate such, and submit the new material.

(2)(d) The number of people on your board and the number of those people who have disabilities.

(3) A description of your purpose, community ties, and experience, including the following:

(3)(a) A description of your purpose, current activities and how long you have been in existence;

(3)(b) A description of your ties to the community in which your project will be located and to the minority and disability communities in particular, including a description of the specific geographic area(s) in which you have served;

(3)(c) A description of local government support for the project (including financial assistance, donation of land, provision of services, etc.);

(3)(d) Letters of support for your organization and for the proposed project from organizations familiar with the housing and supportive services needs of the persons with disabilities that you expect to serve in the proposed project (e.g., the local center for independent living, the Statewide Independent Living Council);

(3)(e) A description of your housing and/or supportive services experience. The description should include any rental housing projects (including integrated housing developments) and/or supportive services facilities that you have sponsored, owned, and/or operated; your past or current involvement in any programs other than housing that demonstrates your management capabilities (including financial management) and experience, and your experience in serving persons with disabilities and minorities; and the reasons for receiving any increases in fund reservations for developing and/or operating any previously funded Section 811 or Section 202 projects. The description should include data on the facilities and services provided, the racial/ethnic composition of the populations served, if available, and information and testimonials from residents or community leaders on the quality of the activities. Examples of activities that could be described include housing counseling, nutrition and food services, special housing referral, screening and information projects.

(3)(f) A description of your efforts to involve persons with disabilities (including minority persons with disabilities) in the development of your application and in the development and operation of the project.

(3)(g) A description of the steps you took to coordinate your application with other organizations (e.g., the local center for independent living), that will not be directly involved in your project but with which you share common goals and objectives, to complement and/or support your proposed project so that the project will provide a comprehensive and holistic solution to the needs of persons with disabilities. Also describe the steps you will take, if funded, to share information on solutions and outcomes relative to the development of your proposed project.

(3)(h) A description of your involvement in the community's planning process (e.g., the Consolidated Planning process including the Analysis of Impediments to Fair Housing Choice), including:

(3)(h)(i) An identification of the lead/facilitating agency that organizes/administers the process;

(3)(h)(ii) An identification of the areas of the community's planning process in which you participate;

(3)(h)(iii) Your level of participation in the process, including active involvement with any neighborhood-based organizations, associations or any committees that support programs and activities that enhance projects, or the lives of residents of projects, such as the one proposed in your application.

If you are not currently active, describe the specific steps you will take to become active in the community's planning process. (Consult the local HUD Office for the identification of the Consolidated Plan community process for the appropriate area if that is the process you wish to become involved in.)

(3)(i) A description of the practical solutions you will implement which will enable the residents of your project to achieve independent living and economic empowerment. In addition, describe the educational opportunities you will provide for the residents and how you will provide them. This description should include the activities you will undertake that will improve computer access, literacy and employment opportunities (e.g., provide programs that can teach residents how to use computers to become educated as well as achieve economic self-sufficiency through job training and placement). And, finally, describe how your proposed project will be an improved living environment for the residents when compared to their previous place of residence.

(3)(j) Describe how you will ensure that your proposed project will remain viable as housing with the availability of supportive services for very low income persons with disabilities for the 40-year capital advance period. This description should address the measures you would take should any of the following occur: (1) funding for any of the needed supportive services becomes depleted or, (2) if, for any state funded services for your project, the state changes its policy regarding the provision of supportive services to projects such as the one you propose, or (3) if the need for housing for the population you will be serving wanes over time, causing vacancies in your project.

(4) Project information including the following:

(4)(a) Evidence of need for supportive housing. Such evidence would include a description of the proposed population and evidence demonstrating sustained effective demand for supportive housing for the proposed population in the market area to be served, taking into consideration the occupancy and vacancy conditions in existing comparable subsidized housing for persons with disabilities, State or local needs assessments of persons with disabilities in the area, the types of supportive services arrangements currently available in the area, and the use of such services as evidenced by data from local social service agencies. Also, a description of how information in the community's Analysis of Impediments to Fair Housing Choice was used in documenting the need for the project.

(4)(b) A description of how the proposed project will benefit the target population and the community in which it will be located;

(4)(c) A description of the project, including the following:

(4)(c)(i) A narrative description of the building(s) including the number and type of structure(s), number of units with bedroom distribution if independent living units (including dwelling units in multifamily housing developments, condominiums and cooperatives), number of bedrooms if group home, number of residents with disabilities, and any resident manager per structure; an identification of all community spaces, amenities, or features planned for the housing and a description of how the spaces, amenities, or features will be used, and the extent to which they are necessary to accommodate the needs of the proposed residents. If these community spaces, amenities, or features would not comply with the project design and cost standards of § 891.120 and the special project standards of § 891.310, you must demonstrate your ability and willingness to contribute both the incremental development cost and continuing operating cost associated with the community spaces, amenities, or features; and a description of how the design of the proposed project will promote the integration of the residents into the surrounding community and create opportunities for independent living; and

(4)(c)(ii) A description of whether and how the project will promote energy efficiency, and, if applicable, innovative construction or rehabilitation methods or technologies to be used that will promote efficient construction.

(4)(c)(iii) If applicable, a description of any plans and the actions you have taken to create a mixed-finance/mixed-use project by developing additional units (i.e., in addition to the Section 811 units) with the use of Section 811 capital advance funds in combination with other funding sources. See Section III.A. for further information regarding the additional units. Specify the number of Section 811 units and the number of additional units from non-Section 811 funding sources. Provide copies of any letters you have sent seeking outside funding for the non-Section 811 units and any responses thereto. You must also demonstrate your ability to proceed with the development of a Section 811 project that will not involve mixed-financing or a mixed-use purpose, as proposed in your application, in the event you are later unable to obtain the necessary outside funding, or HUD disapproves your proposal for mixed-financing or mixed-use.

Note: Approval of the Section 811 capital advance will not necessarily be approval of the mixed-finance/mixed-use proposal. If approved for a reservation of capital advance funds, you will be required to submit, after reservation of capital advance funds, a detailed proposal outlining how you will fund both development and operation of the additional units in accordance with HUD instructions that will be issued later. Based on the strength of your organization and HUD's prior experience with your projects, as well as your outline of your intentions, at the time of making the fund reservation, HUD will determine whether you will be permitted to submit a mixed-finance/mixed-use proposal at a later time. Only those Sponsors that indicate in their application for a fund reservation an intention to propose additional units will be eligible to submit, at a later time, a mixed-finance/mixed-use proposal for additional units. (A mixed-finance/mixed-use project, as used here, does not include the development of Section 811 units using secondary/supplemental financing or the development of a mixed-use project in which the Section 811 units are mortgaged separately from the other uses of the structure).

(4)(c)(iv) Describe your plan for completing the proposed project within the initial 18-month term of the fund reservation (optional).

(4)(d) Evidence of control of an approvable site, or identification of a site for which you provide a reasonable assurance that you will obtain control within 6 months from the date of fund reservation (if you are approved for funding).

Site control—If you are submitting an application with site control, you must submit the following:

(4)(d)(i) Acceptable evidence that you have site control, which is limited to any one of the following:

(A) Deed or long-term leasehold which evidences that you have title to or a leasehold interest in the site. If a leasehold, the term of the lease must be at least 75 years;

(B) Contract of sale for the site which is free of any limitations affecting ability to deliver ownership to you after you receive and accept a notice of Section 811 capital advance. The only condition for closing on the sale can be your receipt and acceptance of the capital advance. The contract of sale cannot require closing on a date earlier than the Section 811 closing.

(C) Option to purchase or for a long-term leasehold which must remain in effect for six months from the date on which the applications are due and must state a firm price binding on the seller. The only condition on which the option may be terminated is if you are not awarded a fund reservation. The option must be renewable at the end of the six month option period.

(D) Where the proposed site is subject to a mortgage under a HUD program (e.g., an earlier Section 811 or an FHA-insured mortgage), you must submit evidence that consent to release of the site from the mortgage has been obtained or has been requested from HUD and from the mortgagee, if other than HUD.

(E) For sites to be acquired from a public body, evidence is needed that the public body possesses clear title to the site and has entered into a legally binding agreement to lease or convey the site to you after you receive and accept a notice of Section 811 capital advance. If HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter commitment will be considered sufficient evidence of site control.

Note: For this funding cycle, New York City-owned sites that are designated as community gardens and are involved in litigation will not meet site control requirements due to litigation involving those sites.

(4)(d)(ii) Whether you have title to the site, a contract of sale, an option to purchase or are acquiring a site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a General Contractor (or its affiliate) that will construct the Section 811 project or from any other development team member.

(4)(d)(iii) Evidence that your project as proposed is permissible under applicable zoning ordinances or regulations, or a statement of the proposed action required to make your proposed project permissible. You must provide the basis for your belief that the proposed action will be completed successfully before the submission of the firm commitment application (e.g., a summary of the results of any requests for rezoning and/or the procedures for obtaining special or conditional use permits on land in similar zoning classifications and the time required for such rezoning, or preliminary indications of acceptability from zoning bodies, etc.).

Note: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(4)(d)(iv) A narrative topographical and demographic description of the suitability of the site and area as well as a description of the area surrounding the site, the characteristics of the neighborhood, how the site will promote greater housing opportunities for minorities and persons with disabilities thereby affirmatively furthering fair housing.

Note: You can best demonstrate your commitment to affirmatively furthering fair housing by describing how your proposed activities will assist the jurisdiction in overcoming impediments to fair housing choice identified in the applicable jurisdiction's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning board, or similar organization, may be used. Applicable impediments could include a lack of units that are accessible to persons with disabilities, a lack of transportation services or other assistance that would serve persons with disabilities, or the need for improved housing quality and services for all persons with disabilities.

(4)(d)(v) A map showing the location of the site, the racial composition of the neighborhood, and any areas of racial concentration. For this competition, you should use the racial and ethnic data categories stated in the Appendix section of the October 30, 1997, Office of Management and Budget Federal Register Notice (62 FR 58782-90) (a copy may also be obtained at http://www.whitehouse.gov/omb/fedreg/ombdir15.html), and data from the 1990 Census of Population, when determining the racial and ethnic composition of the neighborhood surrounding the proposed site. Data from the 1990 Census of Population may also be found at www.factfinder.census.gov/servlet/BasicFactsServlet.

(4)(d)(vi) A Phase I Environmental Site Assessment (ESA), in accordance with the American Society for Testing and Material (ASTM) Standards E 1527-97, as amended, in order for the application to be considered as an application with site control. The Phase I ESA must be completed and submitted with the application. In order for the Phase I ESA to be acceptable, it must have been completed or updated no earlier than six months prior to the application deadline date. The Phase I study is not a curable deficiency for the Section 811 Program. Therefore, it is important that you start the Phase I ESA process as soon after publication of this SuperNOFA as possible.

If the Phase I ESA indicates the possible presence of contamination and/or hazards, you must decide whether to continue with this site or choose another site. Should you choose another site, the same Phase I ESA process identified above must be followed for the new site.

Note: You are not limited to acquiring properties from the FDIC. However, if the property is to be acquired from the FDIC, include a copy of the FDIC prepared Transaction Screen Checklist or Phase I ESA, and applicable documentation, per the FDIC Environmental Guidelines.

If you choose to continue with the original site on which the Phase I ESA indicated contamination or hazards, you must undertake a detailed Phase II ESA by an appropriate professional. If the Phase II ESA reveals site contamination, the extent of the contamination and a plan for clean-up of the site must be submitted to the local HUD Office. The plan for clean-up must include a contract for remediation of the problem(s) and an approval letter from the applicable Federal, State, and/or local agency with jurisdiction over the site. In order for your application to be considered as an application with site control you must submit this information to the local HUD Office on or before July 5, 2002.

Note: This could be an expensive undertaking. You must pay for the cost of any clean-up and/or remediation.

(4)(d)(vii) A letter from the State Historic Preservation Officer (SHPO) indicating whether the proposed site(s) has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and

(C) A copy of the SHPO's response, if available.

(4)(d)(viii) A statement that you are willing to seek a different site if the preferred site is unapprovable and that site control will be obtained within six months of notification of fund reservation.

Site identified—If you have identified a site, but do not have it under control, you must submit the following information:

(4)(d)(ix) A description of the location of the site, including its street address, its unit number (if condominium), neighborhood/community characteristics (to include racial and ethnic data), amenities, adjacent housing and/or facilities, and how the site will promote greater housing opportunities for minorities and persons with disabilities thereby affirmatively furthering fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas;

(4)(d)(x) A description of the activities undertaken to identify the site, as well as what actions must be taken to obtain control of the site, if approved for funding;

(4)(xi) An indication as to whether the site is properly zoned. If it is not, an indication of the actions necessary for proper zoning and whether these can be accomplished within six months of fund reservation award, if approved for funding;

(4)(d)(xii) A status of the sale of the site; and

(4)(d)(xiii) An indication as to whether the site would involve relocation.

Note: If an application is submitted without evidence of site control and does not provide a specific street address for the identified site(s) (e.g, only an indication that the project will be developed in a particular part of town but a site(s) has not been chosen) the application will be rejected.

(4)(e) A supportive services plan (a copy of which must be sent to the appropriate State or local agency as instructed in Section IV(M) of this program section of the SuperNOFA) that includes:

(4)(e)(i) A detailed description of whether the housing is expected to serve persons with physical disabilities, developmental disabilities, chronic mental illness or any combination of the three. Include how and from whom/where persons will be referred to and accepted for occupancy in the project.

(4)(e)(ii) Information concerning limitation of occupancy, if applicable. You may, with the approval of the Secretary, limit occupancy within housing developed under this program section of the SuperNOFA to persons with disabilities who have similar disabilities and require a similar set of supportive services in a supportive housing environment. However, the Owner must permit occupancy by any qualified person with a disability who could benefit from the housing and/or services provided, regardless of the person's disability. If you are requesting approval to limit occupancy in your proposed project(s), you must submit the following:

(A) A description of the population of persons with disabilities to which occupancy will be limited;

(B) An explanation of why it is necessary to limit occupancy of the proposed project(s) to the population described in (4)(e)(ii) above. This should include but is not limited to:

—An explanation of how limiting occupancy to a subcategory of persons with disabilities promotes the goals of the Section 811 Program; and,

—An explanation of why the housing and/or service needs of this population cannot be met in a more integrated setting

(C) A description of your experience in providing housing and/or supportive services to the proposed occupants; and

(D) A description of how you will ensure that the occupants of the proposed project(s) will be integrated into the neighborhood and surrounding community.

(4)(e)(iii) A detailed description of the supportive service needs of the persons with disabilities that the housing is expected to serve.

(4)(e)(iv) A list of community service providers, including those that are consumer-controlled, and letters of intent to provide services to residents of the proposed project(s) from as many potential service providers as possible. You must make this list available to any residents who wish to be responsible for acquiring their own supportive services. However, a provider may not require residents to accept any particular service.

(4)(e)(v) The evidence of each service provider's capability and experience in providing such supportive services (applicable even if you will be the service provider);

(4)(e)(vi) Identification of the extent of State and/or local agency involvement in the project (i.e., funding for the provision of supportive services, referral of residents, or licensing the project). If there will be any State or local agency involvement, a description of the State or local agency's philosophy/policy concerning housing for the population to be served and a demonstration that your application is consistent with State or local plans and policies governing the development and operation of housing for the same disabled population;

(4)(e)(vii) If you will be making any supportive services available to the residents or will be coordinating the availability of any supportive services, a letter providing:

(A) A description of the supportive services that you will make available to the residents or, if you will be coordinating the availability of any supportive services, a description of the supportive service(s) and how the coordination will be implemented;

(B) An assurance that any supportive services that you will make available to the residents will be based on their individual needs; and

(C) A commitment to make the supportive services available or coordinate their availability for the life of the project.

(4)(e)(viii) A description of how the residents will be afforded opportunities for employment.

(4)(e)(ix) An indication as to whether the project will include a unit for a resident manager; and

(4)(e)(x) A statement that you will not condition occupancy on the resident's acceptance of any supportive services.

(5) A list of the applications, if any, that you have submitted or are planning to submit to any other HUD Office in response to this announcement of Section 811 Program funding availability or the announcement of funding availability for the Section 202 Program of Supportive Housing for the Elderly, published elsewhere in this SuperNOFA. Indicate, by HUD Office, the number of units requested and the proposed location by city and State for each application. Include a list of all FY 2001 and prior year projects to which you are a party. Identify each by project number and HUD Office and include the following information: (a) whether the project has initially closed and, if so, when, (b) if the project was older than 36 months when it initially closed or is older than 36 months now and has not initially closed, provide the reasons for the delay in closing; (c) whether amendment money was or will be needed for any project in (b) above; and (d) those projects which have not been finally closed.

(6) A statement that:

(6)(a) Identifies all persons (families, individuals, businesses, and nonprofit organizations) by race/minority group and status as owners or tenants occupying the property on the date of submission of the application for a capital advance;

(6)(b) Indicates the estimated cost of relocation payments and other services;

(6)(c) Identifies the staff organization that will carry out the relocation activities; and

(6)(d) Identifies all persons who have moved from the site within the last 12 months. (This requirement applies to applications with site control only. Sponsors of applications with identified sites that are selected will be required to submit this information at a later date once they have obtained site control.)

Note: If any of the relocation costs will be funded from sources other than the Section 811 capital advance, you must provide evidence of a firm commitment of these funds. When evaluating applications, HUD will consider the total cost of proposals (i.e., cost of site acquisition, relocation, construction and other project costs).

(7) Certifications and Resolutions. In addition to the certifications and assurances listed in the General Section of this SuperNOFA with the exception of SF-424A, SF-424B, SF-424C, SF-424D, HUD 424M and the OMB Circulars which are not required, you are required to submit signed copies of the following:

(7)(a) Standard Form 424. Application for Federal Assistance and indication of whether you are delinquent on any Federal debt, and compliance with Executive Order 12372 (a certification that you have submitted a copy of your application, if required, to the state agency (Single Point of Contact) for state review in accordance with Executive Order 12372). (See instructions for submitting this form in the Consolidated Application Submissions section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510)

—a certification attesting to the eligibility of your principals.

(7)(f) Certification of Consistency with the Consolidated Plan (Plan) (Form HUD-2991) for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(g) A certified Board Resolution that no officer or director of the Sponsor or Owner has or will have any financial interest in any contract with the Owner or in any firm or corporation that has or will have a contract with the Owner, including a current listing of all duly qualified and sitting officers and directors by title and the beginning and ending dates of each person's term.

(7)(h) A Certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance.

(7)(i) Certification of Consistency with the EZ/EC Strategic Plan (HUD-2990). A certification that the project is consistent with the EZ/EC strategic plan, is located within the EZ/EC, and serves EZ/EC residents. (This certification is not required if the project site(s) will not be located in an EZ/EC.)

(7)(j) Supportive Services Certification. A certification from the appropriate State or local agency identified in the application kit indicating whether the:

(7)(j)(i) Provision of supportive services is well designed to serve the needs of persons with disabilities the housing is expected to serve;

(7)(j)(ii) The provision of supportive services will enhance independent living success and promote the dignity of those who will access your proposed project;

(7)(j)(iii) Supportive services will be available on a consistent, long-term basis; and

(7)(j)(iv) Proposed housing is consistent with State or local plans and policies addressing the housing needs of people with disabilities if the State or local agency will provide funding for the provision of supportive services, refer residents to the project or license the project. (The name, address, and telephone number of the appropriate agency will be identified in the application kit and can also be obtained from the appropriate HUD Office.)

VII. Corrections to Deficient Applications

The General Section of the SuperNOFA provides the procedures for corrections to deficient applications.

VIII. Formation of Owner Corporation for Development of Section 811 Projects and for Section 811 Projects Involving Mixed-Financing or a Mixed-Use Purpose.

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code of 1986, OR (2) for purposes of developing a mixed-finance/mixed-use project for developing additional units over and above the Section 811 units, a for-profit limited partnership with the nonprofit entity as the sole general partner.

IX. Authority

Section 811 of the Cranston-Gonzalez National Affordable Housing Act (Pub.L. 101-625, approved November 28, 1990), as amended by the Housing and Community Development Act of 1992) (Pub.L. 102-550, approved October 28, 1992); the Rescissions Act (Pub.L. 104-19, approved July 27, 1995); the American Homeownership and Economic Opportunity Act of 2000 (Pub. L. 106-569, approved December 27, 2000) and the fiscal year 2002 HUD Appropriations Act (Pub.L. 107-73, approved November 26, 2001) authorized a new supportive housing program for persons with disabilities, and replaced assistance for persons with disabilities previously covered by section 202 of the Housing Act of 1959 (section 202 continues, as amended by section 801 of the NAHA, and the HCD Act of 1992, to authorize supportive housing for the elderly).

APPENDIX A: LOCAL HUD OFFICES

Notes: (1) The first line of the mailing address for all offices is U.S. Department of Housing and Urban Development. Telephone numbers listed are not toll free.

(2) Applications for projects proposed to be located within the jurisdiction of the Seattle, Washington and the Anchorage, Alaska Offices must be submitted to the Portland, Oregon Office.

(3) Applications for projects proposed to be located within the jurisdiction of the Sacramento, California Office must be submitted to the San Francisco, California Office.

(4) Applications for projects proposed to be located within the jurisdiction of the Cincinnati, Ohio Office must be submitted to the Columbus, Ohio Office.

(5) Applications proposed to be located within the jurisdiction of the Washington, DC Office must be submitted to the Baltimore, Maryland Office.

HUD—Boston Hub

Hartford Office, One Corporate Center, 19th Floor, Hartford, CT 06103-3220, (860) 240-4800, TTY Number: (860) 240-4665

Boston Office, Room 301, Thomas P. O'Neill, Jr., Federal Building, 10 Causeway Street, Boston, MA 02222-1092, (617) 994-8500, TTY Number: (617) 565-5453

Manchester Office, Norris Cotton Federal Building, 275 Chestnut Street, Manchester, NH 03101-2487, (603) 666-7681, TTY Number: (603) 666-7518

Providence Office, Sixth Floor, 10 Weybosset Street, Providence, RI 02903-2808, (401) 528-5230, TTY Number: (401) 528-5403

HUD—New York Hub

New York Office, 26 Federal Plaza, New York, NY 10278-0068, (212) 264-8000, TTY Number: (212) 264-0927

HUD—Buffalo Hub

Buffalo Office, Fifth Floor, Lafayette Court, 465 Main Street, Buffalo, NY 14203-1780, (716) 551-5755, TTY Number: (716) 551-5787

HUD—Philadelphia Hub

Philadelphia Office, The Wanamaker Building, 100 Penn Square East, Philadelphia, PA 19107-3380, (215) 656-0600, TTY Number: (215) 656-3452

Charleston Office, Suite 708, 405 Capitol Street, Charleston, WV 25301-1795, (304) 347-7000, TTY Number: (304) 347-5332

Newark Office, Thirteenth Floor, One Newark Center, Newark, NJ 07102-5260, (973) 622-7900, TTY Number: (973) 645-3298

Pittsburgh Office, 339 Sixth Avenue, Sixth Floor, Pittsburgh, PA 15222-2515, (412) 644-6428, TTY Number: (412) 644-5747

HUD—Baltimore Hub

Baltimore Office, Fifth Floor, City Crescent Building, 10 South Howard Street, Baltimore, MD 21201-2505, (410) 962-2520, TTY Number: (410) 962-0106

Richmond Office, The 3600 Centre, 3600 West Broad Street, Richmond, VA 23230-4920, (804) 278-4500, TTY Number: (804) 278-4501

HUD—Greensboro Hub

Greensboro Office, Koger Building, 2306 West Meadowview Road, Greensboro, NC 27407-3707, (336) 547-4000, TTY Number: (336) 547-4055

Columbia Office, Strom Thurmond Federal Building, 1835-45 Assembly Street, Columbia, SC 29201-2480, (803) 765-5592, TTY Number: (803) 253-3071

HUD—Atlanta Hub

Atlanta Office, 40 Marietta Street—Five Points Plaza, Atlanta, GA 30303-2806, (404) 331-5001, TTY Number: (404) 730-2654

San Juan Office, Edificio Administracion de Terrenos, 171 Carlos Chardon Avenue, Suite 301, San Juan, PR 00918-0903, (787) 766-5400, TTY Number: (787) 776-5609

Louisville Office, 601 West Broadway, P.O. Box 1044, Louisville, KY 40201-1044, (502) 582-5251, TTY Number: 1-800-648-6056

Knoxville Office, Third Floor, John J. Duncan Federal Building, 710 Locust Street, Knoxville, TN 37902-2526, (423) 545-4384, TTY Number: (423) 545-4559

Nashville Office, Suite 200, 235 Cumberland Bend, Nashville, TN 37228-1803, (615) 736-5213, TTY Number: (615) 736-2886

HUD—Jacksonville Hub

Jacksonville Office, Suite 2200, Southern Bell Tower, 301 West Bay Street, Jacksonville, FL 32202-5121, (904) 232-2626, TTY Number: (904) 232-2631

Birmingham Office, Medical Forum Building, 950 22nd St., North, Suite 900, Birmingham, AL 35203-5301, (205) 731-2630, TTY Number: (205) 731-2624

Jackson Office, Suite 910, Doctor A.H. McCoy Federal Building, 100 West Capitol Street, Jackson, MS 39269-1096, (601) 965-4700, TTY Number: (601) 965-4171

HUD—Chicago Hub

Chicago Office, Ralph H. Metcalfe Federal Building, 77 West Jackson Boulevard, Chicago, IL 60604-3507, (312) 353-5680, TTY Number: (312) 353-5944

Indianapolis Office, 151 North Delaware Street, Indianapolis, IN 46204-2526, (317) 226-6303, TTY Number: (317) 226-7081

HUD—Detroit Hub

Detroit Office, Patrick V. McNamara Federal Building, 477 Michigan Avenue, Detroit, MI 48226-2592, (313) 226-7900, TTY Number: (313) 226-6899

Grand Rapids Office, Trade Center Building, 50 Louis Street, NW., Third Floor, Grand Rapids, MI 49503-2648, (616) 456-2100, TTY Number: (616) 456-2159

HUD—Columbus Hub

Columbus Office, 200 North High Street, 7th Floor, Columbus, OH 43215-2499, (614) 469-2540, TTY Number: (614) 469-6694

Cleveland Office, Renaissance Building, 1350 Euclid Avenue, Suite 500, Cleveland, OH 44115-1815, (216) 522-4058, TTY Number: (216) 522-2261

HUD—Minneapolis Hub

Minneapolis Office, 220 Second Street, South, Minneapolis, MN 55401-2195, (612) 370-3000, TTY Number: (612) 370-3186

Milwaukee Office, Suite 1380, Henry S. Reuss Federal Plaza, 310 West Wisconsin Avenue, Milwaukee, WI 53203-2289, (414) 297-3214, TTY Number: (414) 297-1423

HUD—Ft. Worth Hub

Little Rock Office, Suite 900, TCBY Tower, 425 West Capitol Avenue, Little Rock, AR 72201-3488, (501) 324-5931, TTY Number: (501) 324-5931

New Orleans Office, Ninth Floor, Hale Boggs Federal Building, 501 Magazine Street, New Orleans, LA 70130-3099, (504) 589-7200, TTY Number: (504) 589-7279

Ft. Worth Office, 801 Cherry Street, P.O. Box 2905, Fort Worth, TX 76113-2905, (817) 978-5965, TTY Number: (817) 978-5595

Houston Office, Suite 200, Norfolk Tower, 2211 Norfolk, Houston, TX 77098-4096, (713) 313-2274, TTY Number: (713) 834-3274

San Antonio Office, Washington Square, 800 Dolorosa Street, San Antonio, TX 78207-4563, (210) 475-6800, TTY Number: (210) 475-6885

HUD—Great Plains

Des Moines Office, Room 239, Federal Building, 210 Walnut Street, Des Moines, IA 50309-2155, (515) 284-4512, TTY Number: (515) 284-4728

Kansas City Office, Room 200, Gateway Tower II, 400 State Avenue, Kansas City, KS 66101-2406, (913) 551-5462, TTY Number: (913) 551-6972

Omaha Office, Executive Tower Centre, 10909 Mill Valley Road, Omaha, NE 68154-3955, (402) 492-3100, TTY Number: (402) 492-3183

Saint Louis Office, Third Floor, Robert A. Young Federal Building, 1222 Spruce Street, St. Louis, MO 63103-2836, (314) 539-6583, TTY Number: (314) 539-6331

Oklahoma City Office, 500 West Main Street, Suite 400, Oklahoma City, OK 73102-2233, (405) 553-7401, TTY Number: 1-800-877-8339

HUD—Denver Hub

Denver Office, 633 17th Street, Denver, CO 80202-3607, (303) 672-5440, TTY Number: (303) 672-5248

HUD—San Francisco Hub

Phoenix Office, Suite 1600, Two Arizona Center, 400 North 5th Street, Phoenix, AZ 85004-2361, (602) 379-4434, TTY Number: (602) 379-4464

San Francisco Office, Philip Burton Federal Building and U.S. Courthouse, 450 Golden Gate Avenue, P.O. Box 36003, San Francisco, CA 94102-3448, (415) 436-6550, TTY Number: (415) 436-6594

Honolulu Office, Suite 500, 7 Waterfront Plaza, 500 Ala Moana Boulevard, Honolulu, HI 96813-4918, (808) 522-8185, TTY Number: (808) 522-8193

HUD—Los Angeles Hub

Los Angeles Office, 611 West 6th Street, Suite 800, Los Angeles, CA 90017-3106, (213) 894-8000, TTY Number: (213) 894-8133

HUD—Seattle Hub

Portland Office, 400 Southwest Sixth Avenue, Suite 700, Portland, OR 97204-1632, (503) 326-2561, TTY Number: (503) 326-3656

Appendix B

The non-standard forms, which follow, are required for your Section 811 Program application.

BILLING CODE 4210-32-P

FUNDING AVAILABILITY FOR THE HOUSING OPPORTUNITIES FOR PERSONS WITH AIDS (HOPWA) PROGRAM

PROGRAM OVERVIEW

Purpose of the Program. To provide States and localities with the resources and incentives to devise long-term comprehensive strategies for meeting the housing and related supportive service needs of persons with HIV/AIDS and their families.

Available funds. Approximately $27,543,000 (and under a related part of this SuperNOFA, up to $2,000,000 for technical assistance for the HOPWA program). Funds will be made available under this program NOFA in the following priority order: (1) Renewal of expiring HOPWA grants providing permanent supportive housing as described in Part B: Renewal Projects; (2) award of project outcome add-on funding for HOPWA grants not receiving such funding, as described in Part C: Project Outcomes Add-on Funding; and (3) to continuing and new projects seeking HOPWA funding, as described under Part D: Continuing and New Projects.

Eligible Applicants. States, units of general local government, and nonprofit organizations may apply for HOPWA competitive funding under this NOFA. Additional, eligibility requirements are outlined under each part of this program NOFA.

Application Deadline.

Part B: Project Renewals: May 16, 2002

Part C: Project Outcome Add-on Funding: May 16, 2002

Part D: Continuing and New Projects: June 25, 2002

Match. None.

ADDITIONAL INFORMATION

If you are interested in applying for funding under this program, please review carefully the General Section of this SuperNOFA and the following sections of this program NOFA. For more information on the program itself including eligible uses of funds, see the HOPWA program regulations at 24 CFR Part 574 and the AIDS Housing Opportunity Act (42 U.S.C. 12901), which control over any information contained herein.

PART A: GENERAL PROGRAM REQUIREMENTS

The following information provides general guidelines, policies, and requirements for applicants applying for HOPWA competitive funding under this NOFA. Unless otherwise noted, the following provisions apply to applicants of Parts B-D of this program NOFA.

I. Available Funding and Additional Resources

(A) HOPWA FY2002 Competitive Program. Through this NOFA, approximately $27,543,000 is being made available for HOPWA awards. Additional funds may be awarded if funds are recaptured, deobligated, appropriated or otherwise made available during the fiscal year. Priority funding will be given to applicants applying, first, to renewal of expiring permanent supportive housing grants as outlined under Part B of this program NOFA. Secondly, if funds remain, HUD will fund applicants for project outcome add-on funding, as outlined under Part C of this program NOFA. Lastly, if funds remain, HUD will award funds for continuing or new projects, as outlined under Part D of this program NOFA.

(B) Availability of FY 2002 Formula Allocations. You should consider seeking funds from the formula component of the HOPWA program and from other resources. Ninety (90) percent of the HOPWA program is allocated by formula to recipient states and cities. In FY2002, a total of $247,889,000 million was allocated by formula to the qualifying cities for 74 eligible metropolitan statistical areas (EMSAs) and to 34 eligible States for areas outside of EMSAs. All HOPWA formula grants are available as part of the jurisdiction's Consolidated Plan. Information on consolidated planning, including HOPWA formula programs and descriptions of previously awarded competitive grants, is available on the HUD HOME Page at www.hud.gov/grants.

(C) Availability of National HOPWA Technical Assistance. To apply for HOPWA technical assistance funds, submit an application for funds under the Community Development Technical Assistance (CDTA) part of this notice, which is published elsewhere in this SuperNOFA. The CDTA notice makes available up to $2,000,000 in HOPWA funds to organizations for technical assistance support on a national or regional basis.

II. Application Kits, Further Information, and Technical Assistance

(A) Where to Send Your Application. You must send your application on or before 12:00 midnight, Eastern time, consistent with the specific due date for your application as stated in the Program Overview of this program NOFA, to HUD Headquarters. See the General Section of this SuperNOFA for specific procedures governing the form of application submission (e.g., mailed applications, express mail, or overnight delivery.

(B) Address for Submitting Applications. Your completed application consists of an original signed application and three copies. Submit the original application and one copy to: Department of Housing and Urban Development, Attn: HOPWA, 451 Seventh Street, SW, Room 7251, Washington, DC 20410. The original application submitted to HUD headquarters is considered the official application.

Submit the additional two (2) copies of your application to the area CPD Field Office or Offices that serve the area in which activities are proposed. For multi-state efforts you must submit two copies of your application to the Field Office that serves your main office. The list of addresses for area CPD Field Offices is provided as Appendix B of this program section of this SuperNOFA. If you propose nationwide activities, you must send all copies to the HUD headquarters office. When submitting your applications, please refer to HOPWA, and include your name, mailing address (including zip code), facsimile, email, and telephone number (including area code).

(C) For Application Kits. Although you may begin working on your application with the materials provided in this NOFA and its appendixes, please call the SuperNOFA Information Center at 1-800-HUD-8929 (1-800-483-8929) for an application kit. Persons with hearing or speech challenges may access the above number via TTY (text telephone) by calling the Federal Relay Service at 1-800-877-8339 (this is a toll-free number). The application kit also will be available on the Internet through the HUD Web site at http://www.hud.gov/grants.

(D) For Further Information and Technical Assistance. You may call the HUD Field Office serving your area, at the telephone number shown in Appendix B, or you may contact the Office of HIV/AIDS Housing, HUD at (202) 708-1934. HUD staff may assist with program questions, but may not assist in preparing your application.

(E) Seeking Technical Assistance in Developing a HOPWA Application. HOPWA TA providers may not provide technical assistance in the drafting of responses to HUD's NOFA due to the unfair advantage such assistance gives to one organization over another. If HUD determines that HOPWA technical assistance has been used to draft a HOPWA application, HUD reserves that right to reject the application for funding. If, after your application has been selected for an award, HUD determines that HOPWA technical assistance was used to draft your application, the award will be withdrawn and you may be liable for any funds already spent.

(F) Satellite Broadcast. HUD will hold information broadcasts via satellite for potential applicants to learn more about the program and preparation of the application. For more information about the date and time of the broadcast, you should consult the HUD Web site at http://www.hud.gov/grants.

III. Applicable Requirements of the General Section of the SuperNOFA

The provisions outlined within the General Section of the SuperNOFA apply to the HOPWA program unless otherwise stated within this program NOFA. Specifically, you are encouraged to review:

(A) Section II: Requirements and Procedures Applicable to All Programs. The threshold requirements in the General Section apply to the HOPWA program and applicants must meet all threshold requirements to receive funding.

(B) Section VI: HUD's FY 2002 SuperNOFA Policy Priorities. HUD has identified policy priorities which applicants are encouraged to address in implementing programs funded under this notice. Applicable policy priorities for HOPWA grants seeking funding under Part D of this program NOFA are outlined in Part D, Section III: Policy Priorities. Applicants seeking funding under Parts B and C of this program NOFA are not required to address HUD's policy priorities.

IV. Corrections to Deficient Applications

See Part V: Corrections to Deficient Applications of the General Section of the SuperNOFA.

V. Award Modifications

After reviewing each application HUD reserves the right to:

(A) Make Award Adjustments. HUD reserves to make award adjustments as outlined in Section III.(E), Application Selection Process, of the General Section of this SuperNOFA.

(B) Add Project Outcome Funding. Applicants must add up to $50,000 to the HOPWA application for the purposes of the collection of data on project outcomes. If an applicant fails to request this level of funding for this activity, HUD reserves the right to add such funding to the selected application.

(C) Not to Duplicate Continuum of Care Projects. HUD reserves the right to ensure that activities funded under the FY 2002 Continuum of Care will not duplicate new or continuing activities funded under this competition.

VI. Statutory Certifications

HOPWA applicants are not required to provide the forms, certifications, and assurances listed in the General Section of the SuperNOFA unless stated below. The following certifications must be included with your application. All certifications and forms, except those found in the General Section of the SuperNOFA, are included in the appendixes to the HOPWA section of the NOFA.

(A) Certifications found in the General Section of the SuperNOFA.

(1) Consolidated Plan Certification (HUD-2991). Except as stated below, you must include a Consolidated Plan certification from the applicable State or local government official responsible for submitting the appropriate plan. If your project will be carried out on a national basis or will be located on a reservation of an Indian tribe, Guam, the Virgin Islands, American Samoa, or the Northern Mariana Islands you are not required to include a Consolidated Plan certification with your application. The authorizing official from the State or local government must sign this certification.

(2) Certification of Drug-Free Workplace (HUD-50070)

(3) Certification of Payments to Influence Federal Transactions (HUD-50071)

(4) Disclosure of Lobbying Activities (SF-LLL)

(5) Certification Regarding Debarment and Suspension (HUD-2992)

(6) Consistency with the RC/RC/EZ/EC Strategic Plan (HUD-2990)

(7) Applicant/Recipient Disclosure/Update Report (HUD-2880)

(B) HOPWA Certification found at Appendix D of this program section of the NOFA.

(1) Fair Housing and Non-discrimination

(2) Environmental Law and authorities

(3) Continued use periods for assisted structures

(4) Debarred, Suspended and Ineligible Principals

VII. Program Requirements

(A) Nonprofit Requirement. To be eligible as a nonprofit applicant or project sponsor, you must satisfy the requirements of 24 CFR 574.3. Your application must establish both that you are a nonprofit organization and that your organizational documents include a purpose of significant activities related to providing services or housing to persons with HIV/AIDS.

If you do not qualify as a nonprofit, you are not eligible to receive funds and serve as the grantee or as a project sponsor. However, you may collaborate with eligible nonprofit organizations or with a government agency that applies for the grant and assist them, for example, in planning for the proposed activities, identifying needs in your community and identifying clients who will be assisted. In addition, you may do work under contract with a grantee for services funded by this grant.

(1) We will accept as evidence of your nonprofit status:

(a) A copy of the Internal Revenue Service (IRS) ruling providing tax-exempt status under Section 501(C) (3), (4), (6), (7), (9) or (19) of the IRS code; or

(b) A ruling from the Treasury Department of the Commonwealth of Puerto Rico granting income tax exemption under section 101 of the Income Tax Act of 1954, as amended (13 LPRA 3101); or

(c) Documentation showing that the applicant is a certified United Way agency; or

(d) All of these:

(i) A certification by the appropriate official of the jurisdiction under whose laws the nonprofit was organized that your organization was so organized and is in good standing;

(ii) A certification from a designated official of the organization that no part of the net earnings of the organization inures to the benefit of any member, founder, contributor, or individual; that the organization has a voluntary board; and that the organization practices nondiscrimination in the provision of assistance; and

(iii) An opinion letter from a CPA that the nonprofit has a functioning accounting system that provides for each of these (the letter must mention all of them):

(1) Accurate, current and complete disclosure of the financial results of each federally funded project;

(2) Records that identify adequately the source and application of funds for federally funded activities;

(3) Effective control over and accountability for all funds, property and other assets;

(4) Comparison of outlays with budget amounts;

(5) Written procedures to minimize the time elapsing between the transfer of funds to the recipient from the US Treasury and the use of funds for program purposes;

(6) Written procedures for the determining the reasonableness, allocability and allowability of costs; and

(7) Accounting records including cost accounting records that are supported by source documentation.

(2) We will accept as evidence of your purpose, a certified copy of the organization's articles of incorporation and by-laws which includes in the organization's purposes significant activities related to providing services or housing to persons with HIV/AIDS.

(B) Performance Benchmark Requirements. All grantees receiving funds under this program NOFA are expected to meet the following benchmark requirements. If a selected project does not meet the appropriate performance benchmark, HUD reserves the right to cancel or withdraw the grant funds.

(1) Execution of Grant Agreement. Selected applicants must execute grant agreements by the earlier of September 25, 2003 or the first anniversary of HUD's announcement of the awards. HOPWA grants are obligated upon grant execution and the FY 2002 Appropriations Act requires HUD to obligate funds within two years of the appropriation, September 30, 2003, or to lose the funds.

(2) Disbursement of Funds. Grantees receiving awards under this NOFA must fully expended their grants no later than the earlier of three years following the effective date of the grant agreement or by September 30, 2008. The FY2002 Appropriation Act requires deobligation of grant funds which not expended within five years of the appropriation, September 30, 2008.

(3) Site Control through Acquisition or Lease. If you acquire or lease a site, you are required to gain site control within one year from the date your selection letter was signed by HUD.

(4) Rehabilitation or New Construction. If you propose to use HOPWA funds for rehabilitation or new construction activities, you must begin the rehabilitation or construction within 18 months and complete that work within 3 years from the date your selection letter was signed by HUD.

(5) Program Operations. For projects conducting rehabilitation or new construction activities, program operations must begin within 36 months of the date your selection letter was signed by HUD. Program operations begin when clients begin receiving housing or supportive services.

(6) Six-Month Report. You must provide an initial report to the Field Office and Headquarters on the startup of the planned activities within six months of your selection. Outline any accomplishments in implementing the funds along with identifying any barriers or issues for which the Department may provide assistance.

(C) Program Guidance.

(1) Program Operating Year. Grants awarded through this NOFA must designate the 12-month operating year, which indicates the start and end dates of the term of the grant, at the signing of the grant agreement. The operating year may begin within four months of the signing of the grant agreement or as specified by HUD at the time of award. The operating period begins the day when participants begin to receive housing or supportive services, or for capital development activities at site control or the start of rehabilitation or new construction activities. The operating period is a 12-month period for which grantees report annual accomplishments. Grantees are required to submit annual progress reports to HUD within 90 days following the end of each operating year.

(2) Incorporation of Mainstream Resources. To the extent possible, HUD encourages projects to incorporate mainstream resources into their project plans to maximize the benefit of requested HOPWA funds. Mainstream resources may include private, other public, and mainstream services and housing programs that provide benefits to eligible clients. Applicants are encouraged to create community wide strategies to coordinate assistance to eligible clients through these mainstream programs. These mainstream programs include Medicaid, Children's Health Insurance Program, Temporary Assistance for Needy Families, Food Stamps, and services funding through the Mental Health Block Grant and Substance Abuse Block Grant, Workforce Investment Act and the Welfare-to-Work grant program. Under each part of this program NOFA, as an applicant, you may be asked to address how your project is incorporating mainstream programs to benefit clients.

VIII. Other Requirements

(A) Environmental Requirements. All HOPWA assistance is subject to the National Environmental Policy Act and applicable related Federal environmental authorities. In accordance with Section 856(h) of the AIDS Housing Opportunities Act, environmental reviews for HOPWA activities are to be completed by responsible entities (including units of general local government, States, Indian tribes and Alaska Native villages) in accordance with 24 CFR Part 58. Applicants or grantees that are not States or units of general local government must request the unit of general local government to perform the environmental review. This statutory provision supersedes the environmental provisions in the HOPWA regulation at 24 CFR 574.510. HOPWA grantees and project sponsors may not commit or expend any grant or nonfederal funds on project activities (other than those listed in 24 CFR 58.22(c), 58.34 or 58.35 (b)) until HUD has approved a Request for Release of Funds and environmental certification from the responsible entity. The expenditure or commitment of HOPWA or nonfederal funds for such activities prior to this HUD approval may result in the denial of assistance for the project under consideration.

(B) Local Resident Employment (Section 3 Requirements). For grants in excess of $200,000, to the extent that grant funds are used for housing rehabilitation (including reduction and abatement of lead-based paint hazards, but excluding routine maintenance, repair, and replacement) or housing construction, then it is subject to section 3 of the Housing and Urban Development Act of 1968 and the implementing regulations at 24 CFR part 135. Section 3 requires that economic opportunities shall, to the greatest extent feasible, be given to low- and very low-income persons, particularly those who are recipients of government assistance for housing, and to businesses that provide economic opportunities for these persons.

IX. Authority

This program is authorized under the AIDS Housing Opportunity Act (42 U.S.C. 12901). The regulations for HOPWA are found at 24 CFR part 574.

PART B. RENEWAL PROJECTS

HUD will consider applications under this part that are renewals of expiring HOPWA competitive grants whose primary purpose is the provision of permanent supportive housing.

I. General Policies on Renewal of Permanent Supportive Housing Grant—Purpose

Under the provisions of the HUD Appropriation Act for FY2002, the Secretary is required to renew qualifying expiring contracts for permanent supportive housing on a priority basis. Grants funded under prior HOPWA competitions that meet the below eligibility requirements and meet all program requirements will be given priority renewal by HUD. Applications will be reviewed on a pass/fail threshold review system and are not required to address the departmental policy priorities described in the General Section of the SuperNOFA. If you have an expiring grant, which is not for permanent supportive housing, you may apply for funding under Part D of this NOFA.

II. Eligibility of Applicants and Grants

To be eligible for priority renewal under this part, you must meet all of the following eligibility requirements:

(A) Eligible Permanent Supportive Housing Grants. To be eligible, your project must provide permanent supportive housing to eligible persons. Permanent supportive housing is housing in which the eligible person has a continuous legal right to remain in the unit and which provides the eligible person on-going supportive services through qualified providers. HUD has deemed grants in which 51 percent or more of HOPWA program activity funds are used (1) to provide permanent housing where on-going supportive services are made available through other resources; or (2) to provide supportive services where permanent housing is provided through other resources, to be grants providing permanent supportive housing, and thereby eligible. To establish eligibility, provide documentation of the following:

(1) Certification of the Provision of Permanent Housing. You must certify that at least 51% of the HOPWA program activity funds awarded to your grant were and are being used to provide permanent supportive housing to eligible persons. To determine whether your grant meets this test, use the Permanent Supportive Housing Worksheet found in Appendix D and submit it with your certification. The test is based on the HOPWA funded program activity costs approved in the original application or, as amended by HUD, excluding administrative costs and project outcome funding. To be counted, the grant funds must be used to provide the housing or to provide supportive services to eligible persons living in permanent housing.

(2) Documentation of Other Resources. If your project relies on other state, local, Federal, or private resources to provide the permanent housing or supportive services portion of your project, you must demonstrate that the other resources will continue to be available for that purpose throughout the term of the renewal grant. The continuing assistance must have been documented within the original application to HUD and be used in conjunction with requested HOPWA funds. Evidence of continuing assistance must be provided, as follows:

(a) Permanent Housing. Permanent housing provided through other resources must be documented in the renewal application through a leveraging letter. The leveraging letter must outline the amount of funds for the housing to be provided, the term the funds will be made available, and be signed by the organization providing such housing or funding for the housing. See Part D, Section V, Rating Factor 4: Leveraging Resources, for acceptable leveraging letter examples.

(b) Supportive Services. Supportive services provided through other resources must be documented through a commitment letter(s), which outline(s) the type of support that will be provided to clients, the organizations providing such support, and the length of time such supportive will be available. Supportive services must be available to clients in permanent housing throughout the term of the renewal grant.

(3) Evidence of Permanent Client Occupancy. Except for funds used for short term mortgage, rent and utility payments, you must evidence that the client has a continuous legal right to remain in the unit or property and has access to on-going supportive services provided through qualified providers. You must include in your application a copy of the standard lease form used for residents of the project. It must be for a term of at least one year, be renewable by the tenant and may only be terminable by the landlord for cause.

(B) Eligible Expiring Grant. To be eligible, the HOPWA grant must be an expiring grant, defined as a grant that will not have sufficient funds to continue activities until September 30, 2003, if not awarded additional Federal funds. The applicant must demonstrate to HUD that all funds awarded in the grant it seeks to renew will be expended before September 30, 2003 (as measured by reimbursements filed with HUD under the financial system, PAS). HUD may deobligate funding of HOPWA grants that have been renewed on this basis and fail to expend funding by September 30, 2003.

(C) Eligible Prior Grants. To be eligible, prior grants must have been selected by HUD for funding under HUD's SuperNOFA process in 1998, 1999, or 2000 and must not have been renewed through a previous competition. Grants selected in 1997 were required to operate and complete activities before the end of fiscal year 2001. Grants funded in 1997 are not eligible for renewal, unless the grantee documents that HUD approved a grant extension of the project that would allow for its continued operations in the Federal Fiscal Year 2002 or 2003.

(D) Eligibility based on Achieving Measurable Progress. To be eligible, prior grants must have operated with measurable progress, defined as not evidencing weak performance. Weak performance consists of sanctions or unresolved monitoring findings during the active competitive period, from the date of publication of this NOFA until the selection of grants, or other HUD knowledge of unresolved problems. Unresolved problems may include that planned activities remain delayed in their implementation, a significant number of units are vacant, annual progress reports were not filed with HUD at by the application due date under this NOFA for renewals, or significant citizen complaints are unresolved or not responded to with justified reasons. Weak performance is also evident if more than 50 percent of grant funds remain unexpended on the first day of the month in which the application due date for renewals under this NOFA falls (as measured by reimbursements filed with HUD's financial system, PAS).

(E) Eligible Applicant for Renewals. You are eligible to apply for renewal of a prior HOPWA grant only if you have executed a grant agreement for the project directly with HUD. If you are a project sponsor or subrecipient who has not signed such an agreement, you are not eligible to apply. HUD will reject applications submitted by ineligible applicants. If you have questions about your eligibility to apply, contact the local HUD field office.

(F) Eligible Project Sponsors. The project should also continue with the same project sponsors, as documented in the prior HOPWA application funded by HUD. HUD will consider the merits for changing a project sponsor if the new sponsor evidences the capacity to enhance project operations or improve responsiveness to clients. Such examples for changing a project sponsor may be that a new project sponsor has greater capacity to conduct program activities, a prior project sponsor is no longer in operation or has merged with another entity, or HUD approved such a sponsor change through a grant amendment.

(G) Ineligible Grants and Projects. You are ineligible if any of the following apply:

(1) Expired Grants. Your grant expired in the Federal Fiscal Year 2001 or earlier, i.e. all funds were expended (as measured by PAS) by September 30, 2001, or only a residual amount that is less than one percent of the amount of the prior grant remains, are not eligible to apply for renewal funding under this notice.

(2) Prior Grants. Your grant was awarded under the 1992-1996 HOPWA competitions. These grants were required to complete activities within three years of the grant agreement.

(3) Non-Permanent Supportive Housing Projects. Projects primarily offering short-term, transitional, or emergency housing options are not eligible. Applicants with existing HOPWA projects that do not qualify for priority renewal under this part, may apply for continuing funding under Part D: Continuing and New Projects section of this program NOFA.

III. Renewable Activities and Amount of Renewals

(A) Eligible grants will receive renewal funding on approved eligible activities, as follows:

(A) Eligible Renewal Activities. The activities to be renewed must be on-going forms of support, such as rental assistance, short-term rent, mortgage and utility payments, operating costs for housing facilities, leasing, supportive service costs, housing information services, resource identification/technical assistance for community residences activities and administrative costs. Additionally, applicants must request up to $50,000 in project outcome funding as a part of their renewal budget request.

(B) Ineligible Renewal Activities. Funds for acquisition, new construction or for rehabilitation costs will not be renewed. These capital development activities are not on-going or available for additional sites. If you wish to undertake additional capital development activities or to add funding for new activities, such as operating costs and services, you must apply under Part D.

(C) Amount of Renewals. Renewal projects may only request renewal funds for continuing a previously approved project at the same level of housing and/or services provided in the previous grant. Proposals to expand or significantly alter a funded-project must apply under Part D for the new activities or the expanded part of the project.

(D) Project and Activity Funding. Renewal funding must not exceed 120% of the amount originally awarded for an activity, but may be less than the amount originally awarded, including any amendments affecting this amount that were approved by HUD prior to the publication of this NOFA. However, the total activity costs may not exceed $1,200,000. The limits on administrative costs, three percent for grantees and seven percent for project sponsors, continue to apply. In addition, renewal grantees must add up to $50,000 to the renewal award for the purpose of the collection of data on program outcomes.

(E) Annual Amounts. As an applicant for renewal funding, you must specify the annual amount needed to continue each activity and specify the number of years, up to three, for your request by completing the HOPWA Renewal Budget Form (Appendix A). You should describe your plan for continued operations in the Executive Summary section of your application, including any significant reduction to your prior award level.

IV. Selection Criteria and Process

(A) Selection Process. To the degree that funds are available, the Department will select for funding all renewal requests from applicants that meet program requirements and pass a threshold review for a need for renewal. In the case that the amount requested for renewal is less than the amount available under this notice, HUD will apply the remaining funds, first, to applicants under Part C and then, second, Part D. If the amount of the request for renewal activities is greater than the amount made available by this notice, HUD will select all of the approvable applications and allocate awards to each based on a prorata reduction to the amount available under this notice to ensure that all eligible and performing renewal projects receive funding that allows their continued operation.

(B) Selection Criteria. HUD will conduct a threshold review of all renewal applications based on the following criteria:

(1) Eligibility. HUD will review your eligibility to apply for renewal funding under this program as described above under Part B, Section II, Eligibility of Applicants and Grants.

(2) Organizational Capacity. If a new project sponsor is added, HUD will review the project sponsor's capacity to conduct program activities.

(3) Provision of Permanent Supportive Housing. HUD will review whether your project provides permanent supportive housing.

(4) Need for Renewal. HUD will review your need for renewal, and how this project has operated with measurable progress, as described below in the Need for Renewal Narrative.

(5) Standard Eligibility Threshold Requirements. HUD will also review your application to ensure that your project meets the standard eligibility threshold requirements as described in Part A, Section III.(A), above.

(C) Application Contents. Applicants are requested to submit the following information:

(1) Application for Federal Assistance (Form SF-424). You should complete Items 1 through 18 with the following additions:

(a) Item 5—Add e-mail address of the contact person;

(b) Item 7—The applicable letters are “A” for State; “B, C, or D” for a unit of local government; or “N” for Nonprofit;

(c) Item 9—Enter U.S. Department of Housing and Urban Development or HUD if not preprinted;

(d) Item 10—Enter 14-241 and the title “Housing Opportunities for Persons With AIDS Program” or “HOPWA” for the Catalogue of Federal Domestic Assistance;

(e) Item 15—You must complete the budget on HUD-424M and the HOPWA Renewal Project Budget Form. Please make sure that both the Total Amount on HUD-424M and the “Total Budget” section on the HOPWA Renewal Project Budget Form are the same. In the event that the total budgets are in conflict, HUD will refer to the HOPWA Project Budget form.

(f) Item 16—Check “No”.

(2) Executive Summary and Synopsis. On no more than five (5) double spaced pages, please provide an Executive Summary of the renewal project, beginning with a two to three sentence synopsis of the focus of your project. In the Executive Summary, please provide the name of the grantee and any project sponsors.

(3) Narrative Statements. Your application must include the following narrative statements:

(a) Organizational Capacity Narrative. If a new project sponsor(s) is added to the proposal, please describe the capacity of the project sponsor(s) to conduct program activities. Please provide this information on no more than two double-spaced typed pages. If you are adding more than one project sponsor, you may add two (2) additional pages per project sponsor. Address the extent to which the project sponsor(s) have the organizational resources necessary to successfully implement your proposed activities in a timely manner. HUD will review the project sponsor's ability to develop and operate your proposed program. With regard to new project sponsor(s), HUD will consider:

(i) Past experience and knowledge in serving persons with HIV/AIDS and their families;

(ii) Past experience and knowledge in programs similar to those proposed in your application;

(iii) Experience and knowledge in monitoring and evaluating program performance and disseminating information on project outcomes; and

(iv) Past experience as measured by expenditures and measurable progress in achieving the purpose for which funds were provided.

(b) In reviewing the elements of organizational capacity under paragraph (a), immediately above, HUD will consider the extent to which your proposal demonstrates:

(i) The knowledge and experience of the proposed project director and staff, including the day-to-day program manager, consultants and contractors in planning and managing the kind of activities for which you are requesting funds. The project sponsor will be reviewed in terms of recent, relevant and successful experience of staff to undertake eligible program activities, including experience and knowledge in serving persons with HIV/AIDS and their families.

(ii) The project sponsor's experience in managing complex interdisciplinary programs, especially those involving housing and community development programs directly relevant to the work activities proposed and carrying out grant management responsibilities.

(iii) If the project sponsor received funding in previous years in the program area for which you are currently seeking funding, the sponsor's past experience will be reviewed in terms of the ability to attain demonstrated measurable progress in the implementation of the grant award. Measurable progress is defined as:

(1) Meeting performance benchmarks, as applicable, in program development and operation;

(2) Meeting project goals and objectives, such as, that the number of persons assisted was comparable to the number that was planned at the time of application;

(3) Submitting timely performance reports; and

(4) Expending prior funding as outlined in the prior proposal with no outstanding audit or monitoring issues.

(c) Provision of Permanent Supportive Housing Narrative. On no more than three (3) double-spaced pages, demonstrate how your project provides permanent supportive housing through HOPWA and other resources. Include the type of assistance and number of housing units being provided and a description of the supportive services provided. Additionally, your description should outline how HOPWA and other funding, if applicable, work together to provide permanent supportive housing. In addition, you must provide the following:

(i) Certification of the Provision of Permanent Housing. A certification, in the form provided in Appendix A, that at least 51% of the HOPWA funds awarded the Project were and will continue to be used to provide permanent supportive housing to eligible persons. To determine whether you can make this certification, complete the “Permanent Supportive Housing Worksheet” provided in Appendix A.

(ii) Documentation of Other Resources. If your project relies on other state, local, Federal, or private resources to provide the housing or supportive services, you must document that such assistance will be provided throughout the term of the renewal grant. For information on acceptable forms of evidence, see Part B, Section II (A)(2).

(iii) Evidence of Permanent Housing. Except for funds used for short term mortgage, rent and utility payments, you must provide a copy of the standard lease used for residents of the project. The lease must be for a term of at least one year, be renewable by the tenant and may be terminated by the landlord for cause.

(d) Need for Renewal Narrative. Please address the following on no more than three (3) double-spaced pages:

(i) Measurable Progress. Please demonstrate the need for renewal funding and how this project has operated with measurable progress. Measurable progress is defined as not failing or not evidencing weak performance in:

(1) Meeting performance benchmarks, as appropriate, in program development and operation;

(2) Meeting project goals and objectives, such as, that the number of persons assisted is comparable to the number that was planned at the time of the application;

(3) Submitting timely performance reports;

(4) Expending over 50% of prior funding at the beginning of the month for the due date for renewals (as measured by reimbursements filed with HUD's financial system, PAS.).

(ii) Need for Renewal Chart. Additionally, you should complete the HOPWA Need for Renewal Chart, which demonstrates that prior grant funds will expire by September 30, 2003. You must complete the HOPWA Need for Renewal Chart (Appendix A), as described below:

Line 1.—Indicate the amount of the prior HOPWA award:__________

Line 2.—Indicate the amount expended as of 9-30-01:__________

Line 3.—Subtotal: subtract line 2 from line 1:__________

Line 4.—Indicate the amount to be expended in FY2002:__________ (By September 30, 2002)

Line 5.—Indicate the amount to be expended in FY2003:__________ (By September 30, 2003)

Line 6.—Subtotal: subtract lines 4 and 5 from line 3:__________

Notes: If the subtotal on Line 6 is greater than zero, you are not eligible to apply for renewal funding under this notice. Also note that continued use of prior funds may require that you file an extension request with the area CPD Field Office. Further, if the subtotal on Line 3 is zero or a residual amount that is less than one percent of the amount on Line 1, you are not eligible to apply for renewal funding under this notice. In reviewing the information that you provide in this chart, HUD will determine your eligibility for renewal funding based on financial records for reimbursement of expenditures that are filed under HUD's financial system (PAS).

(4) HOPWA Renewal Budget. Please complete the HOPWA Renewal Budget Form (Appendix A). See Part B, Section III, Renewable Activities and Amount of Renewals, for details on renewal funding.

(5) HOPWA Renewal Project Form (Appendix A). Complete the form including the following:

(a) Project Sponsor. You must identify any organization that will receive HOPWA funds as a project sponsor and the amount of funds to be received.

(b) Non-profit Status. If not previously submitted to HUD through the prior HOPWA application or if a change occurred in non-profit status, non-profit grantees or project sponsors must submit documentation verifying your non-profit status, as outlined under Part A, Section VII (A).

(c) Service Areas. Your application must identify the area(s) in which you are proposing to offer housing and other assistance.

(6) Statutory Certifications. The renewal application should include the required certifications as described under Part A, Section VI, Statutory Certifications.

After your entire application is assembled, please mark each exhibit with an appropriately numbered tab and number every page of the application sequentially. Complete the HOPWA Renewal Application Checklist found in Appendix A to this program section of the SuperNOFA. Attach the HOPWA Renewal Application Checklist to the front of your application.

V. Additional Renewal Information

As an applicant of renewal funding, you are encouraged to read Part A: General Program Requirements at the beginning of this program NOFA. This section outlines submission details, technical assistance, and statutory requirements for using HOPWA funds.

PART C: PROJECT OUTCOMES ADD-ON FUNDING

I. Purpose

Funds for data collection on project outcomes are made available in this part of the NOFA to enable all HOPWA competitive grantees to enhance efforts in gathering information on client and project accomplishments. The information to be collected is related to the special design features, service delivery models, or objectives of these grants that were selected by national competition, as Special Projects of National Significance or projects that serve clients in areas that are not eligible for HOPWA formula allocations. The use of these additional funds will allow your agency to enhance the design of outcome measures, the collection of this data, the evaluation and reporting on this information. In assisting HUD to better disseminate the results from your efforts, the project outcome reports and findings are expected to be of benefit to other communities in considering improvements in their area efforts that provide housing assistance to eligible persons. HUD has made funding for data collection on project outcomes a feature of the national HOPWA competitions in 1998-2001, although not all applicants requested such funding. To assist all recipients to enhance their evaluation efforts, this funding is again being made available to the prior grantees that did not receive funds under this budget line item in their approved application. A threshold review will be undertaken to select applications from current HOPWA competitive grants that propose responsive evaluation and dissemination activities. HUD will award up to $50,000 per application.

II. Eligible Applicants

Eligible applicants are grantees that were awarded HOPWA funds under the FY1999 or FY2000 HOPWA competitive program and were not originally granted project outcome funding. Since the eligible applicants are limited to current recipients of HOPWA competitive funding, HUD will not require applicants to duplicate their original application as to the eligibility of the applicant, client, or activities. HUD is satisfied that the review that was undertaken for these entities in the FY1999 and FY2000 HOPWA competition, for which these entities were determined eligible, is sufficient for the award of these additional funds. Applicants will be required to submit an abbreviated application.

III. Threshold Review

The Department will conduct a threshold review of all HOPWA grantees requesting project outcome add-on funding. Applicants failing to meet the threshold review requirements will not be awarded project outcome add-on funding. The basic threshold review will consist of the following criteria:

(A) Eligibility. HUD will review your eligibility to apply for the project outcome add-on funding under this section, as described above under Eligibility.

(B) Monitoring Review. HUD will review your current HOPWA grant to ensure the project is meeting applicable benchmark requirements and making measurable progress, defined as not evidencing weak performance. HUD will consider that weak performance is evidenced if there are sanctions or unresolved monitoring findings during the active competitive period, from the date of this notice until the selection of grants, or other HUD knowledge of unresolved problems. Unresolved problems may include that planned activities remain delayed in their implementation, a significant number of units are vacant, annual progress reports were not filed with HUD at the time of the due date for applications, or significant citizen complaints are unresolved or not responded to with justified reasons. Grants in default of grant agreement or with unresolved management issues will not be awarded project outcome add-on funding.

(C) Project Outcome Plan. You may request up to $50,000 to collect information and report to HUD, or a third party designated by HUD, on project outcomes. HUD will review your plan to ensure the requested funding will be used to conduct eligible activities. The requested funding may be used for the following activities:

(1) Defining monitoring questions that will be addressed and examined during the project period;

(2) Specifying outcome measures;

(3) Development instruments to assess project outcomes and systems outcomes;

(4) Training project staff in the collection of data, including the preparation of the standard HOPWA Annual Progress Report to HUD;

(5) Monitoring data collection activities to assure the submissions are complete and accurate, including data coding and entry;

(6) Summarizing data collected;

(7) Participate in HUD-sponsored collaboration and HUD-designated training events in order to prepare and disseminate the finding of reports on project accomplishments and lessons learned.

Applicants may include an expert third-party to conduct project outcome/evaluation activities, but grantees are encouraged to train staff internally. Such training will increase the internal capacity of your and your partner organizations by learning how to make use of project outcome data in operating and adjusting assistance provided to clients.

IV. Application Submission

To apply for add-on funding you must submit the following:

(A) Application for Federal Assistance (Form SF-424). You should complete Items 1 through 18 with the following additions:

(1) Item 5—Add e-mail address of the contact person (if applicable);

(2) Item 7—The applicable letters are “A” for State; “B, C, or D” for a unit of local government; or “N” for Nonprofit;

(3) Item 9—Enter U.S. Department of Housing and Urban Development or HUD if not preprinted

(4) Item 10—Enter 14-241 and the title “Housing Opportunities for Persons With AIDS Program” or “HOPWA” for the Catalogue of Federal Domestic Assistance;

(5) Item 15—You must complete the budget on HUD-424M.

(6) Item 16—Check “No”.

(B) Project Narrative. A written description approximately one to two pages on:

(1) The current status of your grant including how the project has met NOFA benchmark requirements, in compliance with the statute and regulations, and is making measurable progress. See Part C, Section III(B): Monitoring Review.

(2) Your plan for utilizing project outcome/evaluation funding. Include a request to receive an amount up to $50,000 and describe your plan to use the additional funds through the remaining term of your grant. See Part C, Section III: Project Outcome Plan.

V. Award Modifications

HUD reserves the right to modify the requested amount of project outcome funding based on a grantees expenditure rate as measured through PAS. HUD may prorate requested funding to match the percentage of remaining funds on any current HOPWA grant.

PART D: CONTINUING AND NEW PROJECTS

I. Program Purpose

Funds under this program are to be used to support the Department's national goal of increasing the availability of decent, safe, and affordable housing in American communities. The statutory purpose of the HOPWA program is meeting the housing needs of low-income persons with HIV/AIDS and their families. Projects selected for HOPWA awards will be funded to provide housing and related supportive services for eligible persons under two categories of assistance:

(A) Grants for Special Projects of National Significance (SPNS) that, due to their innovative nature or their potential for replication, are likely to serve as effective models in addressing the housing and related supportive service needs of low-income persons living with HIV/AIDS and their families; and

(B) Grants for projects that are part of Long-Term Comprehensive Strategies (Long-Term) which provide housing and related supportive services for low-income persons living with HIV/AIDS and their families in areas that are not eligible for HOPWA FY 2002 formula allocations found in Appendix C of this program section of this SuperNOFA.

II. Eligible Applicants and Activities

(A) Eligible Applicants and Project Sponsors.

(1) States, units of general local government, and nonprofit organizations may apply for SPNS grants.;

(2) States and units of general local government may apply for grants for projects under the Long-Term category of grants, if proposed activities will serve areas that were not eligible to receive HOPWA formula allocations in Fiscal Year 2002. Nonprofit organizations are not eligible to apply directly for the Long-Term grants but may serve as a project sponsor for an eligible State or local government grantee.

(3) You must identify your project sponsors in your application. Project Sponsors cannot be identified at a later date through such processes as an RFP or other selection process.

(B) Eligible Activities.

(1) HOPWA Activities. Eligible activities with their standards and limitations may be found in the HOPWA regulations at 24 CFR Part 574. A copy of the regulations may be downloaded from the HUD Web site at http://www.hud.gov or may be obtained through the application kit. You are encouraged to review the HOPWA regulations before seeking funding.

(2) Additional Guidance on Use of Program Funds.

(a) Housing Assistance. To receive the maximum points under the rating criteria, your project must clearly address the housing need of eligible persons. If you are proposing emergency or transitional housing assistance, your plan should include linkages to or the provision of permanent supportive housing.

(b) Supportive Services. Many of the clients who will be served by HOPWA may need services in addition to housing. It is important that you design programs which enhance access to those needed services, including access to health-care, AIDS drug assistance, and other services funded through the Ryan White CARE Act or other Federal, state, local or private funds. While HUD recognizes that there are many ways to ensure that clients receive the services they need, to the extent possible, HUD encourages you to develop housing programs which do not require participation in services as a part of your or your project sponsor's tenancy requirements. Further, to help ensure that selected projects address housing related purposes, no more than 35 percent of the proposed budget for program activities can be designated for supportive services costs. If HOPWA funds will be utilized to operate or develop a supportive service only facility through acquisition, rehabilitation, new construction, lease, or operating costs, these costs will be considered related supportive service costs and will be subject to the 35 percent cap on program activity costs.

(c) Resource identification. HUD will not select under this notice an application that is solely directed at providing resource identification activities, since national HOPWA technical assistance funds are being made available under the Community Development Technical Assistance (CDTA) part of this NOFA for this purpose. You may propose a resource identification or technical assistance component in your application, if the amount of funds designated for these activities are less than 20 percent of the proposed program activity costs.

(d) Other Activities. As authorized by the statute, you may propose other activities in your application, if approved by HUD. HUD will not approve proposals that depend on future decisions on how funds are to be used, for example, a proposal to establish a local request-for-proposal process to select activities or project sponsors.

(e) Project Outcome Funding. You must request funding to conduct data collection on project outcomes. The budget provides that up to $50,000 may be added to collect information and report to HUD on the outcomes of your service delivery model. You must propose data collection activities in your application. Project outcome activities include:

(i) Defining monitoring questions that will be addressed and examined during the project period;

(ii) Specifying outcome measures;

(iii) Developing instruments to assess project outcomes and systems outcomes;

(iv) Training project staff in the collection of data, including the preparation of the standard HOPWA Annual Progress Report to HUD;

(v) Monitoring data collection activities to assure that submissions are complete and accurate, including data coding and entry;

(vi) Summarizing data collected; and

(vii) Participate in HUD-sponsored collaborations and HUD-designated training events in order to prepare and disseminate the findings of reports on project accomplishments and lessons learned.

Applicants may include an expert third-party to conduct project outcome activities, but grantees are encouraged to train staff internally. Such training will increase the internal capacity of your and your partner organizations by learning how to make use of project outcome data in operating and adjusting assistance provided to clients.

(3) Maximum Grant Amounts. The maximum amount that you may receive is $1,200,000 for program activities (e.g., activities that directly benefit eligible clients), irrespective of the number of applications that you submit. You may also add-on up to 3 percent of this program activities amount for grantee administrative costs and, if your program involves project sponsors, add-on up to 7 percent of the amount they receive for their administrative costs. In addition, you must add up to $50,000 for project outcome activities.

III. Policy Priorities

(A) Departmental Policy Priorities. As outlined in Section VI of the General Section of the SuperNOFA, HUD has identified policy priorities that applicants are encouraged to address through the proposed plans. HUD has identified two Departmental policy priorities as being applicable to the HOPWA program. Applications for HOPWA funding will receive a rating point for each applicable Departmental policy priority initiative addressed through the proposed program activities and performance goals and objectives. Applicants must demonstrate how these priorities will be addressed through the Soundness of Approach Section of the application as outlined under Rating Factor 3. One Rating Point will be awarded to each of the following addressed priorities:

(1) In accordance with Section VI(C) of the General Section of the SuperNOFA, for applicants seeking HOPWA funds for capital development activities, including rehabilitation or new construction, you are encouraged to:

(a) Institute visitablity standards in these activities undertaken with HOPWA funds. Vistiablity standards allow a person with mobility impairments access into the home, but do not require that all features be made accessible.

(b) Incorporate universal design in the construction or rehabilitation of housing undertaken with HOPWA funds. Universal design provides housing that is usable by all without the need for adaptation or specialized design.

(2) For applications in which the grantee, project sponsor(s), or other collaborating organizations meets the definition of a faith-based and other community-based, or grassroots organization as defined in Section VI(E) of the General Section of the SuperNOFA.

(B) Program Policies—Target Populations. The Department has been advised by persons living with HIV/AIDS, HIV/AIDS housing providers, and national organizations, of the continuing disparity in accessing housing, health-care, and HIV/AIDS treatment among underserved populations, as well as health-related disparities that result from limited access to health-care, treatment and other support for persons living with HIV/AIDS. Applications seeking to provide housing assistance and related supportive services to one or more of the following underserved populations will receive priority consideration in the selection of grants. To receive this consideration, you must demonstrate the need of the special population in your area under the Need /Extent of the Problem section of your application as outlined under Rating Factor 2, as well as, demonstrate your response to this need under the Soundness of Approach section of your application as outlined under Rating Factor 3.

HUD reserves the right to select the highest rated application (but not one that is rated at less than 70 points) that demonstrates that the planned HOPWA activities and activities supported by leveraged funds, will serve one of the following special populations of HOPWA eligible persons. If funds are insufficient to select one of each of these four special demonstration grants, HUD's selection priority will be in the order listed:

(1) Persons with HIV/AIDS and their families who are living in the Colonias. Primarily the southwest border of the United States, the Colonias are home to persons living an extreme poverty and poor housing conditions. With the limited access to HIV/AIDS housing, services, healthcare, and treatment, persons living with HIV in the Colonias do not receive the necessary care and treatment. HUD is encouraging applications that strive to meet the needs of eligible clients living in the Colonias.—Applicants seeking funding as a Colonias must meet the definition of a Colonias as defined in the General Section of the SuperNOFA.

(2) Youth. Stable housing is one of the most important parts of the safety net for persons living with HIV and AIDS and their families. Youth who are homeless or who run away from home are at greater risk of HIV infection. Youth who are infected with HIV are more likely to be able to follow complex treatment regimens if they have a reliable address where they can be reached by care providers, a safe place to keep medications, refrigeration for drugs that require it, and other necessities that many of us take for granted. Some 20,000 young people are still becoming infected every year, and most of them are not receiving the medical care they need. HUD is encouraging applications that strive to meet the needs of youth impacted by HIV/AIDS.

(3) Rural Populations. A growing number of new HIV and AIDS cases are known to be occurring in the rural and smaller population areas of the country. In many areas, the limited availability of affordable and quality housing, the lack of specialized service providers, excessive travel distances to access HIV care and treatment and/or the lack of HIV treatment options, provide difficult challenges in providing for comprehensive housing and service programs for persons living with HIV/AIDS. HUD is encouraging applications that strive to meet the special need of rural populations through the provision of housing and related supportive services geared to ensure that clients have improved access to necessary treatment. A model service delivery project under this demonstration effort must be located in and serve clients in areas that are outside of the metropolitan statistical areas that have populations of more than 500,000 persons.

(4) Post-Incarcerated. The U.S. Department of Justice (DOJ) estimates that 2.1% of all state and federal prison inmates are persons who are living with HIV, a rate that is higher than the rest of the population. Due to their criminal history, many post-incarcerated persons have difficulty in reentering the community, especially in finding basic housing as well as employment, health care and other necessities when dealing with HIV-infection. Discharge planning actions can coordinate resources to help post-incarcerated persons successfully reintegrate into the community as productive, law abiding citizens. HUD, in partnership with DOJ, the U.S. Departments of Health and Human Services and Education, and other federal agencies, is encouraging the development of projects in which applicants would provide post-incarcerated persons with linkages to permanent housing and services to reduce recidivism, maintain access to healthcare and HIV/AIDS treatment, and access to education, job training and placement opportunities.

IV. Program Requirements

(A) Performance Measures and Project Goals and Objectives. You must use HUD's required performance measures, as detailed below, that will show your accomplishments in using HOPWA funds to expand the housing options that benefit eligible persons. You must also establish individual goals and objectives for your proposal. They should be specific, achievable and measured within set time periods. Your individual goals and objectives should result in possible findings on the successes and lessons learned in undertaking your activities that would be shared with other communities. In designing your proposal, please use the following:

(1) Required HOPWA national performance goal. Your proposed activities must increase the amount of housing assistance and related supportive services to eligible persons to enable them to achieve housing stability and access to health-care and related supportive services.

(2) Measurements of Performance. After each year of operation, you must report on the number of housing units that were provided with HOPWA and other funding, and number of additional persons served with related supportive services. HUD will measure your progress and achievements in evaluating your performance on your HOPWA grant.

(B) Descriptive Budget. You must provide a description of each of your requested budget items and how the funds will be used, including each amount of requested funding for you and your project sponsors, and a description of how each line item will relate to eligible HOPWA activities as defined in Part D, Section II (B). You are expected to match requested funds to specific goals and objectives in your project. See Appendix D.

V. Application Selection Process

(A) HOPWA Application Threshold Reviews. HUD will review your HOPWA application to ensure that:

(1) Your application meets the threshold requirements found in Section II of the General Section of the SuperNOFA.

(2) Your application contains all required certifications as outlined in Part A, Section VI: Statutory Certifications.

(B) Procedures for the Rating of Applications. HUD will rate all HOPWA applications based on the factors listed below.

The points awarded for the factors total 100. In addition, bonus points for projects in RC/EZ/EC areas and by the City of Dallas may be available under Section III(C) of the General Section of this SuperNOFA apply to this competition. After rating, all applications will be placed in the rank order of their final score for selection within the appropriate category of assistance.

Rating Factor 1: Capacity of the Applicant and Project Sponsors and Relevant Organizational Experience (20 Points)

Address the following factor on not more than five (5) double-spaced, typed pages. For each project sponsor, you may add two additional pages. This factor addresses the extent to which you and any project sponsor have the organizational resources necessary to successfully implement your proposed activities in a timely manner. If you will be using project sponsor(s) in your project, you must identify each project sponsor in your application. HUD will award up to 20 points based on your and any project sponsor's ability to develop and operate your proposed program in relation to which entity is carrying out an activity.

(a) With regard to both you and any project sponsor(s), HUD will consider:

(i) Past experience and knowledge in serving persons with HIV/AIDS and their families;

(ii) Past experience and knowledge in programs similar to those proposed in your application;

(iii) Experience and knowledge in monitoring and evaluating program performance and disseminating information on project outcomes; and

(iv) Past experience as measured by expenditures and measurable progress in achieving the purpose for which funds were provided.

(b) In reviewing the elements of paragraph (1), HUD will consider:

(i) The knowledge and experience of the proposed project director and staff, including the day-to-day program manager, consultants and contractors in planning and managing the kind of activities for which you are requesting funds. You and any project sponsor will be judged in terms of recent, relevant and successful experience of staff in undertaking eligible program activities;

(ii) Your and/or the project sponsor's experience in managing complex interdisciplinary programs, especially those involving housing and community development programs directly relevant to the work activities proposed and carrying out grant management responsibilities.

(iii) If you and/or the project sponsor received funding in previous years in the program area for which you are currently seeking funding, you and your project sponsor's past experience will be evaluated in terms of the ability to attain demonstrated measurable progress in the implementation of your grant awards. Measurable progress is defined as:

(1) Meeting applicable performance benchmarks in program development and operation;

(2) Meeting project goals and objectives, such as, that the number of persons assisted was comparable to the number that was planned at the time of application;

(3) Submitting timely performance reports; and

(4) Expending prior funding as outlined in the prior proposal with no outstanding audit or monitoring issues.

Rating Factor 2: Need/Extent of the Problem (20 Points)

Address this factor on not more than five (5) double-spaced, typed pages. Up to 20 points will be awarded for this factor.

(a) AIDS Cases—(5 Points). Up to five of these points will be determined by the relative numbers of AIDS cases and per capita AIDS incidence within your service area, in metropolitan areas of over 500,000 population and in areas of a State outside of these metropolitan areas, in the State for proposals involving state-wide activities, and in the nation for proposals involving nation-wide activities. Your application must define a planned service area. To determine these points, HUD will obtain AIDS surveillance information from the Director of the Centers for Disease Control and Prevention.

(b) Description of Unmet Need—(5 Points). Up to five of these points will be awarded based on demonstration of need for funding eligible activities in the area to be served. To receive the maximum points, demonstrate that substantial housing and related service needs of eligible persons and/or the target population, as outlined in Part D, Section III (B), are not being met in the area and that reliable statistics and data sources (i.e. Census, health department statistics, research, scientific studies, and Needs Analysis of Consolidated Plan and/or Continuum of Care documentation) show this unmet need. To receive the maximum points, show that your jurisdiction's Consolidated Plan and Analysis of Impediments to Fair Housing Choice, Continuum of Care Homeless Assistance plans (if homeless persons are to be served), and comprehensive HIV/AIDS housing plans are applicable to your project and identify the level of the problem and the urgency of the need.

(i) If you apply for a SPNS grant, you must describe a need that is not currently addressed by other projects or programs in the area. Also describe any unresolved or emerging issues and the need to provide new or alternative forms of assistance that, if provided, would enhance your area's programs for housing and related care for persons living with HIV/AIDS and their families; or

(ii) If you apply for a project that is part of a Long-Term Comprehensive Strategy in an area that does not receive a HOPWA formula allocation, you must describe the need that is not currently addressed by other projects or programs in the area. You must also describe any unresolved or emerging issues and/or the need to provide forms of assistance that enhance the community's strategy for providing housing and related services to eligible persons.

(iii) HUD will evaluate your presentation of statistics and data sources based on soundness, reliability and the specificity of information to the target population and the area to be served. If you propose to serve a subpopulation of eligible persons on the basis that these persons have been traditionally and are currently underserved (e.g., persons with multiple disabilities including AIDS), your application must document the need for this targeted effort through statistics and data sources that support the need of this population in your service area.

(c) Need in Non-Formula Areas and Need for Renewals—(5 Points).

Within the points available under this criterion, HUD will award points under the following two circumstances:

(i) Five points will be awarded, if your SPNS application proposes to serve clients in an area that does not qualify for HOPWA formula allocation; or

(ii) Up to five points will be awarded, if you propose to continue the operations of HOPWA funded activities that have been supported by HOPWA competitive funds in years immediately prior to this application and that have operated with measurable success. To receive the maximum points, you must describe what unmet need would result if funding for the project was not renewed from this Federal funding and describe your efforts to secure other sources of funding to continue this project. You must also show that you operated with measurable progress and your previous HOPWA-funded activities have been carried out and are nearing completion of the planned activities in a timely manner. Measurable progress is defined as:

(1) Meeting performance benchmarks, as appropriate, in program development and operation;

(2) Meeting project goals and objectives, such as, that the number of persons assisted is comparable to the number that was planned at the time of application;

(3) Submitting timely performance reports; and

(4) Expending 50% of prior funding by the application due date of this program section of the SuperNOFA.

(d) Highest Rated in a State or the Nation (for nationwide activities)—(5 Points). After rating of all other factors, HUD will award five of the points to help achieve greater geographic diversity in funding activities within a variety of States. Under this criterion, five points will be awarded to the highest rated SPNS and Long-term applications in each State and to the highest rated SPNS application among the applications that propose nationwide activities.

Rating Factor 3: Soundness of Approach: Responsiveness and Model Qualities (40 Points)

Address the factor on not more than fifteen (15) double-spaced, typed pages. Include the HOPWA Budget Forms found in Appendix D. This factor addresses the method by which your plan meets your identified needs. HUD will award up to 40 points based on the extent to which your plan evidences a sound approach in its responsiveness to eligible persons and how it offers model qualities in providing supportive housing opportunities for eligible persons, when compared to other applications and projects funded under previous HOPWA competitions.

(a) Responsiveness—(20 Points). HUD will award up to 20 points based on how well your project plan responds to the unmet needs of the eligible population, including target populations outlined under Part D, Section III, and establishes specific goals and objectives for providing housing and related supportive services eligible persons. To receive the highest ratings in this element, describe:

(i) Your project's goals and objectives. Demonstrate how you will measure how the project is performing under the required HOPWA performance measures. Review Part D, Section IV (A), Performance Measures and Project Goals and Objectives of this NOFA. To receive the highest rating your goals and objectives must address:

(1) The projected numbers of persons to be served through each activity for each year of your program;

(2) The projected number of housing units by type to be provided through your project by year over a 3-year period, and;

(3) The specific organizations that will provide housing, supportive services, or other activities either through an agreement with your organization or through funding from your project.

(ii) Your plans for accomplishing these goals and objectives. Demonstrate your methodologies for achieving these goals and objectives by describing the project plan. Include a description of the coordination, roles, and responsibilities of your project sponsors and/or other organizations within your project plan to conduct eligible activities. Your plan must describe the eligible activities you intend to conduct and how those activities will benefit eligible clients. To receive the maximum points your project plan you must explain and include the eligible activities that you or your project sponsor will conduct in meeting the housing needs of eligible persons. A description may include such activities as:

(1) Housing Activities. You must demonstrate how the housing needs of clients will be addressed through one or more of the HOPWA eligible activities or through other resources and how such activities coordinate with other housing assistance. Your plan for housing assistance must include:

(a) Linkages to or the provision of permanent supportive housing. You must describe how clients will access permanent housing options through your project or through linkages with other community providers, even if the focus of your project is emergency or transitional assistance.

(b) Description of housing sites. You must describe any appropriate site features, including accessibility, visitability, and access to other community amenities associated with your project.

(c) A development and operations plan. You must describe a development and/or operations plan for the housing assistance you are proposing to provide. For rental assistance programs, this will include your plan for providing rental assistance, proposed housing sites, and length of stay. If you are proposing to use HOPWA funds for acquisition, rehabilitation, or new construction activities your plan must also document that you have secured funding sources (if applicable), identified a site(s), and must provide rehabilitation/construction timelines.

(2) Supportive Service Activities. You must describe how the supportive service needs of clients will be addressed from HOPWA or other sources by describing the type of supportive services that will be offered directly by the program and/or how services will be accessed and coordinated from other sources. Explain the connection of these services in helping clients obtain and/or maintain housing. You are reminded that supportive service costs may represent no more than 35 percent of your program activity costs. In describing your supportive services delivery plan, explain:

(a) How clients will have access to mainstream programs that offer healthcare and other supportive services, as discussed in Part A, Section VI (C);

(b) How clients will participate in decision making in the project operation and management;

(c) Your plan for delivering supportive services through a comprehensive plan. If you plan on using HOPWA funds to acquire, rehabilitate, lease, or operate a supportive service only facility, you must describe your development and operations plan for that facility. Include in the plan how such a facility relates to the program purpose of housing eligible clients and document that other funding has been secured, if applicable, a site has been identified, and provide rehabilitation/construction timelines.

(3) Additional Activities. You must describe your plan for utilizing other requested HOPWA funds (described at 24 CFR 574.300 (b)). Explain how these activities will be integrated to your overall plan in the provision of housing and related supportive services to eligible clients.

(4) Other Activities. As authorized by statute and in addition to the activities at 24 CFR 574.300(b), you may propose other activities in your application.

(b) Model Qualities—(20 Points). HUD will award up to 20 points based on your service delivery plan and how well it addresses the ongoing housing and supportive service needs within a replicable operational framework. To receive the maximum points, you must offer a plan that describes the following:

(i) Policy Priorities. Describe how you will meet the Departmental policy priorities emphasized in Part D, Section III of this NOFA.

(ii) Operational Procedures. Describe your outreach, intake, and assessment procedures, as well as how clients will link to services and (if necessary) housing funded from other sources and how your project provides for consistent monitoring of all clients. Include a description of how a client moves through the program from intake, assessment, service delivery, and finally to termination or linkage to other services.

(iii) Project Management and Oversight. Describe your method for managing and overseeing your, your project sponsors”, and any other organizations activities. Identify staff members who are responsible for management and oversight of the project and activity implementation.

(iv) Evaluation. Evaluation is defined as your method for collecting data on HUD program measures and your project's goals and objectives. HUD will assess your method for reviewing this data and your basis for making relative adjustments based on outcomes and lessons learned. Your evaluation plan must include how you propose to utilize the project outcome funding, as described in Part D, Section II (B)(2)(v). HUD will award a greater number of points for programs which will serve as a national model and which provide for the dissemination of information from the lessons learned from your proposed activities.

(v) Innovative Qualities. If you propose a new program, or an alternative method of meeting the needs of your clients, describe the innovative qualities of your activities. HUD will rate your applications higher if you provide strong evidence that your methods will yield qualities that will benefit or expand knowledge in serving eligible persons, when compared to other applications and HOPWA projects funded in the past. In order to learn about innovative qualities of previously funded and on-going HOPWA projects, please review the HOPWA Executive Summaries for all HOPWA formula and competitive grantees at http://www.hud.gov.

(vi) Descriptive Budget. HUD will review your budget in describing:

(1) How each amount of requested funding for you and your project sponsors will be used;

(2) How each line item will relate to eligible HOPWA activities as defined in Part D, Section II (B), of this program section of the SuperNOFA; and

(3) How specific line items match with the goals and objectives in your project. You must complete the HOPWA Project Budget Form as described in Part B, Section VI (E). Please note that only the forms are required and an additional narrative under the Model Qualities Section is not required.

Rating Factor 4: Leveraging Resources (10 Points)

This factor addresses your ability to secure community resources that can be combined with HUD's funds to achieve program purposes. HUD will award up to 10 points based on the extent to which resources from other public or private sources have been committed at the time of application, to support your project. To receive the maximum points, you must evidence commitments of leveraged resources that match or exceed the amount of HOPWA funds that are requested, but not including funds designated for data collection.

(a) In establishing leveraging, HUD will not consider other HOPWA-funded activities, entitlement benefits inuring to eligible persons, or conditioned commitments that depend on future fund-raising or actions. In assessing the use of acceptable leveraged resources, HUD will consider the likelihood that State and local resources will be available and continue during the operating period of your grant. In evaluating this factor HUD will also consider:

(i) The extent to which you document leveraged resources, such as funding and/or in-kind services from governmental entities, private organizations, resident management organizations, educational institutions, or other entities to achieve the purposes of the project for which you are requesting HOPWA funds;

(ii) The extent to which the documented resources evidence that you have partnered with other entities to make more effective use of available public or private resources. Partnership arrangements may include funding or in-kind services from local governments or government agencies, nonprofit or for-profit entities, private organizations, educational institutions, or other entities that are willing to partner with you on proposed activities, or partnering with other program funding recipients to make more effective use of resources within the geographic area covered by your award.

(b) To receive highest leveraging points, you must document the cash value of leveraged resources pledged to your project(s). The commitment of resources will be evidenced by use the appropriate language as described below:

(i) Applicant or Third Party Cash Resources. If this proposal is funded, (applicant name or third party name) commits $(amount) (of its own funds, if applicant, or to applicant name, if third party) for (type of activity) to be made available to the HOPWA program. These funds will be available from (date) to (date). (Signature and Title of authorized representative and date).

(ii) Non-Cash Resources. If this proposal is funded, (organization's name) commits to make available (type of resource) valued at $(amount) to the HOPWA program proposed by (applicant name). These resources will be made available to the HOPWA program from (date) to (date). (Signature and Title of authorized representative and date) The donation of a third party professional service should be valued at the professional's customary charge. The value of materials to be contributed to the project by a third party or by the applicant may also be counted as leveraging.

(iii) Volunteer Time. If this proposal is funded, (name of the organization or of self), commits to provide (number of hours) of volunteer time from (date) to (date) to provide (type of activity) to the HOPWA program proposed by (applicant name). The total value of these services, based on $10.00 per hour, is $(amount). (Signature and Title, and date) Time to be contributed to the project by volunteers should be valued at $10.00 per hour. In the case of individuals volunteering their time directly to the applicant, the applicant should list itself as the organization.

(iv) Contribution of a Building. If this proposal is funded, (applicant name) pledges the building at (site address) to the HOPWA program. The building has a fair market value of $(amount). A licensed independent real estate appraiser made this appraisal, which is based on comparable properties in the area. (Signature of applicants authorized representative and date) Ownership of a building or portion of a building to be used in the project may be counted as leveraging. The fair market value of the building or portion of the building being contributed may be counted. Do not send an appraisal to HUD, but keep documentation of fair market value on file. The contribution of land (as a leveraged resource for new construction) should be treated the same as contribution of a building. You will need to keep documentation of the fair market value on file, particularly if it is improved land and you wish to include the value of the improvements in the contribution.

(v) Contribution of a Building to be Acquired with HOPWA Funds. If this proposal is funded, (applicant name) commits the building at (site address) for the HOPWA program. The building has a fair market value of $(amount). A licensed independent real estate appraiser made this appraisal, which is based on comparable properties in the area. The HOPWA request for the building is $(amount). Therefore, the contribution is the difference between the fair market value and the HOPWA request, or $(amount). (Signature of applicants authorized representative and date) The difference between the documented fair market value and the portion paid for with HOPWA funds may be counted as leveraging. Maintain documentation of fair rental value on file.

(vi) Contribution of Leasehold Interest. If this proposal is funded, (applicant name) commits the leasehold interest at (site address) for the HOPWA program. The fair rental value of this site is $(amount) annually, and at constant value will amount to $(amount) over (term of the lease, up to three years). An appropriate independent third party made this appraisal, which is based on comparable properties in the area. The total leasing cost over the term of the lease to be paid with HOPWA funds is $(amount). Therefore, the contribution is the difference between the HOPWA leasing cost and the fair rental value, or $(amount). (Signature of applicants authorized representative and date) The difference between the fair rental value (for a term up to three years) and the cost of the lease to be paid for with HOPWA funds may be counted as leveraging.

Factor 5: Coordination, Self-Sufficiency and Sustainability (Maximum 10 Points)

Address the factor on not more than five (5) double-spaced, typed pages. Coordination involves efforts that are taken outside of your project to help clients become self-sufficient and that enable the project to become sustainable from other resources. HUD will award up to 10 points based on your proposal's coordination, self-sufficiency, and sustainability efforts.

(a) Coordination. You should demonstrate the extent to which you have coordinated your activities and the activities of your project sponsors with other organizations that are not directly participating in your proposed work activities. This involves organizations for which you share common goals and objectives. You will be rated on the extent to which you demonstrate you have:

(i) Coordinated your proposed activities with those of other groups or organizations within the community or region prior to submission, to best complement, support, and coordinate all housing and supportive service activities;

(ii) Developed your project through consultation with other organizations, groups, or consumers involved with area HIV/AIDS housing and service planning, including Ryan White Planning and other Federal planning. You should demonstrate that the project is linked or promotes participation in HUD's planning processes, such as the jurisdiction's Consolidated Planning process or the community's Continuum of Care Homeless Assistance planning process (if homeless persons are to be served by proposed activities);

(iii) Coordination with other HUD-funded programs outside of the Consolidated Planning Process, for example accessing additional housing resources through a local public housing authority;

(iv) Coordination with mainstream resources including private, other public, and mainstream services and housing programs. To achieve the maximum points, applicants must evidence explicit agency strategies to coordinate client assistance with mainstream health, social services and employment programs for which eligible clients may benefit.

(b) Self-sufficiency. Demonstrate the extent to which your application implements practical solutions within the grant term to assist clients in achieving independent living, economic empowerment, educational opportunities, housing choice, or improved living environments. This may be demonstrated through such efforts as ensuring access to permanent, safe, decent, and affordable housing for eligible clients, educational programs designed to return clients to work, or through independent living services for clients.

(c) Sustainability. Demonstrate the extent to which your program exhibits the potential to be financially self-sustaining by decreasing dependence on Federal funding and relying more on state, local and private funding so your activities can be continued after your grant award period is completed. In order to ensure that resources are used to their maximum effect within the community, it is important that you demonstrate involvement in other state, local, and private funding arenas. In evaluating this factor HUD will consider the extent you have:

(i) Developed linkages, or specific steps you will take to develop linkages with other activities, programs or projects through meetings, information networks, planning processes, or other mechanisms, to coordinate your activities so solutions are holistic and comprehensive with other state, local, or private entities;

(ii) Demonstrate how planned activities may be sustained through other resources in order to provide a comprehensive and responsive range of housing and related supportive services to meet the changing needs of persons with HIV/AIDS.

(C) Selection of HOPWA Awards. Whether your HOPWA application is conditionally selected will depend on your overall ranking compared to other applications within each of the two categories of assistance. HUD will select applications in rank order in each category of assistance to the extent that funds are available, except as outlined in Part D, Section III (B):

Policy Priorities, where HUD reserves the right to select applications that target the priority eligible populations. In allocating amounts to the categories of assistance, HUD reserves the right to ensure that sufficient funds are available for the selection of at least one application with the highest ranking under each category of assistance. HUD will not select an application that is rated below 70 points.

In the event of a tie between applications in a category of assistance, HUD reserves the right to break the tie by selecting the proposal that was scored higher on a rating criterion in the following order: Soundness of Approach: Responsiveness and Model Qualities (Rating Factor 3); Comprehensiveness and Coordination (Rating Factor 5); the Capacity of the Applicant and Relevant Organizational Experience (Rating Factor 1); the Need/Extent of the Problem (Rating Factor 2); and Leveraging Resources (Rating Factor 4).

HUD will notify you in writing if you are conditionally selected. You may be notified subsequently of any modification made by HUD, the additional project information necessary for grant award, and the date of deadline for submission of the required information. In the event that a conditionally-selected applicant is unable to meet any conditions for fund award within the specified time, HUD reserves the right not to award funds to the applicant, but use those funds to make awards to the next highest rated applications in this competition; to restore amounts to a funding request that had been reduced in this competition; or to add amounts to funds available for the next competition.

VI. Application Submission Requirements

Your HOPWA application must contain the following items in the order shown below. The standard forms can be found in Appendix B to the General Section of the SuperNOFA. The remaining application items that are forms (i.e., excluding such items as narratives, letters) can be found as Appendix D to this program section of the SuperNOFA. The items are as follows:

(A) Application for Federal Assistance (Form SF-424). You should complete Items 1 through 18 with the following additions:

(1) Item 5—Add e-mail address of the contact person (if applicable);

(2) Item 7—The applicable letters are “A” for State; “B, C, or D” for a unit of local government; or “N” for Nonprofit;

(3) Item 9—Enter U.S. Department of Housing and Urban Development or HUD if not preprinted;

(4) Item 10—Enter 14-241 and the title “Housing Opportunities for Persons With AIDS Program” or “HOPWA” for the Catalogue of Federal Domestic Assistance;

(5) Item 15—You must complete the budget on HUD-424M and the HOPWA Project Budget Form. Please make sure that both the Total Amount on HUD-424M and the “Total Budget” section on the HOPWA Project Budget Form are the same. In the event that the total budgets are in conflict, HUD will refer to the HOPWA Project Budget form.

(6) Item 16—Check “No”.

(B) Executive Summary and Synopsis. Please provide a two to three sentence synopsis of the main focus or features of your proposed program, followed by an Executive Summary of the proposed project on no more than two double-spaced, typed pages. HUD will use this as a summary if your project is chosen for funding. In your abstract, include your organization's name and the name of any project sponsor.

(C) Narrative Statements. Your application must include narrative statements that address each of the Factors for Award found at Part D, Section V (B) of this program section of the SuperNOFA. Respond to each factor within the stated page limits and do not use a font size smaller than 12 point. Applications failing to submit any of the narrative statements will be rated as zero during the rating process.

(D) Proposed HOPWA Project Information Form. See Appendix D in program section of SuperNOFA. Complete the form including the following:

(1) Project Sponsors. You must identify any organization that will receive HOPWA funds as a project sponsor and the amount of funds to be received.

(2) Non-profit Status. Non-profit grantees or project sponsors must submit documentation verifying your non-profit status, as outlined in Part A, Section VI (A).

(3) Service Areas. Your application must identify the area(s) in which you are proposing to offer housing and other assistance.

(E) Budget. You must complete the HOPWA Project Budget Form found in Appendix D of this program section of the SuperNOFA, which lists the amount of requested HOPWA funds designated for each type of HOPWA-eligible activity. For more information, please see Part D, Section IV (B) and Rating Factor 3, Soundness of Approach.

(F) Statutory Certifications. You must complete the statutory certifications as outlined in Part A, Section VI section of this program NOFA.

After your entire application is assembled, please mark each exhibit with an appropriately numbered tab and number every page of the application sequentially. Complete the HOPWA Application Checklist found in Appendix D to this program section of the SuperNOFA. Attach the HOPWA Application Checklist to the front of your application.

BILLING CODE 4210-32-P

FUNDING AVAILABILITY FOR MAINSTREAM HOUSING OPPORTUNITIES FOR PERSONS WITH DISABILITIES (MAINSTREAM PROGRAM)

PROGRAM OVERVIEW

Purpose of the Program. The purpose of this program is to provide vouchers under the Housing Choice Voucher Program to enable persons with disabilities (elderly and non-elderly) to access affordable private housing.

Available Funds. Approximately $53.9 million in five-year budget authority, derived from Section 811 funding, for approximately 1,900 vouchers is available to public housing agencies (PHAs) and nonprofit disability organizations.

Applications are also being invited from PHAs for one-year budget authority funding (non-Section 811 funds) that HUD anticipates may be available for the Mainstream Program in FY 2002. Specifically, any portion of the $40 million in one-year budget authority contained in FY 2002 appropriations related to designated housing plans; preferences in occupancy for the elderly in certain types of Section 8 project-based developments; or restrictions in occupancy to elderly only in certain types of Section 202, Section 221(d)(3), or Section 236 developments remaining unobligated and not needed to fund approvable applications under these programs will be added to the approximately $53.9 million in five-year budget authority available under this announcement. This one-year budget authority will be used only for non-elderly disabled families.

See section II(A) of this funding announcement which fully addresses (1) the source of the $53.9 million in five-year budget authority appropriated by Congress for FY 2002 under Section 811 of the Cranston-Gonzalez National Affordable Housing Act (NAHA), and (2) the source of the non-Section 811 funds comprising one-year budget authority which may also be available under this funding announcement. All future references in this funding announcement to five-year budget authority or one-year budget authority, respectively, are based upon these funding sources.

Eligible Applicants. PHAs and nonprofit disability organizations that provide services to disabled families are eligible to apply for the $53.9 million in five-year budget authority for applications submitted in FY 2002. While PHAs and nonprofit disability organizations are eligible to apply for the $53.9 million in five-year budget authority available under this announcement, only PHAs are eligible to apply for the one-year budget authority that may also be available under this announcement (see Section II(A) of this announcement regarding the possibility of one-year funding also being available for the Mainstream Program). PHAs or nonprofit disability organizations that fall into any of the categories in section VII(B)(2) of this announcement are ineligible to have an application funded under this announcement. Indian Housing Authorities (IHAs), Indian tribes and their tribally designated housing entities are not eligible to apply because the Native American Housing Assistance and Self-Determination Act of 1996, does not allow HUD to enter into new housing choice voucher annual contributions contracts (ACC) with IHAs after September 30, 1997.

The vouchers that HUD will provide under this announcement must be made available to eligible disabled families regardless of their type of disability. (See the definition of disabled family in Section IV(E) of this announcement.) The Mainstream Program vouchers must not be issued by the administering agency on the basis of any preference system favoring any particular type of disability over another, nor shall the vouchers be issued solely on the basis of an administering agency's waiting list which is based on that agency's having heretofore served only certain types of disabled persons. The Housing Choice Voucher Program regulations provide at 24 CFR 982.207(c) that a PHA may give preference for admission of families that include a person with disabilities; however, the PHA may not give preference for admission of persons with a specific disability. This regulatory requirement is also applicable to nonprofit disability organizations who receive funding under this announcement as such organizations must comply with the regulatory requirements applicable to the Housing Choice Voucher Program.

Application Deadline. July 22, 2002.

Match. None.

Additional Information

If you are interested in applying for funding under the Mainstream Program, please review carefully the General Section of this SuperNOFA and the following additional information.

I. Application Due Date, Application Kits, Further Information and Technical Assistance

Application Due Date. Submit your completed application (an original and one copy) to HUD on or before July 22, 2002. See the paragraphs titled “Mailed Applications” and “Applications Sent by Overnight/Express Mail Delivery” in section I of this funding announcement regarding the specific time on the application due date by which applications are to be submitted. This application deadline date is firm. In the interest of fairness to all competing PHAs and nonprofit disability organizations, HUD will not consider any application that is received after the application deadline. Applicants should take this practice into account and make early submission of their materials to avoid any risk of loss of eligibility brought about by unanticipated delays or other delivery-related problems. HUD will not accept, at any time during the competition under this funding announcement, application materials sent via facsimile (FAX) transmission.

Address for Submitting Applications. Your completed application consists of one original and one copy. Submit your original application and one copy to: Michael Diggs, Director, Grants Management Center, Department of Housing and Urban Development, 501 School Street, SW, Suite 800, Washington, DC 20024. The Grants Management Center (GMC) is the official place of receipt for all applications in response to this announcement of funding availability. Applications not submitted to the GMC will not be considered. A copy of the application is not required to be submitted to the local HUD Field Office. For ease of reference, the term “local HUD Field Office” will be used in this announcement to mean the local HUD Field Office Hub and the local HUD Field Office Program Center. A listing of HUD Field Offices is attached to the General Section of this SuperNOFA.

New Security Procedures. In response to the terrorist attacks in September 2001, HUD has implemented new security procedures that impact on application submission procedures. Please read the following instructions carefully and completely. HUD will not accept hand delivered applications. Applications sent to Headquarters may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the GMC on or within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx, and Falcon Carrier. Delivery by these services must be made during HUD's Headquarters business hours, between 8:30 AM and 5:30 PM Eastern Time, Monday to Friday. If these companies do not service your area, you should submit your application via the United States Postal Service.

For Application Kits. An application kit is not necessary for submitting an application in response to this announcement. This announcement contains all the information necessary for the submission of your application for voucher funding for the Mainstream Program.

For Further Information and Technical Assistance. Prior to the application due date, you may contact George C. Hendrickson, Housing Program Specialist, Room 4216, Office of Public and Assisted Housing Delivery, Department of Housing and Urban Development, 451 Seventh Street, SW, Washington, DC 20410; telephone (202) 708-1872, ext. 4064. Subsequent to application submission, you may contact the Grants Management Center at (202) 358-0221. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD Web site at www.hud.gov.

II. Amount Allocated

(A) Available Funding for Mainstream Program. Approximately $53.9 million in five-year funding is available for approximately 1,900 vouchers. This allocation is consistent with the FY 2002 HUD Appropriations Act which provides that the Secretary of HUD may designate up to 25 percent of the amounts earmarked for supportive housing for persons with disabilities, under section 811 of the Cranston-Gonzalez National Affordable Housing Act (NAHA), for tenant-based assistance. The $53.9 million in five-year budget authority made available to applicants under this Mainstream Program funding announcement does not exceed 25 percent of the $240.9 million made available for the Section 811 Program under the FY 2002 HUD Appropriations Act.

All of the approximately $53.9 million in funding is for use in the housing of elderly and non-elderly disabled families. HUD will supplement the $53.9 million of five-year budget authority with additional funding of up to as much as $40 million in one-year budget authority initially earmarked for (1) housing choice vouchers for non-elderly disabled families in support of designated housing plans, and (2) non-elderly disabled families who are not currently receiving housing assistance in certain Section 8 project-based developments due to the owners establishing preferences for the admission of elderly families, or non-elderly disabled families not being housed in certain section 202, section 221(d)(3) and section 236 developments (or portions thereof) where the owners have restricted occupancy to elderly families. The FY 2002 HUD Appropriations Act states that to the extent the Secretary determines that the FY 2002 appropriations related to designated housing plans and certain types of Section 8 project-based developments and certain types of section 202, section 221(d)(3) and section 236 developments are not needed to fund applications, the funds may be used for other non-elderly disabled families. Any such remaining funds will be used to supplement funding for the Mainstream Program.

(B) Funding for the Section 811 Program. The Section 811 Program of Supportive Housing for Persons With Disabilities, located elsewhere in the SuperNOFA, provides capital advances and project rental assistance in FY 2002. The Section 811 Program of Supportive Housing for Persons With Disabilities will provide funding to nonprofit organizations (sponsors) for the development and operation of small, scattered-site housing to enable adults with disabilities to live as independently as possible in the community. The capital advance does not need to be repaid as long as the housing is used for its intended purpose for at least 40 years. The project rental assistance funds cover the difference between the HUD-approved operating expenses of the housing and the tenant's contribution towards rent, which is 30 percent of adjusted income. The types of housing that are typically developed through the program are small group homes for no more than six persons, independent living projects containing individual apartment units for no more than 18 persons, and condominium units. Sponsors are required to ensure that residents have access to any necessary supportive services but cannot require the acceptance of such as a condition of occupancy.

(C) Housing Choice Voucher Funding.

(1) Lottery. HUD will select approvable applications for funding by lottery in the event approvable applications are received for more funding than is available under this Mainstream Program announcement. In such event, a separate lottery will be held first to select applications for funding for the $53.9 million available in five-year budget authority available under this announcement, and a separate lottery will be held to select applications for funding for whatever amount of one-year budget authority may be available during FY 2002 for the Mainstream Program. PHAs should clearly indicate in their applications if they are applying for both five-year and one-year funding in order to ensure their inclusion in both lotteries. This would allow the last selected application (if a PHA) under the five-year funding lottery to be automatically funded with one-year budget authority for the remaining number of vouchers requested, but for which there was insufficient five-year budget authority at the point the PHA was selected in the five-year funding lottery. This would also allow a PHA to be automatically included in the lottery for one-year budget authority funding if not fortunate enough to be selected for any funding in the five-year budget authority lottery. PHAs applying for one-year funding must make it clear in their applications that they have a sufficient number of non-elderly disabled families to support the number of vouchers being requested. As indicated earlier in this announcement, one-year budget authority funding is for use only by PHAs solely for non-elderly disabled families, whereas five-year budget authority is for use by PHAs and nonprofit disability organizations for both elderly and non-elderly disabled families.

(2) Maximum Voucher Request. There is a limit on the number of vouchers that may be requested. An eligible applicant may apply for a maximum of 75 vouchers. No more than a grand total of 75 vouchers will be awarded to any applicant under the FY 2002 Mainstream Program; i.e., a PHA or nonprofit disability organization receiving five-year budget authority funding shall be funded for no more than 75 vouchers; a PHA receiving a combination of five-year and one-year budget authority shall be funded for no more than 75 vouchers; and a PHA receiving only one-year budget authority funding shall be funded for no more than 75 vouchers.

(3) Determination of Funding Amount for the Applicant's Requested Number of Vouchers. HUD will determine the amount of funding that an applicant will be awarded under this announcement based upon an actual annual per unit cost {except for Moving to Work (MTW) agencies the per unit cost will be calculated in accordance with the agency's MTW Agreement for MTW units} using the following two step process:

(a) HUD will extract the total expenditures for all the PHA's housing choice voucher and certificate programs and the unit months leased information from the most recent approved year end statement (Form HUD-52681) that the PHA has filed with HUD. HUD will divide the total expenditures for all of the PHA's housing choice voucher and certificate programs by the unit months leased to derive an average monthly per unit cost.

(b) HUD will multiply the monthly per unit cost by 12 (months) to obtain an annual per unit cost.

Note: Applicants who do not currently administer a housing choice voucher program shall have their voucher funding based upon the actual annual per unit costs of the PHA in their most immediate area administering a housing choice voucher program, using the two step process described immediately above.

(4) Preliminary Fee. A preliminary fee of up to $500 per unit for preliminary (start-up) expenses will be paid to applicants that have not previously administered their own housing choice voucher program that are selected for funding under this announcement. The preliminary fee will be provided to such applicants only in their first year administering housing choice vouchers.

III. Program Description, Eligible Applicants and Eligible Participants

(A) Program Description. The Secretary has established a Mainstream Housing Opportunities for Persons with Disabilities Program (Mainstream Program) to provide vouchers to enable persons with disabilities to access affordable private housing of their choice.

The Mainstream Program will assist PHAs and nonprofit disability organizations in providing housing choice vouchers to a segment of the population recognized by HUD's housing research as having one of the worst housing needs of any group in the United States; i.e., very low-income households with adults with disabilities. In addition, the Mainstream Program will assist persons with disabilities who often face difficulties in locating suitable and accessible housing on the private market.

(B) Eligible Applicants. Public housing agencies (PHAs) and nonprofit disability organizations that provide services to the disabled {as defined in Section IV(E) of this announcement} are eligible applicants for the five-year budget authority funding available under this funding announcement. Only PHAs are eligible to apply for the one-year budget authority funding that may be available under this funding announcement. PHAs or nonprofit disability organizations that fall into any of the categories in section VII(B)(2) of this announcement are ineligible to have an application funded under this announcement. Indian Housing Authorities (IHAs), Indian tribes and their tribally designated housing entities are not eligible to apply for new increments of housing choice voucher funding because the Native American Housing Assistance and Self-Determination Act of 1996, does not allow HUD to enter into new housing choice voucher annual contributions contracts (ACC) with IHAs after September 30, 1997.

(1) PHAs.

(a) A PHA may submit only one application under this announcement. This one application per PHA limit applies regardless of whether or not the PHA is a State or regional PHA, except in those instances where such a PHA has more than one PHA code number due to its operating under the jurisdiction of more than one HUD Field Office. In such instance, a separate application under each code shall be considered for funding, with the cumulative total of vouchers applied for under the applications not to exceed the maximum of 75 vouchers the PHA is eligible to apply for under section II(C)(2) of this announcement; i.e., no more than the number of vouchers the same PHA would be eligible to apply for if it only had one PHA code number.

(b) PHAs are encouraged to involve nonprofit disability organizations that provide services to disabled families, as defined in section III(B)(2) of this announcement, in the administration of the Mainstream Program's vouchers. Such organizations have frequently in the past demonstrated a capacity to assist disabled families, as well as have an in-depth knowledge of the disability community.

(i) A nonprofit disability organization could function as either a contract administrator for the PHA's Mainstream vouchers, or as a subcontractor responsible for providing case management services or assisting disabled families to locate suitable housing, gain access to supportive services, or identify private funding sources to cover the costs of unit modifications needed as a reasonable accommodation.

(ii) Such contractual arrangements must, however, ensure equal opportunity among the wide variety of disabled populations in the PHA's service area.

(c) In some cases a PHA currently administering the housing choice voucher program has, at the time of publication of this SuperNOFA, been designated by HUD as a troubled PHA under the Section 8 Management Assessment Program (SEMAP), or has major program management findings from Inspector General audits that are unresolved. HUD will not accept an application from such a PHA as a contract administrator if, on the application due date, the troubled PHA designation under SEMAP has not been removed by HUD, or the findings are not resolved. If the PHA wants to apply for funding under this announcement, the PHA must submit an application that designates another contractor that is acceptable to HUD. The PHA's application must include an agreement by the other contractor to administer the new funding increment on behalf of the PHA, and (in the instance of a PHA with unresolved major program management findings) a statement that outlines the steps the PHA is taking to resolve the program findings.

Immediately after the publication of this SuperNOFA, the Office of Public Housing in the local HUD Field Office will notify, in writing, those PHAs that have been designated by HUD as troubled under SEMAP, and those PHAs with unresolved major program management findings that are not eligible to apply without such an agreement. Concurrently, the local HUD Field Office will provide a copy of each such written notification to the Director of the Grants Management Center. The PHA may appeal the decision, in writing, if HUD has mistakenly classified the PHA as having unresolved major program findings. The PHA may not appeal its designation as a troubled PHA under SEMAP. Any appeal with respect to unresolved major program management findings must be accompanied by conclusive evidence of HUD's error (i.e., documentation showing that the finding has been cleared) and must be received prior to the application deadline. The appeal should be submitted to the local HUD Field Office where a final determination shall be made. Concurrently, the local HUD Field Office shall provide the Grants Management Center with a copy of the PHA's written appeal and the Field Office's written response to the appeal. Major program management findings are those that would cast doubt on the capacity of the PHA to effectively administer any new housing choice voucher funding in accordance with applicable HUD regulatory and statutory requirements.

(2) Nonprofit Disability Organization. An organization, no part of the net earnings of which inures to the benefit of any member, founder, contributor, or individual, that provides services to persons with disabilities and has received a federal tax-exempt designation, under section 501(c)(3) of the Internal Revenue Code, from the U.S. Internal Revenue Service.

(a) The nonprofit entity must:

(i) Have a voluntary board;

(ii) Be authorized by its charter or State law to enter into a contract with the Federal Government to provide housing assistance to persons with disabilities;

(iii) Have a functioning accounting system that is operated in accordance with generally accepted accounting principles, or designate an entity that will maintain a functioning accounting system for the organization in accordance with generally accepted accounting principles; and

(iv) Practice nondiscrimination in the provision of assistance.

(b) A nonprofit disability organization meeting the definition of a nonprofit disability organization as defined in this Section III(B)(2), and wishing to apply for the funding available under this announcement must have the capacity to:

(i) Comply with the Section 8 Management Assessment Program (SEMAP) certification requirements under 24 CFR part 985.

(ii) Carry out such housing choice voucher and SEMAP specific related activities as making determinations as to rent reasonableness, performing housing quality standards (HQS) inspections and enforcement, conducting annual reexaminations of participant families, as well as otherwise meeting housing choice voucher program requirements under 24 CFR part 982.

(iii) Manage the Mainstream Program vouchers in a manner equivalent to an overall performance rating under SEMAP (24 CFR part 985) of “standard” during the first fiscal year of its receiving Mainstream Program funding.

(iv) Administer rental housing programs or manage rental housing, as demonstrated by a specific list of rental housing programs the nonprofit disability organization has administered or the rental housing the organization has managed (e.g. private rental housing, HUD or State-related housing programs, etc.).

Nonprofit disability organizations are encouraged to seek out PHAs in their geographic area to develop cooperative contractual relationships under the Mainstream Program, and to enhance services to disabled families. In addition to contacting local PHAs, nonprofit disability organizations may also wish to contact regional (multi-county), or statewide PHAs who may be applying for Mainstream Program funding.

(C) Eligible Participants. Only a disabled family that is income eligible under 24 CFR 982.201(b)(1), as well as otherwise eligible under the regulations at 24 CFR 982.201(b), may receive a voucher awarded under the Mainstream Program. While elderly and non-elderly disabled families are eligible to receive a voucher awarded to a PHA or nonprofit disability organization using five-year budget authority under this announcement, only non-elderly disabled families are eligible to receive a voucher awarded to a PHA using one-year budget authority that may be available for the Mainstream Program under this announcement. Applicants with disabilities must be selected from the PHA's or nonprofit disability organization's housing choice voucher waiting list. Additional information on those families and individuals eligible to receive a voucher is located at the following HUD Web site: www.hud.gov/offices/pih/programs/hcv.

IV. Program Requirements and Definitions

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine their own programs or proposed programs, including an identification of any impediments to fair housing (identified in the jurisdiction's Analysis of Impediments (AI) to Fair Housing Choice in the Consolidated Plan); develop a plan to (a) address those impediments in a reasonable fashion in view of the resources available; (b) work with the local jurisdictions to implement any of the jurisdictions' initiatives to affirmatively further fair housing; and (c) maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program Regulations. Applicants must administer the Mainstream Program in accordance with HUD regulations and requirements governing the Housing Choice Voucher Program. The only exception to this requirement shall be for nonprofit disability organizations which shall not be required to comply with the requirements of 24 CFR part 903 , subpart B as concerns the requirement for a PHA Plan.

(2) Housing Choice Voucher Program Admission Requirements. Housing choice voucher assistance must be provided to eligible disabled families in conformity with regulations and requirements governing the Housing Choice Voucher Program and the PHA's administrative plan.

(3) Turnover. When a voucher under this announcement becomes available for reissue (e.g., the family initially selected for the program drops out of the program or is unsuccessful in the search for a unit), the voucher may be used only for another family eligible for assistance under this announcement for five years for the five-year funding or for one year for the one-year funding under this announcement from the date the rental assistance is placed under an annual contributions contract (ACC). If there is ever an insufficient pool of disabled families on the PHA's or nonprofit disability organization's housing choice voucher waiting list, the PHA or nonprofit disability organization shall conduct outreach to encourage eligible persons to apply for this special allocation of vouchers. Outreach may include contacting independent living centers, advocacy organizations for persons with disabilities, and medical, mental health, and social service providers for referrals of persons receiving such services who would benefit from housing choice voucher assistance. If the PHA's or nonprofit disability organization's housing choice voucher waiting list is closed, and if the PHA or nonprofit disability organization has insufficient applicants on its housing choice voucher waiting list to use all awarded vouchers under this announcement, the PHA or nonprofit disability organization should open the waiting list for applications from disabled families. PHAs and nonprofit organizations must take care to keep track of the number of disabled vouchers they have been awarded under this funding announcement versus the number of such vouchers that have actually been issued to disabled families.

(D) PHA and Nonprofit Disability Organization Responsibilities. In addition to the responsibilities under the Housing Choice Voucher Program and HUD regulations concerning nondiscrimination based on disability (24 CFR 8.28) and to affirmatively further fair housing, PHAs and nonprofit disability organizations that receive voucher funding shall:

(1) Where requested by an individual, assist program participants to gain access to supportive services available within the community, but not require eligible applicants or participants to accept supportive services as a condition of participation or continued occupancy in the program.

(2) Identify public and private funding sources to assist participants in covering the costs of modifications that need to be made to their units as a reasonable accommodation for their disabilities.

(3) Not deny persons who qualify for rental assistance under this program other housing opportunities, or otherwise restrict access to PHA or nonprofit disability organization programs to eligible applicants who choose not to participate.

(4) Provide housing choice voucher search assistance.

(5) In accordance with regulatory guidance, provide higher rents to owners necessary for the provision of accessible units and structural modifications for persons with disabilities.

(6) Provide technical assistance to owners for making reasonable accommodations or making units accessible to persons with disabilities.

(E) Definitions. The following definitions apply.

(1) Disabled Family. Disabled family means a family whose head, spouse, or sole member is a person with disabilities. It may include two or more persons with disabilities living together, or one or more persons with disabilities living with one or more live-in aides.

Note: This definition applies to the approximately $53.9 million in five-year budget authority available under the Mainstream Program, as well as to any one-year budget authority that may be available. This definition shall be modified, however, to be limited solely to non-elderly disabled families (families whose head, spouse or sole member is disabled and under the age of 62) regarding any funding available and awarded from the approximately $40 million in FY 2002 for designated housing allocation plans, or in connection with certain Section 8 project-based developments or certain section 202, section 221(d)(3) or section 236 developments. See Section II(A) of this announcement regarding the possibility of additional Mainstream Program funding during FY 2002 beyond the approximately $53.9 million initially available.

(2) Person with disabilities. Means a person who:

(a) Has a disability as defined in 42 U.S.C. 423;

(b) Is determined, pursuant to HUD regulations, to have a physical, mental or emotional impairment that:

(i) Is expected to be of long-continued and indefinite duration;

(ii) Substantially impedes his or her ability to live independently; and

(iii) Is of such a nature that the ability to live independently could be improved by more suitable housing conditions;

(c) Has a developmental disability as defined in 42 U.S.C. 6001;

(d) Does not exclude persons who have the disease of acquired immunodeficiency syndrome or any conditions arising from the etiologic agent for acquired immunodeficiency syndrome;

(e) For purposes of qualifying for low-income housing, does not include a person whose disability is based solely on any drug or alcohol dependence.

(3) Housing choice voucher search assistance. Assistance to increase access by program participants to housing units in a variety of neighborhoods (including areas with low poverty concentrations) and to locate and obtain units suited to their needs.

(F) Homeownership and Family Self-Sufficiency (FSS). Applicants are encouraged to establish or expand upon an existing housing choice voucher homeownership program, as well as complete the closing process on homeownership units. Applicants are also encouraged to fill slots under a mandatory FSS program and to establish a voluntary FSS program and fill slots thereunder where a mandatory FSS program is not required.

(G) Increasing the Participation of Faith-Based and Community-Based Organizations in HUD Program Implementation. HUD believes that grassroots organizations; e.g., civic organizations, congregations, and other community-based and faith-based organizations, have not been effectively utilized. These grassroots organizations have a strong history of providing vital community services such as assisting the homeless and preventing homelessness; counseling individuals and families on fair housing rights; providing elderly housing opportunities; developing first time homeownership programs; increasing homeownership and rental housing opportunities; developing affordable and accessible housing in neighborhoods across the country; and creating economic development programs. The goal of this policy priority is to make HUD's housing choice voucher program more effective, efficient, and accessible by expanding opportunities for faith-based and community-based organizations to participate in developing solutions for their own neighborhoods. PHAs are encouraged to coordinate with and otherwise involve faith-based and other community-based organizations in those activities under the housing choice voucher program where their services, expertise and knowledge may be most effective.

(H) Conducting Business in Accordance With Core Values and Ethical Standards. To reflect core values, all applicants shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor or agent of the PHA. The PHA's administrative plan shall state PHA policies concerning PHA administrative and disciplinary remedies for violation of the PHA code of conduct. The PHA should inform all officers, employees and agents of its organization of the PHA's code of conduct.

V. Application Selection Process

After the Grants Management Center has screened and disapproved any applications found unacceptable for further processing, the Grants Management Center will review all acceptable applications to ensure that they are technically adequate and responsive to the requirements of this announcement. HUD Headquarters will fund all applications from PHAs and nonprofit disability organizations that are recommended for funding by the Grants Management Center unless HUD receives approvable applications for more funds than are available. If HUD receives approvable applications for more funds than are available, HUD will select applicants to be funded by lottery. A separate lottery will be held first for those PHAs and nonprofit disability organizations seeking funding under the five-year budget authority available under this announcement, and a separate lottery will next be held for those PHAs seeking funding under the one-year budget authority that may be available under this announcement. (Nonprofit disability organizations are not eligible to apply for the one-year budget authority that may be available under this announcement.) All applicants identified by the Grants Management Center as having submitted technically adequate and responsive applications will be included in the lottery. As applicants are selected, the cost of funding the applications will be subtracted from the funds available. In order to achieve geographic diversity, HUD Headquarters will limit the number of applications selected for funding from any State to 10 percent of the budget authority available for the Mainstream Program. The 10 percent limit shall be applied first during the lottery for the five-year funding and shall continue over into the lottery for any one-year funding that may be available. This, for instance, may result in a State reaching the 10 percent limit prior to the start of the lottery for any one-year funding that may be available, and therefore any PHAs from that State would not be eligible for any further Mainstream funding. If establishing this geographic limit would result, however, in unreserved budget authority, HUD may modify this limit to assure that all available funds are used.

Applications will be funded for the total number of units requested by the applicant and recommended for approval by the Grants Management Center (not to exceed 75 units) in accordance with this announcement. When remaining budget authority is insufficient to fund the last selected application in full, HUD Headquarters will fund that application to the extent of the funding available, unless the applicant indicates that it will only accept a higher number of units. In that event, the next selected application shall be one that has indicated a willingness to accept the lesser amount of funding for the units available.

VI. Application Submission Requirements

(A) Form HUD-52515. All applicants must complete and submit Form HUD-52515, Funding Application, for the Housing Choice Voucher Program, (dated January 1996). This form includes all necessary certifications for Fair Housing, Drug Free Workplace and Lobbying Activities. PHAs are requested to enter their housing authority code (for example, CT002), telephone number, facsimile number and electronic mail address in the same space at the top of the form where they are also to enter the PHA's name and mailing address. Section C of the form should be left blank. The form must be completed in its entirety, with the exception of Section C, signed and dated. A copy of Form HUD-52515 is included in the forms found in Appendix B to the General Section of the SuperNOFA. Copies of the form may also be downloaded from the following HUD Web site: www.hud.gov. (On the HUD Web site click on “handbooks and forms,” then click on “forms,” then click on “HUD-5” and click on “HUD-52515.” In addition, the Form HUD-52515 will also be posted with the Mainstream funding announcement at the following HUD Web site: www.hud.gov/offices/adm/grants/fundsavail.cfm.

In the instance of a nonprofit disability organization that does not currently manage a housing choice voucher program, the nonprofit disability organization shall fill in Section B, Proposed Assisted Dwelling Units, of the form HUD-52515, by either basing the numbers the organization enters in this section on information requested from the nearest public housing agency, based upon its housing choice voucher waiting list, or based upon information from local advocacy groups and local public and private service agencies familiar with the needs of elderly and non-elderly persons with disabilities, census data, and pertinent information from the Consolidated Plan applicable to the applicant's jurisdiction. Section C, Average Monthly Adjusted Income, should be left blank. Section F, New HA Information, requires information on Financial and Administrative Capability and Qualification as a HA. For Financial and Administrative Capability, a nonprofit disability organization may reference that part of its application addressing the requirements of section VI (E) of this announcement. For Qualification as a HA, the nonprofit disability organization should submit information validating its qualifications as a nonprofit disability organization as defined in Section III (B)(2) of this announcement. The submission of enabling legislation is not required, but a legal opinion supportive of the applicant's status as a nonprofit disability organization, as delineated in Section III (B)(2) of this announcement, is required.

(B) Letter of Intent and Narrative. The applicant must state in its cover letter to the application whether it is a PHA applying for five-year and/or one-year funding, or a nonprofit disability organization applying for five-year funding. The applicant must also indicate the number of vouchers being requested, whether it will accept a reduction in the number of vouchers, and the minimum number of vouchers the applicant will accept, since the funding is limited and HUD may only have enough funds to approve a smaller amount than the number of vouchers requested. The maximum number of vouchers that an applicant may apply for under this announcement is limited to 75.

PHAs and nonprofit disability organizations that do not currently administer a housing choice voucher program must identify the nearest PHA (including the full name, address, and tel. no.) that does administer a housing choice voucher program. This information will be necessary for HUD to calculate annual per unit costs for voucher funding awarded under this funding announcement for such PHAs and nonprofit disability organizations (see section II (C) (3) of this funding announcement).

(C) Description of Need for Mainstream Program Vouchers. The PHA's and nonprofit disability organization's application must demonstrate a need for Mainstream Program vouchers by providing information documenting that the demand for housing for non-elderly and elderly persons with disabilities in connection with a request for five-year funding under this announcement would equal or exceed the requested number of vouchers. If the PHA is requesting one-year funding, the demand for housing for non-elderly disabled persons must be demonstrated as equaling or exceeding the number of vouchers being requested. The applicant must assess and document the housing need for elderly and non-elderly persons with disabilities using a range of sources including, but not limited to: census data, information from the applicant's waiting list (both public housing and housing choice voucher), statistics on recent public housing admissions and housing choice voucher use, data from local advocacy groups and local public and private service agencies familiar with the housing needs of elderly and non-elderly persons with disabilities, and pertinent information from the Consolidated Plan [including the Analysis of Impediments to Fair Housing Choice (AI)] applicable to the applicant's jurisdiction. {See 24 CFR 91.205(d).} The applicant's demonstrated need for vouchers must clearly support need on the basis of only non-elderly disabled families when requesting one-year funding. This distinction is important, as any FY 2002 Mainstream Program funding that may be available beyond the approximately $53.9 million under this announcement, must be used to assist only non-elderly disabled families and will be available only to PHAs. (See Section II (A) of this announcement regarding the possibility of substantially more Mainstream Program funding being available beyond the approximately $53.9 million.)

(D) Mainstream Program Operating Plan. The application must include a description of an adequate plan for operating a program to serve eligible disabled families, including:

(1) A description of how the applicant will carry out its responsibilities under 24 CFR 8.28 to assist recipients in locating units with needed accessibility features; and

(2) A description of how the applicant will identify private or public funding sources to help participants cover the costs of modifications that need to be made to their units as reasonable accommodations to their disabilities.

(3) A description of how the applicant will use a nonprofit disability organization or PHA (if any) under a contract to administer the Mainstream Program vouchers, or to otherwise provide services.

(E) Certification Applicable to Nonprofit Disability Organizations. A nonprofit disability organization applying for funding available under this announcement must provide a certification stating that the applicant can meet the capacity requirements applicable to a nonprofit disability organization delineated in Section III (B)(2)(b) of this announcement. The certification must specifically list the four capacity requirements from that paragraph, and must specifically list the rental housing programs the nonprofit disability organization has administered or the rental housing the nonprofit disability organization has managed.

(F) Statement Regarding the Steps the PHA and Nonprofit Organization Will Take to Affirmatively Further Fair Housing. The areas to be addressed in the PHA's and nonprofit organization's statement must include, but not necessarily be limited to:

(1) The examination of the PHA's and nonprofit organization's own programs or proposed programs, including an identification of any impediments to fair housing (identified in the jurisdiction's Analysis of Impediments (AI) to Fair Housing Choice in its Consolidated Plan); and a description of a plan to (a) address those impediments in a reasonable fashion in view of the resources available; (b) work with local jurisdictions to implement any of the jurisdictions' initiatives to affirmatively further fair housing; and (c) the maintenance of records reflecting this analyses and actions;

(2) Remedy discrimination in housing for persons with disabilities regardless of race, color, religion, sex, familial status, national origin, or nature of disability; or

(3) Promote fair housing rights and fair housing choice.

The applicant's statement must fully address the above areas. A general statement that the applicant will promote fair housing choice by reason of not discriminating on the basis of race, color, religion, etc. will not be sufficient.

(G) Moving to Work (MTW) PHA Certification. See Section VII (B)(2)(c) regarding the 97 percent lease-up or budget authority utilization certification to be submitted by an MTW PHA not required to report under SEMAP.

(H) Form HUD-2993. All PHAs must complete and submit form HUD-2993, Acknowledgement of Application Receipt. In addition to the PHA entering its name and address on the form, the full title of the program under which the PHA is seeking funding must also be entered. This form is located in the General Section of the SuperNOFA and is also available at the following HUD Web site: www.hud.gov. On this Web site click on “handbooks and forms.”

VII. Corrections to Deficient Applications

(A) Acceptable Applications. The application must include all of the information specified in section VI, Application Submission Requirements, of this announcement. The General Section of the SuperNOFA provides the procedures for corrections to deficient applications.

(B) Unacceptable Applications.

(1) After the 14-calendar day technical deficiency correction period, the Grants Management Center will disapprove all applications from PHAs and nonprofit disability organizations that the Grants Management Center determines are not acceptable for processing. The Grant Management Center's notification of rejection letter must state the basis for the decision. The applicant may request an applicant debriefing. Beginning not less than 30 days after the awards for assistance are announced in the Federal Register, and for not longer than 120 days, HUD will, upon receiving a written request from the applicant, provide a debriefing to the requesting applicant. Applicants requesting to be debriefed must send a written request to Michael Diggs, Director, Grants Management Center, Department of Housing and Urban Development, 501 School Street, SW, Suite 800, Washington, DC 20024.

(2) Applications from PHAs or nonprofit disability organizations that fall into any of the following categories will not be processed:

(a) Applications that do not meet the fair housing and civil rights compliance threshold requirements of Section II(B) of the General Section of the SuperNOFA.

(b) If the applicant is a PHA and the PHA is designated as troubled by HUD under SEMAP, or has major program management findings in an Inspector General audit for its voucher or certificate programs that are unresolved. The only exception to this category is if the PHA has been identified under the policy established in Section III(B)(1)(c) of this announcement and the PHA makes application with a designated contract administrator. Major program management findings are those that would cast doubt on the capacity of the PHA to effectively administer any new housing choice voucher funding in accordance with applicable HUD regulatory and statutory requirements.

(c) If the PHA has failed to achieve a lease-up or budget authority utilization rate of 97 percent for its combined certificate and voucher units under contract for its fiscal year ending on either September 30, 2000; December 31, 2000; March 31, 2001; or June 30, 2001. PHAs that have been determined by HUD to have passed either the 97 percent lease-up, or 97 percent budget authority utilization requirement for their fiscal year ending on either September 30, 2000; December 31, 2000; March 31, 2001; or June 30, 2001, will be listed with the Mainstream funding announcement at the following HUD Web site: www.hud.gov/offices/adm/grants/fundsavail.cfm. A PHA not listed may submit monthly lease-up and budget authority utilization information (following the methodology of Appendix A of this announcement and using the format in Appendix B which also includes a blank version of the format) as part of its application supportive of its contention that it should have been included among those potential applicants HUD listed on the HUD web site as having achieved either a 97 percent lease-up rate or 97 percent budget authority utilization rate for fiscal years ending on either September 30, 2000; December 31, 2000; March 31, 2001; June 30, 2001; or subsequent full fiscal year not yet processed by HUD but certified by the applicant. Unless utilization information is submitted on the blank form in Appendix B, the application will otherwise be determined ineligible for funding under this announcement.

Note: The lease-up and budget authority utilization requirement shall not apply to applicants not currently administering a voucher program, or to new units associated with funding increments obligated during the applicant's last fiscal year and units obligated for litigation. In addition, lease-up or budget authority utilization rates of 96.5 percent but less than 97 percent shall be rounded up to 97 percent.

Moving to Work (MTW) agencies that are required to report under the Section 8 Management Assessment Program (SEMAP) shall be held to the 97 percent lease-up and budget authority utilization requirements referenced above. MTW agencies which are not required to report under SEMAP must submit a certification with their application certifying that they are not required to report under SEMAP, and that they meet the 97 percent lease-up or budget authority utilization requirements.

(d) The PHA or nonprofit disability organization is involved in litigation and HUD determines that the litigation may seriously impede the ability of the applicant to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The PHA did not have its PHA plans approved by HUD for the FY 2000 plan cycle on the application due date for this funding announcement. (This category of ineligibility does not apply to nonprofit disability organizations whose housing choice voucher program is based solely upon previously approved housing choice vouchers under the Mainstream Program.)

VIII. Environmental Requirements

In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs and nonprofit organizations are responsible for the environmental requirements in 24 CFR 982.626(c).

IX. Authority

Authority for this program is found in the Departments of Veteran's Affairs and Housing and Urban Development, and Independent Agencies Appropriations Act, FY 2002 (Pub.L. 107-73, approved November 26, 2001). This FY 2002 Appropriations Act also authorized appropriations for housing choice vouchers to assist non-elderly disabled families affected by the designation of a public housing development under section 7 of the United States Housing Act of 1937, as amended; the establishment of preferences in accordance with section 651 of the Housing and Community Development Act (HCDA) of 1992, or the restriction of occupancy to elderly families in accordance with section 658 of the HCDA Act. The FY 2002 Appropriations Act allows the Secretary to transfer any unobligated funds for these purposes, to the extent they are not needed, to assist other non-elderly disabled families. Therefore, any funds remaining unobligated under these program sections will be used to fund applications under the Mainstream Program in the SuperNOFA.

BILLING CODE 4210-32-P

FUNDING AVAILABILITY FOR RENTAL ASSISTANCE FOR NON-ELDERLY PERSONS WITH DISABILITIES RELATED TO CERTAIN TYPES OF SECTION 8 PROJECT-BASED DEVELOPMENTS AND SECTIONS 202, 221(d)(3) AND 236 DEVELOPMENTS

PROGRAM OVERVIEW

Purpose of the Program. The purpose of this program is to provide housing choice vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to access affordable housing.

Available Funds. Approximately $20 million in one-year budget authority for approximately 3,950 housing choice vouchers.

Eligible Applicants. Public housing agencies (PHAs). PHAs that fall into any of the categories in Section VII(B)(2) of this announcement are ineligible to have an application funded under this announcement. Indian Housing Authorities (IHAs), Indian tribes and their tribally designated housing entities are not eligible to apply because the Native American Housing Assistance and Self-Determination Act of 1996, does not allow HUD to enter into new housing choice voucher annual contributions contracts (ACC) with IHAs after September 30, 1997.

Application Deadline. July 2, 2002.

Match. None.

ADDITIONAL INFORMATION

If you are interested in applying for funding under this program, please review carefully the General Section of this SuperNOFA and the following additional information.

I. Application Due Date, Application Kits, Further Information and Technical Assistance.

Application Due Date. Submit the original and one copy of your completed application to HUD on or before July 2, 2002. See the paragraphs titled “Mailed Applications” and “Applications Sent by Overnight/Express Mail Delivery” in section I of this funding announcement regarding the specific time on the application due date by which applications are to be submitted. This application deadline date is firm. In the interest of fairness to all competing PHAs, HUD will not consider any application that is received after the application deadline. Applicants should take this practice into account and make early submission of their materials to avoid any risk of loss of eligibility brought about by unanticipated delays or other delivery-related problems. HUD will not accept, at any time during the competition under this funding announcement, application materials sent via facsimile (FAX) transmission.

Address for Submitting Applications. Your completed application consists of an original and one copy. Submit your original application and one copy to: Michael Diggs, Director, Grants Management Center, Department of Housing and Urban Development, 501 School Street, SW., Suite 800, Washington, DC 20024. The Grants Management Center is the official place of receipt for all applications in response to this announcement of funding availability. Applications not submitted to the GMC will not be considered.

A copy of your application is not required to be submitted to the local HUD Field Office. For ease of reference, the term “local HUD Field Office” will be used in this announcement to mean the local HUD Field Office Hub and local HUD Field Office Program Center. A listing of HUD Field Offices is attached to the General Section of this SuperNOFA.

New Security Procedures. In response to the terrorist attacks in September 2001, HUD has implemented new security procedures that impact on application submission procedures. Please read the following instructions carefully and completely. HUD will not accept hand delivered applications. Applications may be mailed to the GMC in HUD Headquarters using the United States Postal Service (USPS). Applications may also be shipped to the GMC via the following delivery services: United Parcel Service (UPS), FedEx, DHL, or Falcon Carrier. No other delivery services are permitted into HUD Headquarters without escort. You must, therefore, use one of the four carriers listed above.

Mailed Applications. Your application will be considered timely filed if your application is postmarked on or before 12:00 midnight on the application due date and received by the GMC within fifteen (15) days of the application due date. All applicants must obtain and save a Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx, and Falcon Carrier. Delivery by these services must be made during HUD Headquarters business hours, between 8:30 AM AND 5:30 PM Eastern Time, Monday to Friday. If these companies do not service your area, you should submit your application via the USPS.

For Application Kits. An application kit is not necessary for submitting an application in response to this announcement. This announcement contains all the information necessary for the submission of your application for voucher funding under this announcement.

For Further Information and Technical Assistance. Prior to the application due date, you may contact George C. Hendrickson, Housing Program Specialist, Room 4216, Office of Public and Assisted Housing Delivery, Department of Housing and Urban Development, 451 Seventh Street, SW, Washington, DC 20410; telephone (202) 708-1872, ext. 4064. Subsequent to application submission, you may contact the Grants Management Center at (202) 358-0221. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD Web site at www.hud.gov.

II. Amount Allocated

(A) Available Funding. Approximately $20 million in one-year budget authority is available to provide assistance to approximately 3,950 non-elderly disabled families (who are not currently receiving housing assistance in certain Section 8 project-based developments due to the owners establishing a preference for the admission of elderly families, and for non-elderly disabled families not being housed in certain Section 202, Section 221(d)(3) and Section 236 developments or portions thereof where the owners have restricted occupancy to elderly families).

In the event approvable applications are received for more than the approximately $20 million announced as available under this announcement, funds will be transferred from the approximately $20 million available under the funding announcement for Rental Assistance for Non-Elderly Persons with Disabilities in Support of Designated Housing Plans program to the extent funds remain unobligated after funding all approvable applications under that announcement.

Any funding remaining unobligated under this announcement providing assistance for non-elderly persons with disabilities related to certain developments will be used first to fund any approvable applications under the announcement for Rental Assistance for Non-Elderly Persons With Disabilities in Support of Designated Housing Plans, for which there may be insufficient funds. Any funds still remaining unobligated will be used to fund any approvable applications under the announcement for Mainstream Housing Opportunities for Persons with Disabilities for which there are insufficient funds.

(B) Voucher Funding and Preliminary Fees.

(1) Voucher Funding.

(a) Maximum Voucher Request. PHAs are limited to applying for no more than a maximum of 200 units (vouchers). A PHA may apply only for the number of units needed to house:

(i) Those non-elderly disabled families who are on the waiting list of an owner of a Section 8 project-based development identified in Section III (A)(1) of this announcement where the owner elected to provide preferences to elderly families, and to house other non-elderly disabled families residing in the community who would qualify for one-or zero-bedroom units; and/or

(ii) Those non-elderly disabled families who are on the waiting list of an assisted housing development identified in Section III(A)(2) of this announcement, or are otherwise residing in the community, but in either instance are not being housed in these assisted housing developments where the owners have restricted occupancy in the developments (or portion thereof) to elderly. Non-elderly disabled families in this second category would also need to qualify for one-or zero bedroom units.

Note: The PHA may apply for a two-bedroom unit under Section II (B) of this announcement in instances where a non-elderly disabled family requires the extra bedroom for purposes of a live-in aide, medical equipment, or other justifications based on a reasonable accommodations request.

(b) Determination of Funding Amount for the PHA's Requested Number of Vouchers. HUD will determine the amount of funding that you will be awarded under this announcement based upon an actual annual per unit cost {except for Moving to Work (MTW) agencies the per unit cost will be calculated in accordance with the agency's MTW Agreement for MTW units} using the following two step process:

(i) HUD will extract the total expenditures for all the PHA's housing choice voucher and certificate programs and the unit months leased information from the most recent approved year end statement (form HUD-52681) that the PHA has filed with HUD. HUD will divide the total expenditures for all the PHA's housing choice voucher and certificate programs by the unit months leased to derive an average monthly per unit cost.

(ii) HUD will multiply the monthly per unit cost by 12 (months) to obtain an annual per unit cost.

Note: If you do not currently administer a housing choice voucher program, your voucher funding will be based upon the annual per unit costs of a PHA in your most immediate area administering a housing choice voucher program, using the two step process described immediately above.

(2) Preliminary Fee. A preliminary fee of up to $500 per unit for preliminary (start-up) expenses will be paid to PHAs that have not previously administered their own housing choice voucher program that are selected for funding under this announcement. The preliminary fee will be provided to such PHAs only in their first year administering housing choice vouchers.

III. Program Description, Eligible Applicants, and Eligible Participants

(A) Program Description. This program provides housing choice vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to rent affordable housing. The specific types of developments covered under these two broad categories are as follows:

(1) Section 651 of the Housing and Community Development Act of 1992 {42 U.S.C. 13611 allowed owners of the following covered Section 8 project-based developments (limited to only such developments originally designed primarily for occupancy by elderly families){ to provide preferences to elderly families in selecting tenants for available assisted units in those projects:

(a) Section 8 New Construction Program, 24 CFR part 880;

(b) Section 8 Substantial Rehabilitation Program, 24 CFR part 881;

(c) State Housing Agencies Program (insofar as involving new construction and substantial rehabilitation), 24 CFR part 883;

(d) New Construction Set-Aside for Section 515 Rural Rental Housing Projects Program, 24 CFR part 884; and

(e) Section 8 Housing Assistance Program for the Disposition of HUD-Owned Projects (insofar as involving substantial rehabilitation), 24 CFR part 886, subpart C.

(2) Section 658 of the 1992 Act provides that an owner of a Federally assisted project (or portion thereof) that was designed for occupancy for elderly families may continue to restrict occupancy in such project (or portion) to elderly families in accordance with the rules, standards, and agreements governing occupancy in such housing in effect at the time of the development of the housing. The three types of assisted housing developments covered by Section 658 are as follows:

(a) Housing assisted under section 202 of the Housing Act of 1959, as such section existed before the enactment of the National Affordable Housing Act (NAHA);

(b) Housing financed by a loan or mortgage insured under section 221(d)(3) of the National Housing Act that bears an interest rate determined under section 221(d)(5); and

(c) Housing insured, assisted or held by the Secretary or a State or State Agency under section 236 of the National Housing Act.

(B) Eligible Applicants.

(1) PHAs are eligible applicants. PHAs falling into any of the categories in Section VII (B)(2) of this announcement are ineligible to have an application funded under this announcement. A PHA may submit only one application. This one application per PHA limit applies regardless of whether or not the PHA is a State or regional PHA, except in those instances where such a PHA has been assigned more than one PHA code number due to its operating under the jurisdiction of more than one HUD Field Office. In such instance, a separate application under each code shall be considered for funding, with the cumulative total of vouchers applied for under the applications not to exceed the maximum number of vouchers the PHA is eligible to apply for under Section II (B)(1)(a) of this announcement; i.e., no more than the number of vouchers the same PHA would be eligible to apply for if it only had one PHA code number.

Indian Housing Authorities (IHAs), Indian tribes and their tribally designated housing entities are not eligible to apply because the Native American Housing Assistance and Self-Determination Act of 1996 does not allow HUD to enter into new housing choice voucher (Section 8) annual contributions contracts (ACC) with IHAs after September 30, 1997.

In some cases a PHA currently administering the housing choice voucher program has, at the time of publication of this SuperNOFA, been designated by HUD as a troubled PHA under the Section 8 Management Assessment Program (SEMAP), or has major program management findings from Inspector General audits that are unresolved. HUD will not accept an application from such a PHA as a contract administrator if, on the application due date, the troubled designation under SEMAP has not been removed by HUD, or the findings are not resolved. If the PHA wants to apply for funding under this announcement, the PHA must submit an application that designates another contractor that is acceptable to HUD. The PHA's application must include an agreement with the other contractor to administer the new funding increment on behalf of the PHA, and (in the instance of a PHA with unresolved major program management findings) a statement that outlines the steps the PHA is taking to resolve the program findings.

Immediately after the publication of this SuperNOFA, the Office of Public Housing in the local HUD Field Office will notify, in writing, those PHAs that have been designated by HUD as troubled under SEMAP, and those PHAs with unresolved major program management findings that are not eligible to apply without such an agreement. Concurrently, the local HUD Field Office will provide a copy of each such written notification to the Grants Management Center. The PHA may appeal the decision in writing, if HUD has mistakenly classified the PHA as having unresolved major program management findings. The PHA may not appeal its designation as a troubled PHA under SEMAP. Any appeal with respect to unresolved major program management findings must be accompanied by conclusive evidence of HUD's error (i.e., documentation showing that the finding has been cleared) and must be received prior to the application deadline. The appeal should be submitted to the local HUD Field Office where a final determination shall be made. Concurrently, the local HUD Field Office shall provide the Grants Management Center with a copy of the PHA's written appeal, and the Field Office's written response to the appeal. Major program management findings are those that would cast doubt on the capacity of the PHA to effectively administer any new housing choice voucher funding in accordance with applicable HUD regulatory and statutory requirements.

(C) Eligible Participants. Eligible participants include non-elderly disabled families who were on the waiting list (at the time of the PHA's application) of a covered development identified in this announcement where the owner had exercised a preference for the admission of elderly families, or restricted occupancy to elderly families, at the time the PHA received the names of these families from the owner of the development(s) for purposes of requesting housing choice vouchers in response to this announcement. These non-elderly disabled families need not be listed on the PHA's housing choice voucher waiting list in order to be offered and receive housing choice voucher assistance; i.e., it is sufficient that their names are on the waiting list for a covered development at the time their names are provided to the PHA by the owner. Eligible participants also include other non-elderly disabled families residing in the community who would qualify for a one-or zero-bedroom unit. (See the note in this announcement at the end of Section II(B)(1)(a) for those limited instances in which a PHA could also apply for funding for a two-bedroom unit.) Non-elderly disabled families must be income eligible under 24 CFR 982.201(b)(1) in order to receive a housing choice voucher, as well as otherwise eligible for assistance under the regulations at 24 CFR part 982.201(b). Additional information on the eligibility requirements for a family or individual to receive a housing choice voucher are located at the following HUD Web site: www.hud.gov/offices/pih/programs/hcv.

IV. Program Requirements and Operations

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine the PHA's own programs or proposed programs, including an identification of any impediments to fair housing (identified in the jurisdiction's Analysis of Impediments (AI) to Fair Housing Choice in its Consolidated Plan); develop a plan to (a) address those impediments in a reasonable fashion in view of the resources available; (b) work with the local jurisdictions to implement any of the jurisdictions' initiatives to affirmatively further fair housing; and (c) maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program regulations. PHAs must administer the housing choice vouchers received under this announcement in accordance with HUD regulations and requirements governing the Housing Choice Voucher Program.

(2) Housing Choice Voucher admission requirements. Housing choice vouchers must be provided to eligible applicants in conformity with regulations and requirements governing the Housing Choice Voucher Program and the PHA's administrative plan.

(3) Turnover. When a voucher under this announcement becomes available for reissue (e.g., the family initially selected for the program drops out of the program or is unsuccessful in the search for a unit), the voucher may be used only for another non-elderly disabled family eligible for assistance under this announcement for one year from the date the voucher funding is placed under an annual contributions contract (ACC).

If there is ever an insufficient pool of non-elderly disabled families on the PHA's housing choice voucher waiting list, the PHA shall conduct outreach to encourage eligible persons to apply for this special allocation of vouchers. Outreach may include contacting independent living centers, advocacy organizations for persons with disabilities, and medical, mental health, and social service providers for referrals of persons who would benefit from housing choice voucher assistance. If the PHA's housing choice voucher waiting list is closed, and if the PHA has insufficient applicants on its housing choice voucher waiting list to use all awarded vouchers under this announcement, the PHA should open the waiting list for applications from non-elderly disabled families. PHAs must take care to keep track of the number of non-elderly disabled vouchers they have been awarded versus the number of such vouchers that have actually been issued to non-elderly disabled families.

(D) PHA Responsibilities. In addition to PHA responsibilities under the Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of modifications that need to be made to their units as a reasonable accommodation for their disabilities.

(3) Not deny persons who qualify for a housing choice voucher under this program other housing opportunities, or otherwise restrict access to PHA programs to eligible applicants who choose not to participate.

(4) Provide housing choice voucher search assistance.

(5) In accordance with regulatory guidance, provide higher rent to owners necessary for the provision of accessible units and structural modifications for persons with disabilities.

(6) Provide technical assistance to owners for making reasonable accommodations or making units accessible to persons with disabilities.

PHAs are encouraged to coordinate with/involve nonprofit disability organizations in their meeting the requirements of paragraphs 1, 2, 4 and 6 immediately above. PHAs are encouraged to seek out nonprofit disability organizations in this regard due to such organizations' capacity for assisting disabled families, and their in-depth knowledge of the disability community and the available resources to assist disabled persons.

(E) Definitions.

(1) Elderly Family. A family whose head of household, spouse, or sole member is 62 years or older.

(2) Non-elderly Disabled Family. A family who is not elderly, and whose head, spouse, or sole member is a person with disabilities. It may include two or more persons with disabilities living together, or one or more persons with disabilities living with one or more live-in aides.

(3) Person with Disabilities. Means a person who—

(a) Has a disability as defined in 42 U.S.C. 423;

(b) Is determined, pursuant to HUD regulations, to have a physical, mental or emotional impairment that:

(i) Is expected to be of long-continued and indefinite duration;

(ii) Substantially impedes his or her ability to live independently; and

(iii) Is of such a nature that the ability to live independently could be improved by more suitable housing conditions;

(c) Has a developmental disability as defined in 42 U.S.C. 6001;

(d) Does not exclude persons who have the disease of acquired immunodeficiency syndrome or any conditions arising from the etiologic agent for acquired immunodeficiency syndrome; and

(e) For purposes of qualifying for low-income housing, does not include a person whose disability is based solely on any drug or alcohol dependence.

(4) Housing Choice Voucher Search Assistance. Assistance to increase access by program participants to housing units in a variety of neighborhoods (including areas with low poverty and/or minority concentrations) and to locate and obtain units suited to their needs.

(F) Homeownership and Family Self-Sufficiency (FSS). Applicants are encouraged to establish or expand upon an existing housing choice voucher homeownership program, as well as complete the closing process on homeownership units. Applicants are also encouraged to fill slots under a mandatory FSS program and to establish a voluntary FSS program and fill slots thereunder where a mandatory FSS program is not required.

(G) Increasing the Participation of Faith-Based and Community-Based Organizations in HUD Program Implementation. HUD believes that grassroots organizations; e.g., civic organizations, congregations, and other community-based and faith-based organizations, have not been effectively utilized. These grassroots organizations have a strong history of providing vital community services such as assisting the homeless and preventing homelessness; counseling individuals and families on fair housing rights; providing elderly housing opportunities; developing first time homeownership programs; increasing homeownership and rental housing opportunities; developing affordable and accessible housing in neighborhoods across the country; and creating economic development programs. The goal of this policy priority to make HUD's housing choice voucher program more effective, efficient, and accessible by expanding opportunities for faith-based and other community-based organizations to participate in developing solutions for their own neighborhoods. PHAs are encouraged to coordinate with and otherwise involve faith-based and other community-based organizations in those activities under the housing choice voucher program where their services, expertise and knowledge may be most effective.

(H) Conducting Business in Accordance With Core Values and Ethical Standards. To reflect core values, all PHAs shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor or agent of the PHA. The PHA's administrative plan shall state PHA policies concerning PHA administrative and disciplinary remedies for violation of the PHA code of conduct. The PHA shall inform all officers, employees and agents of its organization of the PHA's code of conduct

V. Application Selection Process

After the Grants Management Center has screened all applications and disapproved any found unacceptable for further processing, the Grants Management Center will review all remaining applications to ensure that they are technically adequate and responsive to the requirements identified in this program section of the SuperNOFA.

HUD Headquarters will fund on a first-come, first-serve basis all approvable applications that are recommended for funding by the Grants Management Center, based upon the date and time the application is received in the Grants Management Center. As applications are selected, the cost of funding the applications will be subtracted from the funds available. In the event approvable applications are received for more than the approximately $20 million available, funds will be transferred from the approximately $20 million available under the Rental Assistance for Non-elderly Persons with Disabilities in Support of Designated Housing Plans program to the extent such funds have not been obligated under that program for approvable applications. Applications will be funded for the total number of units requested and recommended for approval by the Grants Management Center. When remaining budget authority is insufficient to fund the last selected application in full, the Grants Management Center will fund that application to the extent of the funding available, unless the application indicates that the PHA will only accept a higher number of units. In that event, HUD will fund the next selected application that has indicated a willingness to accept the lesser amount of funding for units available.

VI. Application Submission Requirements

(A) Form HUD-52515. All PHAs must complete and submit form HUD-52515, Funding Application, for the Housing Choice Voucher Program (dated January 1996). This form includes all necessary certifications for Fair Housing, Drug Free Workplace and Lobbying Activities. PHAs are requested to enter their housing authority code number (for example, CT002), telephone number, facsimile number, and electronic mail address in the same space at the top of the form where they also enter the PHA's name and mailing address. Section C of the form should be left blank. The form must be completed in its entirety, with the exception of Section C, signed and dated. A copy of Form HUD-52515 is included in the forms found in the General Section of the SuperNOFA. Copies of the form may also be downloaded from the following HUD Web site: www.hud.gov. (On the HUD Web site click on “handbooks and forms,” then click on “forms,” then click on “HUD-5” and click on “HUD-52515.”) In addition, the Form HUD-52515 will also be posted with the Certain Developments funding announcement at the following HUD Web site: www.hud.gov/offices/adm/grants/fundsavail.cfm.

(B) Letter of Intent and Narrative. The PHA must state in its cover letter to the application whether the PHA will accept a reduction in the number of vouchers, and the minimum number of vouchers the PHA will accept, since the funding is limited and HUD may only have enough funds to approve a smaller amount than the number of vouchers requested. The maximum number of vouchers that a PHA may apply for under this announcement is limited to 200.

PHAs that do not currently administer a housing choice voucher program must identify the nearest PHA (including the full name, address, and tel. no.) that does administer a housing choice voucher program. This information will be necessary for HUD to calculate annual per unit costs for voucher funding awarded under this funding announcement to such PHAs (see section II (B)(1)(b) of this funding announcement).

(C) Demonstration of Need: Certification/Waiting List Information and Other Non-Elderly Disabled Families Residing in the Community. In order to support the number of vouchers being requested on the form HUD-52515, the PHA's application must include:

(1) A certification from the owner of a covered development (see the different types of covered developments listed in Section III(A)(1) and (2) of this announcement), stating the specific type of covered development, preferences are provided to elderly families in selecting tenants (Section 8 project-based developments) or occupancy in the development (or portion thereof) is restricted to elderly families (assisted housing developments), and the number of non-elderly disabled families on the owner's waiting list for the development. PHAs should contact the local HUD Field Office's Director, Multifamily Division, to get the names, addresses and telephone numbers of the developments falling under Section III (A)(1) and (2) in this announcement. The PHA will then need to contact the management/owners of these developments within their jurisdiction to verify that the development is a covered development. Owners of covered developments are encouraged to cooperate with PHAs and provide the required certification (if applicable) in a timely manner, along with the names, addresses and telephone numbers of those families on the development's waiting list that are non-elderly disabled families.

(2) PHAs must also submit information supportive of the number of other non-elderly disabled families residing in the community who would qualify for one-bedroom or zero-bedroom units (not on the waiting lists of covered developments). (See the note at the end of Section II (B)(1)(a) of this announcement which identifies those limited instances in which a PHA may apply for funding for a two-bedroom unit.) The application must demonstrate a need for vouchers by providing information documenting that the demand for housing for non-elderly disabled families would equal or exceed the requested number of vouchers (not to exceed 200). The PHA must assess and document the need using a range of sources including, but not limited to: census data, information from the PHA's waiting list (both public housing and housing choice voucher), statistics on recent public housing admissions and voucher use, data from local advocacy groups and local public and private service agencies familiar with the housing needs of non-elderly disabled families, and pertinent information from the Consolidated Plan (including the Analysis of Impediments to Fair Housing Choice) applicable to the PHA's jurisdiction. (See 24 CFR 91.205(d).)

(D) Statement Regarding the Steps the PHA Will Take to Affirmatively Further Fair Housing. The areas to be addressed in the PHA's statement must include, but not necessarily be limited to:

(1) The examination of the PHA's own programs or proposed programs, including an identification of any impediments to fair housing (identified in the jurisdiction's Analysis of Impediments (AI) to Fair Housing Choice in its Consolidated Plan); and a description of a plan developed to (a) address those impediments in a reasonable fashion in view of the resources available; (b) work with local jurisdictions to implement any of the jurisdictions' initiatives to affirmatively further fair housing; and (c) the maintenance of records reflecting this analysis and actions;

(2) Remedy discrimination in housing for persons with disabilities regardless of race, color, religion, sex, familial status, national origin, or nature of disability; or

(3) Promote fair housing rights and fair housing choice.

The PHA's statement must fully address the above areas. A general statement that the PHA will promote fair housing choice by reason of not discriminating on the basis of race, color, religion, etc. will not be sufficient.

(E) Moving to Work (MTW) PHA Certification. See Section VII (B)(2)(c) regarding the 97 percent lease-up or budget authority utilization certification to be submitted by an MTW PHA not required to report under SEMAP.

(F) Form HUD-2993. All PHAs must complete and submit form HUD—2993, Acknowledgement of Application Receipt. In addition to the PHA entering its name and address on the form, the full title of the program under which the PHA is seeking funding must also be entered. This form is located in the General Section of the SuperNOFA and is also available at the following HUD Web site: www.hud.gov. On this Web site click on “handbooks and forms.”

VII. Corrections to Deficient Applications

(A) Acceptable Applications. The application must include all of the information specified in Section VI, Application Submission Requirements, of this announcement. The General Section of the SuperNOFA provides the procedures for corrections to deficient applications.

(B) Unacceptable Applications

(1) After the 14-calendar day technical deficiency correction period (as provided in the General Section), the Grants Management Center will disapprove all applications that the Grants Management Center determines are not acceptable for processing. The Grants Management Center's notification of rejection letter will state the basis for the decision. The applicant may request an applicant debriefing. Beginning not less than 30 days after the awards for assistance are announced in the Federal Register, and for not longer than 120 days, HUD will, upon receiving a written request from the applicant, provide a debriefing to the requesting applicant. Applicants requesting to be debriefed must send a written request to Michael Diggs, Director, Grants Management Center, Department of Housing and Urban Development, 501 School Street, SW, Suite 800, Washington, DC 20024.

(2) Applications that fall into any of the following categories will not be processed:

(a) Applications that do not meet the threshold fair housing and civil rights compliance requirements of Section II(B) of the General Section of the SuperNOFA.

(b) The PHA is designated as troubled by HUD under SEMAP, or has major program management findings in an Inspector General audit for its voucher or certificate programs that are unresolved. The only exception to this category is if the PHA has been identified under the policy established in Section III (B)(2) of this announcement and the PHA makes application with a designated contract administrator. Major program management findings are those that would cast doubt on the capacity of the PHA to effectively administer any new housing choice voucher funding in accordance with applicable HUD regulatory and statutory requirements.

(c) The PHA has failed to achieve a lease-up or budget authority utilization rate of 97 percent for its combined certificate and voucher units under contract for its fiscal year ending on either September 30, 2000; December 31, 2000; March 31, 2001; or June 30, 2001. PHAs that have been determined by HUD to have passed either the 97 percent lease-up, or 97 percent budget authority utilization requirement for their fiscal year ending on either September 30, 2000; December 31, 2000; March 31, 2001; or June 30, 2001, will be listed with this funding announcement at the following HUD Web site: www.hud.gov/offices/adm/grants/fundsavail.cfm. A PHA not listed may submit monthly lease-up and budget authority utilization information (following the methodology of Appendix A of this announcement and using the format in Appendix B which also includes a blank version of the format) as part of its application supportive of its contention that it should have been included among those PHAs HUD listed on the HUD web site as having achieved either a 97 percent lease-up rate or 97 percent funding utilization rate for its fiscal year ending on either September 30, 2000; December 31, 2000; March 31, 2001; June 30, 2001; or subsequent full fiscal year not yet processed by HUD but certified by the applicant. Unless utilization information is submitted on the blank form in Appendix B, the application will otherwise be determined ineligible for funding under this announcement.

Note: The lease-up and budget authority utilization requirement shall not apply to applicants not currently administering a voucher program, or to new units associated with funding increments obligated during the applicant's last fiscal year and units obligated for litigation. In addition, lease-up or budget authority utilization rates of 96.5 percent but less than 97 percent will be rounded up to 97 percent.

Moving To Work (MTW) agencies that are required to report under the Section 8 Management Assessment Program (SEMAP) shall be held to the 97 percent lease-up and budget authority utilization requirements referenced above. MTW agencies which are not required to report under SEMAP must submit a certification with their application certifying that they are not required to report under SEMAP, and that they meet the 97 percent lease-up or budget authority utilization requirement.

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The PHA did not have its PHA plans approved by HUD for the FY 2000 plan cycle on the application due date for this funding announcement.

VIII. Environmental Requirements

In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs are responsible for the environmental requirements in 24 CFR 982.626(c).

IX. Authority

Authority for this program is found in the Departments of Veteran's Affairs and Housing and Urban Development, and Independent Agencies Appropriations Act, FY 2002 (Pub.L. 107-73, approved November 26, 2001). This FY 2002 Appropriations Act authorized appropriations for housing choice vouchers to assist non-elderly disabled families affected by the establishment of preferences in accordance with section 651 of the Housing and Community Development Act of 1992, or the restriction of occupancy to elderly families in accordance with section 658 of the Act. The FY 2002 Appropriations Act also allows the Secretary to transfer any unobligated funds for this purpose to assist non-elderly disabled families to the extent they are not needed under Sections 651 and 658 for such families. Therefore, any funds remaining unobligated under this program section of this SuperNOFA will be used first to fund any approvable applications under the Rental Assistance for Non-Elderly Persons With Disabilities in Support of Designated Housing Plans program for which there are insufficient funds. Thereafter, any funds still remaining unobligated will be used to fund applications under the Mainstream Program in the SuperNOFA.

BILLING CODE 4210-32-P

FUNDING AVAILABILITY FOR RENTAL ASSISTANCE FOR NON-ELDERLY PERSONS WITH DISABILITIES IN SUPPORT OF DESIGNATED HOUSING PLANS

PROGRAM OVERVIEW

Purpose of the Program. The purpose of the voucher funding being made available under the Housing Choice Voucher Program through this announcement is to enable non-elderly families with disabilities to access affordable private housing. The vouchers will assist public housing agencies (PHAs) in providing sufficient alternative resources to meet the housing needs of those non-elderly disabled families who would have been housed by the PHA if occupancy in a designated public housing project/building (or portion thereof) were not restricted to elderly households, and assist PHAs who wish to continue to designate their buildings as “mixed elderly and disabled buildings” but can demonstrate a need for alternative resources for non-elderly disabled families.

Available Funds. Approximately $20 million in one-year budget authority for approximately 3,950 housing choice vouchers.

Eligible Applicants. Public housing agencies (PHAs). PHAs that fall into any of the categories in section VII(B)(2) of this announcement are ineligible to have an application funded under this announcement. Indian Housing Authorities, Indian tribes and their tribally designated housing entities are not eligible to apply because the Native American Housing Assistance and Self-Determination Act of 1996, does not allow HUD to enter into new housing choice voucher annual contributions contracts (ACC) with IHAs after September 30, 1997. Further, IHAs would not otherwise have been eligible to apply under this announcement because the requirements of section 7 of the U.S. Housing Act of 1937 (42 U.S.C. 1437e) regarding designated housing plans are not applicable to IHAs.

Application Deadline. The application in its entirety must be submitted to HUD's Grants Management Center by July 23, 2002. By not later than May 20, 2002, the designated housing plan portion of the application must be submitted to HUD's Special Application Center.

Match: None.

ADDITIONAL INFORMATION

If you are interested in applying for funding under this program, please review carefully the General Section of this SuperNOFA and the following additional information.

I. Application Due Dates, Application Kits, Further Information and Technical Assistance

Application Due Dates. Submit your original and one copy of your completed application (including the designated housing plan, as appropriate) to HUD on or before July 23, 2002. See the paragraphs titled “Mailed Applications” and “Applications Sent by Overnight/Express Mail Delivery” in section I of this funding announcement regarding the specific time on the application due date by which applications are to be submitted. This application deadline date is firm. In the interest of fairness to all competing PHAs, HUD will not consider any application that is received after the application deadline. Applicants should take this practice into account and make early submission of their materials to avoid any risk of loss of eligibility brought about by unanticipated delays or other delivery-related problems. HUD will not accept, at any time during the competition under this funding announcement, application materials sent via facsimile (FAX) transmission.

Address for Submitting Applications. Your completed application consists of an original and two copies. Submit the original application and one copy to: Michael Diggs, Director, Grants Management Center, Department of Housing and Urban Development, 501 School; Street, SW, Suite 800, Washington, DC 20024. The Grants Management Center (GMC) is the official place of receipt for all applications in response to this announcement of funding availability. Applications not submitted to the GMC will not be considered.

Submit one copy of the designated housing plan portion of your application to the Office of Public Housing, Special Application Center (SAC), Room 2401, 77 West Jackson Boulevard, Chicago, IL 60604 (312-886-9754), so as to be received by the SAC by not later than May 20, 2002. See the paragraph titled “Mailed Applications” in section I of this funding announcement regarding the specific time on the application due date by which applications are to be submitted.

Note: The Special Application Center is allowed, by statute, 60 days in which to review a PHA's designated housing plan.

A PHA submitting an application for voucher funding under this announcement shall not be eligible for funding if it does not submit its entire application to the GMC, and the designated housing plan portion of its application (as applicable) to the SAC, by the deadline dates specified above.

A copy of your application is not required to be submitted to the local HUD Field Office. For ease of reference, the term “local HUD Field Office” will be used in this announcement to mean the local HUD Field Office Hub and local HUD Field Office Program Center. A listing of HUD Field Offices is attached to the General Section of this SuperNOFA.

New Security Procedures. In response to the terrorist attacks in September 2001, HUD has implemented new security procedures that impact on application submission procedures. Please read the following instructions carefully and completely. HUD will not accept hand delivered applications. Applications may be mailed to the GMC in HUD Headquarters, or (for the designated housing plan portion of the application) to the SAC in Chicago, Illinois, using the United States Postal Service (USPS). Applications may also be shipped to the GMC via the following delivery services: United Parcel Service (UPS), FedEx, DHL, or Falcon Carrier. (Use of these delivery services or any other delivery services for the submission of the designated housing plan portion of the application to the SAC is not allowed.) No other delivery services are permitted into HUD Headquarters without escort. You must, therefore, use one of the four carriers listed above.

Mailed Applications. Your application will be considered to be timely filed if your application is postmarked on or before 12:00 midnight on the application due date and received by the GMC (the entire application) and the SAC (designated housing plan portion of the application) within fifteen (15) days of the application due dates applicable to each of these separate submissions. All applicants must obtain and save a Certificate of Mailing showing the date when you submitted your application to the United States Postal Service (USPS). The Certificate of mailing will be your documentary evidence that your application was timely filed.

Applications Sent to the GMC by Overnight/Express Mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx, and Falcon Carrier. Delivery by these services must be made during HUD Headquarters business hours, between 8:30AM and 5:30PM Eastern Time, Monday to Friday. If these companies do not service your area, you should submit your application via the USPS. (The submission by a PHA to the SAC of the designated housing plan portion of its application must be done solely by mail using the USPS.)

For Application Kits. An application kit is not necessary for submitting an application in response to this announcement. This announcement contains all the information necessary for the submission of your application for voucher funding under this announcement.

For Further Information and Technical Assistance. Prior to the application due date, you may contact George C. Hendrickson, Housing Program Specialist, Room 4216, Office of Public and Assisted Housing Delivery, Department of Housing and Urban Development, 451 Seventh Street, SW., Washington, DC 20410; telephone (202) 708-1872, ext.4064. Subsequent to application submission, you may contact the Grants Management Center at (202) 358-0221. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD Web site at www.hud.gov.

II. Amount Allocated.

(A) Available Funding. Approximately $20 million in one-year budget authority is available for housing choice vouchers for non-elderly disabled families in support of designated housing plans to designate public housing for occupancy by elderly families only, or elderly families and disabled families only. This funding is expected to provide assistance to approximately 3,950 non-elderly disabled families.

The FY 2002 HUD Appropriations Act allows the Secretary of HUD to transfer any unobligated funds for support of designated housing plans to assist non-elderly disabled families to the extent they are not needed to fund approvable applications related to designated housing plans during FY 2002. Accordingly, any funds remaining unobligated under this announcement will first be used to fund any approvable applications under HUD's announcement for Rental Assistance for Non-Elderly Persons with Disabilities Related to Certain Types of Section 8 Project-Based Developments and Section 202, Section 221(d)(3) and Section 236 Developments, for which there are insufficient funds. Any funds still remaining unobligated under this announcement for funding in support of designated housing plans shall be used to fund any approvable applications under HUD's announcement for Mainstream Housing Opportunities For Persons With Disabilities, for which there are insufficient funds.

(B) Voucher Funding.

(1) Maximum Voucher Request. A PHA may apply for only the number of units needed to house those non-elderly disabled families that otherwise would have been housed if not for the designation of a project/building (or portion thereof) for occupancy by the elderly only. The size of the units applied for must bear a direct relationship to the size of the units designated. PHAs are limited to applying for no more than a maximum of 200 units (vouchers).

(2) Determination of Funding Amount for the PHA's Requested Number of Vouchers. HUD will determine the amount of funding that a PHA will be awarded under this announcement based upon an actual annual per unit cost {except for Moving to Work (MTW) agencies the per unit cost will be calculated in accordance with the agency's MTW Agreement for MTW units} using the following two step process:

(a) HUD will extract the total expenditures for all the PHA's housing choice voucher and certificate programs and the unit months leased information from the most recent approved year end statement (form HUD-52681) that the PHA has filed with HUD. HUD will divide the total expenditures for all of the PHA's housing choice voucher and certificate programs by the unit months leased to derive an average monthly per unit cost.

(b) HUD will multiply the monthly per unit cost by 12 (months) to obtain an annual per unit cost.

Note: Applicants who do not currently administer a housing choice voucher program shall have their voucher funding based upon the actual annual per unit costs of the PHA in their most immediate area administering a housing choice voucher program, using the two step process described immediately above.

(3) Preliminary Fee. A preliminary fee of up to $500 per unit for preliminary (start-up) expenses will be paid to PHAs that have not previously administered their own housing choice voucher program and that are selected for funding under this announcement. The preliminary fee will be provided to such PHAs only in their first year administering housing choice vouchers.

III. Program Description, Eligible Applicants, and Eligible Participants

(A) Program Description. This program provides housing choice vouchers to assist non-elderly disabled families who would have been housed by a PHA if occupancy in the designated public housing project/building (or portion thereof) were not restricted to elderly households, and assist PHAs that wish to continue to designate their projects/buildings (or portions thereof) as “mixed elderly and disabled buildings” and can demonstrate a need for alternative housing resources for non-elderly disabled families that is consistent with the jurisdiction's Consolidated Plan and the low-income housing needs of the jurisdiction.

(B) Eligible Applicants. PHAs are the eligible applicants. PHAs that fall into any of the categories in section VII(B)(2) of this announcement are ineligible to have an application funded under this announcement. A PHA may submit only one application under this announcement. This one application per PHA limit applies regardless of whether the PHA is a State or regional PHA, except in those instances where such a PHA has more than one PHA code number due to its operating under the jurisdiction of more than one HUD Field Office. In such instance, a separate application under each code shall be considered for funding, with the cumulative total of vouchers applied for under the applications not to exceed the maximum number of vouchers the PHA is eligible to apply for under section II (B)(1) of this announcement; i.e., no more than the number of vouchers the same PHA would be eligible to apply for if it only had one PHA code number.

Indian Housing Authorities (IHAs), Indian tribes and their tribally designated housing entities are not eligible to apply because the Native American Housing Assistance and Self-Determination Act of 1996, does not allow HUD to enter into new Housing Choice Voucher Program annual contributions contracts (ACC) with IHAs after September 30, 1997. Further, IHAs would not otherwise have been eligible to apply under this announcement because the requirements of section 7 of the U.S. Housing Act of 1937 (42 U.S.C. 1437e) regarding designated housing plans are not applicable to IHAs.

In some cases a PHA currently administering the housing choice voucher program has, at the time of publication of this SuperNOFA, been designated by HUD as a troubled PHA under the Section 8 Management Assessment Program (SEMAP), or has major program management findings from Inspector General audits that are unresolved. HUD will not accept an application from such a PHA as a contract administrator if, on the application due date, the troubled designation under SEMAP has not been removed by HUD, or the findings are not resolved. If the PHA wants to apply for funding under this announcement, the PHA must submit an application that designates another contractor that is acceptable to HUD. The PHA's application must include an agreement by the other contractor to administer the new funding increment on behalf of the PHA, and (in the instance of a PHA with unresolved major program management findings) a statement that outlines the steps the PHA is taking to resolve the program findings.

Immediately after the publication of this SuperNOFA, the Office of Public Housing in the local HUD Field Office will notify, in writing, those PHAs that have been designated by HUD as troubled under SEMAP, and those PHAs with unresolved major program management findings that are not eligible to apply without such an agreement. Concurrently, the local HUD Field Office will provide a copy of each such written notification to the Grants Management Center. The PHA may appeal the decision, in writing, if HUD has mistakenly classified the PHA as having unresolved major program management findings. The PHA may not appeal its designation as a troubled PHA under SEMAP. Any appeal with respect to unresolved major program management findings must be accompanied by conclusive evidence of HUD's error (i.e., documentation showing that the finding has been cleared) and must be received prior to the application deadline. The appeal should be submitted to the local HUD Field Office where a final determination shall be made. Concurrently, the local HUD Field Office shall provide the Grants Management Center with a copy of the PHA's written appeal and the Field Office's written response to the appeal. Major program management findings are those that would cast doubt on the capacity of the PHA to effectively administer any new housing choice voucher funding in accordance with applicable HUD regulatory and statutory requirements.

(C) Eligible Participants. Only non-elderly disabled families that are income eligible under 24 CFR 982.201(b)(1) and who live in public housing that has been designated for occupancy by the elderly, or non-elderly disabled families who are on the PHA's public housing waiting list, may receive a voucher awarded in conjunction with an approved designated housing plan. Such families need not be listed on the PHA's housing choice voucher waiting list in order to be offered and receive a housing choice voucher. These families may be admitted to the housing choice voucher program as a special admission (24 CFR 982.203). Additional information on the eligibility requirements for a family or individual to receive a housing choice voucher are located at the following HUD Web site: www.hud.gov/offices /pih/programs/hcv.

IV. Program Requirements and Definitions

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine the PHA's own programs or proposed programs, including an identification of any impediments to fair housing (identified in the jurisdiction's Analysis of Impediments (AI) to Fair Housing Choice in its Consolidated Plan); develop a plan to (a) address those impediments in a reasonable fashion in view of the resources available; (b) work with the local jurisdictions to implement any of the jurisdictions' initiatives to affirmatively further fair housing; and (c) maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program Regulations. PHAs must administer the housing choice vouchers received under this announcement in accordance with HUD regulations and requirements governing the Housing Choice Voucher Program.

(2) Housing Choice Voucher Admission Requirements. Housing choice vouchers must be provided to eligible applicants in conformity with regulations and requirements governing the Housing Choice Voucher Program and the PHA's administrative plan.

(3) Turnover. When a voucher under this announcement becomes available for reissue (e.g., the non-elderly disabled family initially selected for the program drops out of the program or is unsuccessful in the search for a unit), the rental assistance may be used only for another non-elderly disabled family eligible for assistance under this announcement for one year from the date the rental assistance is placed under an annual contributions contract (ACC). If there is ever an insufficient pool of non-elderly disabled families on the PHA's housing choice voucher waiting list, the PHA shall conduct outreach to encourage eligible non-elderly disabled families to apply for this special allocation of vouchers. Outreach may include contacting independent living centers, advocacy organizations for persons with disabilities, and medical, mental health, and social service providers for referrals of persons who would benefit from housing choice voucher assistance. If the PHA's housing choice voucher waiting list is closed, and if the PHA has insufficient non-elderly disabled applicants on that waiting list to use all awarded vouchers under this announcement, the PHA should open the waiting list for applications from non-elderly disabled families. PHAs must take care to keep track of the number of non-elderly disabled vouchers they have been awarded versus the number of such vouchers actually issued to non-elderly disabled families.

(D) PHA Responsibilities. In addition to PHA responsibilities under the Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of structural alterations and other accessibility features that are needed as accommodations for their disabilities.

(3) Not deny persons who qualify for a housing choice voucher under this program other housing opportunities, or otherwise restrict access to PHA programs to eligible applicants who choose not to participate.

(4) Provide housing choice voucher search assistance.

(5) In accordance with regulatory guidance, provide higher rent to owners necessary for the provision of accessible units and structural modifications for persons with disabilities.

(6) Provide technical assistance to owners for making reasonable accommodations or making units accessible to persons with disabilities.

PHAs are encouraged to coordinate with/involve nonprofit disability organizations in meeting the requirements of sections 1, 2, 4 and 6 immediately above. PHAs are encouraged to seek out nonprofit disability organizations in this regard due to such organizations' capacity for assisting disabled families, and their in-depth knowledge of the disability community and the available resources to assist disabled persons.

(E) Definitions.

(1) Designated Housing Plan. A HUD-approved designated housing plan is required of PHAs seeking to designate a project/building (or portion thereof) for occupancy by elderly families only, or elderly and disabled families only. See section 10(a) of the Housing Opportunity Extension Act of 1996 (Pub. L. 104-120, approved March 28, 1996) as explained in Notice PIH 97-12 (HA), Requirements for Designation of Public Housing Projects. This Notice was extended by Notice PIH 2001-17 (HA). Section 10(a) amended section 7 of the United States Housing Act of 1937 (42 U.S.C. 1437e).

(2) Elderly Family. A family whose head of household, spouse, or sole member is 62 years or older.

(3) Non-elderly Disabled Family. A family who is not elderly, and whose head, spouse, or sole member is a person with disabilities. It may include two or more persons with disabilities living together, or one or more persons with disabilities living with one or more live-in aides.

(4) Person with disabilities. Means a person who—

(a) Has a disability as defined in 42 U.S.C. 423;

(b) Is determined, pursuant to HUD regulations, to have a physical, mental or emotional impairment that:

(i) Is expected to be of long-continued and indefinite duration;

(ii) Substantially impedes his or her ability to live independently; and

(iii) Is of such a nature that the ability to live independently could be improved by more suitable housing conditions; or

(c) Has a developmental disability as defined in 42 U.S.C. 6001;

(d) Does not exclude persons who have the disease of acquired immunodeficiency syndrome or any conditions arising from the etiologic agent for acquired immunodeficiency syndrome; and

(e) For purposes of qualifying for low-income housing, does not include a person whose disability is based solely on any drug or alcohol dependence.

(5) Housing choice voucher search assistance. Assistance to increase access by program participants to housing units in a variety of neighborhoods (including areas with low poverty concentrations) and to locate and obtain units suited to their needs.

(F) Homeownership and Family Self-Sufficiency (FSS). Applicants are encouraged to establish or expand upon an existing housing choice voucher homeownership program, as well as complete the closing process on homeownership units. Applicants are also encouraged to fill slots under a mandatory FSS program and to establish a voluntary FSS program and fill slots thereunder where a mandatory FSS program is not required.

(G) Increasing the Participation of Faith-Based and Community-Based Organizations in HUD Program Implementation. HUD believes that grassroots organizations; e.g., civic organizations, congregations, and other community-based and faith-based organizations, have not been effectively utilized. These grassroots organizations have a strong history of providing vital community services such as assisting the homeless and preventing homelessness; counseling individuals and families on fair housing rights; providing elderly housing opportunities; developing first time homeownership programs; increasing homeownership and rental housing opportunities; developing affordable and accessible housing in neighborhoods across the country; and creating economic development programs. The goal of this policy priority is to make HUD's housing choice voucher program more effective, efficient, and accessible by expanding opportunities for faith-based and other community-based organizations to participate in developing solutions for their own neighborhoods. PHAs are encouraged to coordinate with and otherwise involve faith-based and other community-based organizations in those activities under the housing choice voucher program where their services, expertise and knowledge may be most effective.

(H) Conducting Business in Accordance With Core Values and Ethical Standards. To reflect core values, all PHAs shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor or agent of the PHA. The PHA's administrative plan shall state PHA policies concerning PHA administrative and disciplinary remedies for violation of the PHA code of conduct. The PHA shall inform all officers, employees and agents of its organization of the PHA's code of conduct.

V. Application Selection Process

After the Grants Management Center has screened PHA applications and disapproved any applications found unacceptable for further processing, the Grants Management Center will review all acceptable applications (exclusive of the Designated Housing Plan portion of the application—which is reviewed by the Special Application Center) to ensure that they are technically adequate and responsive to the requirements of this announcement of funding availability.

The Special Application Center will send to the Grants Management Center the following information on each designated housing plan, or updated needs data in connection with a previously approved designated housing plan, submitted in conjunction with this announcement:

(1) A copy of the letter to the PHA approving or disapproving its designated housing plan, or updated needs data.

(2) Special Application Center contact person and telephone number.

HUD Headquarters will fund on a first-come, first-serve basis all approvable applications from PHAs that are recommended for funding by the Grants Management Center and that the Special Application Center advises has an approved designated housing plan or acceptable updated needs data, based upon the date and time the application is received in the Grants Management Center. As PHAs are selected, the cost of funding the applications will be subtracted from the funds available. In the event approvable applications are received for more than the approximately $20 million available under this announcement, funds will be transferred from the approximately $20 million available under the announcement for non-elderly disabled families not receiving housing assistance in certain Section 8 project-based developments, or certain Section 202, Section 221(d)(3) or Section 236 developments, to the extent funds are not needed for approvable applications under that announcement. Applications will be funded for the total number of units requested by the PHA and approved by the Grants Management Center in accordance with this funding announcement for support of Designated Housing Plans. When remaining budget authority is insufficient to fund the last selected PHA application in full, however, HUD Headquarters will fund that application to the extent of the funding available, unless the PHA's application indicates that the PHA will only accept a higher number of units. In that event, the next selected application shall be one that has indicated a willingness to accept the lesser amount of funding for the units available.

VI. Application Submission Requirements

(A) Form HUD-52515. All PHAs must complete and submit form HUD-52515, Funding Application, for the Housing Choice Voucher Program, (dated January 1996). This form includes all the necessary certifications for Fair Housing, Drug Free Workplace and Lobbying Activities. PHAs are requested to enter their housing authority code number (for example, CT002), telephone number, facsimile number, and electronic mail address in the same place at the top of the form where they are also to enter the PHA's name and mailing address. The information entered in Section B of the form for bedroom size and number of requested units must bear a direct relationship to the bedroom size and number of units designated in the PHA's designated housing plan that will no longer be available for the future admission of non-elderly disabled families. Section C of the form should be left blank. The form must be completed in its entirety, with the exception of Section C, signed and dated. A copy of Form HUD-52515 is included in the forms found in the General Section of the SuperNOFA. Copies of the form may also be downloaded from the following HUD Web site: www.hud.gov. (On the HUD Web site click on “handbooks and forms,” then click on “forms,” then click on “HUD-5” and click on “HUD-52515.” In addition, the Form HUD-52515 will also be posted with the Designated Housing funding announcement at the following HUD Web site: www.hud.gov/offices/adm/grants/fundsavail.cfm.

(B) Letter of Intent and Narrative. The PHA must state in its cover letter to the application whether the PHA will accept a reduction in the number of vouchers, and the minimum number of vouchers that the PHA will accept, since the funding is limited and HUD may only have enough funds to approve a smaller amount than the number of vouchers requested. The maximum number of vouchers that a PHA may apply for under this announcement is limited to 200.

PHAs that do not currently administer a housing choice voucher program must identify the nearest PHA (including the full name, address, and tel. no.) that does administer a housing choice voucher program. This information will be necessary for HUD to calculate annual per unit costs for voucher funding awarded under this funding announcement to such PHAs (see section II (B)(2)(c) of this funding announcement).

(C) Approvable Designated Housing Plan. The application must include an approvable plan to designate housing in accordance with section 10(a) of the Housing Opportunities Extension Act of 1996 (Pub.L 104-120, approved March 28, 1996) as explained in Notice PIH 97-12 (HA), Requirements for Designation of Public Housing Projects. This Notice was extended by Notice PIH 2001-17 (HA), dated May 16, 2001.

PHAs should also bear in mind that the HUD regulations require PHAs to submit an Annual Plan which must provide a statement regarding any public housing project (or portion thereof) which the PHA plans to designate as elderly only or mixed elderly and disabled {see 24 CFR 903.7 (1)(ii)}. Only those PHAs which are designated by HUD as high performing PHAs, or are small PHAs (less than 250 public housing units) that are not designated as troubled, are excluded from the requirement to address the designation of elderly and disabled public housing units in the Annual Plan. The Special Application Center will not process a designated housing plan if the PHA's intent to designate is not covered in its Annual Plan.

(D) Designated Housing Plan Previously Approved. Any PHA wishing to rely on a designated housing plan previously approved by HUD, that did not require housing choice vouchers or certificates for non-elderly disabled families or that now requires more vouchers than previously justified, will be required to submit the information called for in sections (A) and (B) immediately above, a copy of the previously HUD-approved designated housing plan, and updated needs data supporting the need now for vouchers not previously deemed necessary as an alternative housing resource. The updated needs data should indicate why the PHA does not have the appropriate resources to carry out the previously approved plan, identify the number of vouchers needed for non-elderly disabled families, and address the housing needs in its Consolidated Plan. While updated needs data is not considered an amendment or revision of a previously approved designated housing plan, the updated needs data must be submitted to the Special Application Center for review. The deadline date and submission requirements for updated needs data are the same as for the designated housing plan (see section I of this announcement).

Conversely, any PHA wishing to rely on a designated housing plan previously approved by HUD, contingent upon the PHA's future submission of an application for housing choice vouchers as an alternative housing resource for non-elderly disabled families, will need to only submit the HUD-approval letter for the designated housing plan in lieu of the plan itself (updated needs data also unnecessary).

(E) Statement Regarding the Steps the PHA Will Take to Affirmatively Further Fair Housing. The areas to be addressed in the PHA's statement must include, but not necessarily be limited to:

(1) The examination of the PHA's own programs or proposed programs, including an identification of any impediments to fair housing (identified in the jurisdiction's Analysis of Impediments (AI) to Fair Housing Choice in its Consolidated Plan); and a description of a plan to (a) address those impediments in a reasonable fashion in view of the resources available; (b) work with local jurisdictions to implement any of the jurisdictions' initiatives to affirmatively further fair housing; and (c) the maintenance of records reflecting these analyses and actions;

(2) Remedy discrimination in housing for persons with disabilities regardless of race, color, religion, sex, familial status, national origin, or nature of disability; or

(3) Promote fair housing rights and fair housing choice.

The PHA's statement must fully address the above areas. A general statement that the PHA will promote fair housing choice by reason of not discriminating on the basis of race, color, religion, etc. will not be sufficient.

(F) Moving to Work (MTW) PHA Information and Certification. See section VII (B)(2)(c) regarding the 97 percent lease-up or budget authority utilization certification to be submitted by an MTW PHA not required to report under SEMAP.

(G) Form HUD-2993. All PHAs must complete and submit form HUD-2993, Acknowledgement of Application Receipt. In addition to the PHA entering its name and address on the form, the full title of the program under which the PHA is seeking funding must also be entered. This form is located in the General Section of the SuperNOFA and is also available at the following HUD Web site: www.hud.gov. On this Web site click on “handbooks and forms.”

VII. Corrections to Deficient Applications

(A) Acceptable Applications. The application must include all of the information specified in section VI, Application Submission Requirements. The General Section of the SuperNOFA provides the procedures for corrections to deficient applications.

(B) Unacceptable Applications.

(1) After the 14-calendar day technical deficiency correction period, the Grants Management Center will disapprove all PHA applications that the Grants Management Center determines are not acceptable for processing. The Grants Management Center's notification of rejection letter must state the basis for the decision. The applicant may request an applicant debriefing. Beginning not less than 30 days after the awards for assistance are announced in the Federal Register, and for not longer than 120 days, HUD will, upon receiving a written request from the applicant, provide a debriefing to the requesting applicant. Applicants requesting to be debriefed must send a written request to Michael Diggs, Director, Grants Management Center, Department of Housing and Urban Development, 501 School Street, SW, Suite 800, Washington, DC 20024.

(2) Applications from PHAs that fall into any of the following categories will not be processed:

(a) Applications that do not meet the fair housing and civil rights compliance threshold requirements of the General Section of the SuperNOFA.

(b) The PHA is designated as troubled by HUD under SEMAP, or has major program management findings in an Inspector General audit for its voucher or certificate programs that are unresolved. The only exception to this category is if the PHA has been identified under the policy established in Section III (B) of this announcement and the PHA makes application with a designated contract administrator. Major program management findings are those that would cast doubt on the capacity of the PHA to effectively administer any new housing choice voucher funding in accordance with applicable HUD regulatory and statutory requirements.

(c) The PHA has failed to achieve a lease-up or budget authority utilization rate of 97 percent for its combined certificate and voucher units under contract for its fiscal year ending on either September 30, 2000; December 31, 2000; March 31, 2001; or June 30, 2001. PHAs that have been determined by HUD to have passed either the 97 percent lease-up, or 97 percent budget authority utilization requirement for their fiscal year ending on either September 30, 2000; December 31, 2000; March 31, 2001; or June 30, 2001, will be listed with this funding announcement at the following HUD Web site: www.hud.gov/offices/adm/grants/fundsavail.cfm. A PHA not listed may submit monthly lease-up and budget authority utilization information (following the methodology of Appendix A of this announcement and using the format in Appendix B which also includes a blank version of the format) as part of its application supportive of its contention that it should have been included among those PHAs HUD listed on the HUD website as having achieved either a 97 percent lease-up rate or 97 percent budget authority utilization rate for fiscal years ending on either September 30, 2000; December 31, 2000; March 31, 2001; June 30, 2001; or subsequent full fiscal year not yet processed by HUD but certified by the applicant. Unless utilization information is submitted on the blank form in Appendix B, the application will otherwise be determined ineligible for funding under this announcement.

Note: The lease-up and budget authority utilization requirement shall not apply to applicants not currently administering a voucher program, or to new units associated with funding increments obligated during the applicant's last fiscal year and units obligated for litigation. In addition, lease-up or budget authority utilization rates of 96.5 percent but less than 97 percent shall be rounded up to 97 percent.)

Moving To Work (MTW) agencies that are required to report under the Section 8 Management Assessment Program (SEMAP) shall be held to the 97 percent lease-up and budget authority utilization requirements referenced above. MTW agencies which are not required to report under SEMAP must submit a certification with their application certifying that they are not required to report under SEMAP, and that they meet the 97 percent lease-up or budget authority utilization requirements.

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The PHA did not have its PHA plans approved by HUD for the FY 2000 plan cycle on the application due date for this funding announcement.

VIII. Environmental Requirements

In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs are responsible for the environmental requirements in 24 CFR 982.626(c).

IX. Authority

Authority for this program is found in the Departments of Veteran's Affairs and Housing and Urban Development, and Independent Agencies Appropriations Act, FY 2002 (Pub. L. 107-73, approved November 26, 2001). This FY 2002 Appropriations Act authorized appropriations for housing choice vouchers to assist non-elderly disabled families affected by the designation of a public housing development under section 7 of the United States Housing Act of 1937, as amended. The FY 2002 Appropriations Act also allows the Secretary to transfer any unobligated funds for this purpose to assist non-elderly disabled families affected by the establishment of preferences in accordance with section 651 of the Housing and Community Development Act (HCDA) of 1992 or the restriction of occupancy to elderly families in accordance with section 658 of the HCDA of 1992. Thereafter, the FY 2002 Appropriations Act allows for any funds still remaining unobligated to be used to fund applications for vouchers for non-elderly disabled families under the Mainstream Program in the SuperNOFA.

BILLING CODE 4210-32-P

FUNDING AVAILABILITY FOR SERVICE COORDINATORS IN MULTIFAMILY HOUSING

PROGRAM OVERVIEW

Purpose of the Program. The purpose of this Service Coordinator program is to allow multifamily housing owners to assist elderly individuals and people with disabilities living in HUD-assisted housing and in the surrounding area to obtain needed supportive services from the community, in order to enable them to continue living as independently as possible in their own homes.

Available Funds. Approximately $25 million.

Eligible Applicants. Only owners of eligible developments may apply for and become the recipient of grant funds. Property management companies may administer grant programs but are not eligible applicants. See Section III for more detailed eligibility criteria.

Application Deadline: July 3, 2002.

Match. None.

ADDITIONAL INFORMATION

If you are interested in applying for funding under this program, please review carefully the General Section of this SuperNOFA and the following additional information.

I. Application Due Date, Application Kits, Further Information, and Technical Assistance

Application Due Date. Your completed application (an original and two copies) is due on or before 6:00 pm, local time, on July 3, 2002 at the address given below.

See the General Section of this SuperNOFA for specific procedures concerning the form of application submission (e.g., mailing applications by U.S. Postal Service). Only Service Coordinator applications mailed via the United States Postal Service will be accepted.

Addresses for Submitting Applications. Appendix A to this program section contains a list of HUD Field Offices where you must send your application by the deadline. Please address your application to the Director, Multifamily Housing Hub or Program Center in your local HUD Field Office. You should not submit any copies of your application to HUD Headquarters.

For Application Kits. For an application kit, please call the SuperNOFA Information Center at 1-800-HUD-8929. If you have a hearing or speech impairment, please call the Center's TTY number at 1-800-HUD-2209. When requesting an application kit, please refer to the Multifamily Housing Service Coordinator Program and provide your name, address (including zip code) and telephone number (including area code). An application kit also will be available on the Internet at http://www.hud.gov.

For Further Information and Technical Assistance. You may contact your local HUD Field Office staff for questions you have regarding this program section of the SuperNOFA and your application kit. Please contact the Multifamily Housing Resident Initiatives Specialist or Service Coordinator contact person in your local Office. If you are an owner of a Section 515 development, contact the Multifamily HUB or Multifamily Program Center in the HUD Field Office that normally provides asset management to that development. If you have a question that the Field staff are unable to answer, please call Carissa Janis, Housing Project Manager, Office of Housing Assistance and Grants Administration, Department of Housing and Urban Development, 451 Seventh Street, SW., Room 6146, Washington, DC 20410; (202) 708-2866, extension 2487. (This number is not toll free). If you are hearing or speech impaired, you may access this number via TTY by calling the Federal Information Relay Service at 1-800-877-8339.

Satellite Broadcast. HUD will hold an information broadcast via satellite for potential applicants to learn more about the program and preparation of the application. For more information about the date and time of the broadcast, you should consult the HUD Web site at http://www.hud.gov.

II. Amount Allocated

(A) Available Funding. This NOFA makes available approximately $25 million in Fiscal Year (FY) 2002 funding from the $50 million provided in the Housing for Special Populations account in the Departments of Veterans Affairs and Housing and Urban Development, and Independent Agencies Appropriations Act, 2002 (Pub.L. 107-73, approved November 26, 2001).

HUD will use the remaining $25 million appropriated this year to provide one-year extensions to expiring Service Coordinator and Congregate Housing Services Program (CHSP) grants.

HUD will first fund Service Coordinator costs in applications selected to receive an Assisted Living Conversion Program (ALCP) grant award. The Department estimates that approximately $2 million will be needed to fund these programs. The actual amount will be based upon demand and the number of applications that meet threshold criteria in both the ALCP and Service Coordinator programs. HUD will set-aside the requested amount of ALCP/Service Coordinator funds prior to conducting the national lottery. Any funds not used for ALCP Service Coordinator programs will revert to the lottery to fund all other eligible applications submitted under this NOFA.

In FY 2001, HUD awarded 218 grants for a total of $25,125,340. One of the 218 grants was awarded to an ALCP grant recipient, for $70,431.

(B) Maximum Grant Award. There is no maximum grant amount. The grant amount you request must be based on the number of frail or at-risk elderly or non-elderly people with disabilities who live in your development. Under normal circumstances, a full-time Service Coordinator should be able to serve about 50-60 frail or at-risk elderly or non-elderly people with disabilities. “Frail elderly” person means an individual 62 years of age or older who is unable to perform at least three activities of daily living (ADLs) as defined by the regulations for HUD's Section 202 Program (Supportive Housing for the Elderly) at 24 CFR 891.205. An “at-risk elderly” person is an individual 62 years of age or older who is unable to perform one or two ADLs. Your proposed salary must also be supported by evidence of comparable salaries in your area.

(C) Reduction of Requested Grant Amounts. You may be awarded an amount less than requested if:

(1) HUD determines that some elements of your proposed action plan are ineligible for funding;

(2) Insufficient amounts remain under the allocation to fund the full amount you requested, and HUD determines that partial funding is a viable option; or

(3) HUD determines that a reduced grant would prevent duplicative Federal funding.

(D) Alternative Funding for Service Coordinators. Owners may submit requests following instructions in Housing's Management Agent Handbook 4381.5, REVISION-2, CHANGE-2, Chapter 8. This Handbook provides procedures for requesting funding for a coordinator using residual receipts, the budget-based rent increase process, contract rents adjusted by the Annual Adjustment Factor (AAF) or the Project Rental Assistance Contract (PRAC). Refer to Housing Notice H-01-07 for information on using Section 236 excess income to fund a Service Coordinator. HUD Field staff will approve use of Section 8 funds or excess income consistent with current policy. Field Office staff may approve use of project funds for a Service Coordinator at any time, as long as you have available project funds. You should discuss these alternative funding options with your Field Office staff prior to submitting a grant application.

III. Program Description; Eligible Applicants; Eligible Activities

(A) Program Description. The Service Coordinator Program provides funding for the employment and support of Service Coordinators in insured and assisted housing developments that were designed for the elderly and persons with disabilities and continue to operate as such. Service Coordinators help residents obtain supportive services from the community that are needed to enable independent living and aging in place.

A Service Coordinator is a social service staff person hired or contracted by the development's owner or management company. The Coordinator is responsible for assuring that elderly residents, especially those who are frail or at risk, and those non-elderly residents with disabilities are linked to the supportive services they need to continue living independently in that development. All services should meet the specific desires and needs of the residents themselves. The Service Coordinator may not require any elderly individual or person with a disability to accept any specific supportive service(s).

You may want to review the Management Agent Handbook 4381.5 REVISION-2, CHANGE-2, Chapter 8 for further guidance on service coordinators. This Handbook is accessible through HUDCLIPS on HUD's Web site at http://www.hudclips.org. The Handbook is in the Handbooks and Notices—Housing Notices database. Enter the Handbook number in the “Document Number” field to retrieve the Handbook.

There is no minimum unit number for eligible developments. In proposing a Service Coordinator program at a small development, however, be careful to follow the guidance provided in Section II.B of this NOFA. You may also use grant funds to augment current Service Coordinator programs and to continue programs in cases where current or previous funding sources are no longer available. Please refer to Sections III.D and E, below.

The American Homeownership and Economic Opportunity Act of 2000 (Pub.L. 106-569, approved December 27, 2000) expanded the scope of the Service Coordinator program. This Act allows owners of eligible developments to provide service coordination to low-income elderly or disabled families living in the vicinity of the development. You have the option to serve such community residents as a part of your proposed program to provide coordination to current residents of an eligible development. The objective of this expanded authority is to help additional low-income elderly and disabled individuals age in place and live as independently as possible in their current homes. Any reference in this program NOFA or in the application kit to elderly or disabled residents of a development shall be construed to include low-income elderly or disabled families living in the vicinity of such a development.

(B) Eligible Applicants and Developments.

To be eligible for funding, you must meet all of the applicable threshold requirements of Section II(B) of the General Section of the SuperNOFA.

(1) You must be an owner of a development assisted under one of the following programs:

(a) Section 202 and 202/8;

(b) Existing Section 8 project-based and moderate rehabilitation developments (includes any multifamily housing development with project-based Section 8; or

(c) Section 221(d)(3) below-market interest rate, and 236 developments that are insured or assisted.

(2) Additionally, developments listed in paragraph (1), above, are eligible only if they meet the following criteria:

(a) Have frail or at-risk elderly residents and/or non-elderly residents with disabilities who together total at least 25 percent of the building's residents.

(b) Were designed for the elderly or persons with disabilities and continue to operate as such. This includes any building within a mixed-use development that was designed for occupancy by elderly persons or persons with disabilities at its inception and continues to operate as such, or consistent with title VI, subtitle D of the Housing and Community Development Act of 1992 (Pub. L. 102-550, approved October 28, 1992). If not so designed, a development in which the owner gives preferences in tenant selection (with HUD approval) to eligible elderly persons or persons with disabilities, for all units in that development.

(c) Are current in mortgage payments or are current under a workout agreement.

(d) Meet HUD's Uniform Physical Conditions Standards (codified in 24 CFR part 5, subpart G), based on the most recent physical inspection report and responses thereto, as evidenced by a score of 60 or better or by an approved plan for developments scoring less than 60.

(e) Are in compliance with their regulatory agreement, Housing Assistance Payment (HAP) Contract, and other outstanding directives.

(f) Owners using the AAF rent increase process or who are profit-motivated must provide certification that rental and other income from the development are insufficient to pay for a service coordinator.

(3) If your eligibility status changes during the course of the grant term, making you ineligible to receive a grant (e.g. due to prepayment of mortgage, sale of property, or opting out of a Section 8 Housing Assistance Payment (HAP) contract), HUD has the right to terminate your grant.

(4) If you are applying for an Assisted Living Conversion Program (ALCP) grant, you may apply for new or augmented Service Coordinator costs to serve Assisted Living residents and/or all residents of your development.

(C) Ineligible Applicants and Developments.

(1) Property management companies, area agencies on aging, and other like organizations are not eligible applicants for Service Coordinator funds. Such agents may prepare applications and sign application documents if they provide written authorization from the owner corporation as part of the application. In such cases, the owner corporation must be indicated on all forms and documents as the funding recipient.

(2) Developments not designed for the elderly or disabled or those no longer operating as such.

(3) Section 221(d)(4) developments without project-based Section 8 assistance.

(4) Section 202/811 developments with a PRAC. Owners of Section 202 PRAC developments may obtain funding by requesting an increase in their PRAC payment consistent with Handbook 4381.5 REVISION-2, CHANGE-2, Chapter 8.

The American Homeownership and Economic Opportunity Act of 2000 provides authority for Section 202 PRACs to receive Service Coordinator grants as described in this program NOFA and separate from their PRAC funding. However, PRAC funds are a readily accessible funding source for Service Coordinators in Section 202 PRAC developments. Including the Service Coordinator in the PRAC development's operating budget also provides a more stable and permanent source of funding. For these reasons, the Department has chosen to limit funding available through this program NOFA to those eligible housing developments listed in section III.B(1) of this NOFA.

There is no statutory authority for service coordinators in Section 811 developments.

(D) Eligible Activities.

(1) Service Coordinator Program grant funds may be used to pay for the salary, fringe benefits, and related administrative costs of employing a service coordinator. Administrative costs may include, but are not limited to, purchase of furniture, office equipment and supplies, computer hardware and software, Internet service, training, quality assurance, travel, and utilities.

You may use grant funds to pay for Quality Assurance (QA) in an amount that does not exceed 10% of the Service Coordinator's salary. QA is limited monitoring oversight of the Service Coordinator by a qualified third party, to assure that the position is effectively implemented. A qualified individual must have supervisory work experience and education in social or health care services. On-site housing management staff cannot perform QA and current salaries of in-house staff may not be augmented for this purpose.

(2) You may use funds to augment a current Service Coordinator program, by increasing the hours of a currently employed Service Coordinator, or hiring an additional Service Coordinator or aide on a part- or full-time basis.

(3) You may use funds to continue a Service Coordinator program that has previously been funded through other sources. In your application, you must provide evidence that this funding source has already ended or will discontinue within six months following the application deadline date and that no other funding mechanism is available to continue the program. This applies only to funding sources other than the subsidy awards and grants provided by the Department through program Notices beginning in FY 1992. HUD currently provides one-year extensions to these subsidy awards and grants through a separate funding action.

(4) You may propose reasonable costs associated with setting up a confidential office space for the Service Coordinator. Such expenses must be one-time only administrative start-up costs. Such costs may involve acquisition, leasing, rehabilitation, or conversion of space. HUD Field Office staff must approve both the proposed costs and activity and must perform an environmental assessment on such proposed work prior to grant award.

(5) You may provide service coordination to low-income elderly or disabled families living in the vicinity of an eligible development. Community residents should come to your housing development to meet with and receive service from the Service Coordinator.

(E) Ineligible Activities.

(1) You may not use funds available through this NOFA to replace currently available funding from other sources for a Service Coordinator or for some other staff person who performs service coordinator functions.

(2) Owners with existing service coordinator subsidy awards or grants may not apply for renewal or extension of those programs under this NOFA.

(3) Congregate Housing Services Program (CHSP) grantees may not use these funds to meet statutory program match requirements and may not use these funds to replace current CHSP program funds to continue the employment of a service coordinator.

(4) The cost of application preparation is not eligible.

(5) Grant funds cannot be used to increase a project's management fee.

(6) You cannot hire an additional part of full-time Service Coordinator for the sole purpose of serving low-income elderly or disabled families who live in the vicinity of your development.

IV. Program Requirements

In addition to the requirements listed in Section II of the General Section of this SuperNOFA, you must also meet the requirements in Section IV of this program section of the SuperNOFA. These requirements apply to all activities, programs, and functions used to plan, budget, and evaluate the work funded under your program.

(A) Administrative Costs. HUD has the right to reduce the proposed costs if they appear unreasonable or inappropriate.

(B) Term of Funded Activities. The grant term is three years. Grants will be renewable subject to the availability of funds.

(C) Subgrants and Subcontracting. You may directly hire a Service Coordinator or you may contract with a qualified third party to provide this service.

(D) As a condition of receiving a grant, Section 202 developments with project-based Section 8 must open a Residual Receipts account separate from the Reserve for Replacement account, if they do not already have such a separate account.

(E) Forms, Certifications, and Assurances. See the General Section of the SuperNOFA for the applicable forms, certifications, and assurances that you must submit. This includes a certification that you are in compliance with Federal Civil Rights laws, as specified in Section II(H) of the General Section of this SuperNOFA.

(F) Affirmatively Furthering Fair Housing. You must comply with Section II(D) of the General Section of this SuperNOFA.

(G) Conducting Business In Accordance With Core Values and Ethical Standards. Entities that are subject to 24 CFR parts 84 and 85 (most nonprofit organizations and State, local and tribal governments or government agencies or instrumentalities who receive Federal awards of financial assistance) are required to develop and maintain a written code of conduct (See §§ 84.42 and 85.36(b)(3)). Consistent with regulations governing specific programs, your code of conduct must prohibit real and apparent conflicts of interest that may arise among employees, officers or agents; prohibit the solicitation and acceptance of gifts or gratuities by your officers, employees and agents for their personal benefit in excess of minimal value, and outline administrative and disciplinary actions available to remedy violations of such standards. If awarded assistance under this SuperNOFA, you will be required, prior to entering into a grant agreement with HUD, to submit a copy of your code of conduct and describe the methods you will use to ensure that all officers, employees and agents of your organization are aware of your code of conduct.

V. Application Selection Process

(A) General. Service Coordinator Program grant funds will not be awarded through a rating and ranking process. Instead, HUD will hold one national lottery for all approvable applications forwarded from Multifamily HUB and Multifamily Program Centers (a list of these offices is found in the Appendix to this notice).

(B) Threshold Eligibility Review. HUD Multifamily Field Office staff will review applications for completeness and compliance with the eligibility criteria set forth in Section III of this NOFA. Field Office staff will forward application information to Headquarters for entry into the lottery if the application was received by the deadline date, meets all eligibility criteria, proposes reasonable costs for eligible activities, and includes all technical corrections by the designated deadline date.

“Reasonable costs” are generally those that are consistent with salaries and administrative costs of similar programs in the jurisdiction of the HUD Field Office.

(C) Service Coordinators in ALCP projects. The Department will first fund approved Service Coordinator requests in ALCP applications selected to receive an ALCP award. HUD estimates that approximately $2 million will be needed to fund these programs. Any funds not used for ALCP Service Coordinator programs will revert to the national lottery.

(D) The Lottery. HUD staff will use a computer program to randomly select applications. HUD will fully fund as many applications as possible with the given amount of funds. If funds remain after fully funding as many applications as possible, HUD will offer to partially fund the next application chosen in the lottery, in order to use the entire allocation of funds.

VI. Application Submission Requirements

(A) Single Applications. (1) You may submit one application for one or more developments that your corporation owns.

(2) You may submit more than one application to a single Field Office, if you wish to increase your chances of selection in the lottery. Each application must propose a stand-alone program and the development(s) must all be located in the same Field Office jurisdiction.

(3) If you wish to apply on behalf of developments located in different Field Office jurisdictions, you must submit a separate application to each Field Office.

(B) Joint Applications. You may join with one or more other eligible owners to share a Service Coordinator and submit a joint application. In the past, joint applications have been used by small developments who joined together to hire and share a part or full-time Service Coordinator.

(C) There is no maximum grant amount. The grant amount you request must be based on the number of frail or at-risk elderly or non-elderly people with disabilities who live in your development. (See Section II.B of this NOFA for more information.)

(D) Application Submission Requirements for ALCP Applicants. If you are an ALCP applicant and you request new or additional Service Coordinator costs specifically for your proposed Assisted Living Program, you must submit an application containing all required documents and information listed in this NOFA. In addition, you must submit a HUD-424-M “Federal Assistance Funding Matrix and Certifications” with your ALCP application, which indicates the amount of funds you are requesting to cover Service Coordinator costs. HUD Field Office staff will review both applications simultaneously.

ALCP applicants must submit all the required items in the Service Coordinator application listed in Section VI(E) of this NOFA. You may provide a copy of all standard forms in your Service Coordinator application. If you do not provide either an original or copy of these forms, your Service Coordinator application will be incomplete.

If you currently do not have a Service Coordinator working at the development proposed in your ALCP application and your ALCP application is selected to receive an ALCP award, HUD will fund a Service Coordinator to serve either ALCP residents only or all residents of the development dependent upon your request. If your development currently has a Service Coordinator, you may request additional hours for the Service Coordinator to serve the Assisted Living residents. If you request additional hours, you must specify the number of additional hours per week and provide an explanation based on the anticipated needs of the Assisted Living residents. Provide this explanation in your ALCP application as instructed in the ALCP NOFA.

If you request Service Coordinator funding to serve all residents of your development, your request can be entered into the national lottery if your ALCP application is not selected to receive an award. You will be able to indicate this request in the application materials.

Owners applying for ALCP grants may also submit separate Service Coordinator applications for entry into the lottery for other eligible developments they own and that are not included in their ALCP application.

(E) Your application must contain the items listed in this Section VI(E). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

Standard Forms

(1) Standard Form for Application for Federal Assistance (SF-424) (which includes civil rights/fair housing certification);

(2) Federal Assistance Funding Matrix and Certifications (HUD-424M);

(3) Standard Form for Assurances—Non-Construction Programs (SF-424B);

(4) Drug Free Workplace Certification (HUD-50070);

(5) Certification of Payments to Influence Federal Transactions (HUD-50071) and if engaged in lobbying, the Disclosure Form Regarding Lobbying (SF-LLL);

(6) Applicant/Recipient Disclosure/Update Report Form (HUD-2880);

(7) Certification Regarding Debarment and Suspension (HUD-2992); and

(8) Acknowledgment of Application Receipt (HUD-2993).

Other Application Items

All applications for funding under the Service Coordinator Program must contain the following documents and information:

(1) Transmittal letter and request, using the designated format provided in both Appendix B to this NOFA and in the application kit.

(2) (If applicable) Lead agency letter format.

(3) Evidence of comparable salaries in local area.

(4) If quality assurance is included in the proposed budget, a justification and explanation of who will perform this work, what responsibilities are involved, and how often the work will be done.

(5) If you propose to serve low-income elderly or disabled families living in the vicinity of the development(s) included in your application, a narrative description of your plan.

(6) (If applicable) Evidence that prior funding sources for your development's Service Coordinator program are no longer available or will expire within six months following the application deadline date.

(7) A bank statement showing the current residual receipts or excess income balance in the development's account.

(8) Service Coordinator Certifications. This includes certifications that you, the applicant, will comply with the following:

(a) The requirements of the Fair Housing Act, Title VI of the Civil Rights Act of 1964, Section 504 of the Rehabilitation Act of 1973, and the Age Discrimination Act of 1975, and that you will affirmatively further fair housing; and

(b) The nondiscrimination in employment requirements of Title VII of the Civil Rights Act of 1964 (42 U.S.C. 2000e et seq.), the Equal Pay Act (29 U.S.C. 206(d)), the Age Discrimination in Employment Act of 1967 (29 U.S.C. 621 et seq.), Title IX of the Education Amendments Act of 1972, and Titles I and V of the Americans with Disabilities Act of 1990 (42 U.S.C. 12101 et seq.).

(9)(a) Certification from an Independent Public Accountant or the cognizant government auditor stating that the financial management system employed by the applicant meets proscribed standards for fund control and accountability required by HUD regulations at 24 CFR parts 84 and 85.

(b) Owners applying on behalf of developments using the AAF must also provide certification from the auditor that the development's rental or other income is insufficient to pay the costs of employing a Service Coordinator.

(10) Applicant checklist.

VII. Corrections to Deficient Applications

The General Section of the SuperNOFA provides the procedures for corrections to deficient applications.

VIII. Environmental Requirements

It is anticipated that most activities under this program are categorically excluded from NEPA and related environmental authorities under 24 CFR 50.19(b)(3), (4), (12), or (13). If grant funds will be used to cover the cost of any activities which are not exempted from environmental review requirements—such as acquisition, leasing, construction, or building rehabilitation, HUD will perform an environmental review to the extent required by 24 CFR part 50, prior to grant award.

IX. Authority

Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000).

Appendix A: HUD Field Office List for Mailing Service Coordinator

Applications

Alabama

Multifamily Housing Program Center, HUD—Birmingham Office, 600 Beacon Parkway West, Rm. 300, Birmingham, AL 35209-3144, OFC Phone: (205) 290-7611, FAX: (205) 290-7632

Alaska

Multifamily Housing Hub, HUD Seattle Office, 909 First Avenue, Suite 190, MS-0AHM, Seattle, WA 98104-1000, OFC Phone: (206) 220-5228 ext. 3250, FAX: (206) 220-5206

Arizona

Multifamily Housing Program Center, HUD Phoenix Office, 400 North Fifth Street, Suite 1600, Phoenix, AZ 85004-2361, OFC Phone: (602) 379-4434, FAX: (602) 379-3985

Arkansas

Multifamily Housing Program Center, HUD Little Rock Office, 425 West Capitol Avenue #900, Little Rock, AR 72201-3488, OFC Phone: (501) 324-5401, FAX: (501) 324-6142

California

Multifamily Housing Hub, HUD—San Francisco Office, 450 Golden Gate Avenue, PO Box 36003, San Francisco, CA 94102-3448, OFC Phone: (415) 436-6505, FAX: (415) 436-8996

Los Angeles Multifamily Hub, 611 West Sixth Street, Suite 800, Los Angeles, CA 90017, OFC Phone: (213) 894-8000 x 3634, Fax: (213) 894-8255

Colorado

Multifamily Housing Hub, HUD Denver Office, 633 17th Street, 11th Floor, Denver, CO 80202-3607, OFC Phone: (303) 672-5343, FAX: (303) 672-5153

Connecticut

Multifamily Housing Program Center, HUD—Hartford Office, One Corporate Center, 19th floor, Hartford, CT 06103-3220, OFC Phone: (860) 240-4800 Ext. 3068, FAX: (860) 240-4850

Delaware

Multifamily Housing Hub, HUD Philadelphia Office, The Wanamaker Building, 100 Penn Square, East, Philadelphia, PA 19107-3380, OFC Phone: (215) 656-0609 Ext. 3533, FAX: (215) 656-3427

District of Columbia

Multifamily Housing Program Center, HUD Washington, DC Office, Suite 300, 820 First Street, NE., Washington, DC 20022-4205, OFC Phone: (202) 275-9200, FAX: (202) 275-9212

Florida

Multifamily Housing Hub, HUD—Jacksonville Office, 301 West Bay Street, Suite 2200, Jacksonville, FL 32202-5121, OFC Phone: (904) 232-1777 x2144, FAX: (904) 232-2731

Georgia

Multifamily Housing Hub, HUD—Atlanta Office, Five Points Plaza Building, 40 Marietta Street, SW., Atlanta, Georgia 30303-2806, OFC Phone: (404) 331-4976, FAX: (404) 331-4028

Hawaii

Multifamily Housing Program Center, HUD Honolulu Office, 7 Waterfront Plaza, 500 Ala Moana Blvd. #500, Honolulu, HI 96813-4918, OFC Phone: (808) 522-8185 Ext. 244, FAX: (808) 522-8194

Idaho

Multifamily Housing Hub, HUD Seattle Office, 909 First Avenue, Suite 190, MS-0AHM, Seattle, WA 98104-1000, OFC Phone: (206) 220-5228 ext. 3250, FAX: (206) 220-5206

Illinois

Multifamily Housing Hub, HUD—Chicago Office, Ralph Metcalfe Federal Building, 77 West Jackson Boulevard, Chicago, IL 60604-3507, OFC Phone: (312) 353-6236 Ext. 2202, FAX: (312) 886-2729

Indiana

Multifamily Housing Program Center, HUD Indianapolis Office, 151 North Delaware Street, Suite 1200, Indianapolis, IN 46204-2526, OFC Phone: (317) 226-6303, FAX: (317) 226-7308

Iowa

Multifamily Housing Program Center, HUD Des Moines Office, 210 Walnut Street, Room 239, Des Moines, IA 50309-2155, OFC Phone: (515) 284-4736, FAX: (515) 284-4743

Kansas

Multifamily Housing Hub, HUD Kansas City Office, 400 State Avenue, Room 200, Kansas City, KS 66101-2406, OFC Phone: (913) 551-6844, FAX: (913) 551-5469

Kentucky

Multifamily Housing Program Center, HUD—Louisville Office, 601 West Broadway, PO Box 1044, Louisville, KY 40201-1044, OFC Phone: (502) 582-6124, FAX: (502) 582-6547

Louisiana

Multifamily Housing Program Center, HUD New Orleans Office, Hale Boggs Bldg.—501 Magazine Street, 9th Floor, New Orleans, LA 70130-3099, OFC Phone: (504) 589-7236, FAX: (504) 589-6834

Maine

Multifamily Housing Program Center, HUD—Manchester Office, Norris Cotton Federal Bldg., 275 Chestnut Street, Manchester, NH 03101-2487, OFC Phone: (603) 666-7684, FAX: (603) 666-7697

Maryland

Multifamily Housing Hub, HUD Baltimore Office, 5th Floor, 10 South Howard Street, Baltimore, MD 21201-2505, OFC Phone: (410) 962-2520 Ext. 3474, FAX: (410) 962-1849

Massachusetts

Multifamily Housing Hub, HUD—Boston Office, O'Neil Federal Building, 10 Causeway Street, Rm. 375, Boston, MA 02222-1092, OFC Phone: (617) 565-5162, FAX: (617) 565-6557

Michigan

Multifamily Housing Hub, HUD Detroit Office, 477 Michigan Avenue, Detroit, MI 48226-2592, OFC Phone: (313) 226-7900, FAX: (313) 226-5611

Multifamily Housing Program Center, HUD Grand Rapids, Trade Center Building, 50 Louis Street, NW., Grand Rapids, MI 49503-2648, OFC Phone: (616) 456-2100, FAX: (616) 456-2191

Minnesota

Multifamily Housing Hub, HUD Minneapolis Office, 220 Second Street, South, Minneapolis, MN 55401-2195, OFC Phone: (612) 370-3051 Ext. 0, FAX: (612) 370-3090

Mississippi

Multifamily Housing Program Center, HUD Jackson Office—McCoy Federal Building, 100 W. Capitol Street, Room 910, Jackson, MS 39269-1096, OFC Phone: (601) 965-4738, FAX: (601) 965-4773

Missouri

Multifamily Housing Hub, HUD Kansas City Office, 400 State Avenue, Room 200, Kansas City, KS 66101-2406, OFC Phone: (913) 551-6844, FAX: (913) 551-5469

Multifamily Housing Program Center, HUD St. Louis Office, Robert A. Young Federal Building, 1222 Spruce Street—Third Floor, St. Louis, MO 63103-2836, OFC Phone: (314) 539-6382, FAX: (314) 539-6356

Montana

Multifamily Housing Hub, HUD Denver Office, 633 17th Street, 14th Floor, Denver, CO 80202-3607, OFC Phone: (303) 672-5343, FAX: (303) 672-5153

Nebraska

Multifamily Housing Program Center, HUD Omaha Office, 10909 Mill Valley Road, Suite 100, Omaha, NE 68154-3955, OFC Phone: (402) 492-3113, FAX: (402) 492-3184

Nevada

Multifamily Housing Program Center, HUD Las Vegas Office, 333 N. Rancho Drive—Atrium Bldg. Suite 700, Las Vegas, NV 89106-3714, OFC Phone: (702) 388-6525, FAX: (702) 388-6244

New Hampshire

Multifamily Housing Program Center, HUD—Manchester Office, Norris Cotton Federal Bldg., 275 Chestnut Street, Manchester, NH 03101-2487, OFC Phone: (603) 666-7684, FAX: (603) 666-7697

New Jersey

Multifamily Housing Program Center, HUD—Newark Office—13th Floor, One Newark Center, Newark, NJ 07102-5260, OFC Phone: (973) 622-7900 Ext. 3400, FAX: (973) 645-2271

New Mexico

Multifamily Housing Hub, HUD Ft. Worth Office, 801 Cherry Street, PO Box 2905, Ft. Worth, TX 76102-2905, OFC Phone: (817) 978-5764, FAX: (817) 978-5520

New York

Multifamily Housing Hub, HUD—New York Office, 26 Federal Plaza—Room 3214, New York, NY 10278-0068, OFC Phone: (212) 264-0777 Ext. 3713, FAX: (212) 264-1277

Multifamily Housing Hub, HUD—Buffalo Office, Lafayette Court, 5th Floor 465 Main Street, Buffalo, NY 14203-1780, OFC Phone: (716) 551-5755 Ext. 5509, FAX: (716) 551-3252

North Carolina

Multifamily Housing Hub, HUD Greensboro Office—Koger Building, 2306 West Meadowview Road, Greensboro, NC 27407, OFC Phone: (336) 547-4034, FAX: (336) 547-4121

North Dakota

Multifamily Housing Hub, HUD Denver Office, 633 17th Street, 14th Floor, Denver, CO 80202-3607, OFC Phone: (303) 672-5343, FAX: (303) 672-5153

Ohio

Multifamily Housing Hub, HUD Columbus Office, 200 North High Street, Columbus, OH 43215-2499, OFC Phone: (614) 469-5737, Ext. 8111, FAX: (614) 469-2432

Multifamily Housing Program Center, HUD Cincinnati Office, 525 Vine Street, Suite 700, Cincinnati, OH 45202-3188, OFC Phone: (513) 684-2350, FAX: (513) 684-6224

Multifamily Housing Program Center, HUD Cleveland Office, 1350 Euclid Avenue, Suite 500, Cleveland, OH 44115-1815, OFC Phone: (216) 522-4058 Ext. 7000, FAX: (216) 522-4067

Oklahoma

Multifamily Housing Program Center, HUD Oklahoma City Office, 500 W. Main Street, Suite 400, Oklahoma City, OK 73102-2233, OFC Phone: (405) 553-7410, FAX: (405) 553-7406

Oregon

Multifamily Housing Hub, HUD Seattle Office, 909 First Avenue, Suite 190, MS-0AHM, Seattle, WA 98104-1000, OFC Phone: (206) 220-5228 ext. 3250, FAX: (206) 220-5206

Pennsylvania

Multifamily Housing Hub, HUD Philadelphia Office, The Wanamaker Building, 100 Penn Square, East, Philadelphia, PA 19107-3380, OFC Phone: (215) 656-0609 Ext. 3533, FAX: (215) 656-3427

Multifamily Housing Program Center, HUD Pittsburgh Office, 339 Sixth Avenue—Sixth Floor, Pittsburgh, PA 15222-2515, OFC Phone: (412) 644-6639, FAX: (412) 644-5872

Puerto Rico

Multifamily Housing Program Center, HUD Caribbean Office, 171 Carlos E. Chardon Avenue, San Juan, PR 00918-0903, OFC Phone: (787) 766-5401, FAX: (787) 766-5522

Rhode Island

Multifamily Housing Program Center, HUD—Providence Office, 10 Weybosset Street, Sixth Floor, Providence, RI 02903-2808, OFC Phone: (401) 528-5230, FAX: (401) 528-5097

South Carolina

Multifamily Housing Program Center, HUD Columbia Office, 1835 Assembly Street, Columbia, SC 29201-2480, OFC Phone: (803) 765-5162, FAX: (803) 253-3043

South Dakota

Multifamily Housing Hub, HUD Denver Office, 633 17th Street, 14th Floor, Denver, CO 80202-3607, OFC Phone: (303) 672-5343, FAX: (303) 672-5153

Tennessee

Multifamily Housing Program Center, HUD—Knoxville Office, 710 Locust Street, SW, Knoxville, TN 37902-2526, OFC Phone: (423) 545-4411, FAX: (423) 545-4578

Multifamily Housing Program Center, HUD—Nashville Office, 251 Cumberland Bend Drive, Suite 200, Nashville, TN 37228-1803, OFC Phone: (615) 736-5748, FAX: (615) 736-2018

Texas

Multifamily Housing Hub, HUD Ft. Worth Office, 801 Cherry Street, PO Box 2905, Ft. Worth, TX 76102-2905, OFC Phone: (817) 978-5764, FAX: (817) 978-5520

Multifamily Housing Program Center, HUD Houston Office, 2211 Norfolk, #200, Houston, TX 77098-4096, OFC Phone: (713) 313-2274 Ext. 7015, FAX: (713) 313-2319

Multifamily Housing Program Center, HUD San Antonio Office, 800 Dolorosa, San Antonio, TX 78207-4563, OFC Phone: (210) 475-6831, FAX: (210) 472-6897

Utah

Multifamily Housing Hub, HUD Denver Office, 633 17th Street, 14th Floor, Denver, CO 80202-3607, OFC Phone: (303) 672-5343, FAX: (303) 672-5153

Vermont

Multifamily Housing Program Center, HUD—Manchester Office, Norris Cotton Federal Bldg., 275 Chestnut Street, Manchester, NH 03101-2487, OFC Phone: (603) 666-7684, FAX: (603) 666-7697

Virginia

Multifamily Housing Hub, HUD Richmond Office, 3600 West Broad Street, Richmond, VA 23230-4920, OFC Phone: (804) 278-4500 Ext. 3146, FAX: (804) 278-4613

Washington

Multifamily Housing Hub, HUD Seattle Office, 909 First Avenue, Suite 190, MS-0AHM, Seattle, WA 98104-1000, OFC Phone: (206) 220-5228 ext. 3250, FAX: (206) 220-5206

West Virginia

Multifamily Housing Program Center, HUD—Charleston Office, 405 Capitol Street, Suite 708, Charleston, WV 25301-1795, OFC Phone: (304) 347-7000 Ext. 103, FAX: (304) 347-7050

Wisconsin

Multifamily Housing Program Center, HUD Milwaukee Office, 310 West Wisconsin Avenue, Room 1380, Milwaukee, WI 53203-2289, OFC Phone: (414) 297-3214 Ext. 8662, FAX: (414) 297-3204

Wyoming

Multifamily Housing Hub, HUD Denver Office, 633 17th Street, 14th Floor, Denver, CO 80202-3607, OFC Phone: (303) 672-5343, FAX: (303) 672-5153

Appendix B

The non-standard forms required for the Service Coordinators in Multifamily Housing application follow:

1. Applicant Checklist (Non-ALCP Applicants)

2. Sample Request Letter Format

3. Service Coordinator Certifications

4. Transmittal Letter Format for Designated Lead Agency

5. ALCP Applicant Checklist and ALCP Applicants' Form

BILLING CODE 4210-32-P

FUNDING AVAILABILITY FOR HOUSING CHOICE VOUCHER FAMILY SELF-SUFFICIENCY (FSS) PROGRAM COORDINATORS

PROGRAM OVERVIEW

Purpose of Program. The Housing Choice Voucher FSS program (referred to in previous NOFAs as the Section 8 FSS program and as the Rental Certificate/Housing Choice Voucher FSS program) is intended to promote the development of local strategies to coordinate the use of assistance under the Housing Choice Voucher program with public and private resources to enable participating families to achieve economic independence and self-sufficiency. As a result of their participation in the FSS program, many families have achieved stable, well-paid employment, which has made it possible for them to become homeowners. An FSS program coordinator assures that program participants are linked to the supportive services they need to achieve self-sufficiency.

Funding under this NOFA may not be used to pay the salary of an FSS coordinator for a public housing FSS program. Operating subsidy may be used to fund a public housing FSS program coordinator's salary.

Available Funds. This NOFA announces the availability of up to $46.4 million in Fiscal Year (FY) 2002 for Housing Choice Voucher FSS program coordinators. If additional funding becomes available during FY 2002, HUD may increase the amount available for Housing Choice Voucher FSS Program coordinators under this NOFA. Salaries of FSS program coordinators funded under this NOFA must not exceed salaries for comparable positions in the PHA's local area and are subject to a cap of $62,000 per full time coordinator position funded. Under this NOFA, if PHAs apply jointly, the $62,000 maximum amount that may be requested per position applies to each full-time coordinator position in the application as a whole, not to each PHA separately. Evidence of salary comparability to similar positions in the local jurisdiction for each position must be kept on file in the PHA office.

Eligible Applicants: Public housing agencies (PHAs) eligible to receive funding under this NOFA are those that received funding for one or more FSS program coordinators under the FY 2001 FSS Program Coordinator NOFA and apply under this NOFA and those PHAs with HUD approval to administer a Housing Choice Voucher FSS program of at least 25 slots, or, if they are PHAs with HUD approval to administer Housing Choice Voucher FSS programs of fewer than 25 slots, they apply jointly with one or more other PHAs so that between or among them they have HUD approval to administer at least 25 Housing Choice Voucher FSS slots. PHAs that were funded under the FY 2001 FSS NOFA that offer homeownership opportunities to FSS program participants may also apply for funding for an additional coordinator position to support homeownership activities for its FSS program participants.

Application Deadline. May 21, 2002.

Match. None

ADDITIONAL INFORMATION

If you are interested in applying for Housing Choice Voucher FSS Program Coordinator funding under this NOFA, please review carefully the General Section of this SuperNOFA and the following additional information.

I. Application Due Date, Application Kits, and Technical Assistance

Application Due Date. Your completed application (an original and two copies) is due on or before May 21, 2002.

See the General Section of this SuperNOFA for specific procedures concerning the form of application submission.

Address for Submitting Applications. Your completed application consists of one original and two copies. Submit your original application and one copy with an Acknowledgment of Application Receipt, form HUD-2993, to: Michael E. Diggs, Director, PIH Grants Management Center, Department of Housing and Urban Development, 501 School Street, Suite 800, Washington, DC 20024.

Submit the second copy of your application to your local HUD Field Office Public Housing Hub or Program Center. A listing of HUD Field Offices is attached to the General Section of this SuperNOFA. This copy is provided to the local HUD Field Office for informational purposes. Late receipt of the application by the field office will not disqualify the application.

Application Submission Procedures. New Security Procedures. HUD has implemented new security procedures that impact on application submission procedures. Please read the following instructions carefully and completely. HUD will not accept hand delivered applications. Applications may be mailed using the United States Postal Service (USPS) or may be shipped via the following delivery services: United Parcel Service (UPS), FedEx, DHL, or Falcon Carrier. No other delivery services are permitted into HUD Headquarters without escort. You must, therefore, use one of the four carriers listed above.

Mailed Applications. Your application will be considered timely filed if your application is postmarked on or before 12 midnight on the application due date and received by the PIH Grants Management Center on or within fifteen (15) days of the application due date. All applicants must obtain and save a Certificate of mailing showing the date, when you submitted your application to the United States Postal Service (USPS). The Certificate of Mailing will be your documentary evidence that your application was timely filed.

Applications Sent by Overnight/Express mail Delivery. If your application is sent by overnight delivery or express mail, your application will be timely filed if it is received before or on the application due date, or when you submit documentary evidence that your application was placed in transit with the overnight delivery/express mail service by no later than the application due date. Due to new security measures, you must use one of four carrier services that do business with HUD Headquarters regularly. These services are UPS, DHL, FedEx and Falcon Carrier. Delivery by these services must be made during HUD's Headquarters business hours, between 8:30 AM and 5:30 PM Eastern time, Monday to Friday. If these companies do not service your area, you should submit your application via the United States Postal Service.

For Application Kits. There is no application kit for this NOFA. This announcement contains all the information necessary for the submission of your application for Housing Choice Voucher FSS program coordinator funding.

For Further Information and Technical Assistance. For answers to your questions, you may contact the Public and Indian Housing Resource Center at 1-800-955-2232 or the Hub Director of Public Housing or the Program Center Coordinator in the local HUD Field Office or you may contact the Grants Management Center at (202) 358-0221, extension 7675. Persons with hearing or speech impairments may access these numbers via TTY (text telephone) by calling the Federal Information Relay Service at 1-800-877-8339 (this is a toll-free number). Information can be accessed via the Internet at http://www.hud.gov/grants.

Prior to the application deadline, staff at the numbers given above will be available to provide general guidance, but not guidance in actually preparing the application. Following selection, but prior to award, HUD staff will be available to assist in clarifying or confirming information that is a prerequisite to the offer of an award by HUD.

Satellite Broadcast. HUD plans to hold an information broadcast via satellite for potential applicants to learn more about the program and preparation of an application. For more information about the date and time of this broadcast, you should consult the HUD Web site at www.hud.gov.

II. Amount Allocated

For FY 2002, up to $46.4 million is available under the HUD 2002 Appropriations Act for PHA administrative fees for Housing Choice Voucher FSS program coordinators. This amount is from HUD's Congressional justifications that were submitted in support of the Departments of Veterans Affairs and Housing and Urban Development, and Independent Agencies Appropriations Act, 2002 (Pub.L. 107-73, approved November 26, 2001). If additional funds become available in FY 2002, through retention, recapture, or reallocation, HUD may seek to reprogram all or some of these funds to fund additional applications submitted in response to the NOFA. This is the ninth fiscal year of funding for Housing Choice Voucher FSS program coordinators.

HUD Corrections to Funding Provided Under the FY 2001 NOFA

HUD has determined that the funding reserved under the FY 2001 Rental Certificate/Housing Choice Voucher NOFA for eleven PHAs was lower than the PHAs should have received under that NOFA and HUD believes that underfunding should be corrected. Therefore, prior to funding any applications under the FY 2002 NOFA, HUD is making funding, in the amount of $627,046 in FY 2002 funding, available to correct those errors as follows: Pico Rivera Housing Assistance Agency, CA—$60,000; New Britain Housing Authority, CT—$168,000; Cedar Rapids Housing Services, IA—$87,180; City of Louisville, KY—$70,824; East Baton Rouge Housing Authority, LA—$33,537; Salem Housing Authority, MA—$26,537; Metropolitan Council, MN—$56,738; Norfolk Housing Authority, NE—$34,800; Rochester Housing Authority, NY—$48,041; Economic Improvement Council, Inc., NC—$28,389; Municipality of Yabucoa, PR—$13,000.

III. Program Description; Eligible Applicants; Number of Positions for Which Eligible Applicants May Apply; Eligible Activities

(A) Program Description. Through annual NOFAs, HUD has provided funding to PHAs that are operating Housing Choice Voucher FSS programs to enable those PHAs to hire Housing Choice Voucher FSS program coordinators.

In the FY 2002 FSS NOFA, HUD is making funding available to renew positions funded under the FY 2001 FSS NOFA to allow PHAs to continue to pay the salaries of Housing Choice Voucher FSS program coordinators funded under the FY 2001 NOFA for another year.

Under this NOFA, for the first time, HUD also invites PHAs that qualify for renewal of positions awarded under the FY 2001 NOFA to apply for an additional coordinator position to support homeownership activities for its FSS program participants. To qualify for this additional position, eligible renewal PHAs must have implemented or participate in homeownership programs, including homeownership voucher programs, that are available to families participating in the FSS program.

Because of the importance of the FSS program in helping families increase earned income and develop assets, HUD will also accept applications from PHAs that were not funded under the FY 2001 NOFA. In addition, under this NOFA eligible new and renewal state and regional PHAs that have HUD approval of their FSS action plans to operate separate FSS programs of at least 25 slots in different parts of their jurisdictions may also apply for up to one new position for any part of the PHA jurisdiction where the state or regional PHA did not receive funding under the FY 2001 NOFA.

Applicants should be aware that in this NOFA, the HUD-approved FSS slots means the total number of mandatory and voluntary housing choice voucher FSS program slots identified in the PHA's HUD-approved FSS action plan. It does not mean the number of families currently enrolled in the FSS program or the number of families the PHA has served including those that have graduated. The FSS action plan can be updated by means of a simple one page addendum which reflects the total number of FSS slots (voluntary and/or mandatory slots) the PHA plans to serve. This addendum must be submitted to the PHA's local HUD office as it is approved by that office.

Both the voluntary Housing Choice Voucher FSS slots and the mandatory Housing Choice Voucher FSS slots, identified in the PHA's HUD-approved FSS Action Plan, are counted in determining the PHA's Housing Choice Voucher FSS program size. Prior to submitting an application, PHAs may wish to confirm the number of HUD-approved slots their local HUD field office has on record for the PHA to assure that it is accurate.

To qualify for consideration for funding with those FSS program coordinator applications submitted by the due date under this NOFA, amendments to change the number of FSS slots in the PHA's FSS Action Plan must be approved by the local HUD field office prior to the application due date. PHAs whose FSS action plans are approved after the due date of applications under this NOFA would be considered for funding only if funding remains after funding of all eligible applications received by the due date.

There are no maximum or minimum Housing Choice Voucher program size requirements for PHAs applying for funding under this NOFA.

(B) Eligible Applicants. Public housing agencies (PHAs) eligible to receive funding under this NOFA are: (1) Those PHAs that received funding under the FY 2001 NOFA for Rental Certificate/Housing Choice Voucher FSS Program Coordinators. (To qualify for renewal of positions funded under the FY 2001 FSS NOFA, the number of FSS slots in the PHA's HUD-approved FSS Action Plan must remain at a level that will support the number of positions that were funded in FY 2001 and the PHA must continue to operate an FSS program, have hired an FSS program coordinator or coordinators with funding awarded for that purpose under the FY 2001 FSS NOFA, and executed FSS contracts of participation with program participants.) (2) PHAs that were not funded under the FY 2001 FSS NOFA that are authorized through their HUD-approved FSS Action Plan to administer a Housing Choice Voucher FSS program of at least 25 slots; or, if they are PHAs with HUD approval to administer Housing Choice Voucher FSS programs of fewer than 25 slots, they apply jointly with one or more other PHAs so that between or among them they have HUD approval to administer at least 25 Housing Choice Voucher FSS slots. Joint applicants must specify a lead co-applicant which will receive and administer the FSS program coordinator funding.

PHAs that qualify to apply as renewal PHAs under category (1) above, that have implemented or participate in homeownership programs, including Housing Choice Voucher homeownership programs as well as other programs such as state or local homeownership programs, that are available to families participating in FSS programs, may apply for an additional coordinator position to support homeownership activities for families participating in the FSS program.

PHAs that are administering Family Self-Sufficiency programs under the Moving to Work (MTW) demonstration may qualify for funding under this NOFA if the PHA administers a Family Self-Sufficiency program that serves Housing Choice Voucher program families. When determining the size of a MTW PHA's HUD-approved FSS program, the PHA may request that the number of FSS slots reflected in the PHA's MTW agreement be used instead of the number in the PHA's FSS Action Plan.

(C) Number of Positions for which Eligible PHAs may apply: Eligible PHAs may apply for coordinator positions under this NOFA as follows:

(1) PHAs funded under the FY 2001 FSS NOFA: PHAs that received funding under the FY 2001 FSS NOFA that qualify as eligible PHAs under the definition of eligible applicants in Section III.B. of this NOFA, may apply for:

(a) Renewal of the FSS coordinator positions funded under the FY 2001 FSS NOFA that have been filled by the PHA,

(b) If the PHA administers or participates in a homeownership program which gives a selection preference for FSS families or limits eligibility to FSS families, and the PHA currently has FSS families ready to, or already participating in, a homeownership program, the PHA may apply for up to one additional full time FSS coordinator position to support FSS program homeownership activities and;

(c) If the PHA is a state or regional PHA with HUD approval to administer an FSS program in more than one part of its jurisdiction and has filled all positions funded under the FY 2001 FSS NOFA, the PHA may apply for an additional position for any area of its jurisdiction where it has HUD approval to operate a Housing Choice Voucher FSS program of at least 25 slots if the PHA was not funded for a position for that area under the FY 2001 FSS NOFA.

(2) PHAs not funded under the FY 2001 FSS NOFA: PHAs that were not funded under the FY 2001 FSS NOFA, including PHAs applying jointly and state and regional PHAs, that qualify as eligible new applicants under the definition of eligible applicants in Section III.B. of this NOFA may apply for positions as follows:

(a) PHAs with HUD approval to administer an FSS program of 25 or more slots may apply for up to one full time FSS coordinator position and;

(b) Eligible state or regional PHAs with HUD approval to operate FSS program in different parts of their jurisdiction may apply for up to one FSS coordinator in any area where they have HUD approval to administer a Housing Choice Voucher FSS program of at least 25 slots.

(D) Eligible Activities. Funds are available to PHAs under this NOFA to employ or otherwise retain the services of Housing Choice Voucher FSS program coordinators for one year. A part-time Housing Choice Voucher FSS program coordinator may be retained where appropriate. In the Housing Choice Voucher FSS program, PHAs are required to use rental assistance under the Housing Choice Voucher program together with public and private resources to provide supportive services to enable participating families to achieve economic independence and self-sufficiency. Effective delivery of supportive services is a critical element in a successful FSS program. PHAs are encouraged to outreach to disabled Housing Choice Voucher program participants who might be interested in participating in the FSS program and to include on their FSS Program Coordinating Committees agencies that work with and provide services for disabled families. The FSS program supports the Department's objective of helping poor and disadvantaged families and individuals increase wages, develop assets and move to homeownership. The program provides critical tools that can be used by communities to support welfare reform and help families develop new skills that will lead to economic self-sufficiency.

IV. Program Requirements

(A) Program Coordinator Role. PHAs administering the FSS program use program coordinating committees (PCCs) to assist them to secure resources and implement the FSS program. The PCC is made up of representatives of businesses, local government, job training and employment agencies, local welfare agencies, educational institutions, childcare providers, and nonprofit service providers, including faith-based and other community organizations.

An FSS program coordinator works with the PCC and with local service providers to assure that program participants are linked to the supportive services they need to achieve self-sufficiency. The FSS program coordinator may ensure, through case management, that the services included in participants' contracts of participation are provided on a regular, ongoing and satisfactory basis, that participants are fulfilling their responsibilities under the contracts and that FSS escrow accounts are established and properly maintained for eligible families. FSS coordinators may also perform job development functions for the FSS program.

(B) Staffing Guidelines. Under normal circumstances, a full-time FSS program coordinator should be able to serve approximately 50 FSS participants, depending on the coordinator's case management functions.

(C) Conducting Business in Accordance With HUD Core Values and Ethical Standards. All applicants shall develop and maintain a written code of conduct that reflects their core values in accordance with the requirements stated in Section II.B.(2) of the General Section of this the SuperNOFA.

(D) Other Requirements. PHAs must meet the civil rights compliance and nondiscrimination requirements listed in the General Section of this SuperNOFA.

V. Application Selection Process

The funds available under this NOFA are not being awarded on a competitive basis. Applications will be reviewed by the Grants Management Center (GMC) to determine whether or not they are technically adequate based on the NOFA requirements. Field offices will provide to the GMC in a timely manner, as requested, information needed by the GMC to make its determination, such as the HUD-approved Housing Choice Voucher FSS program size and information on the PHA's administrative capabilities. Categories of applications that will not be funded are stated in Section VII.(B) of this NOFA.

All technically adequate applications will be funded to the extent funds are available. If HUD receives applications for funding greater than the amount made available under this NOFA, HUD will fund eligible applicants as follows: Applications will be divided into the following categories of funding priority:

Priority 1—Applications from PHAs, including state and regional PHAs, for continuation of the position or positions funded under the FY 2001 FSS NOFA where a coordinator has been hired by the PHA.

Priority 2—Applications from eligible renewal PHAs, funded under priority 1 of this NOFA, for an additional coordinator position to support FSS homeownership activities.

Priority 3—Priority 3 will consist of: (a) Applications for up to one initial FSS coordinator position from PHAs that were not funded under the FY 2001 FSS NOFA including, for state and regional PHAs with HUD approval to operate FSS programs in different parts of their jurisdictions, up to one FSS coordinator position per area where they are authorized to operate a Housing Choice Voucher FSS program of at least 25 FSS slots.

(b) Applications from Priority 1 (renewal) state and regional PHAs for up to one full time FSS program coordinator position in any area of their jurisdiction where they are authorized to operate a Housing Choice Voucher FSS program of at least 25 FSS slots, but did not receive funding for a full time FSS program coordinator position under the FY 2001 FSS NOFA.

HUD will first fund all eligible Priority 1 applications to continue funding for Housing Choice Voucher FSS program coordinators funded under the FY 2001 FSS NOFA where the PHA has hired an FSS program coordinator. If the amount available is not sufficient to fund all eligible applications, HUD will determine if all applications can be funded if salary increases are limited to three percent of the FY 2001 awards. If monies are still not sufficient to fund all eligible applicants, HUD will begin funding eligible applications by Housing Choice Voucher program size starting with the smallest Housing Choice Voucher programs first. Housing Choice Voucher program size will be determined by HUD using baseline data developed by the Department.

If funding remains after funding all priority 1 applications, HUD will then provide funding to eligible Priority 2 applicants for up to one additional Housing Choice Voucher FSS program coordinator position per eligible PHA to support the homeownership activities of Housing Choice Voucher FSS program participants. If there are not sufficient monies to fund an additional FSS coordinator for each Priority 2 PHA, HUD will begin funding up to one full-time coordinator for each eligible Priority 2 applicant starting with PHAs with the highest percentage of FSS families currently ready for homeownership. The percentage will be computed using the HUD-approved Housing Choice Voucher FSS program size in the PHA's HUD-approved FSS action plan.

If funding remains after funding all Priority 1 and 2 applications, HUD will then provide funding to eligible Priority 3 applicants for up to one Housing Choice Voucher FSS program coordinator position per PHA, or in the case of state and regional PHAs, up to one full time coordinator for each area where they are authorized to operate a Housing Choice Voucher program of at least 25 slots and did not receive funding for the position under the FY 2001 FSS NOFA. If there is insufficient funding for all Priority 3 applicants, funding will be awarded to applicants in Housing Choice Voucher program size order starting from the PHAs with the smallest Housing Choice Voucher programs first. Housing Choice Voucher program size will be determined by HUD using baseline data developed by the Department. If there are not sufficient monies to fund all applications from Priority 3 PHAs with the same Housing Choice Voucher program size, funding will be provided based on the size of the PHA's Housing Choice Voucher FSS program, reflected in the PHA's HUD-approved Housing Choice Voucher FSS Action Plan, starting with the largest approved Housing Choice Voucher FSS program first.

If funding remains after all eligible applications submitted in response to this NOFA are funded and received by the due date, the Grants Management Center will use any funding still available through the end of FY 2002 to fund applications submitted after the due date of this NOFA that meet all other requirements of this NOFA. These applications will be funded on a first-come, first-serve basis through September 30, 2002, as long as funds are available.

VI. Application Submission Requirements

(A) Application Requirement for PHAs that Received FY 2001 FSS Program Coordinator Funding. Each PHA that received funding for a Rental Certificate/Housing Choice Voucher FSS program coordinator or coordinators under the FY 2001 FSS NOFA that wishes to receive funding under this NOFA must complete a certification in the format shown as “Attachment A” of this NOFA, and must include all information required in “Attachment A.” The completed Attachment A certification along with the Fair Housing Certification (Attachment C of this NOFA) and the Certification Regarding Lobbying (Attachment D of this NOFA) constitute the entire PHA application for funding under this section unless the PHA is also applying for an additional position to support FSS homeownership activities. PHAs applying for an additional position to support FSS homeownership activities must also submit Attachment E. The certifications must be submitted to the GMC by the due date to be eligible for the initial round of funding under this NOFA.

(B) Request for FSS Program Coordinator Funds by Eligible PHAs that were NOT Funded in FY 2001. PHAs that did not receive funding under the FY 2001 FSS Program Coordinator NOFA must complete a certification in the format shown as “Attachment B” of this FSS NOFA and must include all information required in Attachment B. The completed Attachment B certification along with the Fair Housing Certification (Attachment C of this NOFA) and the Certification Regarding Lobbying (Attachment D of the NOFA) constitute the entire PHA application for funding under this section. The certifications must be submitted to the GMC by the due date to be considered for funding for the initial round of funding under this NOFA.

(C) Applicant Debriefing. Beginning not less than 30 days after the awards for assistance are announced in the Federal Register notice, and for no less than 120 days after awards for assistance are announced, HUD will provide a debriefing to any applicant requesting a debriefing on their application. All requests for debriefing must be made in writing and submitted to Michael E. Diggs, Director, PIH Grants Management Center, Department of Housing and Urban Development, 501 School Street, Suite 800, Washington, DC 20024. Materials provided will include the final assessment indicating the basis upon which assistance was provided or denied.

VII. Corrections to Deficient Applications

(A) Acceptable Applications. The General Section of the SuperNOFA provides the procedures for corrections to deficient applications. Examples of correctable technical deficiencies include, but are not limited to, failure to submit the proper attachment C, D or E certifications, submission of an attachment A or B with missing information or submission of an attachment or certification that lacks an original signature by an authorized official.

(B) Unacceptable Applications.

(1) After the 14-calendar day technical deficiency correction period (as provided in the General Section), the GMC will disapprove PHA applications that it determines are not acceptable for processing under the initial round of funding.

(2) Applications from PHAs that fall into any of the following categories are ineligible for funding under this NOFA and will not be processed:

(a) An application from a PHA that is not an eligible PHA under Section III.B. of this NOFA or an application that does not comply with the requirements of Section VI. of this NOFA.

(b) An application from a PHA that does not meet the requirements of fair housing and civil rights compliance requirements of Section II(B) of the General Section of the SuperNOFA.

(c) An application from a PHA that at the end of the 14-calendar day technical correction period has not made progress satisfactory to HUD in resolving serious outstanding Inspector General audit findings, or serious outstanding HUD management review or independent public accountant (IPA) audit findings for one or more of the following programs: Housing Choice Voucher or Moderate Rehabilitation. Serious program management findings are those that would cast doubt on the capacity of the PHA to administer its Housing Choice Voucher program in accordance with applicable HUD regulatory and statutory requirements.

(d) The application was not submitted to the official place of receipt as indicated in the paragraph entitled “Address for Submitting Applications” at the beginning of this announcement.

(e) The applicant has been debarred or otherwise disqualified from providing assistance under the program.

(3) Otherwise eligible applications that are not received by the due date of this NOFA will not be funded unless funds remain available after all eligible applications received by the due date have been funded. If at that time all the funding under this NOFA has not been awarded, then otherwise eligible applications received after the due date will be funded on a first come, first served basis through the end of FY 2002, as long as funding remains available. If more than one such application is received at the same date and time, the application from the PHA with the smallest Housing Choice Voucher program will be funded first.

VIII. Environmental Requirements

No environmental review is required in connection with the award of assistance under this NOFA, because the NOFA only provides funds for employing a coordinator that provides public and supportive services, which are categorically excluded from environmental review under the National Environmental Policy Act of 1969 (42 U.S.C. 4321) and not subject to compliance actions for related environmental authorities under 24 CFR 50.19(b)(4) and (12).

IX. Authority

The Departments of Veterans Affairs and Housing and Urban Development and Independent Agencies Appropriations Act, 2002 (Pub. L. 107-73, approved November 26, 2001) allows funding for program coordinators under the Housing Choice Voucher FSS program. As a result, the Department determined to make a sufficient amount available under this NOFA, under Part 984, in accordance with section 984.302(b), to enable PHAs to employ one or more Housing Choice Voucher FSS program coordinators for one year at a reasonable cost as determined by the PHA and HUD, based on salaries for similar positions in the locality.

BILLING CODE 4210-32-P

FUNDING AVAILABILITY FOR EARLY DOCTORAL STUDENT RESEARCH GRANT PROGRAM

PROGRAM OVERVIEW

Purpose of the Program. To help eligible doctoral students cultivate their research skills through the preparation of research manuscripts that focus on housing and urban development issues.

Available Funds. Approximately $150,000 in FY 2002 funds.

Eligible Applicants: Only pre-dissertation Ph.D. students whose studies include urban economics as a major or concentration within another field related to housing and urban development.

Application Deadline. June 20, 2002.

Match. None.

ADDITIONAL INFORMATION

I. Application Due Date, Application Kits, Further Information, and Technical Assistance

Application Due Date. Your completed application is due on or before June 20, 2002. You should read the General Section of the SuperNOFA because it contains more detailed information about the application due date.

Address for Submitting Applications. Your completed application consists of an original signed application and an electronic copy of the application. All applications must be submitted via the United States Postal Service to the following address: University Partnerships Clearinghouse, Aspen Systems Corporation, Mail Stop 6P, 2277 Research Blvd., Rockville, MD 20850. You should read the General Section of the SuperNOFA because it contains more detailed information on submission deadlines. Please mark on the envelope for your application that it is for the Early Doctoral Student Research Grant Program.

HUD will accept only one application per doctoral student.

For Application Kits. The application requirements are contained in this program NOFA. There is no separate application kit for the program.

For Further Information and Technical Assistance. You may contact Armand Carrier of HUD's Office of University Partnerships at 202-708-3061 ext 3181. If you have a hearing or speech impairment, you may access this number via TTY by calling the Federal Information Relay Service toll-free at 1-800-877-8339. You may also write to Mr. Carrier via e-mail at Armand_W._Carriere@hud.gov.

II. Amount Allocated

Approximately $150,000 in FY 2002 funds is being made available under this SuperNOFA for Early Doctoral Student Research Grant Program (EDSRG).

The maximum grant period is 12 months. The performance period will commence on the effective date of the grant agreement.

The maximum amount to be requested by and awarded to a doctoral student is $15,000. HUD reserves the right to make awards for less than the maximum amount or less than the amount requested in your application.

Program Description; Eligible Applicants; Eligible Activities

(A) Program Description. The purpose of the EDSRG is to enable doctoral students to cultivate their research skills through the preparation of research manuscripts that focus on policy-relevant housing and urban development issues. The program will also provide a forum for new scholars to share their research findings through presentation of this research to a scholarly conference and/or publication in a refereed journal. The FY 2002 EDSRG Program seeks to fund research studies that will inform Federal problem solving and policymaking relating to HUD's policy priorities for this year. Examples of topics addressing these priorities include but are not limited to:

• Homeownership

1. Homeownership

(a) Relative importance of factors in tenure decisions

(b) Estimation of private and social benefits and costs of homeownership

(c) Role in employment, household savings, and investment decisions

(d) Effects of demographics, macro-economic environment and government policies on homeownership

(e) Effects of homeownership on low- and moderate-income

2. Housing finance

(a) Institutional barriers to efficiency in the housing finance system

(b) Enabling the housing finance system to better serve low-income and minority borrowers

3. Home Equity Conversion Mortgages

• Housing Market Conditions

1. Housing markets

(a) Factors affecting rents, home values, tenure, vacancy rates

(b) Market absorption of new units

(c) Construction activity

1. Housing Stock

(a) Durability of stock

(b) Energy efficiency

(c) Factors determining rehabilitation and remodeling

(d) Comparisons with stock in other developed countries

3. Availability of Affordable Housing

(a) Policy and program options in tight or “soft” markets

(b) Preservation of existing stock

• Equal Opportunity and Access to Housing

1. Effectiveness of different models (including local initiatives) for promoting Fair Housing Objectives

2. Discrimination in housing and lending

(a) Methods to detect discrimination

(b) Systemic patterns and practices

• Homelessness

1. Strategies to combat homelessness

(a) Addressing chronic homelessness

(b) Preventing homelessness

(c) Helping families move from transitional to permanent housing

(d) Issues and responses to youth homelessness

(e) Causes of homelessness

• Community and Economic Development

1. Create or expand business

(a) Meet the needs of underserved inner city, older suburb, or rural areas

(b) Expansion of access to capital

(c) Joint ventures with faith-based or other community-based grassroots organizations

2. Development of inner cities

(a) Studies of reinvestment pressures

(b) Theories of capital/land/market failure that help to explain depopulation or disinvestment

(c) Government policies or market interventions that would alleviate these patterns

3. Regionalism and growth management

(a) The economic interdependence of cities and suburbs

(b) Rehabilitation and infill development

(c) Regional problem solving and coalition building

(d) Reinvestment in the urban core

(e) Impact of community economic development policies, programs, and initiatives

• Faith-Based and Other Community-Based Partnerships

1. Community development and community building

(a) Role of faith-based groups in low-income housing and community development efforts

(b) Faith-based and higher education community building efforts

2. Evaluation of college/community partnerships and institutionalizing these partnerships at colleges and universities

• Assisted Housing Programs

1. Affordability of rental housing

(a) Innovative partnerships or finance tools

(b) Cost-benefit analyses of alternative methods of providing housing assistance

(c) Effectiveness of voucher programs

(d) Evaluations of existing programs

2. Housing needs of the elderly and persons with disabilities

(a) Availability

(b) Design and Quality, including Accessibility

(c) Affordability

(d) Linked Services

3. Strategies for helping families in public and assisted housing make progress toward self-sufficiency and become homeowners.

• Colonias

1. How current housing policies determine the kinds of housing available

2. The perception of “community” in colonias

3. Evaluation of existing housing programs in colonias

(B) Eligible Applicants. You must meet the following requirements:

(1) You must be a currently enrolled and full-time student in an accredited doctoral program at an accredited institution of higher education;

(2) You must have urban economics as your major field or as a concentration within a major in another field related to housing and urban development;

(3) You must not have taken your preliminary/comprehensive examinations;

(4) You must have completed at least two semesters or three terms of your doctoral studies program (depending on the course structure of the institution); and

(5) You must have been assigned a faculty advisor to supervise your research manuscript.

You must provide documentation from the chair of your department that you meet all of these conditions and that in his/her opinion it is realistic to believe that the research manuscript can be completed within the one-year grant period. In addition, you and your institution must meet all the applicable threshold requirements found in Section II(B) of the General Section of the SuperNOFA.

(C) Eligible Activities. Your grant must support direct costs incurred in the timely completion of a research manuscript. Eligible costs include stipends, computer software, the purchase of data, travel expenses to collect data; transcription services, and compensation for interviews. Three thousand dollars of the grant will be held back until you have completed your research manuscript and either it has been accepted for presentation at a conference or for publication in a refereed journal by September 30, 2003, or a committee of three faculty members (including your faculty sponsor, as the principal investigator of the grant) has determined and certified to HUD that the manuscript is of high quality and worthy of submission to conferences or journals.

(D) Ineligible Activities. Your grant may not be used to pay for tuition, computer hardware, or meals.

(E) Other Requirements:

(1) Support from your university. Support from your university is required. Such support might include tuition waivers, office space, equipment, computer time, or similar items you might need in order to complete your dissertation. This support may not replace support or assistance that your institution would otherwise provide you.

(2) University sponsorship. The university shall enter into a Grant Agreement with HUD that provides for payment of the grant by HUD to the university and from the university to you, the approved applicant, and that further provides all required certifications and assurances. The university shall agree to provide as the Principal Investigator under the Grant Agreement a dissertation advisor or chair of the applicant's dissertation committee who shall supervise your work under the Grant Agreement.

(3) Progress reporting. You will be required to submit a report, halfway through your grant, on the progress you have made towards completion of the research manuscript and the likelihood that you will complete it on time.

IV. Application Selection Process

HUD will conduct two types of review: a threshold review to determine your eligibility to apply; and a technical review to rate your application based on the rating factors in this section.

(A) Threshold Factors for Funding Consideration. Under this threshold review, your application can only be rated if the following standards are met:

(1) You are an eligible doctoral student, as defined in Section III(B) above and have provided a letter from your department chair, in the format in Appendix A, confirming this;

(2) You have requested no more than the grant maximum of $15,000; and

(3) Your institution has agreed to provide some support to you as part of this grant.

(B) Factors for Award Used to Evaluate and Rate Applications. The factors for rating and ranking applicants, and maximum points for each factor, are provided below. The maximum number of points for this program is 100.

Rating Factor 1: Capacity To Do the Research (20 Points)

In reviewing this factor, HUD will determine the extent to which:

(1) Your skills and experience are relevant to your proposed research manuscript (e.g., course work, teaching, research projects, presentations);

(2) You have undertaken appropriate preparation (e.g., preliminary design of the survey collection instruments, pre-clearance on interviews) to undertake the dissertation; and

(3) Your proposed research will help to further your research skills (i.e, it is relevant to the kinds of projects you will continue to work on as you earn your Ph.D.).

Rating Factor 2: Need for the Research (35 Points)

In reviewing this factor, HUD will determine the extent to which your research manuscript will produce policy-relevant information that is directly related to one of the research priorities listed above (i.e., the research that will be produced could have an effect on HUD's strategic goals and HUD's programs and policies to achieve these goals—see the HUD Web site at http://www.hud.gov/about/budget/fy02/cjs/fy2002app.pdf for a discussion of these goals. The less directly related to one of these topics your research is, the fewer points you will receive. For example, a study of minorities' housing choice decisions would have high relevance to HUD's strategic goals; a study of transportation inequities would have medium relevance; and a study of the effects of global warming on urban development would have low relevance.

Rating Factor 3: Soundness of Approach (35 Points)

In reviewing this factor, HUD will determine the extent to which your research design and methodology are likely to produce data and information that will successfully answer your research hypotheses. HUD will also evaluate the extent to which the methodology you propose to use is sound and generally accepted by the relevant research community. Reviewers will be looking at the extent to which you use standard methodological practices in line with research already completed or existing publications in the field related to your research questions.

In reviewing this factor, HUD will also determine the extent to which your research design and methodology and plan for completion of your research manuscript can feasibly be completed within the one-year grant period. Applications that propose extremely complex and time-consuming data collection efforts (e.g., major longitudinal studies or a very large number of sites visits within the grant period) will be determined to be less feasible of completion within the allowed time frame. For example, if you propose a methodology based on information that may not be publicly available until after the end of the grant period (e.g., Census information), or a data collection plan that will take longer than the time you have allowed for it, you will get zero points for this factor.

Rating Factor 4: Issuance of Your Research Manuscript (10 Points)

One purpose of the EDSRG Program is to fund research studies that will inform Federal problem solving and policymaking relating to HUD's policy priorities for this year. HUD, therefore, will evaluate the likelihood that the manuscript will be ready to present at a conference or be ready for publication in a refereed journal by September 30, 2003. HUD will also evaluate your plans to disseminate your research though other means, e.g., seminars, your university's publications, or relevant internet listserves.

(C) Selections. In order to be funded, you must receive a minimum score of 70 points. HUD will fund applications in rank order, until it has awarded all available funds. If two or more applications have the same number of points, the application with the most points for Factor 1, Relevance to HUD's Mission, shall be selected. If there is still a tie, the application with the most points for Factor 2, Quality of the Research Design, shall be selected.

After all application selections have been made, HUD may require that you participate in negotiations to determine the specific terms of the Statement of Work and the grant budget. In cases where HUD cannot successfully complete negotiations, or you fail to provide HUD with requested information, an award will not be made. In such instances, HUD may elect to offer an award to the next highest-ranking applicant, and proceed with negotiations with that applicant.

(D) Applicant Debriefing. Beginning not less than 30 days after the awards for assistance are announced in the Federal Register, and for not less than 120 days after awards for assistance are announced, HUD will provide a debriefing to any applicant requesting a debriefing on their application. All requests for debriefings must be made in writing and submitted to Armand Carrier of HUD's Office of University Partnerships, Robert C. Weaver Building, 451 7th St. SW., Room 8106, Washington DC 20410. You may also write to Mr. Carrier via e-mail at Armand_W._Carrie@hud.gov.

Information provided to you during your debriefing will include the final scores you received for each rating factor, final evaluator comments for each rating factor, and the final assessment indicating the basis upon which assistance was provided or denied.

V. Application Submission Requirements

You should include an original and one computer disk (in Word 6.0 or higher) of the items listed below. In order to be able to recycle paper, please do not submit applications in bound form; binder clips or loose leaf binders are acceptable. Also, please do not use colored paper. Please note the page limits for some of the items listed below and do not exceed them.

Your application must contain the items listed in this section and they must be included in the order shown here. There is no separate application kit for this program. These items include the standard forms, certifications, and assurances listed in the General Section of the SuperNOFA that are applicable to this funding (collectively referred to as the “standard forms”). The standard forms can be found in Appendix B to the General Section of the SuperNOFA. The remaining application, referred to as the “non-standard forms,” can be found as Appendix A to this program section of the SuperNOFA. The Catalog of Federal Domestic Assistance number for this program is 14.517 and is listed in the program chart in the General Section of the SuperNOFA. Sample documents are also included in this appendix. The items are as follows:

(A) SF-424, Application for Federal Assistance. Include the name and address of the person authorized to execute the grant agreement in Block 5. Include the institution's tax ID number in Block 6. The form should be signed by the appropriate university official.

(B) Table of contents of the application.

(C) Transmittal Letter, from you, containing the following information:

(1) Title of your research project;

(2) Your name, university and home addresses, university and home telephone numbers, facsimile numbers, and email address;

(3) Your university's name, department, mailing address, telephone and facsimile numbers.

(4) Your faculty advisor's name, address, telephone and facsimile numbers—this person will serve as the Principal Investigator for the grant.

(D) A statement from your department chair that you have met all the eligibility criteria described in Section III(B) (see Appendix A for a sample).

(E) A statement from the appropriate official that describes your university's support, as described in Section III(E) (see Appendix B for a sample).

(F) An abstract of 500 words or less that addresses the following topics:

(1) Specific purpose of the dissertation;

(2) Methodology being used; and

(3) How you meet the eligibility criteria.

(G) A narrative of the proposed research, not to exceed 5 double-spaced typed pages. This narrative must include the following items in the following order:

(1) Statement of the problem;

(2) Your capacity to do the research. (Include your resume, showing educational background, research experience, background in statistics and empirical research, computer experience, and background in housing and/or urban studies.)

(3) Need for the research;

(4) Approach (research design and methodology);

(5) Your plan for disseminating your research.

(H) A proposed budget (See Appendix C for a sample).

(I) Certifications. These forms must be signed by the doctoral candidate and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

(J) Acknowledgment of Receipt of Applications (HUD-2993). If you wish to confirm that HUD received your application, please complete this form. This form is optional.

VI. Environmental Requirements

The provision of assistance under this program is categorically excluded from environmental review under the National Environmental Policy Act of 1969 (42 U.S.C. 4321) and not subject to compliance actions for related environmental authorities under § 50.19(b)(1) and (b)(9).

VII. Authority

This program is being undertaken under HUD's research authority under Title V of the Housing and Urban Development Act of 1970.

Appendices A, B and C

The non-standard sample forms and letters, which follow, are required for your Early Doctoral Student Research Grant application.

BILLING CODE 4210-32-P

FUNDING AVAILABILITY FOR DOCTORAL DISSERTATION RESEARCH GRANT PROGRAM

PROGRAM OVERVIEW

Purpose of the Program. To assist Ph.D. candidates complete their research and dissertations on housing and urban development issues.

Available Funds. Approximately $400,000 in FY 2002 funds.

Eligible Applicants: Only Ph.D. candidates who have completed all of their doctoral program requirements except the preparation of the dissertation.

Application Deadline. June 20, 2002.

Match. None.

ADDITIONAL INFORMATION

I. Application Due Date, Application Kits, Further Information, and Technical Assistance

Application Due Date. Your completed application is due on or before June 20, 2002. You should read the general section of the SuperNOFA because it contains more detailed information about the application due date.

Address for Submitting Applications. Your completed application consists of an original signed application and an electronic copy of the application. All applications must be submitted via the United States Postal Service to the following address: University Partnerships Clearinghouse, Aspen Systems Corporation, Mail Stop 6P, 2277 Research Blvd., Rockville, MD 20850. You should read the General Section of the SuperNOFA because it contains more detailed information on submission deadlines. Please mark on the envelope for your application that it is the Doctoral Dissertation Research Grant Program.

HUD will accept only one application per Ph.D. candidate.

For Application Kits. The application requirements are contained in this program NOFA. There is no separate application kit for the program.

For Further Information and Technical Assistance. You may contact Armand Carriere of HUD's Office of University Partnerships at 202-708-3061, extension 3181. If you have a hearing or speech impairment, you may access this number via TTY by calling the Federal Information Relay Service toll-free at 1-800-877-8339. You may also write to Mr. Carriere via e-mail at Armand_W._Carrier@hud.gov.

II. Amount Allocated

Approximately $400,000 in FY 2002 funds is being made available under this SuperNOFA for the Doctoral Dissertation Research Grant Program (DDRG).

The maximum grant period is 24 months. The performance period will commence on the effective date of the grant agreement.

The maximum amount to be requested by and awarded to a Ph.D. candidate is $25,000. HUD reserves the right to make awards for less than the maximum amount or less than the amount requested in your application.

III. Program Description; Eligible Applicants; Eligible Activities

(A) Program Description. The purpose of DDRG is to enable Ph.D. candidates enrolled at accredited institutions of higher education to complete their research and dissertations on HUD-related housing and urban development issues. The FY 2002 DDRG program seeks to fund dissertations that will inform Federal problem-solving and policy making relating to policy-relevant issues. Examples of such topics include but are not limited to:

• Homeownership

1. Homeownership

(a) Relative importance of factors in tenure decisions

(b) Estimation of private and social benefits and costs of homeownership

(c) Role in employment, household savings, and investment decisions

(d) Effects of demographics, macro-economic environment and government policies on homeownership

(e) Effects of homeownership on low- and moderate-income households

2. Housing finance

(a) Institutional barriers to efficiency in the housing finance system

(b) Enabling the housing finance system to better serve low-income and minority borrowers

3. Home Equity Conversion Mortgages

• Housing Market Conditions

1. Housing Markets

(a) Factors affecting rents, home values, tenure, vacancy rates

(b) Market absorption of new units

(c) Construction activity

2. Housing Stock

(a) Durability of stock

(b) Energy efficiency

(c) Factors determining rehabilitation and remodeling

(a) Comparisons with stock in other developed countries

3. Availability of Affordable Housing

(a) Policy and program options in tight or “soft” markets

(b) Preservation of existing stock

• Equal Opportunity and Access to Housing

1. Effectiveness of different models (including local initiatives) for promoting Fair Housing Objectives

2. Discrimination in housing and lending

(a) Methods to detect discrimination

(b) Systemic patterns and practices

• Homelessness

1. Strategies to combat homelessness

(a) Addressing chronic homelessness

(b) Preventing homelessness

(c) Helping families move from transitional to permanent housing

(d) Causes of homelessness

(e) Issues and responses to youth homelessness

• Community and Economic Development

1. Create or expand business

(a) Meet the needs of underserved inner city, older suburb, or rural areas

(b) Expansion of access to capital

(c) Joint ventures with faith-based or other community-based grassroots organizations

2. Development of inner cities

(a) Studies of reinvestment pressures

(b) Theories of capital/land/market failure that help to explain depopulation or disinvestment

(c) Government policies or market interventions that would alleviate these patterns

3. Regionalism and growth management

(a) The economic interdependence of cities and suburbs

(b) Rehabilitation and infill development

(c) Regional problem solving and coalition building

(d) Reinvestment in the urban core

(e) Impact of community economic development policies, programs, and initiatives

• Faith-Based and Other Community-Based Partnerships

1. Community development and community building

(a) Role of faith-based groups in low-income housing and community development efforts

(b) Faith-based and higher education community building efforts

2. Evaluation of college/community partnerships and institutionalizing these partnerships at colleges and universities

• Assisted Housing Programs

1. Affordability of rental housing

(a) Innovative partnerships or finance tools

(b) Cost-benefit analyses of alternative methods for providing housing assistance

(c) Effectiveness of voucher programs

(d) Evaluations of existing programs

2. Housing needs of the elderly and persons with disabilities

(a) Availability

(b) Design and Quality, including Accessibility

(c) Affordability

(d) Linked Services

3. Strategies for helping families in public and assisted housing make progress toward self-sufficiency and become homeowners.

• Colonias

1. How current housing policies determine the kinds of housing available

2. The perception of “community” in colonias

3. Evaluation of existing housing programs in colonias

(B) Eligible Applicants. You must be a currently enrolled and matriculated student who has been accepted into candidacy in an accredited doctoral program at an accredited institution of higher education and have a fully developed and approved dissertation proposal. You must provide documentation from your dissertation committee chair that:

(1) By the application due date, your dissertation proposal has been accepted by your full dissertation committee and you have been assigned a dissertation advisor;

(2) By September 1, 2002, you will have satisfactorily completed all other written and oral Ph.D. requirements, including all your examinations and defense of your proposal, except the dissertation; and

(3) It is realistic to believe that the dissertation can be completed within the two-year grant period.

In addition, you and your institution must meet all the applicable threshold requirements found in Section II(B) of the General Section of the SuperNOFA.

Note: Institutions which have had previously awarded Doctoral Dissertation Research Grants terminated for non-performance and have outstanding funds owed to HUD resulting from this determination will be excluded from competition for the Doctoral Dissertation Research Grant program until the outstanding funds are repaid.

(C) Eligible Activities. Your grant must support direct costs incurred in the timely completion of a dissertation. Eligible costs include stipends, computer software, the purchase of data, travel expenses to collect data; transcription services, and compensation for interviews. Six thousand dollars of the grant will be held back until you have completed your dissertation, had it approved by your committee, and submitted it to HUD.

(D) Ineligible Activities. Your grant may not be used to pay for tuition, computer hardware, or meals.

(E) Other Requirements. (1) Support from your university. Support from your university is required. Such support might include tuition waivers, office space, equipment, computer time, or similar items you might need in order to complete your dissertation. This support may not replace support or assistance that your institution would otherwise provide you.

(2) University sponsorship. The university shall enter into a Grant Agreement with HUD that provides for payment of the grant by HUD to the university and from the university to you, the approved applicant, and that further provides all required certifications and assurances. The university shall agree to provide as the Principal Investigator under the Grant Agreement a dissertation advisor or chair of the applicant's dissertation committee who shall supervise your work under the Grant Agreement.

(3) Progress reporting. You will be required to submit a report, at the end of the first year of your grant, on the progress you have made towards completion of the dissertation and the likelihood that you will complete it on time.

IV. Application Selection Process

HUD will conduct two types of review: a threshold review to determine your eligibility to apply; and a technical review to rate your application based on the rating factors in this section.

(A) Threshold Factors for Funding Consideration. Under this threshold review, your application can only be rated if the following standards are met:

(1) You are an eligible Ph.D. candidate, as defined in Section III(B) above and have provided a letter from your dissertation committee chair, in the format in Appendix A, confirming this;

(2) You have requested no more than the $25,000 grant maximum; and

(3) Your institution has agreed to provide some support to you as part of this grant.

(B) Factors for Award Used to Evaluate and Rate Applications. The factors for rating and ranking applicants, and maximum points for each factor, are provided below. The maximum number of points for this program is 100.

Rating Factor 1: Capacity To Do the Research (20 points)

In reviewing this factor, HUD will determine the extent to which your skills and experience are relevant to your proposed dissertation (e.g., course work, teaching, research projects, presentations). HUD will determine the extent to which you have undertaken appropriate preparation (e.g., selecting sites for data collection, identifying potential interviewees and categories of interviewees, pre-clearance on interviews) to undertake the dissertation. HUD will also determine the extent to which your previous research experience (e.g., graduate-level research projects, presentations at conferences, publications, etc.) is relevant to and supportive of your proposed dissertation.

Rating Factor 2: Need for Your Research (35 Points)

In reviewing this factor, HUD will determine the extent to which your dissertation will produce policy-relevant information that is directly related to one of the research priorities listed above (i.e., the research that will be produced could have an effect on HUD's strategic goals and HUD's programs and policies to achieve these goals—see the HUD Web site at http://www.hud.gov/about/budget/fy02/cjs/fy2002app.pdf for a discussion of these goals). The less directly related to one of these topics your dissertation is, the fewer points you will receive. For example, a study of minorities' housing choice decisions would have high relevance to HUD's strategic goals; a study of transportation inequities would have medium relevance; and a study of the effects of global warming on urban development would have low relevance.

Rating Factor 3: Soundness of Approach (35 Points)

In reviewing this factor, HUD will determine the extent to which your research design and methodology are likely to produce data and information that will successfully answer your research hypotheses. HUD will also evaluate the extent to which the methodology you propose to use is sound and generally accepted by the relevant research community. Reviewers will be looking at the extent to which you use standard methodological practices in line with research already completed or existing publications in the field related to your research questions.

HUD will also determine the extent to which your research design and methodology and plan for completion of the dissertation can be completed within the two-year grant period. Applications that propose extremely complex and time-consuming data collection efforts (e.g., major longitudinal studies or a very large number of sites visits within the two year grant period) will be determined to be less feasible of completion within the allowed time frame. For example, if you propose a methodology based on information that may not be publicly available until after the end of the two-year grant period (e.g., Census information), or a data collection plan that will take longer than the time you have allowed for it, you will get zero points.

Rating Factor 4: Dissemination of Your Dissertation (10 Points)

An important purpose of the DDRG Program is to fund research that will inform Federal problem-solving and policy making relating to housing and urban development. In reviewing this factor, HUD will evaluate the likelihood that your research will be ready and suitable for publication or presentation at policy conference by the end of the grant period. HUD will also evaluate your plans to disseminate your research though other means, e.g., seminars, your university's publications, or relevant internet list services.

(C) Selections. In order to be funded, you must receive a minimum score of 70 points. HUD will fund applications in rank order, until it has awarded all available funds. If two or more applications have the same number of points, the application with the most points for Factor 1, Relevance to HUD's Mission, shall be selected. If there is still a tie, the application with the most points for Factor 2, Quality of the Research Design, shall be selected.

After all application selections have been made, HUD may require that you participate in negotiations to determine the specific terms of the Statement of Work and the grant budget. In cases where HUD cannot successfully complete negotiations, or you fail to provide HUD with requested information, an award will not be made. In such instances, HUD may elect to offer an award to the next highest-ranking applicant, and proceed with negotiations with that applicant.

(D) Applicant Debriefing. Beginning not less than 30 days after the awards for assistance are announced in the Federal Register, and for not less than 120 days after awards for assistance are announced, HUD will provide a debriefing to any applicant requesting a debriefing on their application. All requests for debriefings must be made in writing and submitted to Armand Carriere of HUD's Office of University Partnerships Robert C. Weaver Building, 451 7th St. SW., Room 8106, Washington DC 20410. You may also write to Mr. Carriere via e-mail at Armand_W._Carriere@hud.gov.

V. Application Submission Requirements

You should include an original and one computer disk (in Word 6.0 or higher) of the items listed below. In order to be able to recycle paper, please do not submit applications in bound form; binder clips or loose leaf binders are acceptable. Also, please do not use colored paper. Please note the page limits for some of the items listed below and do not exceed them.

Your application must contain the items listed in this section and they must be included in the order shown here. There is no separate application kit for this program. These items include the standard forms, certifications, and assurances listed in the General Section of the SuperNOFA that are applicable to this funding (collectively referred to as the “standard forms”). The standard forms can be found in Appendix B to the General Section of the SuperNOFA. The remaining application, referred to as the “non-standard forms,” can be found as Appendix A to this program section of the SuperNOFA. The Catalog of Federal Domestic Assistance number for this program is 14.516 and is listed in the program chart in the General Section of the SuperNOFA. Sample documents are also included in this appendix. The items are as follows:

(A) SF-424, Application for Federal Assistance. Include the name and address of the person authorized to execute the grant agreement in Block 5. Include the institution's tax ID number in Block 6. The form should be signed by the appropriate university official.

(B) Table of contents of the application.

(C) Transmittal Letter, from you, containing the following information:

(1) Title of your dissertation;

(2) Your name, university and home addresses, university and home telephone and facsimile numbers, and email address;

(3) Your university's name, department, mailing address, telephone and facsimile numbers.

(4) Your dissertation advisor's name, address, telephone and facsimile numbers—this person will serve as the Principal Investigator for the grant.

(D) A statement from your dissertation advisor or chair of the dissertation committee that you have met all the eligibility criteria described in Section III(B) (see Appendix A for a sample).

(E) A statement from the appropriate official that describes your university's support, as described in Section III(E) (see Appendix B for a sample).

(F) An abstract of 500 words or less that addresses the following topics:

(1) Specific purpose of the dissertation;

(2) Methodology being used; and

(3) How you meet the eligibility criteria.

(G) A narrative of the proposed research, not to exceed 10 double-spaced typed pages. Do not submit your dissertation proposal itself. This narrative must include the following in the following order:

(1) Statement of the problem;

(2) Your capacity to do the research. (Include your resume, showing educational background, research experience, background in statistics and empirical research, computer experience, and background in housing and/or urban studies.)

(3) Need for the research;

(4) Approach (research design and methodology);

(5) Your plan for disseminating your research.

(H) A proposed budget (See Appendix C for a sample).

(I) Certifications. These forms must be signed by the doctoral candidate and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

(J) Acknowledgment of Receipt of Applications (HUD-2993). If you wish to confirm that HUD received your application, please complete this form. This form is optional.

VI. Environmental Requirements

The provision of assistance under this program is categorically excluded from environmental review under the National Environmental Policy Act of 1969 (42 U.S.C. 4321) and not subject to compliance actions for related environmental authorities under § 50.19(b)(1) and (b)(9).

VII. Authority

This program is being undertaken under HUD's research authority under Title V of the Housing and Urban Development Act of 1970.

Appendices A, B and C

The non-standard sample forms and letters, which follow, are required for your Doctoral Dissertation Research Grant application.

BILLING CODE 4210-32-P

[FR Doc. 02-6710 Filed 3-25-02; 8:45 am]

BILLING CODE 4210-32-C